FEDERAL COMMUNICATIONS COMMISSION

47 CFR Part 76

[MB Docket No. 05-49; FCC 05-187]

Implementation of the Satellite Home Viewer Extension and Reauthorization Act of 2004; Implementation of Section 340 of the Communications Act; Report and Order

AGENCY: Federal Communications Commission.

ACTION: Final rule.

SUMMARY: In this document, the Commission adopts final rules implementing section 202 of the Satellite Home Viewer Extension and Reauthorization Act of 2004 (“SHVERA”), which creates Section 340 of the Communications Act (“Act”), and amends the copyright laws in order to provide satellite carriers with the authority to offer Commission-determined “significantly-viewed” signals of out-of-market broadcast stations to subscribers. This document satisfies the statutory mandate to adopt rules for satellite carriage of significantly viewed signals by December 8, 2005.

DATES: Effective January 26, 2006.

FOR FURTHER INFORMATION CONTACT: For additional information on this proceeding, contact Evan Baranoff, Evan.Baranoff@fcc.gov of the Media Bureau, Policy Division, (202) 418-2120. For additional information concerning the Paperwork Reduction Act information collection requirements contained in this document, contact Cathy Williams, Federal Communications Commission, 445 12th St., SW., Room 1-C823, Washington, DC 20554, or via the Internet to Cathy.Williams@fcc.gov.

SUPPLEMENTARY INFORMATION: This is a summary of the Federal Communications Commission's Report and Order, FCC 05-187, adopted on November 2, 2005 and released on November 3, 2005. The full text of this document is available for public inspection and copying during regular business hours in the FCC Reference Center, Federal Communications Commission, 445 12th Street, SW., CY-A257, Washington, DC 20554. These documents will also be available via ECFS (http://www.fcc.gov/cgb/ecfs/). (Documents will be available electronically in ASCII, Word 97, and/or Adobe Acrobat.) The complete text may be purchased from the Commission's copy contractor, Best Copy and Printing, Inc., 445 12th Street, SW., Room CY-B402, Washington, DC 20554. To request this document in accessible formats (computer diskettes, large print, audio recording, and Braille), send an e-mail to fcc504@fcc.gov or call the Commission's Consumer and Governmental Affairs Bureau at (202) 418-0530 (voice), (202) 418-0432 (TTY).

Final Paperwork Reduction Act Analysis

This Report and Order contains modified information collection requirements, which were proposed in the NPRM, 70 FR 11314 (March 8, 2005), and are subject to the Paperwork Reduction Act of 1995 (“PRA”), Public Law 104-13, 109 Stat 163 (1995). These information collection requirements were submitted to the Office of Management and Budget (OMB) for review under section 3507(d) of the PRA and approved by OMB on May 25, 2005. In addition, the general public and other Federal agencies were invited to comment on these information collection requirements in the NPRM. We further note that pursuant to the Small Business Paperwork Relief Act of 2002, we previously sought specific comment on how the Commission might “further reduce the information collection burden for small business concerns with fewer than 25 employees.” We received no comments concerning these information collection requirements. On June 16, 2005, the Commission announced that it had obtained OMB approval for these information collection requirements, encompassed by OMB Control Nos. 3060-0311, 3060-0888, and 3060-0960. This Report and Order adopts the following information collection requirements, as proposed in the NPRM.

OMB Control Number: 3060-0311.

OMB Approval Date: 05/25/05.

OMB Expiration Date: 05/31/08.

Title: 47 CFR 76.54, Significantly Viewed Signals; Method to be Followed for Special Showings.

Form Number: Not applicable.

Type of Review: Revision of a currently approved collection.

Respondents: Business or other for-profit entities.

Number of Respondents: 500.

Frequency of Response: On occasion reporting requirement; Third party disclosure requirement.

Estimated Time Per Response: 1-15 hours (average).

Total Annual Burden: 20,610 hours.

Total Annual Costs: $200,000.

Privacy Impact Assessment: No impact(s).

Needs and Uses: 47 CFR 76.54(b) provides for cable operators and broadcast stations seeking cable carriage of “significantly viewed” signals to use the § 76.7 petition process to demonstrate “significantly viewed” status on a community basis by independent professional audience surveys. The rule changes require satellite carriers or broadcast stations seeking satellite carriage of “significantly viewed” signals to use the same petition process now in place for cable operators, as required by 47 CFR 76.5, 76.7 and 76.54 of the FCC's rules.

47 CFR 76.54(c) is used to notify interested parties, including licensees or permittees of television broadcast stations, about independent professional audience surveys that are being conducted by an organization to demonstrate that a particular broadcast station is eligible for significantly viewed status under the Commission's rules. The notifications provide interested parties with an opportunity to review survey methodologies and file objections. The existing notification requirement in § 76.54(c) is retained, however, the rule changes will increase the potential number of parties that would file such notifications.

47 CFR 76.54(d) provides for cable operators and broadcast stations seeking cable carriage of “significantly viewed” signals to use the § 76.7 petition process to demonstrate “significantly viewed” status. The rule changes will expand use of the § 76.7 petition process to include petitions filed by satellite carriers or broadcast stations seeking satellite carriage of “significantly viewed” signals.

47 CFR 76.54(e) and (f) are additions to the rule. These rules will be used to notify television broadcast stations about the retransmission of significantly viewed signals by a satellite carrier into these stations' local market.

OMB Control Number: 3060-0888.

OMB Approval Date: 05/25/05.

OMB Expiration Date: 05/31/08.

Title: Part 76, Multichannel Video and Cable Television Service; Pleading and Complaint Rules; 47 CFR 76.7 Petition Procedures.

Form Number: Not applicable.

Type of Review: Revision of a currently approved collection.

Respondents: Business or other for-profit entities.

Number of Respondents: 500.

Frequency of Response: On occasion reporting requirement; Third party disclosure requirement.

Estimated Time Per Response: 4-60 hours (average).

Total Annual Burden: 16,000 hours.

Total Annual Costs: $200,000.

Privacy Impact Assessment: No impact(s).

Needs and Uses: 47 CFR 76.7 is used to make determinations on petitions and complaints filed with the Commission. The rule is used for numerous types of petitions and special relief petitions, including general petitions seeking special relief, waivers, enforcement, show cause, forfeiture and declaratory ruling procedures. The rule changes will expand use of the § 76.7 petition process to include the filing of complaints under the section 340 of the Act enforcement provisions. Thus, the rule changes will expand the potential number of parties and situations that may require the filing of § 76.7 petitions.

OMB Control Number: 3060-0960.

OMB Approval Date: 05/25/05.

OMB Expiration Date: 05/31/08.

Title: 47 CFR 76.122, Satellite Network Non-duplication Protection Rules; 47 CFR 76.123, Satellite Syndicated Program Exclusivity Rules; 47 CFR 76.124, Requirements for Invocation of Non-duplication and Syndicated Exclusivity Protection; 47 CFR 76.127, Satellite Sports Blackout Rules.

Form Number: Not applicable.

Type of Review: Revision of a currently approved collection.

Respondents: Business or other for-profit entities.

Number of Respondents: 1,428.

Frequency of Response: On occasion reporting requirement; Third party disclosure requirement.

Estimated Time Per Response: 0.5-1 hour (average).

Total Annual Burden: 12,402 hours.

Total Annual Costs: $0.

Privacy Impact Assessment: No impact(s).

Needs and Uses: 47 CFR 76.122, 76.123, 76.124 and 76.127 are used to protect exclusive contract rights negotiated between broadcasters, distributors, and rights holders for the transmission of network, syndicated, and sports programming in the broadcasters' recognized market areas. The rule changes to §§ 76.122 and 76.123 will implement statutory requirements to provide new rights for in-market stations to assert nonduplication and exclusivity rights, potentially increasing the number of filings pursuant to these rules. No changes to §§ 76.124 and 76.127 are made.

Summary of the Report and Order

I. Introduction

1. With this Report and Order (“R&O”), we adopt rules to implement section 202 of the Satellite Home Viewer Extension and Reauthorization Act of 2004 (“SHVERA”), Public Law 108-447, sec. 202, 118 Stat 2809, 3393 (2004) (codified at 47 U.S.C. 340). (The SHVERA was enacted on December 8, 2004 as title IX of the “Consolidated Appropriations Act, 2005.” This proceeding to implement section 202 of the SHVERA (entitled “Significantly Viewed Signals Permitted To Be Carried”) is one of many Commission proceedings required to implement the SHVERA. The other proceedings are being undertaken and should be largely completed by the end of this year. (See sections 202, 204, 205, 207, 208, 209 and 210 of the SHVERA; see also Implementation of Section 207 of the Satellite Home Viewer Extension and Reauthorization Act of 2004; Reciprocal Bargaining Obligation, MB Docket No. 05-89, Report and Order, FCC 05-119 (rel. Jun. 7, 2005) (“Reciprocal Bargaining Order”) (adopting rules to implement section 207 of the SHVERA and impose a reciprocal good faith retransmission consent bargaining obligation on multichannel video programming distributors); Implementation of Section 210 of the Satellite Home Viewer Extension and Reauthorization Act of 2004 to Amend Section 338 of the Communications Act, MB Docket No. 05-181, FCC 05-159 (rel. Aug. 23, 2005) (implementing section 210 of the SHVERA and requiring satellite carriers to carry both the analog and digital signals of television broadcast stations in local markets in noncontiguous states); Implementation of the Satellite Home Viewer Extension and Reauthorization Act of 2004, Procedural Rules, 70 FR 21669-01 (April 27, 2005) (“Procedural Rules Order”) (adopting procedural rules required by sections 202, 205, and 209 of the SHVERA); Public Notice, “Media Bureau Seeks Comment For Inquiry Required By the on Rules Affecting Competition In the Television Marketplace,” MB Docket No. 05-28, 70 FR 11314-01 (March 8, 2005) (opening inquiry required by section 208 of the SHVERA concerning the impact of certain rules and statutory provisions on competition in the television marketplace)). Section 202 of the SHVERA created section 340 of the Communications Act of 1934, as amended (“Communications Act” or “Act”), which provides satellite carriers with the authority to offer Commission-determined “significantly viewed” signals of out-of-market (or “distant”) broadcast stations to subscribers. Within 60 days of enactment, the SHVERA required the Commission to (1) publish and maintain a list of stations eligible for “significantly viewed” status and the related communities (as determined by the Commission) (see 47 U.S.C. 340(c)(1)(A)(i)), and (2) commence a rulemaking proceeding to implement section 340, thus enabling satellite carriage of such “significantly viewed” signals (47 U.S.C. 340(c)(1)(A)(ii)). These mandates were satisfied by the Commission's Notice of Proposed Rulemaking (“NPRM”) in this proceeding) (See Implementation of the Satellite Home Viewer Extension and Reauthorization Act of 2004, 70 FR 11314 (Mar. 8, 2005) (“NPRM”)). We received 49 comments (from 46 commenters) and six replies in response to our NPRM. With this R&O, we satisfy the SHVERA's mandate that the Commission adopt rules implementing section 340 within one year of the statute's enactment (47 U.S.C. 340(c)(1)(B)). We have already adopted some rules to implement new section 340(h).

2. With the SHVERA, Congress took another step toward “moderniz[ing] satellite television policy and enhanc[ing] competition between satellite and cable operators. There was no final Report issued to accompany the bill as it was enacted. (See House Bill, H.R. 4818, 108th Cong. (2004) (enacted)). Therefore, we look to the House Commerce Committee Report accompanying the House Bill, H.R. 4501, for the relevant legislative history for section 202 of the SHVERA. Although certain changes were made to H.R. 4501 before it was enacted, the House Commerce Committee Report language remains relevant with respect to those provisions such as section 202 that were unchanged. Also relevant in terms of the SHVERA legislative history, particularly as it relates to the changes in the copyright laws in 17 U.S.C. 119, is the House Judiciary Committee Report dated September 7, 2004, accompanying House Bill, H.R. 4518, 108th Cong. (2004), H.R. Rep. No. 108-660 (2004) (“House Judiciary Committee Report”). Finally, also relevant are certain remarks made in “floor statements” by Rep. Joe Barton (Chairman, House Energy and Commerce Committee) and Rep. Fred Upton, (Chairman, House Subcommittee on Telecommunications and the Internet) regarding H.R. 4518, 108th Cong. (2004). H.R. 4518 was amended to combine its copyright provisions with the Communications Act provisions of H.R. 4501 pursuant to a compromise between the House Energy and Commerce Committee and the House Judiciary Committee. (See The Honorable Joe Barton, Chairman, House Energy and Commerce Committee, “Floor Statement” (dated Oct. 6, 2004) to H.R. 4518 (The Satellite Home Viewer Extension and Reauthorization Act of 2004) (“Barton Floor Statement”); The Honorable Fred Upton, Chairman, House Subcommittee on Telecommunications and the Internet, “Floor Statement” (dated Oct. 6, 2004) to H.R. 4518 (The Satellite Home Viewer Extension and Reauthorization Act of 2004) (“Upton Floor Statement”). The SHVERA adopted for satellite carriers and subscribers the concept of “significantly viewed” signals, which has applied in the cable context for more than 30 years. In 1972, the Commission adopted the concept of “significantly viewed” signals to differentiate between otherwise out-of-market television stations “that have sufficient audience to be considered local and those that do not;” see Cable Television Report and Order, 36 FCC 2d 143, 174, para. 83 (1972) (“1972 R&O”). The Commission concluded at that time that it would not be reasonable if choices on cable were more limited than choices over the air, and gave cable carriage rights to out-of-market stations in communities where they had significant over-the-air (non-cable) viewing.¹ At the time the Commission adopted the significantly viewed rules, the cable television carriage rules were generally based on mileage zones from the relevant stations. A television station was generally considered “local” for cable carriage purposes if the relevant community served was within 35 miles of the station's city of license or within its Grade B contour but not within the 35 mile zone of another market. Cable system carriage of significantly viewed stations, however, was based on audience viewership levels in the relevant communities rather than by strict mileage zones. This afforded significantly viewed stations carriage when they otherwise would have been considered distant stations. (See 1972 R&O, 36 FCC 2d 143; Memorandum Opinion and Order on Reconsideration of the Cable Television Report and Order, 36 FCC 2d 326 (1972) (“1972 Recon Order”); 47 CFR 76.5(i) (defining “significantly viewed” as “Viewed in other than cable television households as follows: (1) For a full or partial network station—a share of viewing hours of at least 3 percent (total week hours), and a net weekly circulation of at least 25 percent; and (2) for an independent station—a share of viewing hours of at least 2 percent (total week hours), and a net weekly circulation of at least 5 percent”); 47 CFR 76.54).

3. The copyright provisions that apply to cable systems have recognized the Commission's designation of stations as “significantly viewed” and treated them, for copyright purposes, as “local,” and therefore subject to reduced copyright payment obligations. (See 17 U.S.C. 111(a), (c), and (f)). The copyright provisions governing satellite carriers did not, however, provide a statutory copyright license for significantly viewed signals, and such signals were not, as a practical matter, generally available via satellite distribution outside of their Designated Market Areas (“DMAs”). (See 17 U.S.C. 119 (statutory copyright license for satellite carriage of “distant” network stations, limited to “unserved households”) and 17 U.S.C. 122 (statutory copyright license for satellite carriage of “local” stations, defined as stations and subscribers in the same Designated Market Area)). Recognizing that the reach of a station's over-the-air signal is not constrained by the boundary of a DMA, the SHVERA allowed a satellite carrier to treat a signal as “local” in a community where such signal is “significantly viewed” by consumers in that community. A DMA generally identifies a television station's “local market.” Section 340(i)(1), as established by the SHVERA, defined the term “local market” using the definition contained in 17 U.S.C. 122(j)(2) (“The term ‘local market’, in the case of both commercial and noncommercial television broadcast stations, means the designated market area in which a station is located, and—(i) in the case of a commercial television broadcast station, all commercial television broadcast stations licensed to a community within the same designated market area are within the same local market; and (ii) in the case of a noncommercial educational television broadcast station, the market includes any station that is licensed to a community within the same designated market area as the noncommercial educational television broadcast station.” In this way, the statutory provisions governing satellite carriage of broadcast stations move closer to the provisions that have long governed cable carriage.

II. Summary

4. The following are the key rule changes and conclusions adopted by this R&O.

• We adopt the Significantly Viewed List (“SV List”) published in the NPRM as the final SV List, changed only to correct errors appropriately demonstrated by commenters. The SV List will be published as Appendix C to the Report and Order. Moreover, this SV List will be made available to the public on our Web site, and we will update this list within 10 business days if it is modified in the future. [IV.A.1.]

• We will apply § 76.54 of our rules to satellite carriers. Revised § 76.54 will now reference satellite carriers and the new SV List, but will not alter the procedures as in effect on April 15, 1976. Thus, we now require satellite carriers or broadcast stations seeking significantly viewed status to follow the same petition process in place for cable operators, as required by §§ 76.5, 76.7 and 76.54 of our rules. [IV.A.3.]

• With respect to the application of the Commission's network non-duplication and syndicated exclusivity rules to the carriage of significantly viewed stations, we implement the SHVERA provision to create a limited right for a station or distributor to assert exclusivity with respect to a station carried by a satellite carrier as significantly viewed; allow that significantly viewed station to assert the significantly viewed exception, just as a station would with respect to cable carriage; and allow the station or distributor asserting exclusivity to petition us for a waiver from the exception. Under this rule, stations are not removed from the SV List, but rather blackout deletions may be imposed. [IV.A.5.]

• A satellite carrier may create a new community for purposes of the SV List by reference to an existing community as a separate and distinct community or municipal entity (e.g., political jurisdiction, incorporated city or town); however, in the absence of a separate and distinct community or municipal entity (e.g., an unincorporated area), a satellite community may be defined by one or more adjacent five-digit zip code areas. [IV.A.6.]

• We find that sections 340(b)(1) and (2) require that a subscriber must receive a specific local network station as part of local-into-local service in order to be eligible to receive a significantly viewed station that is affiliated with the same network as the local station, subject to the statutory exemption in markets in which a particular network affiliate does not exist or in which the waiver provisions in section 340(b)(4) apply. [IV.B.2. and IV.B.3.]

• As a condition to offering a significantly viewed digital signal, satellite carriers must comply with the “equivalent bandwidth” and “entire bandwidth” requirements, which permit satellite carriage of a significantly viewed station only if the amount of bandwidth used to carry such station is equivalent to the amount of bandwidth used to carry the signal or signals of the affiliated local network station, or the entire amount of bandwidth used by the local station. [IV.B.3.]

• We affirm our tentative conclusion that determinations of bad faith or frivolousness will be made on a case-by-case basis. We will use our existing procedures for Petitions for Special Relief as the procedural framework for complaints concerning significantly viewed status. [IV.D.1.]

III. Background

A. Satellite Home Viewer Act (SHVA)

5. In 1988, Congress passed the Satellite Home Viewer Act (“1988 SHVA”) (The Satellite Home Viewer Act of 1988, Public Law 100-667, 102 Stat. 3935, Title II (1988) (codified at 17 U.S.C. 111, 119). The 1988 SHVA was enacted on November 16, 1988, as an amendment to the copyright laws. The 1988 SHVA gave satellite carriers a statutory copyright license to offer distant signals to “unserved” households. 17 U.S.C. 119(a)), which established a statutory copyright license for satellite carriers to offer subscribers, who could not receive the signal of a broadcast station over the air, access to broadcast programming via satellite. The 1988 SHVA reflected Congress' intent to protect the role of local broadcasters in providing over-the-air television by limiting satellite delivery of network broadcast programming to subscribers who were “unserved” by over-the-air signals. The 1988 SHVA also permitted satellite carriers to offer distant “superstations” to subscribers. (See 17 U.S.S. 119(a)(1)). A superstation is defined as a television station, other than a network station, licensed by the Commission that is retransmitted by a satellite carrier. Thus, superstations are not considered “network stations” for copyright purposes.

B. Satellite Home Viewer Improvement Act of 1999 (SHVIA)

6. In 1999, in the Satellite Home Viewer Improvement Act (“SHVIA”) (The Satellite Home Viewer Improvement Act of 1999, Public Law 106-113, 113 Stat. 1501 (1999) (codified in scattered sections of 17 and 47 U.S.C.). The SHVIA was enacted on November 29, 1999, as Title I of the Intellectual Property and Communications Omnibus Reform Act of 1999 (“IPACORA”) (relating to copyright licensing and carriage of broadcast signals by satellite carriers)), Congress expanded on the 1988 SHVA by amending both the copyright laws (17 U.S.C. 119 and 122) and the Communications Act (47 U.S.C. 325, 338 and 339) to permit satellite carriers to retransmit local broadcast television signals directly to subscribers. The Commission implemented the SHVIA by adopting rules for satellite carriers with regard to carriage of broadcast signals, retransmission consent, and program exclusivity that paralleled the requirements for cable service. (See Implementation of the Satellite Home Viewer Improvement Act 1999: Broadcast Signal Carriage Issues, Retransmission Consent Issues, 65 FR 40564-01 (June 30, 2000) (“SHVIA Signal Carriage Order”); Technical Standards for Determining Eligibility For Satellite-Delivered Network Signals Pursuant To the Satellite Home Viewer Improvement Act, 15 FCC Rcd 24321 (2000); Implementation of the Satellite Home Viewer Improvement Act of 1999: Application of Network Non-Duplication, Syndicated Exclusivity, and Sports Blackout Rules To Satellite Retransmissions of Broadcast Signals, 15 FCC Rcd 21688 (2000) (“Satellite Exclusivity Order”); Implementation of the Satellite Home Viewer Improvement Act of 1999, Enforcement Procedures for Retransmission Consent Violations, 65 FR 68082-01 (November 14, 2000); Implementation of the Satellite Home Viewer Improvement Act of 1999, Retransmission Consent Issues: Good Faith Negotiation and Exclusivity, 65 FR 15559-02 (March 23, 2000)).

7. A key element of the SHVIA was to provide satellite carriers with a statutory copyright license to facilitate the retransmission of local broadcast programming, or “local-into-local” service, to subscribers. A satellite carrier provides “local-into-local” service when it retransmits a local television signal back into the local market of that television station for reception by subscribers. (See 47 CFR 76.66(a)(6)). Generally, a television station's “local market” is the DMA in which it is located. (See 17 U.S.C.122(j)(2)(A); 47 U.S.C. 340(i)(1)). DMAs, which describe each television market in terms of a unique geographic area, are established by Nielsen Media Research based on measured viewing patterns. Each satellite carrier providing local-into-local service pursuant to the statutory copyright license is generally obligated to carry any qualified local television station in the particular DMA that has made a timely election for mandatory carriage, unless the station's programming is duplicative of the programming of another station carried by the carrier in the DMA or the station does not provide a good quality signal to the carrier's local receive facility. (See 47 U.S.C. 338). This is commonly referred to as the “carry one, carry all” requirement.

C. Satellite Home Viewer Extension and Reauthorization Act of 2004 (SHVERA)

8. In December 2004, Congress passed and the President signed the SHVERA, which again amended the 1988 copyright laws and the Communications Act to further aid the competitiveness of satellite carriers and expand program offerings for satellite subscribers. Specifically, SHVERA distinguished between out-of-market (i.e., “significantly viewed”) signals and truly “distant” signals for purposes of the statutory copyright licenses in sections 119 and 122 of title 17. The SHVERA established a copyright license that gives satellite carriers the option to offer Commission-determined “significantly viewed” signals to subscribers. Section 102 of the SHVERA extended the statutory copyright license contained in 17 U.S.C. 119(a) to “apply to the secondary transmission of the primary transmission of a network station or a superstation to a subscriber who resides outside the station's local market * * * but within a community in which the signal has been determined by the Federal Communications Commission, to be significantly viewed in such community, pursuant to the rules, regulations, and authorizations of the Federal Communications Commission in effect on April 15, 1976, applicable to determining with respect to a cable system whether signals are significantly viewed in a community.” (See 17 U.S.C. 119(a)(3)(A)).

IV. Discussion

9. The SHVERA created section 340 of the Communications Act and expanded the statutory copyright license for satellite carriers to establish the framework for satellite carriage of Commission-determined “significantly viewed” signals; section 102 of the SHVERA amends 17 U.S.C. 119(a) to create new subsection (a)(3), entitled “secondary transmissions of significantly viewed signals.” Section 202 of the SHVERA amends the Communications Act to create a new section 340, entitled “Significantly Viewed Signals Permitted To Be Carried.” As required by the SHVERA, we opened this proceeding on February 7, 2005 with the release of the NPRM. In the NPRM, we published the existing list of significantly viewed stations and sought comment on implementation of section 340 and the specific rule proposals and tentative conclusions contained in the NPRM.

A. Station Eligibility For Satellite Carriage as “Significantly Viewed”

10. In the NPRM, we considered which stations are now eligible for “significantly viewed” status in which communities pursuant to the statutory copyright license contained in 17 U.S.C. 119(a). We also considered how stations and the related communities can be added to the list of significantly viewed stations (“SV List”). We discussed the interplay of the section 340 requirements with the Commission's network non-duplication and syndicated exclusivity rules and considered how to define a satellite community.

1. Significantly Viewed Stations and Related Communities

11. Section 340(a) of the Act requires the Commission to determine which stations a satellite carrier can retransmit as significantly viewed, as well as which subscribers in which communities can receive these stations. Section 340(a) of the Act, as created by the SHVERA, authorizes a satellite carrier “to retransmit to a subscriber located in a community the signal of any station located outside the local market in which such subscriber is located, to the extent such signal: (1) Has, before the date of enactment of the Satellite Home Viewer Extension and Reauthorization Act of 2004, been determined by the Federal Communications Commission to be a signal a cable operator may carry as significantly viewed in such community, except to the extent that such signal is prevented from being carried by a cable system in such community under the Commission's network non-duplication and syndicated exclusivity rules; or (2) is, after such date of enactment, determined by the Commission to be significantly viewed in such community in accordance with the same standards and procedures concerning shares of viewing hours and audience surveys as are applicable under the rules, regulations, and authorizations of the Commission to determining with respect to a cable system whether signals are significantly viewed in a community.” Section 340(a)(1) confers “significantly viewed” status in the satellite context to a station, and the communities in which the station has been determined by the Commission to be “significantly viewed” in the cable television context. Section 340(a)(2) provides for future determinations of a station's “significantly viewed” status by the Commission, consistent with the Commission's existing rules and procedures for cable television. There is no statutory limit on the number of significantly viewed signals a satellite carrier may carry. (See 47 U.S.C. 340(a), which states that satellite carriers may retransmit such signals “[i]n addition to the broadcast signals that subscribers may receive under section 338 [governing carriage of local signals] and 339 [governing carriage of distant signals].”). The exemption for significantly viewed signals is necessary because section 339 of the Communications Act (47 U.S.C. 339) prohibits a satellite carrier from providing a household with the signals of more than two distant affiliates of a particular network per day.

12. Section 340(c) of the Act directs the Commission to publish and maintain a unified list of stations, and the communities in which such stations are considered “significantly viewed,” that will apply to both cable operators and satellite carriers. In the NPRM, we compiled and published a list of stations that have been determined to be significantly viewed in specified counties and communities pursuant to the Commission's cable television rules. (See § 76.54 of our rules describes the basis for deeming a station's signal “significantly viewed;” 47 CFR 76.54; 47 CFR 76.5(i)). This SV List, which was attached to the NPRM as Appendix B, identified these stations, counties and communities, combining the Commission's original 1972 list of significantly viewed stations by county with stations added on a county or community-wide basis over the intervening years. The Commission's initial list of significantly viewed stations was released in 1972. The SV List also includes stations granted significantly viewed status subsequent to 1972. The SV List indicates by a plus sign (+) those that have been added to the 1972 list after its publication to distinguish them from those stations and communities derived from the original 1972 list. Although we do not believe that this distinction is meaningful, for informational purposes we have retained this designation for the final SV List.

13. We sought comment on the SV List to solicit corrections and have changed the list only to correct errors appropriately demonstrated by commenters. Pursuant to section 340(c), this SV List will be available to the public on our website (http://www.fcc.gov/mb), and we will update this list within 10 business days if we modify it in the future. Section 340(c)(2) requires that the Commission “make readily available to the public in electronic form, on the Internet website of the Commission or other comparable facility, a list of the stations that are eligible for retransmission under subsection (a) and the communities in which such stations are eligible for such retransmission. The Commission shall update such list within 10 business days after the date on which the Commission issues an order making any modification of such stations and communities.”

14. Some stations on the SV List have been the subject of petitions resulting in program deletions based on network non-duplication or syndicated exclusivity. The SV List indicates by a pound sign (#) the stations and related communities subject to programming deletions. The exclusivity rules permit a station or syndicator that has exclusive rights to network or syndicated programming to prohibit a cable operator from carrying such programming on another station. The exclusivity rules are subject to an exception if the station in question is significantly viewed. This exception is, in turn, subject to waiver if the party petitioning for the programming deletion shows that the station is no longer significantly viewed. (See 47 CFR 76.92, 76.101 and 76.106; see also KCST Petition for Special Relief, 103 FCC 2d 407 (1986) (“KCST”)). Cable operators and satellite carriers must be aware of these required programming deletions (“blackouts”) and abide by them in their carriage of these stations in the communities so indicated. (See 47 CFR 76.122 and 123; see infra section IV.A.5). Since releasing the NPRM, we have granted one pending request for programming deletion based on the network nonduplication and syndicated exclusivity rules (CSR-6383-N (subjecting Station WAVE-TV (NBC, Channel 3), Louisville, Kentucky to programming deletions if carried in the community of Columbia, Kentucky) and we have updated the SV List accordingly.

15. In the NPRM, we acknowledged that the SHVERA allowed satellite carriers to immediately begin using the SV List to expand their carriage offerings so that their subscribers could start experiencing the benefits of the SHVERA as soon as possible. We permitted satellite carriers to rely on the SV List's accuracy to commence service, consistent with the other requirements set out in the SHVERA and this proceeding, prior to the adoption of a final list. Cable operators have been relying on this SV List for more than 30 years. We agree with EchoStar that “the significantly viewed provision is self executing.” NAB, in an ex parte, expressed concern that DBS operators were providing notices to stations of their intent to carry significantly viewed stations. We note that use of the list must be consistent with the other requirements set out in the SHVERA and this proceeding. This decision was consistent with Congress' intent. Cable operators have been relying on this SV List for more than 30 years. We agree with EchoStar that “the significantly viewed provision is self executing.” EchoStar at 2. NAB, in an ex parte, expressed concern that DBS operators were providing notices to stations of their intent to carry significantly viewed stations. We note that use of the list must be consistent with the other requirements set out in the SHVERA and this proceeding. We published the SV List with the NPRM in accordance with the SHVERA's mandate in new section 340(c)(1)(A)(i). The purpose of the SV List is to identify “the stations that are eligible” for significantly viewed status, meaning those stations already determined to be significantly viewed by the Commission. The House Commerce Committee intended that the Commission publish the SV List within 180 days of enactment, and provided for “interim eligibility” for stations on the list. The intent was for satellite carriers to “start carrying the signals on the list pending adoption of the rules.” Although the “interim eligibility” language did not survive, the enacted provision required even faster publication of the SV List (i.e., within 60 days). This indicates Congress' intent to permit immediate use of the SV List upon publication; (See Barton Floor Statement at 2 (satellite carriers authorized to carry significantly viewed signals “upon enactment”)). To the extent necessary, satellite carriers must now come into compliance with our final rules when they become effective.

2. Accuracy of SV List

16. In the NPRM, we asked interested parties to confirm the accuracy of the SV List. Our request for comment, however, was limited to “whether the SV List accurately reflects such existing significantly viewed determinations, and not about whether the SV List should be modified because of a change in a station's circumstances subsequent to its placement on the SV List.” We received numerous comments about the accuracy of the SV List; however, only a handful of these comments offered evidence of specific errors.

17. To the extent that commenters are seeking specific additions or deletions to the list absent proof that these stations were or were not previously determined by the Commission to be significantly viewed, we reject these comments for failing to comply with § 76.54 of our rules. Moreover, we also agree with EchoStar that these comments are beyond the scope of this proceeding. The SHVERA created a mechanism for parties to subsequently seek modification of the SV List. (See 47 U.S.C. 340(c)(3)). Requests to modify the SV List based on changed circumstances must follow this process. Therefore, requests for modification that fail to demonstrate an existing error to the list or fail to offer documentary evidence supporting the requested correction are rejected. We note that the only parties originally eligible to request that we declare a station significantly viewed were the station itself, or the cable operator. Satellite carriers will now be included as eligible parties.

18. We will correct the SV List based on comments by DIRECTV, WGAL and WHEC-TV. We will also address the corrections proposed by the comments of Saga and Saga Quad, although we reject their request.

19. DIRECTV. The SV List is corrected, pursuant to DIRECTV's comments, to reflect new call letters for certain stations. Staff review of Commission records indicates that, with respect to the stations questioned by DIRECTV, all but three of these stations' call letters have been changed since the time they were added to the list. The new call letters of these stations will now be reflected on the list, with a notation of the former call letters for consistency. The three stations that were not among this group, WJJY (Channel 14, Jacksonville, IL), KVFD (Channel 21, Fort Dodge, IA) and KFIZ (Channel 34, Fond du Lac, WI), have apparently gone dark and a notation has been made on the list to reflect this. There were 22 changes in station call letters.

20. In addition, we resolve two questions raised by DIRECTV: (1) Whether station WTCT, Channel 27, Marion, Illinois should be listed as significantly viewed for Marshall County, Kentucky and not Marshall County, Illinois; and (2) whether station KSAS-TV, Channel 24, Wichita, Kansas should be listed as significantly viewed in Butler County, Kentucky as well as Butler County, Kansas. Staff review of Commission records indicates that, by letter dated May 24, 1995, the Consumer Protection Division of the former Cable Services Bureau granted significantly viewed status to WTCT-TV in Marshall County, Illinois. Further, by letters dated February 18, 1998, the Consumer Protection Division of the former Cable Services Bureau granted significantly viewed status to KSAS-TV in both Butler County, Kansas and Butler County, Kentucky. Therefore, our list is correct with respect to these questions. Finally, we correct 12 typographical errors pointed out by DIRECTV.

21. WHEC-TV. The SV List is corrected, pursuant to WHEC-TV's comments, to reflect that stations WCBS-TV, WNBC, WNYW, WABC-TV and WWOR-TV are not significantly viewed for the city of Rochester, NY, but rather are significantly viewed for the town of Rochester, located in Ulster County, New York. Staff review of Commission records indicates that, by letter dated March 8, 1990, the Chief of Video Services Division, Mass Media Bureau, granted Simmons Communications Company's request to declare the above-listed stations significantly viewed for the Villages of Ellenville and Woodridge, NY, and the towns of Wawarsing, Rochester, Fallsburg, and Mamakating, NY.

22. WGAL. The SV List is also corrected, pursuant to WGAL's comments, to delete all references to WKBS-TV, Channel 47, Altoona, PA, as being significantly viewed in the counties of Berks, Bucks, Chester, Delaware, Montgomery and Philadelphia, PA; the communities of East Hempfield Township, East Lampeter Township, East Petersburg, Lancaster, Lancaster Township, Manheim Township, Manor Township, Millersville, Mountville, West Hempfield Township and West Lampeter Township; the counties of Atlantic, Burlington, Camden, Cape May, Cumberland, Gloucester, Mercer and Salem, NJ; and New Castle County, DE. Staff review of Commission records confirms that WKBS-TV is currently the satellite of station WPCB-TV, Greensburg, PA, and did not become operational until 1985. Television broadcast station WGTW, Channel 48, Philadelphia, PA is the successor to the station that originally had the call sign “WKBS-TV” and that was granted significantly viewed status for the named counties on the basis of the 1971-1972 surveys and in the named communities based on community-specific surveys after 1972. Although WGTW itself went dark for a period of time, it nonetheless retains the significantly viewed status originally granted to WKBS-TV. Accordingly, we will list WGTW as significantly viewed, and delete all references to WKBS-TV, for the named counties and communities.

23. Saga and Saga Quad. We reject the corrections to the SV List proposed by Saga Broadcasting, LLC (“Saga”) and Saga Quad States Communications, LLC (“Saga Quad”). We disagree with Saga and Saga Quad that errors were made in 1972 with respect to the following counties: Greenville, MS; Pittsburg, KS/Joplin, MO; and Victoria, TX. Staff review of the Commission's records indicates that the 1971-1972 survey data relied upon in the publication of the 1972 significantly viewed list was accurately performed in accordance with § 76.54 of the rules. More specifically, the data for each station indicated by Saga and Saga Quad was double-checked to ensure that the 1971-1972 audience statistics demonstrated that the criteria for significantly viewed status were met, that the 1972 significantly viewed list correctly reflected the survey results, that the significant viewing list was consistent with these documents and they were found to support the station's inclusion on the significantly viewed list. Moreover, we do not find Saga's request to use current Nielsen data as a means of deletion to be acceptable. We agree with the comments of Mission Broadcasting (KOLR), Meredith Corporation (KCTV) and Media General Communications, Inc. (WJTV), that the Saga submissions do not comply with the § 76.54 petition process and exceed the scope of this proceeding. As a result, Saga's and Saga Quad's requests for deletion are rejected.

3. Procedures for Determining or Modifying Significantly Viewed Status

24. Section 340(c) provides a procedure for modifying the SV List with respect to satellite carriers, either to add eligible stations or communities, or to restrict carriage of eligible stations through application of the Commission's network non-duplication or syndicated exclusivity rules. (See 47 U.S.C. 340(c)(3) requires that the Commission “permit a satellite carrier to petition for decisions and orders—(A) by which stations may be added to those that are eligible for retransmission under subsection (a), and by which communities may be added in which such stations are eligible for such retransmission; and (B) by which network non-duplication or syndicated exclusivity regulations are applied to the retransmission in accordance with subsection (e).”). This provision permits a satellite carrier or station to petition the Commission to include a particular station and related community on the significantly viewed list. Section 119(a)(3) of the copyright provisions in title 17 requires that the Commission use the same rules in considering such petitions that were in effect as of April 15, 1976. In the NPRM, we described the existing rules in place for cable carriage and proposed rule amendments to implement the SHVERA's requirements for satellite carriage.

25. As proposed in the NPRM, we amend § 76.54 to apply the rule to satellite carriers. As intended by Congress (17 U.S.C. 119(a)(3)); House Commerce Committee Report at 1 (purpose of the SHVERA includes “increasing regulatory parity by extending to satellite carriers the same type of authority cable operators already have to carry ‘significantly viewed' signals into a market”), this provision—essentially unchanged since April 15, 1976 (no changes were made to the procedures as in effect on April 15, 1976)—will now govern the process for qualifying new signals for significantly viewed status in both the cable and satellite context. Revised § 76.54 will now reference satellite carriers and the new SV List, but will not alter the procedures as in effect on April 15, 1976. The rules will operate for satellite carriage in the same fashion as they have for cable carriage. Thus, satellite carriers or broadcast stations seeking satellite carriage must follow the same petition process now in place for cable carriage, as required by §§ 76.5, 76.7 and 76.54 of our rules. A fee may be required for the filing of certain petitions to change a station's significantly viewed status; 47 CFR 1.1104, 1.1117, 76.7. We do not need to amend §§ 76.5 and 76.7 in order to permit the filing of such petitions for significantly viewed status by satellite carriers or broadcast stations seeking satellite carriage. We do, however, amend § 76.5 in another context. We revise our definition of subscriber in § 76.5(ee) to add a definition for a satellite subscriber. (See infra section IV.B.1. and revised rule § 76.5(ee), and add a definition for satellite community in § 76.5(gg), infra section IV.A.6. and revised rule § 76.5(gg), 47 CFR 76.5(ee) and (gg)). Because § 76.7 of our rules currently provides for the filing of special relief petitions by multichannel video programming distributors (MVPDs), such as satellite carriers, we need not amend this rule. Thus, a station, satellite carrier or cable operator that wishes to have a station designated significantly viewed would file a petition pursuant to the pleading requirements in § 76.7(a)(1) and use the method described in § 76.54 to demonstrate that the station is significantly viewed as defined in § 76.5(i). Most of the comments support this decision.

26. Section 76.5(i) of the rules provides that a network affiliated station is considered to be significantly viewed if it obtains at least a three percent share of viewing hours in television homes in the community and has a net weekly circulation share of at least 25 percent; see 47 CFR 76.5(i)(1). Share of weekly viewing hours means the total hours that over-the-air television households in the community viewed a station during the week, expressed as a percentage of the total hours these households viewed all stations during the period surveyed. Net weekly circulation means the number of over-the-air television households that viewed a station for five minutes or more during the week, expressed as a percentage of the total over-the-air television households in the survey area; 47 CFR 76.5(i) note. For independent stations, the test is a share of at least two percent viewing hours and a net weekly circulation of at least five percent.

27. Section 76.54 provides that parties may demonstrate that signals are significantly viewed either on a county-wide basis or on a community basis. Under § 76.54(b) of the rules, adopted in 1972, parties may demonstrate significantly viewed status based on an independent professional audience survey which is conducted by a professional organization that is independent from the cable systems or television stations ordering the surveys. Initially, the Commission suggested that parties undertaking surveys under this provision inform other interested parties regarding the survey and its methodology. On reconsideration, the Commission adopted § 76.54(c) requiring such prior notification. (See 1972 R&O, 36 FCC 2d at 176, para. 86; 1972 Recon Order, 36 FCC 2d at 349, para. 62). The surveys must include the results of two weekly periods separated by at least 30 days, but no more than one of which shall be a week between April and September (i.e., outside the summer viewing period). The Commission recognized that the results of sample surveys can only be determinative within a given probability. Therefore, to assure that the survey errs on the side of excluding stations that are not actually significantly viewed, the Commission decided to require that the sample results exceed the significantly viewed standard, currently specified in § 76.5(i), by at least one standard error. A “standard error” is a statistical measure used to assess, at a specified probability, that the sample estimate reflects the actual result had the entire universe been surveyed. Using one standard error, we can be approximately 70 percent certain that the actual audience statistic is the reported statistic plus or minus one standard error. The calculation of the standard error takes into account the sampling procedure, the sample size and the sample result. Initially, the Commission required separate surveys for each cable community, but the rule was revised to allow a single survey where a cable system served multiple communities. Thus, if a cable system serves more than one community, a single survey may be taken, provided that the sample includes over-the-air television homes from each community that are proportional to the population. (See 47 CFR 76.54(b)).

28. Section 76.54(d), adopted in 1975, permits parties to demonstrate significantly viewed status for a new station using county-wide audience surveys in lieu of the more burdensome community-by-community method. (See Amendment of Part 76 of the Commission's Rules and Regulations to Permit Showings that Certain Television Broadcast Stations are Significantly Viewed Based on County-Wide Surveys, 56 FCC 2d 265, para. 1 (1975) (“1975 R&O”)). Under § 76.54(d), significantly viewed status may be demonstrated on a county-wide basis using independent professional audience surveys which cover three separate, consecutive four-week periods and are otherwise comparable to the surveys used to compile the 1972 Appendix B list. Under this rule, a demonstration that a station is significantly viewed must be based on audience survey data from the station's first three years of operation. Where surveys are conducted pursuant to § 76.54(d), the Commission concluded that the potential for an unrepresentative sample was considerably lessened by the adoption of a longer survey period. Accordingly, the Commission decided not to require that the results be subject to the standard error requirement and the survey results must simply meet the significantly viewed standard for the station type specified in § 76.5(i). This was intended to place the survey methodology for newer stations on par with the methodology used in the original Commission surveys. Moreover, the rules require that the survey be undertaken by an independent professional audience survey organization and be subject to Commission review.

29. We reject the proposals by commenters seeking to substantively modify the § 76.54 process for making significantly viewed determinations, including the proposals to add to the SV list those stations that could deliver a Grade B or better signal to a subscriber's home. The SHVERA did not authorize any approach that would presume that such stations are significantly viewed. Such modifications to the § 76.54 process would be inconsistent with the SHVERA's requirement that we use the same rules for making significantly viewed determinations that were in effect as of April 15, 1976. Stations or carriers must demonstrate significantly viewed status through the existing § 76.54 petition process.

30. In the NPRM, we stated that the digital signal of a television broadcast station will be accorded the same significantly viewed status as that of the analog signal, except that where a station is broadcasting only a digital signal, the station must petition for significantly viewed status using the analog requirements in § 76.54. EchoStar has requested that we clarify that we will continue our “present practice of according the digital signal of a broadcast station the same ‘significantly viewed’ status as the analog signal,” and that we only meant to require new digital stations—those without a significantly viewed analog predecessor—to make showings pursuant to § 76.54. EchoStar is correct; we did not mean to suggest that stations would lose their significantly viewed status when they begin operating only in digital. (See Carriage of Digital Television Broadcast Signals, 16 FCC Rcd 2598, 2642, para. 100 (2001) (“[W]e believe that the public interest is best served by according the digital signal of a television broadcast station the same significantly viewed status accorded the analog signal. We note, however, that DTV-only television stations must petition the Commission for significantly viewed status under the same requirements for analog stations in § 76.54 of the Commission's rules.”)). Stations that have been listed as significantly viewed in a given community based on their analog signal will also be accorded significantly viewed status for their digital signal, even if their analog signal subsequently goes off the air. We intend to allow licensees to transfer their significantly viewed status from their analog station to their digital station. Moreover, stations with both analog and digital signals may continue to demonstrate significantly viewed status based on their analog signal. We recognize, however, that, in the future, stations will be operating only in digital. Therefore, new digital stations (without an existing analog companion) must demonstrate that their digital signals are significantly viewed. This is the reason we amend our rule to add “noise limited service contour,” the service contour relevant for a station's digital signal.

31. We amend § 76.54, as, to update the existing reference to “Grade B contour,” which applies to analog stations, to add “noise limited service contour,” the service contour relevant for a station's digital signal. We further amend § 76.54 to eliminate an outdated reference and correct a typographical error, neither of which change in any way the substance or the process of the rule. The commenters on this issue support these rule changes.

32. Finally, Gulf and NAB and Network Affiliates (“NAB”) requested that we clarify that the independent professional audience surveys required by § 76.54 must include surveys only from households that receive broadcast signals via an over-the-air antenna. We agree, and, thus, we will amend § 76.54 to reflect the rule's true meaning. Section 76.54 currently uses the term “non-cable,” but such term was meant to indicate over-the-air viewing. We have already noted this meaning in another context. (See 47 CFR 76.1506 (television stations are significantly viewed for carriage by open video systems “when they are viewed in households that do not receive television signals from multichannel video programming distributors * * *”)). In the 1972 Order, we adopted the concept of significant viewing to apply to over-the-air households, which at the time essentially meant households without cable (i.e., non-cable households). Thus, amending § 76.54 to change “non-cable” to “over-the-air” reflects the true intent of the rule as it was in 1976, and is more consistent with the SHVERA's intent to establish parity between cable and satellite. It would also be inconsistent with the original intent of the SV process to permit satellite carriers to use their own subscribers in audience surveys to demonstrate SV status. It would also be largely pointless as satellite carriers have had no way to offer such signals to subscribers in out-of-market communities except as “distant” signals to “unserved” households.

4. Definition of “Network Station”

33. Our rules define network station as one of the “three major national television networks.” (See 47 CFR 76.5(j) and (k)). This definition is expressly relied upon to select the correct standard for determining whether a station is significantly viewed. (See 47 CFR 76.5(i) (the “share” required to achieve significantly viewed status depends upon whether the station in question is a network station or an independent station); 47 CFR 76.5(j) (full network station is: “A commercial television broadcast station that generally carries in weekly prime time hours 85 percent of the hours of programming offered by one of the three major national television networks with which it has a primary affiliation (i.e., right of first refusal or first call)”; 47 CFR 76.5(k) (partial network station is: “A commercial television broadcast station that generally carries in prime time more than 10 hours of programming per week offered by the three major national television networks, but less than the amount specified in paragraph (j) of this section”; 47 CFR 76.5(l) (independent station is: “A commercial television broadcast station that generally carries in prime time not more than 10 hours of programming per week offered by the three major national television networks.”)). The standard applies only to commercial stations. 47 CFR 76.5(i)-(l) (definitions of significantly viewed stations limited to “commercial”); 1972 R&O, 36 FCC 2d at 180; 1972 Recon Order, 36 FCC 2d at 330 (educational stations were given mandatory carriage throughout their Grade B signal contour but were not given significantly viewed status because the low ratings for NCE stations made it difficult to develop a significantly viewed standard for them and to avoid “an unwarranted profusion of educational signals” to which the educational stations objected due to possible erosion or dilution of local subscriber support). (See also 17 U.S.C. 119(a)(3)(A) (limits significantly viewed to the Commission's rules in effect on April 15, 1976)). We mentioned in the NPRM that, for purposes of subscriber eligibility, the SHVERA relied on the definition of “network station” that is used in the copyright provisions of title 17, which provides that a “network station” is:

(A) a television broadcast station, including any translator station or terrestrial satellite station that rebroadcasts all or substantially all of the programming broadcast by a network station, that is owned or operated by, or affiliated with, one or more of the television networks in the United States which offer an interconnected program service on a regular basis for 15 or more hours per week to at least 25 of its affiliated television licensees in 10 or more States; or (B) a “noncommercial educational broadcast station (as defined in section 397 of the Communications Act of 1934 [47 U.S.C. 397]). 17 U.S.C. 119(d)(2). The SHVERA also relies on section 339(d) for the definition of “television network,” which is slightly different from the “network” definition in title 17. (See 47 U.S.C. 340(i)(2); 47 U.S.C. 339(d)(5); 47 CFR 76.66(a)(5) (defining television network in the context of satellite broadcast signal carriage)). Section 339(d)(5) provides: “a television network in the United States which offers an interconnected program service on a regular basis for 15 or more hours per week to at least 25 affiliated broadcast stations in 10 or more States.” 47 U.S.C. 339(d)(5). We note the difference in language between “affiliated television licensees” in title 17 compared with “affiliated broadcast stations” in section 339 of the Communications Act, but we do not find the difference significant.

34. In the NPRM, we tentatively concluded that the SHVERA prevented us from updating our significantly viewed rules because it requires that we retain the standard we have used since April 15, 1976. (See 17 U.S.C. 119(a)(3)(A), as amended by section 102 of the SHVERA (the statutory copyright license applies to retransmission of significantly viewed network station or superstation to a subscriber in a community on the Commission's list and limits significantly viewed to the Commission's rules in effect on April 15, 1976)). Therefore, we proposed to harmonize the apparent inconsistencies by continuing to use the definition of network and independent station in our rules for purposes of determining whether a station is significantly viewed for placement on the SV List, which thereby excludes noncommercial stations from eligibility for the SV List. However, as also required by the SHVERA, we proposed to use the copyright definition of network station and superstation for purposes of subscriber eligibility and the other applications of the significantly viewed provisions.

35. We adopt our proposal in the NPRM to harmonize the conflicting definitions of network station. Most commenters on this issue support our proposal. The SHVERA required use of the rules in effect as of April 15, 1976, and thus precludes us from applying definitions of “full network station,” “partial network station” and “independent station” different from the April 15, 1976, standard incorporated by reference in the statute. Thus, as proposed in the NPRM, we will use our rule's definitions for purposes of determining whether a station is significantly viewed and use the Copyright Act's definitions for purposes of determining subscriber eligibility.

36. We reject, at this time, NAB's request to change the definitions of “full network station,” “partial network station,” and “independent station” in § 76.5(j), (k), and (l) to track the Copyright Act definitions of “network station” and “superstation” in 47 U.S.C. 119(d). We recognize that our rules will treat stations owned by Fox or affiliated with the Fox Network as “independent stations” under the Commission's definitions in § 76.5, and not as network stations, whereas these stations are treated as “network stations” under the Copyright Act definition. (Similarly, other networks that may satisfy the copyright definition of “network,” will be treated as “independent stations” under our rules.) But the statute requires that we use the rules in effect as of April 15, 1976, which would include our rule's definition of network station.

37. We also take this opportunity to respond to an ex parte question raised by Capitol Broadcasting Company, Inc. (CBC). CBC asks, with respect to a petition to impose network non-duplication and syndicated exclusivity on a station on the SV List, what standard applies if the station has subsequently changed its status to or from a network station. In addressing such petitions, we have found that petitioners seeking to demonstrate that a station no longer meets the significantly viewed criteria (and that therefore a waiver of the exemption from network non-duplication and syndicated exclusivity is warranted) must use the standard that applies to the listed station at the time the survey is conducted. The initial determination that a station is significantly viewed is based on a comparison of the submitted audience data with the significantly viewed standard applicable to the station affiliation status. Thus, when challenging whether a station is still entitled to invoke the significant viewing exemption under the network non-duplication and/or syndicated exclusivity rules, it is appropriate for a petitioner to make the determination of whether a waiver is warranted based on the criteria applicable to the station's affiliation at the time the survey was conducted. So, in CBC's example in which a listed station changed from a network station when initially listed to an independent station at the time of the survey to show the station is no longer significantly viewed, the petitioner should apply the independent standard to determine if the listed station no longer meets the criteria for significantly viewed status.

5. Limitations on Carriage of Significantly Viewed Stations Based on Network Non-Duplication and Syndicated Exclusivity

38. Section 340(a)(1) limits satellite carriage of a station included on the SV List “to the extent such signal is prevented from being carried by a cable system in such community under the Commission's network non-duplication and syndicated exclusivity rules.” In the NPRM, we noted the complexity of applying the network non-duplication and syndicated exclusivity rules to the satellite context. The exclusivity rules do not apply to satellite carriage of network stations, but only to carriage of “nationally distributed superstations,” as provided by section 339(b)(1)(A), which was enacted by the SHVIA in 1999. (See 47 U.S.C. 339(b)(1)(A)). The existing satellite exclusivity rules provide for an exception to their application in the event that the nationally distributed superstation is also a station that is significantly viewed in the area in which the satellite carrier is offering them. (See 47 CFR 76.122(j)(ii) and 76.123(k)(2)). Section 340(e) maintains the status quo by providing that the exclusivity rules shall not apply to distant network stations. (See 47 U.S.C. 340(e)(2), enacted by section 202 of the SHVERA: “(2) LIMITATION. Nothing in this subsection or Commission regulations shall permit the application of network non-duplication or syndicated exclusivity regulations to the retransmission of distant signals of network stations that are carried by a satellite carrier pursuant to a statutory license under section 119(a)(2)(A) or (B) of title 17, United States Code, with respect to persons who reside in unserved households, under section 119(a)(4)(A), or under section 119(a)(12), of such title.”). Section 340(e)(1), however, authorizes the Commission to adopt rules to permit assertion of the exclusivity rules by stations and distributors with respect to stations carried by satellite carriers pursuant to the new significantly viewed provisions. (See section 340(e)(1), enacted by section 202 of the SHVERA: “(1) NOT APPLICABLE EXCEPT AS PROVIDED BY COMMISSION REGULATIONS. Signals eligible to be carried under this section are not subject to the Commission's regulations concerning network non-duplication or syndicated exclusivity unless, pursuant to regulations adopted by the Commission, the Commission determines to permit network non-duplication or syndicated exclusivity to apply within the appropriate zone of protection;” 47 U.S.C. 340(e)(1)).

39. In the NPRM, we said this provision required us to (1) create a limited right for a station or distributor to assert exclusivity with respect to a station carried by a satellite carrier as significantly viewed; (2) allow that significantly viewed station to assert the significantly viewed exception, just as a station would with respect to cable carriage; and (3) allow the station or distributor asserting exclusivity to petition us for a waiver from the exception. Thus, Congress directs the Commission to ensure parity between cable operators and satellite carriers so that a station's programming that is subject to blackout deletions with respect to a cable system serving a cable community would also be subject to deletions for a satellite carrier's subscribers within the same cable community or within a satellite community.

40. In the NPRM, we proposed to implement these SHVERA requirements, first, by denoting on the SV List which stations in which communities have been subjected to deletions such that duplicating programming must be blacked out by cable operators. In Appendix B, SV List, we used a pound sign (#) to indicate the stations and communities subjected to programming deletions pursuant to the Commission's exclusivity rules. Satellite carriers using the SV List may carry these stations, but are subject to the same programming deletions that apply to cable systems. Second, we proposed to amend our rules so that stations and distributors may assert exclusivity rights with respect to satellite carriage of significantly viewed stations but only insofar as they can prove that the conditions supporting a waiver of the significantly viewed exception from the exclusivity rules would apply.

41. As proposed, we adopt a rule for satellite carriage that mirrors the rules for cable carriage. (See 47 CFR 76.92(f)). Specifically, the new rule allows a station or distributor with exclusive rights to network or syndicated programming to petition the Commission to require satellite carriers to delete such programming from stations that are carried because they are on the SV List. Such SV stations may respond to such petitions by claiming the exception to the network nonduplication and syndicated exclusivity rules that applies to significantly viewed stations (“the significantly viewed exception”). (See e.g., 47 CFR 76.122(j)(2) and 76.123(k)(2)). The party petitioning for network nonduplication or syndicated exclusivity protection may request a waiver of the significantly viewed exception by demonstrating that the station is no longer significantly viewed in a particular community or communities. If the waiver is granted, the duplicating programming must be deleted by a cable operator or satellite carrier if the station is carried in a community in which the station has been shown to no longer be significantly viewed. The station is not removed from the SV List and may continue to be carried, provided the necessary programming deletions are made; (See House Commerce Committee Report at 14-15 (noting that stations are not removed from the SV List but rather that blackout deletions are re-imposed)).

42. Commenters split on this issue, with NAB supporting it and EchoStar seeking a simpler de-listing procedure instead. We agree with NAB that broadcast stations or program suppliers should be able to petition the Commission for waiver of the significantly viewed exception to the network non-duplication and syndicated exclusivity rules for satellite carriers in the same manner as is permissible in the cable context. We reject EchoStar's proposed de-listing procedure because the network non-duplication and syndicated exclusivity deletions only apply to specific programming, and not the entire signal. Thus, it would not be appropriate to remove the signal from the list. Accordingly, we will revise §§ 76.122 and 76.123, as proposed.

6. Definition of “Satellite Community”

43. The SHVERA required the Commission to define “community” in the satellite context. Under the SHVERA, a “community” is either (1) a county or a cable community under the Commission's rules (applicable to significantly viewed signals), or (2) a satellite community as defined by the Commission in implementing the statute. 47 U.S.C. 340(i)(3) states that “[t]he term ‘community’ means—(A) a county or a cable community, as determined under the rules, regulations, and authorizations of the Commission applicable to determining with respect to a cable system whether signals are significantly viewed; or (B) a satellite community, as determined under such rules, regulations, and authorizations (or revisions thereof) as the Commission may prescribe in implementing the requirements of this section.” The concept of a “community” is important in the SHVERA because the term describes the geographic area where a subscriber is permitted to receive a significantly viewed signal. In the NPRM, we considered both how to apply SV determinations for existing communities to satellite, and how to define future communities for both satellite and cable.

a. Existing Communities

44. The first issue concerns how best to apply existing cable communities to the satellite context. Existing significantly viewed determinations are limited to cable communities because our rules have previously applied only to cable carriage of significantly viewed signals. In the cable context, the Commission defined a community unit in terms of a “distinct community or municipal entity” where a cable system operates or will operate. 47 CFR 76.5(dd) defines “community unit” as: “A cable television system, or portion of a cable television system, that operates or will operate within a separate and distinct community or municipal entity (including unincorporated communities within unincorporated areas and including single, discrete unincorporated areas).” (See Amendment of Part 76 of the Commission's Rules and Regulations with Respect to the Definition of a Cable Television System and the Creation of Classes of Cable Systems, 63 FCC 2d 956, 966 (1977) (defining “community unit” for, inter alia, the significantly viewed rules, as that part of a cable system that is located within a single community)). Due to the localized nature of cable systems, cable communities were easily defined by the geographic boundaries of a given cable system, which were often, but not always, coincident with a municipal boundary and varied as determined on a case-by-case basis. (See Amendment of Parts 21, 74, and 91 to Adopt Rules and Regulations Relating to the Distribution of Television Broadcast Signals By Community Antenna Television Systems, and Related Matters, Docket 15971, 2 FCC 2d 725, 785-6, para. 149 (1966) (“community” as used in the rules must be determined case-by-case depending on the circumstances involved); Telerama, Inc., 3 FCC 2d 585 (1966), Mission Cable TV Inc., 4 FCC 2d 236 (1966), Calvert Telecommunications Corp., 49 FCC 2d 200 (1974), and St. Louis Telecast, Inc., 12 RR 1289, 1369 (1957)).

45. The SHVERA required satellite carriers to use the existing defined cable communities on the SV List. (See 47 U.S.C. 340(a)(1)). Most of the listings on the SV List are by county because the study to establish significantly viewed signals was based on a survey of every station existing in 1972 and its audience on a county-wide basis. (See 1972 R&O, 36 FCC 2d at 175-6, para. 85; 1972 Recon Order, 36 FCC 2d at 162-63, para. 53). Where a station satisfied the requirements to be considered significantly viewed in a county, the Commission provided that this status was applicable to every community within that county. Following the creation of the initial SV List in 1972, significantly viewed determinations generally were made based on community listings. In rare circumstances, though, a petitioner could show that a county could be a community containing a significantly viewed station under § 76.54(b). Further, the Commission's rules (as in effect as of April 15, 1976) permit county-wide showings for new stations not included in the initial SV List pursuant to § 76.54(d). Unlike community showings, in order to make such a showing on a county-wide basis, parties must include audience survey data from the station's first three years of operation, regardless of when the station, cable operator or satellite carrier decide to make the showing. Thus, the existing list includes counties, communities, such as cities or municipalities, and unincorporated areas. In the NPRM, the Commission asked whether satellite carriers would be able to determine which of their subscribers are in existing communities and, if not, how best to apply existing cable communities to the satellite context.

46. We find that the statute requires satellite carriers to use existing listings in offering significantly viewed signals, whether defined as a county, a non-county community (e.g., a city or municipality), or as an unincorporated area. Thus, satellite carriers may provide a station to a subscriber as significantly viewed if that station is on the SV List for the community in which the subscriber is located. DIRECTV states, however, that it would have a problem using existing community listings that are not county-wide or that do not follow zip code boundaries. No other commenters express any problems with using such non-county listings. Although DIRECTV says it cannot provide service to subscribers based on non-county listings, DIRECTV says it can determine which zip codes are contained within a non-county boundary and provide service to subscribers based on those zip codes.

47. We recognize that DIRECTV may face a subscriber identification issue in situations where zip codes may cross over community lines and may be only partially contained within an existing SV community listing. We find, however, that the statute requires that only subscribers within existing SV community listings are eligible to receive significantly viewed stations associated with these communities. (See 47 U.S.C. 340(a)). DIRECTV, itself, acknowledges the validity of this statutory interpretation. We recognize that limiting significantly viewed carriage to subscribers within an existing community listing would mean that DIRECTV would not be able to serve some subscribers eligible to receive a SV station because they are in a zip code which partially extends beyond the existing community boundary. But this result is due to DIRECTV's limitations and appears unavoidable in light of the statute. EchoStar does not suggest that it is similarly affected by DIRECTV's technical limitation, but nevertheless disagrees with this approach. EchoStar argues that this statutory interpretation is too conservative and suggests that satellite carriers should be able to serve subscribers in zip codes that extend beyond an established community or county boundary if 10 percent or more of the zip code's population is contained within the existing community listing. We reject EchoStar's “10 percent overlap” proposal. We agree with MPAA and NAB that EchoStar's proposal is contrary to the statute's limitations on station eligibility for SV carriage. (See 47 U.S.C. 340(a)).

48. We will not assign zip codes to each community identified in the SV List, as requested by EchoStar, because that would be unnecessarily burdensome on Commission resources. It is much easier for satellite carriers to make such determinations on an as-needed basis. Thus, it is the satellite carrier's responsibility to determine whether a particular subscriber resides within a listed community and is eligible for significantly viewed status, whether by use of zip code, street address or other means.

b. Future Communities

49. The second issue concerns how best to define communities in the future when stations seek carriage by satellite carriers as significantly viewed, while satisfying Congress' intent for regulatory parity between satellite and cable. In the NPRM, we provided that cable operators would continue to define future cable communities as they always have. But the statute authorizes the Commission to define a “satellite community” in a manner appropriate for the nature of satellite service where there is no existing cable community. (See 47 U.S.C. 340(i)(3)(B)). In the NPRM, we proposed two options for defining future satellite communities. The first option would allow a satellite carrier to seek significantly viewed status for a given station with respect to one or more specified five-digit zip code areas. The second option proposed to define a satellite community based on a separate and distinct community or municipal entity.

50. We adopt our second option. Thus, where there is no pre-existing cable community (i.e., no cable system serving the community as defined in § 76.5(dd)), a satellite carrier may define a new community for purposes of the SV List by reference to an existing separate and distinct community or municipal entity (e.g., political jurisdiction, incorporated city or town). In the absence of a separate and distinct community or municipal entity (e.g., an unincorporated area), a satellite community may be defined by one or more adjacent five-digit zip code areas. In addition, satellite carriers (like cable operators) may also demonstrate significantly viewed status for a new station on a county-wide basis, pursuant to § 76.54(d). A county showing under § 76.54(d) is separate from the community showing under 76.54(b). Unlike community showings, in order to make such a showing on a county-wide basis, parties must include audience survey data from the station's first three years of operation, regardless of when the station or cable operator or satellite carrier decides to make the showing. Because the statute requires the Commission to use the rules in effect as of April 15, 1976, application of the county-wide standard in § 76.54(d) must apply to the satellite context as it applies to cable.

51. Our definition of a “satellite community” best balances the statutory requirement of regulatory parity with the unique nature of satellite service. Unlike cable service, which reaches subscribers via local franchises across the country, satellite service is generally a national service. Moreover, satellite service is offered in areas of the country that do not have cable service, and thus are not cable communities. We agree with Gulf and NAB that regulatory parity requires that a satellite community resemble existing cable communities as much as possible. We also agree with MPAA about the importance of applying consistent rules to both satellite and cable. Our definition will also make it more likely that a cable system subsequently built in such an area would serve a “community” similar to the satellite community, thus making the SV List more easily used by both cable and satellite providers. In the NPRM, we asked what we should do if a cable operator subsequently offers cable service in a community after it has been defined as a “satellite community.” We believe our definition of satellite community avoids the need to redefine the community to the extent it overlaps with the franchise area of the new cable community.

52. We reject our first proposal that would allow use of one or more zip codes to define a satellite community. Commenters split on this issue. While some commenters favored the use of zip codes to offer “greater certainty to consumers,” others expressed concerns about regulatory parity and cherry-picking communities. We are persuaded that our first proposal is not the preferred choice. As we noted in the NPRM, it would ignore an existing town, village, municipality or other geopolitical entity that constitutes a “community” in the more traditional sense. As noted by NAB, zip codes would unfairly allow satellite carriers to cherry-pick areas of traditional communities in a manner cable operators may not do. We note that cable operators are not permitted under § 76.54(b) to demonstrate significantly viewed status for only a portion of a recognized community. In contrast to traditional communities, we do not share this concern with respect to unincorporated areas that do not track a traditional community. We agree with DIRECTV that unincorporated areas may not constitute a community in the traditional sense any more than would a zip code. Thus, we find, in this limited circumstance, satellite carriers may use one or more adjacent five-digit zip code areas to define an unincorporated area. We are requiring that, if multiple five-digit zip code areas are to be used, then such areas must be adjacent to each other to prevent carriers from cherry-picking their service to these areas. It is also permissible to demonstrate significant viewing in an individual zip code or in several zip codes as long as each one is shown to have significant viewing. If a satellite carrier aggregates more than one zip code, a single survey may be taken, provided that the sample includes over-the-air television homes from each zip code that are proportional to the population.

53. We disagree with NAB's contention that an additional demonstration is required by satellite carriers to show that the “community” satisfies the section 307(b) concept of community. Our definition ensures that a satellite community will resemble a community in a traditional sense, and alleviates concern about the creation of “artificial communities.” Our definition will also adequately prevent local broadcast stations from being subject to cherry-picking or so-called “Swiss-cheesing” of their program exclusivity rights because it requires carriers to use community boundaries and would not allow carriers to use zip codes to exclude portions of a traditional community.

c. Natural Growth of Communities

54. In the NPRM, we recognized that communities may grow or change over time, either through annexation or other means, and tentatively concluded that these communities should generally be interpreted to encompass the area of natural growth of the community. This concept applies to both existing communities now on the SV List, as well as both cable and satellite communities that may be created in the future. We will affirm our conclusion, which was supported by EchoStar, the sole commenter on this issue. It would be unnecessarily burdensome for the Commission to determine community boundaries based on when they were accorded SV status. It has been our practice to recognize the area of natural growth of communities, and we will continue to do so. Thus, we will apply the community listing or description on the SV List to the community so denominated today, or as it may become in the future.

7. Significantly Viewed Carriage Not Mandatory; Retransmission Consent Rights Not Affected

55. The SHVERA did not require satellite carriers to carry significantly viewed stations. (See 47 U.S.C. 340(d)(1) (“Carriage of a signal under this section is not mandatory, and any right of a station licensee to have the signal of such station carried under section 338 is not affected by the eligibility of such station to be carried under this section.”)). This provision also makes clear that any right of a station to have its signal carried in a local market under the “carry-one, carry-all” satellite must carry requirement is not affected by the significantly viewed status of the signal in another market. The SHVERA also did not change the requirements for retransmission consent (See 47 U.S.C. 340(d)(2) (“The eligibility of the signal of a station to be carried under this section does not affect any right of the licensee of such station to grant (or withhold) retransmission consent under section 325(b)(1).”)). Based on the statutory language, we tentatively concluded in the NPRM that carriage of significantly viewed stations will require retransmission consent under section 325(b) of the Act, unless an exception to the requirement applies.

56. Based on the SHVERA's statutory language, we affirm our conclusions in the NPRM. Satellite carriers are not required to carry significantly viewed stations. The statute is clearly permissive in this regard. (See 47 U.S.C. 340(d)(1)). The statute is also clear that it does not change any retransmission consent requirements. (See 47 U.S.C. 340(d)(2)). Thus, it follows that, like a cable operator, a satellite carrier must obtain retransmission consent to carry a station as a significantly viewed signal. In the NPRM, we noted that a satellite carrier is exempt under section 325(b) from having to obtain retransmission consent when providing a distant signal of a network to an unserved subscriber who cannot receive an over-the-air signal from an affiliate of the same network.

8. Significantly Viewed Signals and the Single Dish Requirement

57. Pursuant to section 338(g) of the Act, satellite carriers must carry all local stations on a single dish by June 8, 2006. (See 47 U.S.C. 338(g)(1), as amended by section 203 of the SHVERA (analog local television stations in a market must be carried by means of a single reception antenna and associated equipment)). In the NPRM, we asked whether the SHVERA required satellite carriers to carry both local and significantly viewed stations on a single dish.

58. We find that the SHVERA did not impose a requirement on satellite carriers to carry both local and significantly viewed stations on a single dish. The only two commenters on this issue, DIRECTV and EchoStar, support such a finding. Section 340 does not specify any such requirement. Rather, the single dish requirement is found only in section 338(g), amended by section 203 of the SHVERA, and refers to the retransmission of only “local” signals. (See 47 U.S.C. 338(g)(1) (“Each satellite carrier that retransmits the analog signals of local television broadcast stations in a local market shall retransmit such analog signals in such market by means of a single reception antenna and associated equipment.”). We, thus, agree with DIRECTV that the single-dish restriction is limited to local—and not significantly viewed—signals. In this regard, the statutory framework is instructive. As noted by DIRECTV, section 338 of the Act governs the retransmission of local signals, section 339 of the Act governs the retransmission of distant signals, and new section 340 of the Act governs the retransmission of significantly viewed signals. In addition, carriage of “local” signals is governed by section 122 of the copyright provisions; but carriage of significantly viewed signals is based on the section 119 statutory copyright license that governs distant signals.

9. Definition of “Satellite Carrier”

59. The SHVERA defined the term “satellite carrier” in new section 338(k) by reference to the definition in 17 U.S.C. 119. This definition includes entities providing services as described in 17 U.S.C. 119(d)(6) using the facilities of a satellite or satellite service licensed under part 25 of the Commission's rules to operate in Direct Broadcast Satellite (DBS) or Fixed-Satellite Service (FSS) frequencies. Part 100 of the Commission's rules was eliminated in 2002 and now both FSS and DBS satellite facilities are licensed pursuant to part 25 of the rules. Policies and Rules for the Direct Broadcast Satellite Service, 17 FCC Rcd 11331 (2002); 47 CFR 25.148. As a general practice, not mandated by any regulation, DBS licensees usually own and operate their own satellite facilities as well as package the programming they offer to their subscribers. In contrast, satellite carriers using FSS facilities often lease capacity from another entity that is licensed to operate the satellite used to provide service to subscribers. These carriers using FSS facilities package their own programming and may or may not be Commission licensees themselves. In addition, a third situation may include an entity using a non-U.S. licensed satellite to provide programming to subscribers in the United States pursuant to a blanket earth station license. (See e.g., Application of DIRECTV Enterprises, LLC, Request for Special Temporary Authority for the DIRECTV 5 Satellite; Application of DIRECTV Enterprises, LLC, Request for Blanket Authorization for 1,000,000 Receive Only Earth Stations to Provide Direct Broadcast Satellite Service in the U.S. Using the Canadian Authorized DIRECTV 5 Satellite at the 72.5° W.L. Broadcast Satellite Service Location, 19 FCC Rcd. 15529 (Sat. Div. 2004)). In the NPRM, we tentatively concluded that the definition of “satellite carrier” would include all three types of entities described above.

60. We will adopt our proposed interpretation of a satellite carrier. Our interpretation flows directly from the statute. The commenters on this issue, EchoStar and NAB, support our conclusion.

B. Subscriber Eligibility To Receive “Significantly Viewed” Signals

61. In addition to the statutory requirements concerning station eligibility, the SHVERA also limited the subscribers who are eligible to receive the signals of significantly viewed stations. In general, subscribers are not eligible to receive out-of-market significantly viewed signals of a network station unless they are already receiving the local signal of an affiliate of the same network via satellite. (See 47 U.S.C. 340(b); 17 U.S.C. 119(a)(3)(B)). Application of this general principle differs, however, depending on whether the significantly viewed signal is analog or digital, with additional restrictions imposed on digital signals. The subscriber eligibility limitations also provide for an exception where there is no local network station present in the relevant market or when a local network station waives the subscriber eligibility requirements.

1. Definition of “Subscriber”

62. The SHVERA defined the term “subscriber” in new section 338(k) by reference to the definition in 17 U.S.C. 122(j)(4), which provides that a subscriber is “a person who receives a secondary transmission service from a satellite carrier and pays a fee for the service, directly or indirectly, to the satellite carrier or to a distributor.” The NPRM said the definition in 17 U.S.C. 122 differs slightly from the definition of subscriber contained in 17 U.S.C. 119, which establishes the significantly viewed compulsory copyright license for satellite carriers. We noted that the definition in 17 U.S.C. 119 limits “subscribers” to individuals in private homes, but said that Congress intended to use the broader definition in 17 U.S.C. 122 for significantly viewed signals.

63. However, the definition in 17 U.S.C. 119 was amended by section 107 of the SHVERA to strike the reference to “private home viewing.” Section 107 of the SHVERA amends 17 U.S.C. 119(d)(8) to define a subscriber as “an individual or entity that receives a secondary transmission service by means of a secondary transmission from a satellite carrier and pays a fee for the service, directly or indirectly, to the satellite carrier or to a distributor in accordance with the provisions of this section.” This definition is not identical to the definition in 17 U.S.C. 122, but is essentially the same after the SHVERA's amendment. Thus, we agree with DIRECTV and MPAA that the two Copyright Act definitions (in 17 U.S.C. 119 and 122) are for present purposes largely the same, and there is no need to distinguish between them.

64. In the NPRM, we proposed to amend the definition of subscriber in our rules to include subscribers to satellite service. We will adopt our proposed amendment to the definition contained in § 76.5(ee) of our rules. Defining a satellite subscriber for our rules is consistent with the SHVERA and furthers regulatory parity. We received no comments on this proposal.

2. Analog Service Limitations; Receipt of Local Affiliate Required

65. Section 340(b)(1) of the Act explains the nature of subscriber eligibility to receive an out-of-market significantly viewed analog signal as follows:

With respect to a signal that originates as an analog signal of a network station, this section shall apply only to retransmissions to subscribers of a satellite carrier who receive retransmissions of a signal that originates as an analog signal of a local network station from that satellite carrier pursuant to section 338.

In the NPRM, we generally interpreted section 340(b)(1) to mean that subscribers receiving “local-into-local” service from their satellite carrier are eligible to also receive significantly viewed signals. We tentatively concluded that, as a general rule, a satellite carrier must be offering local-into-local service and a subscriber must be receiving this service as a pre-condition to offering an out-of-market significantly viewed station's signal to that subscriber.

66. We also tentatively concluded that the SHVERA, as a whole, contemplated that subscribers in a market in which “local-into-local” service is not being offered are not eligible for significantly viewed stations retransmitted by satellite carriers, except where there is no affiliate of a given network in the market as provided for in section 340(b)(3). And we tentatively concluded that satellite subscribers would not qualify for significantly viewed signals if they obtain local stations via an over-the-air TV antenna, including one that is integrated with a satellite dish.

67. Finally, we asked what happens if a local network station fails to request local carriage, refuses to grant retransmission consent, or is otherwise ineligible for local carriage. If a subscriber subscribes to and receives the satellite carrier's local-into-local service, but does not receive a particular local network station because such station is not carried by the satellite carrier, is that subscriber eligible to receive the significantly viewed station affiliated with that network? We said the result was not clear, but tentatively concluded that, as an exception to the general rule, “a subscriber should not be deprived of access to a significantly viewed station because the local station refused to grant retransmission consent or was otherwise ineligible for local carriage.”

68. Subscription to and receipt of “local-into-local” service generally required. We conclude that section 340(b)(1) of the Act allows a subscriber to receive a significantly viewed signal provided that the subscriber receives local-into-local service from its satellite carrier. This conclusion flows from the language in the statute, which expressly permits the retransmission of significantly viewed signals only to subscribers “who receive retransmissions of a signal * * * of a local network station * * *” (See 47 U.S.C. 340(b)(1)). While the commenters disagree on the ultimate meaning and intent of this language, they all agree on this initial premise that local-into-local service must be offered in a market (DMA) before significantly viewed signals may be offered to subscribers in that market and that individual subscribers must receive the local package to be eligible for out-of-market significantly viewed signals. We note that Nielsen changes the DMAs to which counties are assigned based on viewing patterns that vary from year to year. We anticipate that such adjustments would be consistent with significant viewing patterns as well. To the extent, however, that such changes result in compliance problems, we will address these on a case-by-case basis. In the cable context, we permit established service to continue in the absence of a complaint. (See Definition of Markets for Purposes of the Cable Television Signal Carriage Rules, 14 FCC Rcd 8366, 8381, para. 35 (1999); 47 CFR 76.55(e)(5). To the extent permitted by the statutes involved, we will follow the same procedures here SHVIA Signal Carriage Order, 16 FCC Rcd at 1935-36, para. 39).

69. Subscriber receipt via satellite required. We find that satellite subscribers do not qualify for significantly viewed signals if they are receiving local stations via an over-the-air TV antenna, including one that is integrated with a satellite dish. Such subscribers are not receiving their local service via satellite as required by the statute. The statute specifically applies to the receipt of local service “pursuant to section 338.” Section 338 of the Act applies only to local stations retransmitted by satellite and delivered to the subscriber via the satellite antenna. Coincidental receipt of local signals over-the-air does not constitute satellite carriage of local signals pursuant to section 338. The commenters on this issue support this conclusion.

70. Subscriber receipt of local affiliate required. We find that section 340(b)(1) requires that subscribers receive a specific local network station before they may receive a significantly viewed station that is affiliated with the same network as the local station, subject to the statutory exemption described below. (See section IV.B.4., infra, discussing section 340(b)(3), which applies where there is no affiliate of a given network in the market). Subscriber receipt of “local-into-local” service is unambiguously required by the statute. Subscriber receipt of a specific local network affiliate, as a condition precedent for eligibility to receive the significantly viewed signal of an out-of-market affiliate of that network, is the best reading of section 340(b)(1) in the overall context of section 340. NAB comments that section 340(b)(1) creates a “condition precedent to delivery of a duplicating significantly viewed out-of-market station” that a subscriber must “receive” the local affiliate before receiving an out-of-market significantly viewed signal. DIRECTV and EchoStar disagree and contend that the statute merely requires receipt of “a” local signal, which they say equates to local-into-local service, and that the statute does not require receipt of “the” local station affiliated with the same network as the significantly viewed station. In explaining this “definite article” argument, EchoStar states that “the references to ‘a’ signal of ‘a’ local network station mean that this signal may originate from any of the local network stations that the satellite carrier carries—not that that the signal must emanate from a particular station, namely the one affiliated with the same network as the significantly viewed station.”

71. We believe the better reading of the statute is that receipt of the local network station is required before a subscriber may receive the significantly viewed station affiliated with the same network. The meaning of section 340(b)(1) becomes clear when considered in context with related statutory provisions (47 U.S.C. 340(b)(2), (3) and (4)) and legislative history. First, the legislative history repeatedly reflects Congressional concern that the amendments permitting carriage of out-of-market significantly viewed signals not detract from localism. Specifically, the House Commerce Committee Report said “absent section 340(b)(1), a satellite operator could retransmit into a market a distant significantly viewed signal of a network affiliate without also retransmitting a signal of any local affiliate of the network.” Moreover, the satellite carriers' “definite article” argument overlooks the language in sections 340(b)(3) and (4). As described below, section 340(b)(3) permits subscribers to receive a significantly viewed signal of an out-of-market network affiliate if there is no local affiliate of that network in the subscriber's local market. It states that the limitation in section 340(b)(1) “shall not prohibit a retransmission under this section to a subscriber located in a local market in which there are no network stations affiliated with the same television network as the station whose signal is being retransmitted pursuant to this section.” If section 340(b)(1) only required receipt of any local-into-local service as a prerequisite to receiving significantly viewed signals, as opposed to receiving the local affiliate of the network with which the significantly viewed station is affiliated, there would be no need for section 340(b)(3) to apply to section 340(b)(1). Using similar contextual reasoning, we consider section 340(b)(4), which provides authority for the network station in the local market in which the subscriber is located, and that is affiliated with the same television network, to grant station-specific waivers. If section 340(b)(1) only required receipt of any local-into-local service as a prerequisite to receiving significantly viewed signals, there would be no reason for Congress to allow for waivers from specific network stations. Statutory requirements should be read to have meaning and not be superfluous. (See Zimmerman v. Cambridge Credit Counseling Corp., 409 F.3d 473, 476 (1st Cir. 2005) (recognizing principle of statutory construction that “all words and provisions of statutes are intended to have meaning and are to be given effect, and no construction should be adopted which would render statutory words or phrases meaningless, redundant, or superfluous”); Preston v. State, 735 N.E.2d 330, 334 (Ind.App. 2000) (noting that “there is a strong presumption that the legislature did not enact a useless provision”)). The best reading of subsection (b)(1), therefore, is to require subscriber receipt of the local station affiliated with the same network as the significantly viewed signal sought to be carried.

72. In addition, as described below, section 340(b)(2)(A) plainly requires that, as a prerequisite to receiving a significantly viewed digital signal, a subscriber must receive “the digital signal of a network station in the subscriber's local market that is affiliated with the same television network.” The legislative history indicates that Congress intended sections 340(b)(1) and 340(b)(2)(A) to achieve similar ends. (See Davaz v. Priest River Glass Co., Inc., 125 Idaho 333, 870 P.2d 1292 (1994) (“In construing a statute, not only must we examine the literal wording of the statute * * * but we also must study the statute in harmony with its objective”); Tallman v. Brown, 7 Vet. App. 453, 99 Ed. Law Rep. 467 (1995) (“When the language of a statute is ambiguous * * * the task of interpreting the statute's meaning may require recourse to the legislative history to decipher Congress' intended purpose in enacting the legislation”)). The House Commerce Committee Report provides: “Like section 340(b)(1), section 340(b)(2)(A) protects localism by helping ensure that the satellite operator cannot retransmit into a market a significantly viewed digital signal of a network broadcast station from a distant market without also retransmitting into the market a digital signal of any local affiliate from the same network.” This supports NAB's point that this provision is intended to “prevent satellite carriers from by-passing local stations or using the threat of delivery of out-of-market stations to extract more favorable retransmission consent terms.”

73. In sum, we are persuaded that the statute does not allow a satellite carrier to retransmit a significantly viewed signal to a subscriber receiving local-into-local service but which local service does not include an affiliate of the network with which the significantly viewed station is affiliated, unless the exemption in section 340(b)(3) or the waiver provision in section 340(b)(4) applies. We thus revise our proposed rule to reflect our conclusion.

74. NAB, Gulf, DIRECTV, and EchoStar advocated policy considerations to influence the interpretation of section 340(b)(1) based on the impact of the interpretation on retransmission consent and on smaller market stations. In light of our reading of the statutory requirements, it is not necessary to rely on these policy issues. We also note that DIRECTV raised concerns about bad faith retransmission consent negotiations, and remind all parties of their obligation to negotiate in good faith. (See Implementation of Section 207 of the Satellite Home Viewer Extension and Reauthorization Act of 2004; Reciprocal Bargaining Obligation, FCC 05-119 (rel. Jun. 7, 2005) (Reciprocal Bargaining Order) (extending the good faith retransmission consent bargaining obligation to multichannel video programming distributors); Implementation of the Satellite Home Viewer Improvement Act of 1999, Retransmission Consent Issues: Good Faith Negotiation and Exclusivity, 15 FCC Rcd 5445 (2000) (Good Faith Order)). We decline at this time, as sought by DIRECTV, to find that broadcast stations would violate their duty to negotiate in good faith if they make demands to limit the carriage of other stations. We will consider such issues on a case-by-case basis.

3. Digital Service Limitations; Receipt of Local Digital Affiliate Required

75. Similar to section 340(b)(1), section 340(b)(2) limits satellite delivery of significantly viewed digital signals only to statutorily eligible subscribers. Section 340(b)(2) provides:

With respect to a signal that originates as a digital signal of a network station, this section shall apply only if—(A) the subscriber receives from the satellite carrier pursuant to section 338 the retransmission of the digital signal of a network station in the subscriber's local market that is affiliated with the same television network * * *” (See 47 U.S.C. 340(b)(2); House Commerce Committee Report at 12; Barton Floor Statement at 2 (“[s]ection 340(b)(2)(A) conditions retransmission to a subscriber of a significantly viewed digital signal of a distant network broadcast station on retransmission to that subscriber of a digital signal broadcast by a local affiliate of the same network.”)).

76. In the NPRM, we generally interpreted section 340(b)(2)(A) to mean that a satellite subscriber must be receiving a digital signal from a local affiliate of a network via satellite in order to be eligible to receive a significantly viewed digital signal from a station affiliated with the same network. As we found in the analog context, we find that receipt of the local station's digital signal is required before a subscriber may receive the digital signal of an affiliated significantly viewed station. Unlike the ambiguity in its sister analog provision, section 340(b)(2)(A) is clear in requiring a subscriber to receive “the digital signal of a network station in the subscriber's local market that is affiliated with the same television network.”

4. Exception to Subscriber Eligibility Limitations; Rule Not Applicable Where No Local Network Affiliates Being Retransmitted

77. The SHVERA provided for a statutory exception to the subscriber eligibility requirements in sections 340(b)(1) and (2). Section 340(b)(3) provides:

The limitations in paragraphs (1) and (2) shall not prohibit a retransmission under this section to a subscriber located in a local market in which there are no network stations affiliated with the same television network as the station whose signal is being retransmitted pursuant to this section.

Thus, the subscriber eligibility requirements in sections 340(b)(1) and (2) do not apply to the receipt of the signal of a significantly viewed network station for which there is no local network affiliate broadcasting in the relevant local market. This exception permits a satellite carrier to retransmit a significantly viewed station to a subscriber when there is no local affiliate of the same network present in that market.

78. The statutory copyright license for significantly viewed carriage, however, does not include language comparable to the exception in section 340(b)(3). Instead, section 119(a)(3)(B) of title 17 provides that the statutory copyright license contained in section 119(a)(3)(A):

shall apply only to secondary transmissions of the primary transmissions of network stations and superstations to subscribers who receive secondary transmissions from a satellite carrier pursuant to the statutory license under section 122.

79. The NPRM asked whether we should require that local-into-local service be offered to subscribers in a market as a pre-condition to offering the signal of a significantly viewed station affiliated with a network that has no affiliate in the market in question. We sought comment on the effect of the difference between the copyright and Communications Act provisions on subscriber eligibility for significantly viewed signals. Finally, we considered the situation where a local network station is present in the market but is not broadcasting in digital format.

80. We find that a satellite carrier may retransmit a significantly viewed station to a subscriber when there is no local affiliate of the same network present in that market, provided that the subscriber subscribes to and receives the carrier's local-into-local service. Although section 340(b)(3) does not require local-into-local service, we conclude that we should read this provision together with the compulsory license restriction in section 119(a)(3)(B) of title 17, which does require the subscriber's receipt of local-into-local service. We agree with NAB that the compulsory license restriction compels this finding. EchoStar argues that this finding would deny the effect of section 340(b)(3), but any authority conferred by section 340(b)(3) would mean little without the authority of a compulsory copyright license. Instead, we agree with NAB that the better reading of the statute requires us to consider both provisions together.

81. We affirm our conclusion that where a local network station is not broadcasting in a digital format, for reasons recognized as legitimate by the Commission, then the local network station should not be penalized by having an out-of-market significantly viewed digital signal imported into its market. We recognize that, in this case, subscribers will not have the opportunity to receive local digital service from a significantly viewed network station. We note that most stations are broadcasting a digital signal. As of June 2, 2005, 100 percent of the network affiliates in the Top 30 markets are broadcasting in digital, and 87 percent of all other commercial network affiliates are broadcasting in digital. (See http://www.fcc.gov/mb/video/files/dtvonairsum.html). Nevertheless, the local station may have a legitimate reason for not broadcasting in digital format. Because the station is present in the market, we find the statute prohibits subscribers from receiving the digital signal of a significantly viewed station unless the subscriber is receiving the local station's digital signal. We note that the legislative history suggests an intention to treat differently stations whose reason for failing to broadcast in digital is not excused by the Commission. Notably, the House Commerce Committee Report: states: “section 340(b)(3) does not allow provision of an out-of-market significantly viewed digital signal of a network broadcast station if a local affiliate from the same network is present in the market but not yet broadcasting a digital signal. Section 340(b)(3) operates in this fashion to ensure that a satellite carrier may not retransmit the out-of-market significantly viewed digital signal of a network broadcast station if an affiliate of that network is present in the local market but has never begun to offer a digital signal for a reason excused by the FCC.” We will consider carriage of significantly viewed digital signals on a case-by-case basis in situations in which the satellite carrier shows that the local station has not been excused or has been sanctioned by the Commission with respect to its digital build-out.

5. Privately Negotiated Waivers

82. The SHVERA permited a satellite carrier to privately negotiate with the local network station to obtain a waiver of the subscriber eligibility restrictions in sections 340(b)(1) and 340(b)(2). Section 340(b)(4) provides:

Paragraphs (1) and (2) shall not prohibit a retransmission of a network station to a subscriber if and to the extent that the network station in the local market in which the subscriber is located, and that is affiliated with the same television network, has privately negotiated and affirmatively granted a waiver from the requirements of paragraph (1) and (2) to such satellite carrier with respect to retransmission of the significantly viewed station to such subscriber.

Thus, if such negotiations are successful, a satellite subscriber who is not receiving the local network affiliate via satellite may nevertheless receive the signal of a significantly viewed station affiliated with that same network. In the NPRM, we tentatively concluded that local broadcasters could determine the scope of such a waiver.

83. We affirm our conclusion that a waiver pursuant to this provision may be as broad or as narrow as desired by the local network affiliate. (See House Commerce Committee Report at 13 (“The waiver can be as broad or as narrow as the affiliate wants.”)). As noted by the House Commerce Committee Report, section 340(b)(4) enables a local network affiliate to waive the subscriber eligibility restrictions of sections 340(b)(1) or 340(b)(2) with respect to one or more consumers in the local market, and with respect to one or more specific significantly viewed affiliates of the same network. The local network affiliate may do so as part of a negotiated agreement and for any reason, including common ownership among the stations.

84. In addition, the statutory copyright provisions contained in 17 U.S.C. 119, as amended by the SHVERA, describe the waiver process in greater detail. Section 102 of the SHVERA provided:

(i) IN GENERAL. A subscriber who is denied the secondary transmission of the primary transmission of a network station under subparagraph (B) may request a waiver from such denial by submitting a request, through the subscriber's satellite carrier, to the network station in the local market affiliated with the same network where the subscriber is located. The network station shall accept or reject the subscriber's request for a waiver within 30 days after receipt of the request. If the network station fails to accept or reject the subscriber's request for a waiver within that 30-day period, that network station shall be deemed to agree to the waiver request. Unless specifically stated by the network station, a waiver that was granted before the date of the enactment of the Satellite Home Viewer Extension and Reauthorization Act of 2004 under section 339(c)(2) of the Communications Act of 1934 shall not constitute a waiver for purposes of this subparagraph.

(ii) SUNSET. The authority under clause (i) to grant waivers shall terminate on December 31, 2008, and any such waiver in effect shall terminate on that date.”

In the NPRM, we sought comment on the effect, if any, of this statutory copyright license waiver provision, in particular the sunset provision, on waivers granted pursuant to section 340(b)(4). We also tentatively concluded not to intervene in the section 340(b)(4) waiver process, and that such waivers are not subject to the section 325 good-faith negotiation requirement.

85. To carry a significantly viewed station via a privately negotiated waiver, a satellite carrier must have both the authority under section 340(b)(4) and the statutory copyright license under 17 U.S.C. 119(a)(3)(C). As a practical matter, both of these provisions must be satisfied, because a significantly viewed station cannot be carried without the authority under section 340(b)(4) and the statutory copyright license in 17 U.S.C. 119. Section 340(b)(4) requires that a local station affirmatively grant a waiver request to a satellite carrier. We agree with NAB that section 340(b)(4) is clear on this point. The statutory copyright license waiver provision in 17 U.S.C. 119 requires that a local station act on such waiver requests within 30 days, and will deem that the local station agrees to the copyright license waiver request if it does not act within that time frame. EchoStar argues that finding a requirement that a local station affirmatively act on a request for a section 340(b)(4) waiver would in effect nullify this provision. While this may be true as a practical matter, we believe that the SHVERA will require an affirmative grant of authority under section 340(b)(4), even though it will grant a statutory copyright license through inaction under 17 U.S.C. 119(a)(3)(C). Both provisions must be given effect.

86. In addition, we find that the copyright waiver provision in 17 U.S.C. 119 terminates the authority to grant a waiver on December 31, 2008, and also terminates all existing waivers on that date. We agree with NAB that carriage of a significantly viewed station via a waiver granted pursuant to section 340(b)(4) is subject to the sunset provision in 17 U.S.C. 119 because the right to carriage under section 340(b)(4) would essentially be meaningless without the statutory copyright license.

87. We affirm our decision not to intervene in the waiver process. We agree with NAB that the statute is clear that waivers are to be “privately negotiated.” Language in the House Commerce Committee Report is equally clear: “The Committee does not intend the FCC to grant these waivers or preside over the waiver process.” The decision to grant a waiver is a decision to be made solely by the local network station based on its own business judgment. Because such waivers are voluntary and expressly outside the Commission's purview, we find there is no need for rules or procedures concerning waiver arrangements between stations and satellite carriers. Thus, we reject EchoStar's request to intervene in the waiver process. We will not grant waivers pursuant to section 340(b)(4), nor will we preside over the waiver process. We note, however, that the presence or absence of a waiver may be relevant in an enforcement proceeding concerning significantly viewed carriage.

88. We also affirm our conclusion that waivers or agreements pursuant to section 340(b)(4) are not subject to the section 325 good-faith negotiation requirement. Because such privately negotiated waivers do not pertain to retransmission consent for the signal of the station that would be granting the waiver, we agree with NAB that the section 325 good-faith negotiation requirement does not apply to any waiver privately negotiated between a local network station and a satellite carrier. Language in the House Commerce Committee Report supports this finding: “Nor does the Committee intend such waivers or agreements to be subject to the section 325 good-faith negotiation requirement.”

89. We revise our proposed rule, § 76.54(g), to add a new § 76.54(g)(2) to expressly provide for the exception created by section 340(b)(4)'s waiver provision.

6. Additional Digital Service Limitations; Definitions of “Equivalent Bandwidth” and “Entire Bandwidth”

90. In addition to the digital service limitations in section 340(b)(2)(A), the SHVERA specified certain “bandwidth” requirements in section 340(b)(2)(B) for the retransmission of the local network station's digital signal when a satellite carrier opts to retransmit the digital signal of a significantly viewed affiliate station. Section 340(b)(2)(B) provides:

With respect to a signal that originates as a digital signal of a network station, this section shall apply only if—* * * (B) either—(i) the retransmission of the local network station occupies at least the equivalent bandwidth as the digital signal retransmitted pursuant to this section; or (ii) the retransmission of the local network station is comprised of the entire bandwidth of the digital signal broadcast by such local network station.

91. The SHVERA directed the Commission to define the terms “equivalent bandwidth” and “entire bandwidth,” and provided that a satellite carrier not be: (1) Prevented from using compression technology; (2) required to use the identical bandwidth or bit rate as the local or distant broadcaster whose signal it is retransmitting; or (3) required to use the identical bandwidth or bit rate for a local network station as it does for a distant network station. (See 47 U.S.C. 340(i)(4)(A), (B) and (C); House Commerce Committee Report at 13 (“The Committee does not intend section 340(b)(2)(B) to prevent a satellite operator from using compression technology; to require a satellite operator to use the exact bandwidth or bit rate as the local or distant broadcaster whose signal it is retransmitting; or to require a satellite operator to use the exact bandwidth or bit rate for a local broadcaster as it does for a distant broadcaster.”)).

92. In the NPRM, we sought comment generally on these concepts of “equivalent bandwidth” and “entire bandwidth.” Our proposed rule, § 76.54(h), required only that satellite carriers abide by the “equivalent bandwidth” and “entire bandwidth” requirements. We also explained the relationship between the format of the digital signal of the significantly viewed network affiliate and the format of the digital signal of the local network station. Finally, we asked whether satellite carriers must use the same compression techniques for both the local network station and the significantly viewed network affiliate. We noted that doing so may result in differences in real bandwidth and bit rate, depending on the programming content carried in the signals. For example, we said that a significantly viewed network affiliate broadcasting a sporting event would use more bandwidth than a local network station broadcasting an interview (i.e., talking head). In this example, we asked whether we should apply the same compression standard to both stations, thereby precluding the significantly viewed sporting event. We asked whether only comparable content that uses a comparable bit rate should be afforded equivalent bandwidth. We also asked whether we should require only that the same amount of bandwidth be made available to the local network station, allowing the local station to choose the amount of bandwidth it needs.

93. We adopt new § 76.54(h) to require that satellite carriers comply with the “equivalent bandwidth” and “entire bandwidth” requirements. DIRECTV and NAB offer the most extensive comments on these concepts. Both agree that the Commission should not strictly define these concepts, but, instead, should offer examples of how these concepts would apply in certain circumstances. We agree. Our definition tracks the language of the statute; see 47 U.S.C. 340(b)(2)(B). In addition, pursuant to the statute, and in response to the comments, we will offer additional guidance concerning how these concepts will apply in certain situations. We recognize that we cannot anticipate every possible situation; therefore, we will resolve remaining questions about these concepts on a case-by-case basis. We also note that the SHVERA significantly viewed provisions are distinct from the local signal carriage requirements in section 338; 47 U.S.C. 338 governs the carriage of local television signals whereas 47 U.S.C. 340 governs the carriage of significantly viewed signals. Thus, our discussion in the context of significantly viewed is separate and apart from the digital signal carriage requirements that are under consideration in a separate proceeding. (See Carriage of Digital Television Broadcast Signals: Amendment to Part 76 of the Commission's Rules, CS Docket No. 98-120, Second Report and Order and First Order on Reconsideration, 20 FCC Rcd 4516 (2005)). Congress' focus in enacting section 340 and our focus in its implementation are on the circumstances in which a satellite carrier may offer a significantly viewed signal to a subscriber. Issues related to material degradation and mandatory carriage of local signals are not within the scope of this proceeding. (See 47 U.S.C. 340(d)(1); House Commerce Committee Report at 12 (“section 340(d)(1) also makes clear that any right of a station to have its signal carried in a local market under the carry-one, carry-all provisions of section 338 is not affected by the significantly viewed status of the signal in another market.”)).

94. We agree with DIRECTV and NAB that the concepts of “equivalent bandwidth” and “entire bandwidth” were created to prohibit satellite carriers from using technological means to discriminate against the digital signals of local stations in favor of the digital signals of significantly viewed stations. This seems clear given Congress' intent to prevent satellite carriage of a local network station's digital signal “in a less robust format” than the digital signal of the significantly viewed network affiliate. Certain situations are clear, as the commenters agree. For example: If the significantly viewed (SV) station and local station both transmit in HD, and a satellite carrier wishes to carry the HD signal of the SV station, then the carrier must also carry the local station in HD.

95. The SHVERA, however, recognized that not all local network stations will be broadcasting in HD or multicast format. Therefore, the statute permitted satellite carriage of a significantly viewed station's digital signal in HD or multicast format, while only carrying the affiliated local network station's digital signal in a single SD format, provided the local station only broadcasts in that single SD format. (See 47 U.S.C. 340(b)(2)(B)(ii) (permits satellite carriage where “the retransmission of the local network station is comprised of the entire bandwidth of the digital signal broadcast by such local network station”); House Commerce Committee Report at 12 (“the local affiliate's choice to multicast does not prevent the satellite operator from retransmitting a significantly viewed signal of a distant affiliate of the network that chooses to broadcast in high-definition”)). Thus, we conclude that if the SV station transmits in HD and the local station transmits only a single SD stream, then a satellite carrier may carry the SV station's HD signal, while only carrying the local station's single SD stream. The comments agree with this result. Likewise, it follows that if a SV station transmits several multicast streams and the local station transmits only a single SD stream, then a satellite carrier may carry the SV station's multicast streams, while only carrying the local station's single SD stream.

96. Comparisons of the significantly viewed station's signal with the local station's multiplexed (multicast) signal present a more challenging problem for defining equivalent bandwidth. The statute expressly measured equivalency in terms of bandwidth, which calls for an objective comparison. We will base our comparisons on each station's use of its 6 MHz of bandwidth and a satellite carrier's carriage of the station in terms of megabits per second (mbps), or bit rate. We note that the maximum bit rate DTV broadcasters can use over-the-air in 6 MHz of spectrum is 19.4 mbps. (See Advanced Television Systems Committee (ATSC) standard A/53B, ATSC Digital Television Standard, Revision B (Annex D) (Aug. 7, 2001)). The statute expressly allowed satellite carriers to use compression technology, but carriers may not use such techniques in a manner that degrades the local station's signal more than the SV station's signal. NAB states the Commission should define equivalent and entire bandwidth to prevent satellite carriers from using technological means, including compression techniques, to discriminate against local digital signals or otherwise to favor significantly viewed distant digital signals. NAB states this principle of nondiscrimination should also encompass material degradation, functionalities such as interactivity, and hours of HD programming across dayparts and in total. DIRECTV agrees that a satellite carrier may not use compression techniques to materially degrade a local station's signal compared to that of the SV station. Although the Commission has defined what constitutes “material degradation” in the First Report and Order in the digital must carry proceeding, several parties have requested reconsideration of that decision; the reconsideration proceeding remains pending. (See Carriage of Digital Television Broadcast Signals: Amendment to Part 76 of the Commission's Rules, 16 FCC Rcd 2598, 2628-29 (2001) (petitions for reconsideration pending)). We will compare the appropriate bit rate under the circumstances. For example, we recognize that use of a higher compression technique (e.g., MPEG-4 rather than MPEG-2) will result in a lower bit rate but with the same effective result. In this respect, we agree with DIRECTV that a satellite carrier could comply with the rule even if it used different compression technology (e.g., MPEG-4 versus MPEG-2) or modulation technology (e.g., 8PSK versus QPSK) for the two sets of signals, provided there is no greater degradation of the local station's signal. To the extent a carrier wishes to use different compression techniques for the two stations, it may not do so in a way that is inconsistent with the equivalent bandwidth requirements described herein. We will consider whether carriers follow generally accepted engineering practices as well as any other relevant means to compare picture quality.

97. We will generally interpret equivalency to mean that a satellite carrier that wishes to carry a significantly viewed station must provide the local station with an opportunity to use the same amount of bandwidth as the significantly viewed station. Thus, a satellite carrier may carry the signal of a significantly viewed station only if the amount of bandwidth used to carry such station is equivalent to the amount of bandwidth used to carry the signal of the local station affiliated with the same network, unless of course the carrier is carrying the entire amount of bandwidth used by the local station for free over-the-air video programming. We must also consider that “equivalent” is not the same as identical, and that Congress has expressly stated that we should not impose a requirement for identical bandwidth or bit rate. (See 47 U.S.C. 340(i)(4)(A), (B) and (C)). We believe the statute requires “equivalent” bandwidth and precludes “identical” bandwidth in recognition of the fact that bandwidth use (or bit rate) will fluctuate from moment to moment. We thus conclude that if the SV station transmits in HD and the local station transmits multiplexed (multicast) signal, then a satellite carrier may carry the SV station's HD signal, provided it also carries as many of the local station's multicast channels as necessary to match the bandwidth provided to the SV station. Until the Commission addresses satellite carriage of digital signals in the pending DTV carriage rulemaking, the parties will privately determine which streams will be carried, since satellite carriage of local stations' digital signals is currently only pursuant to retransmission consent. This equivalence applies to the local or significantly viewed programming carried at the same time.

98. In adopting the comparative bit rate approach, we are aware that DIRECTV claims that such comparisons are technically infeasible, both because of the difficulties in calculating them and because of the number of signals that must be compared by the carrier. DIRECTV argues that we should interpret the concepts of equivalent and entire bandwidth only “to prohibit material discrimination as measured on an overall carriage (not program-by-program or minute-by-minute) basis.” DIRECTV states we should not require “equivalence” at any given moment, or require exact equality even when measured over a longer period of time. For example, DIRECTV argues that it should be allowed to retransmit a significantly viewed station's HD programming even if such programming does not occur at the same time or in exactly the same number of hours as the local station's HD programming. We disagree. Not only would this be contrary to the statute's language and intent (House Commerce Committee Report at 12 (“section 340(b)(2)(B) prevents the satellite operator from retransmitting a local affiliate's digital signal in a less robust format than a significantly viewed digital signal of a distant affiliate of the same network * * *”)), but we agree with NAB that DIRECTV's proposed interpretation would cause the type of material discrimination that DIRECTV itself argues the statute prohibits because it would allow satellite carriers to carry a significantly viewed station in a more favorable format than that of the local station during different times of the day.

99. We rest our conclusion on the statute, which speaks in terms of bandwidth, not material discrimination. Therefore, we will require satellite carriers to make an objective comparison, rather than a subjective one based on material discrimination. For example, if an SV station transmits an HD signal with a maximum bit rate of 15 mbps and the local station transmits six (multicast) channels each with a maximum bit rate of 3 mbps, then a satellite carrier may carry the SV station's HD signal, provided it also carries at least five of the local station's multicast signals. We will consider issues relating to comparisons on a case-by-case basis. If it is feasible and facilitates compliance, a satellite carrier may establish a “set bit rate” that will apply to the SV station's digital signal to ensure that the bandwidth devoted to the SV signal does not exceed the bandwidth devoted to the local station's signal, except for the normal fluctuations attributable to action or inaction in the programming. For example, a situation may occur where a satellite carrier “sets” its encoder to 12 mbps knowing that the encoder will deliver a stream within a range, such as ±5%, which would generate an output that would vary from 11.4 to 12.6 mbps. Even if the local and SV station were both “set” to 12 mbps, it is possible that the actual result would be two streams with different maximums and different averages, simply based on the type of programming (e.g., sports versus drama). In practice, the SV station may generate a stream from 11.4 to 12.6 mbps and the local station may generate a stream from 11.7 to 12.1 mbps. In this case, as long as the carrier remains equitable in the treatment of both stations, it would meet the statutory requirement. We note that this would be consistent with the statute's requirement that we not require identical bandwidth or bit rate. NAB agrees that “the equivalent bandwidth requirement is satisfied if the local station is broadcasting an SD stream containing a comedy program and the significantly viewed distant station is broadcasting an SD stream containing a drama program and, at any given instant, the drama (say, a high-speed chase) requires more bits than the comedy, provided that, on average, both SD streams are provided equivalent bandwidth. Similarly, if the local station is broadcasting its local news in HD and the distant significantly viewed station is broadcasting a sporting event in HD, the equivalent bandwidth requirement is satisfied so long as the multiplexer is ‘allocat[ing] bandwidth rationally as between [the] sports and ‘talking head’ programming.’ ” For instance, if an SV station transmits an HD signal with a maximum bit rate of 15 mbps and the local station transmits two (multicast) channels, one in HD with a maximum bit rate of 12 mbps and one in SD with a maximum bit rate of 3 mbps, and a satellite carrier wishes only to carry one signal for each station, then the carrier may not carry the SV station's HD signal, unless it caps (or “sets”) the bit rate for such signal at a maximum of 12 mbps.

100. With respect to timing, if the SV station and local station are both multicasting, a satellite carrier may choose to carry only one channel for each station provided the signals are equivalent during the time they are carried. For example, assuming that the SV station and local station are both multicasting an HD and one or more SD channels at least sometime during the day, and a satellite carrier wants to carry only one channel for each station, if the SV station is transmitting its primetime programming in HD, and the carrier wants to carry that signal in HD, then it must also carry the local station's HD broadcast of primetime programming. However, if the local station is multicasting at 4:00 and singlecasting SD in primetime, the satellite carrier may carry the SV station's HD signal at 8:00, and is not required to carry the local station's multiplexed signal at 4:00.

101. EchoStar argues that requiring equivalency in terms of bandwidth would create an unconstitutional multicast must carry requirement, and that therefore we should only compare the primary feeds of both stations. We disagree with EchoStar's argument, as well as its premise. The carriage requirement, as noted above, is separate and distinct from the optional carriage of significantly viewed stations. (See 47 U.S.C. 340(d)(1)). The carrier is not required to carry local stations at all unless it chooses to do so. Mandatory satellite carriage applies only in Alaska and Hawaii. (See Implementation of Section 210 of the Satellite Home Viewer Extension and Reauthorization Act of 2004 to Amend Section 338 of the Communications Act, MB Docket No. 05-181, FCC 05-159 (rel. Aug. 23, 2005)). Elsewhere in the United States, satellite carriage of local stations is pursuant to “carry-one, carry-all,” which applies if a satellite carrier chooses to use the statutory copyright license for carriage of one or more local stations. See 47 U.S.C. 338(a); see also Satellite Broadcasting and Communications Ass'n v. FCC, 275 F.3d 337 (2001), cert. denied, 536 U.S. 922 (2002) (“SBCA”)). If it wishes to offer significantly viewed stations, carriage of local stations is a statutory condition precedent. This statutory requirement is based on Congressional intent to make satellite carriage of significantly viewed stations comparable to cable carriage of significantly viewed stations in light of the “must carry” regime that requires cable to carry local stations in every market. (See House Commerce Committee Report at 1 (seeking “regulatory parity by extending to satellite operators the same type of authority cable operators already have to carry ‘significantly viewed' signals into a market”)). Carriage of local stations as a condition to carriage of out-of-market stations offers satellite carriers a choice, not a requirement. Further, we agree with NAB that EchoStar's argument is not supported by the statute or legislative history. The statute expressly requires a comparison of bandwidth, and not primary feeds.

102. We believe we have struck the appropriate balance between permitting the satellite delivery of a significantly viewed digital signal and protecting a local broadcaster against the delivery of its signal in a less favorable format than that of an out-of-market station, while adhering to the express language in the statute. We amend § 76.54 accordingly.

103. We noted in the NPRM that the SHVERA required that the same “equivalent bandwidth” definition developed pursuant to new section 340(h)(4), be used for purposes of section 339(a)(2)(D)(iii)(II). 46 n.126. We did not receive comments on this issue. As required by the SHVERA, our definition in § 76.54(h) for purposes of the provisions concerning “distant digital signals” of network stations must also be applied to new section 339(a)(2)(D)(iii)(II).

C. Section 341's Special Rules for Certain Counties and Markets

1. Section 341(a) Confers Significantly Viewed Status to Certain Counties in Oregon

104. Section 211 of the SHVERA created section 341(a) of the Act, which authorizes the retransmission of certain stations deemed to be significantly viewed, in accordance with § 76.54 of our rules, “to subscribers in an eligible county.” 47 U.S.C. 341(a) (“Carriage of television signals to certain subscribers”) provides: (1) In General—A cable operator or satellite carrier may elect to retransmit, to subscribers in an eligible county: (A) Any television broadcast stations that are located in the State in which the county is located and that any cable operator or satellite carrier was retransmitting to subscribers in the county on January 1, 2004; or (B) up to 2 television broadcast stations located in the State in which the county is located, if the number of television broadcast stations that the cable operator or satellite carrier is authorized to carry under paragraph (1) is less than 3. (2) Deemed Significantly Viewed. Any station described in subsection (a) is deemed to be significantly viewed in the eligible county within the meaning of § 76.54 of the Commission's regulations (47 CFR 76.54). (3) Definition of Eligible County. For purposes of this section, the term ‘eligible county’ means any 1 of 4 counties that: (A) Are in a single State; (B) on January 1, 2004, were each in designated market areas in which the majority of counties were located in another State or States; and (C) as a group had a combined total of 41,340 television households according to the U.S. Television Household Estimates by Nielsen Media Research for 2003-2004. (4) Limitation. Carriage of a station under this section shall be at the option of the cable operator or satellite carrier. In the NPRM, we tentatively concluded that this provision applies only to certain counties in the State of Oregon, and requires that stations in these eligible counties be “deemed significantly viewed” and added to the SV list. At the time of the NPRM, we were unable to identify which stations might qualify under this provision and so we did not include them in the SV List. We did, however, request comment to identify and confirm the stations that would qualify under this provision.

105. We find that section 341(a) applies to four counties in the State of Oregon—Grant, Malheur, Umatilla and Wallowa. Our determination, which is supported by the commenters on this issue, is based on the fact that section 341(a) explicitly limits an “eligible county” to “any one of four counties” “in a single state” that “as a group had a combined total of 41,340 television households according to the U.S. Television Household Estimates by Nielsen Media Research for 2003-2004.” A staff review of the U.S. Television Household Estimates by Nielsen Media Research for 2003-2004, as well as the comments on this issue, shows these four counties to be Grant (3,040 TV households), Malheur (10,350 TV households), Umatilla (25,050 TV households) and Wallowa (2,910 TV households), which have a combined total of 41,340 television households according to the U.S. Television Household Estimates by Nielsen Media Research for 2003-2004.

106. At this time, we are still unable to identify which stations might qualify under section 341(a) and so we will not include them in the SV List. No comments have identified any stations that would qualify for significantly viewed status pursuant to this provision. Thus, there is insufficient information in the record to make such determinations. EchoStar has asked that we require the cable systems in the affected counties to provide information about which stations were carried on cable systems as of January 1, 2004. We believe EchoStar and other interested parties should contact cable operators or stations directly. They may contact the Media Bureau on a case-by-case basis if cable systems are not cooperative with requests for such information. In terms of adding stations to the SV List, we will permit a station that qualifies for carriage under section 341(a), or a cable operator or satellite carrier that seeks to carry such a station, to petition the Commission for significantly viewed status pursuant to this provision. Such a petition must demonstrate that the station qualifies for carriage under section 341(a).

2. Section 341(b) Precludes Carriage of Significantly Viewed Signals Into Palm Springs and Bakersfield DMAs

107. Section 211 of the SHVERA created section 341(b) of the Act, which prevents a satellite carrier from carrying “the signal of a television station into an adjacent local market that is comprised of only a portion of a county, other than to unserved households located in that county.” 47 U.S.C. 341(b) (“Certain Markets”) provides: “Notwithstanding any other provision of law, a satellite carrier may not carry the signal of a television station into an adjacent local market that is comprised of only a portion of a county, other than to unserved households located in that county.” In the NPRM, we said this provision applies only to the DMAs of Palm Springs and Bakersfield, because they are the only DMAs that appear to satisfy the definition.

108. We find that section 341(b) prevents a satellite carrier from retransmitting a significantly viewed signal into the DMAs of Palm Springs and Bakersfield, CA. These are the only DMAs which satisfy the definition in section 341(b). The commenters on this issue support this conclusion. We thus adopt a new rule to implement this provision.

D. Enforcement and Notice Provisions

1. Enforcement of Section 340

109. The SHVERA, in section 340(f), created an enforcement mechanism for the new provisions regarding satellite delivery of significantly viewed signals. (See 47 U.S.C. 340(f), as added by section 202 of the SHVERA; 47 U.S.C. 339(a)(3), as amended by section 204 of the SHVERA (requires Commission enforcement of the new provisions concerning distant digital signal carriage pursuant to the provisions of section 340(f)). Section 340(f)(1) states that the Commission will respond to a complaint by issuing a “cease and desist order” and may provide for damages if requested and proven by the station filing the complaint. 47 U.S.C. 340(f)(1) provides: (1) ORDERS AND DAMAGES. Upon complaint, the Commission shall issue a cease and desist order to any satellite carrier found to have violated this section in carrying any television broadcast station. Such order may, if a complaining station requests damages: (A) provide for the award of damages to a complaining station that establishes that the violation was committed in bad faith, in an amount up to $50 per subscriber, per station, per day of the violation; and (B) provide for the award of damages to a prevailing satellite carrier if the Commission determines that the complaint was frivolous, in an amount up to $50 per subscriber alleged to be in violation, per station alleged, per day of the alleged violation. The SHVERA provided for monetary penalties up to $50 per subscriber, per station, per day if the station establishes that the satellite carrier committed the violation in bad faith, and provides that the Commission may impose similar damages on the complaining station if the Commission determines that the complaint was frivolous.

110. The statute does not define “bad faith” or “frivolous,” but in the NPRM we noted some language in a floor statement by Subcommittee Chairman Upton to suggest that a Commission finding of damages would be warranted if (1) a satellite carrier lacks a good faith belief that the carriage of the challenged signal was lawful or (2) a broadcaster seeks damages in bad faith. (See Upton Floor Statement at 1 (“If a broadcast station seeks damages, section 340(f)(1)(A) authorizes the FCC to award the station up to $50 per subscriber illegally served, per station illegally carried, per day of the violation if the FCC finds that the satellite operator did not have a good-faith belief that provision of the signal was lawful. Conversely, if a broadcaster seeks damages and the FCC finds that the broadcaster's claims were made in bad faith, section 340(f)(1)(B) allows the FCC to award the satellite operator up to $50 per subscriber, per station, per day that the broadcaster alleged the satellite operator was serving in violation of section 340.”)). Chairman Upton further states that if the broadcaster filing the complaint does not seek damages, then a finding of damages against either party by the Commission would not be appropriate.

111. In the NPRM, we tentatively concluded to address allegations of bad faith or frivolousness on a case-by-case basis. We asked whether there were particular circumstances that would generally warrant such a finding. (“For example, if the only violation of section 340 were the failure to notify all broadcast stations in a market 60 days prior to commencing carriage of the significantly viewed stations, would such conduct constitute bad faith by the satellite carrier? Would seeking damages for failure to notify one station constitute a frivolous complaint by a broadcaster?”) We did, however, tentatively conclude that it would not constitute bad faith for a satellite carrier to carry a station listed as significantly viewed in a community on the SV List during the pendency of this proceeding, even if the listing is later shown to be incorrect, provided the carrier follows the other statutory and regulatory requirements.

112. The SHVERA, in section 340(f)(2), required the Commission to issue final determinations within 180 days of the filing of a complaint concerning section 340. 47 U.S.C. 340(f)(2) provides: (2) COMMISSION DECISION. The Commission shall issue a final determination resolving a complaint brought under this subsection not later than 180 days after the submission of a complaint under this subsection. The Commission may hear witnesses if it clearly appears, based on written filings by the parties, that there is a genuine dispute about material facts. Except as provided in the preceding sentence, the Commission may issue a final ruling based on written filings by the parties. The statute permitted but did not require the Commission to hold hearings to resolve genuine disputes over material facts. In the NPRM, we tentatively concluded to use our existing procedures for Petitions for Special Relief as the procedural framework for complaints concerning significantly viewed status. We proposed that parties would follow the pleading requirements in § 76.7(a)(1) and (b)(1) for petitions, which would allow us to issue a ruling on complaints.

113. Determinations of bad faith or frivolousness. Because questions of bad faith or frivolousness often turn on the specific facts of a particular case, we affirm our tentative conclusion in the NPRM and will make determinations of bad faith or frivolousness on a case-by-case basis. The commenters on this issue support our conclusion. The commenters, however, split as to the amount of guidance we should offer at this time. NAB states that it would be premature to identify specific circumstances of bad faith or frivolousness. DIRECTV and EchoStar seek confirmation about whether certain conduct would constitute bad faith. DIRECTV and EchoStar argue that we should not find bad faith where a carrier inadvertently failed to make a required notice. EchoStar also argues that complaints by broadcasters that are filed en masse without regard to the merits or that concern a third-party broadcaster should be considered frivolous. In the absence of specific facts, we cannot come to definitive conclusions regarding what circumstances warrant a finding of bad faith. Nevertheless, in response to the comments of DIRECTV and EchoStar, we will note that, as a general rule, we will find bad faith where there has been some evidence of a dishonest belief or purpose and we will not find bad faith where there has been only an honest mistake. Black's Law Dictionary characterizes bad faith as having a dishonest belief or purpose. (See e.g., 47 CFR 76.65(d) (burden of proof is on the complainant to establish a good faith violation); Review of the Section 251 Unbundling Obligations of Incumbent Local Exchange Carriers, 18 FCC Rcd 16978, 17406, para. 706 (2003) (stating that a party's gamesmanship, refusal to negotiate, or actions causing unnecessary delay may lead to a finding of bad faith)). Likewise, as a general rule, we will find a complaint to be frivolous upon evidence that a complaint was filed without regard to the merits or brought for an unreasonable purpose. Black's Law Dictionary characterizes a frivolous claim as one lacking legal basis or legal merit. (See e.g. 47 CFR 73.3592(a)(1) (stating that an application is not filed in good faith where its purpose is to delay or hinder grant of another application); William P. Johnson & Hollis P. Johnson, d/b/a Radio Carrollton, 69 FCC 2d 1139, 1150, para. 24 (1978) (explaining that a “strike pleading” is one filed in bad faith for the primary purpose of blocking, impeding, or delaying the grant of an application)).

114. We will affirm, however, our tentative conclusion that carriage instituted in reliance on the SV List, and otherwise in compliance with the SHVERA and the Commission's rules, should not be treated as a “bad faith” violation, notwithstanding a subsequent conclusion that the SV List was in error. We agree with EchoStar that such use of the SV List was contemplated by the SHVERA. Congress intended for satellite carriers to “start carrying the signals on the list pending adoption of the rules.”

115. Enforcement procedures. We will use our existing procedures for Petitions for Special Relief as the procedural framework for complaints concerning significantly viewed status, as proposed in the NPRM. Because section 340(f) expressly provides for issuance of a cease and desist order to remedy violations of the significantly viewed provisions but does not require a hearing, we are not required to follow the provisions in section 312(c) of the Communications Act. (See 47 U.S.C. 312(c) (requires service of an order to show cause and a hearing before revoking a license or issuing a cease and desist order pursuant to 47 U.S.C. 312(b))). The procedures for Petitions for Special Relief, which the Commission uses to process cable and satellite carriage complaints, as well as complaints concerning the exclusivity rules and other cable and satellite regulations, will afford the parties ample opportunity to raise and respond to allegations while ensuring that the Commission can complete action within the 180 day statutory deadline. Parties must follow the pleading requirements in § 76.7(a)(1) and (b)(1) for petitions. No commenters addressed this issue.

116. We affirm our finding that sections 340(f)(3) and (4) provide that remedial actions taken by the Commission pursuant to section 340 are in addition to and have no effect upon actions taken pursuant to the copyright provisions of title 17. 47 U.S.C. 340(f)(3) and (4) provide: (3) REMEDIES IN ADDITION. The remedies under this subsection are in addition to any remedies available under title 17, United States Code. (4) NO EFFECT ON COPYRIGHT PROCEEDINGS. Any determination, action, or failure to act of the Commission under this subsection shall have no effect on any proceeding under title 17, United States Code, and shall not be introduced in evidence in any proceeding under that title. In no instance shall a Commission enforcement proceeding under this subsection be required as a predicate to the pursuit of a remedy available under title 17. The meaning of these provisions is clear that neither action nor inaction by the Commission will have any effect on the filing of a copyright infringement or other action under title 17, nor on the remedies ordered by the appropriate forum thereunder.

2. Notice Concerning Retransmission of Significantly Viewed Stations

117. Section 340(g) requires satellite carriers to provide written notice to all television broadcast stations in a market at least 60 days before retransmitting a significantly viewed signal pursuant to section 340 into that market. Section 340(g), entitled “Notices Concerning Significantly Viewed Stations” states that “[e]ach satellite carrier that proposes to commence the retransmission of a station pursuant to this section in any local market shall—(1) not less than 60 days before commencing such retransmission, provide a written notice to any television broadcast station in such local market of such proposal; and (2) designate on such carrier's website all significantly viewed signals carried pursuant to section 340 and the communities in which the signals are carried.” The provision also requires satellite carriers to list on their websites all significantly viewed signals carried pursuant to section 340. In the NPRM, we tentatively concluded that these written notices must be sent to the station's principal place of business, as listed in the Commission's database, by certified mail, return receipt requested. We also tentatively concluded that satellite carriers must publish a list on their websites that will identify all of the significantly viewed signals they are carrying, by market and community.

118. We adopt § 76.54(e) to require, as proposed, that written notices must be sent by satellite carriers to a station's principal place of business, as listed in the Commission's database, by certified mail, return receipt requested. Reliance on the information in the Commission's database is consistent with other provisions of the SHVERA. (See e.g., 47 U.S.C. 338(h)(2)(c), as amended by SHVERA (requires the Commission to amend its rules to specifically require use of the Commission's consolidated database system for a television station licensee's address)). Most commenters agree with this conclusion. Licensees are encouraged to update the database to show where they want to receive notices. We agree that licensees should be mindful of their database listings; however, we disagree with DIRECTV that delivery of notices to P.O. boxes via certified mail may cause difficulties. Staff inquiry to the United States Postal Service (USPS) has verified that certified mail may be sent to a P.O. Box. Because certified mail requires a signature, a delivery notice will be left inside the P.O. Box to make the addressee aware that the item is available to be signed for at their Post Office. For more information, visit the USPS website at http://www.usps.com/. We find that requiring that the notices be sent via certified mail, return receipt requested is consistent with our rules, and ensures compliance with the statute. Certified mail will provide the carrier with proof that it mailed the notice to the address listed in the database; Return Receipt will provide the carrier with proof that the notice was delivered to the appropriate address. We disagree with DIRECTV and EchoStar that delivery via certified mail, return receipt requested is unnecessary. We find such delivery is necessary to evidence delivery of the notice. Finally, we revise our proposed rule to clarify that satellite carriers must also provide the carriage election notifications described in § 76.66(d)(5)(i). In the Procedural Rules Order, we revised § 76.66 of our rules to provide for carriage elections on a county basis, unified retransmission consent negotiations, and notifications by satellite carriers to local broadcasters concerning carriage of significantly viewed signals; Procedural Rules Order, 20 FCC Rcd 7780, 7784-85, para. 10-11 (2005).

119. We will also require satellite carriers to publish a list on their websites that will identify all of the significantly viewed signals they are carrying, by market and community. EchoStar has asked us to consider whether its proposed zip-code look-up function which would permit a visitor to type in a zip code to retrieve a list of the significantly viewed stations available to viewers in that zip code, would satisfy this statutory requirement. We find that it would not, unless this database would allow searchers to view a complete listing of all of EchoStar's significantly viewed signals, both by market and community. The statutory language clearly requires that a carrier post on its website all of its significantly viewed signals. We thus agree with NAB that EchoStar's proposed zip-code function would not satisfy the statute.

120. EchoStar asks that satellite carriers should have 10 days to update their website listing with any changes. We find this is consistent with the time afforded the Commission in making updates to its website SV List (47 U.S.C. 340(c)(2)).

121. The SHVERA stated that notice must be afforded to “any television broadcast station in such local market of such proposal.” (47 U.S.C. 340(g)(1)). Given the breadth of this language, we tentatively concluded in the NPRM that satellite carriers must provide notice to stations in the relevant market even if they are not affiliated with the same network of the significantly viewed station whose signal is being carried, regardless of whether they are carried by the satellite carrier as local stations pursuant to section 338. We recognized that stations seemingly unaffected by the significantly viewed status of unaffiliated stations would nonetheless be entitled to receive such notice under our rules. We affirm this tentative conclusion, based on the plain language of the statute. We received no comments on this issue.

V. Procedural Matters

A. Final Regulatory Flexibility Act Analysis

122. As required by the Regulatory Flexibility Act of 1980, as amended (RFA) an Initial Regulatory Flexibility Analysis (IRFA) was incorporated in the Notice of Proposed Rulemaking (NPRM) to this proceeding. The Commission sought written public comment on the proposals in the NPRM, including comment on the IRFA. The Commission received no comments on the IRFA. This present Final Regulatory Flexibility Analysis (FRFA) conforms to the RFA.

B. Need for, and Objectives of, the Report and Order

123. This Report and Order (R&O) adopts rules to implement section 202 of the Satellite Home Viewer Extension and Reauthorization Act of 2004 (SHVERA). Section 202 of the SHVERA created section 340 of the Communications Act and amended the copyright laws to provide satellite carriers with the authority to offer Commission-determined “significantly viewed” signals of out-of-market (or “distant”) broadcast stations to subscribers. This R&O satisfies the SHVERA's mandate that the Commission adopt rules implementing section 340 within one year of the statute's enactment. For specific examples of rules adopted, see the Summary in Section III.A.5. of the R&O.

C. Summary of Significant Issues Raised by Public Comments in Response to the IRFA

124. There were no comments filed that specifically addressed the rules and policies proposed in the IRFA.

D. Description and Estimate of the Number of Small Entities To Which the Proposed Rules Will Apply

1. Entities Directly Affected by Proposed Rules

125. The RFA directs the Commission to provide a description of and, where feasible, an estimate of the number of small entities that will be affected by the rules adopted herein. The RFA generally defines the term “small entity” as having the same meaning as the terms “small business,” small organization,” and “small government jurisdiction.” In addition, the term “small business” has the same meaning as the term “small business concern” under the Small Business Act. A small business concern is one which: (1) Is independently owned and operated; (2) is not dominant in its field of operation; and (3) satisfies any additional criteria established by the Small Business Administration (SBA).

126. The rules adopted by this R&O, as required by statute, will permit the distribution of Commission-determined “significantly viewed” signals by statutorily defined “satellite carriers” to consumers. Therefore, “satellite carriers,” which includes Direct Broadcast Satellite (DBS), will be directly and primarily affected by the rules adopted herein. In addition, the rules adopted herein will also directly affect television stations, which may be carried via satellite under the SHVERA if determined to be significantly viewed, and cable operators, which would share some of the new and revised rules with satellite carriers. We also believe that private cable operators (PCOs), also known as satellite master antenna television (SMATV) systems, may be directly affected because PCOs often use DBS video programming as part of their service package to subscribers. Therefore, in this FRFA, we consider the impact of the rules on small television broadcast stations, small cable and satellite operators and other small entities. A description of such small entities, as well as an estimate of the number of such small entities, is provided below.

127. Satellite Carriers. The SHVERA defined the term “satellite carrier” by reference to the definition in the copyright title 17. This definition includes entities providing services as described in 17 U.S.C. 119(d)(6) using the facilities of a satellite or satellite service licensed under part 25 of the Commission's rules to operate in Direct Broadcast Satellite (DBS) or Fixed-Satellite Service (FSS) frequencies. As a general practice, not mandated by any regulation, DBS licensees usually own and operate their own satellite facilities as well as package the programming they offer to their subscribers. In contrast, satellite carriers using FSS facilities often lease capacity from another entity that is licensed to operate the satellite used to provide service to subscribers. These entities package their own programming and may or may not be Commission licensees themselves. In addition, a third situation may include an entity using a non-U.S. licensed satellite to provide programming to subscribers in the United States pursuant to a blanket earth station license. In the Order, we conclude that the definition of “satellite carrier” would include all three types of entities described above.

128. Direct Broadcast Satellite (DBS) Service. DBS service is a nationally distributed subscription service that delivers video and audio programming via satellite to a small parabolic “dish” antenna at the subscriber's location. Because DBS provides subscription services, DBS falls within the SBA-recognized definition of Cable and Other Program Distribution. This definition provides that a small entity is one with $12.5 million or less in annual receipts. Currently, only four operators hold licenses to provide DBS service, which requires a great investment of capital for operation. All four currently offer subscription services. Two of these four DBS operators, DIRECTV and EchoStar Communications Corporation (EchoStar), report annual revenues that are in excess of the threshold for a small business. A third operator, Rainbow DBS, is a subsidiary of Cablevision's Rainbow Network, which also reports annual revenues in excess of $12.5 million, and thus does not qualify as a small business. The fourth DBS operator, Dominion Video Satellite, Inc. (Dominion), offers religious (Christian) programming and does not report its annual receipts. The Commission does not know of any source which provides this information and, thus, we have no way of confirming whether Dominion qualifies as a small business. Because DBS service requires significant capital, we believe it is unlikely that a small entity as defined by the SBA would have the financial wherewithal to become a DBS licensee. Nevertheless, given the absence of specific data on this point, we acknowledge the possibility that there are entrants in this field that may not yet have generated $12.5 million in annual receipts, and therefore may be categorized as a small business, if independently owned and operated.

129. Fixed-Satellite Service (FSS). The FSS is a radiocommunication service between earth stations at a specified fixed point or between any fixed point within specified areas and one or more satellites. The FSS, which utilizes many earth stations that communicate with one or more space stations, may be used to provide subscription video service. Therefore, to the extent FSS frequencies are used to provide subscription services, FSS falls within the SBA-recognized definition of Cable and Other Program Distribution, which includes all such companies generating $12.5 million or less in revenue annually. Although a number of entities are licensed in the FSS, not all such licensees use FSS frequencies to provide subscription services. Two of the DBS licensees (EchoStar and DIRECTV) have indicated interest in using FSS frequencies to broadcast signals to subscribers. It is possible that other entities could similarly use FSS frequencies, although we are not aware of any entities that might do so.

130. Cable and Other Program Distribution. Cable system operators fall within the SBA-recognized definition of Cable and Other Program Distribution, which includes all such companies generating $12.5 million or less in revenue annually. According to the Census Bureau data for 1997, there were a total of 1,311 firms that operated for the entire year in the category of Cable and Other Program Distribution. Of this total, 1,180 firms had annual receipts of under $10 million and an additional 52 firms had receipts of $10 million or more, but less than $25 million. In addition, limited preliminary census data for 2002 indicates that the total number of Cable and Other Program Distribution entities increased approximately 46 percent between 1997 and 2002. The Commission estimates that the majority of providers in this category of Cable and Other Program Distribution are small businesses.

131. Cable System Operators (Rate Regulation Standard). The Commission has developed, with SBA's approval, its own definition of a small cable system operator for the purposes of rate regulation. Under the Commission's rules, a “small cable company” is one serving 400,000 or fewer subscribers nationwide. We last estimated that there were 1,439 cable operators that qualified as small cable companies at the end of 1995. Since then, some of those companies may have grown to serve more than 400,000 subscribers, and others may have been involved in transactions that caused them to be combined with other cable operators. Consequently, we estimate that there are fewer than 1,439 small entity cable system operators that may be affected by the rules adopted in this Order.

132. Cable System Operators (Telecom Act Standard). The Communications Act of 1934, as amended, also contains a size standard for a “small cable operator,” which is “a cable operator that, directly or through an affiliate, serves in the aggregate fewer than one percent of all subscribers in the United States and is not affiliated with any entity or entities whose gross annual revenues in the aggregate exceed $250,000,000.” The Commission has determined that there are 67.7 million subscribers in the United States. Therefore, an operator serving fewer than 677,000 subscribers shall be deemed a small operator, if its annual revenues, when combined with the total annual revenues of all of its affiliates, do not exceed $250 million in the aggregate. Based on available data, we estimate that the number of cable operators serving 677,000 subscribers or less totals approximately 1,450. The Commission neither requests nor collects information on whether cable system operators are affiliated with entities whose gross annual revenues exceed $250 million, and therefore is unable at this time to estimate more accurately the number of cable system operators that would qualify as small cable operators under the size standard contained in the Communications Act.

133. Television Broadcasting. The SBA defines a television broadcasting station as a small business if such station has no more than $12 million in annual receipts. Business concerns included in this industry are those “primarily engaged in broadcasting images together with sound.” According to Commission staff review of the BIA Publications, Inc. Master Access Television Analyzer Database (BIA) on October 18, 2005, about 873 of the 1,307 commercial television stations (or about 67 percent) have revenues of $12 million or less and thus qualify as small entities under the SBA definition. We note, however, that, in assessing whether a business concern qualifies as small under the above definition, business (control) affiliations must be included. Our estimate, therefore, likely overstates the number of small entities that might be affected by our action, because the revenue figure on which it is based does not include or aggregate revenues from affiliated companies. There are also approximately 2,098 licensed low power television (LPTV) stations, 4,491 licensed TV translators, 598 licensed Class A stations, and 11 TV booster stations. Given the nature of these services, we will presume that these licensees qualify as small entities under the SBA definition.

134. In addition, an element of the definition of “small business” is that the entity not be dominant in its field of operation. We are unable at this time to define or quantify the criteria that would establish whether a specific television station is dominant in its field of operation. Accordingly, the estimate of small businesses to which rules may apply do not exclude any television station from the definition of a small business on this basis and are therefore over-inclusive to that extent. Also as noted, an additional element of the definition of “small business” is that the entity must be independently owned and operated. We note that it is difficult at times to assess these criteria in the context of media entities and our estimates of small businesses to which they apply may be over-inclusive to this extent.

135. Private Cable Operators (PCOs) also known as Satellite Master Antenna Television (SMATV) Systems. PCOs, also known as SMATV systems or private communication operators, are video distribution facilities that use closed transmission paths without using any public right-of-way. PCOs acquire video programming and distribute it via terrestrial wiring in urban and suburban multiple dwelling units such as apartments and condominiums, and commercial multiple tenant units such as hotels and office buildings. The SBA definition of small entities for Cable and Other Program Distribution Services includes PCOs and, thus, small entities are defined as all such companies generating $12.5 million or less in annual receipts. Currently, there are approximately 135 members in the Independent Multi-Family Communications Council (IMCC), the trade association that represents PCOs. Individual PCOs often serve approximately 3,000-4,000 subscribers, but the larger operations serve as many as 15,000-55,000 subscribers. In total, PCOs currently serve approximately 1.1 million subscribers. Because these operators are not rate regulated, they are not required to file financial data with the Commission. Furthermore, we are not aware of any privately published financial information regarding these operators. Based on the estimated number of operators and the estimated number of units served by the largest ten PCOs, we believe that a substantial number of PCOs qualify as small entities.

2. Entities Not Directly Affected by Proposed Rules

136. Because the SHVERA authorized carriage of significantly viewed stations only by “satellite carriers,” we find that our rules implementing the SHVERA will not directly affect other multichannel video programming distributors (MVPDs), such as home satellite dish (HSD) services, multipoint distribution services (MDS)/multichannel multipoint distribution service (MMDS), Instructional Television Fixed Service (ITFS), local multipoint distribution service (LMDS) and open video systems (OVS). In the NPRM, we invited comment on our tentative conclusion. We received no comments on this issue. We confirm our conclusion that these entities fall outside the scope of this FRFA. Accordingly, we do not discuss these entities, which were listed in the IRFA.

E. Description of Projected Reporting, Record Keeping and Other Compliance Requirements

137. The SHVERA was enacted to permit satellite carriage of Commission-determined “significantly-viewed” signals of out-of-market broadcast stations to consumers. The SHVERA allowed satellite carriers and broadcast stations to obtain “significantly-viewed” status for satellite carriage pursuant to section 340 of the Act. Therefore, it does not impose any mandatory reporting, recordkeeping and other compliance requirements, unless a satellite carrier and station choose to take advantage of the SHVERA's provisions.

138. The rules adopted which may directly affect reporting, recordkeeping and other compliance requirements are described below. This Order requires that satellite carriers and broadcast stations seeking a “significantly viewed” designation for a station and the community containing such station pursuant to section 340 must follow the same petition process now in place for cable operators (and broadcast stations), as required by §§ 76.5, 76.7 and 76.54 of the Commission's rules. Therefore, entities seeking a “significantly viewed” designation must file a petition pursuant to the pleading requirements in § 76.7(a)(1) and use the method described in § 76.54 to demonstrate that the station is significantly viewed as defined in § 76.5(i). Parties filing such petitions must also comply with the existing notification requirements of § 76.54(c).

139. Furthermore, this Order will (1) create a limited right for a station or distributor to assert non-duplication and exclusivity rights with respect to a station carried by a satellite carrier as significantly viewed; (2) allow that significantly viewed station to assert the significantly viewed exception, just as a station would with respect to cable carriage; and (3) allow the station or distributor asserting exclusivity to petition the Commission for a waiver from the exception. The assertion of these rights will require affected parties to file § 76.7 petitions.

140. This Order also will rely on the Commission's existing § 76.7 petition process as the procedural framework for the filing of complaints filed pursuant to new section 340. Thus, interested parties that wish to report section 340 violations must file a Petition for Special Relief under § 76.7.

141. As required by section 340(g)(1), this Order adds a new rule, § 76.54(e), to require satellite carriers seeking to retransmit significantly viewed signals pursuant to new section 340 to provide 60 days written notice to all stations located in the local market. As required by section 340(g)(2), this Order also adds a new rule, § 76.54(f), to require satellite carriers retransmitting significantly viewed stations pursuant to new section 340 to publish a list of all such stations on their website. These proposed rules do not impose any burden on broadcast stations, but rather are intended to protect the rights of broadcast stations, including small stations.

F. Steps Taken To Minimize Significant Impact on Small Entities, and Significant Alternatives Considered

142. The RFA requires an agency to describe any significant alternatives that it has considered in reaching its proposed approach, which may include the following four alternatives (among others): (1) The establishment of differing compliance or reporting requirements or timetables that take into account the resources available to small entities; (2) the clarification, consolidation, or simplification of compliance or reporting requirements under the rule for small entities; (3) the use of performance, rather than design, standards; and (4) an exemption from coverage of the rule, or any part thereof, for small entities.

143. With respect to the implementation of new section 340, the SHVERA did not offer much flexibility with respect to minimizing its impact on small entities. In seeking regulatory parity with cable operators, Congress sought to apply to satellite carriers the existing regulatory framework concerning the distribution of significantly viewed signals. Accordingly, the SHVERA authorized satellite carriage of significantly viewed stations using the same framework in place for the cable carriage context that has been in effect as of April 15, 1976. Therefore, the Commission does not have discretion to choose an alternate means of implementing the SHVERA.

144. The absence of such discretion does not mean, however, that the likelihood of differential adverse impact on smaller entities is increased. This is because the nature of new section 340 is permissive, meaning only satellite carriers that choose to carry significantly viewed stations would be impacted by our proposed implementation of the statute. Likewise, only television broadcast stations seeking carriage as significantly viewed will be impacted. The compliance requirements of cable operators with respect to carriage of significantly viewed stations are not changed.

145. The statute's compliance requirements primarily impact satellite carriers, such as DBS providers. As previously noted, there are now only four DBS licensees, none of which are small entities. Small businesses do not generally have the financial ability to become DBS licensees because of the high implementation costs associated with satellite services. Moreover, the statute confers a benefit to satellite carriers, enabling them to carry significantly viewed stations.

146. We believe that the SHVERA will benefit some number of small broadcast stations by offering them the opportunity to be significantly viewed stations that will be delivered to more viewers. We recognize, however, that there is also the possibility that small in-market stations will face a competitive impact from the entry of out-of-market significantly viewed stations. We do not believe it is possible to measure whether small stations are more or less likely to benefit in this regard.

147. While the statute does not impose any requirements on small cable operators, it is possible that such small entities could face a competitive impact because of the benefit conferred to satellite carriers. In fact, the express intent of the statute was to level the competitive playing field between cable operators and satellite providers. Congress, however, recognized that the SHVERA may impact the competitiveness of small cable operators, and thus directed the Commission to conduct an inquiry in a separate proceeding on the impact of specific provisions of the Communications Act of 1934, as amended, the SHVERA provisions, and Commission rules on competition in the MVPD market. Accordingly, the Commission has issued a Public Notice to initiate this inquiry.

G. Final Paperwork Reduction Act of 1995 Analysis

148. This Report and Order contains new and modified information collection requirements, which were proposed in the NPRM and are subject to the Paperwork Reduction Act of 1995 (“PRA”). These information collection requirements were submitted to the Office of Management and Budget (OMB) for review under section 3507(d) of the PRA and approved by OMB on May 25, 2005. In addition, the general public and other Federal agencies were invited to comment on these information collection requirements in the NPRM. We further note that pursuant to the Small Business Paperwork Relief Act of 2002, we previously sought specific comment on how the Commission might “further reduce the information collection burden for small business concerns with fewer than 25 employees.” We received no comments concerning these information collection requirements. On June 16, 2005, the Commission announced that it had obtained OMB approval for these information collection requirements, encompassed by OMB Control Nos. 3060-0311, 3060-0888, and 3060-0960. This Report and Order adopts the information collection requirements, as proposed.

149. Further Information. For additional information concerning the information collection requirements contained in this Report and Order, contact Cathy Williams at 202-418-2918, or via the Internet to Cathy.Williams@fcc.gov.

H. Congressional Review Act

150. The Commission will send a copy of this Report and Order in a report to be sent to Congress and the General Accountability Office, pursuant to the Congressional Review Act.

VI. Ordering Clauses

151. Accordingly, it is ordered that pursuant to sections 202, 204 and 211 of the Satellite Home Viewer Extension and Reauthorization Act of 2004, and sections 1, 4(i) and (j), 339(a), 340 and 341 of the Communications Act of 1934, as amended, 47 U.S.C. 151, 154(i) and (j), 339(a), 340 and 341, this Report and Order is hereby adopted and the Commission's rules are hereby amended.

152. It is further ordered that the rule amendments will become effective 30 days after publication in the Federal Register.

153. It is further ordered that the Commission's Consumer and Governmental Affairs Bureau, Reference Information Center, shall send a copy of this Report and Order, including the Final Regulatory Flexibility Analysis, to the Chief Counsel for Advocacy of the Small Business Administration.

List of Subjects in 47 CFR Part 76

Cable television, Television.

Federal Communications Commission.
Marlene H. Dortch,
Secretary.

Rule Changes

For the reasons discussed in the preamble, the Federal Communications Commission amends 47 CFR part 76 as follows:

PART 76—MULTICHANNEL VIDEO AND CABLE TELEVISION SERVICE

1. The authority citation for part 76 is revised to read as follows:

Authority: 47 U.S.C. 151, 152, 153, 154, 301, 302, 302a, 303, 303a, 307, 308, 309, 312, 315, 317, 325, 339, 340, 341, 503, 521, 522, 531, 532, 534, 535, 536, 537, 543, 544, 544a, 545, 548, 549, 552, 554, 556, 558, 560, 561, 571, 572, 573.

2. Section 76.5 is amended by revising paragraph (ee) and adding paragraph (gg) to read as follows:

§ 76.5 Definitions.

* * * * *

(ee) Subscribers.

(1) As used in the context of cable service, subscriber or cable subscriber means a member of the general public who receives broadcast programming distributed by a cable television system and does not further distribute it.

(2) As used in the context of satellite service, subscriber or satellite subscriber means a person who receives a secondary transmission service from a satellite carrier and pays a fee for the service, directly or indirectly, to the satellite carrier or to a distributor.

* * * * *

(gg) Satellite community. A separate and distinct community or municipal entity (including unincorporated communities within unincorporated areas and including single, discrete unincorporated areas). The boundaries of any such unincorporated community may be defined by one or more adjacent five-digit zip code areas. Satellite communities apply only in areas in which there is no pre-existing cable community, as defined in 76.5(dd).

* * * * *

3. Section 76.54 is amended by revising paragraphs (a), (b) and (c), and adding paragraphs (e), (f), (g), (h), (i), (j) and (k) to read as follows:

§ 76.54 Significantly viewed signals; method to be followed for special showings.

(a) Signals that are significantly viewed in a county (and thus are deemed to be significantly viewed within all communities within the county) are those that are listed in Appendix B of the memorandum opinion and order on reconsideration of the Cable Television Report and Order (Docket 18397 et al.), FCC 72-530, and those communities listed in the Significantly Viewed List as it appears on the official website of the Federal Communications Commission.

(b) Significant viewing in a cable television or satellite community for signals not shown as significantly viewed under paragraphs (a) or (d) of this section may be demonstrated by an independent professional audience survey of over-the-air television homes that covers at least two weekly periods separated by at least thirty (30) days but no more than one of which shall be a week between the months of April and September. If two surveys are taken, they shall include samples sufficient to assure that the combined surveys result in an average figure at least one standard error above the required viewing level. If surveys are taken for more than 2-weekly periods in any 12 months, all such surveys must result in an average figure at least one standard error above the required viewing level. If a cable television system serves more than one community, a single survey may be taken, provided that the sample includes over-the-air television homes from each community that are proportional to the population. A satellite carrier may demonstrate significant viewing in more than one community or satellite community through a single survey, provided that the sample includes over-the-air television homes from each community that are proportional to the population.

(c) Notice of a survey to be made pursuant to paragraph (b) of this section shall be served on all licensees or permittees of television broadcast stations within whose predicted Grade B contour (and, with respect to a survey pertaining to a station broadcasting only a digital signal, the noise limited service contour, as defined in § 73.622(e)) of this chapter the cable or satellite community or communities are located, in whole or in part, and on all other system community units, franchisees, and franchise applicants in the cable community or communities at least (30) days prior to the initial survey period. Such notice shall include the name of the survey organization and a description of the procedures to be used. Objections to survey organizations or procedures shall be served on the party sponsoring the survey within twenty (20) days after receipt of such notice.

* * * * *

(e) Satellite carriers that intend to retransmit the signal of a significantly viewed television broadcast station to a subscriber located outside such station's local market, as defined by § 76.55(e) of this chapter, must provide written notice to all television broadcast stations that are assigned to the same local market as the intended subscriber at least 60 days before commencing retransmission of the significantly viewed station. Such satellite carriers must also provide the notifications described in § 76.66(d)(5)(i) of this chapter. Such written notice must be sent via certified mail, return receipt requested, to the address for such station(s) as listed in the consolidated database maintained by the Federal Communications Commission.

(f) Satellite carriers that retransmit the signal of a significantly viewed television broadcast station to a subscriber located outside such station's local market must list all such stations and the communities to which they are retransmitted on their website.

(g) Signals of analog or digital significantly viewed television broadcast stations may not be retransmitted by satellite carriers to subscribers who do not receive local-into-local service, including a station affiliated with the same network as the significantly viewed station, pursuant to § 76.66 of this chapter; except that a satellite carrier may retransmit a significantly viewed signal of a television broadcast station to a subscriber who receives local-into-local service but does not receive a local station affiliated with the same network as the significantly viewed station, if

(1) There is no station affiliated with the same television network as the station whose signal is significantly viewed; or

(2) The station affiliated with the same television network as the station whose signal is significantly viewed has granted a waiver in accordance with 47 U.S.C. 340(b)(4).

(h) Signals of significantly viewed network stations that originate as digital signals may not be retransmitted to subscribers unless the satellite carrier retransmits the digital signal of the local network station, which is affiliated with the same television network as the network station whose signal is significantly viewed, in either

(1) At least the equivalent bandwidth of the significantly viewed station or

(2) The entire bandwidth of the digital signal broadcast by such local station.

(i) For purposes of paragraph's (g) and (h) of this section, television network and network station are as defined in 47 U.S.C. 339(d).

(j) Notwithstanding the requirements of this section, the signal of a television broadcast station will be deemed to be significantly viewed if such station is shown to qualify for such status pursuant to 47 U.S.C. 341(a).

(k) Notwithstanding the other provisions of this section, a satellite carrier may not retransmit as significantly viewed the signal of a television broadcast station into the Designated Market Areas identified in 47 U.S.C. 341(b).

4. Section 76.122 is amended by revising paragraphs (a) and (j) to read as follows:

§ 76.122 Satellite network non-duplication.

(a) Upon receiving notification pursuant to paragraph (c) of this section, a satellite carrier shall not deliver, to subscribers within zip code areas located in whole or in part within the zone of protection of a commercial television station licensed by the Commission, a program carried on a nationally distributed superstation or on a station carried pursuant to § 76.54 of this chapter when the network non-duplication rights to such program are held by the commercial television station providing notice, except as provided in paragraphs (j), (k) or (l) of this section.

* * * * *

(j) A satellite carrier is not required to delete the duplicating programming of any nationally distributed superstation that is carried by the satellite carrier as a local station pursuant to § 76.66 of this chapter or as a significantly viewed station pursuant to § 76.54 of this chapter

(1) Within the station's local market;

(2) If the station is “significantly viewed,” pursuant to § 76.54 of this chapter, in zip code areas included within the zone of protection unless a waiver of the significantly viewed exception is granted pursuant to § 76.7 of this chapter; or

(3) If the zone of protection falls, in whole or in part, within that signal's grade B contour or noise limited service contour.

* * * * *

5. Section 76.123 is amended by revising paragraphs (a) and (k) to read as follows:

§ 76.123 Satellite syndicated program exclusivity.

(a) Upon receiving notification pursuant to paragraph (d) of this section, a satellite carrier shall not deliver, to subscribers located within zip code areas in whole or in part within the zone of protection of a commercial television station licensed by the Commission, a program carried on a nationally distributed superstation or on a station carried pursuant to § 76.54 of this chapter when the syndicated program exclusivity rights to such program are held by the commercial television station providing notice, except as provided in paragraphs (k), (l) and (m) of this section.

* * * * *

(k) A satellite carrier is not required to delete the programming of any nationally distributed superstation that is carried by the satellite carrier as a local station pursuant to § 76.66 of this chapter or as a significantly viewed station pursuant to § 76.54 of this chapter:

(1) Within the station's local market;

(2) If the station is “significantly viewed,” pursuant to § 76.54 of this chapter, in zip code areas included within the zone of protection unless a waiver of the significantly viewed exception is granted pursuant to § 76.7 of this chapter; or

(3) If the zone of protection falls, in whole or in part, within that signal's grade B contour or noise limited service contour.

* * * * *

Note: The following Appendix is not to be included in the Code of Federal Regulations.

Appendix—Significantly Viewed List

The stations listed below are “significantly viewed” in the relevant counties and/or communities as indicated. The stations are listed by state and subdivided by the county in which they are significantly viewed. Stations added on a community-by-community basis after 1972 are listed at the end of each state next to the community in which they obtained significantly viewed status. The station listing includes the current (and former) call signs, as well as the analog channel number and city of license. Stations with a plus sign (+) under individual counties are those stations added to the list after the publication of the Commission's original 1972 list. See Reconsideration of the Cable Television Report and Order, 36 FCC 2d 326 (1972). Stations listed with a pound sign (#) have been the subject of application of the Commission's exclusivity rules and are subject to programming deletions in the indicated communities. This list of significantly viewed stations will be published and maintained on the Commission's Internet website at http://www.fcc.gov/mb/. The Commission will update the list posted on the Internet within 10 business days after taking an action to modify the list.

Alabama

Autauga

+WAKA, 8, Selma, AL

WSFA, 12, Montgomery, AL

WCOV-TV, 20, Montgomery, AL

WNCF, 32, Montgomery, AL (formerly WKAB)

Baldwin

WEAR-TV, 3, Pensacola, FL

WKRG-TV, 5, Mobile, AL

WALA-TV, 10, Mobile, AL

+WPMI, 15, Mobile, AL

+WJTC, 44, Pensacola, FL

Barbour

WRBL, 3, Columbus, GA

WTVM, 9, Columbus, GA

+WXTX, 54, Columbus, GA

WTVY, 4, Dothan, AL

+WDFX-TV, 34, Ozark, AL (formerly WDAU)

WSFA, 12, Montgomery, AL

Bibb

WBRC, 6, Birmingham, AL

WVTM-TV, 13, Birmingham, AL (formerly WAPI)

+WTTO, 21, Birmingham, AL

+WDBB, 17, Bessemer, AL

WIAT, 42, Birmingham, AL (formerly WBMG)

Blount

WBRC, 6, Birmingham, AL

WVTM-TV, 13, Birmingham, AL (formerly WAPI)

+WTTO, 21, Birmingham, AL

WHNT-TV, 19, Huntsville, AL

+WZDX, 54, Huntsville, AL

Bullock

WSFA, 12, Montgomery, AL

WRBL, 3, Columbus, GA

WTVM, 9, Columbus, GA

Butler

+WAKA, 8, Selma, AL

WSFA, 12, Montgomery, AL

Calhoun

WBRC, 6, Birmingham, AL

WVTM-TV, 13, Birmingham, AL (formerly WAPI)

+WTTO, 21, Birmingham, AL

WJSU-TV, 40, Anniston, AL (formerly WHMA)

Chambers

WRBL, 3, Columbus, GA

WTVM, 9, Columbus, GA

+WXTX, 54, Columbus, GA

Cherokee

WSB-TV, 2, Atlanta, GA

WAGA, 5, Atlanta, GA

WXIA-TV, 11, Atlanta, GA (formerly WQXI)

WBRC, 6, Birmingham, AL

+WTTO, 21, Birmingham, AL

Chilton

WBRC, 6, Birmingham, AL

WVTM-TV, 13, Birmingham, AL (formerly WAPI)

+WTTO, 21, Birmingham, AL

WIAT, 42, Birmingham, AL (formerly WBMG)

+WAKA, 8, Selma, AL

WSFA, 12, Montgomery, AL

Choctaw

WTOK-TV, 11, Meridian, MS

Clarke

WEAR-TV, 3, Pensacola, FL

WKRG-TV, 5, Mobile, AL

WALA-TV, 10, Mobile, AL

+WPMI, 15, Mobile, AL

+WAKA, 8, Selma, AL

Clay

WBRC, 6, Birmingham, AL

WVTM-TV, 13, Birmingham, AL (formerly WAPI)

WRBL, 3, Columbus, GA

Cleburne

WSB-TV, 2, Atlanta, GA

WAGA, 5, Atlanta, GA

WXIA-TV, 11, Atlanta, GA (formerly WQXI)

WBRC, 6, Birmingham, AL

WVTM-TV, 13, Birmingham, AL (formerly WAPI)

Coffee

WTVY, 4, Dothan, AL

+WDFX-TV, 34, Ozark, AL (formerly WDAU)

WSFA, 12, Montgomery, AL

Colbert

WHDF, 15, Florence, AL (formerly WOWL)

WHNT-TV, 19, Huntsville, AL

WAAY-TV, 31, Huntsville, AL

WAFF, 48, Huntsville, AL (formerly WMSL & WYUR)

+WZDX, 54, Huntsville, AL

Conecuh

WEAR-TV, 3, Pensacola, FL

WKRG-TV, 5, Mobile, AL

WALA-TV, 10, Mobile, AL

+WPMI, 15, Mobile, AL

+WAKA, 8, Selma, AL

WSFA, 12, Montgomery, AL

Coosa

WBRC, 6, Birmingham, AL

WSFA, 12, Montgomery, AL

WVTM-TV, 13, Birmingham, AL (formerly WAPI)

Covington

+WAKA, 8, Selma, AL

WSFA, 12, Montgomery, AL

WTVY, 4, Dothan, AL

+WDFX-TV, 34, Ozark, AL (formerly WDAU)

Crenshaw

+WAKA, 8, Selma, AL

WSFA, 12, Montgomery, AL

WCOV-TV, 20, Montgomery, AL

WTVY, 4, Dothan, AL

Cullman

WBRC, 6, Birmingham, AL

WVTM-TV, 13, Birmingham, AL (formerly WAPI)

+WDBB, 17, Bessemer, AL

+WTTO, 21, Birmingham, AL

WHNT-TV, 19, Huntsville, AL

WAAY-TV, 31, Huntsville, AL

+WZDX, 54, Huntsville, AL

Dale

WTVY, 4, Dothan, AL

+WDFX-TV, 34, Ozark, AL

WRBL, 3, Columbus, GA

WTVM, 9, Columbus, GA

WSFA, 12, Montgomery, AL

Dallas

+WAKA, 8, Selma, AL

WSFA, 12, Montgomery, AL

WCOV-TV, 20, Montgomery, AL

WNCF, 32, Montgomery, AL (formerly WKAB)

WBRC, 6, Birmingham, AL

De Kalb

WRCB-TV, 3, Chattanooga, TN

WTVC, 9, Chattanooga, TN

WDEF-TV, 12, Chattanooga, TN

+WPXH, 44, Gadsden, AL (formerly WNAL)

+WZDX, 54, Huntsville, AL

Elmore

+WAKA, 8, Selma, AL

WSFA, 12, Montgomery, AL

WCOV-TV, 20, Montgomery, AL

WNCF, 32, Montgomery, AL (formerly WKAB)

Escambia

WEAR-TV, 3, Pensacola, FL

WKRG-TV, 5, Mobile, AL

WALA-TV, 10, Mobile, AL

+WPMI, 15, Mobile, AL

Etowah

WBRC, 6, Birmingham, AL

WVTM-TV, 13, Birmingham, AL (formerly WAPI)

WTTO, 21, Birmingham, AL

+WZDX, 54, Huntsville, AL

WJSU-TV, 40, Anniston, AL (formerly WHMA)

Fayette

WBRC, 6, Birmingham, AL

WVTM-TV, 13, Birmingham, AL (formerly WAPI)

+WTTO, 21, Birmingham, AL

WCBI-TV, 4, Columbus, MS

+WTVA, 9, Tupelo, MS

Franklin

WBRC, 6, Birmingham, AL

+WTTO, 21, Birmingham, AL

WCBI-TV, 4, Columbus, MS

WTVA, 9, Tupelo, MS (formerly WTWV)

WHNT-TV, 19, Huntsville, AL

+WZDX, 54, Huntsville, AL

Geneva

WTVY, 4, Dothan, AL

WDHN, 18, Dothan, AL

+WDFX-TV, 34, Ozark, AL (formerly WDAU)

WJHG-TV, 7, Panama City, FL

+WMBB, 13, Panama City, FL

Greene

WBRC, 6, Birmingham, AL

WVTM-TV, 13, Birmingham, AL (formerly WAPI)

+WDBB, 17, Bessemer, AL

WCFT-TV, 33, Tuscaloosa, AL

WTOK-TV, 11, Meridian, MS

Hale

WBRC, 6, Birmingham, AL

WVTM-TV, 13, Birmingham, AL (formerly WAPI)

+WDBB, 17, Bessemer, AL

+WTTO, 21, Birmingham, AL

WCFT-TV, 33, Tuscaloosa, AL

WTOK-TV, 11, Meridian, MS

Henry

WRBL, 3, Columbus, GA

WTVM, 9, Columbus, GA

WTVY, 4, Dothan, AL

+WDFX-TV, 34, Ozark, AL

Houston

WTVY, 4, Dothan, AL

WDHN, 18, Dothan, AL

+WDFX-TV, 34, Ozark, AL (formerly WDAU)

WJHG-TV, 7, Panama City, FL

WMBB, 13, Panama City, FL

Jackson

WRCB-TV, 3, Chattanooga, TN

WTVC, 9, Chattanooga, TN

WDEF-TV, 12, Chattanooga, TN

+WDSI-TV, 61, Chattanooga, TN

+WZDX, 54, Huntsville, AL

Jefferson

WBRC, 6, Birmingham, AL

WVTM-TV, 13, Birmingham, AL (formerly WAPI)

+WDBB, 17, Bessemer, AL

+WTTO, 21, Birmingham, AL

WIAT, 42, Birmingham, AL (formerly WBMG)

Lamar

WCBI-TV, 4, Columbus, MS

+WTVA, 9, Tupelo, MS

WBRC, 6, Birmingham, AL

WVTM-TV, 13, Birmingham, AL (formerly WAPI)

+WDBB, 17, Bessemer, AL

Lauderdale

WHDF, 15, Florence, AL (formerly WOWL)

WHNT-TV, 19, Huntsville, AL

WAAY-TV, 31, Huntsville, AL

WAFF, 48, Huntsville, AL (formerly WMSL)

+WZDX, 54, Huntsville, AL

Lawrence

WHNT-TV, 19, Huntsville, AL

+WYLE, 26, Florence, AL (formerly WTRT)

WAAY-TV, 31, Huntsville, AL

WAFF, 48, Huntsville, AL (formerly WMSL)

+WZDX, 54, Huntsville, AL

WBRC, 6, Birmingham, AL

Lee

WRBL, 3, Columbus, GA

WTVM, 9, Columbus, GA

+WXTX, 54, Columbus, GA

WSFA, 12, Montgomery, AL

Limestone

WHNT-TV, 19, Huntsville, AL

WAAY-TV, 31, Huntsville, AL

WAFF, 48, Huntsville, AL (formerly WMSL)

+WZDX, 54, Huntsville, AL

Lowndes

WSFA, 12, Montgomery, AL

WCOV-TV, 20, Montgomery, AL

WNCF, 32, Montgomery, AL (formerly WKAB)

Macon

+WAKA, 8, Selma, AL

WSFA, 12, Montgomery, AL

WCOV-TV, 20, Montgomery, AL

WRBL, 3, Columbus, GA

WTVM, 9, Columbus, GA

+WXTX, 54, Columbus, GA

Madison

WHNT-TV, 19, Huntsville, AL

WAAY-TV, 31, Huntsville, AL

WAFF, 48, Huntsville, AL (formerly WMSL)

+WZDX, 54, Huntsville, AL

Marengo

WTOK-TV, 11, Meridian, MS

+WAKA, 8, Selma, AL

+WDBB, 17, Bessemer, AL

Marion

WBRC, 6, Birmingham, AL

WVTM-TV, 13, Birmingham, AL (formerly WAPI)

+WTTO, 21, Birmingham, AL

WCBI-TV, 4, Columbus, MS

+WTVA, 9, Tupelo, MS

Marshall

WHNT-TV, 19, Huntsville, AL

WAAY-TV, 31, Huntsville, AL

WAFF, 48, Huntsville, AL (formerly WMSL)

+WZDX, 54, Huntsville, AL

WBRC, 6, Birmingham, AL

WVTM-TV, 13, Birmingham, AL (formerly WAPI)

+WTTO, 21, Birmingham, AL

Mobile

WEAR-TV, 3, Pensacola, FL

WKRG-TV, 5, Mobile, AL

WALA-TV, 10, Mobile, AL

+WPMI, 15, Mobile, AL

+WJTC, 44, Pensacola, FL

Monroe

WEAR-TV, 3, Pensacola, FL

WKRG-TV, 5, Mobile, AL

WALA-TV, 10, Mobile, AL

+WPMI, 15, Mobile, AL

+WAKA, 8, Selma, AL

Montgomery

HD2WAKA, 8, Selma, AL

WSFA, 12, Montgomery, AL

WCOV-TV, 20, Montgomery, AL

WNCF, 32, Montgomery, AL (formerly WKAB)

Morgan

WHNT-TV, 19, Huntsville, AL

WAAY-TV, 31, Huntsville, AL

WAFF, 48, Huntsville, AL (formerly WMSL)

+WZDX, 54, Huntsville, AL

WBRC, 6, Birmingham, AL

+WTTO, 21, Birmingham, AL

Perry

WBRC, 6, Birmingham, AL

WVTM-TV, 13, Birmingham, AL (formerly WAPI)

+WAKA, 8, Selma, AL

WSFA, 12, Montgomery, AL

Pickens

WBRC, 6, Birmingham, AL

WVTM-TV, 13, Birmingham, AL (formerly WAPI)

+WDBB, 17, Bessemer, AL

+WTTO, 21, Birmingham, AL

WCBI-TV, 4, Columbus, MS

Pike

+WAKA, 8, Selma, AL

WSFA, 12, Montgomery, AL

WRBL, 3, Columbus, GA

WTVM, 9, Columbus, GA

WTVY, 4, Dothan, AL

+WDFX-TV, 34, Ozark, AL (formerly WDAU)

Randolph

WRBL, 3, Columbus, GA

WTVM, 9, Columbus, GA

+WXTX, 54, Columbus, GA

WSB-TV, 2, Atlanta, GA

WAGA, 5, Atlanta, GA

WXIA-TV, 11, Atlanta, GA (formerly WQXI)

Russell

WRBL, 3, Columbus, GA

WTVM, 9, Columbus, GA

WLTZ, 38, Columbus, GA (formerly WYEA)

+WXTX, 54, Columbus, GA

St. Clair

WBRC, 6, Birmingham, AL

WVTM-TV, 13, Birmingham, AL (formerly WAPI)

+WTTO, 21, Birmingham, AL

Shelby

WBRC, 6, Birmingham, AL

WVTM-TV, 13, Birmingham, AL (formerly WAPI)

+WDBB, 17, Bessemer, AL

+WTTO, 21, Birmingham, AL

WIAT, 42, Birmingham, AL (formerly WBMG)

Sumter

WTOK-TV, 11, Meridian, MS

Talladega

WBRC, 6, Birmingham, AL

WVTM-TV, 13, Birmingham, AL (formerly WAPI)

+WDBB, 17, Bessemer, AL

WIAT, 42, Birmingham, AL (formerly WBMG)

Tallapoosa

WBRC, 6, Birmingham, AL

WVTM-TV, 13, Birmingham, AL (formerly WAPI)

+WTTO, 21, Birmingham, AL

WRBL, 3, Columbus, GA

WTVM, 9, Columbus, GA

+WAKA, 8, Selma, AL

WSFA, 12, Montgomery, AL

Tuscaloosa

WBRC, 6, Birmingham, AL

WVTM-TV, 13, Birmingham, AL (formerly WAPI)

+WTTO, 21, Birmingham, AL

WCFT-TV, 33, Tuscaloosa, AL

Walker

WBRC, 6, Birmingham, AL

WVTM-TV, 13, Birmingham, AL (formerly WAPI)

+WDBB, 17, Bessemer, AL

WIAT, 42, Birmingham, AL (formerly WBMG)

Washington

WEAR-TV, 3, Pensacola, FL

WKRG-TV, 5, Mobile, AL

WALA-TV, 10, Mobile, AL

+WPMI, 15, Mobile, AL

Wilcox

+WAKA, 8, Selma, AL

WSFA, 12, Montgomery, AL

WEAR-TV, 3, Pensacola, FL

WKRG-TV, 5, Mobile, AL

Winston

WBRC, 6, Birmingham, AL

WVTM-TV, 13, Birmingham, AL (formerly WAPI)

+WTTO, 21, Birmingham, AL

WIAT, 42, Birmingham, AL (formerly WBMG)

WHNT-TV, 19, Huntsville, AL

Adamsburg—WHNT-TV, WAAY-TV, WAFF

Anniston—WTTO

Collbran—WHNT-TV, WAAY-TV, WAFF

Fort Payne—WHNT-TV, WAAY-TV, WAFF

Gadsden—WTTO

Glenco—WTTO

Henegar—WHNT-TV, WAAY-TV, WAFF

Ider—WHNT-TV, WAAY-TV, WAFF

Jacksonville—WTTO

Pine Ridge—WHNT-TV, WAAY-TV, WAFF

Pisgah—WHNT-TV, WAAY-TV, WAFF

Rainbow City—WTTO

Russellville—WAFF

Sylvania—WHNT-TV, WAAY-TV, WAFF

Valley Head—WHNT-TV, WAAY-TV, WAFF

White Hall—WHNT-TV, WAAY-TV, WAFF

Unincorporated portions of DeKalb County—WHNT-TV, WAAY-TV, WAFF

Unincorporated portions of Jackson County—WHNT-TV, WAAY-TV, WAFF

Unincorporated portions of Franklin County (north of Russellville)—WAFF

Arizona

Apache

KVOA, 4, Tucson, AZ

KGUN, 9, Tucson, AZ

KOLD-TV, 13, Tucson, AZ

KOB-TV, 4, Albuquerque, NM

KOAT-TV, 7, Albuquerque, NM

KRQE, 13, Albuquerque, NM (formerly KGGM)

Cochise

KVOA, 4, Tucson, AZ

KGUN, 9, Tucson, AZ

KOLD-TV, 13, Tucson, AZ

Coconino

KNAZ-TV, 2, Flagstaff, AZ (formerly KOAI)

KTVK, 3, Phoenix, AZ

KPHO-TV, 5, Phoenix, AZ

KSAZ-TV, 10, Phoenix, AZ (formerly KOOL)

KPNX, 12, Phoenix, AZ (formerly KTAR)

Gila

KTVK, 3, Phoenix, AZ

KPHO-TV, 5, Phoenix, AZ

KSAZ-TV, 10, Phoenix, AZ (formerly KOOL)

KPNX, 12, Phoenix, AZ (formerly KTAR)

Graham

KPNX, 12, Phoenix, AZ (formerly KTAR)

KVOA, 4, Tucson, AZ

KGUN, 9, Tucson, AZ

KOLD-TV, 13, Tucson, AZ

Greenlee

KVOA, 4, Tucson, AZ

KGUN, 9, Tucson, AZ

KOLD-TV, 13, Tucson, AZ

La Paz

+KPHO-TV, 5, Phoenix, AZ

+KECY-TV, 9, El Centro, CA

+KYMA, 11, Yuma, AZ

+KSWT, 13, Yuma, AZ (formerly KYEL)

Maricopa

KTVK, 3, Phoenix, AZ

KPHO-TV, 5, Phoenix, AZ

KSAZ-TV, 10, Phoenix, AZ (formerly KOOL)

KPNX, 12, Phoenix, AZ (formerly KTAR)

+KNXV-TV, 15, Phoenix, AZ

Mohave

KTVK, 3, Phoenix, AZ

KPHO-TV, 5, Phoenix, AZ

KSAZ-TV, 10, Phoenix, AZ (formerly KOOL)

KPNX, 12, Phoenix, AZ (formerly KTAR)

KVBC, 3, Las Vegas, NV (formerly KORK)

Navajo

KNAZ-TV, 2, Flagstaff, AZ (formerly KOAI)

KSAZ-TV, 10, Phoenix, AZ (formerly KOOL)

KVOA, 4, Tucson, AZ

KGUN, 9, Tucson, AZ

KOLD-TV, 13, Tucson, AZ

Pima East

KVOA, 4, Tucson, AZ

KGUN, 9, Tucson, AZ

KMSB-TV, 11, Tucson, AZ (formerly KZAZ)

KOLD-TV, 13, Tucson, AZ

+KTTU-TV, 18, Tucson, AZ

Pima West

KVOA, 4, Tucson, AZ

KGUN, 9, Tucson, AZ

KOLD-TV, 13, Tucson, AZ

+KTTU-TV, 18, Tucson, AZ

KPHO-TV, 5, Phoenix, AZ

Pinal

KTVK, 3, Phoenix, AZ

KPHO-TV, 5, Phoenix, AZ

KSAZ-TV, 10, Phoenix, AZ (formerly KOOL)

KPNX, 12, Phoenix, AZ (formerly KTAR)

+KNXV-TV, 15, Phoenix, AZ

KVOA, 4, Tucson, AZ

+KTTU-TV, 18, Tucson, AZ

Santa Cruz

KVOA, 4, Tucson, AZ

KGUN, 9, Tucson, AZ

KMSB-TV, 11, Tucson, AZ (formerly KZAZ)

KOLD-TV, 13, Tucson, AZ

+KTTU-TV, 18, Tucson, AZ

KPHO-TV, 5, Phoenix, AZ

XHFA, 2, Mexico

Yavapai

KTVK, 3, Phoenix, AZ

KPHO-TV, 5, Phoenix, AZ

KSAZ-TV, 10, Phoenix, AZ (formerly KSAZ)

KPNX, 12, Phoenix, AZ (formerly KTAR)

Yuma

KPHO-TV, 5, Phoenix, AZ

+KYMA, 11, Yuma, AZ

KSWT, 13, Yuma, AZ (formerly KBLU & KYEL)

KECY-TV, 9, El Centro, CA (formerly KECC)

Arkansas

Arkansas

KARK-TV, 4, Little Rock, AR

KATV, 7, Little Rock, AR

KTHV, 11, Little Rock, AR

KLRT, 16, Little Rock, AR

Ashley

KNOE-TV, 8, Monroe, LA

KTVE, 10, Monroe, LA

Baxter

KYTV, 3, Springfield, MO

KOLR, 10, Springfield, MO (formerly KTTS)

KDEB-TV, 27, Springfield, MO (formerly KMTC)

KSPR, 33, Springfield, MO

Benton

KOAM-TV, 7, Pittsburg, KS

KODE-TV, 12, Joplin, MO

KSNF, 16, Joplin, MO (formerly KUHI)

KFSM-TV, 5, Fort Smith, AR (formerly KFSA)

KOTV, 6, Tulsa, OK

KTUL, 8, Tulsa, OK

+KOLR, 10, Springfield, MO

Boone

KYTV, 3, Springfield, MO

KOLR, 10, Springfield, MO (formerly KTTS)

+KSPR, 33, Springfield, MO

Bradley

KARK-TV, 4, Little Rock, AR

KATV, 7, Little Rock, AR

KTHV, 11, Little Rock, AR

KTVE, 10, Monroe, LA

Calhoun

KARK-TV, 4, Little Rock, AR

KATV, 7, Little Rock, AR

KNOE-TV, 8, Monroe, LA

KTVE, 10, Monroe, LA

Carroll

KYTV, 3, Springfield, MO

KOLR, 10, Springfield, MO (formerly KTTS)

+KSPR, 33, Springfield, MO

Chicot

KNOE-TV, 8, Monroe, LA

KTVE, 10, Monroe, LA

WABG-TV, 6, Greenwood, MS

Clark

KARK-TV, 4, Little Rock, AR

KATV, 7, Little Rock, AR

KTHV, 11, Little Rock, AR

+KLRT, 16, Little Rock, AR

Clay

WREG-TV, 3, Memphis, TN (formerly WREC)

WMC-TV, 5, Memphis, TN

WHBQ-TV, 13, Memphis, TN

KAIT-TV, 8, Jonesboro, AR

Cleburne

KARK-TV, 4, Little Rock, AR

KATV, 7, Little Rock, AR

KTHV, 11, Little Rock, AR

+KLRT, 16, Little Rock, AR

Cleveland

KARK-TV, 4, Little Rock, AR

KATV, 7, Little Rock, AR

KTHV, 11, Little Rock, AR

Columbia

KTBS-TV, 3, Shreveport, LA

KTAL-TV, 6, Shreveport, LA

KSLA-TV, 12, Shreveport, LA

+KMSS-TV, 33, Shreveport, LA

Conway

KARK-TV, 4, Little Rock, AR

KATV, 7, Little Rock, AR

KTHV, 11, Little Rock, AR

+KLRT, 16, Little Rock, AR

Craighead

KAIT-TV, 8, Jonesboro, AR

WREG-TV, 3, Memphis, TN (formerly WREC)

WMC-TV, 5, Memphis, TN

WHBQ-TV, 13, Memphis, TN

+WPTY-TV, 24, Memphis, TN

Crawford

KFSM-TV, 5, Fort Smith, AR (formerly KFSA)

KTUL, 8, Tulsa, OK

Crittenden

WREG-TV, 3, Memphis, TN (formerly WREC)

WMC-TV, 5, Memphis, TN

WHBQ-TV, 13, Memphis, TN

+WLMT, 30, Memphis, TN

Cross

WREG-TV, 3, Memphis, TN (formerly WREC)

WMC-TV, 5, Memphis, TN

WHBQ-TV, 13, Memphis, TN

+WLMT, 30, Memphis, TN

+KAIT-TV, 8, Jonesboro, AR

Dallas

KARK-TV, 4, Little Rock, AR

KATV, 7, Little Rock, AR

KTHV, 11, Little Rock, AR

Desha

KARK-TV, 4, Little Rock, AR

KATV, 7, Little Rock, AR

KTHV, 11, Little Rock, AR

+KASN, 38, Pine Bluff, AR

KTVE, 10, Monroe, LA

Drew

KARK-TV, 4, Little Rock, AR

KATV, 7, Little Rock, AR

KTHV, 11, Little Rock, AR

KTVE, 10, Monroe, LA

Faulkner

KARK-TV, 4, Little Rock, AR

KATV, 7, Little Rock, AR

KTHV, 11, Little Rock, AR

+KLRT, 16, Little Rock, AR

+KASN, 38, Pine Bluff, AR

Franklin

KFSM-TV, 5, Fort Smith, AR (formerly KFSA)

KARK-TV, 4, Little Rock, AR

KTHV, 11, Little Rock, AR

Fulton

KYTV, 3, Springfield, MO

+KOLR, 10, Springfield, MO

KAIT-TV, 8, Jonesboro, AR

Garland

KARK-TV, 4, Little Rock, AR

KATV, 7, Little Rock, AR

KTHV, 11, Little Rock, AR

+KLRT, 16, Little Rock, AR

+KASN, 38, Pine Bluff, AR

Grant

KARK-TV, 4, Little Rock, AR

KATV, 7, Little Rock, AR

KTHV, 11, Little Rock, AR

+KLRT, 16, Little Rock, AR

Greene

WREG-TV, 3, Memphis, TN (formerly WREC)

WMC-TV, 5, Memphis, TN

WHBQ-TV, 13, Memphis, TN

+WPTY-TV, 24, Memphis, TN

KAIT-TV, 8, Jonesboro, AR

Hempstead

KTBS-TV, 3, Shreveport, LA

KTAL-TV, 6, Shreveport, LA

KSLA-TV, 12, Shreveport, LA

+KMSS-TV, 33, Shreveport, LA

Hot Spring

KARK-TV, 4, Little Rock, AR

KATV, 7, Little Rock, AR

KTHV, 11, Little Rock, AR

+KASN, 38, Pine Bluff, AR

Howard

KTBS-TV, 3, Shreveport, LA

KTAL-TV, 6, Shreveport, LA

Independence

KARK-TV, 4, Little Rock, AR

KATV, 7, Little Rock, AR

KTHV, 11, Little Rock, AR

+KAIT-TV, 8, Jonesboro, AR

Izard

KARK-TV, 4, Little Rock, AR

KTHV, 11, Little Rock, AR

KYTV, 3, Springfield, MO

+KOLR, 10, Springfield, MO

+KAIT-TV, 8, Jonesboro, AR

Jackson

KARK-TV, 4, Little Rock, AR

KTHV, 11, Little Rock, AR

KAIT-TV, 8, Jonesboro, AR

WREG-TV, 3, Memphis, TN (formerly WREC)

WMC-TV, 5, Memphis, TN

Jefferson

KARK-TV, 4, Little Rock, AR

KATV, 7, Little Rock, AR

KTHV, 11, Little Rock, AR

+KLRT, 16, Little Rock, AR

+KASN, 38, Pine Bluff, AR

Johnson

KARK-TV, 4, Little Rock, AR

KATV, 7, Little Rock, AR

KTHV, 11, Little Rock, AR

+KLRT, 16, Little Rock, AR

KFSM-TV, 5, Fort Smith, AR (formerly KFSA)

Lafayette

KTBS-TV, 3, Shreveport, LA

KTAL-TV, 6, Shreveport, LA

KSLA-TV, 12, Shreveport, LA

+KMSS-TV, 33, Shreveport, LA

Lawrence

KAIT-TV, 8, Jonesboro, AR

WREG-TV, 3, Memphis, TN (formerly WREC)

WMC-TV, 5, Memphis, TN

Lee

WREG-TV, 3, Memphis, TN (formerly WREC)

WMC-TV, 5, Memphis, TN

WHBQ-TV, 13, Memphis, TN

+WPTY-TV, 24, Memphis, TN

KATV, 7, Little Rock, AR

Lincoln

KARK-TV, 4, Little Rock, AR

KATV, 7, Little Rock, AR

KTHV, 11, Little Rock, AR

Little River

KTBS-TV, 3, Shreveport, LA

KTAL-TV, 6, Shreveport, LA

KSLA-TV, 12, Shreveport, LA

Logan

KFSM-TV, 5, Fort Smith, AR (formerly KFSA)

KARK-TV, 4, Little Rock, AR

KTHV, 11, Little Rock, AR

Lonoke

KARK-TV, 4, Little Rock, AR

KATV, 7, Little Rock, AR

KTHV, 11, Little Rock, AR

+KLRT, 16, Little Rock, AR

+KASN, 38, Pine Bluff, AR

Madison

KYTV, 3, Springfield, MO

+KOLR, 10, Springfield, MO

KFSM-TV, 5, Fort Smith, AR (formerly KFSA)

Marion

KYTV, 3, Springfield, MO

KOLR, 10, Springfield, MO (formerly KTTS)

KDEB-TV, 27, Springfield, MO (formerly KMTC)

+KSPR, 33, Springfield, MO

KARK-TV, 4, Little Rock, AR

KTHV, 11, Little Rock, AR

Miller

KTBS-TV, 3, Shreveport, LA

KTAL-TV, 6, Shreveport, LA

KSLA-TV, 12, Shreveport, LA

+KMSS-TV, 33, Shreveport, LA

Mississippi

WREG-TV, 3, Memphis, TN (formerly WREC)

WMC-TV, 5, Memphis, TN

WHBQ-TV, 13, Memphis, TN

+WPTY-TV, 24, Memphis, TN

+WLMT, 30, Memphis, TN

+KAIT-TV, 8, Jonesboro, AR

Monroe

KARK-TV, 4, Little Rock, AR

KATV, 7, Little Rock, AR

KTHV, 11, Little Rock, AR

+KLRT, 16, Little Rock, AR

Montgomery

KARK-TV, 4, Little Rock, AR

KATV, 7, Little Rock, AR

KTHV, 11, Little Rock, AR

Nevada

KARK-TV, 4, Little Rock, AR

KATV, 7, Little Rock, AR

KTHV, 11, Little Rock, AR

KTBS-TV, 3, Shreveport, LA

KTAL-TV, 6, Shreveport, LA

KSLA-TV, 12, Shreveport, LA

Newton

KYTV, 3, Springfield, MO

KARK-TV, 4, Little Rock, AR

KTHV, 11, Little Rock, AR

Ouachita

KARK-TV, 4, Little Rock, AR

KATV, 7, Little Rock, AR

KTHV, 11, Little Rock, AR

KTVE, 10, Monroe, LA

Perry

KARK-TV, 4, Little Rock, AR

KATV, 7, Little Rock, AR

KTHV, 11, Little Rock, AR

Phillips

WREG-TV, 3, Memphis, TN (formerly WREC)

WMC-TV, 5, Memphis, TN

WHBQ-TV, 13, Memphis, TN

KATV, 7, Little Rock, AR

Pike

KARK-TV, 4, Little Rock, AR

KATV, 7, Little Rock, AR

KTHV, 11, Little Rock, AR

KTBS-TV, 3, Shreveport, LA

KTAL-TV, 6, Shreveport, LA

Poinsett

WREG-TV, 3, Memphis, TN (formerly WREC)

WMC-TV, 5, Memphis, TN

WHBQ-TV, 13, Memphis, TN

+WLMT, 30, Memphis, TN

KAIT-TV, 8, Jonesboro, AR

Polk

KARK-TV, 4, Little Rock, AR

KATV, 7, Little Rock, AR

KTHV, 11, Little Rock, AR

KFSM-TV, 5, Fort Smith, AR (formerly KFSA)

KTAL-TV, 6 Shreveport, LA

Pope

KARK-TV, 4, Little Rock, AR

KATV, 7, Little Rock, AR

KTHV, 11, Little Rock, AR

+KLRT, 16, Little Rock, AR

Prairie

KARK-TV, 4, Little Rock, AR

KATV, 7, Little Rock, AR

KTHV, 11, Little Rock, AR

Pulaski

KARK-TV, 4, Little Rock, AR

KATV, 7, Little Rock, AR

KTHV, 11, Little Rock, AR

+KLRT, 16, Little Rock, AR

KASN, 38, Pine Bluff, AR (formerly KJTM)

Randolph

KAIT-TV, 8, Jonesboro, AR

WREG-TV, 3, Memphis, TN (formerly WREC)

WMC-TV, 5, Memphis, TN

St. Francis

WREG-TV, 3, Memphis, TN (formerly WREC)

WMC-TV, 5, Memphis, TN

WHBQ-TV, 13, Memphis, TN

+WPTY-TV, 24, Memphis, TN

+WLMT, 30, Memphis, TN

KATV, 7, Little Rock, AR

+KAIT-TV, 8, Jonesboro, AR

Saline

KARK-TV, 4, Little Rock, AR

KATV, 7, Little Rock, AR

KTHV, 11, Little Rock, AR

+KLRT, 16, Little Rock, AR

+KASN, 38, Pine Bluff, AR

Scott

KFSM-TV, 5, Fort Smith, AR (formerly KFSA)

KARK-TV, 4, Little Rock, AR

KTUL, 8, Tulsa, OK

Searcy

KARK-TV, 4, Little Rock, AR

KATV, 7, Little Rock, AR

KTHV, 11, Little Rock, AR

KYTV, 3, Springfield, MO

Sebastian

KFSM-TV, 5, Fort Smith, AR (formerly KFSA)

KTUL, 8, Tulsa, OK

Sevier

KTBS-TV, 3, Shreveport, LA

KTAL-TV, 6, Shreveport, LA

KSLA-TV, 12, Shreveport, LA

Sharp

KAIT-TV, 8, Jonesboro, AR

KARK-TV, 4, Little Rock, AR

WMC-TV, 5, Memphis, TN

Stone

KARK-TV, 4, Little Rock, AR

KATV, 7, Little Rock, AR

KTHV, 11, Little Rock, AR

Union

KNOE-TV, 8, Monroe, LA

KTVE, 10, Monroe, LA

KATV, 7, Little Rock, AR

KTBS-TV, 3, Shreveport, LA

KTAL-TV, 6, Shreveport, LA

Van Buren

KARK-TV, 4, Little Rock, AR

KATV, 7, Little Rock, AR

KTHV, 11, Little Rock, AR

+KLRT, 16, Little Rock, AR

Washington

KOTV, 6, Tulsa, OK

KTUL, 8, Tulsa, OK

KFSM-TV, 5, Fort Smith, AR (formerly KFSA)

KODE-TV, 12, Joplin, MO

+KOLR, 10, Springfield, MO

White

KARK-TV, 4, Little Rock, AR

KATV, 7, Little Rock, AR

KTHV, 11, Little Rock, AR

+KLRT, 16, Little Rock, AR

+KASN, 38, Pine Bluff, AR

Woodruff

KARK-TV, 4, Little Rock, AR

KATV, 7, Little Rock, AR

KTHV, 11, Little Rock, AR

Yell

KARK-TV, 4, Little Rock, AR

KATV, 7, Little Rock, AR

KTHV, 11, Little Rock, AR

KFSM-TV, 5, Fort Smith, AR (formerly KFSA)

California

Alameda East

KTVU, 2, Oakland, CA

KRON-TV, 4, San Francisco, CA

KPIX-TV, 5, San Francisco, CA

KGO-TV, 7, San Francisco, CA

KICU-TV, 36, San Jose, CA (formerly KGSC)

Alameda West

KTVU, 2, Oakland, CA

KRON-TV, 4, San Francisco, CA

KPIX-TV, 5, San Francisco, CA

KGO-TV, 7, San Francisco, CA

KBWB, 20, San Francisco, CA (formerly KEMO)

KBHK-TV, 44, San Francisco, CA

Alpine

KTVN, 2, Reno, NV

KRNV, 4, Reno, NV (formerly KCRL)

KOLO-TV, 8, Reno, NV

Amador

KCRA-TV, 3, Sacramento, CA

KXTV, 10, Sacramento, CA

KOVR, 13, Stockton, CA

+KMAX-TV, 31, Sacramento, CA (formerly KRBK)

+KTXL, 40, Sacramento, CA

Butte

KRCR-TV, 7, Redding, CA

KHSL-TV, 12, Chico, CA

+KNVN, 24, Chico, CA (formerly KCPM)

KCRA-TV, 3, Sacramento, CA

KXTV, 10, Sacramento, CA

KOVR, 13, Stockton, CA

+KMAX-TV, 31, Sacramento, CA (formerly KRBK)

+KTXL, 40, Sacramento, CA

Calaveras

KCRA-TV, 3, Sacramento, CA

KXTV, 10, Sacramento, CA

KOVR, 13, Stockton, CA

+KTXL, 40, Sacramento, CA

Colusa

KCRA-TV, 3, Sacramento, CA

KXTV, 10, Sacramento, CA

KOVR, 13, Stockton, CA

+KTXL, 40, Sacramento, CA

KRCR-TV, 7, Redding, CA

KHSL-TV, 12, Chico, CA

Contra Costa East

KCRA-TV, 3, Sacramento, CA

KXTV, 10, Sacramento, CA

KOVR, 13, Stockton, CA

+KMAX-TV, 31, Sacramento, CA (formerly KRBK)

KTXL, 40, Sacramento, CA

+KQCA, 58, Stockton, CA (formerly KSCH)

KTVU, 2, Oakland, CA

KPIX-TV, 5, San Francisco, CA

Contra Costa West

KTVU, 2, Oakland, CA

KRON-TV, 4, San Francisco, CA

KPIX-TV, 5, San Francisco, CA

KGO-TV, 7, San Francisco, CA

KBWB, 20, San Francisco, CA (formerly KEMO)

KBHK-TV, 44, San Francisco, CA

Del Norte

KIEM-TV, 3, Eureka, CA

KVIQ-TV, 6, Eureka, CA

El Dorado East

Over 90% cable penetration.

El Dorado West

KCRA-TV, 3, Sacramento, CA

KXTV, 10, Sacramento, CA

KOVR, 13, Stockton, CA

+KMAX-TV, 31, Sacramento, CA (formerly KRBK)

+KTXL, 40, Sacramento, CA

+KQCA, 58, Stockton, CA (formerly KSCH)

Fresno

KSEE, 24, Fresno, CA (formerly KMJ)

+KMPH, 26, Visalia, CA

KFSN-TV, 30, Fresno, CA (formerly KFRE)

KGPE, 47, Fresno, CA (formerly KJEO)

Glenn

KRCR-TV, 7, Redding, CA

KHSL-TV, 12, Chico, CA

+KNVN, 24, Chico, CA (formerly KCPM)

Humboldt

KIEM-TV, 3, Eureka, CA

KVIQ-TV, 6, Eureka, CA

Imperial

KECY-TV, 9, El Centro, CA (formerly KECC)

KCOP, 13, Los Angeles, CA

+KYMA, 11, Yuma, AZ

KSWT, 13, Yuma, AZ (formerly KBLU)

XHBC, 3, Mexico

Inyo

KCBS-TV, 2, Los Angeles, CA (formerly KNXT)

KNBC, 4, Los Angeles, CA

KTLA, 5, Los Angeles, CA

KABC-TV, 7, Los Angeles, CA

KOLO-TV, 8, Reno, NV

Kern East

KCBS-TV, 2, Los Angeles, CA (formerly KNXT)

KNBC, 4, Los Angeles, CA

KTLA, 5, Los Angeles, CA

KABC-TV, 7, Los Angeles, CA

KCAL-TV, 9, Los Angeles, CA (formerly KHJ)

KTTV, 11, Los Angeles, CA

KCOP, 13, Los Angeles, CA

Kern West

KGET, 17, Bakersfield, CA (formerly KJTV)

KERO-TV, 23, Bakersfield, CA

KBAK-TV, 29, Bakersfield, CA

+KUVI, 45, Bakersfield, CA (formerly KUZZ)

+KMPH, 26, Visalia, CA

Kings

KSEE, 24, Fresno, CA (formerly KMJ)

KFSN-TV, 30, Fresno, CA (formerly KFRE)

KGPE, 47, Fresno, CA (formerly KJEO)

KERO-TV, 23, Bakersfield, CA

KBAK-TV, 29, Bakersfield, CA

+KUVI, 45, Bakersfield, CA (formerly KUZZ)

Lake

KCRA-TV, 3, Sacramento, CA

KOVR, 13, Stockton, CA

KTVU, 2, Oakland, CA

Lassen

KTVN, 2, Reno, NV

KRNV, 4, Reno, NV (formerly KCRL)

KOLO-TV, 8, Reno, NV

+KAME-TV, 21, Reno, NV

Los Angeles

KCBS-TV, 2, Los Angeles, CA (formerly KNXT)

KNBC, 4, Los Angeles, CA

KTLA, 5, Los Angeles, CA

KABC-TV, 7, Los Angeles, CA

KCAL-TV, 9, Los Angeles, CA (formerly KHJ)

KTTV, 11, Los Angeles, CA

KCOP, 13, Los Angeles, CA

Madera

KSEE, 24, Fresno, CA (formerly KMJ)

+KMPH, 26, Visalia, CA

KFSN-TV, 30, Fresno, CA (formerly KFRE)

KGPE, 47, Fresno, CA (formerly KJEO)

Marin

KTVU, 2, Oakland, CA

KRON-TV, 4, San Francisco, CA

KPIX-TV, 5, San Francisco, CA

KGO-TV, 7, San Francisco, CA

Mariposa

KCRA-TV, 3, Sacramento, CA

KXTV, 10, Sacramento, CA

KOVR, 13, Stockton, CA

KSEE, 24, Fresno, CA (formerly KMJ)

KFSN-TV, 30, Fresno, CA (formerly KFRE)

KGPE, 47, Fresno, CA (formerly KJEO)

Mendocino

KTVU, 2, Oakland, CA

KRON-TV, 4 San Francisco, CA

KPIX-TV, 5, San Francisco, CA

KGO-TV, 7, San Francisco, CA

KIEM-TV, 3, Eureka, CA

Merced

KSEE, 24, Fresno, CA (formerly KMJ)

+KMPH, 26, Visalia, CA

KFSN-TV, 30, Fresno, CA (formerly KFRE)

KGPE, 47, Fresno, CA (formerly KJEO)

+KTXL, 40, Sacramento, CA

Modoc

KRCR-TV, 7, Redding, CA

KOTI, 2, Klamath Falls, OR

KTVL, 10, Medford, OR (formerly KMED)

KOLO-TV, 8, Reno, NV

Mono

KOLO-TV, 8, Reno, NV

KCRA-TV, 3, Sacramento, CA

KTVU, 2, Oakland, CA

KPIX-TV, 5, San Francisco, CA

KGO-TV, 7, San Francisco, CA

Monterey East

KSBW, 8, Salinas, CA

KNTV, 11, San Jose, CA

+KCBA, 35, Salinas, CA

KION, 46, Monterey, CA (formerly KMST)

#KTVU, 2, Oakland, CA ¹

¹ Affected communities are Carmel-by-the-Sea, Del Rey Oaks, Marina, Monterey, unincorporated portions of Monterey County (including Carmel Valley Village), Pacific Grove, Pebble Beach (including Del Montre Forest), Salinas, Sand City, and Seaside, CA.

Monterey West

KSBW, 8, Salinas, CA

KNTV, 11, San Jose, CA

+KCBA, 35, Salinas, CA

KION, 46, Monterey, CA (formerly KMST)

#KTVU, 2, Oakland, CA ²

² See footnote 1

Napa North

KTVU, 2, Oakland, CA

KRON-TV, 4, San Francisco, CA

KPIX-TV, 5, San Francisco, CA

KGO-TV, 7, San Francisco, CA

+KMAX-TV, 31, Sacramento, CA (formerly KRBK)

Napa South

KTVU, 2, Oakland, CA

KRON-TV, 4, San Francisco, CA

KPIX-TV, 5, San Francisco, CA

KGO-TV, 7, San Francisco, CA

KBWB, 20, San Francisco, CA (formerly KEMO)

+KMAX-TV, 31, Sacramento, CA (formerly KRBK)

Nevada East

KCRA-TV, 3, Sacramento, CA

KXTV, 10, Sacramento, CA

KOVR, 13, Stockton, CA

+KMAX-TV, 31, Sacramento, CA (formerly KRBK)

+KTXL, 40, Sacramento, CA

KOLO-TV, 8, Reno, NV

KTVU, 2, Oakland, CA

Nevada West

KCRA-TV, 3, Sacramento, CA

KXTV, 10, Sacramento, CA

KOVR, 13, Stockton, CA

+KMAX-TV, 31, Sacramento, CA (formerly KRBK)

+KTXL, 40, Sacramento, CA

Orange North

KCBS-TV, 2, Los Angeles, CA (formerly KNXT)

KNBC, 4, Los Angeles, CA

KTLA, 5, Los Angeles, CA

KABC-TV, 7, Los Angeles, CA

KCAL-TV, 9, Los Angeles, CA (formerly KHJ)

KTTV, 11, Los Angeles, CA

KCOP, 13, Los Angeles, CA

Orange South

KCBS-TV, 2, Los Angeles, CA (formerly KNXT)

KNBC, 4, Los Angeles, CA

KTLA, 5, Los Angeles, CA

KABC-TV, 7, Los Angeles, CA

KCAL-TV, 9, Los Angeles, CA (formerly KHJ)

KTTV, 11, Los Angeles, CA

KCOP, 13, Los Angeles, CA

Placer East

KOLO-TV, 8, Reno, NV

Placer West

KCRA-TV, 3, Sacramento, CA

KXTV, 10, Sacramento, CA

KOVR, 13, Stockton, CA

+KMAX-TV, 31, Sacramento, CA (formerly KRBK)

KTXL, 40, Sacramento, CA

+KQCA, 58, Stockton, CA (formerly KSCH)

Plumas

KCRA-TV, 3, Sacramento, CA

KTXL, 40, Sacramento, CA

KHSL-TV, 12, Chico, CA

Riverside East

KTVK, 3, Phoenix, AZ

KPHO-TV, 5, Phoenix, AZ

KSAZ-TV, 10, Phoenix, AZ (formerly KOOL)

KPNX, 12, Phoenix, AZ (formerly KTAR)

+KYMA, 11, Yuma, AZ

Riverside West

KCBS-TV, 2, Los Angeles, CA (formerly KNXT)

KNBC, 4, Los Angeles, CA

KTLA, 5, Los Angeles, CA

KABC-TV, 7, Los Angeles, CA

KCAL-TV, 9, Los Angeles, CA (formerly KHJ)

KTTV, 11, Los Angeles, CA

KCOP, 13, Los Angeles, CA

Riverside Central

KCBS-TV, 2, Los Angeles, CA (formerly KNXT)

KNBC, 4, Los Angeles, CA

KTLA, 5, Los Angeles, CA

KABC-TV, 7, Los Angeles, CA

KCAL-TV, 9, Los Angeles, CA (formerly KHJ)

KTTV, 11, Los Angeles, CA

KCOP, 13, Los Angeles, CA

Sacramento

KCRA-TV, 3, Sacramento, CA

KXTV, 10, Sacramento, CA

KOVR, 13, Stockton, CA

KTXL, 40, Sacramento, CA

+KQCA, 58, Stockton, CA (formerly KSCH)

San Benito

KTVU, 2, Oakland, CA

KRON-TV, 4, San Francisco, CA

KPIX-TV, 5, San Francisco, CA

KSBW, 8, Salinas, CA

KNTV, 11, San Jose, CA

+KCBA, 35, Salinas, CA

San Bernardino East

KTVK, 3, Phoenix, AZ

KPHO-TV, 5, Phoenix, AZ

KSAZ-TV, 10, Phoenix, AZ (formerly KOOL)

KPNX, 12, Phoenix, AZ (formerly KTAR)

San Bernardino West

KCBS-TV, 2, Los Angeles, CA (formerly KNXT)

KNBC, 4, Los Angeles, CA

KTLA, 5, Los Angeles, CA

KABC-TV, 7, Los Angeles, CA

KCAL-TV, 9, Los Angeles, CA (formerly KHJ)

KTTV, 11, Los Angeles, CA

KCOP, 13, Los Angeles, CA

San Diego

XETV, 6, San Diego, CA

KFMB-TV, 8, San Diego, CA

KGTV, 10, San Diego, CA (formerly KOGO)

+XEWT-TV, 12, San Diego, CA

KNSD, 39, San Diego, CA (formerly KCST)

+KUSI-TV, 51, San Diego, CA

+KSWB-TV, 69, San Diego, CA (formerly KTTY)

#KNBC, 4, Los Angeles, CA ³

³ Affected community is San Diego, CA.

#KCOP, 13, Los Angeles, CA ⁴

⁴ Affected communities are Bonsall, Camp Pendleton, Cardiff by the Sea, Encinitas, Escondido, Oceanside, Romona, Rancho Santa Fe, San Luis Rey, San Marcos, Solana Beach, Valley Center, and Vista, CA (served by Cox Communications North); Alpine, Bonita, Chula Vista, El Cajon, Imperial Beach, Jamul, La Mesa, Lakeside, Lemon Grove, National City, Pine Valley, Poway, San Diego, San Ysidro, Santee, and Spring Valley, CA (served by Cox Communications South); Del Mar, La Jolla, Poway, and San Diego, CA (served by Southwestern Cable).

San Francisco

KTVU, 2, Oakland, CA

KRON-TV, 4, San Francisco, CA

KPIX-TV, 5, San Francisco, CA

KGO-TV, 7, San Francisco, CA

KBWB, 20, San Francisco, CA (formerly KEMO)

San Joaquin

KCRA-TV, 3, Sacramento, CA

KXTV, 10, Sacramento, CA

KOVR, 13, Stockton, CA

+KMAX-TV, 31, Sacramento, CA (formerly KRBK)

KTXL, 40, Sacramento, CA

+KQCA, 58, Stockton, CA (formerly KSCH)

San Luis Obispo

KSBY, 6, San Luis Obispo, CA

KEYT-TV, 3, Santa Barbara, CA

KCOY-TV, 12, Santa Maria, CA

San Mateo

KTVU, 2, Oakland, CA

KRON-TV, 4, San Francisco, CA

KPIX-TV, 5, San Francisco, CA

KGO-TV, 7, San Francisco, CA

KBWB, 20, San Francisco, CA (formerly KEMO)

KBHK-TV, 44, San Francisco, CA

Santa Barbara North

KEYT-TV, 3, Santa Barbara, CA

KCOY-TV, 12, Santa Maria, CA

KSBY, 6, San Luis Obispo, CA

Santa Barbara South

KEYT-TV, 3, Santa Barbara, CA

KCBS-TV, 2, Los Angeles, CA (formerly KNXT)

KNBC, 4, Los Angeles, CA

KTLA, 5, Los Angeles, CA

KABC-TV, 7, Los Angeles, CA

KCAL-TV, 9, Los Angeles, CA (formerly KHJ)

KTTV, 11, Los Angeles, CA

KCOP, 13, Los Angeles, CA

Santa Clara East

KTVU, 2, Oakland, CA

KRON-TV, 4, San Francisco, CA

KPIX-TV, 5, San Francisco, CA

KGO-TV, 7, San Francisco, CA

KBWB, 20, San Francisco, CA (formerly KEMO)

KBHK-TV, 44, San Francisco, CA

KSBW, 8, Salinas, CA

KNTV, 11, San Jose, CA

Santa Clara West

KTVU, 2, Oakland, CA

KRON-TV, 4, San Francisco, CA

KPIX-TV, 5, San Francisco, CA

KGO-TV, 7, San Francisco, CA

KBWB, 20, San Francisco, CA (formerly KEMO)

KBHK-TV, 44, San Francisco, CA

KNTV, 11, San Jose, CA

Santa Cruz

KSBW, 8, Salinas, CA

KNTV, 11, San Jose, CA

+KCBA, 35, Salinas, CA

KION, 46, Monterey, CA (formerly KMST)

#KTVU, 2, Oakland, CA ⁵

⁵ Affected communities are Santa Cruz, Scott's Valley, and unincorporated areas of Santa Cruz County (including the following communities: Aptos, Ben Lomond, Bonny Dune, Boulder Creek, Brookdale, Davenport, Felton, La Selva Beach, Live Oak, Lompico, Mt. Herman, Rio Del Mar, Soquel, and Zayante), CA

Shasta

KRCR-TV, 7, Redding, CA

KHSL-TV, 12, Chico, CA

+KNVN, 24, Chico, CA (formerly KCPM)

Sierra

KRNV, 4, Reno, NV (formerly KCRL)

KCRA-TV, 3, Sacramento, CA

KXTV, 10, Sacramento, CA

KTVU, 2, Oakland, CA

KRON-TV, 4, San Francisco, CA

Siskiyou

KRCR-TV, 7, Redding, CA

KHSL-TV, 12, Chico, CA

KTVL, 10, Medford, OR (formerly KMED)

Solano East

KCRA-TV, 3, Sacramento, CA

KXTV, 10, Sacramento, CA

KOVR, 13, Stockton, CA

+KMAX-TV, 31, Sacramento, CA (formerly KRBK)

KTXL, 40, Sacramento, CA

+KQCA, 58, Stockton, CA (formerly KSCH)

KTVU, 2, Oakland, CA

KRON-TV, 4, San Francisco, CA

KPIX-TV, 5, San Francisco, CA

KGO-TV, 7, San Francisco, CA

Solano West

KTVU, 2, Oakland, CA

KRON-TV, 4, San Francisco, CA

KPIX-TV, 5, San Francisco, CA

KGO-TV, 7, San Francisco, CA

Sonoma North

KTVU, 2, Oakland, CA

KRON-TV, 4, San Francisco, CA

KPIX-TV, 5, San Francisco, CA

KGO-TV, 7, San Francisco, CA

Sonoma South

KTVU, 2, Oakland, CA

KRON-TV, 4, San Francisco, CA

KPIX-TV, 5, San Francisco, CA

KGO-TV, 7, San Francisco, CA

Stanislaus

KCRA-TV, 3, Sacramento, CA

KXTV, 10, Sacramento, CA

KOVR, 13, Stockton, CA

+KMAX-TV, 31, Sacramento, CA (formerly KRBK)

KTXL, 40, Sacramento, CA

+KQCA, 58, Stockton, CA (formerly KSCH)

Sutter

KCRA-TV, 3, Sacramento, CA

KXTV, 10, Sacramento, CA

KOVR, 13, Stockton, CA

+KMAX-TV, 31, Sacramento, CA (formerly KRBK)

+KTXL, 40, Sacramento, CA

+KQCA, 58, Stockton, CA (formerly KSCH)

KHSL-TV, 12, Chico, CA

KTVU, 2, Oakland, CA

Tehama

KRCR-TV, 7, Redding, CA

KHSL-TV, 12, Chico, CA

+KNVN, 24, Chico, CA (formerly KCPM)

Trinity

KRCR-TV, 7, Redding, CA

KHSL-TV, 12, Chico, CA

Tulare

KSEE, 24, Fresno, CA (formerly KMJ)

KFSN-TV, 30, Fresno, CA (formerly KFRE)

KGPE, 47, Fresno, CA (formerly KJEO)

KGET, 17, Bakersfield, CA (formerly KJTV)

KERO-TV, 23, Bakersfield, CA

KBAK-TV, 29, Bakersfield, CA

+KUVI, 45, Bakersfield, CA (formerly KUZZ)

Tuolumne

KCRA-TV, 3, Sacramento, CA

KXTV, 10, Sacramento, CA

KOVR, 13, Stockton, CA

+KMAX-TV, 31, Sacramento, CA (formerly KRBK)

+KTXL, 40, Sacramento, CA

KSBW, 8, Salinas, CA

KTVU, 2, Oakland, CA

KRON-TV, 4, San Francisco, CA

Ventura

KCBS-TV, 2, Los Angeles, CA (formerly KNXT)

KNBC, 4, Los Angeles, CA

KTLA, 5, Los Angeles, CA

KABC-TV, 7, Los Angeles, CA

KCAL-TV, 9, Los Angeles, CA (formerly KHJ)

KTTV, 11, Los Angeles, CA

KCOP, 13, Los Angeles, CA

Yolo

KCRA-TV, 3, Sacramento, CA

KXTV, 10, Sacramento, CA

KOVR, 13, Stockton, CA

+KMAX-TV, 31, Sacramento, CA (formerly KRBK)

KTXL, 40, Sacramento, CA

+KQCA, 58, Stockton, CA (formerly KSCH)

Yuba

KCRA-TV, 3, Sacramento, CA

KXTV, 10, Sacramento, CA

KOVR, 13, Stockton, CA

+KMAX-TV, 31, Sacramento, CA (formerly KRBK)

KTXL, 40, Sacramento, CA

+KQCA, 58, Stockton, CA (formerly KSCH)

KHSL-TV, 12, Chico, CA

Camp Pendleton (southern portion)—KTLA

Carlsbad—KTLA (including La Costa in unin. areas of San Diego County)

Danville—KCRA-TV, KXTV, KRON-TV, KGO-TV

Del Mar—KTLA

Encinitas—KTLA

Encinitas—KTLA (portion including parts of Cardiff & Leucadio in unin. areas of San Diego County)

Escondido—KTLA

Gustine—KSEE, KFSN-TV, KGPE, KCRA-TV, KOVR, KXTV, KMPH,

Lafayette—KCRA-TV, KXTV, KRON-TV, KGO-TV

Lodi—KICU-TV

Los Banos—KSEE, KFSN-TV, KGPE, KCRA-TV, KOVR, KXTV, KMPH

Martinez—KCRA-TV, KXTV, KRON-TV, KGO-TV

Moraga—KCRA-TV, KXTV, KRON-TV, KGO-TV

Newman—KSEE, KFSN-TV, KGPE, KCRA-TV, KOVR, KXTV, KMPH

Oceanside—KTLA

Orinda—KCRA-TV, KXTV, KRON-TV, KGO-TV

Patterson—KSEE, KFSN-TV, KGPE, KCRA-TV, KOVR, KXTV, KMPH

Pleasant Hill—KCRA-TV, KXTV, KRON-TV, KGO-TV

Ramona—KTLA

San Marcos—KTLA

San Ramon (portions)—KCRA-TV, KXTV, KRON-TV, KGO-TV

Solana Beach (portions)—KTLA

Vista (portions)—KTLA

Walnut Creek (including Rossmoor)—KCRA-TV, KXTV, KRON-TV, KGO-TV

Unincorporated areas of Contra Costa County—KCRA-TV, KXTV, KRON-TV, KGO-TV

Unincorporation portions of San Diego County—KTLA (including Rancho Santa Fe, Whispering Palms & certain unnamed county areas)

Unincorporated areas of San Diego County—KTLA (including Fallbrook area, Lake San Marcos & others)

Unincorporated areas of San Joaquin County—KICU-TV

Unincorporated portions of Stanislaus County—KSEE, KFSN-TV, KGPE, KCRA-TV, KOVR, KXTV, KMPH

Colorado

Adams

KWGN-TV, 2, Denver, CO

KCNC-TV, 4, Denver, CO (formerly KOA)

KMGH-TV, 7, Denver, CO (formerly KLZ)

KUSA-TV, 9, Denver, CO (formerly KBTV)

+KTVD, 20, Denver, CO

+KDVR, 31, Denver, CO

Alamosa

KOB-TV, 4, Albuquerque, NM

KOAT-TV, 7, Albuquerque, NM

KRQE, 13, Albuquerque, NM (formerly KGGM)

KRDO-TV, 13, Colorado Springs, CO

Arapahoe

KWGN-TV, 2, Denver, CO

KCNC-TV, 4, Denver, CO (formerly KOA)

KMGH-TV, 7, Denver, CO (formerly KLZ)

KUSA-TV, 9, Denver, CO (formerly KBTV)

+KTVD, 20, Denver, CO

+KDVR, 31, Denver, CO

Archuleta

KOB-TV, 4, Albuquerque, NM

KOAT-TV, 7, Albuquerque, NM

KRQE, 13, Albuquerque, NM (formerly KGGM)

Baca

KOAA-TV, 5, Pueblo, CO

KKTV, 11, Colorado Springs, CO

KRDO-TV, 13, Colorado Springs, CO

Bent

KOAA-TV, 5, Pueblo, CO

KKTV, 11, Colorado Springs, CO

KRDO-TV, 13, Colorado Springs, CO

Boulder

KWGN-TV, 2, Denver, CO

KCNC-TV, 4, Denver, CO (formerly KOA)

KMGH-TV, 7, Denver, CO (formerly KLZ)

KUSA-TV, 9, Denver, CO (formerly KBTV)

+KTVD, 20, Denver, CO

+KDVR, 31, Denver, CO

Chaffee

KCNC-TV, 4, Denver, CO (formerly KOA)

KMGH-TV, 7, Denver, CO (formerly KLZ)

KUSA-TV, 9, Denver, CO (formerly KBTV)

KOAA-TV, 5, Pueblo, CO

Cheyenne

KBSH-TV, 7, Hays, KS (formerly KAYS)

KKTV, 11, Colorado Springs, CO

KRDO-TV, 13, Colorado Springs, CO

Clear Creek

KWGN-TV, 2, Denver, CO

KCNC-TV, 4, Denver, CO (formerly KOA)

KMGH-TV, 7, Denver, CO (formerly KLZ)

KUSA-TV, 9, Denver, CO (formerly KBTV)

Conejos

KOB-TV, 4, Albuquerque, NM

KOAT-TV, 7, Albuquerque, NM

KRQE, 13, Albuquerque, NM (formerly KGGM)

Costilla

KOB-TV, 4, Albuquerque, NM

KOAT-TV, 7, Albuquerque, NM

KRQE, 13, Albuquerque, NM (formerly KGGM)

Crowley

KOAA-TV, 5, Pueblo, CO

KKTV, 11, Colorado Springs, CO

KRDO-TV, 13, Colorado Springs, CO

Custer

KOAA-TV, 5, Pueblo, CO

KKTV, 11, Colorado Springs, CO

KRDO-TV, 13, Colorado Springs, CO

Delta

KREX-TV, 5, Grand Junction, CO

KREY-TV, 10, Montrose, CO

KUSA-TV, 9, Denver, CO (formerly KBTV)

Denver

KWGN-TV, 2, Denver, CO

KCNC-TV, 4, Denver, CO (formerly KOA)

KMGH-TV, 7, Denver, CO (formerly KLZ)

KUSA-TV, 9, Denver, CO (formerly KBTV)

+KTVD, 20, Denver, CO

+KDVR, 31, Denver, CO

Dolores

KOB-TV, 4, Albuquerque, NM

KOAT-TV, 7, Albuquerque, NM

KRQE, 13, Albuquerque, NM (formerly KGGM)

Douglas

KWGN-TV, 2, Denver, CO

KCNC-TV, 4, Denver, CO (formerly KOA)

KMGH-TV, 7, Denver, CO (formerly KLZ)

KUSA-TV, 9, Denver, CO (formerly KBTV)

+KTVD, 20, Denver, CO

KRDO-TV, 13, Colorado Springs, CO

Eagle

KCNC-TV, 4, Denver, CO (formerly KOA)

KMGH-TV, 7, Denver, CO (formerly KLZ)

KUSA-TV, 9, Denver, CO (formerly KBTV)

Elbert

KWGN-TV, 2, Denver, CO

KCNC-TV, 4, Denver, CO (formerly KOA)

KMGH-TV, 7, Denver, CO (formerly KLZ)

KUSA-TV, 9, Denver, CO (formerly KBTV)

KKTV, 11, Colorado Springs, CO

KRDO-TV, 13, Colorado Springs, CO

El Paso

KOAA-TV, 5, Pueblo, CO

KKTV, 11, Colorado Springs, CO

KRDO-TV, 13, Colorado Springs, CO

+KXRM-TV, 21, Colorado Springs, CO

Fremont

KOAA-TV, 5, Pueblo, CO

KKTV, 11, Colorado Springs, CO

KRDO-TV, 13, Colorado Springs, CO

Garfield

KREX-TV, 5, Grand Junction, CO

+KJCT-TV, 8, Grand Junction, CO

KCNC-TV, 4, Denver, CO (formerly KOA)

Gilpin

KWGN-TV, 2, Denver, CO

KCNC-TV, 4, Denver, CO (formerly KOA)

KMGH-TV, 7, Denver, CO (formerly KLZ)

KUSA-TV, 9, Denver, CO (formerly KBTV)

Grand

KWGN-TV, 2, Denver, CO

KCNC-TV, 4, Denver, CO (formerly KOA)

KMGH-TV, 7, Denver, CO (formerly KLZ)

KUSA-TV, 9, Denver, CO (formerly KBTV)

Gunnison

KOAA-TV, 5, Pueblo, CO

KUSA-TV, 9, Denver, CO (formerly KBTV)

KREX-TV, 5, Grand Junction, CO

KREY-TV, 10, Montrose, CO

Hinsdale

KREX-TV, 5, Grand Junction, CO

KOAA-TV, 5, Pueblo, CO

Huerfano

KOAA-TV, 5, Pueblo, CO

KKTV, 11, Colorado Springs, CO

KRDO-TV, 13, Colorado Springs, CO

Jackson

KCNC-TV, 4, Denver, CO (formerly KOA)

KGWN-TV, 5, Cheyenne, WY (formerly KFBC)

Jefferson

KWGN-TV, 2, Denver, CO

KCNC-TV, 4, Denver, CO (formerly KOA)

KMGH-TV, 7, Denver, CO (formerly KLZ)

KUSA-TV, 9, Denver, CO (formerly KBTV)

+KTVD, 20, Denver, CO

+KDVR, 31, Denver, CO

Kiowa

KOAA-TV, 5, Pueblo, CO

KKTV, 11, Colorado Springs, CO

KRDO-TV, 13, Colorado Springs, CO

KBSH-TV, 7, Hays, KS (formerly KAYS)

Kit Carson

KBSH-TV, 7, Hays, KS (formerly KAYS)

Lake

KWGN-TV, 2, Denver, CO

KCNC-TV, 4, Denver, CO (formerly KOA)

KMGH-TV, 7, Denver, CO (formerly KLZ)

KUSA-TV, 9, Denver, CO (formerly KBTV)

La Plata

KOB-TV, 4, Albuquerque, NM

KOAT-TV, 7, Albuquerque, NM

KRQE, 13, Albuquerque, NM (formerly KGGM)

KREZ-TV, 6, Durango, CO

Larimer

KWGN-TV, 2, Denver, CO

KCNC-TV, 4, Denver, CO (formerly KOA)

KMGH-TV, 7, Denver, CO (formerly KLZ)

KUSA-TV, 9, Denver, CO (formerly KBTV)

+KTVD, 20, Denver, CO

+KDVR, 31, Denver, CO

KGWN-TV, 5, Cheyenne, WY (formerly KFBC)

Las Animas

KOAA-TV, 5, Pueblo, CO

KKTV, 11, Colorado Springs, CO

KRDO-TV, 13, Colorado Springs, CO

Lincoln

KOAA-TV, 5, Pueblo, CO

KKTV, 11, Colorado Springs, CO

KRDO-TV, 13, Colorado Springs, CO

KWGN-TV, 2, Denver, CO

KCNC-TV, 4, Denver, CO (formerly KOA)

Logan

KTVS, 3, Sterling, CO

Mesa

KREX-TV, 5, Grand Junction, CO

+KJCT-TV, 8, Grand Junction, CO

Mineral

KOAA-TV, 5, Pueblo, CO

KOAT-TV, 7, Albuquerque, NM

KRQE, 13, Albuquerque, NM (formerly KGGM)

Moffat

KCNC-TV, 4, Denver, CO (formerly KOA)

KMGH-TV, 7, Denver, CO (formerly KLZ)

KUSA-TV, 9, Denver, CO (formerly KBTV)

Montezuma

KOB-TV, 4, Albuquerque, NM

KOAT-TV, 7, Albuquerque, NM

KRQE, 13, Albuquerque, NM (formerly KGGM)

Montrose

+KJCT-TV, 8, Grand Junction, CO

KREY-TV, 10, Montrose, CO

KOAA-TV, 5, Pueblo, CO

KUSA-TV, 9, Denver, CO (formerly KBTV)

KUTV, 2, Salt Lake City, UT

Morgan

KWGN-TV, 2, Denver, CO

KCNC-TV, 4, Denver, CO (formerly KOA)

KMGH-TV, 7, Denver, CO (formerly KLZ)

KUSA-TV, 9, Denver, CO (formerly KBTV)

+KDVR, 31, Denver, CO

KTVS, 3, Sterling, CO

Otero

KOAA-TV, 5, Pueblo, CO

KKTV, 11, Colorado Springs, CO

KRDO-TV, 13, Colorado Springs, CO

+KXRM-TV, 21, Colorado Springs, CO

Ouray

KREX-TV, 5, Grand Junction, CO

Park

KWGN-TV, 2, Denver, CO

KCNC-TV, 4, Denver, CO (formerly KOA)

KMGH-TV, 7, Denver, CO (formerly KLZ)

KUSA-TV, 9, Denver, CO (formerly KBTV)

Phillips

KTVS, 3, Sterling, CO

KHGI-TV, 13, Kearney, NE (formerly KHOL)

Pitkin

Not available.

Prowers

KOAA-TV, 5, Pueblo, CO

KKTV, 11, Colorado Springs, CO

KRDO-TV, 13, Colorado Springs, CO

KSNG, 11, Garden City, KS (formerly KGLD)

Pueblo

KOAA-TV, 5, Pueblo, CO

KKTV, 11, Colorado Springs, CO

KRDO-TV, 13, Colorado Springs, CO

+KXRM-TV, 21, Colorado Springs, CO

Rio Blanco

KUTV, 2, Salt Lake City, UT

KTVX, 4, Salt Lake City, UT (formerly KCPX)

KSL-TV, 5, Salt Lake City, UT

Rio Grande

KOB-TV, 4, Albuquerque, NM

KOAT-TV, 7, Albuquerque, NM

KRQE 13, Albuquerque, NM (formerly KGGM)

Routt

KCNC-TV, 4, Denver, CO (formerly KOA)

KMGH-TV, 7, Denver, CO (formerly KLZ)

KUSA-TV, 9, Denver, CO (formerly KBTV)

Saguache

KOB-TV, 4, Albuquerque, NM

KOAT-TV, 7, Albuquerque, NM

KRQE, 13, Albuquerque, NM (formerly KGGM)

KOAA-TV, 5, Pueblo, CO

San Juan

KREX-TV, 5, Grand Junction, CO

San Miguel

KREX-TV, 5, Grand Junction, CO

Sedgwick

KTVS, 3, Sterling, CO

KHGI-TV, 13, Kearney, NE (formerly KHOL)

KNOP-TV, 2, North Platte, NE

Summit

KWGN-TV, 2, Denver, CO

KCNC-TV, 4, Denver, CO (formerly KOA)

KMGH-TV, 7, Denver, CO (formerly KLZ)

KUSA-TV, 9, Denver, CO (formerly KBTV)

Teller

KCNC-TV, 4, Denver, CO (formerly KOA)

KMGH-TV, 7, Denver, CO (formerly KLZ)

KUSA-TV, 9, Denver, CO (formerly KBTV)

KKTV, 11, Colorado Springs, CO

KRDO-TV, 13, Colorado Springs, CO

Washington

KWGN-TV, 2, Denver, CO

KCNC-TV, 4, Denver, CO (formerly KOA)

KMGH-TV, 7, Denver, CO (formerly KLZ)

KUSA-TV, 9, Denver, CO (formerly KBTV)

KTVS, 3, Sterling, CO

Weld

KWGN-TV, 2, Denver, CO

KCNC-TV, 4, Denver, CO (formerly KOA)

KMGH-TV, 7, Denver, CO (formerly KLZ)

KUSA-TV, 9, Denver, CO (formerly KBTV)

+KTVD, 20, Denver, CO

+KDVR, 31, Denver, CO

Yuma

KBSH-TV, 7, Hays, KS (formerly KAYS)

KSNK, 8, McCook, NE (formerly KOMC)

KTVS, 3, Sterling, CO

KHGI-TV, 13, Kearney, NE (formerly KHOL)

Connecticut

Fairfield

WCBS-TV, 2, New York, NY

WNBC, 4, New York, NY

WNYW, 5, New York, NY (formerly WNEW)

WABC-TV, 7, New York, NY

WWOR-TV, 9, New York, NY (formerly WOR)

WPIX, 11, New York, NY

WTNH-TV, 8, New Haven, CT (formerly WNHC)

+WTXX, 20, Waterbury, CT

Hartford

WFSB, 3, Hartford, CT (formerly WTIC)

WTNH-TV, 8, New Haven, CT (formerly WNHC)

WUVN, 18, Hartford, CT (formerly WHCT)

+WTXX, 20, Waterbury, CT

WVIT, 30, New Britain, CT (formerly WHNB)

+WCTX, 59, New Haven, CT (formerly WBNE)

+WTIC-TV, 61, Hartford, CT

Litchfield

WFSB, 3, Hartford, CT (formerly WTIC)

WTNH-TV, 8, New Haven, CT (formerly WNHC)

+WTXX, 20, Waterbury,CT

WVIT, 30, New Britain, CT (formerly WHNB)

+WTIC-TV, 61, Hartford, CT

WCBS-TV, 2, New York, NY

WNBC, 4, New York, NY

WNYW, 5, New York, NY (formerly WNEW)

WPIX, 11, New York, NY

Middlesex

WFSB, 3, Hartford, CT (formerly WTIC)

WTNH-TV, 8, New Haven, CT (formerly WNHC)

+WTXX, 20, Waterbury, CT

WVIT, 30, New Britain, CT (formerly WHNB)

+WCTX, 59, New Haven, CT (formerly WBNE)

+WTIC-TV, 61, Hartford, CT

WNYW, 5, New York, NY (formerly WNEW)

+WHPX, 26, New London, CT (formerly WTWS)

New Haven

WFSB, 3, Hartford, CT (formerly WTIC)

WTNH-TV, 8, New Haven, CT (formerly WNHC)

+WTXX, 20, Waterbury, CT

+WVIT, 30, New Britain, CT

+WCTX, 59, New Haven, CT (formerly WBNE)

+WTIC-TV, 61, Hartford, CT

WCBS-TV, 2, New York, NY

WNBC, 4, New York, NY

WNYW, 5, New York, NY (formerly WNEW)

#WABC-TV, 7, New York, NY ⁶

⁶ Affected community is New Haven, CT.

#WWOR-TV, 9, New York, NY (formerly WOR) ⁷

⁷ Affected community is New Haven, CT.

WPIX, 11, New York, NY

New London

WTEV, 6, Providence, RI-New Bedford, MA (WLNE)

WJAR, 10, Providence, RI-New Bedford, MA

WPRI, 12, Providence, RI-New Bedford, MA

WCVB-TV, 5, Boston, MA (formerly WHDH)

WFSB, 3, Hartford, CT (formerly WTIC)

WTNH-TV, 8, New Haven, CT (formerly WNHC)

+WTXX, 20, Waterbury, CT

+WTIC-TV, 61, Hartford, CT

+WHPX, 26, New London, CT (formerly WTWS)

Tolland

WFSB, 3, Hartford, CT (formerly WTIC)

WTNH-TV, 8, New Haven, CT (formerly WNHC)

WVIT, 30, New Britain, CT (formerly WHNB)

+WCTX, 59, New Haven, CT (formerly WBNE)

+WTIC-TV, 61, Hartford, CT

WBZ-TV, 4, Boston, MA

WGGB-TV, 40, Springfield, MA (formerly WHYN)

+WHPX, 26, New London, CT (formerly WTWS)

Windham

WLNE-TV, 6, Providence, RI (formerly WTEV)

WJAR, 10, Providence, RI

WPRI-TV, 12, Providence, RI

WBZ-TV, 4, Boston, MA

WCVB-TV, 5, Boston, MA

WHDH-TV, 7, Boston, MA (formerly WNAC)

WFSB, 3, Hartford, CT (formerly WTIC)

WTNH-TV, 8, Hartford, CT (formerly WNHC)

+WTXX, 20, Waterbury, CT

+WTIC-TV, 61, Hartford, CT

+WHPX, 26, New London, CT (formerly WTWS)

Ashford—WVIT, WHPX, WBZ-TV, WCVB

Bridgewater—WABC-TV

Brooklyn—WVIT, WHPX, WBZ-TV, WCVB

Canterbury—WVIT, WHPX, WBZ-TV, WCVB

Chaplin—WVIT, WHPX, WBZ-TV, WCVB

Columbia—WVIT, WHPX, WBZ-TV, WCVB

Coventry—WVIT, WHPX, WBZ-TV, WCVB

Eastford—WVIT, WHPX, WBZ-TV, WCVB

Hampton—WVIT, WHPX, WBZ-TV, WCVB

Kent—WABC-TV

Lebanon—WVIT, WHPX, WBZ-TV, WCVB

Mansfield—WVIT, WHPX, WBZ-TV, WCVB

New Milford—WABC-TV

Pomfret—WVIT, WHPX, WBZ-TV, WCVB

Roxbury—WABC-TV

Scotland—WVIT, WHPX, WBZ-TV, WCVB

Thompson—WVIT, WHPX, WBZ-TV, WCVB

Washington—WABC-TV

Willingham—WVIT, WHPX, WBZ-TV, WCVB

Windham—WVIT, WHPX, WBZ-TV, WCVB

Woodstock—WVIT, WHPX, WBZ-TV, WCVB

Delaware

Kent

KYW-TV, 3, Philadelphia, PA

WPVI-TV, 6, Philadelphia, PA (formerly WFIL)

WCAU, 10, Philadelphia, PA

WPHL-TV, 17, Philadelphia, PA

WTXF-TV, 29, Philadelphia, PA

+WPSG, 57, Philadelphia, PA (formerly WGBS)

WMAR-TV, 2, Baltimore, MD

WBAL-TV, 11, Baltimore, MD

+WMDT, 47, Salisbury, MD

New Castle

KYW-TV, 3, Philadelphia, PA

WPVI-TV, 6, Philadelphia, PA (formerly WFIL)

WCAU, 10, Philadelphia, PA

WPHL-TV, 17, Philadelphia, PA

WTXF-TV, 29, Philadelphia, PA (formerly WTAF)

WGTW, 48, Philadelphia, PA (formerly WKBS-TV)

+WPSG, 57, Philadelphia, PA (formerly WGBS)

Sussex

WBOC-TV, 16, Salisbury, MD

+WMDT, 47, Salisbury, MD

#WMAR-TV, 2, Baltimore, MD ⁸

WBAL-TV, 11, Baltimore, MD

WJZ-TV, 13, Baltimore, MD

#WTTG, 5, Washington, DC ⁹

Bowers Beach—WTTG, WJZ-TV, WBOC-TV, WMDT

Camden—WTXF-TV

Cheswold—WTXF-TV

Clayton—WTXF-TV

Dover—WTXF-TV

Farmington—WTTG, WJZ-TV, WBOC-TV, WMDT

Felton—WTTG, WJZ-TV, WBOC-TV, WMDT

Frederica—WTTG, WJZ-TV, WBOC-TV, WMDT

Harrington—WTTG, WJZ-TV, WBOC-TV, WMDT

Hartly—WTTG, WJZ-TV, WBOC-TV, WMDT

Houston—WTTG, WJZ-TV, WBOC-TV, WMDT

Kenton—WTTG, WJZ-TV, WBOC, WMDT

Leipsic—WTXF-TV, WTTG, WJZ-TV, WBOC-TV, WMDT

Little Creek—WTXF-TV, WTTG, WJZ-TV, WBOC-TV, WMDT

Magnolia—WTTG, WJZ-TV, WBOC-TV, WMDT

Smyrna—WTXF-TV

Viola—WTTG, WJZ-TV, WBOC-TV, WMDT

Woodside—WTXF-TV

Wyoming—WTXF-TV

Unincorporated areas of Kent County—WTXF-TV, WTTG, WJZ-TV, WBOC-TV, WMDT

District of Columbia

WRC-TV, 4, Washington, DC

WTTG, 5, Washington, DC

WJLA-TV, 7, Washington, DC (formerly WMAL)

WUSA, 9, Washington, DC (formerly WTOP)

WDCA, 20, Washington, DC

Florida

Alachua

WJXT, 4, Jacksonville, FL

WTLV, 12, Jacksonville, FL (formerly WFGA)

WESH, 2, Daytona Beach, FL

+WOGX, 51, Ocala, FL

Baker

WJXT, 4, Jacksonville, FL

WTLV, 12, Jacksonville, FL (formerly WFGA)

WJWB, 17, Jacksonville, FL (formerly WJKS)

Bay

WJHG-TV, 7, Panama City, FL

+WMBB, 13, Panama City, FL

+WPGX, 28, Panama City, FL

WTVY, 4, Dothan, AL

Bradford

WJXT, 4, Jacksonville, FL

WTLV, 12, Jacksonville, FL (formerly WFGA)

WJWB, 17, Jacksonville, FL (formerly WJKS)

Brevard

WESH, 2, Daytona Beach, FL

WKMG-TV, 6, Orlando, FL (formerly WDBO)

WFTV, 9, Orlando, FL

+WKCF, 18, Clermont, FL

+WOFL, 35, Orlando, FL

+WRBW, 65, Orlando, FL

Broward

WFOR-TV, 4, Miami, FL (formerly WTVJ)

WSVN, 7, Miami, FL (formerly WCKT)

WPLG, 10, Miami, FL

WLTV, 23, Miami, FL (formerly WAJA)

+WBFS-TV, 33, Miami, FL

+WBZL, 39, Miami, FL (formerly WDZL)

WPTV, 5, West Palm Beach, FL

WPEC, 12, West Palm Beach, FL (formerly WEAT)

+WFLX, 29, West Palm Beach, FL

Calhoun

WJHG-TV, 7, Panama City, FL

+WMBB, 13, Panama City, FL

+WPGX, 28, Panama City, FL

WTVY, 4, Dothan, AL

WCTV, 6, Tallahassee, FL

Charlotte

WFLA-TV, 8, Tampa, FL

WTVT, 13, Tampa, FL

+WFTS-TV, 28, Tampa, FL

+WVEA-TV, 62, Venice, FL (formerly WBSV)

WINK-TV, 11, Fort Myers, FL

+WFTX, 36, Cape Coral, FL

Citrus

WFLA-TV, 8, Tampa, FL

WTSP, 10, St. Petersburg, FL (formerly WLCY)

WTVT, 13, Tampa, FL

+WFTS, 28, Tampa, FL

WESH, 2, Daytona Beach, FL

WKMG-TV, 6, Orlando, FL (formerly WDBO)

WFTV, 9, Orlando, FL

+WOGX, 51, Ocala, FL

Clay

WJXT, 4, Jacksonville, FL

WTLV, 12, Jacksonville, FL (formerly WFGA)

WJWB, 17, Jacksonville, FL (formerly WJKS)

+WAWS-TV, 30, Jacksonville, FL

+WTEV-TV, 47, Jacksonville, FL

Collier

+WFTX, 36, Cape Coral, FL

+WTVK, 46, Naples, FL

Columbia

WJXT, 4, Jacksonville, FL

WTLV, 12, Jacksonville, FL (formerly WFGA)

Dade

WFOR-TV, 4, Miami, FL (formerly WTVJ)

WTVJ, 6, Miami, FL (formerly WCIX)

WSVN, 7, Miami, FL (formerly WCKT)

WPLG, 10, Miami, FL

WLTV, 23, Miami, FL (formerly WAJA)

+WBFS-TV, 33, Miami, FL

De Soto

⁸ Affected communities are Delmar and unincorporated areas of Sussex County, DE.

⁹ Affected communities are Delmar and unincorporated areas of Sussex County, DE.

WFLA-TV, 8, Tampa, FL

WTVT, 13, Tampa, FL

WTOG, 44, St. Petersburg, FL

WINK-TV, 11, Fort Myers, FL

+WFTX, 36, Cape Coral, FL

Dixie

WJXT, 4, Jacksonville, FL

WTLV, 12, Jacksonville, FL (formerly WFGA)

WESH, 2, Daytona Beach, FL

WCTV, 6, Tallahassee, FL

WTSP, 10, St. Petersburg, FL (formerly WLCY)

Duval

WJXT, 4, Jacksonville, FL

WTLV, 12, Jacksonville, FL (formerly WFGA)

WJWB, 17, Jacksonville, FL (formerly WJKS)

+WAWS-TV, 30, Jacksonville, FL

+WTEV-TV, 47, Jacksonville, FL

Escambia

WEAR-TV, 3, Pensacola, FL

WKRG-TV, 5, Mobile, AL

WALA-TV, 10, Mobile, AL

+WPMI, 15, Mobile, AL

+WJTC, 44, Pensacola, FL

Flagler

WESH, 2, Daytona Beach, FL

WKMG-TV, 6, Orlando, FL (formerly WDBO)

WFTV, 9, Orlando, FL

WJXT, 4, Jacksonville, FL

Franklin

WCTV, 6, Tallahassee, FL

WJHG-TV, 7, Panama City, FL

Gadsden

WCTV, 6, Tallahassee, FL

+WTLH, 49, Bainbridge, GA

WTVY, 4, Dothan, AL

WJHG-TV, 7, Panama City, FL

+WMBB, 13, Panama City, FL

Gilchrist

WJXT, 4, Jacksonville, FL

WTLV, 12, Jacksonville, FL (formerly WFGA)

WESH, 2, Daytona Beach, FL

Glades

WPTV, 5, West Palm Beach, FL

WPEC, 12, West Palm Beach, FL (formerly WEAT)

WINK-TV, 11, Fort Myers, FL

WFOR-TV, 4, Miami, FL (formerly WTVJ)

Gulf

WJHG-TV, 7, Panama City, FL

+WMBB, 13, Panama City, FL

+WPGX, 28, Panama City, FL

WTVY, 4, Dothan, AL

WCTV, 6, Tallahassee, FL

Hamilton

WJXT, 4, Jacksonville, FL

WCTV, 6, Tallahassee, FL

Hardee

WFLA-TV, 8, Tampa, FL

WTVT, 13, Tampa, FL

+WFTS-TV, 28, Tampa, FL

WTOG, 44, St. Petersburg, FL

Hendry

WINK-TV, 11, Fort Myers, FL

WBBH-TV, 20, Fort Myers, FL

+WFTX, 36, Cape Coral, FL

+WTVK, 46, Naples, FL

WPTV, 5, West Palm Beach, FL

WPEC, 12, West Palm Beach, FL (formerly WEAT)

+WFLX, 29, West Palm Beach, FL

Hernando

WFLA-TV, 8, Tampa, FL

WTSP, 10, St. Petersburg, FL (formerly WLCY)

WTVT, 13, Tampa, FL

+WFTS-TV, 28, Tampa, FL

WTOG, 44, St. Petersburg, FL

Highlands

WFLA-TV, 8, Tampa, FL

WTVT, 13, Tampa, FL

+WFTS-TV, 28, Tampa, FL

WINK-TV, 11, Fort Myers, FL

Hillsborough

WFLA-TV, 8, Tampa, FL

WTSP, 10, St. Petersburg, FL (formerly WLCY)

WTVT, 13, Tampa, FL

+WFTS-TV, 28, Tampa, FL

WTOG, 44, St. Petersburg, FL

Holmes

WTVY, 4, Dothan, AL

+WDFX-TV, 34, Ozark, AL (formerly WDAU)

WJHG-TV, 7, Panama City, FL

+WPGX, 28, Panama City, FL

Indian River

WPTV, 5, West Palm Beach, FL

WPEC, 12, West Palm Beach, FL (formerly WEAT)

+WFLX, 29, West Palm Beach, FL

WTVX, 34, Fort Pierce, FL

+WOFL, 35, Orlando, FL

Jackson

WTVY, 4, Dothan, AL

WJHG-TV, 7, Panama City, FL

+WMBB, 13, Panama City, FL

+WPGX, 28, Panama City, FL

WCTV, 6, Tallahassee, FL

Jefferson

WCTV, 6, Tallahassee, FL

+WTLH, 49, Bainbridge, GA

WALB-TV, 10, Albany, GA

Lafayette

WCTV, 6, Tallahassee, FL

Lake

WESH, 2, Daytona Beach, FL

WKMG-TV, 6, Orlando, FL (formerly WDBO)

WFTV, 9, Orlando, FL

+WOFL, 35, Orlando, FL

+WKCF, 18, Clermont, FL

+WFTS-TV, 28, Tampa, FL

Lee

WINK-TV, 11, Fort Myers, FL

WBBH-TV, 20, Fort Myers, FL

+WFTX, 36, Cape Coral, FL

+WTVK, 46, Naples, FL

Leon

WCTV, 6, Tallahassee, FL

+WTLH, 49, Bainbridge, GA

WALB-TV, 10, Albany, GA

WJHG-TV, 7, Panama City, FL

+WMBB, 13, Panama City, FL

Levy

WESH, 2, Daytona Beach, FL

WJXT, 4, Jacksonville, FL

WTSP, 10, St. Petersburg, FL (formerly WLCY)

WTVT, 13, Tampa, FL

+WOGX, 51, Ocala, FL

Liberty

WCTV, 6, Tallahassee, FL

WJHG-TV, 7, Panama City, FL

+WPGX, 28, Panama City, FL

Madison

WCTV, 6, Tallahassee, FL

WALB-TV, 10, Albany, GA

+WFXL, 31, Albany, GA

Manatee

WFLA-TV, 8, Tampa, FL

WTSP, 10, St. Petersburg, FL (formerly WLCY)

WTVT, 13, Tampa, FL

+WFTS-TV, 28, Tampa, FL

WTOG, 44, St. Petersburg, FL

Marion

WESH, 2, Daytona Beach, FL

WKMG-TV, 6, Orlando, FL (formerly WDBO)

WFTV, 9, Orlando, FL

+WOFL, 35, Orlando, FL

+WKCF, 18, Clermont, FL

+WOGX, 51, Ocala, FL

Martin

WPTV, 5, West Palm Beach, FL

WPEC, 12, West Palm Beach, FL (formerly WEAT)

+WFLX, 29, West Palm Beach, FL

WFOR-TV, 4, Miami, FL (formerly WTVJ)

Monroe

WFOR-TV, 4, Miami, FL (formerly WTVJ)

WTVJ, 6, Miami, FL (formerly WCIX)

WSVN, 7, Miami, FL (formerly WCKT)

WPLG, 10, Miami, FL

Nassau

WJXT, 4, Jacksonville, FL

WTLV, 12, Jacksonville, FL (formerly WFGA)

WJWB, 17, Jacksonville, FL (formerly WJKS)

+WAWS-TV, 30, Jacksonville, FL

+WTEV-TV, 47, Jacksonville, FL

Okaloosa

WEAR-TV, 3, Pensacola, FL

WKRG-TV, 5, Mobile, AL

WALA-TV, 10, Mobile, AL

+WPMI, 15, Mobile, AL

+WJTC, 44, Pensacola, FL

WJHG-TV, 7, Panama City, FL

Okeechobee

WPTV, 5, West Palm Beach, FL

WPEC, 12, West Palm Beach, FL (formerly WEAT)

+WFLX, 29, West Palm Beach, FL

Orange

WESH, 2, Daytona Beach, FL

WKMG-TV, 6, Orlando, FL (formerly WDBO)

WFTV, 9, Orlando, FL

+WRBW, 65, Orlando, FL

+WKCF, 18, Clermont, FL

Osceola

WESH, 2, Daytona Beach, FL

WKMG-TV, 6, Orlando, FL (formerly WDBO)

WFTV, 9, Orlando, FL

+WOFL, 35, Orlando, FL

+WRBW, 65, Orlando, FL

+WKCF, 18, Clermont, FL

Palm Beach

WPTV, 5, West Palm Beach, FL

WPEC, 12, West Palm Beach, FL (formerly WEAT)

+WFLX, 29, West Palm Beach, FL

WFOR-TV, 4, Miami, FL (formerly WTVJ)

WSVN, 7, Miami, FL (formerly WCKT)

WPLG, 10, Miami, FL

+WBFS-TV, 33, Miami, FL

Pasco

WFLA-TV, 8, Tampa, FL

WTSP, 10, St. Petersburg, FL (formerly WLCY)

WTVT, 13, Tampa, FL

+WFTS-TV, 28, Tampa, FL

WTOG, 44, St. Petersburg, FL

Pinellas

WFLA-TV, 8, Tampa, FL

WTSP, 10, St. Petersburg, FL (formerly WLCY)

WTVT, 13, Tampa, FL

+WFTS-TV, 28, Tampa, FL

WTOG, 44, St. Petersburg, FL

Polk

WFLA-TV, 8, Tampa, FL

WTSP, 10, St. Petersburg, FL (formerly WLCY)

WTVT, 13, Tampa, FL

+WFTS-TV, 28, Tampa, FL

WTOG, 44, St. Petersburg, FL

WKMG-TV, 6, Orlando, FL (formerly WDBO)

WFTV, 9, Orlando, FL

+WOFL, 35, Orlando, FL

Putnam

WJXT, 4, Jacksonville, FL

WTLV, 12, Jacksonville, FL (formerly WFGA)

WJWB, 17, Jacksonville, FL (formerly WJKS)

+WAWS-TV, 30, Jacksonville, FL

WESH, 2, Daytona Beach, FL

WKMG-TV, 6, Orlando, FL (formerly WDBO)

+WOGX, 51, Ocala, FL

St. Johns

WJXT, 4, Jacksonville, FL

WTLV, 12, Jacksonville, FL (formerly WFGA)

WJWB, 17, Jacksonville, FL (formerly WJKS)

+WAWS-TV, 30, Jacksonville, FL

+WTEV-TV, 47, Jacksonville, FL

St. Lucie

WPTV, 5, West Palm Beach, FL

WPEC, 12, West Palm Beach, FL (formerly WEAT)

+WFLX, 29, West Palm Beach, FL

WTVX, 34, Fort Pierce, FL

+WOPX, 56, Melbourne, FL (formerly WAYK)

Santa Rosa

WEAR-TV, 3, Pensacola, FL

WKRG-TV, 5, Mobile, AL

WALA-TV, 10, Mobile, AL

+WPMI, 15, Mobile, AL

+WJTC, 44, Pensacola, FL

Sarasota

WFLA-TV, 8, Tampa, FL

WTSP, 10, St. Petersburg, FL (formerly WLCY)

WTVT, 13, Tampa, FL

+WFTS-TV, 28, Tampa, FL

WTOG, 44, St. Petersburg, FL

+WVEA-TV, 62, Venice, FL (formerly WBSV)

+WFTX, 36, Cape Coral, FL

Seminole

WESH, 2, Daytona Beach, FL

WKMG-TV, 6, Orlando, FL (formerly WDBO)

WFTV, 9, Orlando, FL

+WRBW, 65, Orlando, FL

+WKCF, 18, Clermont, FL

Sumter

WESH, 2, Daytona Beach, FL

WKMG-TV, 6, Orlando, FL (formerly WDBO)

WFTV, 9, Orlando, FL

WFLA-TV, 8, Tampa, FL

WTVT, 13, Tampa, FL

+WFTS-TV, 28, Tampa, FL

Suwannee

WJXT, 4, Jacksonville, FL

WTLV, 12, Jacksonville, FL (formerly WFGA)

WCTV, 6, Tallahassee, FL

Taylor

WCTV, 6, Tallahassee, FL

+WTWC, 40, Tallahassee, FL

Union

WJXT, 4, Jacksonville, FL

WTLV, 12, Jacksonville, FL (formerly WFGA)

WJWB, 17, Jacksonville, FL (formerly WJKS)

Volusia

WESH, 2, Daytona Beach, FL

WKMG-TV, 6, Orlando, FL (formerly WDBO)

WFTV, 9, Orlando, FL

+WOFL, 35, Orlando, FL

+WRBW, 65, Orlando, FL

+WKCF, 18, Clermont, FL

Wakulla

WCTV, 6, Tallahassee, FL

+WTLH, 49, Bainbridge, GA

WJHG-TV, 7, Panama City, FL

Walton

WJHG-TV, 7, Panama City, FL

+WMBB, 13, Panama City, FL

+WPGX, 28, Panama City, FL

WTVY, 4, Dothan, AL

WEAR-TV, 3, Pensacola, FL

Washington

WTVY, 4, Dothan, AL

WJHG-TV, 7, Panama City, FL

+WMBB, 13, Panama City, FL

+WPGX, 28, Panama City, FL

Avon Park—WFTV

Boca Raton—WBFS-TV

Boynton Beach—WBFS-TV

Cooper City—WFLX

Dania—WFLX

Davie—WFLX

Delray Beach—WBFS-TV

Greenacres—WBFS-TV

Hallandale—WFLX

Hollywood—WFLX

Lake Clarke Shores—WBFS-TV

Lake Worth—WBFS-TV

Lantana—WBFS-TV

Port Charlotte—WZVN-TV (formerly WEVU)

Punta Gorda—WZVN-TV (formerly WEVU)

Sebring—WFTV

Unincorporated Boca Raton—WBFS-TV

Unincorporated Boynton Beach—WBFS-TV

Unincorporated Delray Beach—WBFS-TV

Unincorporated Lake Worth—WBFS-TV

Unincorporated West Palm Beach—WBFS-TV

Georgia

Appling

WSAV-TV, 3, Savannah, GA

WTOC-TV, 11, Savannah, GA

WJCL, 22, Savannah, GA

WJBF, 6, Augusta, GA

WJXT, 4, Jacksonville, FL

WCSC-TV, 5, Charleston, SC

Atkinson

WALB-TV, 10, Albany, GA

WCTV, 6, Tallahassee, FL

Bacon

WALB-TV, 10, Albany, GA

WJXT, 4, Jacksonville, FL

WSAV-TV, 3, Savannah, GA

Baker

WALB-TV, 10, Albany, GA

WRBL, 3, Columbus, GA

WTVM, 9, Columbus, GA

WTVY, 4, Dothan, AL

WCTV, 6, Tallahassee, FL

Baldwin

WMAZ-TV, 13, Macon, GA

+WGXA, 24, Macon, GA

+WPGA, 58, Perry, GA

WSB-TV, 2, Atlanta, GA

WAGA, 5, Atlanta, GA

Banks

WSB-TV, 2, Atlanta, GA

WAGA, 5, Atlanta, GA

WXIA-TV, 11, Atlanta, GA (formerly WQXI)

WYFF, 4, Greenville, SC (formerly WFBC)

WSPA-TV, 7, Greenville, SC

Barrow

WSB-TV, 2, Atlanta, GA

WAGA, 5, Atlanta, GA

WXIA-TV, 11, Atlanta, GA (formerly WQXI)

WTBS, 17, Atlanta, GA (formerly WTCG)

Bartow

WSB-TV, 2, Atlanta, GA

WAGA, 5, Atlanta, GA

WXIA-TV, 11, Atlanta, GA (formerly WQXI)

WATL, 36, Atlanta, GA

+WPXA, 14, Rome, GA (formerly WTLK)

Ben Hill

WALB-TV, 10, Albany, GA

+WFXL, 31, Albany, GA

+WSST-TV, 55, Cordele, GA

WMAZ-TV, 13, Macon, GA

Berrien

WALB-TV, 10, Albany, GA

+WFXL, 31, Albany, GA

WCTV, 6, Tallahassee, FL

Bibb

WMAZ-TV, 13, Macon, GA

+WGXA, 24, Macon, GA

WMGT, 41, Macon, GA (formerly WCWB)

+WPGA, 58, Perry, GA

#WSB-TV, 2, Atlanta, GA ¹⁰

¹⁰ Affected communities are Macon, Payne City and unincorporated Bibb County, GA.

WTVM, 9, Columbus, GA

Bleckley

WMAZ-TV, 13, Macon, GA

Brantley

WJXT, 4, Jacksonville, FL

WTLV, 12, Jacksonville, FL (formerly WFGA)

Brooks

WCTV, 6, Tallahassee, FL

WALB-TV, 10, Albany, GA

+WFXL, 31, Albany, GA

Bryan

WSAV-TV, 3, Savannah, GA

WTOC-TV, 11, Savannah, GA

WJCL, 22, Savannah, GA

Bulloch

WSAV-TV, 3, Savannah, GA

WTOC-TV, 11, Savanah, GA

WJBF, 6, Augusta, GA

WRDW-TV, 12, Augusta, GA

Burke

WJBF, 6, Augusta, GA

WRDW-TV, 12, Augusta, GA

+WFXG, 54, Augusta, GA

Butts

WSB-TV, 2, Atlanta, GA

WAGA, 5, Atlanta, GA

WXIA-TV, 11, Atlanta, GA (formerly WQXI)

WTBS, 17, Atlanta, GA (formerly WTCG)

WATL, 36, Atlanta, GA

Calhoun

WALB-TV, 10, Albany, GA

WRBL, 3, Columbus, GA

WTVM, 9, Columbus, GA

WTVY, 4, Dothan, AL

WCTV, 6, Tallahassee, FL

Camden

WJXT, 4, Jacksonville, FL

WTLV, 12, Jacksonville, FL (formerly WFGA)

WJWB, 17, Jacksonville, FL (formerly WJKS)

Candler

WJBF, 6, Augusta, GA

WRDW-TV, 12, Augusta, GA

WSAV-TV, 3, Savannah, GA

WTOC-TV, 11, Savannah, GA

Carroll

WSB-TV, 2, Atlanta, GA

WAGA, 5, Atlanta, GA

WXIA-TV, 11, Atlanta, GA (formerly WQXI)

Catoosa

WRCB-TV, 3, Chattanooga, TN

WTVC, 9, Chattanooga, TN

WDEF-TV, 12, Chattanooga, TN

Charlton

WJXT, 4, Jacksonville, FL

WTLV, 12, Jacksonville, FL (formerly WFGA)

WJWB, 17, Jacksonville, FL (formerly WJKS)

Chatham

WSAV-TV, 3, Savannah, GA

WTOC-TV, 11, Savannah, GA

WJCL, 22, Savannah, GA

Chattahoochee

WRBL, 3, Columbus, GA

WTVM, 9, Columbus, GA

Chattooga

WRCB-TV, 3, Chattanooga, TN

WTVC, 9, Chattanooga, TN

WDEF-TV, 12, Chattanooga, TN

WSB-TV, 2, Atlanta, GA

WAGA, 5, Atlanta, GA

WXIA-TV, 11, Atlanta, GA (formerly WQXI)

+WPXA, 14, Rome, GA (formerly WTLK)

Cherokee

WSB-TV, 2, Atlanta, GA

WAGA, 5, Atlanta, GA

WXIA-TV, 11, Atlanta, GA (formerly WQXI)

WTBS, 17, Atlanta, GA (formerly WTCG)

WATL, 36, Atlanta, GA

Clarke

WSB-TV, 2, Atlanta, GA

WAGA, 5, Atlanta, GA

WXIA-TV, 11, Atlanta, GA (formerly WQXI)

WYFF, 4, Greenville, SC (formerly WFBC)

+WHNS, 21, Greenville, SC

Clay

WRBL, 3, Columbus, GA

WTVM, 9, Columbus, GA

WTVY, 4, Dothan, AL

Clayton

WSB-TV, 2, Atlanta, GA

WAGA, 5, Atlanta, GA

WXIA-TV, 11, Atlanta, GA (formerly WQXI)

WTBS, 17, Atlanta, GA (formerly WTCG)

WATL, 36, Atlanta, GA

Clinch

WJXT, 4, Jacksonville, FL

WTLV, 12, Jacksonville, FL (formerly WFGA)

WALB-TV, 10, Albany, GA

WCTV, 6, Tallahassee, FL

Cobb

WSB-TV, 2, Atlanta, GA

WAGA, 5, Atlanta, GA

WXIA-TV, 11, Atlanta, GA (formerly WQXI)

WTBS, 17, Atlanta, GA (formerly WTCG)

WATL, 36, Atlanta, GA

Coffee

WALB-TV, 10, Albany, GA

+WFXL, 31, Albany, GA

+WGVP, 44, Valdosta, GA (formerly WVGA)

Colquitt

WALB-TV, 10, Albany, GA

+WFXL, 31, Albany, GA

WCTV, 6, Tallahassee, FL

+WTXL-TV, 27, Tallahassee, FL

Columbia

WJBF, 6, Augusta, GA

WRDW-TV, 12, Augusta, GA

WAGT, 26, Augusta, GA (formerly WATU)

+WFXG, 54, Augusta, GA

Cook

WALB-TV, 10, Albany, GA

+WFXL, 31, Albany, GA

WCTV, 6, Tallahassee, FL

Coweta

WSB-TV, 2, Atlanta, GA

WAGA, 5, Atlanta, GA

WXIA-TV, 11, Atlanta, GA (formerly WQXI)

WATL, 36, Atlanta, GA

Crawford

WMAZ-TV, 13, Macon, GA

WRBL, 3, Columbus, GA

WTVM, 9, Columbus, GA

WSB-TV, 2, Atlanta, GA

Crisp

WRBL, 3, Columbus, GA

WTVM, 9, Columbus, GA

WALB-TV, 10, Albany, GA

+WFXL, 31, Albany, GA

WMAZ-TV, 13, Macon, GA

Dade

WRCB-TV, 3, Chattanooga, TN

WTVC, 9, Chattanooga, TN

WDEF-TV, 12, Chattanooga, TN

Dawson

WSB-TV, 2, Atlanta, GA

WAGA, 5, Atlanta, GA

WXIA-TV, 11, Atlanta, GA (formerly WQXI)

Decatur

WCTV, 6, Tallahassee, FL

+WTLH, 49, Bainbridge, GA

WALB-TV, 10, Albany, GA

+WFXL, 31, Albany, GA

WTVY, 4, Dothan, AL

+WMBB, 13, Panama City, FL

De Kalb

WSB-TV, 2, Atlanta, GA

WAGA, 5, Atlanta, GA

WXIA-TV, 11, Atlanta, GA (formerly WQXI)

WTBS, 17, Atlanta, GA (formerly WTCG)

WATL, 36, Atlanta, GA

Dodge

WMAZ-TV, 13, Macon, GA

+WGXA, 24, Macon, GA

+WPGA, 58, Perry, GA

WALB-TV, 10, Albany, GA

Dooly

WMAZ-TV, 13, Macon, GA

WALB-TV, 10, Albany, GA

WRBL, 3, Columbus, GA

WTVM, 9, Columbus, GA

Dougherty

WALB-TV, 10, Albany, GA

+WFXL, 31, Albany, GA

WRBL, 3, Columbus, GA

WTVM, 9, Columbus, GA

WCTV, 6, Tallahassee, FL

Douglas

WSB-TV, 2, Atlanta, GA

WAGA, 5, Atlanta, GA

WXIA-TV, 11, Atlanta, GA (formerly WQXI)

WTBS, 17, Atlanta, GA (formerly WTCG)

WATL, 36, Atlanta, GA

Early

WTVY, 4, Dothan, AL

+WDFX-TV, 34, Ozark, AL

WTVM, 9, Columbus, GA

WCTV, 6, Tallahassee, FL

WALB-TV, 10, Albany, GA

Echols

WCTV, 6, Tallahassee, FL

WALB-TV, 10, Albany, GA

Effingham

WSAV-TV, 3, Savannah, GA

WTOC-TV, 11, Savannah, GA

WJCL, 22, Savannah, GA

Elbert

WYFF, 4, Greenville, SC (formerly WFBC)

WSPA-TV, 7, Greenville, SC

WLOS, 13, Greenville, SC

WJBF, 6, Augusta, GA

Emanuel

WJBF, 6, Augusta, GA

WRDW-TV, 12, Augusta, GA

+WFXG, 54, Augusta, GA

Evans

WSAV-TV, 3, Savannah, GA

WTOC-TV, 11, Savannah, GA

WJBF, 6, Augusta, GA

Fannin

WRCB-TV, 3, Chattanooga, TN

WTVC, 9, Chattanooga, TN

WDEF-TV, 12, Chattanooga, TN

WSB-TV, 2, Atlanta, GA

WAGA, 5, Atlanta, GA

WATL, 36, Atlanta, GA

Fayette

WSB-TV, 2, Atlanta, GA

WAGA, 5, Atlanta, GA

WXIA-TV, 11, Atlanta, GA (formerly WQXI)

WATL, 36, Atlanta, GA

Floyd

WSB-TV, 2, Atlanta, GA

WAGA, 5, Atlanta, GA

WXIA-TV, 11, Atlanta, GA (formerly WQXI)

+WPXA, 14, Rome, GA (formerly WTLK)

WRCB-TV, 3, Chattanooga, TN

WTVC, 9, Chattanooga, TN

WDEF-TV, 12, Chattanooga, TN

Forsyth

WSB-TV, 2, Atlanta, GA

WAGA, 5, Atlanta, GA

WXIA-TV, 11, Atlanta, GA (formerly WQXI)

WTBS, 17, Atlanta, GA (formerly WTCG)

WATL, 36, Atlanta, GA

Franklin

WYFF, 4, Greenville, SC (formerly WFBC)

WSPA-TV, 7, Greenville, SC

WLOS, 13, Greenville, SC

Fulton

WSB-TV, 2, Atlanta, GA

WAGA, 5, Atlanta, GA

WXIA-TV, 11, Atlanta, GA (formerly WQXI)

WTBS, 17, Atlanta, GA (formerly WTCG)

WATL, 36, Atlanta, GA

Gilmer

WSB-TV, 2, Atlanta, GA

WAGA, 5, Atlanta, GA

WRCB-TV, 3, Chattanooga, TN

WTVC, 9, Chattanooga, TN

WDEF-TV, 12, Chattanooga, TN

Glascock

WJBF, 6, Augusta, GA

WRDW-TV, 12, Augusta, GA

+WFXG, 54, Augusta, GA

Glynn

WJXT, 4, Jacksonville, FL

WTLV, 12, Jacksonville, FL (formerly WFGA)

+WAWS-TV, 30, Jacksonville, FL

Gordon

WRCB-TV, 3, Chattanooga, TN

WTVC, 9, Chattanooga, TN

WDEF-TV, 12, Chattanooga, TN

WSB-TV, 2, Atlanta, GA

WAGA, 5, Atlanta, GA

WXIA-TV, 11, Atlanta, GA (formerly WQXI)

WTBS, 17, Atlanta, GA (formerly WTCG)

+WPXA, 14, Rome, GA (formerly WTLK)

Grady

WCTV, 6, Tallahassee, FL

+WTLH, 49, Bainbridge, GA

WALB-TV, 10, Albany, GA

+WFXL, 31, Albany, GA

Greene

WSB-TV, 2, Atlanta, GA

WAGA, 5, Atlanta, GA

WXIA-TV, 11, Atlanta, GA (formerly WQXI)

WJBF, 6, Augusta, GA

Gwinnett

WSB-TV, 2, Atlanta, GA

WAGA, 5, Atlanta, GA

WXIA-TV, 11, Atlanta, GA (formerly WQXI)

WTBS, 17, Atlanta, GA (formerly WTCG)

WATL, 36, Atlanta, GA

Habersham

WSB-TV, 2, Atlanta, GA

WAGA, 5, Atlanta, GA

WXIA-TV, 11, Atlanta, GA (formerly WQXI)

WYFF, 4, Greenville, SC (formerly WFBC)

WSPA-TV, 7, Greenville, SC

Hall

WSB-TV, 2, Atlanta, GA

WAGA, 5, Atlanta, GA

WXIA-TV, 11, Atlanta, GA (formerly WQXI)

Hancock

WJBF, 6, Augusta, GA

WRDW-TV, 12, Augusta, GA

WMAZ-TV, 13, Macon, GA

Haralson

WSB-TV, 2, Atlanta, GA

WAGA, 5, Atlanta, GA

WXIA-TV, 11, Atlanta, GA (formerly WQXI)

WTBS, 17, Atlanta, GA (formerly WTCG)

WATL, 36, Atlanta, GA

Harris

WRBL, 3, Columbus, GA

WTVM, 9, Columbus, GA

WSB-TV, 2, Atlanta, GA

Hart

WYFF, 4, Greenville, SC (formerly WFBC)

WSPA-TV, 7, Greenville, SC

WLOS, 13, Greenville, SC

Heard

WSB-TV, 2, Atlanta, GA

WAGA, 5, Atlanta, GA

WXIA-TV, 11, Atlanta, GA (formerly WQXI)

Henry

WSB-TV, 2, Atlanta, GA

WAGA, 5, Atlanta, GA

WXIA-TV, 11, Atlanta, GA (formerly WQXI)

WATL, 36, Atlanta, GA

Houston

WMAZ-TV, 13, Macon, GA

+WGXA, 24, Macon, GA

WMGT, 41, Macon, GA (formerly WCWB)

+WPGA, 58, Perry, GA

WRBL, 3, Columbus, GA

WTVM, 9, Columbus, GA

Irwin

WALB-TV, 10, Albany, GA

WCTV, 6, Tallahassee, FL

Jackson

WSB-TV, 2, Atlanta, GA

WAGA, 5, Atlanta, GA

WXIA-TV, 11, Atlanta, GA (formerly WQXI)

WYFF, 4, Greenville, SC (formerly WFBC)

Jasper

WSB-TV, 2, Atlanta, GA

WAGA, 5, Atlanta, GA

WXIA-TV, 11, Atlanta, GA (formerly WQXI)

WTBS, 17, Atlanta, GA (formerly WTCG)

WATL, 36, Atlanta, GA

WMAZ-TV, 13, Macon, GA

Jeff Davis

WALB-TV, 10, Albany, GA

WJXT, 4, Jacksonville, FL

WSAV-TV, 3, Savannah, GA

WTOC-TV, 11, Savannah, GA

Jefferson

WJBF, 6, Augusta, GA

WRDW-TV, 12, Augusta, GA

+WFXG, 54, Augusta, GA

Jenkins

WJBF, 6, Augusta, GA

WRDW-TV, 12, Augusta, GA

+WFXG, 54, Augusta, GA

Johnson

WMAZ-TV, 13, Macon, GA

WJBF, 6, Augusta, GA

WRDW-TV, 12, Augusta, GA

+WFXG, 54, Augusta, GA

Jones

WMAZ-TV, 13, Macon, GA

WMGT, 41, Macon, GA (formerly WCWB)

+WPGA, 58, Macon, GA

WSB-TV, 2, Atlanta, GA

WAGA, 5, Atlanta, GA

WXIA-TV, 11, Atlanta, GA (formerly WQXI)

Lamar

WSB-TV, 2, Atlanta, GA

WAGA, 5, Atlanta, GA

WXIA-TV, 11, Atlanta, GA (formerly WQXI)

WMAZ-TV, 13, Macon, GA

Lanier

WALB-TV, 10, Albany, GA

WCTV, 6, Tallahassee, FL

Laurens

WMAZ-TV, 13, Macon, GA

+WGXA, 24, Macon, GA

WMGT, 41, Macon, GA (formerly WCWB)

Lee

WRBL, 3, Columbus, GA

WTVM, 9, Columbus, GA

WALB-TV, 10, Albany, GA

+WFXL, 31, Albany, GA

Liberty

WSAV-TV, 3, Savannah, GA

WTOC-TV, 11, Savannah, GA

WJCL, 22, Savannah, GA

Lincoln

WJBF, 6, Augusta, GA

WRDW-TV, 12, Augusta, GA

+WFXG, 54, Augusta, GA

WYFF, 4, Greenville, SC (formerly WFBC)

Long

WSAV-TV, 3, Savannah, GA

WTOC-TV, 11, Savannah, GA

WJCL, 22, Savannah, GA

Lowndes

WCTV, 6, Tallahassee, FL

WALB-TV, 10, Albany, GA

+WFXL, 31, Albany, GA

Lumpkin

WSB-TV, 2, Atlanta, GA

WAGA, 5, Atlanta, GA

WXIA-TV, 11, Atlanta, GA (formerly WQXI)

McDuffie

WJBF, 6, Augusta, GA

WRDW-TV, 12, Augusta, GA

+WFXG, 54, Augusta, GA

McIntosh

WSAV-TV, 3, Savannah, GA

WTOC-TV, 11, Savannah, GA

WJXT, 4, Jacksonville, FL

Macon

WRBL, 3, Columbus, GA

WTVM, 9, Columbus, GA

WALB-TV, 10, Albany, GA

WMAZ-TV, 13, Macon, GA

Madison

WYFF, 4, Greenville, SC (formerly WFBC)

WSPA-TV, 7, Greenville, SC

WLOS, 13, Greenville, SC

+WHNS, 21, Greenville, SC

WSB-TV, 2, Atlanta, GA

WAGA, 5, Atlanta, GA

WXIA-TV, 11, Atlanta, GA (formerly WQXI)

Marion

WRBL, 3, Columbus, GA

WTVM, 9, Columbus, GA

Meriwether

WSB-TV, 2, Atlanta, GA

WAGA, 5, Atlanta, GA

WXIA-TV, 11, Atlanta, GA (formerly WQXI)

WRBL, 3, Columbus, GA

WTVM, 9, Columbus, GA

Miller

WTVY, 4, Dothan, AL

WALB-TV, 10, Albany, GA

WCTV, 6, Tallahassee, FL

Mitchell

WALB-TV, 10, Albany, GA

+WFXL, 31, Albany, GA

WCTV, 6, Tallahassee, FL

Monroe

WSB-TV, 2, Atlanta, GA

WAGA, 5, Atlanta, GA

WXIA-TV, 11, Atlanta, GA (formerly WQXI)

WMAZ-TV, 13, Macon, GA

Montgomery

WMAZ-TV, 13, Macon, GA

WJBF, 6, Augusta, GA

WSAV-TV, 3, Savannah, GA

WTOC-TV, 11, Savannah, GA

Morgan

WSB-TV, 2, Atlanta, GA

WAGA, 5, Atlanta, GA

WXIA-TV, 11, Atlanta, GA (formerly WQXI)

Murray

WRCB-TV, 3, Chattanooga, TN

WTVC, 9, Chattanooga, TN

WDEF-TV, 12, Chattanooga, TN

WSB-TV, 2, Atlanta, GA

+WPXA, 14, Rome, GA (formerly WTLK)

Muscogee

WRBL, 3, Columbus, GA

WTVM, 9, Columbus, GA

WLTZ, 38, Columbus, GA (formerly WYEA)

+WXTX, 54, Columbus, GA

Newton

WSB-TV, 2, Atlanta, GA

WAGA, 5, Atlanta, GA

WXIA-TV, 11, Atlanta, GA (formerly WQXI)

WATL, 36, Atlanta, GA

Oconee

WSB-TV, 2, Atlanta, GA

WAGA, 5, Atlanta, GA

WXIA-TV, 11, Atlanta, GA (formerly WQXI)

Oglethorpe

WSB-TV, 2, Atlanta, GA

WAGA, 5, Atlanta, GA

WXIA-TV, 11, Atlanta, GA (formerly WQXI)

WJBF, 6, Augusta, GA

WYFF, 4, Greenville, SC (formerly WFBC)

WSPA-TV, 7, Greenville, SC

WLOS, 13, Greenville, SC

Paulding

WSB-TV, 2, Atlanta, GA

WAGA, 5, Atlanta, GA

WXIA-TV, 11, Atlanta, GA (formerly WQXI)

WATL, 36, Atlanta, GA

Peach

WMAZ-TV, 13, Macon, GA

+WGXA, 24, Macon, GA

WMGT, 41, Macon, GA (formerly WCWB)

+WPGA, 58, Macon, GA

WRBL, 3, Columbus, GA

WTVM, 9, Columbus, GA

Pickens

WSB-TV, 2, Atlanta, GA

WAGA, 5, Atlanta, GA

WXIA-TV, 11, Atlanta, GA (formerly WQXI)

WTBS, 17, Atlanta, GA (formerly WTCG)

WATL, 36, Atlanta, GA

Pierce

WJXT, 4, Jacksonville, FL

WTLV, 12, Jacksonville, FL (formerly WFGA)

Pike

WSB-TV, 2, Atlanta, GA

WAGA, 5, Atlanta, GA

WXIA-TV, 11, Atlanta, GA (formerly WQXI)

WTBS, 17, Atlanta, GA (formerly WTCG)

WATL, 36, Atlanta, GA

Polk

WSB-TV, 2, Atlanta, GA

WAGA, 5, Atlanta, GA

WXIA-TV, 11, Atlanta, GA (formerly WQXI)

+WPXA, 14, Rome, GA (formerly WTLK)

Pulaski

WMAZ-TV, 13, Macon, GA

+WPGA, 58, Macon, GA

WRBL, 3, Columbus, GA

Putnam

WSB-TV, 2, Atlanta, GA

WAGA, 5, Atlanta, GA

WXIA-TV, 11, Atlanta, GA (formerly WQXI)

WMAZ-TV, 13, Macon, GA

Quitman

WRBL, 3, Columbus, GA

WTVM, 9, Columbus, GA

WSFA, 12, Montgomery, AL

Rabun

WYFF, 4, Greenville, SC (formerly WFBC)

WSPA-TV, 7, Greenville, SC

WSB-TV, 2, Atlanta, GA

WAGA, 5, Atlanta, GA

WXIA-TV, 11, Atlanta, GA (formerly WQXI)

Randolph

WRBL, 3, Columbus, GA

WTVM, 9, Columbus, GA

WALB-TV, 10, Albany, GA

WTVY, 4, Dothan, AL

Richmond

WJBF, 6, Augusta, GA

WRDW-TV, 12, Augusta, GA

WAGT, 26, Augusta, GA (formerly WATU)

+WFXG, 54, Augusta, GA

Rockdale

WSB-TV, 2, Atlanta, GA

WAGA, 5, Atlanta, GA

WXIA-TV, 11, Atlanta, GA (formerly WQXI)

WTBS, 17, Atlanta, GA (formerly WTCG)

WATL, 36, Atlanta, GA

Schley

WRBL, 3, Columbus, GA

WTVM, 9, Columbus, GA

WALB-TV, 10, Albany, GA

Screven

WJBF, 6, Augusta, GA

WRDW-TV, 12, Augusta, GA

WSAV-TV, 3, Savannah, GA

WTOC-TV, 11, Savannah, GA

Seminole

WTVY, 4, Dothan, AL

WALB-TV, 10, Albany, GA

WCTV, 6, Tallahassee, FL

Spalding

WSB-TV, 2, Atlanta, GA

WAGA, 5, Atlanta, GA

WXIA-TV, 11, Atlanta, GA (formerly WQXI)

WATL, 36, Atlanta, GA

Stephens

WYFF, 4, Greenville, SC (formerly WFBC)

WSPA-TV, 7, Greenville, SC

WLOS, 13, Greenville, SC

+WHNS, 21, Greenville, SC

Stewart

WRBL, 3, Columbus, GA

WTVM, 9, Columbus, GA

Sumter

WRBL, 3, Columbus, GA

WTVM, 9, Columbus, GA

WALB-TV, 10, Albany, GA

+WFXL, 31, Albany, GA

+WSST-TV, 55, Cordele, GA

Talbot

WRBL, 3, Columbus, GA

WTVM, 9, Columbus, GA

WSB-TV, 2, Atlanta, GA

WAGA, 5, Atlanta, GA

WXIA-TV, 11, Atlanta, GA (formerly WQXI)

Taliaferro

WJBF, 6, Augusta, GA

WRDW-TV, 12, Augusta, GA

WAGA, 5, Atlanta, GA

Tattnall

WSAV-TV, 3, Savannah, GA

WTOC-TV, 11, Savannah, GA

Taylor

WRBL, 3, Columbus, GA

WTVM, 9, Columbus, GA

WMAZ-TV, 13, Macon, GA

Telfair

WALB-TV, 10, Albany, GA

+WFXL, 31, Albany, GA

WMAZ-TV, 13, Macon, GA

+WGXA, 24, Macon, GA

Terrell

WRBL, 3, Columbus, GA

WTVM, 9, Columbus, GA

WALB-TV, 10, Albany, GA

+WFXL, 31, Albany, GA

Thomas

WCTV, 6, Tallahassee, FL

WALB-TV, 10, Albany, GA

+WFXL, 31, Albany, GA

Tift

WALB-TV, 10, Albany, GA

+WFXL, 31, Albany, GA

WCTV, 6, Tallahassee, FL

Toombs

WSAV-TV, 3, Savannah, GA

WTOC-TV, 11, Savannah, GA

WJCL, 22, Savannah, GA

WJBF, 6, Augusta, GA

WRDW-TV, 12, Augusta, GA

Towns

WSB-TV, 2, Atlanta, GA

WAGA, 5, Atlanta, GA

WXIA-TV, 11, Atlanta, GA (formerly WQXI)

WRCB-TV, 3, Chattanooga, TN

Treutlen

WMAZ-TV, 13, Macon, GA

WJBF, 6, Augusta, GA

WRDW-TV, 12, Augusta, GA

Troup

WSB-TV, 2, Atlanta, GA

WAGA, 5, Atlanta, GA

WXIA-TV, 11, Atlanta, GA (formerly WQXI)

WRBL, 3, Columbus, GA

WTVM, 9, Columbus, GA

Turner

WALB-TV, 10, Albany, GA

WRBL, 3, Columbus, GA

WTVM, 9, Columbus, GA

WCTV, 6, Tallahassee, FL

Twiggs

WMAZ-TV, 13, Macon, GA

WMGT, 41, Macon, GA (formerly WCWB)

+WPGA, 58, Perry, GA

Union

WSB-TV, 2, Atlanta, GA

WAGA, 5, Atlanta, GA

WXIA-TV, 11, Atlanta, GA (formerly WQXI)

WRCB-TV, 3, Chattanooga, TN

Upson

WSB-TV, 2, Atlanta, GA

WAGA, 5, Atlanta, GA

WXIA-TV, 11, Atlanta, GA (formerly WQXI)

WRBL, 3, Columbus, GA

WTVM, 9, Columbus, GA

+WXTX, 54, Columbus, GA

WMAZ-TV, 13, Macon, GA

Walker

WRCB-TV, 3, Chattanooga, TN

WTVC, 9, Chattanooga, TN

WDEF-TV, 12, Chattanooga, TN

Walton

WSB-TV, 2, Atlanta, GA

WAGA, 5, Atlanta, GA

WXIA-TV, 11, Atlanta, GA (formerly WQXI)

WTBS, 17, Atlanta, GA (formerly WTCG)

WATL, 36, Atlanta, GA

Ware

WJXT, 4, Jacksonville, FL

WTLV, 12, Jacksonville, FL (formerly WFGA)

Warren

WJBF, 6, Augusta, GA

WRDW-TV, 12, Augusta, GA

WAGT, 26, Augusta, GA (formerly WATU)

+WFXG, 54, Augusta, GA

Washington

WJBF, 6, Augusta, GA

WRDW-TV, 12, Augusta, GA

+WFXG, 54, Augusta, GA

WMAZ-TV, 13, Macon, GA

+WGXA, 24, Macon, GA

+WPGA, 58, Perry, GA

Wayne

WSAV-TV, 3, Savannah, GA

WTOC-TV, 11, Savannah, GA

WJCL, 22, Savannah, GA

WJXT, 4, Jacksonville, FL

Webster

WRBL, 3, Columbus, GA

WTVM, 9, Columbus, GA

Wheeler

WMAZ-TV, 13, Macon, GA

WJBF, 6, Augusta, GA

White

WSB-TV, 2, Atlanta, GA

WAGA, 5, Atlanta, GA

WXIA-TV, 11, Atlanta, GA (formerly WQXI)

Whitfield

WRCB-TV, 3, Chattanooga, TN

WTVC, 9, Chattanooga, TN

WDEF-TV, 12, Chattanooga, TN

WSB-TV, 2, Atlanta, GA

WAGA, 5, Atlanta, GA

Wilcox

WMAZ-TV, 13, Macon, GA

WALB-TV, 10, Albany, GA

WRBL, 3, Columbus, GA

WTVM, 9, Columbus, GA

Wilkes

WJBF, 6, Augusta, GA

WRDW-TV, 12, Augusta, GA

WYFF, 4, Greenville, SC (formerly WFBC)

+WHNS, 21, Greenville, SC

Wilkinson

WMAZ-TV, 13, Macon, GA

WMGT, 41, Macon, GA (formerly WCWB)

+WPGA, 58, Perry, GA

Worth

WALB-TV, 10, Albany, GA

+WFXL, 31, Albany, GA

WRBL, 3, Columbus, GA

WTVM, 9, Columbus, GA

WCTV, 6, Tallahassee, FL

Athens—WTBS, WATL

Bishop—WTBS, WATL

Bogart—WTBS, WATL

Buford—WTBS, WATL, WGCL-TV

Flowery Branch—WTBS, WATL, WGCL-TV

Gainesville—WTBS, WATL, WGCL-TV

LaGrange—WTBS

North High Shoals—WTBS, WATL

Oakwood—WTBS, WATL, WGCL-TV

Portions of Gwinnett County—WTBS, WATL, WGCL-TV

Portions of Hall County—WTBS, WATL, WGCL-TV

Watkinsville—WTBS, WATL

Winterville—WTBS, WATL

Unincorporated areas of Clarke County—WTBS, WATL

Unincorporated areas of Oconee County—WTBS, WATL

Unincorporated areas of Troup County—WTBS

Hawaii

Hawaii 1

KHON-TV, 2, Honolulu, HI

KITV, 4, Honolulu, HI (formerly KHVH)

KGMB, 9, Honolulu, HI

Hawaii 2

KHON-TV, 2, Honolulu, HI

KITV, 4, Honolulu, HI (formerly KHVH)

KGMB, 9, Honolulu, HI

Hawaii 3

KHON-TV, 2, Honolulu, HI

KITV, 4, Honolulu, HI (formerly KHVH)

KGMB, 9, Honolulu, HI

Hawaii 4

KHON-TV, 2, Honolulu, HI

KITV, 4, Honolulu, HI (formerly KHVH)

KGMB, 9, Honolulu, HI

Hawaii 5

KITV, 4, Honolulu, HI (formerly KHVH)

Honolulu 1

KHON-TV, 2, Honolulu, HI

KITV, 4, Honolulu, HI (formerly KHVH)

KGMB, 9, Honolulu, HI

Honolulu 2

KHON-TV, 2, Honolulu, HI

KITV, 4, Honolulu, HI (formerly KHVH)

KGMB, 9, Honolulu, HI

KHNL, 13, Honolulu, HI (formerly KIKU)

Honolulu 3

KHON-TV, 2, Honolulu, HI

KITV, 4, Honolulu, HI (formerly KHVH)

KGMB, 9, Honolulu, HI

Honolulu 4

KHON-TV, 2, Honolulu, HI

KITV, 4, Honolulu, HI (formerly KHVH)

KGMB, 9, Honolulu, HI

KHNL, 13, Honolulu, HI (formerly KIKU)

Kauai

KHON-TV, 2, Honolulu, HI

KITV, 4, Honolulu, HI (formerly KHVH)

KGMB, 9, Honolulu, HI

Maui 1

KHON-TV, 2, Honolulu, HI

KITV, 4, Honolulu, HI (formerly KHVH)

KGMB, 9, Honolulu, HI

KHNL, 13, Honolulu, HI (formerly KIKU)

Maui 2

KHON-TV, 2, Honolulu, HI

KITV, 4, Honolulu, HI (formerly KHVH)

KGMB, 9, Honolulu, HI

Maui 3

KHON-TV, 2, Honolulu, HI

KITV, 4, Honolulu, HI (formerly KHVH)

KGMB, 9, Honolulu, HI

Maui 4

KHON-TV, 2, Honolulu, HI

KITV, 4, Honolulu, HI (formerly KHVH)

KGMB, 9, Honolulu, HI

Idaho

Ada

KBCI-TV, 2, Boise, ID (formerly KBOI)

KTVB, 7, Boise, ID

Adams

KBCI-TV, 2, Boise, ID (formerly KBOI)

KTVB, 7, Boise, ID

Bannock

KIDK, 3, Idaho Falls, ID (formerly KID)

KPVI, 6, Pocatello, ID (formerly KTLE, KPTO)

KIFI-TV, 8, Idaho Falls, ID

Bear Lake

KUTV, 2, Salt Lake City, UT

KTVX, 4, Salt Lake City, UT (formerly KCPX)

KSL-TV, 5, Salt Lake City, UT

Benewah

KREM-TV, 2, Spokane, WA

KXLY-TV, 4, Spokane, WA

KHQ-TV, 6, Spokane, WA

Bingham

KIDK, 3, Idaho Falls, ID (formerly KID)

+KPVI, 6, Pocatello, ID

KIFI-TV, 8, Idaho Falls, ID

Blaine

KMVT, 11, Twin Falls, ID

KIDK, 3, Idaho Falls, ID (formerly KID)

Boise

KBCI-TV, 2, Boise, ID (formerly KBOI)

KTVB, 7, Boise, ID

Bonner

KREM-TV, 2, Spokane, WA

KXLY-TV, 4, Spokane, WA

KHQ-TV, 6, Spokane, WA

Bonneville

KIDK, 3, Idaho Falls, ID (formerly KID)

+KPVI, 6, Pocatello, ID

KIFI-TV, 8, Idaho Falls, ID

Boundary

KREM-TV, 2, Spokane, WA

KXLY-TV, 4, Spokane, WA

KHQ-TV, 6, Spokane, WA

Butte

KIDK, 3, Idaho Falls, ID (formerly KID)

KIFI-TV, 8, Idaho Falls, ID

Camas

KMVT, 11, Twin Falls, ID

Canyon

KBCI-TV, 2, Boise, ID (formerly KBOI)

KTVB, 7, Boise, ID

Caribou

KUTV, 2, Salt Lake City, UT

KTVX, 4, Salt Lake City, UT (formerly KCPX)

KSL-TV, 5, Salt Lake City, UT

KIDK, 3, Idaho Falls, ID (formerly KID)

KIFI-TV, 8, Idaho Falls, ID

Cassia

KMVT, 11, Twin Falls, ID

KIDK, 3, Idaho Falls, ID (formerly KID)

KPVI, 6, Pocatello, ID (formerly KTLE, KPTO)

KIFI-TV, 8, Idaho Falls, ID

Clark

KIDK, 3, Idaho Falls, ID (formerly KID)

KIFI-TV, 8, Idaho Falls, ID

Clearwater

KREM-TV, 2, Spokane, WA

KXLY-TV, 4, Spokane, WA

KHQ-TV, 6, Spokane, WA

KLEW-TV, 3, Lewiston, ID

Custer

KIDK, 3, Idaho Falls, ID (formerly KID)

KIFI-TV, 8, Idaho Falls, ID

Elmore

KBCI-TV, 2, Boise, ID (formerly KBOI)

KTVB, 7, Boise, ID

Franklin

KUTV, 2, Salt Lake City, UT

KTVX, 4, Salt Lake City, UT (formerly KCPX)

KSL-TV, 5, Salt Lake City, UT

Fremont

KIDK, 3, Idaho Falls, ID (formerly KID)

KIFI-TV, 8, Idaho Falls, ID

Gem

KBCI-TV, 2, Boise, ID (formerly KBOI)

KTVB, 7, Boise, ID

Gooding

KMVT, 11, Twin Falls, ID

+KXTF, 35, Twin Falls, ID (formerly KKVI)

Idaho

KREM-TV, 2, Spokane, WA

KXLY-TV, 4, Spokane, WA

KHQ-TV, 6, Spokane, WA

KLEW-TV, 3, Lewiston, ID

Jefferson

KIDK, 3, Idaho Falls, ID (formerly KID)

KIFI-TV, 8, Idaho Falls, ID

Jerome

KMVT, 11, Twin Falls, ID

+KKVI, 35, Twin Falls, ID

Kootenai

KREM-TV, 2, Spokane, WA

KXLY-TV, 4, Spokane, WA

KHQ-TV, 6, Spokane, WA

+KAYU-TV, 28, Spokane, WA

Latah

KREM-TV, 2, Spokane, WA

KXLY-TV, 4, Spokane, WA

KHQ-TV, 6, Spokane, WA

+KAYU-TV, 28, Spokane, WA

KLEW-TV, 3, Lewiston, ID

Lemhi

KIDK, 3, Idaho Falls, ID (formerly KID)

KECI-TV, 13, Missoula, MT (formerly KGVO)

Lewis

KREM-TV, 2, Spokane, WA

KXLY-TV, 4, Spokane, WA

KHQ-TV, 6, Spokane, WA

Lincoln

KMVT, 11, Twin Falls, ID

Madison

KIDK, 3, Idaho Falls, ID (formerly KID)

+KPVI, 6, Pocatello, ID

KIFI-TV, 8, Idaho Falls, ID

Minidoka

KMVT, 11, Twin Falls, ID

KIDK, 3, Idaho Falls, ID (formerly KID)

+KPVI, 6, Pocatello, ID

KIFI-TV, 8, Idaho Falls, ID

Nez Perce

KLEW-TV, 3, Lewiston, ID

KREM-TV, 2, Spokane, WA

KXLY-TV, 4, Spokane, WA

KHQ-TV, 6, Spokane, WA

Oneida

KUTV, 2, Salt Lake City, UT

KTVX, 4, Salt Lake City, UT (formerly KCPX)

KSL-TV, 5, Salt Lake City, UT

Owyhee

KBCI-TV, 2, Boise, ID (formerly KBOI)

KTVB, 7, Boise, ID

Payette

KBCI-TV, 2, Boise, ID (formerly KBOI)

KTVB, 7, Boise, ID

Power

KIDK, 3, Idaho Falls, ID (formerly KID)

KPVI, 6, Pocatello, ID (formerly KTLE, KPTO)

KIFI-TV, 8, Idaho Falls, ID

Shoshone

KREM-TV, 2, Spokane, WA

KXLY-TV, 4, Spokane, WA

KHQ-TV, 6, Spokane, WA

Teton

KIDK, 3, Idaho Falls, ID (formerly KID)

KIFI-TV, 8, Idaho Falls, ID

Twin Falls

KMVT, 11, Twin Falls, ID

+KKVI, 35, Twin Falls, ID

KTVB, 7, Boise, ID

+KTRV, 12, Nampa, ID

Valley

KBCI-TV, 2, Boise, ID (formerly KBOI)

KTVB, 7, Boise, ID

+KTRV, 12, Nampa, ID

Washington

KBCI-TV, 2, Boise, ID (formerly KBOI)

KTVB, 7, Boise, ID

ILLINOIS

Adams

KHQA-TV, 7, Hannibal, MO

WGEM-TV, 10, Quincy, IL

+KTVO, 3, Ottumwa, IA

Alexander

WSIL-TV, 3, Harrisburg, IL

WPSD-TV, 6, Paducah, KY

KFVS-TV, 12, Cape Girardeau, MO

+KBSI, 23, Cape Girardeau, MO

Bond

KTVI, 2, St. Louis, MO

KMOV, 4, St. Louis, MO (formerly KMOX)

KSDK, 5, St. Louis, MO (formerly KSD)

KPLR-TV, 11, St. Louis, MO

Boone

WREX-TV, 13, Rockford, IL

WTVO, 17, Rockford, IL

WIFR, 23, Freeport, IL (formerly WCEE)

+WQRF-TV, 39, Rockford, IL

WGN-TV, 9, Chicago, IL

+WPWR-TV, 50, Gary, IN

+WMSN-TV, 47, Madison, WI

Brown

KHQA-TV, 7, Hannibal, MO

WGEM-TV, 10, Quincy, IL

Bureau

WHBF-TV, 4, Rock Island, IL

KWQC-TV, 6, Davenport, IA (formerly WOC)

WQAD-TV, 8, Moline, IL

+KLJB-TV, 18, Davenport, IA

+WYZZ-TV, 43, Bloomington, IL

Calhoun

KTVI, 2, St. Louis, MO

KMOV, 4, St. Louis, MO (formerly KMOX)

KSDK, 5, St. Louis, MO (formerly KSD)

KPLR-TV, 11, St. Louis, MO

Carroll

WHBF-TV, 4, Rock Island, IL

KWQC-TV, 6, Davenport, IA (formerly WOC)

WQAD-TV, 8, Moline, IL

+KLJB-TV, 18, Davenport, IA

WREX-TV, 13, Rockford, IL

Cass

KHQA-TV, 7, Hannibal, MO

WGEM-TV, 10, Quincy, IL

WHOI, 19, Peoria, IL (formerly WIRL)

WMBD-TV, 31, Peoria, IL

WICS, 20, Springfield, IL

+WRSP-TV, 55, Springfield, IL

Champaign

WCIA, 3, Champaign, IL

WAND, 17, Decatur, IL

WICD, 15, Champaign, IL

Christian

WCIA, 3, Champaign, IL

WAND, 17, Decatur, IL

WICS, 20, Springfield, IL

+WRSP-TV, 55, Springfield, IL

Clark

WTWO, 2, Terre Haute, IN

WTHI-TV, 10, Terre Haute, IN

WTTV, 4, Bloomington, IN

Clay

WTWO, 2, Terre Haute, IN

WTHI-TV, 10, Terre Haute, IN

WTVW, 7, Evansville, IN

KMOV, 4, St. Louis, MO (formerly KMOX)

+WPXS 13, Mount Vernon, IL (formerly WCEE)

Clinton

KTVI, 2, St. Louis, MO

KMOV, 4, St. Louis, MO (formerly KMOX)

KSDK, 5, St. Louis, MO (formerly KSD)

KPLR-TV, 11, St. Louis, MO

+WPXS, 13, Mount Vernon, IL (formerly WCEE)

Coles

WCIA, 3, Champaign, IL

WICD, 15, Champaign, IL

WAND, 17, Decatur, IL

+WRSP-TV, 55, Springfield, IL

WTWO, 2, Terre Haute, IN

WTHI-TV, 10, Terre Haute, IN

Cook

WBBM-TV, 2, Chicago, IL

WMAQ-TV, 5, Chicago, IL

WLS-TV, 7, Chicago, IL

WGN-TV, 9, Chicago, IL

WFLD, 32, Chicago, IL

+WPWR-TV, 50, Gary, IN

+WGBO-TV, 66, Joliet, IL

Crawford

WTWO, 2, Terre Haute, IN

WTHI-TV, 10, Terre Haute, IN

+WBAK-TV, 38, Terre Haute, IN

+WPXS, 13, Mount Vernon, IL (formerly WCEE)

Cumberland

WTWO, 2, Terre Haute, IN

WTHI-TV, 10, Terre Haute, IN

WCIA, 3, Champaign, IL

WAND, 17, Decatur, IL

WICS, 20, Springfield, IL

DeKalb

WBBM-TV, 2, Chicago, IL

WMAQ-TV, 5, Chicago, IL

WLS-TV, 7, Chicago, IL

WGN-TV, 9, Chicago, IL

+WPWR-TV, 50, Gary, IN

+WGBO-TV, 66, Joliet, IL

WREX-TV, 13, Rockford, IL

WTVO, 17, Rockford, IL

WIFR-TV, 23, Freeport, IL (formerly WCEE)

+WQRF-TV, 39, Rockford, IL

De Witt

WCIA, 3, Champaign, IL

WAND, 17, Decatur, IL

WICS, 20, Springfield, IL

+WRSP-TV, 55, Springfield, IL

WEEK-TV, 25, Peoria, IL

+WYZZ-TV, 43, Bloomington, IL

Douglas

WCIA, 3, Champaign, IL

WICD, 15, Champaign, IL

WAND, 17, Decatur, IL

DuPage

WBBM-TV, 2, Chicago, IL

WMAQ-TV, 5, Chicago, IL

WLS-TV, 7, Chicago, IL

WGN-TV, 9, Chicago, IL

WFLD, 32, Chicago, IL

+WPWR-TV, 50, Gary, IN

+WGBO-TV, 66, Joliet, IL

Edgar

WTWO, 2, Terre Haute, IN

WTHI-TV, 10, Terre Haute, IN

+WBAK-TV, 38, Terre Haute, IN

WTTV, 4, Bloomington, IN

WCIA, 3, Champaign, IL

Edwards

WTVW, 7, Evansville, IN

WFIE-TV, 14, Evansville, IN

WEHT, 25, Evansville, IN

+WEVV, 44, Evansville, IN

+WPXS, 13, Mount Vernon, IL (formerly WCEE)

Effingham

WCIA, 3, Champaign, IL

+WRSP-TV, 55, Springfield, IL

WTWO, 2, Terre Haute, IN

WTHI-TV, 10, Terre Haute, IN

+WPXS, 13, Mount Vernon, IL (formerly WCEE)

Fayette

KTVI, 2, St. Louis, MO

KMOV, 4, St. Louis, MO (formerly KMOX)

KSDK, 5, St. Louis, MO (formerly KSD)

KPLR-TV, 11, St. Louis, MO

+WPXS, 13, Mount Vernon, IL (formerly WCEE)

Ford

WCIA, 3, Champaign, IL

WICD, 15, Champaign, IL

WAND, 17, Decatur, IL

+WRSP-TV, 55, Springfield, IL

+WYZZ-TV, 43, Bloomington, IL

Franklin

WSIL-TV, 3, Harrisburg, IL

WPSD-TV, 6, Paducah, KY

KFVS-TV, 12, Cape Girardeau, MO

+WPXS, 13, Mount Vernon, IL (formerly WCEE)

+KBSI, 23, Cape Girardeau, MO

+WTCT, 27, Marion, IL

Fulton

WHOI, 19, Peoria, IL (formerly WIRL)

WEEK-TV, 25, Peoria, IL

WMBD-TV, 31, Peoria, IL

+WYZZ-TV, 43, Bloomington, IL

Gallatin

WSIL-TV, 3, Harrisburg, IL

WPSD-TV, 6, Paducah, KY

KFVS-TV, 12, Cape Girardeau, MO

WTVW, 7, Evansville, IN

WFIE-TV, 14, Evansville, IN

WEHT, 25, Evansville, IN

+WEVV, 44, Evansville, IN

Greene

KTVI, 2, St. Louis, MO

KMOV, 4, St. Louis, MO (formerly KMOX)

KSDK, 5, St. Louis, MO (formerly KSD)

KPLR-TV, 11, St. Louis, MO

Grundy

WBBM-TV, 2, Chicago, IL

WMAQ-TV, 5, Chicago, IL

WLS-TV, 7, Chicago, IL

WGN-TV, 9, Chicago, IL

WFLD, 32, Chicago, IL

+WPWR-TV, 50, Gary, IN

Hamilton

WSIL-TV, 3, Harrisburg, IL

WPSD-TV, 6, Paducah, KY

KFVS-TV, 12, Cape Girardeau, MO

WTVW, 7, Evansville, IN

+WEVV, 44, Evansville, IN

Hancock

KHQA-TV, 7, Hannibal, MO

WGEM-TV, 10, Quincy, IL

+KTVO, 3, Ottumwa, IA

Hardin

WSIL-TV, 3, Harrisburg, IL

WPSD-TV, 6, Paducah, KY

KFVS-TV, 12, Cape Girardeau, MO

Henderson

WHBF-TV, 4, Rock Island, IL

KWQC-TV, 6, Davenport, IA (formerly WOC)

WQAD-TV, 8, Moline, IL

Henry

WHBF-TV, 4, Rock Island, IL

KWQC-TV, 6, Davenport, IA (formerly WOC)

WQAD-TV, 8, Moline, IL

+KLJB-TV, 18, Davenport, IA

Iroquois

WCIA, 3, Champaign, IL

WICD, 15, Champaign, IL

WBBM-TV, 2, Chicago, IL

WMAQ-TV, 5, Chicago, IL

WLS-TV, 7, Chicago, IL

WGN-TV, 9, Chicago, IL

WFLD, 32, Chicago, IL

Jackson

WSIL-TV, 3, Harrisburg, IL

WPSD-TV, 6, Paducah, KY

KFVS-TV, 12, Cape Girardeau, MO

+WPXS, 13, Mount Vernon, IL (formerly WCEE)

+KBSI, 23, Cape Girardeau, MO

+WTCT, 27, Marion, IL

KPLR-TV, 11, St. Louis, MO

Jasper

WTWO, 2, Terre Haute, IN

WTHI-TV, 10, Terre Haute, IN

+WBAK-TV, 38, Terre Haute, IN

+WPXS, 13, Mount Vernon, IL (formerly WCEE)

Jefferson

KTVI, 2, St. Louis, MO

KMOV, 4, St. Louis, MO (formerly KMOX)

KSDK, 5, St. Louis, MO (formerly KSD)

KPLR-TV, 11, St. Louis, MO

WSIL-TV, 3, Harrisburg, IL

WPSD-TV, 6, Paducah, KY

KFVS-TV, 12, Cape Girardeau, MO

+WPXS, 13, Mount Vernon, IL (formerly WCEE)

+KBSI, 23, Cape Girardeau, MO

Jersey

KTVI, 2, St. Louis, MO

KMOV, 4, St. Louis, MO (formerly KMOX)

KSDK, 5, St. Louis, MO (formerly KSD)

KPLR-TV, 11, St. Louis, MO

KDNL-TV, 30, St. Louis, MO

Jo Daviess

WHBF-TV, 4, Rock Island, IL

KWQC-TV, 6, Davenport, IA (formerly WOC)

WQAD-TV, 8, Moline, IL

WISC-TV, 3, Madison, WI

WREX-TV, 13, Rockford, IL

WTVO, 17, Rockford, IL

+WQRF-TV, 39, Rockford, IL

Johnson

WSIL-TV, 3, Harrisburg, IL

WPSD-TV, 6, Paducah, KY

KFVS-TV, 12, Cape Girardeau, MO

+KBSI, 23, Cape Girardeau, MO

Kane

WBBM-TV, 2, Chicago, IL

WMAQ-TV, 5, Chicago, IL

WLS-TV, 7, Chicago, IL

WGN-TV, 9, Chicago, IL

WFLD, 32, Chicago, IL

+WPWR-TV, 50, Gary, IN

+WGBO-TV, 66, Joliet, IL

Kankakee

WBBM-TV, 2, Chicago, IL

WMAQ-TV, 5, Chicago, IL

WLS-TV, 7, Chicago, IL

WGN-TV, 9, Chicago, IL

WFLD, 32, Chicago, IL

+WPWR-TV, 50, Gary, IN

+WGBO-TV, 66, Joliet, IL

Kendall

WBBM-TV, 2, Chicago, IL

WMAQ-TV, 5, Chicago, IL

WLS-TV, 7, Chicago, IL

WGN-TV, 9, Chicago, IL

WFLD, 32, Chicago, IL

+WPWR-TV, 50, Gary, IN

+WGBO-TV, 66, Joliet, IL

Knox

WHBF-TV, 4, Rock Island, IL

KWQC-TV, 6, Davenport, IA (formerly WOC)

WQAD-TV, 8, Moline, IL

+KLJB-TV, 18, Davenport, IA

WHOI, 19, Peoria, IL (formerly WIRL)

WEEK-TV, 25, Peoria, IL

WMBD-TV, 31, Peoria, IL

Lake

WBBM-TV, 2, Chicago, IL

WMAQ-TV, 5, Chicago, IL

WLS-TV, 7, Chicago, IL

WGN-TV, 9, Chicago, IL

WFLD, 32, Chicago, IL

+WPWR-TV, 50, Gary, IN

+WGBO-TV, 66, Joliet, IL

La Salle

WBBM-TV, 2, Chicago, IL

WMAQ-TV, 5, Chicago, IL

WLS-TV, 7, Chicago, IL

WGN-TV, 9, Chicago, IL

+WPWR-TV, 50, Gary, IN

WHBF-TV, 4, Rock Island, IL

WEEK-TV, 25, Peoria, IL

+WYZZ-TV, 43, Bloomington, IL

Lawrence

WTWO, 2, Terre Haute, IN

WTHI-TV, 10, Terre Haute, IN

WTVW, 7, Evansville, IN

+WPXS, 13, Mount Vernon, IL (formerly WCEE)

Lee

WHBF-TV, 4, Rock Island, IL

KWQC-TV, 6, Davenport, IA (formerly WOC)

WQAD-TV, 8, Moline, IL

WGN-TV, 9, Chicago, IL

WREX-TV, 13, Rockford, IL

WTVO, 17, Rockford, IL

WIFR, 23, Freeport, IL (formerly WCEE)

Livingston

WBBM-TV, 2, Chicago, IL

WMAQ-TV, 5, Chicago, IL

WLS-TV, 7, Chicago, IL

WGN-TV, 9, Chicago, IL

+WPWR-TV, 50, Gary, IN

WHOI, 19, Peoria, IL (formerly WIRL)

WEEK-TV, 25, Peoria, IL

WMBD-TV, 31, Peoria, IL

WCIA, 3, Champaign, IL

Logan

WHOI, 19, Peoria, IL (formerly WIRL)

WEEK-TV, 25, Peoria, IL

WMBD-TV, 31, Peoria, IL

+WYZZ-TV, 43, Bloomington, IL

WCIA, 3, Champaign, IL

WAND, 17, Decatur, IL

WICS, 20, Springfield, IL

+WRSP-TV, 55, Springfield, IL

McDonough

KHQA-TV, 7, Hannibal, MO

WGEM-TV, 10, Quincy, IL

WHBF-TV, 4, Rock Island, IL

KWQC-TV, 6, Davenport, IA (formerly WOC)

WQAD-TV, 8, Moline, IL

+KLJB-TV, 18, Davenport, IA

McHenry

WBBM-TV, 2, Chicago, IL

WMAQ-TV, 5, Chicago, IL

WLS-TV, 7, Chicago, IL

WGN-TV, 9, Chicago, IL

WFLD, 32, Chicago, IL

+WPWR-TV, 50, Gary, IN

+WGBO-TV, 66, Joliet, IL

McLean

WHOI, 19, Peoria, IL (formerly WIRL)

WEEK-TV, 25, Peoria, IL

WMBD-TV, 31, Peoria, IL

+WYZZ-TV, 43, Bloomington, IL

WCIA, 3, Champaign, IL

WAND, 17, Decatur, IL

+WRSP-TV, 55, Springfield, IL

Macon

WCIA, 3, Champaign, IL

WAND, 17, Decatur, IL

WICS, 20, Springfield, IL

+WRSP-TV, 55, Springfield, IL

Macoupin

KTVI, 2, St. Louis, MO

KMOV, 4, St. Louis, MO (formerly KMOX)

KSDK, 5, St. Louis, MO (formerly KSD)

KPLR-TV, 11, St. Louis, MO

KDNL-TV, 30, St. Louis, MO

+WRSP-TV, 55, Springfield, IL

Madison

KTVI, 2, St. Louis, MO

KMOV, 4, St. Louis, MO (formerly KMOX)

KSDK, 5, St. Louis, MO (formerly KSD)

KPLR-TV, 11, St. Louis, MO

KDNL-TV, 30, St. Louis, MO

Marion

KTVI, 2, St. Louis, MO

KMOV, 4, St. Louis, MO (formerly KMOX)

KSDK, 5, St. Louis, MO (formerly KSD)

KPLR-TV, 11, St. Louis, MO

+WPXS, 13, Mount Vernon, IL (formerly WCEE)

Marshall

WHOI, 19, Peoria, IL (formerly WIRL)

WEEK-TV, 25, Peoria, IL

WMBD-TV, 31, Peoria, IL

+WYZZ-TV, 43, Bloomington, IL

+WTCT, 27, Marion, IL

Mason

WHOI, 19, Peoria, IL (formerly WIRL)

WEEK-TV, 25, Peoria, IL

WMBD-TV, 31, Peoria, IL

+WYZZ-TV, 43, Bloomington, IL

+WRSP-TV, 55, Springfield, IL

Massac

WSIL-TV, 3, Harrisburg, IL

WPSD-TV, 6, Paducah, KY

KFVS-TV, 12, Cape Girardeau, MO

+KBSI, 23, Cape Girardeau, MO

Menard

WHOI, 19, Peoria, IL (formerly WIRL)

WEEK-TV, 25, Peoria, IL

WMBD-TV, 31, Peoria, IL

WAND, 17, Decatur, IL

WICS, 20, Springfield, IL

Mercer

WHBF-TV, 4, Rock Island, IL

KWQC-TV, 6, Davenport, IA (formerly WOC)

WQAD-TV, 8, Moline, IL

+KLJB-TV, 18, Davenport, IA

Monroe

KTVI, 2, St. Louis, MO

KMOV, 4, St. Louis, MO (formerly KMOX)

KSDK, 5, St. Louis, MO (formerly KSD)

KPLR-TV, 11, St. Louis, MO

KDNL-TV, 30, St. Louis, MO

Montgomery

KTVI, 2, St. Louis, MO

KMOV, 4, St. Louis, MO (formerly KMOX)

KSDK, 5, St. Louis, MO (formerly KSD)

KPLR-TV, 11, St. Louis, MO

WICS, 20, Springfield, IL

+WRSP-TV, 55, Springfield, IL

Morgan

KHQA-TV, 7, Hannibal, MO

WGEM-TV, 10, Quincy, IL

KTVI, 2, St. Louis, MO

KPLR-TV, 11, St. Louis, MO

WICS, 20, Springfield, IL

+WRSP-TV, 55, Springfield, IL

Moultrie

WCIA, 3, Champaign, IL

WICD, 15, Champaign, IL

WAND, 17, Decatur, IL

WICS, 20, Springfield, IL

+WRSP-TV, 55, Springfield, IL

Ogle

WREX-TV, 13, Rockford, IL

WTVO, 17, Rockford, IL

WIFR, 23, Freeport, IL (formerly WCEE)

+WQRF-TV, 39, Rockford, IL

Peoria

WHOI, 19, Peoria, IL (formerly WIRL)

WEEK-TV, 25, Peoria, IL

WMBD-TV, 31, Peoria, IL

+WYZZ-TV, 43, Bloomington, IL

Perry

KTVI, 2, St. Louis, MO

KMOV, 4, St. Louis, MO (formerly KMOX)

KSDK, 5, St. Louis, MO (formerly KSD)

KPLR-TV, 11, St. Louis, MO

WSIL-TV, 3, Harrisburg, IL

KFVS-TV, 11, Cape Girardeau, MO

+WPXS, 13, Mount Vernon, IL (formerly WCEE)

Piatt

WCIA, 3, Champaign, IL

WICD, 15, Champaign, IL

WAND, 17, Decatur, IL

WICS, 20, Springfield, IL

+WRSP-TV, 55, Springfield, IL

Pike

KHQA-TV, 7, Hannibal, MO

WGEM-TV, 10, Quincy, IL

KTVI, 2, St. Louis, MO

KSDK, 5, St. Louis, MO (formerly KSD)

KPLR-TV, 11, St. Louis, MO

Pope

WSIL-TV, 3, Harrisburg, IL

WPSD-TV, 6, Paducah, KY

KFVS-TV, 12, Cape Girardeau, MO

Pulaski

WSIL-TV, 3, Harrisburg, IL

WPSD-TV, 6, Paducah, KY

KFVS-TV, 12, Cape Girardeau, MO

+KBSI, 23, Cape Girardeau, MO

Putnam

WHOI, 19, Peoria, IL (formerly WIRL)

WEEK-TV, 25, Peoria, IL

WMBD-TV, 31, Peoria, IL

WHBF-TV, 4, Rock Island, IL

KWQC-TV, 6, Davenport, IA (formerly WOC)

WQAD-TV, 8, Moline, IL

Randolph

KTVI, 2, St. Louis, MO

KMOV, 4, St. Louis, MO (formerly KMOX)

KSDK, 5, St. Louis, MO (formerly KSD)

KPLR-TV, 11, St. Louis, MO

KDNL-TV, 30, St. Louis, MO

+KBSI, 23, Cape Girardeau, MO

Richland

WTWO, 2, Terre Haute, IN

WTHI-TV, 10, Terre Haute, IN

WTVW, 7, Evansville, IN

+WPXS, 13, Mount Vernon, IL (formerly WCEE)

Rock Island

WHBF-TV, 4, Rock Island, IL

KWQC-TV, 6, Davenport, IA (formerly WOC)

WQAD-TV, 8, Moline, IL

+KLJB-TV, 18, Davenport, IA

St. Clair

KTVI, 2, St. Louis, MO

KMOV, 4, St. Louis, MO (formerly KMOX)

KSDK, 5, St. Louis, MO (formerly KSD)

KPLR-TV, 11, St. Louis, MO

KDNL-TV, 30, St. Louis, MO

Saline

WSIL-TV, 3, Harrisburg, IL

WPSD-TV, 6, Paducah, KY

KFVS-TV, 12, Cape Girardeau, MO

+KBSI, 23, Cape Girardeau, MO

+WTCT, 27, Marion, IL

+WEVV, 44, Evansville, IN

Sangamon

WCIA, 3, Champaign, IL

WAND, 17, Decatur, IL

WICS, 20, Springfield, IL

+WRSP-TV, 55, Springfield, IL

Schuyler

KHQA-TV, 7, Hannibal, MO

WGEM-TV, 10, Quincy, IL

Scott

KHQA-TV, 7, Hannibal, MO

WGEM-TV, 10, Quincy, IL

KTVI, 2, St. Louis, MO

KSDK, 5, St. Louis, MO (formerly KSD)

KPLR-TV, 11, St. Louis, MO

Shelby

WCIA, 3, Champaign, IL

WAND, 17, Decatur, IL

WICS, 20, Springfield, IL

Stark

WHBF-TV, 4, Rock Island, IL

KWQC-TV, 6, Davenport, IA (formerly WOC)

WQAD-TV, 8, Moline, IL

+KLJB-TV, 18, Davenport, IA

WHOI, 19, Peoria, IL (formerly WIRL)

WEEK-TV, 25, Peoria, IL

WMBD-TV, 31, Peoria, IL

Stephenson

WREX-TV, 13, Rockford, IL

WTVO, 17, Rockford, IL

WIFR, 23, Freeport, IL (formerly WCEE)

+WQRF-TV, 39, Rockford, IL

WISC-TV, 3, Madison, WI

+WMSN-TV, 47, Madison, WI

Tazewell

WHOI, 19, Peoria, IL (formerly WIRL)

WEEK-TV, 25, Peoria, IL

WMBD-TV, 31, Peoria, IL

+WYZZ-TV, 43, Bloomington, IL

+WRSP-TV, 55, Springfield, IL

Union

WSIL-TV, 3, Harrisburg, IL

WPSD-TV, 6, Paducah, KY

KFVS-TV, 12, Cape Girardeau, MO

+KBSI, 23, Cape Girardeau, MO

Vermilion

WCIA, 3, Champaign, IL

WICD, 15, Champaign, IL

WAND, 17, Decatur, IL

WTWO, 2, Terre Haute, IN

Wabash

WTVW, 7, Evansville, IN

WFIE-TV, 14, Evansville, IN

WEHT, 25, Evansville, IN

+WEVV, 44, Evansville, IN

Warren

WHBF-TV, 4, Rock Island, IL

KWQC-TV, 6, Davenport, IA (formerly WOC)

WQAD-TV, 8, Moline, IL

+KLJB-TV, 18, Davenport, IA

Washington

KTVI, 2, St. Louis, MO

KMOV, 4, St. Louis, MO (formerly KMOX)

KSDK, 5, St. Louis, MO (formerly KSD)

KPLR-TV, 11, St. Louis, MO

KDNL-TV, 30, St. Louis, MO

Wayne

WTVW, 7, Evansville, IN

WFIE-TV, 14, Evansville, IN

WEHT, 25, Evansville, IN

+WEVV, 44, Evansville, IN

WSIL-TV, 3, Harrisburg, IL

WPSD-TV, 6, Paducah, KY

KFVS-TV, 12, Cape Girardeau, MO

+WPXS, 13, Mount Vernon, IL (formerly WCEE)

White

WTVW, 7, Evansville, IN

WFIE-TV, 14, Evansville, IN

WEHT, 25, Evansville, IN

+WEVV, 44, Evansville, IN

WSIL-TV, 3, Harrisburg, IL

WPSD-TV, 6, Paducah, KY

+WPXS, 13, Mount Vernon, IL (formerly WCEE)

Whiteside

WHBF-TV, 4, Rock Island, IL

KWQC-TV, 6, Davenport, IA (formerly WOC)

WQAD-TV, 8, Moline, IL

+KLJB-TV, 18, Davenport, IA

+WQRF-TV, 39, Rockford, IL

Will

WBBM-TV, 2, Chicago, IL

WMAQ-TV, 5, Chicago, IL

WLS-TV, 7, Chicago, IL

WGN-TV, 9, Chicago, IL

WFLD, 32, Chicago, IL

+WPWR-TV, 50, Gary, IN

+WGBO-TV, 66, Joliet, IL

Williamson

WSIL-TV, 3, Harrisburg, IL

WPSD-TV, 6, Paducah, KY

KFVS-TV, 12, Cape Girardeau, MO

+WPXS, 13, Mount Vernon, IL (formerly WCEE)

+KBSI, 23, Cape Girardeau, MO

+WTCT, 27, Marion, IL

Winnebago

WREX-TV, 13, Rockford, IL

WTVO, 17, Rockford, IL

WIFR, 23, Freeport, IL (formerly WCEE)

+WQRF-TV, 39, Rockford, IL

Woodford

WHOI, 19, Peoria, IL (formerly WIRL)

WEEK-TV, 25, Peoria, IL

WMBD-TV, 31, Peoria, IL

+WYZZ-TV, 43, Bloomington, IL

Rockton Village—WMSN-TV

South Beloit—WMSN-TV

Indiana

Adams

WANE-TV, 15, Fort Wayne, IN

WPTA, 21, Fort Wayne, IN

WKJG-TV, 33, Fort Wayne, IN

+WFFT-TV, 55, Fort Wayne, IN

Allen

WANE-TV, 15, Fort Wayne, IN

WPTA, 21, Fort Wayne, IN

WKJG-TV, 33, Fort Wayne, IN

Bartholomew

WTTV, 4, Bloomington, IN

WRTV, 6, Indianapolis, IN (formerly WFBM)

WISH-TV, 8, Indianapolis, IN

WTHR, 13, Indianapolis, IN (formerly WLWI)

+WXIN, 59, Indianapolis, IN

Benton

WTTV, 4, Bloomington, IN

WRTV, 6, Indianapolis, IN (formerly WFBM)

WTHR, 13, Indianapolis, IN (formerly WLWI)

+WTTK, 29, Kokomo, IN

+WXIN, 59, Indianapolis, IN

WGN-TV, 9, Chicago, IL

WLFI-TV, 18, Lafayette, IN

WCIA, 3, Champaign, IL

WICD, 15, Champaign, IL

Blackford

WTTV, 4, Bloomington, IN

WRTV, 6, Indianapolis, IN (formerly WFBM)

WISH-TV, 8, Indianapolis, IN

WTHR, 13, Indianapolis, IN (formerly WLWI)

+WTTK, 29, Kokomo, IN

+WXIN, 59, Indianapolis, IN

WANE-TV, 15, Fort Wayne, IN

WPTA, 21, Fort Wayne, IN

WKJG-TV, 33, Fort Wayne, IN

+WFFT-TV, 55, Fort Wayne, IN

Boone

WTTV, 4, Bloomington, IN

WRTV, 6, Indianapolis, IN (formerly WFBM)

WISH-TV, 8, Indianapolis, IN

WTHR, 13, Indianapolis, IN (formerly WLWI)

+WNDY-TV, 23, Marion, IN (formerly WMCC)

+WHMB-TV, 40, Indianapolis, IN

+WXIN, 59, Indianapolis, IN

Brown

WTTV, 4, Bloomington, IN

WRTV, 6, Indianapolis, IN (formerly WFBM)

WISH-TV, 8, Indianapolis, IN

WTHR, 13 Indianapolis, IN (formerly WLWI)

Carroll

WTTV, 4, Bloomington, IN

WRTV, 6, Indianapolis, IN (formerly WFBM)

WISH-TV, 8, Indianapolis, IN

WTHR, 13, Indianapolis, IN (formerly WLWI)

+WNDY-TV, 23, Marion, IN (formerly WMCC)

+WTTK, 29, Kokomo, IN

+WXIN, 59, Indianapolis, IN

WLFI-TV, 18, Lafayette, IN

Cass

WRTV, 6, Indianapolis, IN (formerly WFBM)

WISH-TV, 8, Indianapolis, IN

WTHR, 13, Indianapolis, IN (formerly WLWI)

+WTTK, 29, Kokomo, IN

+WXIN, 59, Indianapolis, IN

WLFI-TV, 18, Lafayette, IN

Clark

WAVE, 3, Louisville, KY

WHAS-TV, 11, Louisville, KY

WLKY-TV, 32, Louisville, KY

+WDRB, 41, Louisville, KY

+WFTE, 58, Salem, IN

Clay

WTWO, 2, Terre Haute, IN

WTHI-TV, 10, Terre Haute, IN

+WBAK-TV, 38, Terre Haute, IN

WTTV, 4, Bloomington, IN

WRTV, 6, Indianapolis, IN (formerly WFBM)

WISH-TV, 8, Indianapolis, IN

WTHR, 13, Indianapolis, IN (formerly WLWI)

Clinton

WTTV, 4, Bloomington, IN

WRTV, 6, Indianapolis, IN (formerly WFBM)

WISH-TV, 8, Indianapolis, IN

WTHR, 13, Indianapolis, IN (formerly WLWI)

+WNDY-TV, 23, Marion, IN (formerly WMCC)

+WTTK, 29, Kokomo, IN

+WHMB-TV, 40, Indianapolis, IN

+WXIN, 59, Indianapolis, IN

Crawford

WAVE, 3, Louisville, KY

WHAS-TV, 11, Louisville, KY

WLKY-TV, 32, Louisville, KY

+WDRB, 41, Louisville, KY

WTVW, 7, Evansville, IN

Daviess

WTWO, 2, Terre Haute, IN

WTHI-TV, 10, Terre Haute, IN

WTVW, 7, Evansville, IN

WTTV, 4, Bloomington, IN

Dearborn

WLWT, 5, Cincinnati, OH

WCPO-TV, 9, Cincinnati, OH

WKRC-TV, 12, Cincinnati, OH

WXIX-TV, 19, Cincinnati, OH

+WSTR-TV, 64, Cincinnati, OH

+WRGT-TV, 45, Dayton, OH

Decatur

WTTV, 4, Bloomington, IN

WRTV, 6, Indianapolis, IN (formerly WFBM)

WISH-TV, 8, Indianapolis, IN

WTHR, 13, Indianapolis, IN (formerly WLWI)

De Kalb

WANE-TV, 15, Fort Wayne, IN

WPTA, 21, Fort Wayne, IN

WKJG-TV, 33, Fort Wayne, IN

+WFFT-TV, 55, Fort Wayne, IN

Delaware

WTTV, 4, Bloomington, IN

WRTV, 6, Indianapolis, IN (formerly WFBM)

WISH-TV, 8, Indianapolis, IN

WTHR, 13, Indianapolis, IN (formerly WLWI)

+WNDY-TV, 23, Marion, IN (formerly WMCC)

+WTTK, 29, Kokomo, IN

+WHMB-TV, 40, Indianapolis, IN

+WXIN, 59, Indianapolis, IN

Dubois

WTVW, 7, Evansville, IN

WFIE-TV, 14, Evansville, IN

WEHT, 25, Evansville, IN

+WEVV, 44, Evansville, IN

WTTV, 4, Bloomington, IN

WAVE, 3, Louisville, KY

WHAS-TV, 11, Louisville, KY

+WDRB, 41, Louisville, KY

WTWO, 2, Terre Haute, IN

WTHI-TV, 10, Terre Haute, IN

Elkhart

WNDU-TV, 16, South Bend, IN

WSBT-TV, 22, South Bend, IN

WSJV, 28, Elkhart, IN

+WHME-TV, 46, South Bend, IN

Fayette

WLWT, 5, Cincinnati, OH

WCPO-TV, 9, Cincinnati, OH

WKRC-TV, 12, Cincinnati, OH

+WSTR-TV, 64, Cincinnati, OH

WHIO-TV, 7, Dayton, OH

+WRGT-TV, 45, Dayton, OH

WTTV, 4, Bloomington, IN

WRTV, 6, Indianapolis, IN (formerly WFBM)

WISH-TV, 8, Indianapolis, IN

+WXIN, 59, Indianapolis, IN

Floyd

WAVE, 3, Louisville, KY

WHAS-TV, 11, Louisville, KY

WLKY-TV, 32, Louisville, KY

+WDRB, 41, Louisville, KY

+WFTE, 58, Salem, IN

Fountain

WTTV, 4, Bloomington, IN

WRTV, 6, Indianapolis, IN (formerly WFBM)

WTHR, 13, Indianapolis, IN (formerly WLWI)

WCIA, 3, Champaign, IL

WTWO, 2, Terre Haute, IN

WTHI-TV, 10, Terre Haute, IN

Franklin

WLWT, 5, Cincinnati, OH

WCPO-TV, 9, Cincinnati, OH

WKRC-TV, 12, Cincinnati, OH

+WSTR-TV, 64, Cincinnati, OH

WTTV, 4, Bloomington, IN

+WRGT-TV, 45, Dayton, OH

Fulton

WNDU-TV, 16, South Bend, IN

WSBT-TV, 22, South Bend, IN

WSJV, 28, Elkhart, IN

+WHME-TV, 46, South Bend, IN

+WTTK, 29, Kokomo, IN

Gibson

WTVW, 7, Evansville, IN

WFIE-TV, 14, Evansville, IN

WEHT, 25, Evansville, IN

Grant

WTTV, 4, Bloomington, IN

WRTV, 6, Indianapolis, IN (formerly WFBM)

WISH-TV, 8, Indianapolis, IN

WTHR, 13, Indianapolis, IN (formerly WLWI)

+WNDY-TV, 23, Marion, IN (formerly WMCC)

+WTTK, 29, Kokomo, IN

+WHMB-TV, 40, Indianapolis, IN

+WXIN, 59, Indianapolis, IN

+WFFT-TV, 55, Fort Wayne, IN

Greene

WTWO, 2, Terre Haute, IN

WTHI-TV, 10, Terre Haute, IN

+WBAK-TV, 38, Terre Haute, IN

WTVW, 7, Evansville, IN

WTTV, 4, Bloomington, IN

WRTV, 6, Indianapolis, IN (formerly WFBM)

WTHR, 13, Indianapolis, IN (formerly WLWI)

Hamilton

WTTV, 4, Bloomington, IN

WRTV, 6, Indianapolis, IN (formerly WFBM)

WISH-TV, 8, Indianapolis, IN

WTHR, 13, Indianapolis, IN (formerly WLWI)

+WNDY-TV, 23, Marion, IN (formerly WMCC)

+WHMB-TV, 40, Indianapolis, IN

+WXIN, 59, Indianapolis, IN

Hancock

WTTV, 4, Bloomington, IN

WRTV, 6, Indianapolis, IN (formerly WFBM)

WISH-TV, 8, Indianapolis, IN

WTHR, 13, Indianapolis, IN (formerly WLWI)

+WNDY-TV, 23, Indianapolis, IN (formerly WMCC)

+WHMB-TV, 40, Indianapolis, IN

+WXIN, 59, Indianapolis, IN

Harrison

WAVE, 3, Louisville, KY

WHAS-TV, 11, Louisville, KY

WLKY-TV, 32, Louisville, KY

+WDRB, 41, Louisville, KY

+WFTE, 58, Salem, IN

Hendricks

WTTV, 4, Bloomington, IN

WRTV, 6, Indianapolis, IN (formerly WFBM)

WISH-TV, 8, Indianapolis, IN

WTHR, 13, Indianapolis, IN (formerly WLWI)

+WNDY-TV, 23, Marion, IN (formerly WMCC)

+WHMB-TV, 40, Indianapolis, IN

+WXIN, 59, Indianapolis, IN

Henry

WTTV, 4, Bloomington, IN

WRTV, 6, Indianapolis, IN (formerly WFBM)

WISH-TV, 8, Indianapolis, IN

WTHR, 13, Indianapolis, IN (formerly WLWI)

+WNDY-TV, 23, Marion, IN (formerly WMCC)

+WXIN, 59, Indianapolis, IN

Howard

WTTV, 4, Bloomington, IN

WRTV, 6, Indianapolis, IN (formerly WFBM)

WISH-TV, 8, Indianapolis, IN

WTHR, 13, Indianapolis, IN (formerly WLWI)

+WNDY-TV, 23, Marion, IN (formerly WMCC)

+WTTK, 29, Kokomo, IN

+WHMB-TV, 40, Indianapolis, IN

+WXIN, 59, Indianapolis, IN

Huntington

WANE-TV, 15, Fort Wayne, IN

WPTA, 21, Fort Wayne, IN

WKJG-TV, 33, Fort Wayne, IN

Jackson

WAVE, 3, Louisville, KY

WHAS-TV, 11, Louisville, KY

WLKY-TV, 32, Louisville, KY

+WDRB, 41, Louisville, KY

+WFTE, 58, Salem, IN

WTTV, 4, Bloomington, IN

WRTV, 6, Indianapolis, IN (formerly WFBM)

WISH-TV, 8, Indianapolis, IN

WTHR, 13, Indianapolis, IN (formerly WLWI)

Jasper

WBBM-TV, 2, Chicago, IL

WMAQ-TV, 5, Chicago, IL

WLS-TV, 7, Chicago, IL

WGN-TV, 9, Chicago, IL

+WPWR-TV, 50, Gary, IN

Jay

WTTV, 4, Bloomington, IN

WRTV, 6, Indianapolis, IN (formerly WFBM)

WISH-TV, 8, Indianapolis, IN

WTHR, 13, Indianapolis, IN (formerly WLWI)

+WNDY-TV, 23, Marion, IN (formerly WMCC)

+WTTK, 29, Kokomo, IN

WANE-TV, 15, Fort Wayne, IN

WPTA, 21, Fort Wayne, IN

WKJG-TV, 33, Fort Wayne, IN

+WFFT-TV, 55, Fort Wayne, IN

+WRGT-TV, 45, Dayton, OH

Jefferson

WAVE, 3, Louisville, KY

WHAS-TV, 11, Louisville, KY

WLKY-TV, 32, Louisville, KY

+WDRB, 41, Louisville, KY

+WFTE, 58, Salem, IN

WLWT, 5, Cincinnati, OH

WCPO-TV, 9, Cincinnati, OH

WKRC-TV, 12, Cincinnati, OH

WTTV, 4, Bloomington, IN

Jennings

WTTV, 4, Bloomington, IN

WRTV, 6, Indianapolis, IN (formerly WFBM)

WISH-TV, 8, Indianapolis, IN

WTHR, 13, Indianapolis, IN (formerly WLWI)

WAVE, 3, Louisville, KY

WHAS-TV, 11, Louisville, KY

WLKY-TV, 32, Louisville, KY

+WDRB, 41, Louisville, KY

Johnson

WTTV, 4, Bloomington, IN

WRTV, 6, Indianapolis, IN (formerly WFBM)

WISH-TV, 8, Indianapolis, IN

WTHR, 13, Indianapolis, IN (formerly WLWI)

+WNDY-TV, 23, Marion, IN (formerly WMCC)

+WHMB-TV, 40, Indianapolis, IN

+WXIN, 59, Indianapolis, IN

Knox

WTWO, 2, Terre Haute, IN

WTHI-TV, 10, Terre Haute, IN

+WBAK-TV, 38, Terre Haute, IN

WTVW, 7, Evansville, IN

Kosciusko

WNDU-TV, 16, South Bend, IN

WSBT-TV, 22, South Bend, IN

WSJV, 28, Elkhart, IN

+WFFT-TV, 55, Fort Wayne, IN

La Grange

WNDU-TV, 16, South Bend, IN

WSBT-TV, 22, South Bend, IN

WSJV, 28, Elkhart, IN

WANE-TV, 15, Fort Wayne, IN

WPTA, 21, Fort Wayne, IN

WKJG-TV, 33, Fort Wayne, IN

Lake

WBBM-TV, 2, Chicago, IL

WMAQ-TV, 5, Chicago, IL

WLS-TV, 7, Chicago, IL

WGN-TV, 9, Chicago, IL

WFLD, 32, Chicago, IL

+WPWR-TV, 50, Gary, IN

+WGBO-TV, 66, Joliet, IL

La Porte

WBBM-TV, 2, Chicago, IL

WMAQ-TV, 5, Chicago, IL

WLS-TV, 7, Chicago, IL

WGN-TV, 9, Chicago, IL

WFLD, 32, Chicago, IL

+WPWR-TV, 50, Gary, IN

+WGBO-TV, 66, Joliet, IL

WNDU-TV, 16, South Bend, IN

WSBT-TV, 22, South Bend, IN

Lawrence

WTTV, 4, Bloomington, IN

WRTV, 6, Indianapolis, IN (formerly WFBM)

WISH-TV, 8, Indianapolis, IN

WAVE, 3, Louisville, KY

WHAS-TV, 11, Louisville, KY

+WDRB, 41, Louisville, KY

WTWO, 2, Terre Haute, IN

WTHI-TV, 10, Terre Haute, IN

Madison

WTTV, 4, Bloomington, IN

WRTV, 6, Indianapolis, IN (formerly WFBM)

WISH-TV, 8, Indianapolis, IN

WTHR, 13, Indianapolis, IN (formerly WLWI)

+WNDY-TV, 23, Marion, IN (formerly WMCC)

+WTTK, 29, Kokomo, IN

+WHMB-TV, 40, Indianapolis, IN

+WXIN, 59, Indianapolis, IN

Marion

WTTV, 4, Bloomington, IN

WRTV, 6, Indianapolis, IN (formerly WFBM)

WISH-TV, 8, Indianapolis, IN

WTHR, 13, Indianapolis, IN (formerly WLWI)

+WNDY-TV, 23, Marion, IN (formerly WMCC)

+WHMB-TV, 40, Indianapolis, IN

+WXIN, 59, Indianapolis, IN

Marshall

WNDU-TV, 16, South Bend, IN

WSBT-TV, 22, South Bend, IN

WSJV, 28, Elkhart, IN

WGN-TV, 9, Chicago, IL

Martin

WTWO, 2, Terre Haute, IN

WTHI-TV, 10, Terre Haute, IN

WTVW, 7, Evansville, IN

WTTV, 4, Bloomington, IN

WAVE, 3, Louisville, KY

+WDRB, 41, Louisville, KY

Miami

WTTV, 4, Bloomington, IN

WRTV, 6, Indianapolis, IN (formerly WFBM)

WISH-TV, 8, Indianapolis, IN

WTHR, 13, Indianapolis, IN (formerly WLWI)

+WNDY-TV, 23, Marion, IN (formerly WMCC)

+WTTK, 29, Kokomo, IN

+WXIN, 59, Indianapolis, IN

WNDU-TV, 16, South Bend, IN

Monroe

WTTV, 4, Bloomington, IN

WRTV, 6, Indianapolis, IN (formerly WFBM)

WISH-TV, 8, Indianapolis, IN

WTHR, 13, Indianapolis, IN (formerly WLWI)

+WXIN, 59, Indianapolis, IN

WTWO, 2, Terre Haute, IN

WTHI-TV, 10, Terre Haute, IN

Montgomery

WTTV, 4, Bloomington, IN

WRTV, 6, Indianapolis, IN (formerly WFBM)

WISH-TV, 8, Indianapolis, IN

WTHR, 13, Indianapolis, IN (formerly WLWI)

+WHMB-TV, 40, Indianapolis, IN

+WXIN, 59, Indianapolis, IN

Morgan

WTTV, 4, Bloomington, IN

WRTV, 6, Indianapolis, IN (formerly WFBM)

WISH-TV, 8, Indianapolis, IN

WTHR, 13, Indianapolis, IN (formerly WLWI)

+WXIN, 59, Indianapolis, IN

Newton

WBBM-TV, 2, Chicago, IL

WMAQ-TV, 5, Chicago, IL

WLS-TV, 7, Chicago, IL

WGN-TV, 9, Chicago, IL

+WGBO-TV, 66, Joliet, IL

Noble

WANE-TV, 15, Fort Wayne, IN

WPTA, 21, Fort Wayne, IN

WKJG-TV, 33, Fort Wayne, IN

+WFFT-TV, 55, Fort Wayne, IN

WNDU-TV, 16, South Bend, IN

WSBT-TV, 22, South Bend, IN

WSJV, 28, Elkhart, IN

+WHME-TV, 46, South Bend, IN

Ohio

WLWT, 5, Cincinnati, OH

WCPO-TV, 9, Cincinnati, OH

WKRC-TV, 12, Cincinnati, OH

WXIX-TV, 19, Cincinnati, OH

+WSTR-TV, 64, Cincinnati, OH

Orange

WAVE, 3, Louisville, KY

WHAS-TV, 11, Louisville, KY

WLKY-TV, 32, Louisville, KY

+WDRB, 41, Louisville, KY

WTTV, 4, Bloomington, IN

Owen

WTTV, 4, Bloomington, IN

WRTV, 6, Indianapolis, IN (formerly WFBM)

WISH-TV, 8, Indianapolis, IN

WTHR, 13, Indianapolis, IN (formerly WLWI)

WTWO, 2, Terre Haute, IN

WTHI-TV, 10, Terre Haute, IN

Parke

WTWO, 2, Terre Haute, IN

WTHI-TV, 10, Terre Haute, IN

WTTV, 4, Bloomington, IN

WRTV, 6, Indianapolis, IN (formerly WFBM)

WTHR, 13, Indianapolis, IN (formerly WLWI)

Perry

WTVW, 7, Evansville, IN

WFIE-TV, 14, Evansville, IN

WEHT, 25, Evansville, IN

+WEVV, 44, Evansville, IN

WAVE, 3, Louisville, KY

WHAS-TV, 11, Louisville, KY

+WDRB, 41, Louisville, KY

Pike

WTVW, 7, Evansville, IN

WFIE-TV, 14, Evansville, IN

WEHT, 25, Evansville, IN

+WEVV, 44, Evansville, IN

WTTV, 4, Bloomington, IN

WTWO, 2, Terre Haute, IN

WTHI-TV, 10, Terre Haute, IN

Porter

WBBM-TV, 2, Chicago, IL

WMAQ-TV, 5, Chicago, IL

WLS-TV, 7, Chicago, IL

WGN-TV, 9, Chicago, IL

WFLD, 32, Chicago, IL

+WPWR-TV, 50, Gary, IN

+WGBO-TV, 66, Joliet, IL

Posey

WTVW, 7, Evansville, IN

WFIE-TV, 14, Evansville, IN

WEHT, 25, Evansville, IN

Pulaski

WNDU-TV, 16, South Bend, IN

WSBT-TV, 22, South Bend, IN

WSJV, 28, Elkhart, IN

WBBM-TV, 2, Chicago, IL

WMAQ-TV, 5, Chicago, IL

WLS-TV, 7, Chicago, IL

WGN-TV, 9, Chicago, IL

Putnam

WTTV, 4, Bloomington, IN

WRTV, 6, Indianapolis, IN (formerly WFBM)

WISH-TV, 8, Indianapolis, IN

WTHR, 13, Indianapolis, IN (formerly WLWI)

+WXIN, 59, Indianapolis, IN

WTWO, 2, Terre Haute, IN

WTHI-TV, 10, Terre Haute, IN

Randolph

WTTV, 4, Bloomington, IN

WRTV, 6, Indianapolis, IN (formerly WFBM)

WISH-TV, 8, Indianapolis, IN

WTHR, 13, Indianapolis, IN (formerly WLWI)

+WNDY-TV, 23, Marion, IN (formerly WMCC)

+WTTK, 29, Kokomo, IN

+WXIN, 59, Indianapolis, IN

WDTN, 2, Dayton, OH (formerly WLWD)

WHIO-TV, 7, Dayton, OH

+WRGT-TV, 45, Dayton, OH

Ripley

WLWT, 5, Cincinnati, OH

WCPO-TV, 9, Cincinnati, OH

WKRC-TV, 12, Cincinnati, OH

WXIX-TV, 19, Cincinnati, OH

+WSTR-TV, 64, Cincinnati, OH

WTTV, 4, Bloomington, IN

Rush

WTTV, 4, Bloomington, IN

WRTV, 6, Indianapolis, IN (formerly WFBM)

WISH-TV, 8, Indianapolis, IN

WTHR, 13, Indianapolis, IN (formerly WLWI)

+WXIN, 59, Indianapolis, IN

St. Joseph

WNDU-TV, 16, South Bend, IN

WSBT-TV, 22, South Bend, IN

WSJV, 28, Elkhart, IN

WGN-TV, 9, Chicago, IL

Scott

WAVE, 3, Louisville, KY

WHAS-TV, 11, Louisville, KY

WLKY-TV, 32, Louisville, KY

+WDRB, 41, Louisville, KY

+WFTE, 58, Salem, IN

WTTV, 4, Bloomington, IN

Shelby

WTTV, 4, Bloomington, IN

WRTV, 6, Indianapolis, IN (formerly WFBM)

WISH-TV, 8, Indianapolis, IN

WTHR, 13, Indianapolis, IN (formerly WLWI)

+WNDY-TV, 23, Marion, IN (formerly WMCC)

+WHMB-TV, 40, Indianapolis, IN

+WXIN, 59, Indianapolis, IN

Spencer

WTVW, 7, Evansville, IN

WFIE-TV, 14, Evansville, IN

WEHT, 25, Evansville, IN

Starke

WNDU-TV, 16, South Bend, IN

WSBT-TV, 22, South Bend, IN

WSJV, 28, Elkhart, IN

WBBM-TV, 2, Chicago, IL

WMAQ-TV, 5, Chicago, IL

WLS-TV, 7, Chicago, IL

WGN-TV, 9, Chicago, IL

Steuben

WANE-TV, 15, Fort Wayne, IN

WPTA, 21, Fort Wayne, IN

WKJG-TV, 33, Fort Wayne, IN

+WFFT-TV, 55, Fort Wayne, IN

WWMT, 3, Kalamazoo, MI (formerly WKZO)

+WSYM-TV, 47, Lansing, MI

Sullivan

WTWO, 2, Terre Haute, IN

WTHI-TV, 10, Terre Haute, IN

+WBAK-TV, 38, Terre Haute, IN

WTTV, 4, Bloomington, IN

Switzerland

WLWT, 5, Cincinnati, OH

WCPO-TV, 9, Cincinnati, OH

WKRC-TV, 12, Cincinnati, OH

WXIX-TV, 19, Cincinnati, OH

Tippecanoe

WLFI-TV, 18, Lafayette, IN

WTTV, 4, Bloomington, IN

WRTV, 6, Indianapolis, IN (formerly WFBM)

WISH-TV, 8, Indianapolis, IN

WTHR, 13, Indianapolis, IN (formerly WLWI)

+WNDY-TV, 23, Marion, IN (formerly WMCC)

+WHMB-TV, 40, Indianapolis, IN

+WXIN, 59, Indianapolis, IN

Tipton

WTTV, 4, Bloomington, IN

WRTV, 6, Indianapolis, IN (formerly WFBM)

WISH-TV, 8, Indianapolis, IN

WTHR, 13, Indianapolis, IN (formerly WLWI)

+WTTK, 29, Kokomo, IN

+WHMB-TV, 40, Indianapolis, IN

+WXIN, 59, Indianapolis, IN

Union

WLWT, 5, Cincinnati, OH

WCPO-TV, 9, Cincinnati, OH

WKRC-TV, 12, Cincinnati, OH

WXIX-TV, 19, Cincinnati, OH

WHIO-TV, 7, Dayton, OH

WPTD, 16, Dayton, OH (formerly WKTR)

WTTV, 4, Bloomington, IN

Vanderburg

WTVW, 7, Evansville, IN

WFIE-TV, 14, Evansville, IN

WEHT, 25, Evansville, IN

Vermillion

WTWO, 2, Terre Haute, IN

WTHI-TV, 10, Terre Haute, IN

+WBAK-TV, 38, Terre Haute, IN

WTTV, 4, Bloomington, IN

WRTV, 6, Indianapolis, IN (formerly WFBM)

WTHR, 13, Indianapolis, IN (formerly WLWI)

WCIA, 3, Champaign, IL

Vigo

WTWO, 2, Terre Haute, IN

WTHI-TV, 10, Terre Haute, IN

+WBAK-TV, 38, Terre Haute, IN

WTTV, 4, Bloomington, IN

Wabash

WRTV, 6, Indianapolis, IN (formerly WFBM)

WISH-TV, 8, Indianapolis, IN

WTHR, 13, Indianapolis, IN (formerly WLWI)

+WNDY-TV, 23, Indianapolis, IN (formerly WMCC)

+WTTK, 29, Kokomo, IN

WANE-TV, 15, Fort Wayne, IN

WPTA, 21, Fort Wayne, IN

WKJG-TV, 33, Fort Wayne, IN

+WFFT-TV, 55, Fort Wayne, IN

Warren

WTTV, 4, Bloomington, IN

WRTV, 6, Indianapolis, IN (formerly WFBM)

WTHR, 13, Indianapolis, IN (formerly WLWI)

WCIA, 3, Champaign, IL

WICD, 15, Champaign, IL

WTHI-TV, 10, Terre Haute, IN

Warrick

WTVW, 7, Evansville, IN

WFIE-TV, 14, Evansville, IN

WEHT, 25, Evansville, IN

Washington

WAVE, 3, Louisville, KY

WHAS-TV, 11, Louisville, KY

WLKY-TV, 32, Louisville, KY

WDRB, 41, Louisville, KY

WTTV, 4, Bloomington, IN

Wayne

WDTN, 2, Dayton, OH (formerly WLWD)

WHIO-TV, 7, Dayton, OH

+WRGT-TV, 45, Dayton, OH

WLWT, 5, Cincinnati, OH

WCPO-TV, 9, Cincinnati, OH

WKRC-TV, 12, Cincinnati, OH

WTTV, 4, Bloomington, IN

WRTV, 6, Indianapolis, IN (formerly WFBM)

WISH-TV, 8, Indianapolis, IN

WTHR, 13, Indianapolis, IN (formerly WLWI)

Wells

WANE-TV, 15, Fort Wayne, IN

WPTA, 21, Fort Wayne, IN

WKJG-TV, 33, Fort Wayne, IN

+WFFT-TV, 55, Fort Wayne, IN

White

WTTV, 4, Bloomington, IN

WRTV, 6, Indianapolis, IN (formerly WFBM)

WISH-TV, 8, Indianapolis, IN

WTHR, 13, Indianapolis, IN (formerly WLWI)

+WTTK, 29, Kokomo, IN

+WHMB-TV, 40, Indianapolis, IN

+WXIN, 59, Indianapolis, IN

WGN-TV, 9, Chicago, IL

WLFI-TV, 18, Lafayette, IN

Whitley

WANE-TV, 15, Fort Wayne, IN

WPTA, 21, Fort Wayne, IN

WKJG-TV, 33, Fort Wayne, IN

Battleground—WXIN

Bloomington—WYZZ-TV

Centerville—WXIX-TV

Dayton—WXIN

Lafayette—WXIN

Mishawaka—WGN-TV, WFLD

Osceola—WGN-TV, WFLD

Richmond—WXIX-TV

Roseland—WGN-TV, WFLD

South Bend—WGN-TV, WFLD

Spring Grove—WXIX-TV

West Lafayette—WXIN

Unincorporated areas of St. Joseph County—WGN-TV, WFLD

Unincorporated areas of Wayne County—WXIX-TV

Iowa

Adair

WOI-TV, 5, Ames, IA

KCCI, 8, Des Moines, IA (formerly KRNT)

WHO-TV, 13, Des Moines, IA

Adams

KMTV, 3, Omaha, NE

WOWT, 6, Omaha, NE (formerly WOW)

KETV, 7, Omaha, NE

Allamakee

KGAN, 2, Cedar Rapids, IA (formerly WMT)

KWWL, 7, Waterloo, IA

KCRG-TV, 9, Cedar Rapids, IA

WKBT, 8, La Crosse, WI

+WLAX, 25, La Crosse, WI

KTTC, 10, Rochester, MN (formerly KROC)

Appanoose

KTVO, 3, Ottumwa, IA

KCCI, 8, Des Moines, IA (formerly KRNT)

WHO-TV, 13, Des Moines, IA

+KDSM-TV, 17, Des Moines, IA

Audubon

KMTV, 3, Omaha, NE

WOWT, 6, Omaha, NE (formerly WOW)

KETV, 7, Omaha, NE

Benton

KGAN, 2, Cedar Rapids, IA (formerly WMT)

KWWL, 7, Waterloo, IA

KCRG-TV, 9, Cedar Rapids, IA

Black Hawk

KGAN, 2, Cedar Rapids, IA (formerly WMT)

KWWL, 7, Waterloo, IA

KCRG-TV, 9, Cedar Rapids, IA

Boone

WOI-TV, 5, Ames, IA

KCCI, 8, Des Moines, IA (formerly KRNT)

WHO-TV, 13, Des Moines, IA

+KDSM-TV, 17, Des Moines, IA

Bremer

KGAN, 2, Cedar Rapids, IA (formerly WMT)

KWWL, 7, Waterloo, IA

KCRG-TV, 9, Cedar Rapids, IA

Buchanan

KGAN, 2, Cedar Rapids, IA (formerly WMT)

KWWL, 7, Waterloo, IA

KCRG-TV, 9, Cedar Rapids, IA

Buena Vista

KTIV, 4, Sioux City, IA

KCAU-TV, 9, Sioux City, IA

KMEG, 14, Sioux City, IA

Butler

KGAN, 2, Cedar Rapids, IA (formerly WMT)

KWWL, 7, Waterloo, IA

KCRG-TV, 9, Cedar Rapids, IA

KIMT, 3, Mason City, IA (formerly KGLO)

Calhoun

WOI-TV, 5, Ames, IA

KCCI, 8, Des Moines, IA (formerly KRNT)

+KDSM-TV, 17, Des Moines, IA

KVFD, 21, Fort Dodge, IA (apparently out of service)

KTIV, 4, Sioux City, IA

KCAU-TV, 9, Sioux City, IA

Carroll

WOI-TV, 5, Ames, IA

KCCI, 8, Des Moines, IA (formerly KRNT)

WHO-TV, 13, Des Moines, IA

+KDSM-TV, 17, Des Moines, IA

WOWT, 6, Omaha, NE (formerly WOW)

Cass

KMTV, 3, Omaha, NE

WOWT, 6, Omaha, NE (formerly WOW)

KETV, 7, Omaha, NE

+KPTM, 42, Omaha, NE

Cedar

KGAN, 2, Cedar Rapids, IA (formerly WMT)

KWWL, 7, Waterloo, IA

KCRG-TV, 9, Cedar Rapids, IA

WHBF-TV, 4, Rock Island, IL

KWQC-TV, 6, Davenport, IA (formerly WOC)

WQAD-TV, 8, Moline, IL

+KLJB-TV, 18, Davenport, IA

Cerro Gordo

KIMT, 3, Mason City, IA (formerly KGLO)

KAAL, 6, Austin, MN (formerly KAUS)

KTTC, 10, Rochester, MN (formerly KROC)

Cherokee

KTIV, 4, Sioux City, IA

KCAU-TV, 9, Sioux City, IA

KMEG, 14, Sioux City, IA

KELO-TV, 11, Sioux Falls, SD

KSFY-TV, 13, Sioux Falls, SD (formerly KSOO)

Chickasaw

KGAN, 2, Cedar Rapids, IA (formerly WMT)

KWWL, 7, Waterloo, IA

KCRG-TV, 9, Cedar Rapids, IA

KIMT, 3, Mason City, IA (formerly KGLO)

KTTC, 10, Rochester, MN (formerly KROC)

Clarke

WOI-TV, 5, Ames, IA

KCCI, 8, Des Moines, IA (formerly KRNT)

WHO-TV, 13, Des Moines, IA

Clay

KTIV, 4, Sioux City, IA

KCAU-TV, 9, Sioux City, IA

KELO-TV, 11, Sioux Falls, SD

KSFY-TV, 13, Sioux Falls, SD (formerly KSOO)

Clayton

KGAN, 2, Cedar Rapids, IA (formerly WMT)

KWWL, 7, Waterloo, IA

KCRG-TV, 9, Cedar Rapids, IA

Clinton

WHBF-TV, 4, Rock Island, IL

KWQC-TV, 6, Davenport, IA (formerly WOC)

WQAD-TV, 8, Moline, IL

+KLJB-TV, 18, Davenport, IA

Crawford

KMTV, 3, Omaha, NE

WOWT, 6, Omaha, NE (formerly WOW)

KETV, 7, Omaha, NE

+KXVO, 15, Omaha, NE

+KPTM, 42, Omaha, NE

KTIV, 4, Sioux City, IA

KCAU-TV, 9, Sioux City, IA

Dallas

WOI-TV, 5, Ames, IA

KCCI, 8, Des Moines, IA (formerly KRNT)

WHO-TV, 13, Des Moines, IA

+KDSM-TV, 17, Des Moines, IA

Davis

KCCI, 8, Des Moines, IA (formerly KRNT)

WHO-TV, 13, Des Moines, IA

+KDSM-TV, 17, Des Moines, IA

KTVO, 3, Ottumwa, IA

+KYOU-TV, 15, Ottumwa, IA

KHQA-TV, 7, Hannibal, MO

WGEM-TV, 10, Quincy, IL

Decatur

KCCI, 8, Des Moines, IA (formerly KRNT)

WHO-TV, 13, Des Moines, IA

KTVO, 3, Ottumwa, IA

Delaware

KGAN, 2, Cedar Rapids, IA (formerly WMT)

KWWL, 7, Waterloo, IA

KCRG-TV, 9, Cedar Rapids, IA

Des Moines

WHBF-TV, 4, Rock Island, IL

KWQC-TV, 6, Davenport, IA (formerly WOC)

WQAD-TV, 8, Moline, IL

+KLJB-TV, 18, Davenport, IA

+KYOU-TV, 15, Ottumwa, IA

Dickinson

KTIV, 4, Sioux City, IA

KCAU-TV, 9, Sioux City, IA

KEYC-TV, 12, Mankato, MN

KELO-TV, 11, Sioux Falls, SD

KSFY-TV, 13, Sioux Falls, SD (formerly KSOO)

Dubuque

KGAN, 2, Cedar Rapids, IA (formerly WMT)

KWWL, 7, Waterloo, IA

KCRG-TV, 9, Cedar Rapids, IA

KFXB, 40, Dubuque, IA (formerly KDUB)

Emmet

KEYC-TV, 12, Mankato, MN

KAAL, 6, Austin, MN (formerly KAUS)

KCAU-TV, 9, Sioux City, IA

Fayette

KGAN, 2, Cedar Rapids, IA (formerly WMT)

KWWL, 7, Waterloo, IA

KCRG-TV, 9, Cedar Rapids, IA

Floyd

KIMT, 3, Mason City, IA (formerly KGLO)

KAAL, 6, Austin, MN (formerly KAUS)

KTTC, 10, Rochester, MN (formerly KROC)

KGAN, 2, Cedar Rapids, IA (formerly WMT)

KWWL, 7, Waterloo, IA

KCRG-TV, 9, Cedar Rapids, IA

Franklin

KIMT, 3, Mason City, IA (formerly KGLO)

KTTC, 10, Rochester, MN (formerly KROC)

KGAN, 2, Cedar Rapids, IA (formerly WMT)

KWWL, 7, Waterloo, IA

KCRG-TV, 9, Cedar Rapids, IA

WOI-TV, 5, Ames, IA

+KDSM-TV, 17, Des Moines, IA

Fremont

KMTV, 3, Omaha, NE

WOWT, 6, Omaha, NE (formerly WOW)

KETV, 7, Omaha, NE

+KPTM, 42, Omaha, NE

Greene

WOI-TV, 5, Ames, IA

KCCI, 8, Des Moines, IA (formerly KRNT)

WHO-TV, 13, Des Moines, IA

Grundy

KGAN, 2, Cedar Rapids, IA (formerly WMT)

KWWL, 7, Waterloo, IA

KCRG-TV, 9, Cedar Rapids, IA

+KDSM-TV, 17, Des Moines, IA

Guthrie

WOI-TV, 5, Ames, IA

KCCI, 8, Des Moines, IA (formerly KRNT)

WHO-TV, 13, Des Moines, IA

Hamilton

WOI-TV, 5, Ames, IA

KCCI, 8, Des Moines, IA (formerly KRNT)

WHO-TV, 13, Des Moines, IA

+KDSM-TV, 17, Des Moines, IA

Hancock

KIMT, 3, Mason City, IA (formerly KGLO)

KAAL, 6, Austin, MN (formerly KAUS)

KTTC, 10, Rochester, MN (formerly KROC)

Hardin

KGAN, 2, Cedar Rapids, IA (formerly WMT)

KWWL, 7, Waterloo, IA

KCRG-TV, 9, Cedar Rapids, IA

WOI-TV, 5, Ames, IA

KCCI, 8, Des Moines, IA (formerly KRNT)

WHO-TV, 13, Des Moines, IA

+KDSM-TV, 17, Des Moines, IA

Harrison

KMTV, 3, Omaha, NE

WOWT, 6, Omaha, NE (formerly WOW)

KETV, 7, Omaha, NE

+KXVO, 15, Omaha, NE

+KPTM, 42, Omaha, NE

Henry

WHBF-TV, 4, Rock Island, IL

KWQC-TV, 6, Davenport, IA (formerly WOC)

WQAD-TV, 8, Moline, IL

+KLJB-TV, 18, Davenport, IA

KTVO, 3, Ottumwa, IA

+KYOU-TV, 15, Ottumwa, IA

Howard

KIMT, 3, Mason City, IA (formerly KGLO)

KAAL, 6, Austin, MN (formerly KAUS)

KTTC, 10, Rochester, MN (formerly KROC)

KWWL, 7, Waterloo, IA

KCRG-TV, 9, Cedar Rapids, IA

Humboldt

WOI-TV, 5, Ames, IA

KCCI, 8, Des Moines, IA (formerly KRNT)

+KDSM-TV, 17, Des Moines, IA

KVFD, 21, Fort Dodge, IA (apparently out of service)

Ida

KTIV, 4, Sioux City, IA

KCAU-TV, 9, Sioux City, IA

KMEG, 14, Sioux City, IA

Iowa

KGAN, 2, Cedar Rapids, IA (formerly WMT)

KWWL, 7, Waterloo, IA

KCRG-TV, 9, Cedar Rapids, IA

+KYOU-TV, 15, Ottumwa, IA

Jackson

WHBF-TV, 4, Rock Island, IL

KWQC-TV, 6, Davenport, IA (formerly WOC)

WQAD-TV, 8, Moline, IL

+KLJB-TV, 18, Davenport, IA

KGAN, 2, Cedar Rapids, IA (formerly WMT)

KWWL, 7, Waterloo, IA

KCRG-TV, 9, Cedar Rapids, IA

Jasper

WOI-TV, 5, Ames, IA

KCCI, 8, Des Moines, IA (formerly KRNT)

WHO-TV, 13, Des Moines, IA

+KDSM-TV, 17, Des Moines, IA

Jefferson

KTVO, 3, Ottumwa, IA

+KYOU-TV, 15, Ottumwa, IA (formerly KOIA)

KGAN, 2, Cedar Rapids, IA (formerly WMT)

KCRG-TV, 9, Cedar Rapids, IA

KWQC-TV, 6, Davenport, IA (formerly WOC)

KHQA-TV, 7, Hannibal, MO

Johnson

KGAN, 2, Cedar Rapids, IA (formerly WMT)

KWWL, 7, Waterloo, IA

KCRG-TV, 9, Cedar Rapids, IA

WHBF-TV, 4, Rock Island, IL

KWQC-TV, 6, Davenport, IA (formerly WOC)

+KYOU-TV, 15, Ottumwa, IA

Jones

KGAN, 2, Cedar Rapids, IA (formerly WMT)

KWWL, 7, Waterloo, IA

KCRG-TV, 9, Cedar Rapids, IA

+KLJB-TV, 18, Davenport, IA

Keokuk

KGAN, 2, Cedar Rapids, IA (formerly WMT)

KWWL, 7, Waterloo, IA

KCRG-TV, 9, Cedar Rapids, IA

WHO-TV, 13, Des Moines, IA

KTVO, 3, Ottumwa, IA

Kossuth

KIMT, 3, Mason City, IA (formerly KGLO)

KAAL, 6, Austin, MN (formerly KAUS)

KVFD, 21, Fort Dodge, IA (apparently out of service)

KEYC-TV, 12, Mankato, MN

Lee

KHQA-TV, 7, Hannibal, MO

WGEM-TV, 10, Quincy, IL

KTVO, 3, Ottumwa, IA

+KYOU-TV, 15, Ottumwa, IA

Linn

KGAN, 2, Cedar Rapids, IA (formerly WMT)

KWWL, 7, Waterloo, IA

KCRG-TV, 9, Cedar Rapids, IA

Louisa

WHBF-TV, 4, Rock Island, IL

KWQC-TV, 6, Davenport, IA (formerly WOC)

WQAD-TV, 8, Moline, IL

+KLJB-TV, 18, Davenport, IA

Lucas

WOI-TV, 5, Ames, IA

KCCI, 8, Des Moines, IA (formerly KRNT)

WHO-TV, 13, Des Moines, IA

Lyon

KELO-TV, 11, Sioux Falls, SD

KSFY-TV, 13, Sioux Falls, SD (formerly KSOO)

KTIV, 4, Sioux City, IA

KCAU-TV, 9, Sioux City, IA

Madison

WOI-TV, 5, Ames, IA

KCCI, 8, Des Moines, IA (formerly KRNT)

WHO-TV, 13, Des Moines, IA

Mahaska

KCCI, 8, Des Moines, IA (formerly KRNT)

WHO-TV, 13, Des Moines, IA

+KDSM-TV, 17, Des Moines, IA

KGAN, 2, Cedar Rapids, IA (formerly WMT)

KWWL, 7, Waterloo, IA

KCRG-TV, 9, Cedar Rapids, IA

KTVO, 3, Ottumwa, IA

Marion

WOI-TV, 5, Ames, IA

KCCI, 8, Des Moines, IA (formerly KRNT)

WHO-TV, 13, Des Moines, IA

Marshall

KGAN, 2, Cedar Rapids, IA (formerly WMT)

KWWL, 7, Waterloo, IA

KCRG-TV, 9, Cedar Rapids, IA

WOI-TV, 5, Ames, IA

KCCI, 8, Des Moines, IA (formerly KRNT)

WHO-TV, 13, Des Moines, IA

+KDSM-TV, 17, Des Moines, IA

Mills

KMTV, 3, Omaha, NE

WOWT, 6, Omaha, NE (formerly WOW)

KETV, 7, Omaha, NE

+KXVO, 15, Omaha, NE

+KPTM, 42, Omaha, NE

Mitchell

KIMT, 3, Mason City, IA (formerly KGLO)

KAAL, 6, Austin, MN (formerly KAUS)

KTTC, 10, Rochester, MN (formerly KROC)

Monona

KMTV, 3, Omaha, NE

WOWT, 6, Omaha, NE (formerly WOW)

KETV, 7, Omaha, NE

+KPTM, 42, Omaha, NE

KTIV, 4, Sioux City, IA

KCAU-TV, 9, Sioux City, IA

Monroe

KCCI, 8, Des Moines, IA (formerly KRNT)

WHO-TV, 13, Des Moines, IA

KTVO, 3, Ottumwa, IA

+KYOU-TV, 15, Ottumwa, IA

Montgomery

KMTV, 3, Omaha, NE

WOWT, 6, Omaha, NE (formerly WOW)

KETV, 7, Omaha, NE

+KXVO, 15, Omaha, NE

+KPTM, 42, Omaha, NE

Muscatine

WHBF-TV, 4, Rock Island, IL

KWQC-TV, 6, Davenport, IA (formerly WOC)

WQAD-TV, 8, Moline, IL

+KLJB-TV, 18, Davenport, IA

O'Brien

KTIV, 4, Sioux City, IA

KCAU-TV, 9, Sioux City, IA

KELO-TV, 11, Sioux Falls, SD

KSFY-TV, 13, Sioux Falls, SD (formerly KSOO)

Oceola

KELO-TV, 11, Sioux Falls, SD

KSFY-TV, 13, Sioux Falls, SD (formerly KSOO)

KTIV, 4, Sioux City, IA

KCAU-TV, 9, Sioux City, IA

Page

KMTV, 3, Omaha, NE

WOWT, 6, Omaha, NE (formerly WOW)

KETV, 7, Omaha, NE

+KXVO, 15, Omaha, NE

+KPTM, 42, Omaha, NE

Palo Alto

KTIV, 4, Sioux City, IA

KCAU-TV, 9, Sioux City, IA

KVFD, 21, Fort Dodge, IA (apparently out of service)

KEYC-TV, 12, Mankato, MN

Plymouth

KTIV, 4, Sioux City, IA

KCAU-TV, 9, Sioux City, IA

KMEG, 14, Sioux City, IA

KELO-TV, 11, Sioux Falls, SD

Pocahontas

KTIV, 4, Sioux City, IA

KCAU-TV, 9, Sioux City, IA

KCCI, 8, Des Moines, IA (formerly KRNT)

KVFD, 21, Fort Dodge, IA (apparently out of service)

Polk

WOI-TV, 5, Ames, IA

KCCI, 8, Des Moines, IA (formerly KRNT)

WHO-TV, 13, Des Moines, IA

+KDSM-TV, 17, Des Moines, IA

Pottawattamie

KMTV, 3, Omaha, NE

WOWT, 6, Omaha, NE (formerly WOW)

KETV, 7, Omaha, NE

+KXVO, 15, Omaha, NE

+KPTM, 42, Omaha, NE

Poweshiek

KGAN, 2, Cedar Rapids, IA (formerly WMT)

KWWL, 7, Waterloo, IA

KCRG-TV, 9, Cedar Rapids, IA

WOI-TV, 5, Ames, IA

KCCI, 8, Des Moines, IA (formerly KRNT)

WHO-TV, 13, Des Moines, IA

Ringgold

WOI-TV, 5, Ames, IA

KCCI, 8, Des Moines, IA (formerly KRNT)

WHO-TV, 13, Des Moines, IA

WOWT, 6, Omaha, NE (formerly WOW)

KQTV, 2, St. Joseph, MO

Sac

KTIV, 4, Sioux City, IA

KCAU-TV, 9, Sioux City, IA

WOWT, 6, Omaha, NE (formerly WOW)

Scott

WHBF-TV, 4, Rock Island, IL

KWQC-TV, 6, Davenport, IA (formerly WOC)

WQAD-TV, 8, Moline, IL

+KLJB-TV, 18, Davenport, IA

Shelby

KMTV, 3, Omaha, NE

WOWT, 6, Omaha, NE (formerly WOW)

KETV, 7, Omaha, NE

+KXVO, 15, Omaha, NE

+KPTM, 42, Omaha, NE

Sioux

KTIV, 4, Sioux City, IA

KCAU-TV, 9, Sioux City, IA

KMEG, 14, Sioux City, IA

KELO-TV, 11, Sioux Falls, SD

KSFY-TV, 13, Sioux Falls, SD (formerly KSOO)

Story

WOI-TV, 5, Ames, IA

KCCI, 8, Des Moines, IA (formerly KRNT)

WHO-TV, 13, Des Moines, IA

+KDSM-TV, 17, Des Moines, IA

Tama

KGAN, 2, Cedar Rapids, IA (formerly WMT)

KWWL, 7, Waterloo, IA

KCRG-TV, 9, Cedar Rapids, IA

WHO-TV, 13, Des Moines, IA

+KDSM-TV, 17, Des Moines, IA

Taylor

KMTV, 3, Omaha, NE

WOWT, 6, Omaha, NE (formerly WOW)

KETV, 7, Omaha, NE

+KPTM, 42, Omaha, NE

Union

WOI-TV, 5, Ames, IA

KCCI, 8, Des Moines, IA (formerly KRNT)

WHO-TV, 13, Des Moines, IA

KETV, 7, Omaha, NE

Van Buren

KTVO, 3, Ottumwa, IA

+KYOU-TV, 15, Ottumwa, IA (formerly KOIA)

KHQA-TV, 7, Hannibal, MO

WGEM-TV, 10, Quincy, IL

Wapello

KCCI, 8, Des Moines, IA (formerly KRNT)

WHO-TV, 13, Des Moines, IA

+KDSM-TV, 17, Des Moines, IA

KTVO, 3, Ottumwa, IA

+KYOU-TV, 15, Ottumwa, IA (formerly KOIA)

Warren

WOI-TV, 5, Ames, IA

KCCI, 8, Des Moines, IA (formerly KRNT)

WHO-TV, 13, Des Moines, IA

+KDSM-TV, 17, Des Moines, IA

Washington

KGAN, 2, Cedar Rapids, IA (formerly WMT)

KWWL, 7, Waterloo, IA

KCRG-TV, 9, Cedar Rapids, IA

WHBF-TV, 4, Rock Island, IL

KWQC-TV, 6, Davenport, IA (formerly WOC)

+KLJB-TV, 18, Davenport, IA

Wayne

KCCI, 8, Des Moines, IA (formerly KRNT)

WHO-TV, 13, Des Moines, IA

KTVO, 3, Ottumwa, IA

Webster

WOI-TV, 5, Ames, IA

KCCI, 8, Des Moines, IA (formerly KRNT)

+KDSM-TV, 17, Des Moines, IA

KVFD, 21, Fort Dodge, IA (apparently out of service)

Winnebago

KIMT, 3, Mason City, IA (formerly KGLO)

KAAL, 6, Austin, MN (formerly KAUS)

KTTC, 10, Rochester, MN (formerly KROC)

KEYC-TV, 12, Mankato, MN

Winneshiek

KGAN, 2, Cedar Rapids, IA (formerly WMT)

KWWL, 7, Waterloo, IA

KCRG-TV, 9, Cedar Rapids, IA

WKBT, 8, La Crosse, WI

+WLAX, 25, La Crosse, WI

KIMT, 3, Mason City, IA (formerly KGLO)

KTTC, 10, Rochester, MN (formerly KROC)

Woodbury

KTIV, 4, Sioux City, IA

KCAU-TV, 9, Sioux City, IA

KMEG, 14, Sioux City, IA

Worth

KIMT, 3, Mason City, IA (formerly KGLO)

KAAL, 6, Austin, MN (formerly KAUS)

KTTC, 10, Rochester, MN (formerly KROC)

Wright

WOI-TV, 5, Ames, IA

+KDSM-TV, 17, Des Moines, IA

KVFD, 21, Fort Dodge, IA (apparently out of service)

KIMT, 3, Mason City, IA (formerly KGLO)

Kansas

Allen

KOAM-TV, 7, Pittsburg, KS

KODE-TV, 12, Joplin, MO

Anderson

WDAF-TV, 4, Kansas City, MO

KCTV, 5, Kansas City, MO (formerly KCMO)

KMBC-TV, 9, Kansas City, MO

WIBW-TV, 13, Topeka, KS

Atchison

WDAF-TV, 4, Kansas City, MO

KCTV, 5, Kansas City, MO (formerly KCMO)

KMBC-TV, 9, Kansas City, MO

+KSMO-TV, 62, Kansas City, MO

KQTV, 2, St. Joseph, MO

KSNT, 27, Topeka, KS (formerly KTSB)

Barber

KSNW, 3, Wichita, KS (formerly KARD)

KAKE-TV, 10, Wichita, KS

KWCH-TV, 12, Hutchinson, KS (formerly KTVH)

KTEN, 10, Ada, OK

Barton

KSNC, 2, Great Bend, KS (formerly KCKT)

KAKE-TV, 10, Wichita, KS

KWCH-TV, 12, Hutchinson, KS (formerly KTVH)

Bourbon

KOAM-TV, 7, Pittsburg, KS

KODE-TV, 12, Joplin, MO

KCTV, 5, Kansas City, MO (formerly KCMO)

Brown

WDAF-TV, 4, Kansas City, MO

KCTV, 5, Kansas City, MO (formerly KCMO)

KMBC-TV, 9, Kansas City, MO

KQTV, 2, St. Joseph, MO

WIBW-TV, 13, Topeka, KS

+KTKA-TV, 49, Topeka, KS

Butler

KSNW, 3, Wichita, KS (formerly KARD)

KAKE-TV, 10, Wichita, KS

KWCH-TV, 12, Hutchinson, KS (formerly KTVH)

+KSAS-TV, 24, Wichita, KS

Chase

KSNW, 3, Wichita, KS (formerly KARD)

KAKE-TV, 10, Wichita, KS

KWCH-TV, 12, Hutchinson, KS (formerly KTVH)

WIBW-TV, 13, Topeka, KS

Chautauqua

KJRH, 2, Tulsa, OK (formerly KTEW)

KOTV, 6, Tulsa, OK

KTUL, 8, Tulsa, OK

Cherokee

KOAM-TV, 7, Pittsburg, KS

KODE-TV, 12, Joplin, MO

KSNF, 16, Joplin, MO (formerly KUHI)

Cheyenne

KBSH-TV, 7, Hays, KS (formerly KAYS)

KSNK, 8, McCook, NE (formerly KOMC)

KHGI-TV, 13, Kearney, NE (formerly KHOL)

Clark

KBSD-TV, 6, Ensign, KS (formerly KTVC)

KSNG, 11, Garden City, KS (formerly KGLD)

KUPK-TV, 13, Garden City, KS

Clay

WIBW-TV, 13, Topeka, KS

KSNB-TV, 4, Superior, NE (formerly KHTL)

Cloud

KSNB-TV, 4, Superior, NE (formerly KHTL)

KOLN, 10, Lincoln, NE

WIBW-TV, 13, Topeka, KS

KWCH-TV, 12, Hutchinson, KS (formerly KTVH)

Coffey

WIBW-TV, 13, Topeka, KS

+KTKA-TV, 49, Topeka, KS

KOAM-TV, 7, Pittsburg, KS

WDAF-TV, 4, Kansas City, MO

KCTV, 5, Kansas City, MO (formerly KCMO)

KMBC-TV, 9, Kansas City, MO

Comanche

KBSD-TV, 6, Ensign, KS (formerly KTVC)

KUPK-TV, 13, Garden City, KS

Cowley

KSNW, 3, Wichita, KS (formerly KARD)

KAKE-TV, 10, Wichita, KS

KWCH-TV, 12, Hutchinson, KS (formerly KTVH)

+KSAS-TV, 24, Wichita, KS

Crawford

KOAM-TV, 7, Pittsburg, KS

KODE-TV, 12, Joplin, MO

KSNF, 16, Joplin, MO (formerly KUHI)

Decatur

KSNK, 8, McCook, NE (formerly KOMC)

KHGI-TV, 13, Kearney, NE (formerly KHOL)

Dickinson

KSNW, 3, Wichita, KS (formerly KARD)

KAKE-TV, 10, Wichita, KS

KWCH-TV, 12, Hutchinson, KS (formerly KTVH)

WIBW-TV, 13, Topeka, KS

Doniphan

WDAF-TV, 4, Kansas City, MO

KCTV, 5, Kansas City, MO (formerly KCMO)

KMBC-TV, 9, Kansas City, MO

+KSMO-TV, 62, Kansas City, MO

KQTV, 2, St. Joseph, MO

Douglas

WDAF-TV, 4, Kansas City, MO

KCTV, 5, Kansas City, MO (formerly KCMO)

KMBC-TV, 9, Kansas City, MO

+KSMO-TV, 62, Kansas City, MO (formerly KZKC)

WIBW-TV, 13, Topeka, KS

Edwards

KSNC, 2, Great Bend, KS (formerly KCKT)

KBSD-TV, 6, Ensign, KS (formerly KTVC)

KBSH-TV, 7, Hays, KS (formerly KAYS)

KWCH-TV, 12, Hutchinson, KS (formerly KTVH)

Elk

KJRH, 2, Tulsa, OK (formerly KTEW)

KOTV, 6, Tulsa, OK

KTUL, 8, Tulsa, OK

KOAM-TV, 7, Pittsburg, KS

KSNW, 3, Wichita, KS (formerly KARD)

KAKE-TV, 10, Wichita, KS

Ellis

KSNC, 2, Great Bend, KS (formerly KCKT)

KBSH-TV, 7, Hays, KS (formerly KAYS)

Ellsworth

KSNC, 2, Great Bend, KS (formerly KCKT)

KAKE-TV, 10, Wichita, KS

KWCH-TV, 12, Hutchinson, KS (formerly KTVH)

Finney

KBSD-TV, 6, Ensign, KS (formerly KTVC)

KSNG, 11, Garden City, KS (formerly KGLD)

KUPK-TV, 13, Garden City, KS

Ford

KBSD-TV, 6, Ensign, KS (formerly KTVC)

KSNG, 11, Garden City, KS (formerly KGLD)

KUPK-TV, 13, Garden City, KS

Franklin

WDAF-TV, 4, Kansas City, MO

KCTV, 5, Kansas City, MO (formerly KCMO)

KMBC-TV, 9, Kansas City, MO

+KSMO-TV, 62, Kansas City, MO

WIBW-TV, 13, Topeka, KS

Geary

WIBW-TV, 13, Topeka, KS

+KTKA-TV, 49, Topeka, KS

KAKE-TV, 10, Wichita, KS

Gove

KBSH-TV, 7, Hays, KS (formerly KAYS)

KSNK, 8, McCook, NE (formerly KOMC)

Graham

KBSH-TV, 7, Hays, KS (formerly KAYS)

KSNK, 8, McCook, NE (formerly KOMC)

Grant

KBSD-TV, 6, Ensign, KS (formerly KTVC)

KSNG, 11, Garden City, KS (formerly KGLD)

KUPK-TV, 13, Garden City, KS

Gray

KBSD-TV, 6, Ensign, KS (formerly KTVC)

KSNG, 11, Garden City, KS (formerly KGLD)

KUPK-TV, 13, Garden City, KS

Greeley

KBSH-TV, 7, Hays, KS (formerly KAYS)

KSNG, 11, Garden City, KS (formerly KGLD)

Greenwood

KSNW, 3, Wichita, KS (formerly KARD)

KAKE-TV, 10, Wichita, KS

WIBW-TV, 13, Topeka, KS

Hamilton

KSNG, 11, Garden City, KS (formerly KGLD)

KUPK-TV, 13, Garden City, KS

Harper

KSNW, 3, Wichita, KS (formerly KARD)

KAKE-TV, 10, Wichita, KS

KWCH-TV, 12, Hutchinson, KS (formerly KTVH)

Harvey

KSNW, 3, Wichita, KS (formerly KARD)

KAKE-TV, 10, Wichita, KS

KWCH-TV, 12, Hutchinson, KS (formerly KTVH)

+KSAS-TV, 24, Wichita, KS

Haskell

KBSD-TV, 6, Ensign, KS (formerly KTVC)

KSNG, 11, Garden City, KS (formerly KGLD)

KUPK-TV, 13, Garden City, KS

Hodgeman

KSNC, 2, Great Bend, KS (formerly KCKT)

KBSD-TV, 6, Ensign, KS (formerly KTVC)

KBSH-TV, 7, Hays, KS (formerly KAYS)

KUPK-TV, 13, Garden City, KS

Jackson

WIBW-TV, 13, Topeka, KS

KSNT, 27, Topeka, KS (formerly KTSB)

+KTKA-TV, 49, Topeka, KS

WDAF-TV, 4, Kansas City, MO

KCTV, 5, Kansas City, MO (formerly KCMO)

KMBC-TV, 9, Kansas City, MO

+KSMO-TV, 62, Kansas City, MO (formerly KZKC)

KQTV, 2, St. Joseph, MO

Jefferson

WIBW-TV, 13, Topeka, KS

KSNT, 27, Topeka, KS (formerly KTSB)

+KTKA-TV, 49, Topeka, KS

WDAF-TV, 4, Kansas City, MO

KCTV, 5, Kansas City, MO (formerly KCMO)

KMBC-TV, 9, Kansas City, MO

+KSMO-TV, 62, Kansas City, MO

KQTV, 2, St. Joseph, MO

Jewell

KSNB-TV, 4, Superior, NE (formerly KHTL)

KHAS-TV, 5, Hastings, NE

KOLN, 10, Lincoln, NE

Johnson

WDAF-TV, 4, Kansas City, MO

KCTV, 5, Kansas City, MO (formerly KCMO)

KMBC-TV, 9, Kansas City, MO

KSHB-TV, 41, Kansas City, MO (formerly KBMA)

KPXE, 50, Kansas City, MO (formerly KCIT)

+KSMO-TV, 62, Kansas City, MO (formerly KZKC)

Kearny

KBSD-TV, 6, Ensign, KS (formerly KTVC)

KSNG, 11, Garden City, KS (formerly KGLD)

KUPK-TV, 13, Garden City, KS

Kingman

KSNW, 3, Wichita, KS (formerly KARD)

KAKE-TV, 10, Wichita, KS

KWCH-TV, 12, Hutchinson, KS (formerly KTVH)

Kiowa

KSNC, 2, Great Bend, KS (formerly KCKT)

KBSD-TV, 6, Ensign, KS (formerly KTVC)

KAKE-TV, 10, Wichita, KS

KWCH-TV, 12, Hutchinson, KS (formerly KTVH)

Labette

KOAM-TV, 7, Pittsburg, KS

KODE-TV, 12, Joplin, MO

KSNF, 16, Joplin, MO (formerly KUHI)

Lane

KBSD-TV, 6, Ensign, KS (formerly KTVC)

KSNG, 11, Garden City, KS (formerly KGLD)

KUPK-TV, 13, Garden City, KS

Leavenworth

WDAF-TV, 4, Kansas City, MO

KCTV, 5, Kansas City, MO (formerly KCMO)

KMBC-TV, 9, Kansas City, MO

KSHB-TV, 41, Kansas City, MO (formerly KBMA)

KPXE, 50, Kansas City, MO (formerly KCIT)

+KSMO-TV, 62, Kansas City, MO (formerly KZKC)

Lincoln

KSNC, 2, Great Bend, KS (formerly KCKT)

KBSH-TV, 7, Hays, KS (formerly KAYS)

KWCH-TV, 12, Hutchinson, KS (formerly KTVH)

Linn

WDAF-TV, 4, Kansas City, MO

KCTV, 5, Kansas City, MO (formerly KCMO)

KMBC-TV, 9, Kansas City, MO

KOAM-TV, 7, Pittsburg, KS

Logan

KBSH-TV, 7, Hays, KS (formerly KAYS)

KSNK, 8, McCook, NE (formerly KOMC)

Lyon

WIBW-TV, 13, Topeka, KS

KSNT, 27, Topeka, KS (formerly KTSB)

+KTKA-TV, 49, Topeka, KS

McPherson

KSNW, 3, Wichita, KS (formerly KARD)

KAKE-TV, 10, Wichita, KS

KWCH-TV, 12, Hutchinson, KS (formerly KTVH)

+KSAS-TV, 24, Wichita, KS

Marion

KSNW, 3, Wichita, KS (formerly KARD)

KAKE-TV, 10, Wichita, KS

KWCH-TV, 12, Hutchinson, KS (formerly KTVH)

Marshall

WIBW-TV, 13, Topeka, KS

+KTKA-TV, 49, Topeka, KS

KSNB, 4, Superior, NE (formerly KHTL)

KOLN, 10, Lincoln, NE

Meade

KBSD-TV 6, Ensign, KS (formerly KTVC)

KSNG, 11, Garden City, KS (formerly KGLD)

KUPK-TV, 13, Garden City, KS

Miami

WDAF-TV, 4, Kansas City, MO

KCTV, 5, Kansas City, MO (formerly KCMO)

KMBC-TV, 9, Kansas City, MO

KSHB-TV, 41, Kansas City, MO (formerly KBMA)

+KSMO-TV, 62, Kansas City, MO (formerly KZKC)

Mitchell

KSNC, 2, Great Bend, KS (formerly KCKT)

KBSH-TV, 7, Hays, KS (formerly KAYS)

KSNB-TV, 4, Superior, NE (formerly KHTL)

Montgomery

KJRH, 2, Tulsa, OK (formerly KTEW)

KOTV, 6, Tulsa, OK

KTUL, 8, Tulsa, OK

KOAM-TV, 7, Pittsburg, KS

KODE-TV, 12, Joplin, MO

Morris

WIBW-TV, 13, Topeka, KS

KSNT, 27, Topeka, KS (formerly KTSB)

+KTKA-TV, 49, Topeka, KS

KSNW, 3, Wichita, KS (formerly KARD)

KAKE-TV, 10, Wichita, KS

Morton

KSNG, 11, Garden City, KS (formerly KGLD)

KUPK-TV, 13, Garden City, KS

Nemaha

WIBW-TV, 13, Topeka, KS

+KTKA-TV, 49, Topeka, KS

WDAF-TV, 4, Kansas City, MO

KQTV, 2, St. Joseph, MO

Neosho

KOAM-TV 7, Pittsburg, KS

KODE-TV, 12, Joplin, MO

KSNF, 16, Joplin, MO (formerly KUHI)

Ness

KSNC, 2, Great Bend, KS (formerly KCKT)

KBSH-TV, 7, Hutchinson, KS (formerly KAYS)

Norton

KBSH-TV, 7, Hutchinson, KS (formerly KAYS)

KSNK, 8, McCook, NE (formerly KOMC)

KOLN, 10, Lincoln, NE

KHGI-TV, 13, Kearney, NE (formerly KHOL)

Osage

WIBW-TV, 13, Topeka, KS

KSNT, 27, Topeka, KS (formerly KTSB)

+KTKA-TV, 49, Topeka, KS

WDAF-TV, 4, Kansas City, MO

KCTV, 5, Kansas City, MO (formerly KCMO)

KMBC-TV, 9, Kansas City, MO

Osborne

KSNC, 2, Great Bend, KS (formerly KCKT)

KBSH-TV, 7, Hays, KS (formerly KAYS)

KSNB, 4, Superior, NE (formerly KHTL)

Ottawa

KSNC, 2, Great Bend, KS (formerly KCKT)

KAKE-TV, 10, Wichita, KS

KWCH-TV, 12, Hutchinson, KS (formerly KTVH)

KSNB, 4, Superior, NE (formerly KHTL)

Pawnee

KSNC, 2, Great Bend, KS (formerly KCKT)

KBSH-TV, 7, Hays, KS (formerly KAYS)

KAKE-TV 10, Wichita, KS

KWCH-TV, 12, Hutchinson, KS (formerly KTVH)

Phillips

KHAS-TV, 5, Hastings, NE

KOLN, 10, Lincoln, NE

KHGI-TV, 13, Kearney, NE (formerly KHOL)

KBSH-TV, 7, Hays, KS (formerly KAYS)

Pottawatomie

WIBW-TV, 13, Topeka, KS

KSNT, 27, Topeka, KS (formerly KTSB)

+KTKA-TV, 49, Topeka, KS

Pratt

KSNW, 3, Wichita, KS (formerly KARD)

KAKE-TV, 10, Wichita, KS

KWCH-TV, 12, Hutchinson, KS (formerly KTVH)

Rawlins

KBSH-TV, 7, Hays, KS (formerly KAYS)

KSNK, 8, McCook, NE (formerly KOMC)

KHGI-TV, 13, Kearney, NE (formerly KHOL)

Reno

KSNW, 3, Wichita, KS (formerly KARD)

KAKE-TV, 10, Wichita, KS

KWCH-TV, 12, Hutchinson, KS (formerly KTVH)

+KSAS-TV, 24, Wichita, KS

Republic

KSNB-TV, 4, Superior, NE (formerly KHTL)

KHAS-TV, 5, Hastings, NE

KOLN, 10, Lincoln, NE

Rice

KSNC, 2, Great Bend, KS (formerly KCKT)

KSNW, 3, Wichita, KS (formerly KARD)

KAKE-TV, 10, Wichita, KS

KWCH-TV, 12, Hutchinson, KS (formerly KTVH)

+KSAS, 24, Wichita, KS

Riley

WIBW-TV, 13, Topeka, KS

KSNT, 27, Topeka, KS (formerly KTSB)

+KTKA-TV, 49, Topeka, KS

Rooks

KSNC, 2, Great Bend, KS (formerly KCKT)

KBSH-TV, 7, Hays, KS (formerly KAYS)

Rush

KSNC, 2, Great Bend, KS (formerly KCKT)

KBSH-TV, 7, Hays, KS (formerly KAYS)

Russell

KSNC, 2, Great Bend, KS (formerly KCKT)

KBSH-TV, 7, Hays, KS (formerly KAYS)

Saline

KSNW, 3, Wichita, KS (formerly KARD)

KAKE-TV, 10, Wichita, KS

KWCH-TV, 12, Hutchinson, KS (formerly KTVH)

Scott

KBSD-TV, 6, Ensign, KS (formerly KTVC)

KSNG, 11, Garden City, KS (formerly KGLD)

KUPK-TV, 13, Garden City, KS

Sedgwick

KSNW, 3, Wichita, KS (formerly KARD)

KAKE-TV, 11, Wichita, KS

KWCH-TV, 12, Hutchinson, KS (formerly KTVH)

+KSAS-TV, 24, Wichita, KS

Seward

KBSD-TV, 6, Ensign, KS (formerly KTVC)

KSNG, 11, Garden City, KS (formerly KGLD)

KUPK-TV, 13, Garden City, KS

Shawnee

WIBW-TV, 13, Topeka, KS

KSNT, 27, Topeka, KS (formerly KTSB)

+KTKA-TV, 49, Topeka, KS

WDAF-TV, 4, Kansas City, MO

#KCTV, 5, Kansas City, MO (formerly KCMO) ¹¹

#KMBC-TV, 9, Kansas City, MO ¹²

¹¹ Affected community is Topeka, KS.

¹² Affected communities are Topeka, Auburn and unincorporated portions of Shawnee County (including the areas known as Berryton and Tecumseh), KS.

Sheridan

KBSH-TV, 7, Hays, KS (formerly KAYS)

KSNK, 8, McCook, NE (formerly KOMC)

Sherman

KBSH-TV, 7, Hays, KS (formerly KAYS)

KSNK, 8, McCook, NE (formerly KOMC)

Smith

KSNB-TV, 4, Superior, NE (formerly KHTL)

KHAS-TV, 5, Hastings, NE

KOLN, 10, Lincoln, NE

KHGI-TV, 13, Kearney, NE (formerly KHOL)

Stafford

KSNC, 2, Great Bend, KS (formerly KCKT)

KAKE-TV, 10, Wichita, KS

KWCH-TV, 12, Hutchinson, KS (formerly KTVH)

Stanton

KBSD-TV, 6, Ensign, KS (formerly KTVC)

KSNG, 11, Garden City, KS (formerly KGLD)

KUPK-TV, 13, Garden City, KS

Stevens

KBSD-TV, 6, Ensign, KS (formerly KTVC)

KSNG, 11, Garden City, KS (formerly KGLD)

KUPK-TV, 13, Garden City, KS

Sumner

KSNW, 3, Wichita, KS (formerly KARD)

KAKE-TV, 10, Wichita, KS

KWCH-TV, 12, Hutchinson, KS (formerly KTVH)

+KSAS-TV, 24, Wichita, KS

Thomas

KBSH-TV, 7, Ensign, KS (formerly KAYS)

KSNK, 8, McCook, NE (formerly KOMC)

Trego

KSNC, 2, Great Bend, KS (formerly KCKT)

KBSH-TV, 7, Hays, KS (formerly KAYS)

Wabaunsee

WIBW-TV, 13, Topeka, KS

KSNT, 27, Topeka, KS (formerly KTSB)

+KTKA-TV, 49, Topeka, KS

KCTV, 5, Kansas City, MO (formerly KCMO)

KMBC-TV, 9, Kansas City, MO

Wallace

KBSH-TV, 7, Hays, KS (formerly KAYS)

Washington

KSNB-TV, 4, Superior, NE (formerly KHTL)

KOLN, 10, Lincoln, NE

WIBW-TV, 13, Topeka, KS

Wichita

KBSH-TV, 7, Hays, KS (formerly KAYS)

KSNG, 11, Garden City, KS (formerly KGLD)

KUPK-TV, 13, Garden City, KS

Wilson

KOAM-TV, 7, Pittsburg, KS

KODE-TV, 12, Joplin, MO

KOTV, 6, Tulsa, OK

Woodson

KOAM-TV, 7, Pittsburg, KS

KODE-TV, 12, Joplin, MO

WIBW-TV, 13, Topeka, KS

Wyandotte

WDAF-TV, 4, Kansas City, MO

KCTV, 5, Kansas City, MO (formerly KCMO)

KMBC-TV, 9, Kansas City, MO

KSHB-TV, 41, Kansas City, MO (formerly KBMA)

KPXE, 50, Kansas City, MO (formerly KCIT)

+KSMO-TV, 62, Kansas City, MO (formerly KZKC)

Kentucky

Adair

#WAVE, 3, Louisville, KY ¹³

WHAS-TV, 11, Louisville, KY

WTVF, 5, Nashville, TN (formerly WLAC)

¹³ The affected community is Columbia, KY.

Allen

WSMV, 4, Nashville, TN (formerly WSM)

WTVF, 5, Nashville, TN (formerly WLAC)

WKRN-TV, 2, Nashville, TN (formerly WSIX)

Anderson

WAVE, 3, Louisville, KY

WHAS-TV, 11, Louisville, KY

WLKY-TV, 32, Louisville, KY

+WDRB, 41, Louisville, KY

+WFTE, 58, Salem, IN

WLEX-TV, 18, Lexington, KY

WKYT-TV, 27, Lexington, KY

+WDKY-TV, 56, Danville, KY

WTVQ-TV, 36, Lexingto, KY (formerly WBLG)

Ballard

WSIL-TV, 3, Harrisburg, IL

WPSD-TV, 6, Paducah, KY

KFVS-TV, 12, Cape Girardeau, MO

+KBSI, 23, Cape Girardeau, MO

Barren

WSMV, 4, Nashville, TN (formerly WSM)

WTVF, 5, Nashville, TN (formerly WLAC)

WKRN-TV, 2, Nashville, TN (formerly WSIX)

+WUXP, 30, Nashville, TN

Bath

WLEX-TV, 18, Lexington, KY

WKYT-TV, 27, Lexington, KY

WTVQ-TV, 36, Lexington, KY (formerly WBLG)

WLWT, 5, Cincinnati, OH

WCPO-TV, 9, Cincinnati, OH

WKRC-TV, 12, Cincinnati, OH

Bell

WATE-TV, 6, Knoxville, TN

WBIR-TV, 10, Knoxville, TN

Boone

WLWT, 5, Cincinnat, OH

WCPO-TV, 9, Cincinnati, OH

WKRC-TV, 12, Cincinnati, OH

WXIX-TV, 19, Cincinnat, OH

+WSTR-TV, 64, Cincinnati, OH

+WRGT-TV, 45, Dayton, OH

Bourbon

WLEX-TV, 18, Lexington, KY

WKYT-TV, 27, Lexington, KY

+WDKY-TV, 56, Danville, KY

WTVQ-TV, 36, Lexington, KY (formerly WBLG)

WLWT, 5, Cincinnati, OH

WCPO-TV, 9, Cincinnati, OH

WKRC-TV, 12, Cincinnati, OH

Boyd

WSAZ-TV, 3, Huntington, WV

WCHS-TV, 8, Charleston, WV

WOWK-TV, 13, Huntington, WV (formerly WHTN)

+WVAH-TV, 11, Charleston, WV (formerly ch. 23)

Boyle

WLEX-TV, 18, Lexington, KY

WKYT-TV, 27, Lexington, KY

WTVQ-TV, 36, Lexington, KY (formerly WBLG)

+WDKY-TV, 56, Danville, KY

WAVE, 3, Louisville, KY

WHAS-TV, 11, Louisville, KY

Bracken

WLWT, 5, Cincinnati, OH

WCPO-TV, 9, Cincinnati, OH

WKRC-TV, 12, Cincinnati, OH

WXIX-TV, 19, Cincinnati, OH

+WSTR-TV, 64, Cincinnati, OH

Breathitt

WSAZ-TV, 3, Huntington, WV

WLEX-TV, 18, Lexington, KY

WKYT-TV, 27, Lexington, KY

WTVQ-TV, 36, Lexington, KY (formerly WBLG)

Breckinridge

WAVE, 3, Louisville, KY

WHAS-TV, 11, Louisville, KY

WLKY-TV, 32, Louisville, KY

+WDRB, 41, Louisville, KY

WTVW, 7, Evansville, IN

Bullitt

WAVE, 3, Louisville, KY

WHAS-TV, 11, Louisville, KY

WLKY-TV, 32, Louisville, KY

+WDRB, 41, Louisville, KY

+WFTE, 58, Salem, IN

Butler

WSMV, 4, Nashville, TN (formerly WSM)

WTVF, 5, Nashville, TN (formerly WLAC)

WBKO, 13, Bowling Green, KY

WTVW, 7, Evansville, IN

+KSAS-TV, 24, Wichita, KS

Caldwell

WSIL-TV, 3, Harrisburg, IL

WPSD-TV, 6, Paducah, KY

KFVS-TV, 12, Cape Girardeau, MO

WSMV, 4, Nashville, TN (formerly WSM)

WTVF, 5, Nashville, TN (formerly WLAC)

Calloway

WSIL-TV, 3, Harrisburg, IL

WPSD-TV, 6, Paducah, KY

KFVS-TV, 12, Cape Girardeau, MO

+KBSI, 23, Cape Girardeau, MO

WSMV, 4, Nashville, TN (formerly WSM)

WTVF, 5, Nashville, TN (formerly WLAC)

WKRN-TV, 2, Nashville, TN (formerly WSIX)

Campbell

WLWT, 5, Cincinnati, OH

WCPO-TV, 9, Cincinnati, OH

WKRC-TV, 12, Cincinnati, OH

WXIX-TV, 19, Cincinnati, OH

+WSTR-TV, 64, Cincinnati, OH

+WRGT-TV, 45, Dayton, OH

Carlisle

WSIL-TV, 3, Harrisburg, IL

WPSD-TV, 6, Paducah, KY

KFVS-TV, 12, Cape Girardeau, MO

+KBSI, 23, Cape Girardeau, MO

Carroll

WLWT, 5, Cincinnati, OH

WCPO-TV, 9, Cincinnati, OH

WKRC-TV, 12, Cincinnati, OH

WXIX-TV, 19, Cincinnati, OH

WTTV, 4, Bloomington, IN

WAVE, 3, Louisville, KY

WHAS-TV, 11, Louisville, KY

WLKY-TV, 32, Louisville, KY

+WDRB, 41, Louisville, KY

Carter

WSAZ-TV, 3, Huntington, WV

WCHS-TV, 8, Charleston, WV

WOWK-TV, 13, Huntington, WV (formerly WHTN)

+WVAH-TV, 11, Charleston, WV

Casey

WLEX-TV, 18, Lexington, KY

WKYT-TV, 27, Lexington, KY

WAVE, 3, Louisville, KY

WHAS-TV, 11, Louisville, KY

Christian

WSMV, 4, Nashville, TN (formerly WSM)

WTVF, 5, Nashville, TN (formerly WLAC)

WKRN-TV, 2, Nashville, TN (formerly WSIX)

+WUXP, 30, Nashville, TN

Clark

WLEX-TV, 18, Lexington, KY

WKYT-TV, 27, Lexington, KY

WTVQ-TV, 62, Lexington, KY (formerly WBLG)

+WDKY-TV, 56, Danville, KY

Clay

WATE-TV, 6, Knoxville, TN

WBIR-TV, 10, Knoxville, TN

Clinton

WSMV 4, Nashville, TN (formerly WSM)

WTVF, 5, Nashville, TN (formerly WLAC)

WKRN-TV, 8, Nashville, TN (formerly WSIX)

Crittenden

WSIL-TV, 3, Harrisburg, IL

WPSD-TV, 6, Paducah, KY

KFVS-TV, 12, Cape Girardeau, MO

WTVW, 7, Evansville, IN

+WEVV, 44, Evansville, IN

Cumberland

WSMV, 4, Nashville, TN (formerly WSM)

WTVF, 5, Nashville, TN (formerly WLAC)

WKRN-TV, 2, Nashville, TN (formerly WSIX)

Daviess

WTVW, 7, Evansville, IN

WFIE-TV, 14, Evansville, IN

WEHT, 25, Evansville, IN

+WEVV, 44, Evansville, IN

Edmonson

WSMV 4, Nashville, TN (formerly WSM)

WTVF, 5, Nashville, TN (formerly WLAC)

WKRN-TV, 2, Nashville, TN (formerly WSIX)

WBKO, 13, Bowling Green, KY

Elliott

WSAZ-TV, 3, Huntington, WV

WCHS-TV, 8, Charleston, WV

WOWK-TV, 13, Charleston.WV (formerly WHTN)

Estill

WLEX-TV, 18, Lexington, KY

WKYT-TV, 27, Lexington, KY

WTVQ-TV, 36, Lexington, KY (formerly WBLG)

Fayette

WLEX-TV, 18, Lexington, KY

WKYT-TV, 27, Lexington, KY

WTVQ-TV, 36, Lexington, KY (formerly WBLG)

+WDKY-TV, 56, Danville, KY

Fleming

WLWT, 5, Cincinnati, OH

WCPO-TV, 9, Cincinnati, OH

WKRC-TV, 12, Cincinnati, OH

WLEX-TV, 18, Lexington, KY

+WDKY-TV, 56, Danville, KY

Floyd

WSAZ-TV, 3, Huntington, WV

WCHS-TV, 8, Charleston, WV

WOWK-TV, 13, Huntington, WV (formerly WHTN)

+WVAH-TV, 11, Charleston, WV (formerly ch. 23)

Franklin

WAVE, 3, Louisville, KY

WHAS-TV, 11, Louisville, KY

WLKY-TV, 32, Louisville, KY

+WDRB, 41, Louisville, KY

WKRC-TV, 12, Cincinnati, OH

WLEX-TV, 18, Lexington, OH

WKYT-TV, 27, Lexington, OH

WTVQ-TV, 36, Lexington, KY (formerly WBLG)

+WDKY-TV, 56, Danville, KY

Fulton

WSIL-TV, 3, Harrisburg, IL

WPSD-TV, 6, Paducah, KY

KFVS-TV, 12, Cape Girardeau, MO

+KBSI, 23, Cape Girardeau, MO

Gallatin

WLWT, 5, Cincinnati, OH

WCPO-TV, 9, Cincinnati, OH

WKRC-TV, 12, Cincinnati, OH

WXIX-TV, 19, Cincinnati, OH

+WSTR-TV, 64, Cincinnati, OH

Garrard

WLEX-TV, 18, Lexington, KY

WKYT-TV, 27, Lexington, KY

+WDKY-TV, 56, Danville, KY

WTVQ-TV, 36, Lexington, KY (formerly WBLG)

Grant

WLWT, 5, Cincinnati, OH

WCPO-TV, 9, Cincinnati, OH

WKRC-TV, 12, Cincinnati, OH

WXIX-TV, 19, Cincinnati, OH

+WSTR-TV, 64, Cincinnati, OH

Graves

WSIL-TV, 3, Harrisburg, IL

WPSD-TV, 6, Paducah, KY

KFVS-TV, 12, Cape Girardeau, MO

+KBSI, 23, Cape Girardeau, MO

Grayson

WAVE, 3, Louisville, KY

WHAS-TV, 11, Louisville, KY

+WDRB, 41, Louisville, KY

WBKO, 13, Bowling Green, KY

WTVW, 7, Evansville, IN

Green

WAVE, 3, Louisville, KY

WHAS-TV, 11, Louisville, KY

WLKY-TV, 32, Louisville, KY

+WDRB, 41, Louisville, KY

+WFTE, 58, Salem, IN

Greenup

WSAZ-TV, 3, Huntington, WV

WCHS-TV, 8, Charleston, WV

WOWK-TV, 13, Huntington, WV (formerly WHTN)

+WVAH-TV, 11, Charleston, WV (formerly ch. 23)

Hancock

WTVW, 7, Evansville, IN

WFIE-TV, 14, Evansville, IN

WEHT, 25, Evansville, IN

+WEVV, 44, Evansville, IN

WAVE, 3, Louisville, KY

WHAS-TV, 11, Louisville, KY

Hardin

WAVE, 3, Louisville, KY

WHAS-TV, 11, Louisville, KY

WLKY-TV, 32, Louisville, KY

+WDRB, 41, Louisville, KY

Harlan

WATE-TV 6, Knoxville, TN

WBIR-TV, 10, Knoxville, TN

WLOS, 13, Asheville, NC

Harrison

WLWT, 5, Cincinnati, OH

WCPO-TV, 9, Cincinnati, OH

WKRC-TV, 12, Cincinnati, OH

+WSTR-TV, 64, Cincinnati, OH

WLEX-TV, 18, Lexington, KY

+WDKY-TV, 56, Danville, KY

Hart

WSMV, 4, Nashville, TN (formerly WSM)

WTVF, 5, Nashville, TN (formerly WLAC)

WBKO, 13, Bowling Green, KY

WAVE, 3, Louisville, KY

WHAS-TV, 11, Louisville, KY

+WDRB, 41, Louisville, KY

Henderson

WTVW, 7, Evansville, IN

WFIE-TV, 14, Evansville, IN

WEHT, 25, Evansville, IN

Henry

WAVE, 3, Louisville, KY

WHAS-TV, 11, Louisville, KY

WLKY-TV, 32, Louisville, KY

+WDRB, 41, Louisville, KY

WLWT, 5, Cincinnati, OH

WCPO-TV, 9, Cincinnati, OH

WKRC-TV, 12, Cincinnati, OH

Hickman

WSIL-TV, 3, Harrisburg, IL

WPSD-TV, 6, Paducah, KY

KFVS-TV, 12, Cape Girardeau, MO

+KBSI, 23, Cape Girardeau, MO

Hopkins

WTVW, 7, Evansville, IN

+WFIE-TV, 14, Evansville, IN

WEHT, 25, Evansville, IN

+WEVV, 44, Evansville,

WSMV, 4, Nashville, TN (formerly WSM)

WTVF 5, Nashville, TN (formerly WLAC)

WPSD-TV, 6, Paducah, KY

Jackson

WLEX-TV, 18, Lexington, KY

WKYT-TV, 27, Lexington, KY

+WDKY-TV, 56, Danville, KY

WTVQ-TV, 36, Lexington, KY (WBLG)

+WLJC-TV, 65, Beattyville, KY

WATE-TV, 6, Knoxville, TN

WBIR-TV, 10, Knoxville, TN

Jefferson

WAVE, 3, Louisville, KY

WHAS-TV, 11, Louisville, KY

WLKY-TV, 32, Louisville, KY

+WDRB, 41, Louisville, KY

+WFTE, 58, Salem, IN

Jessamine

WLEX-TV, 18, Lexington, KY

WKYT-TV, 27, Lexington, KY

+WDKY-TV, 56, Danville, KY

WTVQ-TV, 36, Lexington, KY (formerly WBLG)

Johnson

WSAZ-TV, 3, Huntington, WV

WCHS-TV, 8, Charleston, WV

WOWK-TV, 13, Huntington, WV (formerly WHTN )

Kenton

WLWT, 5, Cincinnati, OH

WCPO-TV, 9, Cincinnati, OH

WKRC-TV, 12, Cincinnati, OH

WXIX-TV, 19, Cincinnati, OH

+WSTR-TV, 64, Cincinnati, OH

Knott

WCYB-TV, 5, Bristol, VA

WJHL-TV, 11, Johnson City, TN

WSAZ-TV, 3, Huntington, WV

WLOS, 13, Greenville, SC

WLEX-TV, 18, Lexington, KY

Knox

WATE-TV, 6, Knoxville, TN

+WVLT-TV, 8, Knoxville, TN (formerly WKXT)

WBIR-TV, 10, Knoxville, TN

Larue

WAVE, 3, Louisville, KY

WHAS-TV, 11, Louisville, KY

WLKY-TV, 32, Louisville, KY

+WDRB, 41, Louisville, KY

Laurel

WATE-TV, 6, Knoxville, TN

WBIR-TV, 10, Knoxville, TN

Lawrence

WSAZ-TV, 3, Huntington, WV

WCHS-TV, 8, Charleston, WV

WOWK-TV, 13, Huntington, WV (formerly WHTN)

Lee

WLEX-TV, 18, Lexington, KY

WKYT-TV, 27, Lexington, KY

WCYB-TV, 5, Bristol, VA

Leslie

WCYB-TV, 5, Bristol, VA

WJHL-TV, 11, Johnson City, TN

WBIR-TV, 10, Knoxville, TN

Letcher

WOWK-TV, 13, Huntington, TN (formerly WHTN)

WCYB-TV, 5, Bristol, VA

Lewis

WSAZ-TV, 3, Huntington, WV

+WVAH-TV, 23, Charleston, WV (formerly ch. 23)

WLWT, 5, Cincinnati, OH

WCPO-TV, 9, Cincinnati, OH

WKRC-TV, 12, Cincinnati, OH

Lincoln

WLEX-TV, 18, Lexington, KY

WKYT-TV, 27, Lexington, KY

+WDKY-TV, 56, Danville, KY

WTVQ-TV, 36, Lexington, KY (formerly WBLG)

Livingston

WSIL-TV, 3, Harrisburg, IL

WPSD-TV, 6, Paducah, KY

KFVS-TV, 12, Cape Girardeau, MO

+KBSI, 23, Cape Girardeau, MO

Logan

WSMV, 4, Nashville, TN (formerly WSM)

WTVF, 5, Nashville, TN (formerly WLAC)

WKRN-TV, 2, Nashville, TN (formerly WSIX)

Lyon

WSIL-TV, 3, Harrisburg, IL

WPSD-TV, 6, Paducah, KY

KFVS-TV, 12, Cape Girardeau, MO

McCracken

WSIL-TV, 3, Harrisburg, IL

WPSD-TV, 6, Paducah, KY

KFVS-TV, 12, Cape Girardeau, MO

+KBSI, 23, Cape Girardeau, MO

McCreary

WATE-TV, 6, Knoxville, TN

+WVLT-TV, 8, Knoxville, TN (formerly WKXT)

WBIR-TV, 10, Knoxville, TN

McLean

WTVW, 7, Evansville, IN

WFIE-TV, 14, Evansville, IN

WEHT, 25, Evansville, IN

+WEVV, 44, Evansville, IN

WTVF, 5, Nashville, TN (formerly WLAC)

Madison

WLEX-TV, 18, Lexington, KY

WKYT-TV, 27, Lexington, KY

+WDKY-TV, 56, Danville, KY

WTVQ-TV, 36, Lexington, KY (formerly WBLG)

Magoffin

WSAZ-TV, 3, Huntington, WV

Marion

WAVE, 3, Louisville, KY

WHAS-TV, 11, Louisville, KY

WLKY-TV, 32, Louisville, KY

+WDRB, 41, Louisville, KY

+WFTE, 58, Salem, IN

Marshall

WSIL-TV, 3, Harrisburg, IL

WPSD-TV, 6, Paducah, KY

KFVS-TV, 12, Cape Girardeau, MO

+KBSI, 23, Cape Girardeau, MO

Martin

WSAZ-TV, 3, Huntington, WV

WCHS-TV, 8, Charleston, WV

WOWK-TV, 13, Huntington, WV (formerly WHTN)

Mason

WLWT, 5, Cincinnati, OH

WCPO-TV, 9, Cincinnati, OH

WKRC-TV, 12, Cincinnati, OH

+WSTR-TV, 64, Cincinnati, OH

Meade

WAVE, 3, Louisville, KY

WHAS-TV, 11, Louisville, KY

WLKY-TV, 32, Louisville, KY

+WDRB, 41, Louisville, KY

+WFTE, 58, Salem, IN

Menifee

WLEX-TV, 18, Lexington, KY

WKYT-TV, 27, Lexington, KY

WTVQ-TV, 36, Lexington, KY (formerly WBLG)

Mercer

WLEX-TV, 18, Lexington, KY

WKYT-TV, 27, Lexington, KY

+WDKY-TV, 56, Danville, KY

WTVQ-TV, 36, Lexington, KY (formerly WBLG)

WAVE, 3, Louisville, KY

WHAS-TV, 11, Louisville, KY

+WDRB, 41, Louisville, KY

Metcalfe

WSMV 4, Nashville, TN (formerly WSM)

WTVF, 5, Nashville, TN (formerly WLAC)

WKRN-TV, 2, Nashville, TN (formerly WSIX)

Monroe

WSMV, 4, Nashville, TN (formerly WSM)

WTVF, 5, Nashville, TN (formerly WLAC)

WKRN-TV, 2, Nashville, TN (formerly WSIX)

Montgomery

WLEX-TV, 18, Lexington, KY

WKYT-TV, 27, Lexington, KY

+WDKY-TV, 56, Danville, KY

WTVQ-TV, 36, Lexington, KY (formerly WBLG)

Morgan

WSAZ-TV, 3, Huntington, WV

WCHS-TV, 8, Charleston, WV

WOWK-TV, 13, Huntington, WV (formerly WHTN)

Muhlenberg

WSMV, 4, Nashville, TN (formerly WSM)

WTVF, 5, Nashville, TN (formerly WLAC)

WKRN-TV, 2, Nashville, TN (formerly WSIX)

+WUXP, 30, Nashville, TN

WBKO, 13, Bowling Green, KY

WTVW, 7, Evansville, IN

+WFIE-TV, 14, Evansville, IN

WEHT, 25, Evansville, IN

+WEVV, 44, Evansville, IN

Nelson

WAVE, 3, Louisville, KY

WHAS-TV, 11, Louisville, KY

WLKY-TV, 32, Louisville, KY

+WDRB, 41, Louisville, KY

+WFTE, 58, Salem, IN

Nicholas

WLEX-TV, 18, Lexington, KY

WKYT-TV, 27, Lexington, KY

WTVQ-TV, 36, Lexington, KY (formerly WBLG)

WLWT, 5, Cincinnati, OH

WCPO-TV, 9, Cincinnati, OH

WKRC-TV, 12, Cincinnati, OH

+WSTR-TV, 64, Cincinnati, OH

Ohio

WTVW, 7, Evansville, IN

+WFIE-TV, 14, Evansville, IN

WEHT, 25, Evansville, IN

+WEVV, 44, Evansville, IN

WBKO, 13, Bowling Green, KY

WSMV, 4, Nashville, TN (formerly WSM)

WTVF, 5, Nashville, TN (formerly WLAC)

Oldham

WAVE, 3, Louisville, KY

WHAS-TV, 11, Louisville, KY

WLKY-TV, 32, Louisville, KY

+WDRB, 41, Louisville, KY

+WFTE, 58, Salem, IN

Owen

WLWT, 5, Cincinnati, OH

WCPO-TV, 9, Cincinnati, OH

WKRC-TV, 12, Cincinnati, OH

+WSTR-TV, 64, Cincinnati, OH

WAVE, 3, Louisville, KY

WHAS-TV, 11, Louisville, KY

Owsley

WLEX-TV, 18, Lexington, KY

WKYT-TV, 27, Lexington, KY

WATE-TV, 6, Knoxville, TN

Pendleton

WLWT, 5, Cincinnati, OH

WCPO-TV, 9, Cincinnati, OH

WKRC-TV, 12, Cincinnati, OH

WXIX-TV, 19, Cincinnati, OH

+WSTR-TV, 64, Cincinnati, OH

Perry

WCYB-TV, 5, Bristol, VA

WJHL-TV, 11, Johnson City, TN

Pike

WSAZ-TV, 3, Huntington, WV

WCHS-TV, 8, Charleston, WV

WOWK-TV, 13, Huntington, WV (formerly WHTN)

+WVAH-TV, 11, Charleston, WV (formerly ch. 23)

WVVA, 6, Bluefield, WV (formerly WHIS)

Powell

WLEX-TV, 18, Lexington, KY

WKYT-TV, 27, Lexington, KY

WTVQ-TV, 36, Lexington, KY (formerly WBLG)

Pulaski

WATE-TV, 6, Knoxville, TN

WBIR-TV, 10, Knoxville, TN

WLEX-TV, 18, Lexington, KY

WKYT-TV, 27, Lexington, KY

+WDKY-TV, 56, Danville, KY

WTVQ-TV, 36, Lexington, KY (formerly WBLG)

Robertson

WLWT, 5, Cincinnati, OH

WCPO-TV, 9, Cincinnati, OH

WKRC-TV, 12, Cincinnati, OH

WLEX-TV, 18, Lexington, KY

Rockcastle

WLEX-TV, 18, Lexington, KY

WKYT-TV, 27, Lexington, KY

+WDKY-TV, 56, Danville, KY

WTVQ-TV, 36, Lexington, KY (formerly WBLG)

Rowan

WSAZ-TV, 3, Huntington, WV

+WVAH-TV, 11, Charleston, WV

Russell

WATE-TV, 6, Knoxville, TN

WBIR-TV, 10, Knoxville, TN

WHAS-TV, 11, Louisville, KY

WSMV, 4, Nashville, TN (formerly WSM)

WTVF, 5, Nashville, TN (formerly WLAC)

WKRN-TV, 2, Nashville, TN (formerly WSIX)

+WDKY-TV, 56, Danville, KY

Scott

WLEX-TV, 18, Lexington, KY

WKYT-TV, 27, Lexington, KY

+WDKY-TV, 56, Danville, KY

WTVQ-TV, 36, Lexington, KY (formerly WBLG)

WLWT, 5, Cincinnati, OH

WCPO-TV, 9, Cincinnati, OH

WKRC-TV, 12, Cincinnati, OH

Shelby

WAVE, 3, Louisville, KY

WHAS-TV, 11, Louisville, KY

WLKY-TV, 32, Louisville, KY

+WDRB, 41, Louisville, KY

+WFTE, 58, Salem, IN

Simpson

WSMV, 4, Nashville, TN (formerly WSM)

WTVF, 5, Nashville, TN (formerly WLAC)

WKRN-TV, 2, Nashville, TN (formerly WSIX)

Spencer

WAVE, 3, Louisville, KY

WHAS-TV, 11, Louisville, KY

WLKY-TV, 32, Louisville, KY

+WDRB, 41, Louisville, KY

Taylor

WAVE, 3, Louisville, KY

WHAS-TV, 11, Louisville, KY

+WDRB, 41, Louisville, KY

+WFTE, 58, Salem, IN

Todd

WSMV, 4, Nashville, TN (formerly WSM)

WTVF, 5, Nashville, TN (formerly WLAC)

WKRN-TV, 2, Nashville, TN (formerly WSIX)

Trigg

WSMV, 4, Nashville, TN (formerly WSM)

WTVF, 5, Nashville, TN (formerly WLAC)

WKRN-TV, 2, Nashville, TN (formerly WSIX)

WPSD-TV, 6, Paducah, KY

Trimble

WAVE, 3, Louisville, KY

WHAS-TV, 11, Louisville, KY

WLKY-TV, 32, Louisville, KY

+WDRB, 41, Louisville, KY

WLWT, 5, Cincinnati, OH

WCPO-TV, 9, Cincinnati, OH

WKRC-TV, 12, Cincinnati, OH

WXIX-TV, 19, Cincinnati, OH

WTTV, 4, Bloomington, IN

Union

WTVW, 7, Evansville, IN

WFIE-TV, 14, Evansville, IN

WEHT, 25, Evansville, IN

+WEVV, 44, Evansville, IN

WSIL-TV, 3, Harrisburg, IL

WPSD-TV, 6, Paducah, KY

Warren

WSMV, 4, Nashville, TN (formerly WSM)

WTVF, 5, Nashville, TN (formerly WLAC)

#WKRN-TV, 2, Nashville, TN (formerly WSIX) ¹⁴

¹⁴ Affected community is Bowling Green, KY.

+WZTV, 17, Nashville, TN

+WUXP, 30, Nashville, TN (formerly WCAY, WXMT)

WBKO, 13, Bowling Green, KY

Washington

WAVE, 3, Louisville, KY

WHAS-TV, 11, Louisville, KY

WLKY-TV, 32, Louisville, KY

+WDRB, 41, Louisville, KY

Wayne

WATE-TV, 6, Knoxville, TN

WBIR-TV, 10, Knoxville, TN

Webster

WTVW, 7, Evansville, IN

WFIE-TV, 14, Evansville, IN

WEHT, 25, Evansville, IN

+WEVV, 44, Evansville, IN

Whitley

WATE-TV, 6, Knoxville, TN

WVLT-TV, 8, Knoxville, TN (formerly WKXT)

WBIR-TV, 10, Knoxville, TN

Wolfe

WSAZ-TV, 3, Huntington, WV

WCHS-TV, 8, Charleston, WV

WLEX-TV, 18, Lexington, KY

WKYT-TV, 27, Lexington, KY

Woodford

WLEX-TV, 18, Lexington, KY

WKYT-TV, 27, Lexington, KY

+WDKY-TV, 56, Danville, KY

WTVQ-TV, 36, Lexington, KY (formerly WBLG)

WAVE, 3, Louisville, KY

WHAS-TV, 11, Louisville, KY

Louisiana

Acadia

KATC, 3, Lafayette, LA

KLFY-TV, 10, Lafayette, LA

KADN, 15, Lafayette, LA (KADN) (formerly KLNI)

KALB-TV, 5, Alexandria, LA

Allen

KATC, 3, Lafayette, LA

KLFY-TV, 10, Lafayette, LA

KALB-TV, 5, Alexandria, LA

KPLC-TV, 7, Lake Charles, LA

+KVHP, 29, Lake Charles, LA

Ascension

WBRZ, 2, Baton Rouge, LA

WAFB, 9, Baton Rouge, LA

+WVLA, 33, Baton Rouge, LA

+WGMB, 44, Baton Rouge, LA

WWL-TV, 4, New Orleans, LA

WDSU, 6, New Orleans, LA

WVUE, 8, New Orleans, LA

+WNOL-TV, 38, New Orleans, LA

Assumption

WBRZ, 2, Baton Rouge, LA

WAFB, 9, Baton Rouge, LA

+WVLA, 33, Baton Rouge, LA

WWL-TV, 4, New Orleans, LA

WDSU, 6, New Orleans, LA

WVUE, 8, New Orleans, LA

Avoyelles

KALB-TV, 5, Alexandria, LA

+KLAX-TV, 31, Alexandria, LA

WAFB, 9, Baton Rouge, LA

KATC, 3, Lafayette, LA

KLFY-TV, 10, Lafayette, LA

Beauregard

KBTV-TV, 4, Port Arthur, TX (formerly KJAC-TV)

KFDM-TV, 6, Beaumont, TX

KALB-TV, 5, Alexandria, LA

KATC, 3, Lafayette, LA

KLFY-TV, 10, Lafayette, LA

KPLC-TV, 7, Lake Charles, LA

+KVHP, 29, Lake Charles, LA

Bienville

KTBS-TV, 3, Shreveport, LA

KTAL-TV, 6, Texarkana, TX

KSLA-TV, 12, Shreveport, LA

KNOE-TV, 8, Monroe, LA

KTVE, 10, Monroe, LA

Bossier

KTBS-TV, 3, Shreveport, LA

KTAL-TV, 6, Texarkana, TX

KSLA-TV, 12, Shreveport, LA

+KMSS-TV, 33, Shreveport, LA

Caddo

KTBS-TV, 3, Shreveport, LA

KTAL-TV, 6, Texarkana, TX

KSLA-TV, 12, Shreveport, LA

+KMSS-TV, 33, Shreveport, LA

Calcasieu

KPLC-TV, 7, Lake Charles, LA

+KVHP, 29, Lake Charles, LA

KBTV-TV, 4, Port Arthur, TX (formerly KJAC-TV)

KFDM-TV, 6, Beaumont, TX

KBMT, 12, Beaumont, TX

KATC, 3, Lafayette, LA

KLFY-TV, 10, Lafayette, LA

Caldwell

KNOE-TV, 8, Monroe, LA

KTVE, 10, Monroe, LA

Cameron

KPLC-TV, 7, Lake Charles, LA

KBTV-TV, 4, Port Arthur, TX (formerly KJAC-TV)

KFDM-TV, 6, Beaumont, TX

KBMT, 12, Beaumont, TX

KATC, 3, Lafayette, LA

KLFY-TV, 10, Lafayette, LA

Catahoula

KNOE-TV, 8, Monroe, LA

KALB-TV, 5, Alexandria, LA

Claiborne

KTBS-TV, 3, Shreveport, LA

KTAL-TV, 6, Texarkana, TX

KSLA-TV, 12, Shreveport, LA

+KMSS-TV, 33, Shreveport, LA

KNOE-TV, 8, Monroe, LA

KTVE, 10, Monroe, LA

Concordia

KNOE-TV, 8, Monroe, LA

KALB-TV, 5, Alexandria, LA

DeSoto

KTBS-TV, 3, Shreveport, LA

KTAL-TV, 6, Texarkana, TX

KSLA-TV, 12, Shreveport, LA

+KMSS-TV, 33, Shreveport, LA

East Baton Rouge

WBRZ, 2, Baton Rouge, LA

WAFB, 9, Baton Rouge, LA

+WVLA, 33, Baton Rouge, LA

+WGMB, 44, Baton Rouge, LA

East Carroll

KNOE-TV, 8, Monroe, LA

KTVE, 10, Monroe, LA

WABG-TV, 6, Greenwood, MS

WLBT-TV, 3, Jackson, MS

WJTV, 12, Jackson, MS

East Feliciana

WBRZ, 2, Baton Rouge, LA

WAFB, 9, Baton Rouge, LA

+WVLA, 33, Baton Rouge, LA

+WGMB, 44, Baton Rouge, LA

Evangeline

KATC, 3, Lafayette, LA

KLFY-TV, 10, Lafayette, LA

KALB-TV, 5, Alexandria, LA

Franklin

KNOE-TV, 8, Monroe, LA

KTVE, 10, Monroe, LA

Grant

KALB-TV, 5, Alexandria, LA

KNOE-TV, 8, Monroe, LA

Iberia

KATC, 3, Lafayette, LA

KLFY-TV, 10, Lafayette, LA

KADN, 15, Lafayette, LA (formerly KLNI)

WBRZ, 2, Baton Rouge, LA

WAFB, 9, Baton Rouge, LA

+WVLA, 33, Baton Rouge, LA

+WGMB, 44, Baton Rouge, LA

Iberville

WBRZ, 2, Baton Rouge, LA

WAFB, 9, Baton Rouge, LA

+WVLA, 33, Baton Rouge, LA

+WGMB, 44, Baton Rouge, LA

Jackson

KNOE-TV, 8, Monroe, LA

KTVE, 10, Monroe, LA

KTBS-TV, 3, Shreveport, LA

KSLA-TV, 12, Shreveport, LA

Jefferson

WWL-TV, 4, New Orleans, LA

WDSU, 6, New Orleans, LA

WVUE, 8, New Orleans, LA

+WGNO, 26, New Orleans, LA

+WNOL-TV, 38, New Orleans, LA

Jefferson Davis

KATC, 3, Lafayette, LA

KLFY-TV, 10, Lafayette, LA

KPLC-TV, 7, Lake Charles, LA

+KVHP, 29, Lake Charles, LA

Lafayette

KATC, 3, Lafayette, LA

KLFY-TV, 10, Lafayette, LA

KADN, 15, Lafayette, LA (formerly KLNI)

WBRZ, 2, Baton Rouge, LA

WAFB, 9, Baton Rouge, LA

+WVLA, 33, Baton Rouge, LA

Lafourche

WWL-TV, 4, New Orleans, LA

WDSU, 6, New Orleans, LA

WVUE, 8, New Orleans, LA

+WGNO, 26, New Orleans, LA

+WNOL-TV, 38, New Orleans, LA

WAFB, 9, Baton Rouge, LA

LaSalle

KNOE-TV, 8, Monroe, LA

KALB-TV, 5, Alexandria, LA

Lincoln

KNOE-TV, 8, Monroe, LA

KTVE, 10, Monroe, LA

KTBS-TV, 3, Shreveport, LA

Livingston

WBRZ, 2, Baton Rouge, LA

WAFB, 9, Baton Rouge, LA

+WVLA, 33, Baton Rouge, LA

+WGMB, 44, Baton Rouge, LA

WWL-TV, 4, New Orleans, LA

+WGNO, 26, New Orleans, LA

+WNOL-TV, 38, New Orleans, LA

Madison

WLBT-TV, 3, Jackson, MS

WJTV, 12, Jackson, MS

+WDBD, 40, Jackson, MS

KNOE-TV, 8, Monroe, LA

Morehouse

KNOE-TV, 8, Monroe, LA

KTVE, 10, Monroe, LA

Natchitoches

KTBS-TV, 3, Shreveport, LA

KSLA-TV, 12, Shreveport, LA

+KMSS-TV, 33, Shreveport, LA

KALB-TV, 5, Alexandria, LA

KNOE-TV, 8, Monroe, LA

Orleans

WWL-TV, 4, New Orleans, LA

WDSU, 6, New Orleans, LA

WVUE, 8, New Orleans, LA

WGNO, 26, New Orleans, LA (WGNO) (formerly WWOM)

+WNOL-TV, 38, New Orleans, LA

Ouachita

KNOE-TV, 8, Monroe, LA

KTVE, 10, Monroe, LA

Plaquemines

WWL-TV, 4, New Orleans, LA

WDSU, 6, New Orleans, LA

WVUE, 8, New Orleans, LA

+WGNO, 26, New Orleans, LA

+WNOL-TV, 38, New Orleans, LA

Pointe Coupee

WBRZ, 2, Baton Rouge, LA

WAFB, 9, Baton Rouge, LA

+WVLA, 33, Baton Rouge, LA

+WGMB, 44, Baton Rouge, LA

Rapides

KAL-TV, 5, Alexandria, LA

KLFY-TV, 10, Lafayette, LA

KNOE-TV, 8, Monroe, LA

Red River

KTBS-TV, 3, Shreveport, LA

KTAL-TV, 6, Texarkana, TX

KSLA-TV, 12, Shreveport, LA

+KMSS-TV, 33, Shreveport, LA

Richland

KNOE-TV, 8, Monroe, LA

KTVE, 10, Monroe, LA

WLBT-TV, 3, Jackson, MS

Sabine

KTBS-TV, 3, Shreveport, LA

KTAL-TV, 6, Texarkana, TX

KSLA-TV, 12, Shreveport, LA

+KMSS-TV, 33, Shreveport, LA

KALB-TV, 5, Alexandria, LA

St. Bernard

WWL-TV, 4, New Orleans, LA

WDSU, 6, New Orleans, LA

WVUE, 8, New Orleans, LA

+WGNO, 26, New Orleans, LA

+WNOL-TV, 38, New Orleans, LA

St. Charles

WWL-TV, 4, New Orleans, LA

WDSU, 6, New Orleans, LA

WVUE, 8, New Orleans, LA

+WGNO, 26, New Orleans, LA

+WNOL-TV, 38, New Orleans, LA

St. Helena

WBRZ, 2, Baton Rouge, LA

WAFB, 9, Baton Rouge, LA

+WVLA, 33, Baton Rouge, LA

St. James

WWL-TV, 4, New Orleans, LA

WDSU, 6, New Orleans, LA

WVUE, 8, New Orleans, LA

+WGNO, 26, New Orleans, LA

+WNOL-TV, 38, New Orleans, LA

WBRZ, 2, Baton Rouge, LA

WAFB, 9, Baton Rouge, LA

+WVLA, 33, Baton Rouge, LA

St. John the Baptist

WWL-TV, 4, New Orleans, LA

WDSU, 6, New Orleans, LA

WVUE, 8, New Orleans, LA

+WGNO, 26, New Orleans, LA

WAFB, 9, Baton Rouge, LA

St. Landry

KATC, 3, Lafayette, LA

KLFY-TV, 10, Lafayette, LA

KALB-TV, 5, Alexandria, LA

WBRZ, 2, Baton Rouge, LA

WAFB, 9, Baton Rouge, LA

St. Martin

KATC, 3, Lafayette, LA

KLFY-TV, 10, Lafayette, LA

KADN, 15, Lafayette, LA (formerly KLNI)

WBRZ, 2, Baton Rouge, LA

WAFB, 9, Baton Rouge, LA

+WVLA, 33, Baton Rouge, LA

+WGMB, 44, Baton Rouge, LA

St. Mary

WBRZ, 2, Baton Rouge, LA

WAFB, 9, Baton Rouge, LA

+WVLA, 33, Baton Rouge, LA

+WGMB, 44, Baton Rouge, LA

KATC, 3, Lafayette, LA

KLFY-TV, 10, Lafayette, LA

St. Tammany

WWL-TV, 4, New Orleans, LA

WDSU, 6, New Orleans, LA

WVUE, 8, New Orleans, LA

+WGNO, 26, New Orleans, LA

+WNOL-TV, 38, New Orleans, LA

Tangipahoa

WWL-TV, 4, New Orleans, LA

WDSU, 6, New Orleans, LA

WVUE, 8, New Orleans, LA

+WGNO, 26, New Orleans, LA

+WNOL-TV, 38, New Orleans, LA

WBRZ, 2, Baton Rouge, LA

WAFB, 9, Baton Rouge, LA

+WGMB, 44, Baton Rouge, LA

Tensas

WLBT-TV, 3, Jackson, MS

WJTV, 12, Jackson, MS

KNOE-TV, 8, Monroe, LA

Terrebonne

WWL-TV, 4, New Orleans, LA

WDSU, 6, New Orleans, LA

WVUE, 8, New Orleans, LA

+WGNO, 26, New Orleans, LA

+WNOL-TV, 38, New Orleans, LA

Union

KNOE-TV, 8, Monroe, LA

KTVE, 10, Monroe, LA

Vermilion

KATC, 3, Lafayette, LA

KLFY-TV, 10, Lafayette, LA

KADN, 15, Lafayette, LA (formerly KLNI)

Vernon

KALB-TV, 5, Alexandria, LA

KTBS-TV, 3, Shreveport, LA

+KVHP, 29, Lake Charles, LA

Washington

WWL-TV, 4, New Orleans, LA

WDSU, 6, New Orleans, LA

WVUE, 8, New Orleans, LA

+WGNO, 26, New Orleans, LA

+WNOL-TV, 38, New Orleans, LA

WLOX-TV, 13, Biloxi, MS

Webster

KTBS-TV, 3, Shreveport, LA

KTAL-TV, 6, Texarkana, TX

KSLA-TV, 12, Shreveport, LA

+KMSS-TV, 33, Shreveport, LA

West Baton Rouge

WBRZ, 2, Baton Rouge, LA

WAFB, 9, Baton Rouge, LA

+WVLA, 33, Baton Rouge, LA

+WGMB, 44, Baton Rouge, LA

West Carroll

KNOE-TV, 8, Monroe, LA

KTVE, 10, Monroe, LA

West Feliciana

WBRZ, 2, Baton Rouge, LA

WAFB, 9, Baton Rouge, LA

+WGMB, 44, Baton Rouge, LA

KATC, 3, Lafayette, LA

Winn

KNOE-TV, 8, Monroe, LA

KALB-TV, 5, Alexandria, LA

Broussard—KPLC-TV

Carencro—KPLC-TV

Duson—KPLC-TV

Lafayette—KPLC-TV

Lafayette Parish (including unincorporated area known as Milton)—KPLC-TV

Maurice—KPLC-TV

Scott—KPLC-TV

Youngsville—KPLC-TV

Maine

Androscoggin

WCSH, 6, Portland, ME

WMTW-TV, 8, Portland, ME

WGME-TV, 13, Portland, ME (formerly WGAN)

+WPXT, 51, Portland, ME

Aroostook

WAGM-TV, 8, Presque Isle, ME

CHSJ, 4, Canada

Cumberland

WCSH, 6, Portland, ME

WMTW-TV, 8, Portland, ME

WGME-TV, 13, Portland, ME (formerly WGAN)

+WPXT, 51, Portland, ME

Franklin

WCSH, 6, Portland, ME

WMTW-TV, 8, Portland, ME

WGME-TV, 13, Portland, ME (formerly WGAN)

WABI-TV, 5, Bangor, ME

Hancock

WLBZ, 2, Bangor, ME

WABI-TV, 5, Bangor, ME

WVII-TV, 7, Bangor, ME (formerly WEMT)

Kennebec

WCSH, 6, Portland, ME

WMTW-TV, 8, Portland, ME

WGME-TV, 13, Portland, ME (formerly WGAN)

+WPXT, 51, Portland, ME

WLBZ, 2, Bangor, ME

WABI-TV, 5, Bangor, ME

Knox

WLBZ, 2, Bangor, ME

WABI-TV, 5, Bangor, ME

WVII-TV, 7, Bangor, ME (formerly WEMT)

WCSH, 6, Portland, ME

WMTW-TV, 8, Portland, ME

WGME-TV, 13, Portland, ME (formerly WGAN)

Lincoln

WCSH, 6, Portland, ME

WMTW-TV, 8, Portland, ME

WGME-TV, 13, Portland, ME (formerly WGAN)

+WPXT, 51, Portland, ME

Oxford

WCSH, 6, Portland, ME

WMTW-TV, 8, Portland, ME

WGME-TV, 13, Portland, ME (formerly WGAN)

+WPXT, 51, Portland, ME

WABI-TV, 5, Bangor, ME

Penobscot

WLBZ, 2, Bangor, ME

WABI-TV, 5, Bangor, ME

WVII-TV, 7, Bangor, ME (formerly WEMT)

Piscataquis

WLBZ, 2, Bangor, ME

WABI-TV, 5, Bangor, ME

WVII-TV, 7, Bangor, ME (formerly WEMT)

Sagadahoc

WCSH, 6, Portland, ME

WMTW-TV, 8, Portland, ME

WGME-TV, 13, Portland, ME (formerly WGAN)

+WPXT, 51, Portland, ME

Somerset

WLBZ, 2, Bangor, ME

WABI-TV, 5, Bangor, ME

WVII-TV, 7, Bangor, ME (formerly WEMT)

WCSH, 6, Portland, ME

WMTW-TV, 8, Portland, ME

WGME-TV, 13, Portland, ME (formerly WGAN)

Waldo

WLBZ, 2, Bangor, ME

WABI-TV, 5, Bangor, ME

WVII-TV, 7, Bangor, ME (formerly WEMT)

Washington

WLBZ, 2, Bangor, ME

WABI-TV, 5, Bangor, ME

WVII-TV, 7, Bangor, ME (formerly WEMT)

CHSJ, 4, Canada

York

WCSH, 6, Portland, ME

WMTW-TV, 8, Portland, ME

WGME-TV, 13, Portland, ME (formerly WGAN)

+WPXT, 51, Portland, ME

WBZ-TV, 4, Boston, MA

WCVB-TV, 5, Boston, MA (formerly WHDH)

WHDH-TV, 7, Boston, MA (formerly WNAC)

Berwick—WCSH, WPXG, WMUR-TV, WFXT

Elliot—WCSH, WPXG, WMUR-TV, WFXT

Kittery—WCSH, WPXG, WMUR-TV, WFXT

South Berwick—WCSH, WPXG, WMUR-TV, WFXT

Maryland

Allegany

WTTG, 5, Washington, DC

WJLA-TV, 7, Washington, DC (formerly WMAL)

WUSA, 9, Washington, DC (formerly WTOP)

WJAC-TV, 6, Johnstown, PA

Anne Arundel

WMAR-TV, 2, Baltimore, MD

WBAL-TV, 11, Baltimore, MD

WJZ-TV, 13, Baltimore, MD

+WNUV, 54, Baltimore, MD

WRC-TV, 4, Washington, DC

WTTG, 5, Washington, DC

WJLA-TV, 7, Washington, DC (formerly WMAL)

WUSA, 9, Washington, DC (formerly WTOP)

WDCA, 20, Washington, DC

Baltimore Including Baltimore City

WMAR-TV, 2, Baltimore, MD

WBAL-TV, 11, Baltimore, MD

WJZ-TV, 13, Baltimore, MD

WTTG, 5, Washington, DC

+WDCA, 20, Washington, DC

Calvert

WRC-TV, 4, Washington, DC

WTTG, 5, Washington, DC

WJLA-TV, 7, Washington, DC (formerly WMAL)

WUSA, 9, Washington, DC (formerly WTOP)

+WDCA, 20, Washington, DC

WMAR-TV, 2, Baltimore, MD

Caroline

WMAR-TV, 2, Baltimore, MD

WBAL-TV, 11, Baltimore, MD

WJZ-TV, 13, Baltimore, MD

+WNUV, 54, Baltimore, MD

WTTG, 5, Washington, DC

Carroll

WMAR-TV, 2, Baltimore, MD

WBAL-TV, 11, Baltimore, MD

WJZ-TV, 13, Baltimore, MD

+WNUV, 54, Baltimore, MD

WRC-TV, 4, Washington, DC

WTTG, 5, Washington, DC

WJLA-TV, 7, Washington, DC (formerly WMAL)

WUSA, 9, Washington, DC (formerly WTOP)

WDCA, 20, Washington, DC

Cecil

WMAR-TV, 2, Baltimore, MD

WBAL-TV, 11, Baltimore, MD

WJZ-TV, 13, Baltimore, MD

+WNUV, 54, Baltimore, MD

KYW-TV, 3, Philadelphia, PA

WPVI-TV, 6, Philadelphia, PA (formerly WFIL)

WCAU, 10, Philadelphia, PA

WGAL, 8, Lancaster, PA

Charles

WRC-TV, 4, Washington, DC

WTTG, 5, Washington, DC

WJLA-TV, 7, Washington, DC (formerly WMAL)

WUSA, 9, Washington, DC (formerly WTOP)

WDCA, 20, Washington, DC

Dorchester

WMAR-TV, 2, Baltimore, MD

WBAL-TV, 11, Baltimore, MD

WJZ-TV, 13, Baltimore, MD

+WNUV, 54, Baltimore, MD

WBOC-TV, 16, Salisbury, MD

+WMDT, 47, Salisbury, MD

WRC-TV, 4, Washington, DC

WTTG, 5, Washington, DC

WJLA-TV, 7, Washington, DC (formerly WMAL)

WUSA, 9, Washington, DC (formerly WTOP)

Frederick

WRC-TV, 4, Washington, DC

WTTG, 5, Washington, DC

WJLA-TV, 7, Washington, DC (formerly WMAL)

WUSA, 9, Washington, DC (formerly WTOP)

+WDCA, 20, Washington, DC

WMAR-TV, 2, Baltimore, MD

WBAL-TV, 11, Baltimore, MD

WJZ-TV, 13, Baltimore, MD

Garrett

KDKA-TV, 2, Pittsburgh, PA

WTAE-TV, 4, Pittsburgh, PA

WJAC-TV, 6, Johnstown, PA

+WWCP-TV, 8, Johnstown, PA

Harford

WMAR-TV, 2, Baltimore, MD

WBAL-TV, 11, Baltimore, MD

WJZ-TV, 13, Baltimore, MD

+WNUV, 54, Baltimore, MD

WTTG, 5, Washington, DC

Howard

WMAR-TV, 2, Baltimore, MD

WBAL-TV, 11, Baltimore, MD

WJZ-TV, 13, Baltimore, MD

+WNUV, 54, Baltimore, MD

WRC-TV, 4, Washington, DC

WTTG, 5, Washington, DC

WJLA-TV, 7, Washington, DC (formerly WMAL)

WUSA, 9, Washington, DC (formerly WTOP)

WDCA, 20, Washington, DC

Kent

WMAR-TV, 2, Baltimore, MD

WBAL-TV, 11, Baltimore, MD

WJZ-TV, 13, Baltimore, MD

+WNUV, 54, Baltimore, MD

WRC-TV, 4, Washington, DC

WTTG, 5, Washington, DC

WUSA, 9, Washington, DC (formerly WTOP)

Montgomery

WRC-TV, 4, Washington, DC

WTTG, 5, Washington, DC

WJLA-TV, 7, Washington, DC (formerly WMAL)

WUSA, 9, Washington, DC (formerly WTOP)

WDCA, 20, Washington, DC

Prince Georges

WRC-TV, 4, Washington, DC

WTTG, 5, Washington, DC

WJLA-TV, 7, Washington, DC (formerly WMAL)

WUSA, 9, Washington, DC (formerly WTOP)

WDCA, 20, Washington, DC

Queen Annes

WMAR-TV, 2, Baltimore, MD

WBAL-TV, 11, Baltimore, MD

WJZ-TV, 13, Baltimore, MD

+WNUV, 54, Baltimore, MD

WTTG, 5, Washington, DC

St. Marys

WRC-TV, 4, Washington, DC

WTTG, 5, Washington, DC

WJLA, 7, Washington, DC (formerly WMAL)

WUSA, 9, Washington, DC (formerly WTOP)

+WDCA, 20, Washington, DC

WMAR-TV, 2, Baltimore, MD

Somerset

WBOC-TV, 16, Salisbury, MD

+WMDT, 47, Salisbury, MD

WTTG, 5, Washington, DC

Talbot

WMAR-TV, 2, Baltimore, MD

WBAL-TV, 11, Baltimore, MD

WJZ-TV, 13, Baltimore, MD

+WNUV, 54, Baltimore, MD

WRC-TV, 4, Washington, DC

WTTG, 5, Washington, DC

WJLA-TV, 7, Washington, DC (formerly WMAL)

WUSA, 9, Washington, DC (formerly WTOP)

Washington

WRC-TV, 4, Washington, DC

WTTG, 5, Washington, DC

WJLA-TV, 7, Washington, DC (formerly WMAL)

WUSA, 9, Washington, DC (formerly WTOP)

+WDCA, 20, Washington, DC

WHAG-TV, 25, Hagerstown, MD

WMAR-TV, 2, Baltimore, MD

Wicomico

WBOC-TV, 16, Salisbury, MD

+WMDT, 47, Salisbury, MD

#WMAR-TV, 2, Baltimore, MD ¹⁵

WBAL-TV, 11, Baltimore, MD

WJZ-TV, 13, Baltimore, MD

WTTG, 5, Washington, DC

¹⁵ Affected communities are Salisbury, Delmar, Fruitland, Hebron and unincorporated areas of Wicomico County, MD.

Worcester

WBOC-TV, 16, Salisbury, MD

WMDT, 47, Salisbury, MD

#WTTG, 5, Washington, DC ¹⁶

¹⁶ Affected communities are Salisbury, Delmar, Fruitland, Hebron and unincorporated areas of Wicomico County, MD.

Barclay—WJZ-TV, WBOC-TV, WMDT, WTTG

Betterton—WBFF

Brookview—WJZ-TV, WBOC-TV, WMDT, WTTG

Centreville—WBFF, WNUV

Chestertown—WBFF

Church Hill—WBFF, WNUV

Denton—WJZ-TV, WBOC-TV, WMDT, WTTG

East New Market—WJZ-TV, WBOC-TV, WMDT, WTTG

Eldorado—WJZ-TV, WBOC-TV, WMDT, WTTG

Federalsburg—WJZ-TV, WBOC-TV, WMDT, WTTG

Galena—WBFF

Galestown—WJZ-TV, WBOC-TV, WMDT, WTTG

Goldsboro—WJZ-TV, WBOC-TV, WMDT, WTTG

Greensboro—WJZ-TV, WBOC-TV, WMDT, WTTG

Henderson—WJZ-TV, WBOC-TV, WMDT, WTTG

Hillsboro—WJZ-TV, WBOC-TV, WMDT, WTTG

Hurlock—WJZ-TV, WBOC-TV, WMDT, WTTG

Mardela Springs—WJZ-TV, WBOC-TV, WMDT, WTTG

Marydel—WJZ-TV, WBOC-TV, WMDT, WTTG

Millington—WBFF, WNUV

Preston—WJZ-TV, WBOC-TV, WMDT, WTTG

Queen Anne—WJZ-TV, WBOC-TV, WMDT, WTTG

Ridgely—WJZ-TV, WBOC-TV, WMDT, WTTG

Secretary—WJZ-TV, WBOC-TV, WMDT, WTTG

Sharptown—WJZ-TV, WBOC-TV, WMDT, WTTG

Sudlersville—WBFF, WNUV

Templeville—WJZ-TV, WBOC-TV, WMDT, WTTG

Vienna—WJZ-TV, WBOC-TV, WMDT, WTTG

Unincorporated areas of Caroline County—WJZ-TV, WBOC-TV, WMDT, WTTG

Unincorporated areas of Dorchester County—WJZ-TV, WBOC-TV, WMDT, WTTG

Unincorporated areas of Kent County—WBFF

Unincorporated areas of Queen Annes County—WBFF, WNUV

Massachusetts

Barnstable

WBZ-TV, 4, Boston, MA

WCVB-TV, 5, Boston, MA (formerly WHDH)

WHDH-TV, 7, Boston, MA (formerly WNAC)

+WDPX, 58, Vineyard, MA (formerly WCVX, WZBU)

WLNE-TV, 6, Providence, RI (formerly WTEV)

WJAR, 10, Providence, RI

WPRI-TV, 12, Providence, RI

Berkshire

WRGB, 6, Schenectady, NY

WTEN, 10, Albany, NY

WNYT, 13, Albany, NY (formerly WAST)

+WXXA-TV, 23, Albany, NY

WFSB, 3, Hartford, CT (formerly WTIC)

+WTIC-TV, 61, Hartford, CT

Bristol

WLNE-TV, 6, Providence, RI (formerly WTEV)

WJAR, 10, Providence, RI

WPRI-TV, 12, Providence, RI

+WNAC-TV, 64, Providence, RI

WBZ-TV, 4, Boston, MA

WCVB-TV, 5, Boston, MA (formerly WHDH)

WHDH-TV, 7, Boston, MA (formerly WNAC)

WSBK-TV, 38, Boston, MA

WLVI-TV, 56, Cambridge, MA (formerly WKBG)

Dukes

WLNE-TV, 6, Providence, RI (formerly WTEV)

WJAR, 10, Providence, RI

WPRI-TV, 12, Providence, RI

WBZ-TV, 4, Boston, MA

WCVB-TV, 5, Boston, MA (formerly WHDH)

WHDH-TV, 7, Boston, MA (formerly WNAC)

Essex

WBZ-TV, 4, Boston, MA

WCVB-TV, 5, Boston, MA (formerly WHDH)

WHDH-TV, 7, Boston, MA (formerly WNAC)

WSBK-TV, 38, Boston, MA

WLVI-TV, 56, Boston, MA (formerly WKBG)

+WBPX, 68, Boston, MA (formerly WQTV)

Franklin

WWLP, 22, Springfield, MA

WGGB-TV, 40, Springfield, MA (formerly WHYN)

WBZ-TV, 4, Boston, MA

WCVB-TV, 5, Boston, MA (formerly WHDH)

WFSB, 3, Hartford, CT (formerly WTIC)

+WTXX, 20, Waterbury, CT

+WTIC-TV, 61, Hartford, CT

Hampden

WWLP, 22, Springfield, MA

WGGB-TV, 40, Springfield, MA (formerly WHYN)

WFSB, 3, Hartford, CT (formerly WTIC)

WTNH-TV, 8, Hartford, CT (formerly WNHC)

+WTXX, 20, Waterbury, CT

WVIT, 30, Hartford, CT (formerly WHNB)

+WTIC-TV, 61, Hartford, CT

Hampshire

WWLP, 22, Springfield, MA

WGGB-TV, 40, Springfield, MA (formerly WHYN)

WFSB, 3, Hartford, CT (formerly WTIC)

+WTXX, 20, Waterbury, CT

+WVIT, 30, Hartford, CT

+WTIC-TV, 61, Hartford, CT

Middlesex

WBZ-TV, 4, Boston, MA

WCVB-TV, 5, Boston, MA (formerly WHDH)

WHDH-TV, 7, Boston, MA (formerly WNAC)

WSBK-TV, 38, Boston, MA

WLVI-TV, 56, Boston, MA (formerly WKBG)

+WBPX, 68, Boston, MA (formerly WQTV)

Nantucket

WLNE-TV, 6, Providence, RI (formerly WTEV)

WJAR, 10, Providence, RI

WPRI-TV, 12, Providence, RI

WBZ-TV, 4, Boston, MA

WCVB-TV, 5, Boston, MA (formerly WHDH)

Norfolk

WBZ-TV, 4, Boston, MA

WCVB-TV, 5, Boston, MA (formerly WHDH)

WHDH-TV, 7, Boston, MA (formerly WNAC)

WSBK-TV, 38, Boston, MA

WLVI-TV, 56, Boston, MA (formerly WKBG)

+WBPX, 68, Boston, MA (formerly WQTV)

Plymouth

WBZ-TV, 4, Boston, MA

WCVB-TV, 5, Boston, MA (formerly WHDH)

WHDH-TV, 7, Boston, MA (formerly WNAC)

WSBK-TV, 38, Boston, MA

WLVI-TV, 56, Boston, MA (formerly WKBG)

+WBPX, 68, Boston, MA (formerly WQTV)

WLNE-TV, 6, Providence, RI (formerly WTEV)

WJAR, 10, Providence, RI

WPRI-TV, 12, Providence, RI

Suffolk

WBZ-TV, 4, Boston, MA

WCVB-TV, 5, Boston, MA (formerly WHDH)

WHDH-TV, 7, Boston, MA (formerly WNAC)

WSBK-TV, 38, Boston, MA

WLVI-TV, 56, Boston, MA (formerly WKBG)

+WBPX, 68, Boston, MA (formerly WQTV)

Worcester

WBZ-TV, 4, Boston, MA

WCVB-TV, 5, Boston, MA (formerly WHDH)

WHDH-TV, 7, Boston, MA (formerly WNAC)

WSBK-TV, 38, Boston, MA

WLVI-TV, 56, Boston, MA (formerly WKBG)

WJAR, 10, Providence, RI

WPRI-TV, 12, Providence, RI

WUNI, 27, Worcester, MA (formerly WSMW)

Acushnet—WFXT

Barnstable—WFXT, WSBK-TV, WBZ-TV, WCVB-TV, WHDH-TV, WLVI-TV, WLNE-TV, WJAR

Bourne—WFXT, WSBK-TV

Brewster—WBZ-TV, WCVB-TV, WHDH-TV, WSBK-TV, WLNE-TV

Chatham—WFXT, WSBK-TV, WBZ-TV, WCVB-TV, WHDH-TV, WLVI-TV, WLNE-TV, WJAR

Dartmouth—WFXT

Dennis -WFXT, WSBK-TV, WBZ-TV, WCVB-TV, WHDH-TV, WLVI-TV, WLNE-TV, WJAR

Eastham—WBZ-TV, WCVB-TV, WHDH-TV, WSBK-TV, WLNE-TV

Fairhaven—WFXT

Fall River—WFXT

Falmouth—WSBK-TV, WLVI-TV, WBPX

Harwich—WFXT, WSBK-TV, WBZ-TV, WCVB-TV, WHDH-TV, WLVI-TV, WLNE-TV, WJAR

Marion—WFXT

Mattapoisett—WFXT

New Bedford—WFXT

Orleans—WBZ-TV, WCVB-TV, WHDH-TV, WSBK-TV, WLNE-TV

Provincetown—WBZ-TV, WCVB-TV, WHDH-TV, WSBK-TV, WLNE-TV

Rochester—WFXT

Sandwich—WFXT, WSBK-TV

Truro—WBZ-TV, WCVB-TV, WHDH-TV, WSBK-TV, WLNE-TV

Wareham—WFXT

Wellfleet—WBZ-TV, WCVB-TV, WHDH-TV, WSBK-TV, WLNE-TV

Yarmouth—WFXT, WSBK-TV, WBZ-TV, WCVB-TV, WHDH-TV, WLVI-TV, WLNE-TV, WJAR

Michigan

Alcona

WNEM-TV, 5, Bay City, MI

WJRT-TV, 12, Flint, MI

Alger

WLUC-TV, 6, Marquette, MI

WFRV-TV, 5, Green Bay, WI

Allegany

WWMT, 3, Kalamazoo, MI (formerly WKZO)

WOOD-TV, 8, Grand Rapids, MI

WZZM-TV, 13, Grand Rapids, MI

Alpena

WPBN-TV, 7, Traverse City, MI

+WGTQ, 8, Sault Ste. Marie, MI

WWTV, 9, Cadillac, MI

Antrim

WPBN-TV, 7, Traverse City, MI

WWTV, 9, Cadillac, MI

+WFUP, 45, Vanderbilt, MI (formerly WGKU)

Arenac

WNEM-TV, 5, Bay City, MI

WJRT-TV, 12, Flint, MI

WWTV, 9, Cadillac, MI

Baraga

WLUC-TV, 6, Marquette, MI

Barry

WWMT, 3, Kalamazoo, MI (formerly WKZO)

WOOD-TV, 8, Grand Rapids, MI

WZZM-TV, 13, Grand Rapids, MI

WLNS-TV, 6, Lansing, MI (formerly WJIM)

Bay

WNEM-TV, 5, Bay City, MI

WJRT-TV, 12, Flint, MI

WEYI-TV, 25, Saginaw, MI (formerly WKNX)

+WSMH, 66, Flint, MI

Benzie

WPBN-TV, 7, Traverse City, MI

WWTV, 9, Cadillac, MI

Berrien

WBBM-TV, 2, Chicago, IL

WMAQ-TV, 5, Chicago, IL

WLS-TV, 7, Chicago, IL

WGN-TV, 9, Chicago, IL

WNDU-TV, 16, South Bend, IN

WSBT-TV, 22, South Bend, IN

WSJV, 28, Elkhart, IN

Branch

WWMT, 3, Kalamazoo, MI (formerly WKZO)

WOOD-TV, 8, Grand Rapids, MI

+WXMI, 17, Grand Rapids, MI

+WOTV, 41, Battle Creek, MI (formerly WUHQ)

WLNS-TV, 6, Lansing, MI (formerly WJIM)

WILX-TV, 10, Lansing, MI

+WSYM-TV, 47, Lansing, MI

Calhoun

WWMT, 3, Kalamazoo, MI (formerly WKZO)

WOOD-TV, 8, Grand Rapids, MI

+WXMI, 17, Grand Rapids, MI

+WOTV, 41, Battle Creek, MI (formerly WUHQ)

WLNS-TV, 6, Lansing, MI (formerly WJIM)

WILX-TV, 10, Lansing, MI

+WSYM-TV, 47, Lansing, MI

Cass

WNDU-TV, 16, South Bend, IN

WSBT-TV, 22, South Bend, IN

WSJV, 28, Elkhart, IN

WGN-TV, 9, Chicago, IL

WWMT, 3, Kalamazoo, MI (formerly WKZO)

WOOD-TV, 8, Grand Rapids, MI

+WXMI, 17, Grand Rapids, MI

Charlevoix

WPBN-TV, 7, Traverse City, MI

WWTV, 9, Cadillac, MI

+WGTU, 29, Traverse City, MI

+WFUP, 45, Vanderbilt, MI (formerly WGKU)

Cheboygan

WPBN-TV, 7, Traverse City, MI

WWTV, 9, Cadillac, MI

+WFUP, 45, Vanderbilt, MI (formerly WGKU)

Chippewa

WPBN-TV, 7, Traverse City, MI

+WGTQ, 8, Traverse City, MI

WWTV, 9, Cadillac, MI

CJIC, 2, Canada

Clare

WNEM-TV, 5, Bay City, MI

WJRT-TV, 12, Flint, MI

WPBN-TV, 7, Traverse City, MI

WWTV, 9, Cadillac, MI

+WFQX, 33, Cadillac, MI (formerly WGKI)

Clinton

WLNS-TV, 6, Lansing, MI (formerly WJIM)

WILX-TV, 10, Lansing, MI

+WSYM-TV, 47, Lansing, MI

+WLAJ, 53, Lansing, MI

WNEM-TV, 5, Bay City, MI

WJRT-TV, 12, Flint, MI

+WSMH, 66, Flint, MI

WOOD-TV, 8, Grand Rapids, MI

+WXMI, 17, Grand Rapids, MI

Crawford

WPBN-TV, 7, Traverse City, MI

WWTV, 9, Cadillac, MI

WFUP, 45, Vanderbilt, MI (formerly WGKU)

Delta

WFRV-TV, 5, Green Bay, WI

WLUK-TV, 11, Green Bay, WI

WLUC-TV, 6, Marquette, MI

Dickinson

WBAY-TV, 2, Green Bay, WI

WFRV-TV, 5, Green Bay, WI

WLUK-TV, 11, Green Bay, WI

WLUC-TV, 6, Marquette, MI

Eaton

WLNS-TV, 6, Lansing, MI (formerly WJIM)

WILX-TV, 10, Lansing, MI

+WSYM-TV, 47, Lansing, MI

+WLAJ, 53, Lansing, MI

WJRT-TV, 12, Flint, MI

WWMT, 3, Kalamazoo, MI (formerly WKZO)

WOOD-TV, 8, Grand Rapids, MI

+WXMI, 17, Grand Rapids, MI

Emmet

WPBN-TV, 7, Traverse City, MI

WWTV, 9, Cadillac, MI

+WGTU, 29, Traverse City, MI

+WFUP, 45, Vanderbilt, MI (formerly WGKU)

Genesee

WNEM-TV, 5, Bay City, MI

WJRT-TV, 12, Flint, MI

+WSMH, 66, Flint, MI

#WJBK, 2, Detroit, MI ¹⁷

#WDIV, 4, Detroit, MI (formerly WWJ) ¹⁸

¹⁷ Affected community is Flint, MI.

¹⁸ Affected community is Flint, MI.

WXYZ-TV, 7, Detroit, MI

WKBD-TV, 50, Detroit, MI

WLNS-TV, 6, Lansing, MI (formerly WJIM)

Gladwin

WNEM-TV, 5, Bay City, MI

WJRT-TV, 12, Flint, MI

WWTV, 9, Cadillac, MI

Gogebic

KDLH, 3, Duluth, MN (formerly KDAL)

KBJR-TV, 6, Duluth, MN (formerly WDSM)

WDIO-TV, 10, Duluth, MN

WJFW-TV, 12, Rhinelander, WI (formerly WAEO)

Grand Traverse

WPBN-TV, 7, Traverse City, MI

WWTV, 9, Cadillac, MI

+WGTU, 29, Traverse City, MI

Gratiot

WNEM-TV, 5, Bay City, MI

WJRT-TV, 12, Flint, MI

+WSMH, 66, Flint, MI

WOOD-TV, 8, Grand Rapids, MI

WLNS-TV, 6, Lansing, MI (formerly WJIM)

+WSYM-TV, 47, Lansing, MI

Hillsdale

WLNS-TV, 6, Lansing, MI (formerly WJIM)

WILX-TV, 10, Lansing, MI

+WSYM-TV, 47, Lansing, MI

+WLAJ, 53, Lansing, MI

WWMT, 3, Kalamazoo, MI (formerly WKZO)

WOOD-TV, 8, Grand Rapids, MI

+WXMI, 17, Grand Rapids, MI

WTOL-TV, 11, Toledo, OH

WTVG, 13, Toledo, OH (formerly WSPD)

+WUPW, 36, Toledo, OH

Houghton

WLUC-TV, 6, Marquette, MI

WFRV-TV, 5, Green Bay, WI

Huron

WNEM-TV, 5, Bay City, MI

WJRT-TV, 12, Flint, MI

+WSMH, 66, Flint, MI

Ingham

WLNS-TV, 6, Lansing, MI (formerly WJIM)

WILX-TV, 10, Lansing, MI

+WSYM-TV, 47, Lansing, MI

+WLAJ, 53, Lansing, MI

WJRT-TV, 12, Flint, MI

WWMT, 3, Kalamazoo, MI (formerly WKZO)

#WOOD-TV, 8, Grand Rapids, MI ¹⁹

¹⁹ Affected communities are Lansing and East Lansing, MI.

Ionia

WWMT, 3, Kalamazoo, MI (formerly WKZO)

WOOD-TV, 8, Grand Rapids, MI

WZZM-TV, 13, Grand Rapids, MI

+WXMI, 17, Grand Rapids, MI

WJRT-TV, 12, Flint, MI

WLNS-TV, 6, Lansing, MI (formerly WJIM)

+WSYM-TV, 47, Lansing, MI

Iosco

WNEM-TV, 5, Bay City, MI

WJRT-TV, 12, Flint, MI

+WBKB-TV, 11, Alpena, MI

Iron

WLUC-TV, 6, Marquette, MI

WFRV-TV, 5, Green Bay, WI

WJFW-TV, 12, Rhinelander, WI (formerly WAEO)

Isabella

WNEM-TV, 5, Bay City, MI

WJRT-TV, 12, Flint, MI

+WSMH, 66, Flint, MI

WLNS-TV, 6, Lansing, MI (formerly WJIM)

WWTV, 9, Cadillac, MI

+WFQX, 33, Cadillac, MI (formerly WGKI)

Jackson

WLNS-TV, 6, Lansing, MI (formerly WJIM)

WILX-TV, 10, Lansing, MI

WSYM-TV, 47, Lansing, MI

WLAJ, 53, Lansing, MI

WJBK, 2, Detroit, MI

WDIV, 4, Detroit, MI (formerly WWJ)

WXYZ-TV, 7, Detroit, MI

Kalamazoo

WWMT, 3, Kalamazoo, MI (formerly WKZO)

WOOD-TV, 8, Grand Rapids, MI

WZZM-TV, 13, Grand Rapids, MI

+WOTV, 41, Battle Creek, MI (formerly WUHQ)

Kalkaska

WPBN-TV, 7, Traverse City, MI

WWTV, 9, Cadillac, MI

+WFQX, 33, Cadillac, MI (formerly WGKI)

Kent

WWMT, 3, Kalamazoo, MI (formerly WKZO)

WOOD-TV, 8, Grand Rapids, MI

WZZM-TV, 13, Grand Rapids, MI

Keweenaw

WLUC-TV, 6, Marquette, MI

CKPR, 2, Canada

Lake

WPBN-TV, 7, Traverse City, MI

WWTV, 9, Cadillac, MI

WZZM-TV, 13, Grand Rapids, MI

Lapeer

WJBK, 2, Detroit, MI

WDIV, 4, Detroit, MI (formerly WWJ)

WXYZ-TV, 7, Detroit, MI

CBET, 9, Canada (formerly CKLW)

WNEM-TV, 5, Bay City, MI

WJRT-TV, 12, Flint, MI

+WSMH, 66, Flint, MI

WLNS-TV, 6, Lansing, MI (formerly WJIM)

Leelanau

WPBN-TV, 7, Traverse City, MI

WWTV, 9, Cadillac, MI

Lenawee

WJBK, 2, Detroit, MI

WDIV, 4, Detroit, MI (formerly WWJ)

WXYZ-TV, 7, Detroit, MI

CBET, 9, Canada (formerly CKLW)

WKBD-TV, 50, Detroit, MI

WTOL-TV, 11, Toledo, OH

WTVG, 13, Toledo, OH (formerly WSPD)

WNWO-TV, 24, Toledo, OH (formerly WDHO)

+WUPW, 36, Toledo, OH

Livingston

WJBK, 2, Detroit, MI

WDIV, 4, Detroit, MI (formerly WWJ)

WXYZ-TV, 7, Detroit, MI

CBET, 9, Canada (formerly CKLW)

WKBD-TV, 50, Detroit, MI

WJRT-TV, 12, Flint, MI

WLNS-TV, 6, Lansing, MI (formerly WJIM)

+WSYM-TV, 47, Lansing, MI

Luce

WPBN-TV, 7, Traverse City, MI

+WGTQ, 8, Sault Ste. Marie, MI

WWTV, 9, Cadillac, MI

WFRV-TV, 5, Green Bay, WI

WLUC-TV, 6, Marquette, MI

CJIC, 2, Canada

Mackinac

WPBN-TV, 7, Traverse City, MI

+WGTQ, 8, Sault Ste. Marie, MI

WWTV, 9, Cadillac, MI

WFRV-TV, 5, Green Bay, WI

CJIC, 2, Canada

Macomb

WJBK, 2, Detroit, MI

WDIV, 4, Detroit, MI (formerly WWJ)

WXYZ-TV, 7, Detroit, MI

CBET, 9, Canada (formerly CKLW)

WKBD-TV, 50, Detroit, MI

Manistee

WPBN-TV, 7, Traverse City, MI

WWTV, 9, Cadillac, MI

+WFQX, 33, Cadillac, MI (formerly WGKI)

WZZM-TV, 13, Grand Rapids, MI

WBAY-TV, 2, Green Bay, WI

WLUK-TV, 11, Green Bay, WI

Marquette

WLUC-TV, 6, Marquette, MI

WFRV-TV, 5, Green Bay, WI

WLUK-TV, 11, Green Bay, WI

Mason

WPBN-TV, 7, Traverse City, MI

WWTV, 9, Cadillac, MI

+WFQX, 33, Cadillac, MI (formerly WGKI)

WZZM-TV, 13, Grand Rapids, MI

WBAY-TV, 2, Green Bay, WI

WFRV-TV, 5, Green Bay, WI

WLUK-TV, 11, Green Bay, WI

Mecosta

WPBN-TV, 7, Traverse City, MI

WWTV, 9, Cadillac, MI

+WFQX, 33, Cadillac, MI (formerly WGKI)

WZZM-TV, 13, Grand Rapids, MI

+WXMI, 17, Grand Rapids, MI

Menominee

WBAY-TV, 2, Green Bay, WI

WFRV-TV, 5, Green Bay, WI

WLUK-TV, 11, Green Bay, WI

+WGBA, 26, Green Bay, WI

+WACY, 32, Appleton, WI (formerly WXGZ)

WLUC-TV, 6, Marquette, MI

Midland

WNEM-TV, 5, Bay City, MI

WJRT-TV, 12, Flint, MI

+WAQP, 49, Saginaw, MI

+WSMH, 66, Flint, MI

WWTV, 9, Cadillac, MI

Missaukee

WPBN-TV, 7, Traverse City, MI

WWTV, 9, Cadillac, MI

Monroe

WJBK, 2, Detroit, MI

WDIV, 4, Detroit, MI (formerly WWJ)

WXYZ-TV, 7, Detroit, MI

CBET, 9, Canada (formerly CKLW)

WKBD-TV, 50, Detroit, MI

WTOL-TV, 11 Toledo, OH

WTVG, 13, Toledo, OH (formerly WSPD)

WNWO-TV, 24, Toledo, OH (formerly WDHO)

+WUPW, 36, Toledo, OH

Montcalm

WWMT, 3, Kalamazoo, MI (formerly WKZO)

WOOD-TV, 8, Grand Rapids, MI

WZZM-TV, 13, Grand Rapids, MI

+WXMI, 17, Grand Rapids, MI

WJRT-TV, 12, Flint, MI

WLNS-TV, 6, Lansing, MI (formerly WJIM)

WWTV, 9, Cadillac, MI

Montmorency

WPBN-TV, 7, Traverse City, MI

WWTV, 9, Cadillac, MI

Muskegon

WWMT, 3, Kalamazoo, MI (formerly WKZO)

WOOD-TV, 8, Grand Rapids, MI

WZZM-TV, 13, Grand Rapids, MI

+WXMI, 17, Grand Rapids, MI

Newaygo

WWMT, 3, Kalamazoo, MI (formerly WKZO)

WOOD-TV, 8, Grand Rapids, MI

WZZM-TV, 13, Grand Rapids, MI

WPBN-TV, 7, Traverse City, MI

WWTV, 9, Cadillac, MI

Oakland

WJBK, 2, Detroit, MI

WDIV, 4, Detroit, MI (formerly WWJ)

WXYZ-TV, 7, Detroit, MI

CBET, 9, Canada (formerly CKLW)

+WDWB, 20, Detroit, MI (formerly WXON)

WKBD-TV, 50, Detroit, MI

Oceana

WWMT, 3, Kalamazoo, MI (formerly WKZO)

WZZM-TV, 13, Grand Rapids, MI

WPBN-TV, 7, Traverse City, MI

WWTV, 9, Cadillac, MI

Ogemaw

WNEM-TV, 5, Bay City, MI

WJRT-TV, 12, Flint, MI

WWTV, 9, Cadillac, MI

Ontonagon

WLUC-TV, 6, Marquette, MI

KDLH, 3, Duluth, MN (formerly KDAL)

WJFW-TV, 12, Rhinelander, WI (formerly WAEO)

Osceola

WPBN-TV, 7, Traverse City, MI

WWTV, 9, Cadillac, MI

+WFQX, 33, Cadillac, MI (formerly WGKI)

WNEM-TV, 5, Bay City, MI

WZZM-TV, 13, Grand Rapids, MI

Oscoda

WPBN-TV, 7, Traverse City, MI

WWTV, 9, Cadillac, MI

WNEM-TV, 5, Bay City, MI

Otsego

WPBN-TV, 7, Traverse City, MI

WWTV, 9, Cadillac, MI

+WGTU, 29, Traverse City, MI

+WFUP, 45, Vanderbilt, MI (formerly WGKU)

Ottawa

WWMT, 3, Kalamazoo, MI (formerly WKZO)

WOOD-TV, 8, Grand Rapids, MI

WZZM-TV, 13, Grand Rapids, MI

Presque Isle

WPBN-TV, 7, Traverse City, MI

+WGTQ, 8, Sault Ste. Marie, MI

WWTV, 9, Cadillac, MI

+WBKB-TV, 11, Alpena, MI

Roscommon

WPBN-TV, 7, Traverse City, MI

WWTV, 9, Cadillac, MI

WNEM-TV, 5, Bay City, MI

Saginaw

WNEM-TV, 5, Bay City, MI

WJRT-TV, 12, Flint, MI

WEYI-TV, 25, Saginaw, MI (formerly WKNX)

+WSMH, 66, Flint, MI

St. Clair

WJBK, 2, Detroit, MI

WDIV, 4, Detroit, MI (formerly WWJ)

WXYZ-TV, 7, Detroit, MI

CBET, 9, Canada (formerly CKLW)

+WXON, 20, Detroit, MI

WKBD-TV, 50, Detroit, MI

St. Joseph

WWMT, 3, Kalamazoo, MI (formerly WKZO)

WOOD-TV, 8, Grand Rapids, MI

WNDU-TV, 16, South Bend, IN

WSBT-TV, 22, South Bend, IN

WSJV, 28, Elkhart, IN

+WHME-TV, 46, South Bend, IN

+WSYM-TV, 47, Lansing, MI

Sanilac

WJBK, 2, Detroit, MI

WDIV, 4, Detroit, MI (formerly WWJ)

WXYZ-TV, 7, Detroit, MI

WNEM-TV, 5, Bay City, MI

WJRT-TV, 12, Flint, MI

CFPL, 10, Canada

Schoolcraft

WLUC-TV, 6, Marquette, MI

WFRV-TV, 5, Green Bay, WI

Shiawassee

WNEM-TV, 5, Bay City, MI

WJRT-TV, 12, Flint, MI

+WSMH, 66, Flint, MI

WLNS-TV, 6, Lansing, MI (formerly WJIM)

WILX-TV, 10, Lansing, MI

+WSYM-TV, 47, Lansing, MI

Tuscola

WNEM-TV, 5, Bay City, MI

WJRT-TV, 12, Flint, MI

WEYI-TV, 25, Saginaw, MI (formerly WKNX)

+WAQP, 49, Saginaw, MI

+WSMH, 66, Flint, MI

Van Buren

WWMT, 3, Kalamazoo, MI (formerly WKZO)

WOOD-TV, 8, Grand Rapids, MI

WZZM-TV, 13, Grand Rapids, MI

Washtenaw

WJBK, 2, Detroit, MI

WDIV, 4, Detroit, MI (formerly WWJ)

WXYZ-TV, 7, Detroit, MI

CBET, 9, Canada (formerly CKLW)

WKBD-TV, 50, Detroit, MI

Wayne

WJBK, 2, Detroit, MI

WDIV, 4, Detroit, MI (formerly WWJ)

WXYZ-TV, 7, Detroit, MI

CBET, 9, Canada (formerly CKLW)

WKBD-TV, 50, Detroit, MI

Wexford

WPBN-TV, 7, Traverse City, MI

WWTV, 9, Cadillac, MI

+WGTU, 29, Traverse City, MI

+WFQX, 33, Cadillac, MI (formerly WGKI)

Ann Arbor—WXON

Ann Arbor Township—WXON

Barton Hills—WXON

Bennington Township—WEYI-TV

Brighton—WXON

Brighton Township—WXON

Caledonia Township—WEYI-TV

Corunna—WEYI-TV

Genoa Township—WXON

Green Oak Township—WXON

Howell—WXON

Oceola Township—WXON

Owosso—WEYI-TV

Owosso Township—WEYI-TV

Pittsfield Township—WXON

Rush Township (portions)—WEYI-TV

Scio Township—WXON

Superior Township—WXON

Van BurenTownship—WXON

Webster Township—WXON

Ypsilanti—WXON

Ypsilanti Township—WXON

Minnesota

Aitkin

KDLH, 3, Duluth, MN (formerly KDAL)

KBJR-TV, 6, Duluth, MN (formerly WDSM)

WDIO-TV, 10, Duluth, MN

KCCW-TV, 12, Walker, MN (formerly KNMT)

Anoka

WCCO-TV, 4, Minneapolis, MN

KSTP-TV, 5, St. Paul, MN

KMSP-TV, 9, Minneapolis, MN

KARE, 11, Minneapolis, MN (formerly WTCN)

+KLGT, 23, Minneapolis, MN (formerly KTMA)

+WFTC, 29, Minneapolis, MN (formerly KITN)

+KPXM, 41, St. Cloud, MN (formerly KXLI)

Becker

KXJB-TV, 4, Valley City, ND

WDAY-TV, 6, Fargo, ND

KVLY-TV, 11, Fargo, ND (formerly KTHI)

Beltrami

KCCW-TV, 12, Walker, MN (formerly KNMT)

KDLH, 3, Duluth, MN (formerly KDAL)

KBJR-TV, 6, Duluth, MN (formerly WDSM)

KVLY-TV, 11, Fargo, ND (formerly KTHI)

Benton

WCCO-TV, 4, Minneapolis, MN

KSTP-TV, 5, St. Paul, MN

KMSP-TV, 9, Minneapolis, MN

KARE, 11, Minneapolis, MN (formerly WTCN)

+KPXM, 41, St. Cloud, MN (formerly KXLI)

KCCO-TV, 7, Alexandria, MN (formerly KCMT)

Big Stone

KCCO-TV, 7, Alexandria, MN (formerly KCMT)

KELO-TV, 11, Sioux Falls, SD

Blue Earth

KEYC-TV, 12, Mankato, MN

WCCO-TV, 4, Minneapolis, MN

KSTP-TV, 5, St. Paul, MN

KMSP-TV, 9, Minneapolis, MN

KARE, 11, Minneapolis, MN (formerly WTCN)

+WFTC, 29, Minneapolis, MN (formerly KITN)

KAAL, 6, Austin, MN (formerly KAUS)

Brown

WCCO-TV, 4, Minneapolis, MN

KSTP-TV, 5, St. Paul, MN

KMSP-TV, 9, Minneapolis, MN

KARE, 11, Minneapolis, MN (formerly WTCN)

+WFTC, 29, Minneapolis, MN (formerly KITN)

KEYC-TV, 12, Mankato, MN

KAAL, 6, Austin, MN (formerly KAUS)

Carlton

KDLH, 3, Duluth, MN (formerly KDAL)

KBJR-TV, 6, Duluth, MN (formerly WDSM)

WDIO-TV, 10, Duluth, MN

Carver

WCCO-TV, 4, Minneapolis, MN

KSTP-TV, 5, St. Paul, MN

KMSP-TV, 9, Minneapolis, MN

KARE, 11, Minneapolis, MN (formerly WTCN)

+KLGT, 23, Minneapolis, MN (formerly KTMA)

+KPXM, 41, St. Cloud, MN (formerly KXLI)

Cass

KCCO-TV, 7, Alexandria, MN (formerly KCMT)

KCCW-TV, 12, Walker, MN (formerly KNMT)

KDLH, 3, Duluth, MN (formerly KDAL)

WDIO-TV, 10, Duluth, MN

Chippewa

KCCO-TV, 7, Alexandria, MN (formerly KCMT)

+KSAX, 42, Alexandria, MN

WCCO-TV, 4, Minneapolis, MN

KMSP-TV, 9, Minneapolis, MN

KARE, 11, Minneapolis, MN (formerly WTCN)

Chisago

WCCO-TV, 4, Minneapolis, MN

KSTP-TV, 5, St. Paul, MN

KMSP-TV, 9, Minneapolis, MN

KARE, 11, Minneapolis, MN (formerly WTCN)

+KLGT, 23, Minneapolis, MN (formerly KTMA)

+KPXM, 41, St. Cloud, MN (formerly KXLI)

Clay

KXJB-TV, 4, Valley City, ND

WDAY-TV, 6, Fargo, ND

KVLY-TV, 11, Fargo, ND (formerly KTHI)

Clearwater

KXJB-TV, 4, Valley City, ND

WDAY-TV, 6, Fargo, ND

KVLY-TV, 11, Fargo, ND (formerly KTHI)

Cook

KDLH, 3, Duluth, MN (formerly KDAL)

KBJR-TV, 6, Duluth, MN (formerly WDSM)

WDIO-TV, 10, Duluth, MN

CKPR, 2, Canada

Cottonwood

KEYC-TV, 12, Mankato, MN

KSTP-TV, 5, St. Paul, MN

KARE, 11, Minneapolis, MN (formerly WTCN)

KAAL, 6, Austin, MN (formerly KAUS)

Crow Wing

KCCO-TV, 7, Alexandria, MN (formerly KCMT)

KCCW-TV, 12, Walker, MN (formerly KNMT)

+KSAX, 42, Alexandria, MN

KDLH, 3, Duluth, MN (formerly KDAL)

+KPXM, 41, St. Cloud, MN (formerly KXLI)

Dakota

WCCO-TV, 4, Minneapolis, MN

KSTP-TV, 5, St. Paul, MN

KMSP-TV, 9, Minneapolis, MN

KARE, 11, Minneapolis, MN (formerly WTCN)

+KLGT, 23, Minneapolis (formerly KTMA)

+KPXM, 41, St. Cloud, MN (formerly KXLI)

Dodge

KIMT, 3, Mason City, IA (formerly KGLO)

KAAL, 6, Austin, MN (formerly KAUS)

KTTC, 10, Rochester, MN (formerly KROC)

WCCO-TV, 4, Minneapolis, MN

KSTP-TV, 5, St. Paul, MN

Douglas

KCCO-TV, 7, Alexandria, MN (formerly KCMT)

+KSAX, 42, Alexandria, MN

Faribault

KIMT, 3, Mason City, IA (formerly KGLO)

KAAL, 6, Austin, MN (formerly KAUS)

KTTC, 10, Rochester, MN (formerly KROC)

KEYC-TV, 12, Mankato, MN

Fillmore

KIMT, 3, Mason City, IA (formerly KGLO)

KAAL, 6, Austin, MN (formerly KAUS)

KTTC, 10, Rochester, MN (formerly KROC)

WKBT, 8, La Crosse, WI

+WLAX, 25, La Crosse, WI

Freeborn

KIMT, 3, Mason City, IA (formerly KGLO)

KAAL, 6, Austin, MN (formerly KAUS)

KTTC, 10, Rochester, MN (formerly KROC)

Goodhue

WCCO-TV, 4, Minneapolis, MN

KSTP-TV, 5, St. Paul, MN

KMSP-TV, 9, Minneapolis, MN

KARE, 11, Minneapolis, MN (formerly KARE)

+WFTC, 29, Minneapolis, MN (formerly KITN)

Grant

KCCO-TV, 7, Alexandria, MN (formerly KCMT)

Hennepin

WCCO-TV, 4, Minneapolis, MN

KSTP-TV, 5, St. Paul, MN

KMSP-TV, 9, Minneapolis, MN

KARE, 11, Minneapolis, MN (formerly WTCN)

KLGT, 23, Minneapolis, MN (formerly KTMA)

KPXM, 41, St.Cloud, MN (formerly KXLI)

Houston

WKBT, 8, La Crosse, WI

+WLAX, 25, La Crosse, WI

KTTC, 10, Rochester, MN (formerly KROC)

Hubbard

KCCW-TV, 12, Walker, MN (formerly KNMT)

Isanti

WCCO-TV, 4, Minneapolis, MN

KSTP-TV, 5, St. Paul, MN

KMSP-TV, 9, Minneapolis, MN

KARE, 11, Minneapolis, MN (formerly WTCN)

+KLGT, 23, Minneapolis, MN (formerly KTMA)

+WFTC, 29, Minneapolis, MN (formerly KITN)

+KPXM, 41, St. Cloud, MN (formerly KXLI)

Itasca

KDLH, 3, Duluth, MN (formerly KDAL)

KBJR-TV, 6, Duluth, MN (formerly WDSM)

WDIO-TV, 10, Duluth, MN

KCCW-TV, 12, Walker, MN (formerly KNMT)

Jackson

KEYC-TV, 12, Mankato, MN

KCAU-TV, 9, Sioux City, IA

KELO-TV, 11, Sioux Falls, SD

KSFY-TV, 13, Sioux Falls, SD (formerly KSOO)

Kanabec

WCCO-TV, 4, Minneapolis, MN

KSTP-TV, 5, St. Paul, MN

KMSP-TV, 9, Minneapolis, MN

KARE, 11, Minneapolis, MN (formerly WTCN)

+KPXM, 41, St. Cloud, MN (formerly KXLI)

Kandiyohi

WCCO-TV, 4, Minneapolis, MN

KSTP-TV, 5, St. Paul, MN

KMSP-TV, 9, Minneapolis, MN

KARE, 11, Minneapolis, MN (formerly WTCN)

+KPXM, 41, St. Cloud, MN (formerly KXLI)

KCCO-TV, 7, Alexandria, MN (formerly KCMT)

Kittson

KXJB-TV, 4, Valley City, ND

WDAZ-TV, 8, Devils Lake, ND

KNRR, 12, Pembina, ND (formerly KCND)

CBWT, 6, Canada

CKY, 7, Canada (formerly CJAY)

Koochiching

KDLH, 3, Duluth, MN (formerly KDAL)

KBJR-TV, 6, Duluth, MN (formerly WDSM)

WDIO-TV, 10, Duluth, MN

CBWT, 6, Canada

Lac Qui Parle

KCCO-TV, 7, Alexandria, MN (formerly KCMT)

+KSAX, 42, Alexandria, MN

KELO-TV, 11, Sioux Falls, SD

Lake

KDLH, 3, Duluth, MN (formerly KDAL)

KBJR-TV, 6, Duluth, MN (formerly WDSM)

WDIO-TV, 10, Duluth, MN

Lake of the Woods

CBWT, 6, Canada

Le Sueur

WCCO-TV, 4, Minneapolis, MN

KSTP-TV, 5, St. Paul, MN

KMSP-TV, 9, Minneapolis, MN

KARE, 11, Minneapolis, MN (formerly WTCN)

+WFTC, 29, Minneapolis, MN (formerly KITN)

+KPXM, 41, St. Cloud, MN (formerly KXLI)

KEYC-TV, 12, Mankato, MN

Lincoln

KDLV-TV, 5, Mitchell, SD (formerly KORN)

KELO-TV, 11, Sioux Falls, SD

KSFY-TV, 13, Sioux Falls, SD (formerly KSOO)

Lyon

KELO-TV, 11, Sioux Falls, SD

KSFY-TV, 13, Sioux Falls, SD (formerly KSOO)

KEYC-TV, 12, Mankato, MN

McLeod

WCCO-TV, 4, Minneapolis, MN

KSTP-TV, 5, St. Paul, MN

KMSP-TV, 9, Minneapolis, MN

KARE, 11, Minneapolis, MN (formerly WTCN)

+WFTC, 29, Minneapolis, MN (formerly KITN)

+KPXM, 41, St. Cloud, MN (formerly KXLI)

Mahnomen

KXJB-TV, 4, Valley City, ND

WDAY-TV, 6, Fargo, ND

KVLY-TV, 11, Fargo, ND (formerly KTHI)

Marshall

KXJB-TV, 4, Valley City, ND

WDAZ-TV, 8, Devils Lake, ND

KVLY-TV, 11, Fargo, ND (formerly KTHI)

KNRR, 12, Pembina, ND (formerly KCND)

CBWT, 6, Canada

Martin

KEYC-TV, 12, Mankato, MN

KAAL, 6, Austin, MN (formerly KAUS)

KTTC, 10, Rochester, MN (formerly KROC)

Meeker

WCCO-TV, 4, Minneapolis, MN

KSTP-TV, 5, St. Paul, MN

KMSP-TV, 9, Minneapolis, MN

KARE, 11, Minneapolis, MN (formerly WTCN)

+WFTC, 29, Minneapolis, MN (formerly KITN)

+KPXM, 41, St. Cloud, MN (formerly KXLI)

KCCO-TV, 7, Alexandria, MN (formerly KCMT)

Mille Lacs

WCCO-TV, 4, Minneapolis, MN

KSTP-TV, 5, St. Paul, MN

KMSP-TV, 9, Minneapolis, MN

KARE, 11, Minneapolis, MN (formerly WTCN)

+KLGT, 23, Minneapolis, MN (formerly KTMA)

Morrison

KCCO-TV, 7, Alexandria, MN (formerly KCMT)

WCCO-TV, 4, Minneapolis, MN

KSTP-TV, 5, St. Paul, MN

KMSP-TV, 9, Minneapolis, MN

KARE, 11, Minneapolis, MN (formerly WTCN)

+KPXM, 41, St. Cloud, MN (formerly KXLI)

Mower

KIMT, 3, Mason City, IA (formerly KGLO)

KAAL, 6, Austin, MN (formerly KAUS)

KTTC, 10, Rochester, MN (formerly KROC)

Murray

KELO-TV, 11, Sioux Falls, SD

KSFY-TV, 13, Sioux Falls, SD (formerly KSOO)

Nicollet

WCCO-TV, 4, Minneapolis, MN

KSTP-TV, 5, St. Paul, MN

KMSP-TV, 9, Minneapolis, MN

KARE, 11, Minneapolis, MN (formerly WTCN)

KEYC-TV, 12, Mankato, MN

Nobles

KELO-TV, 11, Sioux Falls, SD

KSFY-TV, 13, Sioux Falls, SD (formerly KSOO)

KCAU-TV, 9, Sioux City, IA

Norman

KXJB-TV, 4, Valley City, ND

WDAY-TV, 6, Fargo, ND

KVLY-TV, 11, Fargo, ND (formerly KTHI)

Olmsted

KIMT, 3, Mason City, IA (formerly KGLO)

KAAL, 6, Austin, MN (formerly KAUS)

KTTC, 10, Rochester, MN (formerly KROC)

Otter Tail

KXJB-TV, 4, Valley City, ND

WDAY-TV, 6, Fargo, ND

KVLY-TV, 11, Fargo, ND (formerly KTHI)

KCCO-TV, 7, Alexandria, MN (formerly KCMT)

Pennington

KXJB-TV, 4, Valley City, ND

WDAY-TV, 6, Fargo, ND

WDAZ-TV, 8, Devils Lake, ND

KVLY-TV, 11, Fargo, ND (formerly KTHI)

Pine

KDLH, 3, Duluth, MN (formerly KDAL)

KBJR-TV, 6, Duluth, MN (formerly WDSM)

WDIO-TV, 10, Duluth, MN

WCCO-TV, 4, Minneapolis, MN

KSTP-TV, 5, St. Paul, MN

KMSP-TV, 9, Minneapolis, MN

KARE, 11, Minneapolis, MN (formerly WTCN)

Pipestone

KDLV-TV, 5, Mitchell, SD (formerly KORN)

KELO-TV, 11, Sioux Falls, SD

KSFY-TV, 13, Sioux Falls, SD (formerly KSOO)

Polk

KXJB-TV, 4, Valley City, ND

WDAY-TV, 6, Fargo, ND

KVLY-TV, 11, Fargo, ND (formerly KTHI)

Pope

KCCO-TV, 7, Alexandria, MN (formerly KCMT)

Ramsey

WCCO-TV, 4, Minneapolis, MN

KSTP-TV, 5, St. Paul, MN

KMSP-TV, 9, Minneapolis, MN

KARE, 11, Minneapolis, MN (formerly WTCN)

+KLGT, 23, Minneapolis, MN (formerly KTMA)

+KPXM, 41, St. Cloud, MN (formerly KXLI)

Red Lake

KXJB-TV, 4, Valley City, ND

WDAY-TV, 6, Fargo, ND

WDAZ-TV, 8, Devils Lake, ND

KVLY-TV, 11, Fargo, ND (formerly KTHI)

Redwood

KEYC-TV, 12, Mankato, MN

WCCO-TV, 4, Minneapolis, MN

KSTP-TV, 5, St. Paul, MN

KMSP-TV, 9, Minneapolis, MN

KARE, 11, Minneapolis, MN (formerly WTCN)

Renville

WCCO-TV, 4, Minneapolis, MN

KSTP-TV, 5, St. Paul, MN

KMSP-TV, 9, Minneapolis, MN

KARE, 11, Minneapolis, MN (formerly WTCN)

KCCO-TV, 7, Alexandria, MN (formerly KCMT)

KEYC-TV, 12, Mankato, MN

Rice

WCCO-TV, 4, Minneapolis, MN

KSTP-TV, 5, St. Paul, MN

KMSP-TV, 9, Minneapolis, MN

KARE, 11, Minneapolis, MN (formerly WTCN)

+KLGT, 23, Minneapolis, MN (formerly KTMA)

+WFTC, 29, Minneapolis, MN (formerly KITN)

Rock

KELO-TV, 11, Sioux Falls, SD

KSFY-TV, 13, Sioux Falls, SD (formerly KSOO)

KCAU-TV, 9, Sioux City, IA

Roseau

KNRR, 12, Pembina, ND (formerly KCND)

WDAZ-TV, 8, Devils Lake, ND

CBWT, 6, Canada

CKY, 7, Canada (CKY) (formerly CJAY)

St. Louis

KDLH, 3, Duluth, MN (formerly KDAL)

KBJR-TV, 6, Duluth, MN (formerly WDSM)

WDIO-TV, 10, Duluth, MN

Scott

WCCO-TV, 4, Minneapolis, MN

KSTP-TV, 5, St. Paul, MN

KMSP-TV, 9, Minneapolis, MN

KARE, 11, Minneapolis, MN (formerly WTCN)

+KLGT, 23, Minneapolis, MN (formerly KTMA)

+WFTC, 29, Minneapolis, MN (formerly KITN)

+KPXM, 41, St. Cloud, MN (formerly KXLI)

Sherburne

WCCO-TV, 4, Minneapolis, MN

KSTP-TV, 5, St. Paul, MN

KMSP-TV, 9, Minneapolis, MN

KARE, 11, Minneapolis, MN (formerly WTCN)

+KLGT, 23, Minneapolis, MN (formerly KTMA)

+WFTC, 29, Minneapolis, MN (formerly KITN)

+KPXM, 41, St.Cloud, MN (formerly KXLI)

Sibley

WCCO-TV, 4, Minneapolis, MN

KSTP-TV, 5, St. Paul, MN

KMSP-TV, 9, Minneapolis, MN

KARE, 11, Minneapolis, MN (formerly WTCN)

+WFTC, 29, Minneapolis, MN (formerly KITN)

KEYC-TV, 12, Mankato, MN

Stearns

WCCO-TV, 4, Minneapolis, MN

KSTP-TV, 5, St. Paul, MN

KMSP-TV, 9, Minneapolis, MN

KARE, 11, Minneapolis, MN (formerly WTCN)

+WFTC, 29, Minneapolis, MN (formerly KITN)

+KPXM, 41, St. Cloud, MN (formerly KXLI)

KCCO-TV, 7, Alexandria, MN (formerly KCMT)

Steele

KIMT, 3, Mason City, IA (formerly KGLO)

KAAL, 6, Austin, MN (formerly KAUS)

KTTC, 10, Rochester, MN (formerly KROC)

KEYC-TV, 12, Mankato, MN

WCCO-TV, 4, Minneapolis, MN

KSTP-TV, 5, St. Paul, MN

KMSP-TV, 9, Minneapolis, MN

KARE, 11, Minneapolis, MN (formerly WTCN)

Stevens

KCCO-TV, 7, Alexandria, MN (formerly KCMT)

KELO-TV, 11, Sioux Falls, SD

Swift

KCCO-TV, 7, Alexandria, MN (formerly KCMT)

Todd

KCCO-TV, 7, Alexandria, MN (formerly KCMT)

+KSAX, 42, Alexandria, MN

+KPXM, 41, St. Cloud, MN (formerly KXLI)

Traverse

KCCO-TV, 7, Alexandria, MN (formerly KCMT)

KXJB-TV, 4, Valley City, ND

KELO-TV, 11, Sioux Falls, SD

Wabasha

WCCO-TV, 4, Minneapolis, MN

KSTP-TV, 5, St. Paul, MN

KMSP-TV, 9, Minneapolis, MN

KARE, 11, Minneapolis, MN (formerly WTCN)

WKBT, 8, La Crosse, WI

WEAU-TV, 13, Eau Claire, WI

KAAL, 6, Austin, MN (formerly KAUS)

KTTC, 10, Rochester, MN (formerly KROC)

Wadena

KCCO-TV, 7, Alexandria, MN (formerly KCMT)

KCCW-TV, 12, Walker, MN (formerly KNMT)

+KSAX, 42, Alexandria, MN

Waseca

WCCO-TV, 4, Minneapolis, MN

KSTP-TV, 5, St. Paul, MN

KMSP-TV, 9, Minneapolis, MN

KARE, 11, Minneapolis, MN (formerly WTCN)

KEYC-TV, 12, Mankato, MN

KIMT, 3, Mason City, IA (formerly KGLO)

KAAL, 6, Austin, MN (formerly KAUS)

KTTC, 10, Rochester, MN (formerly KROC)

Washington

WCCO-TV, 4, Minneapolis, MN

KSTP-TV, 5, St. Paul, MN

KMSP-TV, 9, Minneapolis, MN

KARE, 11, Minneapolis, MN (formerly WTCN)

+KLGT, 23, Minneapolis, MN (formerly KTMA)

+KPXM, 41, St. Cloud, MN (formerly KXLI)

Watonwan

KEYC-TV, 12, Mankato, MN

WCCO-TV, 4, Minneapolis, MN

KSTP-TV, 5, St. Paul, MN

KARE, 11, Minneapolis, MN (formerly WTCN)

+WFTC, 29, Minneapolis, MN (formerly KITN)

KAAL, 6, Austin, MN (formerly KAUS)

Wilkin

KXJB-TV, 4, Valley City, ND

WDAY-TV, 6, Fargo, ND

KVLY-TV, 11, Fargo, ND (formerly KTHI)

Winona

WKBT, 8, La Crosse, WI

+WLAX, 25, La Crosse, WI

KAAL, 6, Austin, MN (formerly KAUS)

KTTC, 10, Rochester, MN (formerly KROC)

Wright

WCCO-TV, 4, Minneapolis, MN

KSTP-TV, 5, St. Paul, MN

KMSP-TV, 9, Minneapolis, MN

KARE, 11, Minneapolis, MN (formerly WTCN)

+KLGT, 23, Minneapolis, MN (formerly KTMA)

+WFTC, 29, Minneapolis, MN (formerly KITN)

+KPXM, 41, St. Cloud, MN (formerly KXLI)

Yellow Medicine

WCCO-TV, 4, Minneapolis, MN

KMSP-TV, 9, Minneapolis, MN

KARE, 11, Minneapolis, MN (formerly WTCN)

KCCO-TV, 7, Alexandria, MN (formerly KCMT)

KELO-TV, 11, Sioux Falls, SD

Byron—#KSTP-TV,²⁰ KMSP-TV, WCCO-TV, KARE

²⁰ Affected communities are Byron, Eyota, Rochester and Stewartville, MN located in Olmsted County, MN.

Cascade—KSTP-TV, KMSP-TV, WCCO-TV

Eyota—#KSTP-TV, KMSP-TV, WCCO-TV, KARE

Haverhill—KSTP-TV, KMSP-TV, WCCO-TV

Kasson—KSTP-TV, KMSP-TV, WCCO-TV, KARE

Marion—KSTP-TV, KMSP-TV, WCCO-TV

Oronoco—KSTP-TV, KMSP-TV, WCCO-TV

Rochester—#KSTP-TV, KMSP-TV, WCCO-TV

Rochester Township—KSTP-TV, KMSP-TV, WCCO-TV

Stewartville—#KSTP-TV, KMSP-TV, WCCO-TV

Mississippi

Adams

KNOE-TV, 8, Monroe, LA

KALB-TV, 5, Alexandria, LA

WLBT-TV, 3, Jackson, MS

WJTV, 12, Jackson, MS

Alcorn

WREG-TV, 3, Memphis, TN (formerly WREC)

WMC-TV, 5, Memphis, TN

WHBQ-TV, 13, Memphis, TN

+WPTY-TV, 24, Memphis, TN

Amite

WBRZ, 2, Baton Rouge, LA

WAFB, 9, Baton Rouge, LA

WLBT-TV, 3, Jackson, MS

Attala

WLBT-TV, 3, Jackson, MS

WJTV, 12, Jackson, MS

WABG-TV, 6, Greenwood, MS

Benton

WREG-TV, 3, Memphis, TN (formerly WREC)

WMC-TV, 5, Memphis, TN

WHBQ-TV, 13, Memphis, TN

Bolivar

WABG-TV, 6, Greenwood, MS

WLBT-TV, 3, Jackson, MS

WREG-TV, 3, Memphis, TN (formerly WREC)

WMC-TV, 5, Memphis, TN

Calhoun

WREG-TV, 3, Memphis, TN (formerly WREC)

WMC-TV, 5, Memphis, TN

WCBI-TV, 4, Columbus, MS

WABG-TV, 6, Greenwood, MS

+WTVA, 9, Tupelo, MS

Carroll

WABG-TV, 6, Greenwood, MS

WLBT-TV, 3, Jackson, MS

WJTV, 12, Jackson, MS

+WTVA, 9, Tupelo, MS

Chickasaw

WCBI-TV, 4, Columbus, MS

WMC-TV, 5, Memphis, TN

WTVA, 9, Tupelo, MS (formerly WTWV)

Choctaw

WCBI-TV, 4, Columbus, MS

WABG-TV, 6, Greenwood, MS

WLBT-TV, 3, Jackson, MS

WJTV, 12, Jackson, MS

Claiborne

WLBT-TV, 3, Jackson, MS

WJTV, 12, Jackson, MS

Clarke

WTOK-TV, 11, Meridian, MS

WDAM-TV, 7, Laurel, MS

Clay

WCBI-TV, 4, Columbus, MS

+WTVA, 9, Tupelo, MS

Coahoma

WREG-TV, 3, Memphis, TN (formerly WREC)

WMC-TV, 5, Memphis, TN

WHBQ-TV, 13, Memphis, TN

Copiah

WLBT-TV, 3, Jackson, MS

WJTV, 12, Jackson, MS

WAPT, 16, Jackson, MS

+WDBD, 40, Jackson, MS

Covington

WDAM-TV, 7, Laurel, MS

+WHLT, 22, Hattiesburg, MS

WLOX-TV, 13, Biloxi, MS

+WXXV-TV, 25, Gulfport, MS

WLBT-TV, 3, Jackson, MS

WJTV, 12, Jackson, MS

De Soto

WREG-TV, 3, Memphis, TN (formerly WREC)

WMC-TV, 5, Memphis, TN

WHBQ-TV, 13, Memphis, TN

+WLMT, 30, Memphis, TN

Forrest

WDAM-TV, 7, Laurel, MS

+WHLT, 22, Hattiesburg, MS

WLOX-TV, 13, Biloxi, MS

+WXXV-TV, 25, Gulfport, MS

Franklin

WLBT-TV, 3, Jackson, MS

WJTV, 12, Jackson, MS

WBRZ, 2, Baton Rouge, LA

George

WEAR-TV, 3, Pensacola, FL

WKRG-TV, 5, Mobile, AL

WALA-TV, 10, Mobile, AL

+WPMI, 15, Mobile, AL

WLOX-TV, 13, Biloxi, MS

+WXXV-TV, 25, Gulfport, MS

Greene

WEAR-TV, 3, Pensacola, FL

WKRG-TV, 5, Mobile, AL

WALA-TV, 10, Mobile, AL

WLOX-TV, 13, Biloxi, MS

WDAM-TV, 7, Laurel, MS

Grenada

WABG-TV, 6, Greenwood, MS

WREG-TV, 3, Memphis, TN (formerly WREC)

WMC-TV, 5, Memphis, TN

+WTVA, 9, Tupelo, MS

Hancock

WWL-TV, 4, New Orleans, LA

WDSU, 6, New Orleans, LA

WVUE, 8, New Orleans, LA

+WGNO, 26, New Orleans, LA

+WNOL-TV, 38, New Orleans, LA

WLOX-TV, 13, Biloxi, MS

+WXXV-TV, 25, Gulfport, MS

Harrison

WLOX-TV, 13, Biloxi, MS

+WXXV-TV, 25, Gulfport, MS

WKRG-TV, 5, Mobile, AL

WWL-TV, 4, New Orleans, LA

WDSU, 6, New Orleans, LA

WVUE, 8, New Orleans, LA

+WGNO, 26, New Orleans, LA

+WNOL-TV, 38, New Orleans, LA

Hinds

WLBT-TV, 3, Jackson, MS

WJTV, 12, Jackson, MS

WAPT, 16, Jackson, MS

+WDBD, 40, Jackson, MS

Holmes

WLBT-TV, 3, Jackson, MS

WJTV, 12, Jackson, MS

+WDBD, 40, Jackson, MS

WABG-TV, 6, Greenwood, MS

Humphreys

WLBT-TV, 3, Jackson, MS

WJTV, 12, Jackson, MS

+WDBD, 40, Jackson, MS

WABG-TV, 6, Greenwood, MS

+WXVT, 15, Greenville, MS

Issaquena

WLBT-TV, 3, Jackson, MS

WJTV, 12, Jackson, MS

WABG-TV, 6, Greenwood, MS

KNOE-TV, 8, Monroe, LA

Itawamba

WTVA, 9, Tupelo, MS (formerly WTWV)

+WLOV-TV, 27, Tupelo, MS

WCBI-TV, 4, Columbus, MS

Jackson

WEAR-TV, 3, Pensacola, FL

WKRG-TV, 5, Mobile, AL

WALA-TV, 10, Mobile, AL

+WPMI, 15, Mobile, AL

WLOX-TV, 13, Biloxi, MS

+WXXV-TV, 25, Gulfport, MS

Jasper

WDAM-TV, 7, Laurel, MS

+WHLT, 22, Hattiesburg, MS

WLBT-TV, 3, Jackson, MS

WJTV, 12, Jackson, MS

WTOK-TV, 11, Meridian, MS

Jefferson

WLBT-TV, 3, Jackson, MS

WJTV, 12, Jackson, MS

KNOE-TV, 8, Monroe, LA

Jefferson Davis

WLBT-TV, 3, Jackson, MS

WJTV, 12, Jackson, MS

WDAM-TV, 7, Laurel, MS

Jones

WDAM-TV, 7, Laurel, MS

+WHLT, 22, Hattiesburg, MS

WLOX-TV, 13, Biloxi, MS

+WXXV-TV, 25, Gulfport, MS

WTOK-TV, 11, Meridian, MS

Kemper

WTOK-TV, 11, Meridian, MS

Lafayette

WREG-TV, 3, Memphis, TN (formerly WREC)

WMC-TV, 5, Memphis, TN

WHBQ-TV, 13, Memphis, TN

Lamar

WDAM-TV, 7, Laurel, MS

+WHLT, 22, Hattiesburg, MS

WLOX-TV, 13, Biloxi, MS

+WXXV-TV, 25, Gulfport, MS

Lauderdale

WTOK-TV, 11, Meridian, MS

Lawrence

WLBT-TV, 3, Jackson, MS

WJTV, 12, Jackson, MS

WAPT, 16, Jackson, MS

Leake

WLBT-TV, 3, Jackson, MS

WJTV, 12, Jackson, MS

+WDBD, 40, Jackson, MS

Lee

WTVA, 9, Tupelo, MS (formerly WTWV)

+WLOV-TV, 27, Tupelo, MS

WCBI-TV, 4, Columbus, MS

WREG-TV, 3, Memphis, TN (formerly WREC)

WMC-TV, 5, Memphis, TN

WHBQ-TV, 13, Memphis, TN

Leflore

WABG-TV, 6, Greenwood, MS

+WXVT, 15, Greenville, MS

WLBT-TV, 3, Jackson, MS

WJTV, 12, Jackson, MS

+WTVA, 9, Tupelo, MS

Lincoln

WLBT-TV, 3, Jackson, MS

WJTV, 12, Jackson, MS

+WDBD, 40, Jackson, MS

Lowndes

WCBI-TV, 4, Columbus, MS

+WTVA, 9, Tupelo, MS

+WLOV-TV, 27, Tupelo, MS

Madison

WLBT-TV, 3, Jackson, MS

WJTV, 12, Jackson, MS

WAPT, 16, Jackson, MS

+WDBD, 40, Jackson, MS

Marion

WLBT-TV, 3, Jackson, MS

WJTV, 12, Jackson, MS

WLOX-TV, 13, Biloxi, MS

+WXXV-TV, 25, Gulfport, MS

WDAM-TV, 7, Laurel, MS

Marshall

WREG-TV, 3, Memphis, TN (formerly WREC)

WMC-TV, 5, Memphis, TN

WHBQ-TV, 13, Memphis, TN

Monroe

WCBI-TV, 4, Columbus, MS

WTVA, 9, Tupelo, MS (formerly WTWV)

+WLOV-TV, 27, Tupelo, MS

Montgomery

WABG-TV, 6, Greenwood, MS

WCBI-TV, 4, Columbus, MS

+WTVA, 9, Tupelo, MS

WLBT-TV, 3, Jackson, MS

WJTV, 12, Jackson, MS

WMC-TV, 5, Memphis, TN

Neshoba

WTOK-TV, 11, Meridian, MS

WLBT-TV, 3, Jackson, MS

Newton

WTOK-TV, 11, Meridian, MS

WLBT-TV, 3, Jackson, MS

WJTV, 12, Jackson, MS

Noxubee

WTOK-TV, 11, Meridian, MS

WCBI-TV, 4, Columbus, MS

+WLOV-TV, 27, Tupelo, MS

Oktibbeha

WCBI-TV, 4, Columbus, MS

+WTVA, 9, Tupelo, MS

+WLOV-TV, 27, Tupelo, MS

+WDBB, 17, Bessemer, AL

Panola

WREG-TV, 3, Memphis, TN (formerly WREC)

WMC-TV, 5, Memphis, TN

WHBQ-TV, 13, Memphis, TN

+WLMT, 30, Memphis, TN

Pearl River

WWL-TV, 4, New Orleans, LA

WDSU, 6, New Orleans, LA

WVUE, 8, New Orleans, LA

+WGNO, 26, New Orleans, LA

+WNOL-TV, 38, New Orleans, LA

WLOX-TV, 13, Biloxi, MS

+WXXV-TV, 25, Gulfport, MS

Perry

WDAM-TV, 7, Laurel, MS

+WHLT, 22, Hattiesburg, MS

WLOX-TV, 13, Biloxi, MS

WKRG-TV, 5, Pensacola, FL

Pike

WLBT-TV, 3, Jackson, MS

WJTV, 12, Jackson, MS

WBRZ, 2, Baton Rouge, LA

WAFB, 9, Baton Rouge, LA

WWL-TV, 4, New Orleans, LA

Pontotoc

WREG-TV, 3, Memphis, TN (formerly WREC)

WMC-TV, 5, Memphis, TN

WHBQ-TV, 13, Memphis, TN

WTVA, 9, Tupelo, MS (formerly WTWV)

+WLOV-TV, 27, Tupelo, MS

Prentiss

WREG-TV, 3, Memphis, TN (formerly WREC)

WMC-TV, 5, Memphis, TN

WHBQ-TV, 13, Memphis, TN

WTVA, 9, Tupelo, MS (formerly WTWV)

Quitman

WREG-TV, 3, Memphis, TN (formerly WREC)

WMC-TV, 5, Memphis, TN

WHBQ-TV, 13, Memphis, TN

+WPTY, 24, Memphis, TN

Rankin

WLBT-TV, 3, Jackson, MS

WJTV, 12, Jackson, MS

WAPT, 16, Jackson, MS

+WDBD, 40, Jackson, MS

Scott

WLBT-TV, 3, Jackson, MS

WJTV, 12, Jackson, MS

+WDBD, 40, Jackson, MS

WTOK-TV, 11, Meridian, MS

Sharkey

WLBT-TV, 3, Jackson, MS

WJTV, 12, Jackson, MS

WABG-TV, 6, Greenwood, MS

Simpson

WLBT-TV, 3, Jackson, MS

WJTV, 12, Jackson, MS

WAPT, 16, Jackson, MS

+WDBD, 40, Jackson, MS

Smith

WLBT-TV, 3, Jackson, MS

WJTV, 12, Jackson, MS

WDAM-TV, 7, Laurel, MS

Stone

WLOX-TV, 13, Biloxi, MS

+WXXV-TV, 25, Gulfport, MS

WDAM-TV, 7, Laurel, MS

WKRG-TV, 5, Pensacola, FL

WWL-TV, 4, New Orleans, LA

WDSU, 6, New Orleans, LA

Sunflower

WABG-TV, 6, Greenwood, MS

+WXVT, 15, Greenville, MS

WLBT-TV, 3, Jackson, MS

WJTV, 12, Jackson, MS

Tallahatchie

WABG-TV, 6, Greenwood, MS

+WXVT, 15, Greenville, MS

WREG-TV, 3, Memphis, TN (formerly WREC)

WMC-TV, 5, Memphis, TN

WHBQ-TV, 13, Memphis, TN

Tate

WREG-TV, 3, Memphis, TN (formerly WREC)

WMC-TV, 5, Memphis, TN

WHBQ-TV, 13, Memphis, TN

Tippah

WREG-TV, 3, Memphis, TN (formerly WREC)

WMC-TV, 5, Memphis, TN

WHBQ-TV, 13, Memphis, TN

Tishomingo

WTVA, 9, Tupelo, MS (formerly WTWV)

WREG-TV, 3, Memphis, TN (formerly WREC)

WMC-TV, 5, Memphis, TN

WHBQ-TV, 13, Memphis, TN

Tunica

WREG-TV, 3, Memphis, TN (formerly WREC)

WMC-TV, 5, Memphis, TN

WHBQ-TV, 13, Memphis, TN

Union

WREG-TV, 3, Memphis, TN (formerly WREC)

WMC-TV, 5, Memphis, TN

WHBQ-TV, 13, Memphis, TN

+WTVA, 9, Tupelo, MS

+WLOV-TV, 27, Tupelo, MS

Walthall

WLBT-TV, 3, Jackson, MS

WJTV, 12, Jackson, MS

WLOX-TV, 13, Biloxi, MS

WDAM-TV, 7, Laurel, MS

WWL-TV, 4, New Orleans, LA

WDSU, 6, New Orleans, LA

Warren

WLBT-TV, 3, Jackson, MS

WJTV, 12, Jackson, MS

+WDBD, 40, Jackson, MS

KNOE-TV, 8, Monroe, LA

Washington

WLBT-TV, 3, Jackson, MS

WJTV, 12, Jackson, MS

KTVE, 10, Monroe, LA

WABG-TV, 6, Greenwood, MS

+WXVT, 15, Greenville, MS

Wayne

WDAM-TV, 7, Laurel, MS

+WHLT, 22, Hattiesburg, MS

WLOX-TV, 13, Biloxi, MS

+WXXV-TV, 25, Gulfport, MS

WTOK-TV, 11, Meridian, MS

WEAR-TV, 3, Mobile, AL

WKRG-TV, 5, Pensacola, FL

Webster

WCBI-TV, 4, Columbus, MS

WABG-TV, 6, Greenwood, MS

WLBT-TV, 3, Jackson, MS

+WTVA, 9, Tupelo, MS

Wilkinson

WBRZ, 2, Baton Rouge, LA

WAFB, 9, Baton Rouge, LA

+WGMB, 44, Baton Rouge, LA

Winston

WTOK-TV, 11, Meridian, MS

WCBI-TV, 4, Columbus, MS

+WTVA, 9, Tupelo, MS

WLBT-TV, 3, Jackson, MS

Yalobusha

WREG-TV, 3, Memphis, TN (formerly WREC)

WMC-TV, 5, Memphis, TN

WHBQ-TV, 13, Memphis, TN

WABG-TV, 6, Greenwood, MS

+WTVA, 9, Tupelo, MS

Yazoo

WLBT-TV, 3, Jackson, MS

WJTV, 12, Jackson, MS

+WDBD, 40, Jackson, MS

WABG-TV, 6, Greenwood, MS

Missouri

Adair

KTVO, 3, Ottumwa, IA

+KYOU-TV, 15, Ottumwa, IA

KHQA-TV, 7, Hannibal, MO

WGEM-TV, 10, Quincy, IL

Andrew

WDAF-TV, 4, Kansas City, MO

KCTV, 5, Kansas City, MO (formerly KCMO)

KMBC-TV, 9, Kansas City, MO

+KCWE, 29, Kansas City, MO

KQTV, 2, St. Joseph, MO

Atchison

KMTV, 3, Omaha, NE

WOWT, 6, Omaha, NE (formerly WOW)

KETV, 7, Omaha, NE

+KPTM, 42, Omaha, NE

KQTV, 2, St. Joseph, MO

Audrain

KOMU-TV, 8, Columbia, MO

KRCG, 13, Jefferson City, MO

KHQA-TV, 7, Hannibal, MO

WGEM-TV, 10, Quincy, IL

Barry

KYTV, 3, Springfield, MO

KOLR, 10, Springfield, MO (formerly KTTS)

+KSPR, 33, Springfield, MO

KOAM-TV, 7, Pittsburg, KS

KODE-TV, 12, Joplin, MO

Barton

KOAM-TV, 7, Pittsburg, KS

KODE-TV, 12, Joplin, MO

KSNF, 16, Joplin, MO (formerly KUHI)

Bates

WDAF-TV, 4, Kansas City, MO

KCTV, 5, Kansas City, MO (formerly KCMO)

KMBC-TV, 9, Kansas City, MO

Benton

KMOS-TV, 6, Sedalia, MO

KCTV, 5, Kansas City, MO (formerly KCMO)

KMBC-TV, 9, Kansas City, MO

KYTV, 3, Springfield, MO

+KOLR, 10, Springfield, MO

Bollinger

WPSD-TV, 6, Paducah, KY

KFVS-TV, 12, Cape Girardeau, MO

+KBSI, 23, Cape Girardeau, MO

Boone

KOMU-TV, 8, Columbia, MO

KRCG, 13, Jefferson City, MO

Buchanan

KQTV, 2, St. Joseph, MO

WDAF-TV, 4, Kansas City, MO

KCTV, 5, Kansas City, MO (formerly KCMO)

KMBC-TV, 9, Kansas City, MO

+KCWE, 29, Kansas City, MO

+KSMO-TV, 62, Kansas City, MO (formerly KZKC)

Butler

WSIL-TV, 3, Harrisburg, IL

WPSD-TV, 6, Paducah, KY

KFVS-TV, 12, Cape Girardeau, MO

+KBSI, 23, Cape Girardeau, MO

+KAIT-TV, 8, Jonesboro, AR

Caldwell

WDAF-TV, 4, Kansas City, MO

KCTV, 5, Kansas City, MO (formerly KCMO)

KMBC-TV, 9, Kansas City, MO

+KSMO-TV, 62, Kansas City, MO

KQTV, 2, St. Joseph, MO

Callaway

KOMU-TV, 8, Columbia, MO

KRCG, 13, Jefferson City, MO

Camden

KYTV, 3, Springfield, MO

KOLR, 10, Springfield, MO (formerly KTTS)

KDEB-TV, 27, Springfield, MO (formerly KMTC)

KOMU-TV, 8, Columbia, MO

KRCG, 13, Jefferson City, MO

Cape Girardeau

WSIL-TV, 3, Harrisburg, IL

WPSD-TV, 6, Paducah, KY

KFVS-TV, 12, Cape Girardeau, MO

+KBSI, 23, Cape Girardeau, MO

Carroll

WDAF-TV, 4, Kansas City, MO

KCTV, 5, Kansas City, MO (formerly KCMO)

KMBC-TV, 9, Kansas City, MO

+KSMO-TV, 62, Kansas City, MO (formerly KZKC)

Carter

WPSD-TV, 6, Paducah, KY

KFVS-TV, 12, Cape Girardeau, MO

KAIT-TV, 8, Jonesboro, AR

Cass

WDAF-TV, 4, Kansas City, MO

KCTV, 5, Kansas City, MO (formerly KCMO)

KMBC-TV, 9, Kansas City, MO

KPXE, 50, Kansas City, MO (formerly KCIT-TV)

+KSMO-TV, 62, Kansas City, MO (formerly KZKC)

Cedar

KYTV, 3, Springfield, MO

KOLR, 10, Springfield, MO (formerly KTTS)

KOAM-TV, 7, Pittsburg, KS

KODE-TV, 12, Joplin, MO

Chariton

KOMU-TV, 8, Columbia, MO

KRCG, 13, Jefferson City, MO

WDAF-TV, 4 Kansas City, MO

KCTV, 5, Kansas City, MO (formerly KCMO)

KMBC-TV, 9, Kansas City, MO

Christian

KYTV, 3, Springfield, MO

KOLR, 10, Springfield, MO (formerly KTTS)

KDEB-TV, 27, Springfield, MO (formerly KMTC)

+KSPR, 33, Springfield, MO

Clark

KTVO, 3, Ottumwa, IA

+KYOU, 15, Ottumwa, IA

KHQA-TV, 7, Hannibal, MO

WGEM-TV, 10, Quincy, IL

Clay

WDAF-TV, 4, Kansas City, MO

KCTV, 5, Kansas City, MO (formerly KCMO)

KMBC-TV, 9, Kansas City, MO

KSHB-TV, 41, Kansas City, MO (formerly KBMA)

KPXE, 50, Kansas City, MO (formerly KCIT-TV)

+KSMO-TV, 62, Kansas City, MO (formerly KZKC)

Clinton

WDAF-TV, 4, Kansas City, MO

KCTV, 5, Kansas City, MO (formerly KCMO)

KMBC-TV, 9, Kansas City, MO

KPXE, 50, Kansas City, MO (formerly KCIT-TV)

+KSMO-TV, 62, Kansas City, MO (formerly KZKC)

KQTV, 2, St. Joseph, MO

Cole

KOMU-TV, 8, Columbia, MO

KRCG, 13, Jefferson City, MO

Cooper

KOMU-TV, 8, Columbia, MO

KRCG, 13, Jefferson City, MO

Crawford

KTVI, 2, St. Louis, MO

KMOV, 4, St. Louis, MO (formerly KMOX)

KSDK, 5, St. Louis, MO (formerly KSD)

KPLR-TV, 11, St. Louis, MO

KRCG, 13, Jefferson City, MO

Dade

KYTV, 3, Springfield, MO

KOLR, 10, Springfield, MO (formerly KTTS)

KOAM-TV, 7, Pittsburg, KS

KODE-TV, 12, Joplin, MO

Dallas

KYTV, 3, Springfield, MO

KOLR, 10, Springfield, MO (formerly KTTS)

KDEB-TV, 27, Springfield, MO (formerly KMTC)

Daviess

WDAF-TV, 4, Kansas City, MO

KCTV, 5, Kansas City, MO (formerly KCMO)

KMBC-TV, 9, Kansas City, MO

KQTV, 2, St. Joseph, MO

De Kalb

WDAF-TV, 4, Kansas City, MO

KCTV, 5, Kansas City, MO (formerly KCMO)

KMBC-TV, 9, Kansas City, MO

+KSMO-TV, 62, Kansas City, MO

KQTV, 2, St. Joseph, MO

Dent

KTVI, 2, St. Louis, MO

KMOV, 4, St. Louis, MO (formerly KMOX)

KSDK, 5, St. Louis, MO (formerly KSD)

KPLR-TV, 11, St. Louis, MO

KDNL-TV, 30, St. Louis, MO

KRCG, 13, Jefferson City, MO

KYTV, 3, Springfield, MO

+KSPR, 33, Springfield, MO

Douglas

KYTV, 3, Springfield, MO

KOLR, 10, Springfield, MO (formerly KTTS)

KDEB-TV, 27, Springfield, MO (formerly KMTC)

Dunklin

WREG-TV, 3, Memphis, TN (formerly WREC)

WMC-TV, 5, Memphis, TN

WHBQ-TV, 13, Memphis, TN

KAIT-TV, 8, Jonesboro, AR

WPSD-TV, 6, Paducah, KY

KFVS-TV, 12, Cape Girardeau, MO

+KBSI, 23, Cape Girardeau, MO

Franklin

KTVI, 2, St. Louis, MO

KMOV, 4, St. Louis, MO (formerly KMOX)

KSDK, 5, St. Louis, MO (formerly KSD)

KPLR-TV, 11, St. Louis, MO

KDNL-TV, 30, St. Louis, MO

Gasconade

KTVI, 2, St. Louis, MO

KMOV, 4, St. Louis, MO (formerly KMOX)

KSDK, 5, St. Louis, MO (formerly KSD)

KPLR-TV, 11, St. Louis, MO

KRCG, 13, Jefferson City, MO

Gentry

KQTV, 2, St. Joseph, MO

WDAF-TV, 4, Kansas City, MO

KCTV, 5, Kansas City, MO (formerly KCMO)

KMBC-TV, 9, Kansas City, MO

Greene

KYTV, 3, Springfield, MO

KOLR, 10, Springfield, MO (formerly KTTS)

KDEB-TV, 27, Springfield, MO (formerly KMTC)

+KSPR, 33, Springfield, MO

Grundy

WDAF-TV, 4, Kansas City, MO

KCTV, 5, Kansas City, MO (formerly KCMO)

KMBC-TV, 9, Kansas City, MO

KTVO, 3, Ottumwa, IA

KQTV, 2, St. Joseph, MO

Harrison

KQTV, 2, St. Joseph, MO

WDAF-TV, 4, Kansas City, MO

KCTV, 5, Kansas City, MO (formerly KCMO)

Henry

WDAF-TV, 4, Kansas City, MO

KCTV, 5, Kansas City, MO (formerly KCMO)

KMBC-TV, 9, Kansas City, MO

+KSMO-TV, 62, Kansas City, MO

Hickory

KYTV, 3, Springfield, MO

KOLR, 10, Springfield, MO (formerly KTTS)

KDEB-TV, 27, Springfield, MO (formerly KMTC)

Holt

KQTV, 2, St. Joseph, MO

WDAF-TV, 4, Kansas City, MO

KCTV, 5, Kansas City, MO (formerly KCMO)

KMBC-TV, 9, Kansas City, MO

Howard

KOMU-TV, 8, Columbia, MO

KRCG, 13, Jefferson City, MO

Howell

KYTV, 3, Springfield, MO

+KOLR, 10, Springfield, MO

KDEB-TV, 27, Springfield, MO (formerly KMTC)

+KSPR, 33, Springfield, MO

Iron

KTVI, 2, St. Louis, MO

KMOV, 4, St. Louis, MO (formerly KMOX)

KSDK, 5, St. Louis, MO (formerly KSD)

KPLR-TV, 11, St. Louis, MO

KFVS-TV, 12, Cape Girardeau, MO

Jackson

WDAF-TV, 4, Kansas City, MO

KCTV, 5, Kansas City, MO (formerly KCMO)

KMBC-TV, 9, Kansas City, MO

KSHB-TV, 41, Kansas City, MO (formerly KBMA)

KPXE, 50, Kansas City, MO (formerly KCIT-TV)

+KSMO-TV, 62, Kansas City, MO (formerly KZKC)

Jasper

KOAM-TV, 7, Pittsburg, KS

KODE-TV, 12, Joplin, MO

KSNF, 16, Joplin, MO (formerly KUHI)

Jefferson

KTVI, 2, St. Louis, MO

KMOV, 4, St. Louis, MO (formerly KMOX)

KSDK, 5, St. Louis, MO (formerly KSD)

KPLR-TV, 11, St. Louis, MO

KDNL-TV, 30, St. Louis, MO

Johnson

WDAF-TV, 4, Kansas City, MO

KCTV, 5, Kansas City, MO (formerly KCMO)

KMBC-TV, 9, Kansas City, MO

+KSMO-TV, 62, Kansas City, MO (formerly KZKC)

Knox

KHQA-TV, 7, Hannibal, MO

WGEM-TV, 10, Quincy, IL

KTVO, 3, Ottumwa, IA

Laclede

KYTV, 3, Springfield, MO

KOLR, 10, Springfield, MO (formerly KTTS)

KDEB-TV, 27, Springfield, MO (formerly KMTC)

+KSPR, 33, Springfield, MO

Lafayette

WDAF-TV, 4, Kansas City, MO

KCTV, 5, Kansas City, MO (formerly KCMO)

KMBC-TV, 9, Kansas City, MO

KCIT-TV, 50, Kansas City, MO

+KSMO-TV, 62, Kansas City, MO (formerly KZKC)

Lawrence

KYTV, 3, Springfield, MO

KOLR, 10, Springfield, MO (formerly KTTS)

+KSPR, 33, Springfield, MO

KOAM-TV, 7, Pittsburg, KS

KODE-TV, 12, Joplin, MO

Lewis

KHQA-TV, 7, Hannibal, MO

WGEM-TV, 10, Quincy, IL

KTVO, 3, Ottumwa, IA

Lincoln

KTVI, 2, St. Louis, MO

KMOV, 4, St. Louis, MO (formerly KMOX)

KSDK, 5, St. Louis, MO (formerly KSD)

KPLR-TV, 11, St. Louis, MO

Linn

WDAF-TV, 4, Kansas City, MO

KCTV, 5, Kansas City, MO (formerly KCMO)

KMBC-TV, 9, Kansas City, MO

KTVO, 3, Ottumwa, IA

Livingston

WDAF-TV, 4, Kansas City, MO

KCTV, 5, Kansas City, MO (formerly KCMO)

KMBC-TV, 9, Kansas City, MO

KQTV, 2, St. Joseph, MO

McDonald

KOAM-TV, 7, Pittsburg, KS

KODE-TV, 12, Joplin, MO

KSNF, 16, Joplin, MO (formerly KUHI)

Macon

KHQA-TV, 7, Hannibal, MO

WGEM-TV, 10, Quincy, IL

KOMU-TV, 8, Columbia, MO

KTVO, 3, Ottumwa, IA

Madison

KTVI, 2, St. Louis, MO

KMOV, 4, St. Louis, MO (formerly KMOX)

KSDK, 5, St. Louis, MO (formerly KSD)

KPLR-TV, 11, St. Louis, MO

KFVS-TV, 12, Cape Girardeau, MO

Maries

KOMU-TV, 8, Columbia, MO

KRCG, 13, Jefferson City, MO

KTVI, 2, St. Louis, MO

KMOV, 4, St. Louis, MO (formerly KMOX)

KSDK, 5, St. Louis, MO (formerly KSD)

Marion

KHQA-TV, 7, Hannibal, MO

WGEM-TV, 10, Quincy, IL

WJJY-TV, 14, Jacksonville, IL (apparently out of service)

+KTVO, 3, Ottumwa, IA

Mercer

KTVO, 3, Ottumwa, IA

KCCI, 8, Des Moines, IA (formerly KRNT)

WDAF-TV, 4, Kansas City, MO

KCTV, 5, Kansas City, MO (formerly KCMO)

KQTV, 2, St. Joseph, MO

Miller

KOMU-TV, 8, Columbia, MO

KRCG, 13, Jefferson City, MO

Mississippi

WSIL-TV, 3, Harrisburg, IL

WPSD-TV, 6, Paducah, KY

KFVS-TV, 12, Cape Girardeau, MO

+KBSI, 23, Cape Girardeau, MO

Moniteau

KOMU-TV, 8, Columbia, MO

KRCG, 13, Jefferson City, MO

Monroe

KHQA-TV, 7, Hannibal, MO

WGEM-TV, 10, Quincy, IL

KOMU-TV, 8, Columbia, MO

KRCG, 13, Jefferson City, MO

Montgomery

KOMU-TV, 8, Columbia, MO

KRCG, 13, Jefferson City, MO

KTVI, 2, St. Louis, MO

KMOV, 4, St. Louis, MO (formerly KMOX)

KSDK, 5, St. Louis, MO (formerly KSD)

KPLR-TV, 11, St. Louis, MO

KDNL-TV, 30, St. Louis, MO

Morgan

KOMU-TV, 8, Columbia, MO

KRCG, 13, Jefferson City, MO

KYTV, 3, Springfield, MO

New Madrid

WPSD-TV, 6, Paducah, KY

KFVS-TV, 12, Cape Girardeau, MO

+KBSI, 23, Cape Girardeau, MO

+KAIT-TV, 8, Jonesboro, AR

Newton

KOAM-TV, 7, Pittsburg, KS

KODE-TV, 12, Joplin, MO

KSNF, 16, Joplin, MO (formerly KUHI)

Nodaway

KQTV, 2, St. Joseph, MO

WDAF-TV, 4, Kansas City, MO

KCTV, 5, Kansas City, MO (formerly KCMO)

KMTV, 3, Omaha, NE

WOWT, 6, Omaha, NE (formerly WOW)

+KPTM, 42 Omaha, NE

Oregon

KYTV, 3, Springfield, MO

+KOLR, 10, Springfield, MO

KAIT-TV, 8, Jonesboro, AR

Osage

KOMU-TV, 8, Columbia, MO

KRCG, 13, Jefferson City, MO

KTVI, 2, St. Louis, MO

Ozark

KYTV, 3, Springfield, MO

KOLR, 10, Springfield, MO (formerly KTTS)

Pemiscot

WREG-TV, 3, Memphis, TN (formerly WREC)

WMC-TV, 5, Memphis, TN

WHBQ-TV, 13, Memphis, TN

+WPTY-TV, 24, Memphis, TN

KFVS-TV, 12, Cape Girardeau, MO

+KBSI, 23, Cape Girardeau, MO

+KAIT-TV, 8, Jonesboro, AR

Perry

KTVI, 2, St. Louis, MO

KMOV, 4, St. Louis, MO (formerly KMOX)

KSDK, 5, St. Louis, MO (formerly KSD)

KPLR, 11, St. Louis, MO

KFVS-TV, 12, Cape Girardeau, MO

+KBSI, 23, Cape Girardeau, MO

Pettis

KMOS-TV, 6, Sedalia, MO

KOMU-TV, 8, Columbia, MO

WDAF-TV, 4, Kansas City, MO

KCTV, 5, Kansas City, MO (formerly KCMO)

KMBC-TV, 9, Kansas City, MO

Phelps

KOMU-TV, 8, Columbia, MO

KRCG, 13, Jefferson City, MO

KTVI, 2, St. Louis, MO

+KOLR, 10, Springfield, MO

Pike

KHQA-TV, 7, Hannibal, MO

WGEM-TV, 10, Quincy, IL

KTVI, 2, St. Louis, MO

KMOV, 4, St. Louis, MO (formerly KMOX)

KSDK, 5, St. Louis, MO (formerly KSD)

KPLR-TV, 11, St. Louis, MO

Platte

WDAF-TV, 4, Kansas City, MO

KCTV, 5, Kansas City, MO (formerly KCMO)

KMBC-TV, 9, Kansas City, MO

KSHB-TV, 41, Kansas City, MO (formerly KBMA)

KPXE, 50, Kansas City, MO (formerly KCIT-TV)

+KSMO-TV, 62, Kansas City, MO (formerly KZKC)

KQTV, 2, St. Joseph, MO

Polk

KYTV, 3, Springfield, MO

KOLR, 10, Springfield, MO (formerly KTTS)

KDEB-TV, 27, Springfield, MO (formerly KMTC)

Pulaski

KYTV, 3, Springfield, MO

+KOLR, 10, Springfield, MO

+KSPR-TV, 33, Springfield, MO

KOMU-TV, 8, Columbia, MO

KRCG, 13, Jefferson City, MO

Putnam

KTVO, 3, Ottumwa, IA

Ralls

KHQA-TV, 7, Hannibal, MO

WGEM-TV, 10, Quincy, IL

WJJY-TV, 14, Jacksonville, IL (apparently out of service)

Randolph

KOMU-TV, 8, Columbia, MO

KRCG, 13, Jefferson City, MO

Ray

WDAF-TV, 4, Kansas City, MO

KCTV, 5, Kansas City, MO (formerly KCMO)

KMBC-TV, 9, Kansas City, MO

KPXE, 50, Kansas City, MO (formerly KCIT-TV)

Reynolds

KFVS-TV, 12, Cape Girardeau, MO

KTVI, 2, St. Louis, MO

KMOV, 4, St. Louis, MO (formerly KMOX)

KSDK, 5, St. Louis, MO (formerly KSD)

Ripley

WPSD-TV, 6, Paducah, KY

KFVS-TV, 12, Cape Girardeau, MO

KAIT-TV, 8, Jonesboro, AR

St. Charles

KTVI, 2, St. Louis, MO

KMOV, 4, St. Louis, MO (formerly KMOX)

KSDK, 5, St. Louis, MO (formerly KSD)

KPLR-TV, 11, St. Louis, MO

KDNL-TV, 30, St. Louis, MO

St. Clair

WDAF-TV, 4, Kansas City, MO

KCTV, 5, Kansas City, MO (formerly KCMO)

KMBC-TV, 9, Kansas City, MO

KYTV, 3, Springfield, MO

KOLR, 10, Springfield, MO (formerly KTTS)

St. Francois

KTVI, 2, St. Louis, MO

KMOV, 4, St. Louis, MO (formerly KMOX)

KSDK, 5, St. Louis, MO (formerly KSD)

KPLR-TV, 11, St. Louis, MO

St. Louis Including City of St. Louis

KTVI, 2, St. Louis, MO

KMOV, 4, St. Louis, MO (formerly KMOX)

KSDK, 5, St. Louis, MO (formerly KSD)

KPLR-TV, 11, St. Louis, MO

KDNL-TV, 30, St. Louis, MO

Ste. Genevieve

KTVI, 2, St. Louis, MO

KMOV, 4, St. Louis, MO (formerly KMOX)

KSDK, 5, St. Louis, MO (formerly KSD)

KPLR-TV, 11, St. Louis, MO

KDNL-TV, 30, St. Louis, MO

Saline

WDAF-TV, 4, Kansas City, MO

KCTV, 5, Kansas City, MO (formerly KCMO)

KMBC-TV, 9, Kansas City, MO

KMOS-TV, 6, Sedalia, MO

KOMU-TV, 8, Columbia, MO

KRCG, 13, Jefferson City, MO

Schuyler

KTVO, 3, Ottumwa, IA

+KYOU-TV, 15, Ottumwa, IA (formerly KOIA)

KHQA-TV, 7, Hannibal, MO

WGEM-TV, 10, Quincy, IL

Scotland

KHQA-TV, 7, Hannibal, MO

WGEM-TV, 10, Quincy, IL

KTVO, 3, Ottumwa, IA

Scott

WSIL-TV, 3, Harrisburg, IL

WPSD-TV, 6, Paducah, KY

KFVS-TV, 12, Cape Girardeau, MO

+KBSI, 23, Cape Girardeau, MO

Shannon

KYTV, 3, Springfield, MO

Shelby

KHQA-TV, 7, Hannibal, MO

WGEM-TV, 10, Quincy, IL

KTVO, 3, Ottumwa, IA

Stoddard

WPSD-TV, 6, Paducah, KY

KFVS-TV, 12, Cape Girardeau, MO

+KBSI, 23, Cape Girardeau, MO

Stone

KYTV, 3, Springfield, MO

KOLR, 10, Springfield, MO (formerly KTTS)

KDEB-TV, 27, Springfield, MO (formerly KMTC)

+KSPR, 33, Springfield, MO

Sullivan

KTVO, 3, Ottumwa, IA

WGEM-TV, 10, Quincy, IL

Taney

KYTV, 3, Springfield, MO

KOLR, 10, Springfield, MO (formerly KTTS)

KDEB-TV, 27, Springfield, MO (formerly KMTC)

+KSPR, 33, Springfield, MO

Texas

KYTV, 3, Springfield, MO

KOLR, 10, Springfield, MO (formerly KTTS)

KDEB-TV, 27, Springfield, MO (formerly KMTC)

Vernon

KOAM-TV, 7, Pittsburg, KS

KODE-TV, 12, Joplin, MO

KSNF, 16, Joplin, MO (formerly KUHI)

KCTV, 5, Kansas City, MO (KCTV)

+KOLR, 10, Springfield, MO

Warren

KTVI, 2, St. Louis, MO

KMOV, 4, St. Louis, MO (formerly KMOX)

KSDK, 5, St. Louis, MO (formerly KSD)

KPLR-TV, 11, St. Louis, MO

Washington

KTVI, 2, St. Louis, MO

KMOV, 4, St. Louis, MO (formerly KMOX)

KSDK, 5, St. Louis, MO (formerly KSD)

KPLR-TV, 11, St. Louis, MO

Wayne

WPSD-TV, 6, Paducah, KY

KFVS-TV, 12, Cape Girardeau, MO

+KBSI, 23, Cape Girardeau, MO

Webster

KYTV, 3, Springfield, MO

KOLR, 10, Springfield, MO (formerly KTTS)

KDEB-TV, 27, Springfield, MO (formerly KMTC)

Worth

KQTV, 2, St. Joseph, MO

WDAF-TV, 4, Kansas City, MO

KCTV, 5, Kansas City, MO (formerly KCMO)

Wright

KYTV, 3, Springfield, MO

KOLR, 10, Springfield, MO (formerly KTTS)

KDEB-TV, 27, Springfield, MO (formerly KMTC)

Agency—KSHB-TV, KSMO-TV

Country Club—KSHB-TV, KSMO-TV

St. Joseph—KSHB-TV, KSMO-TV

Savannah—KSHB-TV, KSMO-TV

Union Star—KSHB-TV, KSMO-TV

Montana

Beaverhead

KXLF-TV, 4, Butte, MT

KECI-TV, 13, Missoula, MT (formerly KGVO)

Big Horn

KTVQ, 2, Billings, MT (formerly KOOK)

KULR-TV, 8, Billings, MT

Blaine

KRTV, 3, Great Falls, MT

KFBB-TV, 5, Great Falls, MT

CJOC, 7, Canada (formerly CJLH)

Broadwater

KXLF-TV, 4, Butte, MT

KRTV, 3, Great Falls, MT

KFBB-TV, 5, Great Falls, MT

Carbon

KTVQ, 2, Billings, MT (formerly KOOK)

KULR-TV, 8, Billings, MT

Carter

KOTA-TV, 3, Rapid City, SD

KXGN-TV, 5, Glendive, MT

Cascade

KRTV, 3, Great Falls, MT

KFBB-TV, 5, Great Falls, MT

Chouteau

KRTV, 3, Great Falls, MT

KFBB-TV, 5, Great Falls, MT

Custer

KTVQ, 2, Billings, MT (formerly KOOK)

KULR-TV, 8, Billings, MT

KYUS-TV, 3, Miles City, MT

Daniels

KUMV-TV, 8, Williston, ND

KXMD-TV, 11, Williston, ND

CKTV, 2, Canada (formerly CKCK)

Dawson

KXGN-TV, 5, Glendive, MT

KUMV-TV, 8, Williston, ND

Deer Lodge

KXLF-TV, 4, Butte, MT

KECI-TV, 13, Missoula, MT (formerly KGVO)

Fallon

KXMA-TV, 2, Dickinson, ND (formerly KDIX)

KXGN-TV, 5, Glendive, MT

Fergus

KTVQ, 2, Billings, MT (formerly KOOK)

KULR-TV, 8, Billings, MT

KFBB-TV, 5, Great Falls, MT

Flathead

KCFW, 9, Kalispell, MT

KREM-TV, 2, Spokane, WA

#KXLY-TV, 4, Spokane, WA ²¹

²¹ Affected community is Kalispell, MT.

Gallatin

KXLF-TV, 4, Butte, MT

KECI-TV, 13, Missoula, MT (formerly KGVO)

Garfield

KTVQ, 2, Billings, MT (formerly KOOK)

KULR-TV, 8, Billings, MT

Glacier

KRTV, 3, Great Falls, MT

KFBB-TV, 5, Great Falls, MT

CJOC, 7, Canada (formerly CJLH)

Golden Valley

KTVQ, 2, Billings, MT (formerly KOOK)

KULR-TV, 8, Billings, MT

Granite

KXLF-TV, 4, Butte, MT

KECI-TV, 13, Missoula, MT (formerly KGVO)

Hill

KRTV, 3, Great Falls, MT

KFBB-TV, 5, Great Falls, MT

CFCN, 4, Canada

CJOC, 7, Canada (formerly CJLH)

Jefferson

KXLF-TV, 4, Butte, MT

KFBB-TV, 5, Great Falls, MT

KECI-TV, 13, Missoula, MT (formerly KGVO)

Judith Basin

KTVQ, 2, Billings, MT (formerly KOOK)

KULR-TV, 8, Billings, MT

KRTV, 3, Great Falls, MT

KFBB-TV, 5, Great Falls, MT

Lake

KECI-TV, 13, Missoula, MT (formerly KGVO)

KXLF-TV, 4, Butte, MT

KXLY-TV, 4, Spokane, WA

Lewis & Clark

KTVH, 12, Helena, MT (formerly KBLL)

KXLF-TV, 4, Butte, MT

KFBB-TV, 5, Great Falls, MT

Liberty

KRTV, 3, Great Falls, MT

KFBB-TV, 5, Great Falls, MT

CFCN, 4, Canada

CJOC, 7, Canada (formerly CJLH)

Lincoln

KREM-TV, 2, Spokane, WA

KXLY-TV, 4, Spokane, WA

KHQ-TV, 6, Spokane, WA

KCFW-TV, 9, Kalispell, MT

McCone

KUMV-TV, 8, Williston, ND

KXGN-TV, 5, Glendive, MT

Madison

KXLF-TV, 4, Butte, MT

KECI-TV, 13, Missoula, MT (formerly KGVO)

Meagher

KRTV, 3, Great Falls, MT

KFBB-TV, 5, Great Falls, MT

KXLF-TV, 4, Butte, MT

Mineral

KXLY-TV, 4, Spokane, WA

KXLF-TV, 4, Butte, MT

KECI-TV, 13, Missoula, MT (formerly KGVO)

Missoula

KECI-TV, 13, Missoula, MT (formerly KGVO)

KXLF-TV, 4, Butte, MT

Musselshell

KTVQ, 2, Billings, MT (formerly KOOK)

KULR-TV, 8, Billings, MT

Park

KTVQ, 2, Billings, MT (formerly KOOK)

KULR-TV, 8, Billings, MT

KXLF-TV, 4, Butte, MT

Petroleum

KTVQ, 2, Billings, MT (formerly KOOK)

KULR-TV, 8, Billings, MT

Phillips

KRTV, 3, Great Falls, MT

KFBB-TV, 5, Great Falls, MT

KTVQ, 2, Billings, MT (formerly KOOK)

Pondera

KRTV, 3, Great Falls, MT

KFBB-TV, 5, Great Falls, MT

CJOC, 7, Canada (formerly CJLH)

Powder River

KTVQ, 2, Billings, MT (formerly KOOK)

KULR-TV, 8, Billings, MT

KOTA-TV, 3, Rapid City, SD

Powell

KXLF-TV, 4, Butte, MT

KECI-TV, 13, Missoula, MT (formerly KGVO)

Prairie

KXGN-TV, 5, Glendive, MT

KYUS-TV, 3, Miles City, MT

Ravalli

KECI-TV, 13, Missoula, MT (formerly KGVO)

KXLF-TV, 4, Butte, MT

Richland

KUMV-TV, 8, Williston, ND

KXMD-TV, 11, Williston, ND

KXGN-TV, 5, Glendive, MT

Roosevelt

KUMV-TV, 8, Williston, ND

KXMD-TV, 11, Williston, ND

CKTV, 2, Canada (formerly CKCK)

Rosebud

KTVQ, 2, Billings, MT (formerly KOOK)

KULR-TV, 8, Billings, MT

KYUS-TV, 3, Miles City, MT

Sanders

KREM-TV, 2, Spokane, WA

KXLY-TV, 4, Spokane, WA

KHQ-TV, 6, Spokane, WA

KECI-TV, 13, Missoula, MT (formerly KGVO)

Sheridan

KUMV-TV, 8, Williston, ND

KXMD-TV, 11, Williston, ND

CKTV, 2, Canada (formerly CKCK)

Silver Bow

KXLF-TV, 4, Butte, MT

KECI-TV, 13, Missoula, MT (formerly KGVO)

Stillwater

KTVQ, 2, Billings, MT (formerly KOOK)

KULR-TV, 8, Billings, MT

Sweet Grass

KTVQ, 2, Billings, MT (formerly KOOK)

KULR-TV, 8, Billings, MT

Teton

KRTV, 3, Great Falls, MT

KFBB-TV, 5, Great Falls, MT

Toole

KRTV, 3, Great Falls, MT

KFBB-TV, 5, Great Falls, MT

CFCN, 4, Canada

CJOC, 7, Canada (formerly CJLH)

Treasure

KTVQ, 2, Billings, MT (formerly KOOK)

KULR-TV, 8, Billings, MT

Valley

KUMV-TV, 8, Williston, ND

KXMD-TV, 11, Williston, ND

CKTV, 2, Canada (formerly CKCK)

Wheatland

KTVQ, 2, Billings, MT (formerly KOOK)

KULR-TV, 8, Billings, MT

Wibaux

KXMA-TV, 2, Dickinson, ND (formerly KDIX)

KXGN-TV, 5, Glendive, MT

KUMV-TV, 8, Williston, ND

Yellowstone

KTVQ, 2, Billings, MT (formerly KOOK)

KULR-TV, 8, Billings, MT

Nebraska

Adams

KHAS-TV, 5, Hastings, NE

KOLN, 10, Lincoln, NE

KHGI-TV, 13, Kearney, NE (formerly KHOL)

Antelope

KLKN, 8, Lincoln, NE (formerly KHQL)

KOLN, 10, Lincoln, NE

KTIV, 4, Sioux City, IA

KCAU-TV, 9, Sioux City, IA

Arthur

KNOP-TV, 2, North Platte, NE

KHGI-TV, 13, Kearney, NE (formerly KHOL)

Banner

KSTF, 10, Scottsbluff, NE

KDUH-TV, 4, Scottsbluff, NE

Blaine

KNOP-TV, 2, North Platte, NE

Boone

KHAS-TV, 5, Hastings, NE

KLKN, 8, Lincoln, NE (formerly KHQL)

KOLN, 10, Lincoln, NE

Box Butte

KSTF, 10, Scottsbluff, NE

KDUH-TV, 4, Scottsbluff, NE

Boyd

KDLV-TV, 5, Mitchell, SD (formerly KORN)

KELO-TV, 11, Sioux Falls, SD

Brown

KELO-TV, 11, Sioux Falls, SD

Buffalo

KHAS-TV, 5, Lincoln & Hastings-Kearney

KOLN, 10, Lincoln, NE

KHGI-TV, 13, Kearney, NE (formerly KHOL)

Burt

KMTV, 3, Omaha, NE

WOWT, 6, Omaha, NE (formerly WOW)

KETV, 7, Omaha, NE

+KXVO, 15, Omaha, NE

+KPTM, 42, Omaha, NE

Butler

KMTV, 3, Omaha, NE

WOWT, 6, Omaha, NE (formerly WOW)

KETV, 7, Omaha, NE

+KXVO, 15, Omaha, NE

+KPTM, 42, Omaha, NE

KOLN, 10, Lincoln, NE

Cass

KMTV, 3, Omaha, NE

WOWT, 6, Omaha, NE (formerly WOW)

KETV, 7, Omaha, NE

+KXVO, 15, Omaha, NE

+KPTM, 42, Omaha, NE

KOLN, 10, Lincoln, NE

Cedar

KTIV, 4, Sioux City, IA

KCAU-TV, 9, Sioux City, IA

KMEG, 14, Sioux City, IA

KELO-TV, 11, Sioux Falls, SD

Chase

KHGI-TV, 13, Kearney, NE (formerly KHOL)

KSNK, 8, McCook, NE (formerly KOMC)

Cherry

KELO-TV, 11, Sioux Falls, SD

KNOP-TV, 2, North Platte, NE

KDUH-TV, 4, Scottsbluff, NE

Cheyenne

KTVS, 3, Sterling, CO

KSTF, 10, Scottsbluff, NE

KDUH-TV, 4, Scottsbluff, NE

Clay

KSNB-TV, 4, Superior, NE (formerly KHTL)

KHAS-TV, 5, Hastings, NE

KOLN, 10, Lincoln, NE

KHGI-TV, 13, Kearney, NE (formerly KHOL)

Colfax

KMTV, 3, Omaha, NE

WOWT, 6, Omaha, NE (formerly WOW)

KETV, 7, Omaha, NE

+KXVO, 15, Omaha, NE

+KPTM, 42, Omaha, NE

KOLN, 10, Lincoln, NE

Cuming

KMTV, 3, Omaha, NE

WOWT, 6, Omaha, NE (formerly WOW)

KETV, 7, Omaha, NE

+KXVO, 15, Omaha, NE

+KPTM, 42, Omaha, NE

KTIV, 4, Sioux City, IA

KCAU-TV, 9, Sioux City, IA

Custer

KHAS-TV, 5, Hastings, NE

KOLN, 10, Lincoln, NE

KHGI-TV, 13, Kearney, NE (formerly KHOL)

KNOP-TV, 2, North Platte, NE

Dakota

KTIV, 4, Sioux City, IA

KCAU-TV, 9, Sioux City, IA

KMEG, 14, Sioux City, IA

Dawes

KDUH-TV, 4, Scottsbluff, NE

KSTF, 10, Scottsbluff, NE

Dawson

KOLN, 10, Lincoln, NE

KHGI-TV, 13, Kearney, NE (formerly KHOL)

KNOP-TV, 2, North Platte, NE

Deuel

KTVS, 3, Sterling, CO

KHGI-TV, 13, Kearney, NE (formerly KHOL)

KNOP-TV, 2, North Platte, NE

Dixon

KTIV, 4, Sioux City, IA

KCAU-TV, 9, Sioux City, IA

KMEG, 14, Sioux City, IA

Dodge

KMTV, 3, Omaha, NE

WOWT, 6, Omaha, NE (formerly WOW)

KETV, 7, Omaha, NE

+KXVO, 15, Omaha, NE

+KPTM, 42, Omaha, NE

Douglas

KMTV, 3, Omaha, NE

WOWT, 6, Omaha, NE (formerly WOW)

KETV, 7, Omaha, NE

+KXVO, 15, Omaha, NE

+KPTM, 42, Omaha, NE

Dundy

KBSH-TV, 7, Hays, KS (formerly KAYS)

KSNK, 8, McCook, NE (formerly KOMC)

KHGI-TV, 13, Kearney, NE (formerly KHOL)

Fillmore

KSNB-TV, 4, Superior, NE (formerly KHTL)

KHAS-TV, 5, Hastings, NE

KOLN, 10, Lincoln, NE

KHGI-TV, 13, Kearney, NE (formerly KHOL)

Franklin

KHAS-TV, 5, Hastings, NE

KOLN, 10, Lincoln, NE

KHGI-TV, 13, Kearney, NE (formerly KHOL)

Frontier

KOLN, 10, Lincoln, NE

KHGI-TV, 13, Kearney, NE (formerly KHOL)

KNOP-TV, 2, North Platte, NE

KSNK, 8, McCook, NE (formerly KOMC)

Furnas

KOLN, 10, Lincoln, NE

KHGI-TV, 13, Kearney, NE (formerly KHOL)

KSNK, 8, McCook, NE (formerly KOMC)

Gage

KOLN, 10, Lincoln, NE

KMTV, 3, Omaha, NE

KETV, 7, Omaha, NE

+KXVO, 15, Omaha, NE

+KPTM, 42, Omaha, NE

Garden

KTVS, 3, Sterling, CO

KSTF, 10, Scottsbluff, NE

KHGI-TV, 13, Kearney, NE (formerly KHOL)

KNOP-TV, 2, North Platte, NE

KDUH-TV, 4, Scottsbluff, NE

Garfield

KHAS-TV, 5, Hastings, NE

KLKN, 8, Lincoln, NE (formerly KHQL)

KOLN, 10, Lincoln, NE

Gosper

KHAS-TV, 5, Hastings, NE

KOLN, 10, Lincoln, NE

KHGI-TV, 13, Kearney, NE (formerly KHOL)

Grant

KDUH-TV, 4, Scottsbluff, NE

KHGI-TV, 13, Kearney, NE (formerly KHOL)

KNOP-TV, 2, North Platte, NE

Greeley

KHAS-TV, 5, Hastings, NE

KLKN, 8, Lincoln, NE (formerly KHQL)

KOLN, 10, Lincoln, NE

KHGI-TV, 13, Kearney, NE (formerly KHOL)

Hall

KHAS-TV, 5, Hastings, NE

+KLKE, 24, Albion, NE (formerly KCAN)

KOLN, 10, Lincoln, NE

KHGI-TV, 13, Kearney, NE (formerly KHOL)

Hamilton

KHAS-TV, 5, Hastings, NE

KOLN, 10, Lincoln, NE

KHGI-TV, 13, Kearney, NE (formerly KHOL)

Harlan

KHAS-TV, 5, Hastings, NE

KOLN, 10, Lincoln, NE

KHGI-TV, 13, Kearney, NE (formerly KHOL)

Hayes

KHGI-TV, 13, Kearney, NE (formerly KHOL)

KNOP-TV, 2, North Platte, NE

KSNK, 8, McCook, NE (formerly KOMC)

Hitchcock

KBSH-TV, 7, Hays, KS (formerly KAYS)

KSNK, 8, McCook, NE (formerly KOMC)

KHGI-TV, 13, Kearney, NE (formerly KHOL)

Holt

KLKN, 8, Lincoln, NE (formerly KHQL)

KOLN, 10, Lincoln, NE

KTIV, 4, Sioux City, IA

KCAU, 9, Sioux City, IA

KELO-TV, 11, Sioux Falls, SD

Hooker

KNOP-TV, 2, North Platte, NE

KDUH-TV, 4, Scottsbluff, NE

Howard

KHAS-TV, 5, Hastings, NE

KOLN, 10, Lincoln, NE

KHGI-TV, 13, Kearney, NE (formerly KHOL)

Jefferson

KSNB-TV, 4, Superior, NE (formerly KHTL)

KHAS-TV, 5, Hastings, NE

KOLN, 10, Lincoln, NE

+KXVO, 15, Omaha, NE

+KPTM, 42, Omaha, NE

Johnson

KMTV, 3, Omaha, NE

WOWT, 6, Omaha, NE (formerly WOW)

KETV, 7, Omaha, NE

+KXVO, 15, Omaha, NE

+KPTM, 42, Omaha, NE

KOLN, 10, Lincoln, NE

Kearney

KHAS-TV, 5, Hastings, NE

KOLN, 10, Lincoln, NE

KHGI-TV, 13, Kearney, NE (formerly KHOL)

Keith

KNOP-TV, 2, North Platte, NE

KHGI-TV, 13, Kearney, NE (formerly KHOL)

Keya Paha

KELO-TV, 11, Sioux Falls, SD

Kimball

KTVS, 3, Sterling, CO

KGWN-TV, 5, Cheyenne, WY (formerly KFBC)

KSTF, 10, Scottsbluff, NE

KDUH-TV, 4, Scottsbluff, NE

Knox

KTIV, 4, Sioux City, IA

KCAU-TV, 9, Sioux City, IA

KLKN, 8, Lincoln, NE (formerly KHQL)

KDLV-TV, 5, Mitchell, SD (formerly KORN)

KELO-TV, 11, Sioux Falls, SD

KSFY-TV, 13, Sioux Falls, SD (formerly KSOO)

Lancaster

+KLKE, 24, Albion, NE (formerly KBGT)

KOLN, 10, Lincoln, NE

KMTV, 3, Omaha, NE

WOWT, 6, Omaha, NE (formerly WOW)

KETV, 7, Omaha, NE

+KXVO, 15, Omaha, NE

+KPTM, 42, Omaha, NE

Lincoln

KNOP-TV, 2, North Platte, NE

KOLN, 10, Lincoln, NE

KHGI-TV, 13, Kearney, NE (formerly KHOL)

Logan

KNOP-TV, 2, North Platte, NE

KHGI-TV, 13, Kearney, NE (formerly KHOL)

Loup

KHAS-TV, 5, Hastings, NE

KLKN, 8, Lincoln, NE (formerly KHQL)

KOLN, 10, Lincoln, NE

McPherson

KNOP-TV, 2, North Platte, NE

KHGI-TV, 13, Kearney, NE (formerly KHOL)

Madison

KTIV, 4, Sioux City, IA

KCAU-TV, 9, Sioux City, IA

KLKN, 8, Lincoln, NE (formerly KHQL)

KOLN, 10, Lincoln, NE

WOWT, 6, Omaha, NE (formerly WOW)

Merrick

KHAS-TV, 5, Hastings, NE

KLKN, 8, Lincoln, NE (formerly KHQL)

KOLN, 10, Lincoln, NE

KHGI-TV, 13, Kearney, NE (formerly KHOL)

Morrill

KSTF, 10, Scottsbluff, NE

KDUH-TV 4, Scottsbluff, NE

Nance

KHAS-TV, 5, Hastings, NE

KLKN, 8, Lincoln, NE (formerly KHQL)

KOLN, 10, Lincoln, NE

KMTV, 3, Omaha, NE

Nemaha

KMTV, 3, Omaha, NE

WOWT, 6, Omaha, NE (formerly WOW)

KETV, 7, Omaha, NE

+KPTM, 42, Omaha, NE

Nuckolls

KSNB-TV, 4, Superior, NE (formerly KHTL)

KHAS-TV, 5, Hastings, NE

KOLN, 10, Lincoln, NE

KHGI-TV, 13, Kearney, NE (formerly KHOL)

Otoe

KMTV, 3, Omaha, NE

WOWT, 6, Omaha, NE (formerly WOW)

KETV, 7, Omaha, NE

+KXVO, 15, Omaha, NE

+KPTM, 42, Omaha, NE

KOLN, 10, Lincoln, NE

Pawnee

KMTV, 3, Omaha, NE

WOWT, 6, Omaha, NE (formerly WOW)

KETV, 7, Omaha, NE

KOLN, 10, Lincoln, NE

Perkins

KHGI-TV, 13, Kearney, NE (formerly KHOL)

KTVS, 3, Sterling, CO

KNOP-TV, 2, North Platte, NE

Phelps

KHAS-TV, 5, Hastings, NE

KOLN, 10, Lincoln, NE

KHGI-TV, 13, Kearney, NE (formerly KHOL)

Pierce

KTIV, 4, Sioux City, IA

KCAU-TV, 9, Sioux City, IA

KLKN, 8, Lincoln, NE (formerly KHQL)

KELO-TV, 11, Sioux Falls, SD

Platte

KLKN, 8, Lincoln, NE (formerly KHQL)

KOLN, 10, Lincoln, NE

KMTV, 3, Omaha, NE

WOWT, 6, Omaha, NE (formerly WOW)

KETV, 7, Omaha, NE

+KPTM, 42, Omaha, NE

Polk

KHAS-TV, 5, Hastings, NE

KLKN, 8, Lincoln, NE (formerly KHQL)

KOLN, 10, Lincoln, NE

KMTV, 3, Omaha, NE

KETV, 7, Omaha, NE

+KPTM, 42, Omaha, NE

Red Willow

KSNK, 8, McCook, NE (formerly KOMC)

KOLN, 10, Lincoln, NE

KHGI-TV, 13, Kearney, NE (formerly KHOL)

Richardson

KMTV, 3, Omaha, NE

WOWT, 6, Omaha, NE (formerly WOW)

KETV, 7, Omaha, NE

+KPTM, 42, Omaha, NE

KCTV, 5, Kansas City, MO (formerly KCMO)

KOLN, 10, Lincoln, NE

KQTV, 2, St. Joseph, MO

Rock

KELO-TV, 11, Sioux Falls, SD

Saline

KSNB-TV, 4, Superior, NE (formerly KHTL)

KOLN, 10, Lincoln, NE

KMTV, 3, Omaha, NE

KETV, 7, Omaha, NE

+KXVO, 15, Omaha, NE

+KPTM, 42, Omaha, NE

Sarpy

KMTV, 3, Omaha, NE

WOWT, 6, Omaha, NE (formerly WOW)

KETV, 7, Omaha, NE

+KXVO, 15, Omaha, NE

+KPTM, 42, Omaha, NE

Saunders

KMTV, 3, Omaha, NE

WOWT, 6, Omaha, NE (formerly WOW)

KETV, 7, Omaha, NE

+KXVO, 15, Omaha, NE

+KPTM, 42, Omaha, NE

KOLN, 10, Lincoln, NE

Scottsbluff

KSTF, 10, Scottsbluff, NE

KDUH-TV, 4, Scottsbluff, NE

Seward

KOLN, 10, Lincoln, NE

KMTV, 3, Omaha, NE

WOWT, 6, Omaha, NE (formerly WOW)

KETV, 7, Omaha, NE

+KXVO, 15, Omaha, NE

+KPTM, 42, Omaha, NE

Sheridan

KDUH-TV, 4, Scottsbluff, NE

Sherman

KHAS-TV, 5, Hastings, NE

KOLN, 10, Lincoln, NE

KHGI-TV, 13, Kearney, NE (formerly KHOL)

Sioux

KSTF, 10, Scottsbluff, NE

KDUH-TV, 4, Scottsbluff, NE

Stanton

KTIV, 4, Sioux City, IA

KCAU-TV, 9, Sioux City, IA

KLKN, 8, Lincoln, NE (formerly KHQL)

KOLN, 10, Lincoln, NE

KMTV, 3, Omaha, NE

WOWT, 6, Omaha, NE (formerly WOW)

KETV, 7, Omaha, NE

Thayer

KSNB-TV, 4, Superior, NE (formerly KHTL)

KHAS-TV, 5, Hastings, NE

KOLN, 10, Lincoln, NE

KHGI-TV, 13, Kearney, NE (formerly KHOL)

Thomas

KNOP-TV, 2, North Platte, NE

Thurston

KTIV, 4, Sioux City, IA

KCAU-TV, 9, Sioux City, IA

KMEG, 14, Sioux City, IA

KMTV, 3, Omaha, NE

WOWT, 6, Omaha, NE (formerly WOW)

KETV, 7, Omaha, NE

Valley

KHAS-TV, 5, Hastings, NE

KLKN, 8, Lincoln, NE (formerly KHQL)

KOLN, 10, Lincoln, NE

KHGI-TV, 13, Kearney, NE (formerly KHOL)

Washington

KMTV, 3, Omaha, NE

WOWT, 6, Omaha, NE (formerly WOW)

KETV, 7, Omaha, NE

+KXVO, 15, Omaha, NE

+KPTM, 42, Omaha, NE

Wayne

KTIV, 4, Sioux City, IA

KCAU-TV, 9, Sioux City, IA

KMEG, 14, Sioux City, IA

Webster

KHAS-TV, 5, Hastings, NE

KOLN, 10, Lincoln, NE

KHGI-TV, 13, Kearney, NE (formerly KHOL)

Wheeler

KHAS-TV, 5, Hastings, NE

KLKN, 8, Lincoln, NE (formerly KHQL)

KOLN, 10, Lincoln, NE

York

KSNB-TV, 4, Superior, NE (formerly KHTL)

KHAS-TV, 5, Hastings, NE

KOLN, 10, Lincoln, NE

+KPTM, 42, Omaha, NE

Imperial

KNOP-TV

Nevada

Carson City

+KAME-TV, 21, Reno, NV

Churchill

KRNV, 4, Reno, NV (formerly KCRL)

KOLO-TV, 8, Reno, NV

+KAME-TV, 21, Reno, NV

Clark

KVBC, 3, Las Vegas, NV (formerly KORK)

KVVU-TV, 5, Henderson, NV (formerly KHBV)

KLAS-TV, 8, Las Vegas, NV

KTNV, 13, Las Vegas, NV (formerly KSHO)

Douglas

KTVN, 2, Reno, NV

KRNV, 4, Reno, NV (formerly KCRL)

KOLO-TV, 8, Reno, NV

+KAME-TV, 21, Reno, NV

KTVU, 2, Oakland, CA

Elko

KSL-TV, 5, Salt Lake City, UT

KBCI-TV, 2, Boise, ID (formerly KBOI)

KTVB, 7, Boise, ID

KOLO-TV, 8, Reno, NV

Esmeralda

KOLO-TV, 8, Reno, NV

Eureka

KUTV, 2, Salt Lake City, UT

KTVX, 4, Salt Lake City, UT (formerly KCPX)

KSL-TV, 5, Salt Lake City, UT

Humboldt

KOLO-TV, 8, Reno, NV

KBCI-TV, 2, Boise, ID (formerly KBOI)

KTVB, 7, Boise, ID

Lander

KTVN, 2, Reno, NV

KOLO-TV, 8, Reno, NV

Lincoln

KVBC, 3, Las Vegas, NV (formerly KORK)

KLAS-TV, 8, Las Vegas, NV

KTVX, 4, Salt Lake City, NV (formerly KCPX)

Lyon

KTVN, 2, Reno, NV

KRNV, 4, Reno, NV (formerly KCRL)

KOLO-TV, 8, Reno, NV

+KAME-TV, 21, Reno, NV

Mineral

KTVN, 2, Reno, NV

KRNV, 4, Reno, NV (formerly KCRL)

KOLO-TV, 8, Reno, NV

Nye

KTVN, 2, Reno, NV

KRNV, 4, Reno, NV (formerly KCRL)

KOLO-TV, 8, Reno, NV

KVBC, 3, Las Vegas, NV (formerly KORK)

Ormsby

KTVN, 2, Reno, NV

KRNV, 4, Reno, NV (formerly KCRL)

KOLO-TV, 8, Reno, NV

Pershing

KTVN, 2, Reno, NV

KRNV, 4, Reno, NV (formerly KCRL)

KOLO-TV, 8, Reno, NV

Storey

KTVN, 2, Reno, NV

KRNV, 4, Reno, NV (formerly KCRL)

KOLO-TV, 8, Reno, NV

Washoe

KTVN, 2, Reno, NV

KRNV, 4, Reno, NV (formerly KCRL)

KOLO-TV, 8, Reno, NV

+KAME-TV, 21, Reno, NV

White Pine

KUTV, 2, Salt Lake City, UT

KTVX, 4, Salt Lake City, UT (formerly KCPX)

KSL-TV, 5, Salt Lake City, UT

New Hampshire

Belknap

WCSH, 6, Portland, ME

WMTW-TV, 8, Portland, ME

WGME-TV, 13, Portland, ME (formerly WGAN)

WBZ-TV, 4, Boston, MA

WCVB-TV, 5, Boston, MA (formerly WHDH)

WMUR-TV, 9, Manchester, NH

+WPXG, 21, Concord, NH (formerly WNHT, WNBU)

Carroll

WCSH, 6, Portland, ME

WMTW-TV, 8, Portland, ME

WGME-TV, 13, Portland, ME (formerly WGAN)

Cheshire

WBZ-TV, 4, Boston, MA

WCVB-TV, 5, Boston, MA (formerly WHDH)

WHDH-TV, 7, Boston, MA (formerly WNAC)

WFSB, 3, Hartford, CT (formerly WTIC)

WMUR-TV, 9, Manchester, NH

WWLP, 22, Springfield, MA

Coos

WCSH, 6, Portland, ME

WMTW-TV, 8, Portland, ME

WGME-TV, 13, Portland, ME (formerly WGAN)

WCAX-TV, 3, Burlington, VT

Grafton

WMTW-TV, 8, Portland, ME

WCAX-TV, 3, Burlington, VT

Hillsborough

WBZ-TV, 4, Boston, MA

WCVB-TV, 5, Boston, MA (formerly WHDH)

WHDH-TV, 7, Boston, MA (formerly WNAC)

WSBK-TV, 38, Boston, MA

WLVI-TV, 56, Cambridge, MA (formerly WKBG)

WMUR-TV, 9, Manchester, NH

+WNDS, 50, Derry, NH

Merrimack

WBZ-TV, 4, Boston, MA

WCVB-TV, 5, Boston, MA (formerly WHDH)

WHDH-TV, 7, Boston, MA (formerly WNAC)

WMUR-TV, 9, Manchester, NH

WCSH, 6, Portland, ME

WMTW-TV, 8, Portland, ME

+WPXG, 21, Concord, NH (formerly WNHT, WNBU)

Rockingham

WBZ-TV, 4, Boston, MA

WCVB-TV, 5, Boston, MA (formerly WHDH)

WHDH-TV, 7, Boston, MA (formerly WNAC)

WSBK-TV, 38, Boston, MA

WLVI-TV, 56, Cambridge, MA (formerly WKBG)

WMUR-TV, 9, Manchester, NH

+WNDS, 50, Derry, NH

Strafford

WBZ-TV, 4, Boston, MA

WCVB-TV, 5, Boston, MA (formerly WHDH)

WHDH-TV, 7, Boston, MA (formerly WNAC)

WMUR-TV, 9, Manchester, NH

WCSH, 6, Portland, ME

WMTW-TV, 8, Portland, ME

WGME-TV, 13, Portland, ME (formerly WGAN)

+WPXG, 21, Concord, NH (formerly WNHT, WNBU)

Sullivan

WBZ-TV, 4, Boston, MA

WCVB-TV, 5, Boston, MA (formerly WHDH)

WCAX-TV, 3, Burlington, VT

WMUR-TV, 9, Manchester, NH

WWLP, 22, Springfield, MA

Alton—WHDH-TV

Auburn—WFXT

Barnstead—WHDH-TV

Bedford -WFXT

Belmont—WHDH-TV

Brentwood—WFXT, WCSH

Candia—WFXT

Center Harbor, NH

Chester—WFXT, WCSH, WNBU, WMUR-TV

Dover—WFXT, WCSH, WNBU, WMUR-TV

Durham—WFXT, WCSH, WNBU, WMUR-TV

East Kingston—WFXT, WCSH

Epping—WFXT, WCSH, WNBU, WMUR-TV

Exeter—WFXT, WCSH, WNBU, WMUR-TV

Fremont—WFXT, WCSH, WNBU, WMUR-TV

Gilford—WHDH-TV

Goffstown—WFXT

Greenland—WFXT, WCSH, WNBU, WMUR-TV

Hampton—WFXT, WCSH, WNBU, WMUR-TV

Hampton Falls—WFXT, WCSH, WNBU, WMUR-TV

Hooksett—WFXT

Kensington—WFXT, WCSH

Laconia—WHDH-TV

Lee—WFXT, WCSH

Madbury—WFXT, WCSH, WNBU, WMUR-TV

Manchester—WFXT

Meredith—WHDH-TV

New Castle—WFXT, WCSH, WNBU, WMUR-TV

New Durham—WHDH-TV

Newfield—WFXT, WCSH, WNBU, WMUR-TV

Newington—WFXT, WCSH, WNBU, WMUR-TV

New Market—WFXT, WCSH, WNBU, WMUR-TV

Northfield—WHDH-TV

North Hampton—WFXT, WCSH, WNBU, WMUR-TV

Nottingham—WFXT, WCSH

Portsmouth—WFXT, WCSH, WNBU, WMUR-TV

Raymond—WFXT, WCSH, WNBU, WMUR-TV

Rollingsford—WFXT, WCSH, WNBU, WMUR-TV

Rye—WFXT, WCSH, WNBU, WMUR-TV

Seabrook—WFXT, WCSH, WNBU, WMUR-TV

Somersworth—WFXT, WCSH, WNBU, WMUR-TV

Stratham—WFXT, WCSH, WNBU, WMUR-TV

Wolfesboro—WHDH-TV

New Jersey

Atlantic

KYW-TV, 3, Philadelphia, PA

WPVI-TV, 6, Philadelphia, PA (formerly WFIL)

WCAU, 10, Philadelphia, PA

WPHL-TV, 17, Philadelphia, PA

WTXF-TV, 29, Philadelphia, PA (formerly WTAF)

WGTW, 48, Phhiladelphia, PA (formerly WKBS-TV)

+WPSG, 57, Philadelphia, PA (formerly WGBS)

Bergen

WCBS-TV, 2, New York, NY

WNBC, 4, New York, NY

WNYW, 5, New York, NY (formerly WNEW)

WABC-TV, 7, New York, NY

WWOR-TV, 9, New York, NY (formerly WOR)

WPIX, 11, New York, NY

Burlington

KYW-TV, 3, Philadelphia, PA

WPVI-TV, 6, Philadelphia, PA (formerly WFIL)

WCAU, 10, Philadelphia, PA

WPHL-TV, 17, Philadelphia, PA

WTXF-TV, 29, Philadelphia, PA (formerly WTAF)

WGTW, 48, Phhiladelphia, PA (formerly WKBS-TV)

+WPSG, 57, Philadelphia, PA (formerly WGBS)

Camden

KYW-TV, 3, Philadelphia, PA

WPVI-TV, 6, Philadelphia, PA (formerly WFIL)

WCAU, 10, Philadelphia, PA

WPHL-TV, 17, Philadelphia, PA

WTXF-TV, 29, Philadelphia, PA (formerly WTAF)

WGTW, 48, Phhiladelphia, PA (formerly WKBS-TV)

+WPSG, 57, Philadelphia, PA (formerly WGBS)

Cape May

KYW-TV, 3, Philadelphia, PA

WPVI-TV, 6, Philadelphia, PA (formerly WFIL)

WCAU, 10, Philadelphia, PA

WPHL-TV, 17, Philadelphia, PA

WGTW, 48, Phhiladelphia, PA (formerly WKBS-TV)

+WPSG, 57, Philadelphia, PA (formerly WGBS)

Cumberland

KYW-TV, 3, Philadelphia, PA

WPVI-TV, 6, Philadelphia, PA (formerly WFIL)

WCAU, 10, Philadelphia, PA

WPHL-TV, 17, Philadelphia, PA

WTXF-TV, 29, Philadelphia, PA (formerly WTAF)

WGTW, 48, Phhiladelphia, PA (formerly WKBS-TV)

+WPSG, 57, Philadelphia, PA (formerly WGBS)

Essex

WCBS-TV, 2, New York, NY

WNBC, 4, New York, NY

WNYW, 5, New York, NY (formerly WNEW)

WABC-TV, 7, New York, NY

WWOR-TV, 9, New York, NY (formerly WWOR)

WPIX, 11, New York, NY

Gloucester

KYW-TV, 3, Philadelphia, PA

WPVI-TV, 6, Philadelphia, PA (formerly WFIL)

WCAU, 10, Philadelphia, PA

WPHL-TV, 17, Philadelphia, PA

WGTW, 48, Phhiladelphia, PA (formerly WKBS-TV)

+WPSG, 57, Philadelphia, PA (formerly WGBS)

Hudson

WCBS-TV, 2, New York, NY

WNBC, 4, New York, NY

WNYW, 5, New York, NY (formerly WNEW)

WABC-TV, 7, New York, NY

WWOR-TV, 9, New York, NY (formerly WOR)

WPIX, 11, New York, NY

Hunterdon

WCBS-TV, 2, New York, NY

WNBC, 4, New York, NY

WNYW, 5, New York, NY (formerly WNEW)

WABC-TV, 7, New York, NY

WWOR-TV, 9, New York, NY (formerly WOR)

WPIX, 11, New York, NY

KYW-TV, 3, Philadelphia, PA

WPVI-TV, 6, Philadelphia, PA (formerly WFIL)

WCAU, 10, Philadelphia, PA

WTXF-TV, 29, Philadelphia, PA (formerly WTAF)

+WPSG, 57, Philadelphia, PA (formerly WGBS)

Mercer

KYW-TV, 3, Philadelphia, PA

WPVI-TV, 6, Philadelphia, PA (formerly WFIL)

WCAU, 10, Philadelphia, PA

WPHL-TV, 17, Philadelphia, PA

WGTW, 48, Phhiladelphia, PA (formerly WKBS-TV)

+WPSG, 57, Philadelphia, PA (formerly WGBS)

WCBS-TV, 2, New York, NY

WNBC, 4, New York, NY

WNYW, 5, New York, NY (formerly WNEW)

WABC-TV, 7, New York, NY

WWOR-TV, 9, New York, NY (formerly WOR)

WPIX, 11, New York, NY

Middlesex

WCBS-TV, 2, New York, NY

WNBC, 4, New York, NY

WNYW, 5, New York, NY (formerly WNEW)

WABC-TV, 7, New York, NY

WWOR-TV, 9, New York, NY (formerly WOR)

WPIX, 11, New York, NY

Monmouth

WCBS-TV, 2, New York, NY

WNBC, 4, New York, NY

WNYW, 5, New York, NY (formerly WNEW)

WABC-TV, 7, New York, NY

WWOR-TV, 9, New York, NY (formerly WOR)

WPIX, 11, New York, NY

Morris

WCBS-TV, 2, New York, NY

WNBC, 4, New York, NY

WNYW, 5, New York, NY (formerly WNEW)

WABC-TV, 7, New York, NY

WWOR-TV, 9, New York, NY (formerly WOR)

WPIX, 11, New York, NY

Ocean

WCBS-TV, 2, New York, NY

WNBC, 4, New York, NY

WNYW, 5, New York, NY (formerly WNEW)

WABC-TV, 7, New York, NY

WWOR-TV, 9, New York, NY (formerly WOR)

WPIX, 11, New York, NY

WPVI-TV, 6, Philadelphia, PA (formerly WFIL)

Passaic

WCBS-TV, 2, New York, NY

WNBC, 4, New York, NY

WNYW, 5, New York, NY (formerly WNEW)

WABC-TV, 7, New York, NY

WWOR-TV, 9, New York, NY (formerly WOR)

WPIX, 11, New York, NY

Salem

KYW-TV, 3, Philadelphia, PA

WPVI-TV, 6, Philadelphia, PA (formerly WFIL)

WCAU, 10, Philadelphia, PA

WPHL-TV, 17, Philadelphia, PA

WTXF-TV, 29, Philadelphia, PA (formerly WTAF)

WGTW, 48, Phhiladelphia, PA (formerly WKBS-TV)

+WPSG, 57, Philadelphia, PA (formerly WGBS)

Somerset

WCBS-TV, 2, New York, NY

WNBC, 4, New York, NY

WNYW, 5, New York, NY (formerly WNEW)

WABC-TV, 7, New York, NY

WWOR-TV, 9, New York, NY (formerly WOR)

WPIX, 11, New York, NY

Sussex

WCBS-TV, 2, New York, NY

WNBC, 4, New York, NY

WNYW, 5, New York, NY (formerly WNEW)

WABC-TV, 7, New York, NY

WWOR-TV, 9, New York, NY (formerly WOR)

WPIX, 11, New York, NY

Union

WCBS-TV, 2, New York, NY

WNBC, 4, New York, NY

WNYW, 5, New York, NY (formerly WNEW)

WABC-TV, 7, New York, NY

WWOR-TV, 9, New York, NY (formerly WOR)

WPIX, 11, New York, NY

Warren

KYW-TV, 3, Philadelphia, PA

WPVI-TV, 6, Philadelphia, PA (formerly WFIL)

WCAU, 10, Philadelphia, PA

WCBS-TV, 2, New York, NY

WNBC, 4, New York, NY

WNYW, 5, New York, NY (formerly WNEW)

WABC-TV, 7, New York, NY

WPIX, 11, New York, NY

+WFMZ-TV, 69, Allentown, PA

New Mexico

Bernalillo

KOB-TV, 4, Albuquerque, NM

KOAT-TV, 7, Albuquerque, NM

KRQE, 13, Albuquerque, NM (formerly KGGM)

+KASA-TV, 2, Santa Fe, NM (formerly KNMZ, KKTO)

Catron

KOB-TV, 4, Albuquerque, NM

KOAT-TV, 7, Albuquerque, NM

KVOA, 4, Tucson, AZ

KGUN, 9, Tucson, AZ

KOLD-TV, 13, Tucson, AZ

Chaves

KBIM-TV, 10, Roswell, NM

KCBD-TV, 11, Lubbock, TX

Cibola

+KTFQ-TV, 14, Albuquerque, NM (formerly KGSW-TV, KAPX)

Colfax

KOB-TV, 4, Albuquerque, NM

KOAT-TV, 7, Albuquerque, NM

KRQE, 13, Albuquerque, NM (formerly KGGM)

KRDO-TV, 13, Colorado Springs, CO

Curry

KVII-TV, 7, Amarillo, TX

KFDA-TV, 10, Amarillo, TX

KCBD-TV, 11, Lubbock, TX

De Baca

KCBD-TV, 11, Lubbock, TX

KOAT-TV, 7, Albuquerque, NM

KBIM-TV, 10, Roswell, NM

Dona Ana

KDBC-TV, 4, El Paso, TX (formerly KROD)

KTSM-TV, 9, El Paso, TX

KVIA-TV, 7, El Paso, TX (formerly KELP)

+KFOX-TV, 14, El Paso, TX

Eddy

KBIM-TV, 10, Roswell, NM

KVIA-TV, 13, El Paso, TX (formerly KELP)

KCBD-TV, 11, Lubbock, TX

Grant

KDBC-TV, 4, El Paso, TX (formerly KROD)

KTSM-TV, 9, El Paso, TX

KOAT-TV, 7, Albuquerque, NM

Guadalupe

KOB-TV, 4, Albuquerque, NM

KOAT-TV, 7, Albuquerque, NM

KRQE, 13, Albuquerque, NM (formerly KGGM)

Harding

KOB-TV, 4, Albuquerque, NM

KOAT-TV, 7, Albuquerque, NM

KRQE, 13, Albuquerque, NM (formerly KGGM)

Hidalgo

KTVK, 3, Phoenix, AZ

KSAZ-TV, 10, Phoenix, AZ (formerly KOOL)

KPNX, 12, Phoenix, AZ (formerly KTAR)

KVOA, 4, Tucson, AZ

KGUN, 9, Tucson, AZ

KOLD-TV, 13, Tucson, AZ

Lea North

KBIM-TV, 10, Roswell, NM

KCBD-TV, 11, Lubbock, TX

Lea South

KMID, 2, Midland, TX

KOSA-TV, 7, Odessa, TX

KWES-TV, 9, Odessa, TX (formerly KMOM)

KCBD-TV, 11, Lubbock, TX

KBIM-TV, 10, Roswell, NM

Lincoln

KOB-TV, 4, Albuquerque, NM

KCBD-TV, 11, Lubbock, TX

KBIM-TV, 10, Roswell, NM

Los Alamos

KOB-TV, 4, Albuquerque, NM

KOAT-TV, 7, Albuquerque, NM

KRQE, 13, Albuquerque, NM (formerly KGGM)

+KTFQ-TV, 14, Albuquerque, NM (formerly KGSW-TV, KAPX)

Luna

KDBC-TV, 4, El Paso, TX (formerly KROD)

KTSM-TV, 9, El Paso, TX

KVIA-TV, 13, El Paso, TX (formerly KELP)

McKinley

KOB-TV, 4, Albuquerque, NM

KOAT-TV, 7, Albuquerque, NM

KRQE, 13, Albuquerque, NM (formerly KGGM)

Mora

KOB-TV, 4, Albuquerque, NM

KOAT-TV, 7, Albuquerque, NM

KRQE, 13, Albuquerque, NM (formerly KGGM)

Otero

KDBC-TV, 4, El Paso, TX (formerly KROD)

KTSM-TV, 9, El Paso, TX

+KFOX-TV, 14, El Paso, TX

KOAT-TV, 7, Albuquerque, NM

Quay

KAMR-TV, 4, Amarillo, TX (formerly KGNC)

KVII-TV, 7, Amarillo, TX

KFDA-TV, 10, Amarillo, TX

KOAT-TV, 7, Albuquerque, NM

KCBD-TV, 11, Lubbock, TX

Rio Arriba

KOB-TV, 4, Albuquerque, NM

KOAT-TV, 7, Albuquerque, NM

KRQE, 13, Albuquerque, NM (formerly KGGM)

+KTFQ-TV, 14, Albuquerque, NM (formerly KGSW-TV, KAPX)

Roosevelt

KFDA-TV, 10, Amarillo, TX

KCBD-TV, 11, Lubbock, TX

Sandoval

KOB-TV, 4, Albuquerque, NM

KOAT-TV, 7, Albuquerque, NM

KRQE, 13, Albuquerque, NM (formerly KGGM)

+KASA-TV, 2, Santa Fe, NM (formerly KNMZ)

San Juan

KOB-TV, 4, Albuquerque, NM

KOAT-TV, 7, Albuquerque, NM

KRQE, 13, Albuquerque, NM (formerly KGGM)

San Miguel

KOB-TV, 4, Albuquerque, NM

KOAT-TV, 7, Albuquerque, NM

KRQE, 13, Albuquerque, NM (formerly KGGM)

Santa Fe

KOB-TV, 4, Albuquerque, NM

KOAT-TV, 7, Albuquerque, NM

KRQE, 13, Albuquerque, NM (formerly KGGM)

+KTFQ-TV, 14, Albuquerque, NM (formerly KGSW-TV, KAPX)

Sierra

KOB-TV, 4, Albuquerque, NM

KOAT-TV, 7, Albuquerque, NM

KRQE, 13, Albuquerque, NM (formerly KGGM)

Socorro

KOB-TV, 4, Albuquerque, NM

KOAT-TV, 7, Albuquerque, NM

KRQE, 13, Albuquerque, NM (formerly KGGM)

+KTFQ-TV, 14, Albuquerque, NM (formerly KGSW-TV, KAPX)

Taos

KOB-TV, 4, Albuquerque, NM

KOAT-TV, 7, Albuquerque, NM

KRQE, 13, Albuquerque, NM (formerly KGGM)

Torrance

KOB-TV, 4, Albuquerque, NM

KOAT-TV, 7, Albuquerque, NM

KRQE, 13, Albuquerque, NM (formerly KGGM)

Union

KAMR-TV, 4, Amarillo, TX (formerly KGNC)

KVII-TV, 7, Amarillo, TX

KFDA-TV, 10, Amarillo, TX

KKTV, 11, Colorado Springs, CO

KRDO-TV, 13, Colorado Springs, CO

Valencia

KOB-TV, 4, Albuquerque, NM

KOAT-TV, 7, Albuquerque, NM

KRQE, 13, Albuquerque, NM (formerly KGGM)

+KASA-TV, 2, Santa Fe, NM (formerly KNMZ)

Albuquerque—KASA-TV

Corrales—KASA-TV

Kirkland AFB—KASA-TV

Paradise Hills—KASA-TV

New York

Albany

WRGB, 6, Schenectady, NY

WTEN, 10, Albany, NY

WNYT, 13, Albany, NY (formerly WAST)

+WXXA-TV, 23, Albany, NY

Alleghany

WGRZ-TV, 2, Buffalo, NY (formerly WGR)

WIVB-TV, 4, Buffalo, NY (formerly WBEN)

WKBW-TV, 7, Buffalo, NY

Bronx

WCBS-TV, 2, New York, NY

WNBC, 4, New York, NY

WNYW, 5, New York, NY (formerly WNEW)

WABC-TV, 7, New York, NY

WWOR-TV, 9, New York, NY (formerly WOR)

WPIX, 11, New York, NY

Broome

WBNG-TV, 12, Binghamton, NY (formerly WNBF)

WIVT, 34, Binghamton, NY (formerly WBJA)

WICZ-TV, 40, Binghamton, NY (formerly WINR)

Cattaraugus

WGRZ-TV, 2, Buffalo, NY (formerly WGR)

WIVB-TV, 4, Buffalo, NY (formerly WBEN)

WKBW-TV, 7, Buffalo, NY

+WNYO-TV, 49, Buffalo, NY (formerly WNYB)

Cayuga

WSTM-TV, 3, Syracuse, NY (formerly WSYR)

WTVH, 5, Syracuse, NY (formerly WHEN)

WIXT, 9, Syracuse, NY (formerly WNYS)

+WSYT, 68, Syracuse, NY

WHEC-TV, 10, Rochester, NY

WOKR, 13, Rochester, NY

Chautauqua

WGRZ-TV, 2, Buffalo, NY (formerly WGR)

WIVB-TV, 4, Buffalo, NY (formerly WBEN)

WKBW-TV, 7, Buffalo, NY

Chemung

WETM-TV, 18, Elmira, NY (formerly WSYE)

WENY-TV, 36, Elmira, NY

WBNG-TV, 12, Binghamton, NY (formerly WNBF)

WNYW, 5, New York, NY (formerly WNEW)

Chenango

WSTM-TV, 3, Syracuse, NY (formerly WSYR)

WTVH, 5, Syracuse, NY (formerly WHEN)

WIXT, 9, Syracuse, NY (formerly WNYS)

WBNG-TV, 12, Binghamton, NY (formerly WNBF)

WICZ-TV, 40, Binghamton, NY (formerly WINR)

Clinton

WCAX-TV 3, Burlington, VT

WPTZ, 5, Plattsburgh, NY

WVNY, 22, Burlington, VT

CBMT, 6, Canada

CFCF, 12, Canada

Columbia

WRGB, 6, Schenectady, NY

WTEN, 10, Albany, NY

WNYT, 13, Albany, NY (formerly WAST)

+WXXA-TV, 23, Albany, NY

+WRNN-TV, 62, Kingston, NY (formerly WTZA)

Cortland

WSTM-TV, 3, Syracuse, NY (formerly WSYR)

WTVH, 5, Syracuse, NY (formerly WHEN)

WIXT, 9, Syracuse, NY (formerly WNYS)

+WSYT, 68, Syracuse, NY

Delaware

WBNG-TV, 12, Binghamton, NY (formerly WNBF)

WRGB, 6, Schenectady, NY

WTEN, 10, Albany, NY

WKTV, 2, Utica, NY

Dutchess

WCBS-TV, 2, New York, NY

WNBC, 4, New York, NY

WNYW, 5, New York, NY (formerly WNEW)

WABC-TV, 7, New York, NY

WWOR-TV, 9, New York, NY (formerly WOR)

WPIX, 11, New York, NY

WTEN, 10, Albany, NY

+WXXA-TV, 23, Albany, NY

+WRNN-TV, 62, Kingston, NY (formerly WTZA)

Erie

WGRZ-TV, 2, Buffalo, NY (formerly WGR)

WIVB-TV, 4, Buffalo, NY (formerly WBEN)

WKBW-TV, 7, Buffalo, NY

WUTV, 29, Buffalo, NY

+WNYO-TV, 49, Buffalo, NY (formerly WNYB)

Essex

WCAX-TV, 3, Burlington, VT

WPTZ, 5, Plattsburgh, NY

Franklin

WCAX-TV, 3, Burlington, VT

WPTZ, 5, Plattsburgh, NY

CBOT, 4, Canada

CBMT, 6, Canada

CJOH, 8, Canada (formerly CJSS)

CFCF, 12, Canada

Fulton

WRGB, 6, Schenectady, NY

WTEN, 10, Albany, NY

WNYT, 13, Albany, NY (formerly WAST)

+WXXA-TV, 23, Albany, NY

Genesee

WGRZ-TV, 2, Buffalo, NY (formerly WGR)

WIVB-TV, 4, Buffalo, NY (formerly WBEN)

WKBW-TV, 7, Buffalo, NY

+WNYO-TV, 49, Buffalo, NY (formerly WNYB)

WROC-TV, 8, Rochester, NY

WHEC-TV, 10, Rochester, NY

WOKR, 13, Rochester, NY

Greene

WRGB, 6, Schenectady, NY

WTEN, 10, Albany, NY

WNYT, 13, Albany, NY (formerly WAST)

+WXXA-TV, 23, Albany, NY

+WRNN-TV, 62, Kingston, NY (formerly WTZA)

Hamilton

WRGB, 6, Schenectady, NY

WTEN, 10, Albany, NY

Herkimer

WKTV, 2, Utica, NY

+WFXV, 33, Utica, NY

WRGB, 6, Schenectady, NY

WTEN, 10, Albany, NY

+WXXA-TV, 23, Albany, NY

WTVH, 5, Syracuse, NY (formerly WHEN)

WIXT, 9, Syracuse, NY (formerly WNYS)

Jefferson

WWNY-TV, 7, Carthage, NY

+WWTI, 50, Watertown, NY

WSTM-TV, 3, Syracuse, NY (formerly WSYR)

WTVH, 5, Syracuse, NY (formerly WHEN)

CKWS, 11, Canada

Kings

WCBS-TV, 2, New York, NY

WNBC, 4, New York, NY

WNYW, 5, New York, NY (formerly WNEW)

WABC-TV, 7, New York, NY

WWOR-TV, 9, New York, NY (formerly WOR)

WPIX, 11, New York, NY

Lewis

WWNY-TV, 7, Carthage, NY

+WWTI, 50, Watertown, NY

WSTM-TV, 3, Syracuse, NY (formerly WSYR)

WTVH, 5, Syracuse, NY (formerly WHEN)

WKTV, 2, Utica, NY

Livingston

WROC-TV, 8, Rochester, NY

WHEC-TV, 10, Rochester, NY

WOKR, 13, Rochester, NY

+WUHF, 31, Rochester, NY

WGRZ-TV, 2, Buffalo, NY (formerly WGR)

Madison

WSTM-TV, 3, Syracuse, NY (formerly WSYR)

WTVH, 5, Syracuse, NY (formerly WHEN)

WIXT, 9, Syracuse, NY (formerly WNYS)

+WSYT, 68, Syracuse, NY

WKTV, 2, Utica, NY

Monroe

WROC-TV, 8, Rochester, NY

WHEC-TV, 10, Rochester, NY

WOKR, 13, Rochester, NY

+WUHF, 31, Rochester, NY

Montgomery

WRGB, 6, Schenectady, NY

WTEN, 10, Albany, NY

WNYT, 13, Albany, NY (formerly WAST)

+WXXA-TV, 23, Albany, NY

WKTV, 2, Utica, NY

Nassau

WCBS-TV, 2, New York, NY

WNBC, 4, New York, NY

WNYW, 5, New York, NY (formerly WNEW)

WABC-TV, 7, New York, NY

WWOR-TV, 9, New York, NY (formerly WOR)

WPIX, 11, New York, NY

New York

WCBS-TV, 2, New York, NY

WNBC, 4, New York, NY

WNYW, 5, New York, NY (formerly WNEW)

WABC-TV, 7, New York, NY

WWOR-TV, 9, New York, NY (formerly WOR)

WPIX, 11, New York, NY

Niagara

WGRZ-TV, 2, Buffalo, NY (formerly WGR)

WIVB-TV, 4, Buffalo, NY (formerly WBEN)

WKBW-TV, 7, Buffalo, NY

WUTV, 29, Buffalo, NY

+WNYO-TV, 49, Buffalo, NY (formerly WNYB)

CBLT, 6, Canada

CFTO, 9, Canada

CHCH, 11, Canada

Oneida East

WKTV, 2, Utica, NY

WUTR, 20, Utica, NY

+WFXV, 33, Utica, NY

WSTM-TV, 3, Syracuse, NY (formerly WSYR)

WTVH, 5, Syracuse, NY (formerly WHEN)

WIXT, 9, Syracuse, NY (formerly WNYS)

+WSYT, 68, Syracuse, NY

Oneida West

WSTM-TV, 3, Syracuse, NY (formerly WSYR)

WTVH, 5, Syracuse, NY (formerly WHEN)

WIXT, 9, Syracuse, NY (formerly WNYS)

+WSYT, 68, Syracuse, NY

WKTV, 2, Utica, NY

+WFXV, 33, Utica, NY

Onondaga

WSTM-TV, 3, Syracuse, NY (formerly WSYR)

WTVH, 5, Syracuse, NY (formerly WHEN)

WIXT, 9, Syracuse, NY (formerly WNYS)

Ontario

WROC-TV, 8, Rochester, NY

WHEC-TV, 10, Rochester, NY

WOKR, 13, Rochester, NY

+WUHF, 31, Rochester, NY

WSTM-TV, 3, Syracuse, NY (formerly WSYR)

WTVH, 5, Syracuse, NY (formerly WHEN)

WIXT, 9, Syracuse, NY (formerly WNYS)

+WSYT, 68, Syracuse, NY

Orange

WCBS-TV, 2, New York, NY

WNBC, 4, New York, NY

WNYW, 5, New York, NY (formerly WNEW)

WABC-TV, 7, New York, NY

WWOR-TV, 9, New York, NY (formerly WOR)

WPIX, 11, New York, NY

Orlean

WGRZ-TV, 2, Buffalo, NY (formerly WGR)

WIVB-TV, 4, Buffalo, NY (formerly WBEN)

WKBW-TV, 7, Buffalo, NY

WUTV, 29, Buffalo, NY

WROC-TV, 8, Rochester, NY

WHEC-TV, 10, Rochester, NY

WOKR, 13, Rochester, NY

Oswego

WSTM-TV, 3, Syracuse, NY (formerly WSYR)

WTVH, 5, Syracuse, NY (formerly WHEN)

WNYS, 9, Syracuse, NY (formerly WNYS)

+WSYT, 68, Syracuse, NY

Otsego

WKTV, 2, Utica, NY

WRGB, 6, Schenectady, NY

WBNG-TV, 12, Binghamton, NY (formerly WNBF)

WTVH, 5, Syracuse, NY (formerly WHEN)

WIXT, 9, Syracuse, NY (formerly WNYS)

Putnam

WCBS-TV, 2, New York, NY

WNBC, 4, New York, NY

WNYW, 5, New York, NY (formerly WNEW)

WABC-TV, 7, New York, NY

WWOR-TV, 9, New York, NY (formerly WOR)

WPIX, 11, New York, NY

Queens

WCBS-TV, 2, New York, NY

WNBC, 4, New York, NY

WNYW, 5, New York, NY (formerly WNEW)

WABC-TV, 7, New York, NY

WWOR-TV, 9, New York, NY (formerly WOR)

WPIX, 11, New York, NY

Rensselaer

WRGB, 6, Schenectady, NY

WTEN, 10, Albany, NY

WNYT, 13, Albany, NY (formerly WAST)

+WXXA-TV, 23, Albany, NY

Richmond

WCBS-TV, 2, New York, NY

WNBC, 4, New York, NY

WNYW, 5, New York, NY (formerly WNEW)

WABC-TV, 7, New York, NY

WWOR-TV, 9, New York, NY (formerly WOR)

WPIX, 11, New York, NY

Rockland

WCBS-TV, 2, New York, NY

WNBC, 4, New York, NY

WNYW, 5, New York, NY (formerly WNEW)

WABC-TV, 7, New York, NY

WWOR-TV, 9, New York, NY (formerly WOR)

WPIX, 11, New York, NY

St. Lawrence

WWNY-TV, 7, Carthage, NY

+WWTI, 50, Watertown, NY

WPTZ, 5, Plattsburgh, NY

CBOT, 4, Canada

CJOH, 8, Canada (formerly CJSS)

CKWS, 11, Canada

Saratoga

WRGB, 6, Schenectady, NY

WTEN, 10, Albany, NY

WNYT, 13, Albany, NY (formerly WAST)

+WXXA-TV, 23, Albany, NY

Schenectady

WRGB, 6, Schenectady, NY

WTEN, 10, Albany, NY

WNYT, 13, Albany, NY (formerly WAST)

+WXXA-TV, 23, Albany, NY

Schoharie

WRGB, 6, Schenectady, NY

WTEN, 10, Albany, NY

WNYT, 13, Albany, NY (formerly WAST)

+WXXA-TV, 23, Albany, NY

Schuyler

WSTM-TV, 3, Syracuse, NY (formerly WSYR)

WTVH, 5, Syracuse, NY (formerly WHEN)

WIXT, 9, Syracuse, NY (formerly WNYS)

+WSYT, 68, Syracuse, NY

WROC-TV, 8, Rochester, NY

WHEC-TV, 10, Rochester, NY

Seneca

WSTM-TV, 3, Syracuse, NY (formerly WSYR)

WTVH, 5, Syracuse, NY (formerly WHEN)

WIXT, 9, Syracuse, NY (formerly WNYS)

+WSYT, 68, Syracuse, NY

WROC-TV, 8, Rochester, NY

WHEC-TV, 10, Rochester, NY

WOKR, 13, Rochester, NY

Steuben

WSTM-TV, 3, Syracuse, NY (formerly WSYR)

WTVH, 5, Syracuse, NY (formerly WHEN)

WIXT, 9, Syracuse, NY (formerly WNYS)

WBNG-TV, 12, Binghamton, NY (formerly WNBF)

WIVB-TV, 4, Buffalo, NY (formerly WBEN)

WKBW-TV, 7, Buffalo, NY

WETM-TV, 18, Elmira, NY (formerly WSYE)

Suffolk East

WCBS-TV, 2, New York, NY

WNBC, 4, New York, NY

WNYW, 5, New York, NY (formerly WNEW)

WABC-TV, 7, New York, NY

WWOR-TV, 9, New York, NY (formerly WOR)

WPIX, 11, New York, NY

WFSB, 3, Hartford, CT (formerly WTIC)

WTNH-TV, 8, New Haven, CT (formerly WNHC)

Suffolk West

WCBS-TV, 2, New York, NY

WNBC, 4, New York, NY

WNYW, 5, New York, NY (formerly WNEW)

WABC-TV, 7, New York, NY

WWOR-TV, 9, New York, NY (formerly WOR)

WPIX, 11, New York, NY

Sullivan

WCBS-TV, 2, New York, NY

WNBC, 4, New York, NY

WNYW, 5, New York, NY (formerly WNEW)

WABC-TV, 7, New York, NY

WWOR-TV, 9, New York, NY (formerly WOR)

WPIX, 11, New York, NY

Tioga

WBNG-TV, 12, Binghamton, NY (formerly WNBF)

WIVT, 34, Binghamton, NY (formerly WBJA)

WICZ-TV, 40, Binghamton, NY (formerly WINR)

Tompkins

WSTM-TV, 3, Syracuse, NY (formerly WSYR)

WTVH, 5, Syracuse, NY (formerly WHEN)

WIXT, 9, Syracuse, NY (formerly WNYS)

+WSYT, 68, Syracuse, NY

WBNG-TV, 12, Binghamton, NY (formerly WNBF)

Ulster

WCBS-TV, 2, New York, NY

WNBC, 4, New York, NY

WNYW, 5, New York, NY (formerly WNEW)

WABC-TV, 7, New York, NY

WWOR-TV, 9, New York, NY (formerly WOR)

WPIX, 11, New York, NY

WRGB, 6, Schenectady, NY

WTEN, 10, Albany, NY

+WXXA-TV, 23, Albany, NY

+WRNN-TV, 62, Kingston, NY (formerly WTZA)

Warren

WRGB, 6, Schenectady, NY

WTEN, 10, Albany, NY

WNYT, 13, Albany, NY (formerly WAST)

+WXXA-TV, 23, Albany, NY

Washington

WRGB, 6, Schenectady, NY

WTEN, 10, Albany, NY

WNYT, 13, Albany, NY (formerly WAST)

+WXXA-TV, 23, Albany, NY

Wayne

WROC-TV, 8, Rochester, NY

WHEC-TV, 10, Rochester, NY

WOKR, 13, Rochester, NY

+WUHF, 31, Rochester, NY

WSTM-TV, 3, Syracuse, NY (formerly WSYR)

WTVH, 5, Syracuse, NY (formerly WHEN)

WIXT, 9, Syracuse, NY (formerly WNYS)

+WSYT, 68, Syracuse, NY

Westchester

WCBS-TV, 2, New York, NY

WNBC, 4, New York, NY

WNYW, 5, New York, NY (formerly WNEW)

WABC-TV, 7, New York, NY

WWOR-TV, 9, New York, NY (formerly WOR)

WPIX, 11, New York, NY

Wyoming

WGRZ-TV, 2, Buffalo, NY (formerly WGR)

WIVB-TV, 4, Buffalo, NY (formerly WBEN)

WKBW-TV, 7, Buffalo, NY

+WNYO-TV, 49, Buffalo, NY (formerly WNYB)

WROC-TV, 8, Rochester, NY

WHEC-TV, 10, Rochester, NY

WOKR, 13, Rochester, NY

+WUHF, 31, Rochester, NY

Yates

WSTM-TV, 3, Syracuse, NY (formerly WSYR)

WTVH, 5, Syracuse, NY (formerly WHEN)

WIXT, 9, Syracuse, NY (formerly WNYS)

+WSYT, 68, Syracuse, NY

WROC-TV, 8, Rochester, NY

WHEC-TV, 10, Rochester, NY

Amherst -CBLT, CFTO

Bethel—WCBS-TV, WNBC, WNYW, WYOU-TV

Blasdell—CBLT, CFTO

Callicoon—WCBS-TV, WNBC, WNYW, WABC-TV, WWOR-TV, WPIX, WSWB,

WNEP-TV, WYOU-TV

Cheektowaga—CBLT, CFTO

Cochecton—WCBS-TV, WNBC, WNYW, WABC-TV, WWOR-TV, WPIX, WSWB,

WNEP-TV, WYOU-TV

Colchester—WCBS-TV, WNBC, WNYW, WABC-TV, WWOR-TV, WPIX, WSWB,

WNEP-TV, WYOU-TV

Delaware—WCBS-TV, WNBC, WNYW, WABC-TV, WWOR-TV, WPIX, WSWB,

WNEP-TV, WYOU-TV

Denning—WCBS-TV, WNBC, WNYW, WABC-TV, WWOR-TV, WPIX, WSWB,

WNEP-TV, WYOU-TV

Ellenville—WCBS-TV, WNBC, WNYW, WWOR-TV

Ellenville Vilage—WCBS-TV, WWOR-TV

Fallsburg Village—WWOR-TV

Forestburgh—WCBS-TV, WNBC, WNYW, WYOU-TV

Fremont—WCBS-TV, WNBC, WNYW, WABC-TV, WWOR-TV, WPIX, WSWB,

WNEP-TV, WYOU-TV

Gardiner—WRNN-TV, WCBS-TV, WNBC, WNYW, WABC-TV

Greenport—WVIT, WTXX

Hamburg—CBLT, CFTO

Jeffersonville—WCBS-TV, WNBC, WNYW, WABC-TV, WWOR-TV, WPIX, WSWB,

WNEP-TV, WYOU-TV

Kenmore Village—CBLT, CFTO

Lackawanna—CBLT, CFTO

Lloyd—WRNN-TV, WCBS-TV, WNBC, WNYW, WABC-TV

Lumberland—WCBS-TV, WNBC, WNYW, WABC-TV, WWOR-TV, WPIX, WSWB,

WNEP-TV, WYOU-TV

Mamakating—WCBS-TV, WNBC, WNYW, WABC-TV, WWOR-TV

Neversink—WCBS-TV, WNBC, WNYW, WABC-TV, WWOR-TV, WPIX, WSWB,

WNEP-TV, WYOU-TV

Quoque—WVIT, WTXX

Riverhead—WVIT, WTXX

Rochester (town)—WCBS-TV, WNBC, WNYW, WABC-TV, WWOR-TV

Rockland—WCBS-TV, WNBC, WNYW, WABC-TV, WWOR-TV, WPIX, WSWB,

WNEP-TV, WYOU-TV

Sag Harbor—WVIT, WTXX

Sloan—CBLT, CFTO

Southampton—WVIT, WTXX

Southampton Village, WVIT, WTXX

Southold—WVIT, WTXX

Tonawanda—CBLT, CFTO

Tusten—WCBS-TV, WNBC, WNYW, WABC-TV, WWOR-TV, WPIX, WSWB,

WNEP-TV, WYOU-TV

Wawarsing—WCBS-TV, WNBC, WNYW, WABC-TV, WWOR-TV

Westhampton—WVIT, WTXX

West Seneca—CBLT, CFTO

Williamsville—CBLT, CFTO

Woodridge Village—WCBS-TV, WNBC, WNYW, WABC-TV, WWOR-TV

North Carolina

Alamance

WFMY-TV, 2, Greensboro, NC

WGHP, 8, Greensboro, NC

WXII, 12, Greensboro, NC (formerly WSJS)

+WXLV-TV, 45, Winston-Salem, NC (formerly WNRW)

+WUPN-TV, 48, Greensboro, NC (formerly WGGT)

WRAL-TV, 5, Raleigh, NC

WTVD, 11, Durham, NC

+WLFL, 22, Raleigh, NC

Alexander

WBTV, 3, Charlotte, NC

WSOC-TV, 9, Charlotte, NC

WCNC-TV, 36, Charlotte, NC (formerly WRET)

+WJZY, 46, Belmont, NC

WGHP, 8, Greensboro, NC

WXII, 12, Greensboro, NC (formerly WSJS)

Alleghany

WFMY-TV, 2, Greensboro, NC

WGHP, 8, Greensboro, NC

WXII, 12, Greensboro, NC (formerly WSJS)

WBTV, 3, Charlotte, NC

WSOC-TV, 9, Charlotte, NC

WDBJ, 7, Roanoke, VA

WSLS-TV, 10, Roanoke, VA

Anson

WBTV, 3, Charlotte, NC

WSOC-TV, 9, Charlotte, NC

WCCB, 18, Charlotte, NC

WCNC-TV, 36, Charlotte, NC (formerly WRET)

+WJZY, 46, Belmont, NC

WBTW, 13, Florence, SC

+WWMB, 21, Florence, SC

WGHP, 8, Greensboro, NC

Ashe

WBTV, 3, Charlotte, NC

WCYB-TV, 5, Bristol, VA

+WFMY-TV, 2, Greensboro, NC

WGHP, 8, Greensboro, NC

Avery

WBTV, 3, Charlotte, NC

WSOC-TV, 9, Charlotte, NC

WCYB-TV, 5, Bristol, VA

Beaufort

WITN-TV, 7, Washington, NC

WNCT-TV, 9, Greenville, NC

WCTI, 12, New Bern, NC

Bertie

WITN-TV, 7, Washington, NC

WNCT-TV, 9, Greenville, NC

WTKR, 3, Norfolk, VA (formerly WTAR)

WAVY-TV, 10, Portsmouth, VA

WVEC-TV, 13, Hampton, VA

Bladen

WWAY, 3, Wilmington, NC

WECT, 6, Wilmington, NC

+WWMB, 21, Florence, SC

+WKFT, 40, Fayetteville, NC

Brunswick

WWAY, 3, Wilmington, NC

WECT, 6, Wilmington, NC

+WSFX-TV, 26, Wilmington, NC

Buncombe

WYFF, 4, Greenville, SC (formerly WFBC)

WSPA-TV, 7, Greenville, SC

WLOS, 13, Greenville, SC

+WHNS, 21, Greenville, SC

Burke

WBTV, 3, Charlotte, NC

WSOC-TV, 9, Charlotte, NC

+WCNC-TV, 36, Charlotte, NC

+WJZY, 46, Belmont, NC

WYFF, 4, Greenville, SC (formerly WFBC)

WSPA-TV, 7, Greenville, SC

WLOS, 13, Greenville, SC

+WHNS, 21, Greenville, SC

Cabarrus

WBTV, 3, Charlotte, NC

WSOC-TV, 9, Charlotte, NC

WCCB, 18, Charlotte, NC

WCNC-TV, 36, Charlotte, NC (formerly WRET)

+WJZY, 46, Belmont, NC

Caldwell

WBTV, 3, Charlotte, NC

WSOC-TV, 9, Charlotte, NC

+WCNC-TV, 36, Charlotte, NC

+WJZY, 46, Belmont, NC

WYFF, 4, Greenville, SC (formerly WFBC)

WSPA-TV, 7, Greenville, SC

WLOS, 13, Greenville, SC

+WHNS, 21, Greenville, SC

Camden

WTKR, 3, Norfolk, VA (formerly WTAR)

WAVY-TV, 10, Portsmouth, VA

WVEC-TV, 13, Hampton, VA

Carteret

WITN-TV, 7, Washington, NC

WNCT-TV, 9, Greenville, NC

WCTI, 12, New Bern, NC

Caswell

WFMY-TV, 2, Greensboro, NC

WGHP, 8, Greensboro, NC

WXII, 12, Greensboro, NC (formerly WSJS)

+WXLV-TV, 45, Winston-Salem, NC (formerly WNRW)

+WUPN-TV, 48, Greensboro, NC (formerly WGGT)

WRAL-TV, 5, Raleigh, NC

WDBJ, 7, Roanoke, VA

WSLS-TV, 10, Roanoke, VA

WSET-TV, 13, Lynchburg, VA (formerly WLVA)

Catawba

WBTV, 3, Charlotte, NC

WSOC-TV, 9, Charlotte, NC

WCCB, 18, Charlotte, NC

+WCNC-TV, 36, Charlotte, NC

+WJZY, 46, Belmont, NC

WSPA-TV, 7, Greenville, SC

WLOS, 13, Greenville, SC

+WHNS, 21, Greenville, SC

Chatham

WFMY-TV, 2, Greensboro, NC

WGHP, 8, Greensboro, NC

WRAL-TV, 5, Raleigh, NC

WTVD, 11, Durham, NC

+WLFL, 22, Raleigh, NC

WRDC, 28, Durham, NC (formerly WRDU)

+WKFT, 40, Fayetteville, NC

Cherokee

WRCB-TV, 3, Chattanooga, TN

WTVC, 9, Chattanooga, TN

WDEF-TV, 12, Chattanooga, TN

WYFF, 4, Greenville, SC (formerly WFBC)

WLOS-TV, 13, Greenville, SC

Chowan

WTKR, 3, Norfolk, VA (formerly WTAR)

WAVY-TV, 10, Portsmouth, VA

WVEC-TV, 13, Hampton, VA

WITN-TV, 7, Washington, NC

WNCT-TV, 9, Greenville, NC

Clay

WRCB-TV, 3, Chattanooga, TN

WTVC, 9, Chattanooga, TN

WDEF-TV, 12, Chattanooga, TN

WSB-TV, 2, Atlanta, GA

WAGA, 5, Atlanta, GA

WXIA-TV, 11, Atlanta, GA (formerly WQXI)

Cleveland

WBTV, 3, Charlotte, NC

WSOC-TV, 9, Charlotte, NC

+WCNC-TV, 36, Charlotte, NC

+WJZY, 46, Belmont, NC

WYFF, 4, Greenville, SC (formerly WFBC)

WSPA-TV, 7, Greenville, SC

WLOS, 13, Greenville, SC

+WHNS, 21, Greenville, SC

Columbus

WWAY, 3, Wilmington, NC

WECT, 6, Wilmington, NC

+WSFX-TV, 26, Wilmington, NC

WBTW, 13, Florence, SC

+WWMB, 21, Florence, SC

+WFXB, 43, Myrtle Beach, SC

Craven

WITN-TV, 7, Washington, NC

WNCT-TV, 9, Greenville, NC

WCTI, 12, New Bern, NC

Cumberland

WRAL-TV, 5, Raleigh, NC

WTVD, 11, Durham, NC

+WLFL, 22, Raleigh, NC

+WKFT, 40, Fayetteville, NC

WECT, 6, Wilmington, NC

+WBTW, 13, Florence, SC

Currituck

WTKR, 3, Norfolk, VA (formerly WTAR)

WAVY-TV, 10, Portsmouth, VA

WVEC-TV, 13, Hampton, VA

Dare

WTKR, 3, Norfolk, VA (formerly WTAR)

WAVY-TV, 10, Portsmouth, VA

WVEC-TV, 13, Hampton, VA

WITN-TV, 7, Washington, NC

Davidson

WFMY-TV, 2, Greensboro, NC

WGHP, 8, Greensboro, NC

WXII, 12, Greensboro, NC (formerly WSJS)

+WXLV-TV, 45, Winston-Salem, NC (formerly WNRW)

+WUPN-TV, 48, Greensboro, NC (formerly WGGT)

WBTV, 3, Charlotte, NC

WSOC-TV, 9, Charlotte, NC

+WJZY, 46, Belmont, NC

Davie

WFMY-TV, 2, Greensboro, NC

WGHP, 8, Greensboro, NC

WXII, 12, Greensboro, NC (formerly WSJS)

WBTV, 3, Charlotte, NC

WSOC-TV, 9, Charlotte, NC

Duplin

WITN-TV, 7, Washington, NC

WNCT-TV, 9, Greenville, NC

WRAL-TV, 5, Raleigh, NC

WTVD, 11, Durham, NC

+WLFL, 22, Raleigh, NC

WWAY, 3, Wilmington, NC

WECT, 6, Wilmington, NC

Durham

WRAL-TV, 5, Raleigh, NC

WTVD, 11, Durham, NC

+WLFL, 22, Raleigh, NC

WRDC, 28, Durham, NC (formerly WRDU)

+WKFT, 40, Fayetteville, NC

WFMY-TV, 2, Greensboro, NC

Edgecombe

WITN-TV, 7, Washington, NC

WNCT-TV, 9, Greenville, NC

WRAL-TV, 5, Raleigh, NC

WTVD, 11, Durham, NC

+WLFL, 22, Raleigh, NC

Forsyth

WFMY-TV, 2, Greensboro, NC

WGHP, 8, Greensboro, NC

WXII, 12, Greensboro, NC (formerly WSJS)

+WXLV-TV, 45, Winston-Salem, NC (formerly WNRW)

+WUPN-TV, 48, Greensboro, NC (formerly WGGT)

+WLXI-TV, 61, Greensboro, NC

+WJZY, 46, Belmont, NC

Franklin

WRAL-TV, 5, Raleigh, NC

WTVD, 11, Durham, NC

+WLFL, 22, Raleigh, NC

+WRDC, 28, Durham, NC (formerly WPTF, WRDU)

+WKFT, 40, Fayetteville, NC

WNCT-TV, 9, Greenville, NC

Gaston

WBTV, 3, Charlotte, NC

WSOC-TV, 9, Charlotte, NC

WCCB, 18, Charlotte, NC

WCNC-TV, 36, Charlotte, NC (formerly WRET)

WLOS, 13, Greenville, SC

Gates

WTKR, 3, Norfolk, VA (formerly WTAR)

WAVY-TV, 10, Portsmouth, VA

WVEC-TV, 13, Hampton, VA

Graham

WATE-TV, 6, Knoxville, TN

WBIR-TV, 10, Knoxville, TN

WYFF, 4, Greenville, SC (formerly WFBC)

WLOS, 13, Greenville, SC

Granville

WRAL-TV, 5, Raleigh, NC

WTVD, 11, Durham, NC

+WLFL, 22, Raleigh, NC

WRDC, 28, Durham, NC (formerly WRDU)

+WKFT, 40, Fayetteville, NC

Greene

WITN-TV, 7, Washington, NC

WNCT-TV, 9, Greenville, NC

WRAL-TV, 5, Raleigh, NC

WTVD, 11, Durham, NC

+WLFL, 22, Raleigh, NC

Guilford

WFMY-TV, 2, Greensboro, NC

WGHP, 8, Greensboro, NC

WXII, 12, Greensboro, NC (formerly WSJS)

+WXLV-TV, 45, Winston-Salem, NC (formerly WNRW)

+WUPN-TV, 48, Greensboro, NC (formerly WGGT)

+WLXI-TV, 61, Greensboro, NC

Halifax

WITN-TV, 7, Washington, NC

WNCT-TV, 9, Greenville, NC

WRAL-TV, 5, Raleigh, NC

WTVD, 11, Durham, NC

+WLFL, 22, Raleigh, NC

Harnett

WRAL-TV, 5, Raleigh, NC

WTVD, 11, Durham, NC

+WLFL, 22, Raleigh, NC

+WRDC, 28, Durham, NC (formerly WPTF, WRDU)

+WKFT, 40, Fayetteville, NC

WECT, 6, Wilmington, NC

Haywood

WYFF, 4, Greenville, SC (formerly WFBC)

WSPA-TV, 7, Greenville, SC

WLOS, 13, Greenville, SC

Henderson

WYFF, 4, Greenville, SC (formerly WFBC)

WSPA-TV, 7, Greenville, SC

WLOS, 13, Greenville, SC

+WHNS, 21, Greenville, SC

Hertford

WTKR, 3, Norfolk, VA (formerly WTAR)

WAVY-TV, 10, Portsmouth, VA

WVEC-TV, 13, Hampton, VA

Hoke

WRAL-TV, 5, Raleigh, NC

WTVD, 11, Durham, NC

+WLFL, 22, Raleigh, NC

+WKFT, 40, Fayetteville, NC

WBTW, 13, Florence, SC

+WFXB, 43, Myrtle Beach, SC

WGHP, 8, Greensboro, NC

WECT, 6, Wilmington, NC

Hyde

WITN-TV, 7, Washington, NC

WNCT-TV, 9, Greenville, NC

WCTI, 12, New Bern, NC

Iredell

WBTV, 3, Charlotte, NC

WSOC-TV, 9, Charlotte, NC

WCCB, 18, Charlotte, NC

WCNC-TV, 36, Charlotte, NC (formerly WRET)

+WJZY, 46, Belmont, NC

+WFMY-TV, 2, Greensboro, NC

WGHP, 8, Greensboro, NC

WXII, 12, Greensboro, NC (formerly WSJS)

+WUPN-TV, 48, Greensboro, NC (formerly WGGT)

Jackson

WYFF, 4, Greenville, SC (formerly WFBC)

WSPA-TV, 7, Greenville, SC

WLOS, 13, Greenville, SC

+WHNS, 21, Greenville, SC

Johnston

WRAL-TV, 5, Raleigh, NC

WTVD, 11, Durham, NC

+WLFL, 22, Raleigh, NC

+WRDC, 28, Durham, NC (formerly WPTF, WRDU)

+WKFT, 40, Fayetteville, NC

WITN-TV, 7, Washington, NC

WNCT-TV, 9, Greenville, NC

Jones

WITN-TV, 7, Washington, NC

WNCT-TV, 9, Greenville, NC

WCTI, 12, New Bern, NC

Lee

WRAL-TV, 5, Raleigh, NC

WTVD, 11, Durham, NC

+WLFL, 22, Raleigh, NC

WRDC, 28, Durham, NC (formerly WRDU)

+WKFT, 40, Fayetteville, NC

WFMY-TV, 2, Greensboro, NC

WGHP, 8, Greensboro, NC

Lenoir

WITN-TV, 7, Washington, NC

WNCT-TV, 9, Greenville, NC

WCTI, 12, New Bern, NC

WRAL-TV, 5, Raleigh, NC

Lincoln

WBTV, 3, Charlotte, NC

WSOC-TV, 9, Charlotte, NC

WCCB, 18, Charlotte, NC

WCNC-TV, 36, Charlotte, NC (formerly WRET)

WSPA-TV, 7, Greenville, SC

WLOS, 13, Greenville, SC

McDowell

WYFF, 4, Greenville, SC (formerly WFBC)

WSPA-TV, 7, Greenville, SC

WLOS, 13, Greenville, SC

WBTV, 3, Charlotte, NC

+WJZY, 46, Belmont, NC

Macon

WYFF, 4, Greenville, SC (formerly WFBC)

WSPA-TV, 7, Greenville, SC

WLOS, 13, Greenville, SC

WSB-TV, 2, Atlanta, GA

Madison

WYFF, 4, Greenville, SC (formerly WFBC)

WLOS, 13, Greenville, SC

Martin

WITN-TV, 7, Washington, NC

WNCT-TV, 9, Greenville, NC

WCTI, 12, New Bern, NC

Mecklenburg

WBTV, 3, Charlotte, NC

WSOC-TV, 9, Charlotte, NC

WCCB, 18, Charlotte, NC

WCNC-TV, 36, Charlotte, NC (formerly WRET)

Mitchell

WBTV, 3, Charlotte, NC

WCYB-TV, 5, Bristol, VA

WYFF, 4, Greenville, SC (formerly WFBC)

WSPA-TV, 7, Greenville, SC

WLOS, 13, Greenville, SC

Montgomery

WFMY-TV, 2, Greensboro, NC

WGHP, 8, Greensboro, NC

WBTV, 3, Charlotte, NC

WSOC-TV, 9, Charlotte, NC

+WKFT, 40, Fayetteville, NC

Moore

WFMY-TV, 2, Greensboro, NC

WGHP, 8, Greensboro, NC

+WUPN-TV, 48, Greensboro, NC (formerly WGGT)

WRAL-TV, 5, Raleigh, NC

WTVD, 11, Durham, NC

+WLFL, 22, Raleigh, NC

+WRDC, 28, Durham (formerly WPTF, WRDU)

+WKFT, 40, Fayetteville, NC

WECT, 6, Wilmington, NC

Nash

WITN-TV, 7, Washington, NC

WNCT-TV, 9, Greenville, NC

WRAL-TV, 5, Raleigh, NC

WTVD, 11, Durham, NC

+WLFL, 22, Raleigh, NC

+WRDC, 28, Durham, NC (formerly WPTF, WRDU)

New Hanover

WWAY, 3, Wilmington, NC

WECT, 6, Wilmington, NC

+WSFX-TV, 26, Wilmington, NC

Northampton

WTKR, 3, Norfolk, VA (formerly WTAR)

WAVY-TV, 10, Portsmouth, VA

WVEC-TV, 13, Hampton, VA

WITN-TV, 7, Washington, NC

WNCT-TV, 9, Greenville, NC

Onslow

WITN-TV, 7, Washington, NC

WNCT-TV, 9, Greenville, NC

WCTI, 12, New Bern, NC

WWAY, 3, Wilmington, NC

WECT, 6, Wilmington, NC

Orange

WRAL-TV, 5, Raleigh, NC

WTVD, 11, Durham, NC

+WLFL, 22, Raleigh, NC

WRDC, 28, Durham, NC (formerly WRDU)

+WKFT, 40, Fayetteville, NC

WFMY-TV, 2, Greensboro, NC

WGHP, 8, Greensboro, NC

Pamlico

WITN-TV, 7, Washington, NC

WNCT-TV, 9, Greenville, NC

WCTI, 12, New Bern, NC

Pasquotank

WTKR, 3, Norfolk, VA (formerly WTAR)

WAVY-TV, 10, Portsmouth, VA

WVEC-TV, 13, Hampton, VA

WGNT, 27, Portsmouth, VA (formerly WYAH)

+WTVZ, 33, Norfolk, VA

Pender

WWAY, 3, Wilmington, NC

WECT, 6, Wilmington, NC

+WSFX-TV, 26, Wilmington, NC

Perquimans

WTKR, 3, Norfolk, VA (formerly WTAR)

WAVY-TV, 10, Portsmouth, VA

WVEC-TV, 13, Hampton, VA

Person

WRAL-TV, 5, Raleigh, NC

WTVD, 11, Durham, NC

+WLFL, 22, Raleigh, NC

WRDC, 28, Durham, NC (formerly WRDU)

WFMY-TV, 2, Greensboro, NC

WDBJ, 7, Roanoke, VA

WSLS-TV, 10, Roanoke, VA

WSET-TV, 13, Lynchburg, VA (formerly WLVA)

Pitt

WITN-TV, 7, Washington, NC

WNCT-TV, 9, Greenville, NC

WCTI, 12, New Bern, NC

WRAL-TV, 5, Raleigh, NC

Polk

WYFF, 4, Greenville, SC (formerly WFBC)

WSPA-TV, 7, Greenville, SC

WLOS, 13, Greenville, SC

WBTV, 3, Charlotte, NC

Randolph

WFMY-TV, 2, Greensboro, NC

WGHP, 8, Greensboro, NC

WXII, 12, Greensboro, NC (formerly WSJS)

Richmond

WBTV, 3, Charlotte, NC

WSOC-TV, 9, Charlotte, NC

WBTW, 13, Florence, SC

+WPDE-TV, 15, Florence, SC

WGHP, 8, Greensboro, NC

+WLFL, 22, Raleigh, NC

+WKFT, 40, Fayetteville, NC

Robeson

WWAY, 3, Wilmington, NC

WECT, 6, Wilmington, NC

WBTW, 13, Florence, SC

+WPDE-TV, 15, Florence, SC

+WWMB, 21, Florence, SC

+WFXB, 43, Myrtle Beach, SC

WRAL-TV, 5, Raleigh, NC

WTVD, 11, Durham, NC

+WKFT, 40, Fayetteville, NC

Rockingham

WFMY-TV, 2, Greensboro, NC

WGHP, 8, Greensboro, NC

WXII, 12, Greensboro, NC (formerly WSJS)

WDBJ, 7, Roanoke, VA

WSLS-TV, 10, Roanoke, VA

Rowan

WBTV, 3, Charlotte, NC

WSOC-TV, 9, Charlotte, NC

WCCB, 18, Charlotte, NC

WCNC-TV, 36, Charlotte, NC (formerly WRET)

+WJZY, 46, Belmont, NC

WFMY-TV, 2, Greensboro, NC

WGHP, 8, Greensboro, NC

WXII, 12, Greensboro, NC (formerly WSJS)

+WXLV-TV, 45, Winston-Salem, NC (formerly WNRW)

+WUPN-TV, 48, Greensboro, NC (formerly WGGT)

Rutherford

WYFF, 4, Greenville, SC (formerly WFBC)

WSPA-TV, 7, Greenville, SC

WLOS, 13, Greenville, SC

+WHNS, 21, Greenville, SC

WBTV, 3, Charlotte, NC

WSOC-TV, 9, Charlotte, NC

+WJZY, 46, Belmont, NC

Sampson

WRAL-TV, 5, Raleigh, NC

WTVD, 11, Durham, NC

+WLFL, 22, Raleigh, NC

WITN-TV, 7, Washington, NC

WNCT-TV, 9, Greenville, NC

WWAY, 3, Wilmington, NC

WECT, 6, Wilmington, NC

Scotland

WBTW, 13, Florence, SC

+WPDE-TV, 15, Florence, SC

+WWMB, 21, Florence, NC

WGHP, 8, Greensboro, NC

WRAL-TV, 5, Raleigh, NC

WTVD, 11, Durham, NC

+WKFT, 40, Raleigh.NC

WECT, 6, Wilmington, NC

Stanly

WBTV, 3, Charlotte, NC

WSOC-TV, 9, Charlotte, NC

+WCNC-TV, 36, Charlotte, NC

+WJZY, 46, Belmont, NC

WGHP, 8, Greensboro, NC

Stokes

WFMY-TV, 2, Greensboro, NC

WGHP, 8, Greensboro, NC

WXII, 12, Greensboro, NC (formerly WSJS)

+WXLV-TV, 45, Winston-Salem, NC (formerly WNRW)

+WUPN-TV, 48, Greensboro, NC (formerly WGGT)

Surry

WFMY-TV, 2, Greensboro, NC

WGHP, 8, Greensboro, NC

WXII, 12, Greensboro, NC (formerly WSJS)

+WXLV-TV, 45, Winston-Salem, NC (formerly WNRW)

+WUPN-TV, 48, Greensboro, NC (formerly WGGT)

Swain

WYFF, 4, Greenville, SC (formerly WFBC)

WSPA-TV, 7, Greenville, SC

WLOS, 13, Greenville, SC

Transylvania

WYFF, 4, Greenville, SC (formerly WFBC)

WSPA-TV, 7, Greenville, SC

WLOS, 13, Greenville, SC

+WHNS, 21, Greenville, SC

Tyrrell

WTKR, 3, Norfolk, VA (formerly WTAR)

WAVY-TV, 10, Portsmouth, VA

WVEC-TV, 13, Hampton, VA

WITN-TV, 7, Washington, NC

WNCT-TV, 9, Greenville, NC

Union

WBTV, 3, Charlotte, NC

WSOC-TV, 9, Charlotte, NC

WCCB, 18, Charlotte, NC

WCNC-TV, 36, Charlotte, NC (formerly WRET)

+WJZY, 46, Belmont, NC

Vance

WRAL-TV, 5, Raleigh, NC

WTVD, 11, Durham, NC

+WLFL, 22, Raleigh, NC

+WRDC, 28, Durham, NC (formerly WPTF, WRDU)

+WKFT, 40, Fayetteville, NC

Wake

WRAL-TV, 5, Raleigh, NC

WTVD, 11, Durham, NC

+WLFL, 22, Raleigh, NC

+WRDC, 28, Durham, NC (formerly WPTF, WRDU)

+WKFT, 40, Fayetteville, NC

Warren

WRAL-TV, 5, Raleigh, NC

WTVD, 11, Durham, NC

+WLFL, 22, Raleigh, NC

+WRDC, 28, Durham, NC (formerly WPTF, WRDU)

WITN-TV, 7, Washington, NC

WNCT-TV, 9, Greenville, NC

Washington

WITN-TV, 7, Washington, NC

WNCT-TV, 9, Greenville, NC

WCTI, 12, New Bern, NC

Watauga

WBTV, 3, Charlotte, NC

+WJZY, 46, Charlotte, NC

WCYB-TV, 5, Bristol, VA

WGHP, 8, Greensboro, NC

Wayne

WITN-TV, 7, Washington, NC

WNCT-TV, 9, Greenville, NC

WRAL-TV, 5, Raleigh, NC

WTVD, 11, Durham, NC

+WLFL, 22, Raleigh, NC

+WKFT, 40, Fayetteville, NC

Wilkes

+WFMY-TV, 2, Greensboro, NC

WGHP, 8, Greensboro, NC

WXII, 12, Greensboro, NC (formerly WSJS)

+WXLV-TV, 45, Winston-Salem, NC (formerly WNRW)

WBTV, 3, Charlotte, NC

WSOC-TV, 9, Charlotte, NC

+WJZY, 46, Belmont, NC

Wilson

WITN-TV, 7, Washington, NC

WNCT-TV, 9, Greenville, NC

WRAL-TV, 5, Raleigh, NC

+WLFL, 22, Raleigh, NC

+WRDC, 28, Durham, NC (formerly WPTF, WRDU)

WTVD, 11, Durham, NC

Yadkin

WFMY-TV, 2, Greensboro, NC

WGHP, 8, Greensboro, NC

WXII, 12, Greensboro, NC (formerly WSJS)

WBTV, 3, Charlotte, NC

WSOC-TV, 9, Charlotte, NC

+WJZY, 46, Belmont, NC

Yancey

WYFF, 4, Greenville, SC (formerly WFBC)

WSPA-TV, 7, Greenville, SC

WLOS, 13, Greenville, SC

WCYB-TV, 5, Bristol, VA

Connelly Springs—WCCB

Drexel—WCCB

Fayetteville—WLFL, WRDC

Fort Bragg—WLFL, WRDC

Glen Alpine—WCCB

Hope Mills—WLFL, WRDC

Kill Devil Hills—WVEC-TV, WTKR, WAVY-TV

Kitty Hawk—WVEC-TV, WTKR, WAVY-TV

Manteo—WVEC-TV, WTKR, WAVY-TV

Nags Head—WVEC-TV, WTKR, WAVY-TV

Raleigh—WNCN

Rutherford College—WCCB

Southern Shores—WVEC-TV, WTKR, WAVY-TV

Spring Lake—WLFL, WRDC

Valdese—WCCB

Unincorporated areas of Burke County—WCCB

Unincorporated surrounding areas of Cumberland County—WLFL, WRDC

Unincorporated areas of Dare County—WVEC-TV, WTKR, WAVY-TV

Unincorporated areas of Wake County—WNCN

North Dakota

Adams

KXMA-TV, 2, Dickinson, ND (formerly KDIX)

KFYR-TV, 5, Bismarck, ND

Barnes

KXJB-TV, 4, Valley City, ND

WDAY-TV, 6, Fargo, ND

KVLY-TV, 11, Fargo, ND (formerly KTHI)

Benson

KXJB-TV, 4, Valley City, ND

WDAZ-TV, 8, Devils Lake, ND

KVLY-TV, 11, Fargo, ND (formerly KTHI)

KXMC-TV, 13, Minot, ND

Billings

KXMA-TV, 2, Dickinson, ND (formerly KDIX)

KFYR-TV, 5, Bismarck, ND

Bottineau

KMOT, 10, Minot, ND

KXMC-TV, 13, Minot, ND

Bowman

KXMA-TV, 2, Dickinson, ND (formerly KDIX)

KFYR-TV, 5, Bismarck, ND

KOTA-TV, 3, Rapid City, SD

Burke

KUMV-TV, 8, Williston, ND

KMOT, 10, Minot, ND

KXMC-TV, 13, Minot, ND

CKOS, 3, Canada

Burleigh

KFYR-TV, 5, Bismarck, ND

KXMB-TV, 12, Bismarck, ND

Cass

KXJB-TV, 4, Valley City, ND

WDAY-TV, 6, Fargo, ND

KVLY-TV, 11, Fargo, ND (formerly KTHI)

Cavalier

WDAZ-TV, 8, Devils Lake, ND

KNRR, 12, Pembina, ND (formerly KCND)

CKY, 7, Canada (formerly CJAY)

Dickey

KXJB-TV, 4, Valley City, ND

WDAY-TV, 6, Fargo, ND

KVLY-TV, 11, Fargo, ND (formerly KTHI)

KELO-TV, 11, Sioux Falls, SD

KSFY-TV, 13, Sioux Falls, SD (formerly KSOO)

Divide

KUMV-TV, 8, Williston, ND

KXMD-TV, 11, Williston, ND

CKTV, 2, Canada (formerly CKCK)

Dunn

KXMA-TV, 2, Dickinson, ND (formerly KDIX)

KFYR-TV, 5, Bismarck, ND

KUMV-TV, 8, Williston, ND

Eddy

KXJB-TV, 4, Valley City, ND

WDAZ-TV, 8, Devils Lake, ND

KVLY-TV, 11, Fargo, ND (formerly KTHI)

Emmons

KFYR-TV, 5, Bismarck, ND

KXMB-TV, 12, Bismarck, ND

Foster

KXJB-TV, 4, Valley City, ND

WDAY-TV, 6, Fargo, ND

WDAZ-TV, 8, Devils Lake, ND

KVLY-TV, 11, Fargo, ND (formerly KTHI)

Golden Valley

KUMV-TV, 8, Williston, ND

KXMA-TV, 2, Dickinson, ND (formerly KDIX)

Grand Forks

KXJB-TV, 4, Valley City, ND

WDAY-TV, 6, Fargo, ND

WDAZ-TV, 8, Devils Lake, ND

KVLY-TV, 11, Fargo, ND (formerly KTHI)

Grant

KFYR-TV, 5, Bismarck, ND

KXMB-TV, 12, Bismarck, ND

Griggs

KXJB-TV, 4, Valley City, ND

WDAY-TV, 6, Fargo, ND

WDAZ-TV, 8, Devils Lake, ND

KVLY-TV, 11, Fargo, ND (formerly KTHI)

Hettinger

KFYR-TV, 5, Bismarck, ND

KXMA-TV, 2, Dickinson, ND (formerly KDIX)

Kidder

KFYR-TV, 5, Bismarck, ND

KXMB-TV, 12, Bismarck, ND

La Moure

KXJB-TV, 4, Valley City, ND

WDAY-TV, 6, Fargo, ND

KVLY-TV, 11, Fargo, ND (formerly KTHI)

Logan

KFYR-TV, 5, Bismarck, ND

KXMB-TV, 12, Bismarck, ND

McHenry

KMOT, 10, Minot, ND

KXMC-TV, 13, Minot, ND

McIntosh

KFYR-TV, 5, Bismarck, ND

KXMB-TV, 12, Bismarck, ND

McKenzie

KUMV-TV, 8, Williston, ND

KXMD-TV, 11, Williston, ND

McLean

KFYR-TV 5, Bismarck, ND

KXMB-TV, 12, Bismarck, ND

KXMC-TV, 13, Minot, ND

Mercer

KFYR-TV, 5, Bismarck, ND

KXMC-TV, 13, Minot, ND

Morton East

KFYR-TV, 5, Bismarck, ND

KXMB-TV, 12, Bismarck, ND

Morton West

KFYR-TV, 5, Bismarck, ND

KXMB-TV, 12, Bismarck, ND

Mountrail

KUMV-TV, 8, Williston, ND

KMOT, 10, Minot, ND

KXMC-TV, 13, Minot, ND

Nelson

KXJB-TV, 4, Valley City, ND

WDAY-TV, 6, Fargo, ND

WDAZ-TV, 8, Devils Lake, ND

KVLY-TV, 11, Fargo, ND (formerly KTHI)

Oliver

KFYR-TV, 5, Bismarck, ND

KXMB-TV, 12, Bismarck, ND

Pembina

KNRR, 12, Pembina, ND (formerly KCND)

KXJB-TV, 4, Valley City, ND

WDAZ-TV, 8, Devils Lake, ND

CBWT, 6, Canada

CKY, 7, Canada (formerly CJAY)

Pierce

KMOT, 10, Minot, ND

KXMC-TV, 13, Minot, ND

Ramsey

KXJB-TV, 4, Valley City, ND

WDAZ-TV, 8, Devils Lake, ND

KVLY-TV, 11, Fargo, ND (formerly KTHI)

Ransom

KXJB-TV, 4, Valley City, ND

WDAY-TV, 6, Fargo, ND

KVLY-TV, 11, Fargo, ND (formerly KTHI)

Renville

KMOT, 10, Minot, ND

KXMC-TV, 13, Minot, ND

Richland

KXJB-TV, 4, Valley City, ND

WDAY-TV, 6, Fargo, ND

KVLY-TV, 11, Fargo, ND (formerly KTHI)

Rolette

KMOT, 10, Minot, ND

KXMC-TV, 13, Minot, ND

CKX, 5, Canada

Sargent

KXJB-TV, 4, Valley City, ND

WDAY-TV, 6, Fargo, ND

KVLY-TV, 11, Fargo, ND (formerly KTHI)

Sheridan

KFYR-TV, 5, Bismarck, ND

KXMC-TV, 13, Minot, ND

Sioux

KFYR-TV, 5, Bismarck, ND

KXMB-TV, 12, Bismarck, ND

Slope

KXMA-TV, 2, Dickinson, ND (formerly KDIX)

Stark

KXMA-TV, 2, Dickinson, ND (formerly KDIX)

KFYR-TV, 5, Bismarck, ND

Steele

KXJB-TV, 4, Valley City, ND

WDAY-TV, 6, Fargo, ND

KVLY-TV, 11, Fargo, ND (formerly KTHI)

Stutsman

KXJB-TV, 4, Valley City, ND

WDAY-TV, 6, Fargo, ND

KVLY-TV, 11, Fargo, ND (formerly KTHI)

KFYR-TV, 5, Bismarck, ND

Towner

KXJB-TV, 4, Valley City, ND

WDAZ-TV, 8, Devils Lake, ND

Traill

KXJB-TV, 4, Valley City, ND

WDAY-TV, 6, Fargo, ND

KVLY-TV, 11, Fargo, ND (formerly KTHI)

Walsh

KXJB-TV, 4, Valley City, ND

WDAZ-TV, 8, Devils Lake, ND

KVLY-TV, 11, Fargo, ND (formerly KTHI)

KNRR, 12, Pembina, ND (formerly KCND)

Ward

KMOT, 10, Minot, ND

KXMC-TV, 13, Minot, ND

Wells

KFYR-TV, 5, Bismarck, ND

KXMC-TV, 13, Minot, ND

KXJB-TV, 4, Valley City, ND

WDAZ-TV, 8, Devils Lake, ND

KVLY-TV, 11, Fargo, ND (formerly KTHI)

Williams

KUMV-TV, 8, Williston, ND

KXMD-TV, 11, Williston, ND

Ohio

Adams

WLWT, 5, Cincinnati, OH

WCPO-TV, 9, Cincinnati, OH

WKRC-TV, 12, Cincinnati, OH

+WSTR-TV, 64, Cincinnati, OH

Allen

WLIO, 35, Lima, OH (formerly WIMA)

+WTLW, 44, Lima, OH

WHIO-TV, 7, Dayton, OH

WANE-TV, 15, Fort Wayne, IN

+WFFT-TV, 55, Fort Wayne, IN

WTOL-TV, 11, Toledo, OH

WTVG, 13, Toledo, OH (formerly WSPD)

WNWO-TV, 24, Toledo, OH (formerly WDHO)

+WUPW, 36, Toledo, OH

Ashland

WKYC-TV, 3, Cleveland, OH

WEWS-TV, 5, Cleveland, OH

WJW, 8, Cleveland, OH

+WOIO, 19, Shaker Heights, OH

WUAB, 43, Lorain, OH

WQHS-TV, 61, Cleveland, OH (formerly WKBF-TV)

Ashtabula

WKYC-TV, 3, Cleveland, OH

WEWS-TV, 5, Cleveland, OH

WJW, 8, Cleveland, OH

+WOIO, 19, Shaker Heights, OH

WICU-TV, 12, Erie, PA

WJET-TV, 24, Erie, PA

WSEE, 35, Erie, PA

Athens

WSAZ-TV, 3, Huntington, WV

WCHS-TV, 8, Charleston, WV

WOWK-TV, 13, Huntington, WV (formerly WHTN)

+WVAH-TV, 11, Charleston, WV (formerly ch. 23)

WCMH-TV, 4, Columbus, OH (formerly WLWC)

Auglaize

WDTN, 2, Dayton, OH (formerly WLWD)

WHIO-TV, 7, Dayton, OH

+WRGT-TV, 45, Dayton, OH

WLIO, 35, Lima, OH (formerly WIMA)

+WTLW, 44, Lima, OH

+WFFT-TV, 55, Fort Wayne, IN

Belmont

WTRF-TV, 7, Wheeling, WV

WTOV-TV, 9, Steubenville, OH (formerly WSTV)

KDKA-TV, 2, Pittsburgh, PA

WTAE-TV, 4, Pittsburgh, PA

+WPGH-TV, 53, Pittsburgh, PA

Brown

WLWT, 5, Cincinnati, OH

WCPO-TV, 9, Cincinnati, OH

WKRC-TV, 12, Cincinnati, OH

WXIX-TV, 19, Cincinnati, OH

+WSTR-TV, 64, Cincinnati, OH

+WRGT-TV, 45, Dayton, OH

Butler

WLWT, 5, Cincinnati, OH

WCPO-TV, 9, Cincinnati, OH

WKRC-TV, 12, Cincinnati, OH

WXIX-TV, 19, Cincinnati, OH

+WSTR-TV, 64, Cincinnati, OH

WDTN, 2, Dayton, OH (formerly WLWD)

WHIO-TV, 7, Dayton, OH

+WKEF, 22, Dayton, OH

+WRGT-TV, 45, Dayton, OH

Carroll

WTRF-TV, 7, Wheeling, WV

WTOV-TV, 9, Steubenville, OH (formerly WSTV)

WKYC-TV, 3, Cleveland, OH

WEWS-TV, 5, Cleveland, OH

WJW, 8, Cleveland, OH

+WOIO, 19, Shaker Heights, OH

KDKA-TV, 2, Pittsburgh, PA

WTAE-TV, 4, Pittsburgh, PA

WPXI, 11, Pittsburgh, PA (formerly WIIC)

Champaign

WDTN, 2, Dayton, OH (formerly WLWD)

WHIO-TV, 7, Dayton, OH

+WRGT-TV, 45, Dayton, OH

WCMH-TV, 4, Columbus, OH (formerly WLWC)

WSYX, 6, Columbus, OH (formerly WTVN)

WBNS-TV, 10, Columbus, OH

+WTTE, 28, Columbus, OH

Clark

WDTN, 2, Dayton, OH (formerly WLWD)

WHIO-TV, 7, Dayton, OH

WKEF, 22, Dayton, OH

+WRGT-TV, 45, Dayton, OH

WCMH-TV, 4, Columbus, OH (formerly WLWC)

WSYX, 6, Columbus, OH (formerly WTVN)

WBNS-TV, 10, Columbus, OH

Clermont

WLWT, 5, Cincinnati, OH

WCPO-TV, 9, Cincinnati, OH

WKRC-TV, 12, Cincinnati, OH

WXIX-TV, 19, Cincinnati, OH

+WSTR-TV, 64, Cincinnati, OH

+WRGT-TV, 45, Dayton, OH

Clinton

WLWT, 5, Cincinnati, OH

WCPO-TV, 9, Cincinnati, OH

WKRC-TV, 12, Cincinnati, OH

+WSTR-TV, 64, Cincinnati, OH

WDTN, 2, Dayton, OH (formerly WLWD)

WHIO-TV, 7, Dayton, OH

WKEF, 22, Dayton, OH

+WRGT-TV, 45, Dayton, OH

Columbiana

KDKA-TV, 2, Pittsburgh, PA

WTAE-TV, 4, Pittsburgh, PA

WPXI, 11, Pittsburgh, PA (formerly WIIC)

+WPGH-TV, 53, Pittsburgh, PA

WKYC-TV, 3, Cleveland, OH

WEWS-TV, 5, Cleveland, OH

WJW, 8, Cleveland, OH

WTRF-TV, 7, Wheeling, WV

WTOV-TV, 9, Steubenville, OH (formerly WSTV)

WFMJ-TV, 21, Youngstown, OH

WKBN-TV, 27, Youngstown, OH

WYTV, 33, Youngstown, OH

Coshocton

WCMH-TV, 4, Columbus, OH (formerly WLWC)

WSYX, 6, Columbus, OH (formerly WTVN)

WBNS-TV, 10, Columbus, OH

+WTTE, 28, Columbus, OH

WTRF-TV, 7, Wheeling, WV

WTOV-TV, 9, Steubenville, OH (formerly WSTV)

WHIZ-TV, 18, Zanesville, OH

Crawford

WCMH-TV, 4, Columbus, OH (formerly WLWC)

WSYX, 6, Columbus, OH (formerly WTVN)

WBNS-TV, 10, Columbus, OH

+WTTE, 28, Columbus, OH

WKYC-TV, 3, Cleveland, OH

WEWS-TV, 5, Cleveland, OH

WJW, 8, Cleveland, OH

WTOL-TV, 11, Toledo, OH

WTVG, 13, Toledo, OH (formerly WSPD)

+WUPW, 36, Toledo, OH

Cuyahoga

WKYC-TV, 3, Cleveland, OH

WEWS-TV, 5, Cleveland, OH

WJW, 8, Cleveland, OH

+WOIO, 19, Shaker Heights, OH

WUAB, 43, Lorain, OH

WQHS-TV, 61, Cleveland, OH (formerly WKBF-TV)

Darke

WDTN, 2, Dayton, OH (formerly WLWD)

WHIO-TV, 7, Dayton, OH

WKEF, 22, Dayton, OH

+WRGT-TV, 45, Dayton, OH

WCPO-TV, 9, Cincinnati, OH

+WSTR-TV, 64, Cincinnati, OH

Defiance

WTOL-TV, 11, Toledo, OH

WTVG, 13, Toledo, OH (formerly WSPD)

WNWO-TV, 24, Toledo, OH (formerly WDHO)

+WUPW, 36, Toledo, OH

WANE-TV, 15, Fort Wayne, IN

WPTA, 21, Fort Wayne, IN

WKJG-TV, 33, Fort Wayne, IN

+WFFT-TV, 55, Fort Wayne, IN

Delaware

WCMH-TV, 4, Columbus, OH (formerly WLWC)

WSYX, 6, Columbus, OH (formerly WTVN)

WBNS-TV, 10, Columbus, OH

+WTTE, 28, Columbus, OH

Erie

WKYC-TV, 3, Cleveland, OH

WEWS-TV, 5, Cleveland, OH

WJW, 8, Cleveland, OH

+WOIO, 19, Shaker Heights, OH

WUAB, 43, Lorain, OH

WQHS-TV, 61, Cleveland, OH (formerly WKBF-TV)

WTOL-TV, 11, Toledo, OH

WTVG, 13, Toledo, OH (formerly WSPD)

+WUPW, 36, Toledo, OH

Fairfield

WCMH-TV, 4, Columbus, OH (formerly WLWC)

WSYX, 6, Columbus, OH (formerly WTVN)

WBNS-TV, 10, Columbus, OH

+WTTE, 28, Columbus, OH

Fayette

WCMH-TV, 4, Columbus, OH (formerly WLWC)

WSYX, 6, Columbus, OH (formerly WTVN)

WBNS-TV, 10, Columbus, OH

+WTTE, 28, Columbus, OH

WHIO-TV, 7, Dayton, OH

+WRGT-TV, 45, Dayton, OH

Franklin

WCMH-TV, 4, Columbus, OH (formerly WLWC)

WSYX, 6, Columbus, OH (formerly WTVN)

WBNS-TV, 10, Columbus, OH

+WTTE, 28, Columbus, OH

Fulton

WTOL-TV, 11, Toledo, OH

WTVG, 13, Toledo, OH (formerly WSPD)

WNWO-TV, 24, Toledo, OH (formerly WDHO)

+WUPW, 36, Toledo, OH

Gallia

WSAZ-TV, 3, Huntington, WV

WCHS-TV, 8, Charleston, WV

WOWK-TV, 13, Huntington, WV (formerly WHTN)

+WVAH-TV, 11, Charleston, WV (formerly ch. 23)

Geauga

WKYC-TV, 3, Cleveland, OH

WEWS-TV, 5, Cleveland, OH

WJW, 8, Cleveland, OH

+WOIO, 19, Shaker Heights, OH

WUAB, 43, Lorain, OH

WQHS-TV, 61, Cleveland, OH (formerly WKBF-TV)

Greene

WDTN, 2, Dayton, OH (formerly WLWD)

WHIO-TV, 7, Dayton, OH

WKEF, 22, Dayton, OH

+WRGT-TV, 45, Dayton, OH

WCPO-TV, 9, Cincinnati, OH

WKRC-TV, 12, Cincinnati, OH

Guernsey

WTRF-TV, 7, Wheeling, WV

WTOV-TV, 9, Steubenville, OH (formerly WSTV)

+WTTE, 28, Columbus, OH

Hamilton

WLWT, 5, Cincinnati, OH

WCPO-TV 9, Cincinnati, OH

WKRC-TV, 12, Cincinnati, OH

WXIX-TV, 19, Cincinnati, OH

+WSTR-TV, 64, Cincinnati, OH

+WRGT-TV, 45, Dayton, OH

Hancock

WTOL-TV, 11, Toledo, OH

WTVG, 13, Toledo, OH (formerly WSPD)

WNWO-TV, 24, Toledo, OH (formerly WDHO)

+WUPW, 36, Toledo, OH

Hardin

WCMH-TV, 4, Columbus, OH (formerly WLWC)

WSYX, 6, Columbus, OH (formerly WTVN)

WBNS-TV, 10, Columbus, OH

+WTTE, 28, Columbus, OH

WTOL-TV, 11, Toledo, OH

WTVG, 13, Toledo, OH (formerly WSPD)

+WUPW, 36, Toledo, OH

+WTLW, 44, Lima, OH

Harrison

WTRF-TV, 7, Wheeling, WV

WTOV-TV, 9, Steubenville, OH (formerly WSTV)

KDKA-TV, 2, Pittsburgh, PA

WTAE-TV, 4, Pittsburgh, PA

WPXI, 11, Pittsburgh, PA (formerly WIIC)

Henry

WTOL-TV, 11, Toledo, OH

WTVG, 13, Toledo, OH (formerly WSPD)

WNWO-TV, 24, Toledo, OH (formerly WDHO)

+WUPW, 36, Toledo, OH

Highland

WLWT, 5, Cincinnati, OH

WCPO-TV, 9, Cincinnati, OH

WKRC-TV, 12, Cincinnati, OH

WXIX-TV, 19, Cincinnati, OH

+WSTR-TV, 64, Cincinnati, OH

WCMH-TV, 4, Columbus, OH (formerly WLWC)

WSYX, 6, Columbus, OH (formerly WTVN)

WBNS-TV, 10, Columbus, OH

WHIO-TV, 7, Dayton, OH

+WRGT-TV, 45, Dayton, OH

Hocking

WCMH-TV, 4, Columbus, OH (formerly WLWC)

WSYX, 6, Columbus, OH (formerly WTVN)

WBNS-TV, 10, Columbus, OH

+WTTE, 28, Columbus, OH

Holmes

WKYC-TV, 3, Cleveland, OH

WEWS-TV, 5, Cleveland, OH

WJW, 8, Cleveland, OH

+WOIO, 19, Shaker Heights, OH

+WTTE, 28, Columbus, OH

Huron

WKYC-TV, 3, Cleveland, OH

WEWS-TV, 5, Cleveland, OH

WJW, 8, Cleveland, OH

+WOIO, 19, Shaker Heights, OH

WUAB, 43, Lorain, OH

WQHS-TV, 61, Cleveland, OH (formerly WKBF-TV)

WTOL-TV, 11, Toledo, OH

WTVG, 13, Toledo, OH (formerly WSPD)

+WUPW, 36, Toledo, OH

Jackson

WSAZ-TV, 3, Huntington, WV

WCHS-TV, 8, Charleston, WV

WOWK-TV, 13, Huntington, WV (formerly WHTN)

+WVAH-TV, 11, Charleston, WV (formerly ch. 23)

Jefferson

WTRF-TV, 7, Wheeling, WV

WTOV-TV, 9, Steubenville, OH (formerly WSTV)

KDKA-TV, 2, Pittsburgh, OH

WTAE-TV, 4, Pittsburgh, OH

WPXI, 11, Pittsburgh, OH (formerly WIIC)

+WPGH-TV, 53, Pittsburgh, OH

Knox

WCMH-TV, 4, Columbus, OH (formerly WLWC)

WSYX, 6, Columbus, OH (formerly WTVN)

WBNS-TV, 10, Columbus, OH

+WTTE, 28, Columbus, OH

Lake

WKYC-TV, 3, Cleveland, OH

WEWS-TV, 5, Cleveland, OH

WJW, 8, Cleveland, OH

+WOIO, 19, Shaker Heights, OH

WUAB, 43, Lorain, OH

WQHS-TV, 61, Cleveland, OH (formerly WKBF-TV)

Lawrence

WSAZ-TV, 3, Huntington, WV

WCHS-TV, 8, Charleston, WV

WOWK-TV, 13, Huntington, WV (formerly WHTN)

+WVAH-TV, 11, Charleston, WV (formerly ch. 23)

Licking

WCMH-TV, 4, Columbus, OH (formerly WLWC)

WSYX, 6, Columbus, OH (formerly WTVN)

WBNS-TV, 10, Columbus, OH

+WTTE, 28, Columbus, OH

Logan

WCMH-TV, 4, Columbus, OH (formerly WLWC)

WSYX, 6, Columbus, OH (formerly WTVN)

WBNS-TV, 10, Columbus, OH

+WTTE, 28, Columbus, OH

WDTN, 2, Dayton, OH (formerly WLWD)

WHIO-TV, 7, Dayton, OH

+WRGT-TV, 45, Dayton, OH

Lorain

WKYC-TV, 3, Cleveland, OH

WEWS-TV, 5, Cleveland, OH

WJW, 8, Cleveland, OH

+WOIO, 19, Shaker Heights, OH

WUAB, 43, Lorain, OH

WQHS-TV, 61, Cleveland, OH (formerly WKBF-TV)

Lucas

WTOL-TV, 11, Toledo, OH

WTVG, 13, Toledo, OH (formerly WSPD)

WNWO-TV, 24, Toledo, OH (formerly WDHO)

+WUPW, 36, Toledo, OH

WJBK, 2, Detroit, MI

WXYZ-TV, 7, Detroit, MI

+WKBD-TV, 50, Detroit, MI

Madison

WCMH-TV, 4, Columbus, OH (formerly WLWC)

WSYX, 6, Columbus, OH (formerly WTVN)

WBNS-TV, 10, Columbus, OH

+WTTE, 28, Columbus, OH

+WRGT-TV, 45, Dayton, OH

Mahoning

WFMJ-TV, 21, Youngstown, OH

WKBN-TV, 27, Youngstown, OH

WYTV, 33, Youngstown, OH

+WOIO, 19, Shaker Heights, OH

Marion

WCMH-TV, 4, Columbus, OH (formerly WLWC)

WSYX, 6, Columbus, OH (formerly WTVN)

WBNS-TV, 10, Columbus, OH

+WTTE, 28, Columbus, OH

Medina

WKYC-TV, 3, Cleveland, OH

WEWS-TV, 5, Cleveland, OH

WJW, 8, Cleveland, OH

+WOIO, 19, Shaker Heights, OH

WUAB, 43, Lorain, OH

WQHS-TV, 61, Cleveland, OH (formerly WKBF-TV)

Meigs

WSAZ-TV, 3, Huntington, WV

WCHS-TV, 8, Charleston, WV

WOWK-TV, 13, Huntington, WV (formerly WHTN)

+WVAH-TV, 11, Charleston, WV (formerly ch. 23)

Mercer

WDTN, 2, Dayton, OH (formerly WLWD)

WHIO-TV, 7, Dayton, OH

+WRGT-TV, 45, Dayton, OH

WANE-TV, 15, Fort Wayne, IN

WPTA, 21, Fort Wayne, IN

WKJG-TV, 33, Fort Wayne, IN

+WFFT-TV, 55, Fort Wayne, IN

WLIO, 35, Lima, OH (formerly WIMA)

+WTLW, 44, Lima, OH

Miami

WDTN, 2, Dayton, OH (formerly WLWD)

WHIO-TV, 7, Dayton, OH

WPTD, 16, Dayton, OH (formerly WKTR)

WKEF, 22, Dayton, OH

+WRGT-TV, 45, Dayton, OH

Monroe

WTRF-TV, 7, Wheeling, WV

WTOV-TV, 9, Steubenville, OH (formerly WSTV)

WDTV, 5, Clarksburg, WV

WTAE-TV, 4, Pittsburgh, PA

Montgomery

WDTN, 2, Dayton, OH (formerly WLWD)

WHIO-TV, 7, Dayton, OH

WPTD, 16, Dayton, OH (formerly WKTR)

WKEF, 22, Dayton, OH

+WRGT-TV, 45, Dayton, OH

WCPO-TV, 9, Cincinnati, OH

WKRC-TV, 12, Cincinnati, OH

+WSTR-TV, 64, Cincinnati, OH

Morgan

WCMH-TV, 4, Columbus, OH (formerly WLWC)

WSYX, 6, Columbus, OH (formerly WTVN)

WBNS-TV, 10, Columbus, OH

+WTTE, 28, Columbus, OH

WSAZ-TV, 3, Huntington, WV

WCHS-TV, 8, Charleston, WV

WOWK-TV, 13, Huntington, WV (formerly WHTN)

WTAP-TV, 15, Parkersburg, WV

WHIZ-TV, 18, Zanesville, OH

Morrow

WCMH-TV, 4, Columbus, OH (formerly WLWC)

WSYX, 6, Columbus, OH (formerly WTVN)

WBNS-TV, 10, Columbus, OH

Muskingum

WHIZ-TV, 18, Zanesville, OH

WCMH-TV, 4, Columbus, OH (formerly WLWC)

WSYX, 6, Columbus, OH (formerly WTVN)

WBNS-TV, 10, Columbus, OH

+WTTE, 28, Columbus, OH

Noble

WTRF-TV, 7, Wheeling, WV

WTOV-TV, 9, Steubenville, OH (formerly WSTV)

Ottawa

WTOL-TV, 11, Toledo, OH

WTVG, 13, Toledo, OH (formerly WSPD)

WNWO-TV, 24, Toledo, OH (formerly WDHO)

+WUPW, 36, Toledo, OH

WEWS-TV, 5, Cleveland, OH

WJBK, 2, Detroit, MI

Paulding

WANE-TV, 15, Fort Wayne, IN

WPTA, 21, Fort Wayne, IN

WKJG-TV, 33, Fort Wayne, IN

Perry

WCMH-TV, 4, Columbus, OH (formerly WLWC)

WSYX, 6, Columbus, OH (formerly WTVN)

WBNS-TV, 10, Columbus, OH

+WTTE, 28, Columbus, OH

WHIZ-TV, 18, Zanesville, OH

Pickaway

WCMH-TV, 4, Columbus, OH (formerly WLWC)

WSYX, 6, Columbus, OH (formerly WTVN)

WBNS-TV, 10, Columbus, OH

+WTTE, 28, Columbus, OH

Pike

WCMH-TV, 4, Columbus, OH (formerly WLWC)

WSYX, 6, Columbus, OH (formerly WTVN)

WBNS-TV, 10, Columbus, OH

WSAZ-TV, 3, Huntington, WV

WOWK-TV, 13, Huntington (formerly WHTN)

+WVAH-TV, 11, Charleston, WV (formerly ch. 23)

Portage

WKYC-TV, 3, Cleveland, OH

WEWS-TV, 5, Cleveland, OH

WJW, 8, Cleveland, OH

+WOIO, 19, Shaker Heights, OH

WUAB, 43, Lorain, OH

WQHS-TV, 61, Cleveland, OH (formerly WKBF-TV)

Preble

WDTN, 2, Dayton, OH (formerly WLWD)

WHIO-TV, 7, Dayton, OH

WKEF, 22, Dayton, OH

+WRGT-TV, 45, Dayton, OH

WLWT, 5, Cincinnati, OH

WCPO-TV, 9, Cincinnati, OH

WKRC-TV, 12, Cincinnati, OH

WXIX-TV, 19, Cincinnati, OH

+WSTR-TV, 64, Cincinnati, OH

Putnam

WTOL-TV, 11, Toledo, OH

WTVG, 13, Toledo, OH (formerly WSPD)

WNWO-TV, 24, Toledo, OH (formerly WDHO)

+WUPW, 36, Toledo. OH

WLIO, 35, Lima, OH (formerly WIMA)

+WTLW, 44, Lima, OH

+WFFT-TV, 55, Fort Wayne, IN

Richland

WKYC-TV, 3, Cleveland, OH

WEWS-TV, 5, Cleveland, OH

WJW, 8, Cleveland, OH

+WOIO, 19, Shaker Heights, OH

WBNS-TV, 10, Columbus, OH

+WTTE, 28, Columbus, OH

Ross

WCMH-TV, 4, Columbus, OH (formerly WLWC)

WSYX, 6, Columbus, OH (formerly WTVN)

WBNS-TV, 10, Columbus, OH

+WTTE, 28, Columbus, OH

Sandusky

WTOL-TV, 11, Toledo, OH

WTVG, 13, Toledo, OH (formerly WSPD)

WNWO-TV, 24, Toledo, OH (formerly WDHO)

+WUPW, 36, Toledo, OH

Scioto

WSAZ-TV, 3, Huntington, WV

WCHS-TV, 8, Charleston, WV

WOWK-TV, 13, Huntington, WV (formerly WHTN)

+WVAH-TV, 11, Charleston, WV (formerly ch. 23)

Seneca

WTOL-TV, 11, Toledo, OH

WTVG, 13, Toledo, OH (formerly WSPD)

WNWO-TV, 24, Toledo, OH (formerly WDHO)

+WUPW, 36, Toledo, OH

WEWS-TV, 5, Cleveland, OH

Shelby

WDTN, 2, Dayton, OH (formerly WLWD)

WHIO-TV, 7, Dayton, OH

WKEF, 22, Dayton, OH

+WRGT-TV, 45, Dayton, OH

Stark

WKYC-TV, 3, Cleveland, OH

WEWS-TV, 5, Cleveland, OH

WJW, 8, Cleveland, OH

+WOIO, 19, Shaker Heights, OH

WUAB, 43, Lorain, OH

WQHS-TV, 61, Cleveland, OH (formerly WKBF-TV)

+WOAC, 67, Canton, OH

Summit

WKYC-TV, 3, Cleveland, OH

WEWS-TV, 5, Cleveland, OH

WJW, 8, Cleveland, OH

+WOIO, 19, Shaker Heights, OH

WVPX, 23, Akron, OH (formerly WAKR, WAKC)

WUAB, 43, Lorain, OH

WQHS-TV, 61, Cleveland, OH (formerly WKBF-TV)

Trumbull

WFMJ-TV, 21, Youngstown, OH

WKBN-TV, 27, Youngstown, OH

WYTV, 33, Youngstown, OH

WKYC-TV, 3, Cleveland, OH

WEWS-TV, 5, Cleveland, OH

WJW, 8, Cleveland, OH

+WOIO, 19, Shaker Heights, OH

Tuscarawas

WKYC-TV, 3, Cleveland, OH

WEWS-TV, 5, Cleveland, OH

WJW, 8, Cleveland, OH

+WOIO, 19, Shaker Heights, OH

WTRF-TV, 7, Wheeling, WV

WTOV-TV, 9, Steubenville, OH (formerly WSTV)

Union

WCMH-TV, 4, Columbus, OH (formerly WLWC)

WSYX, 6, Columbus, OH (formerly WTVN)

WBNS-TV, 10, Columbus, OH

+WTTE, 28, Columbus, OH

Van Wert

WANE-TV, 15, Fort Wayne, IN

WPTA, 21, Fort Wayne, IN

WKJG-TV, 33, Fort Wayne, IN

+WFFT-TV, 55, Fort Wayne, IN

WLIO, 35, Lima, OH (formerly WIMA)

+WTLW, 44, Lima, OH

Vinton

WSAZ-TV, 3, Huntington, WV

WCHS-TV, 8, Charleston, WV

WOWK-TV, 13, Huntington, WV (formerly WHTN)

WCMH-TV, 4, Columbus, OH (formerly WLWC)

WSYX, 6, Columbus, OH (formerly WTVN)

WBNS-TV, 10, Columbus, OH

Warren

WLWT, 5, Cincinnati, OH

WCPO-TV, 9, Cincinnati, OH

WKRC-TV, 12, Cincinnati, OH

WXIX-TV, 19, Cincinnati, OH

+WSTR-TV, 64, Cincinnati, OH

WDTN, 2, Dayton, OH (formerly WLWD)

WHIO-TV, 7, Dayton, OH

WKEF, 22, Dayton, OH

+WRGT-TV, 45, Dayton, OH

Washington

#WSAZ-TV, 3, Huntington, WV ²²

²² Affected community is Marietta, OH.

WCHS-TV, 8, Charleston, WV

WOWK-TV, 13, Huntington, WV (formerly WHTN)

+WVAH-TV, 11, Charleston, WV (formerly ch. 23)

WTAP-TV, 15, Parkersburg, WV

WTRF-TV, 7, Wheeling, WV

Wayne

WKYC-TV, 3, Cleveland, OH

WEWS-TV, 5, Cleveland, OH

WJW, 8, Cleveland, OH

+WOIO, 19, Shaker Heights, OH

WUAB, 43, Lorain, OH

WQHS-TV, 61, Cleveland, OH (formerly WKBF-TV)

+WOAC, 67, Akron, OH

Williams

WTOL-TV, 11, Toledo, OH

WTVG, 13, Toledo, OH (formerly WSPD)

WNWO-TV, 24, Toledo, OH (formerly WDHO)

+WUPW, 36, Toledo, OH

WANE-TV, 15, Fort Wayne, IN

WPTA, 21, Fort Wayne, IN

WKJG-TV, 33, Fort Wayne, IN

+WFFT-TV, 55, Fort Wayne, IN

Wood

WTOL-TV, 11, Toledo, OH

WTVG, 13, Toledo, OH (formerly WSPD)

WNWO-TV, 24, Toledo, OH (formerly WDHO)

+WUPW, 36, Toledo, OH

WKBD-TV, 50, Detroit, MI

Wyandot

WTOL-TV, 11, Toledo, OH

WTVG, 13, Toledo, OH (formerly WSPD)

WNWO-TV, 24, Toledo, OH (formerly WDHO)

+WUPW, 36, Toledo, OH

WCMH-TV, 4, Columbus, OH (formerly WLWC)

WBNS-TV, 10, Columbus, OH

+WTTE, 28, Columbus, OH

Ashtabula—WUAB

Ashtabula Township—WUAB

Austinburg Township—WUAB

Austintown Township—WJW

Canfield—WJW

Canfield Township (portions)—WJW

Geneva—WUAB

Geneva Township—WUAB

Geneva-on-the-Lake Village—WUAB

Harpersfield Township—WUAB

Jefferson Village—WUAB

Jefferson Township—WUAB

Kingsville Township—WUAB

Madison Village—WUAB

McDonald Township—WJW

Plymouth Township—WUAB

Sabina—WSYX, WBNS-TV

Saybrook Township—WUAB

Weathersfield Township—WJW

Oklahoma

Adair

KJRH, 2, Tulsa, OK (formerly KTEW)

KOTV, 6, Tulsa, OK

KTUL, 8, Tulsa, OK

+KOKI-TV, 23, Tulsa, OK

Alfalfa

KFOR-TV, 4, Oklahoma City, OK (formerly WKY)

KOCO-TV, 5, Oklahoma City, OK

KWTV, 9, Oklahoma City, OK

Atoka

KTEN, 10, Ada, OK

KXII, 12, Sherman, TX

Beaver

KBSD-TV, 6, Ensign, KS (formerly KTVC)

KSNG, 11, Garden City, KS (formerly KGLD)

KUPK-TV, 13, Garden City, KS

Beckham

KFDA-TV, 10, Amarillo, TX

KSWO-TV, 7, Lawton, OK

+KOKH-TV, 25, Oklahoma City, OK

Blaine

KFOR-TV, 4, Oklahoma City, OK (formerly WKY)

KOCO-TV, 5, Oklahoma City, OK

KWTV, 9, Oklahoma City, OK

+KAUT-TV, 43, Oklahoma City, OK

Bryan

KTEN, 10, Ada, OK

KXII, 12, Sherman, TX

KDFW, 4, Dallas, TX

WFAA-TV, 8, Dallas, TX

KTVT, 11, Fort Worth, TX

Caddo

KFOR-TV, 4, Oklahoma City, OK (formerly WKY)

KOCO-TV, 5, Oklahoma City, OK

KWTV, 9, Oklahoma City, OK

+KTBO-TV, 14, Oklahoma City, OK

+KOKH-TV, 25, Oklahoma City, OK

+KOCB, 34, Oklahoma City, OK (formerly KGMC)

+KAUT-TV, 43, Oklahoma City, OK

Canadian

KFOR-TV, 4, Oklahoma City, OK (formerly WKY)

KOCO-TV, 5, Oklahoma City, OK

KWTV, 9, Oklahoma City, OK

+KOKH-TV, 25, Oklahoma City, OK

+KOCB, 34, Oklahoma City, OK (formerly KGMC)

+KAUT-TV, 43, Oklahoma City, OK

Carter

KTEN, 10, Ada, OK

KXII, 12, Sherman, TX

KWTV, 9, Oklahoma City, OK

KFDX-TV, 3, Wichita Falls, TX

KAUZ-TV, 6, Wichita Falls, TX

Cherokee

KJRH, 2, Tulsa, OK (formerly KTEW)

KOTV, 6, Tulsa, OK

KTUL, 8, Tulsa, OK

+KOKI-TV, 23, Tulsa, OK

Choctaw

KTVT, 11, Fort Worth, TV

KTEN, 10, Ada, OK

KXII, 12, Sherman, TX

Cimarron

KAMR-TV, 4, Amarillo, TX (formerly KGNC)

KVII-TV, 7, Amarillo, TX

KFDA-TV, 10, Amarillo, TX

Cleveland

KFOR-TV, 4, Oklahoma City, OK (formerly WKY)

KOCO-TV, 5, Oklahoma City, OK

KWTV, 9, Oklahoma City, OK

+KTBO-TV, 14, Oklahoma City, OK

+KOKH-TV, 25, Oklahoma City, OK

+KAUT-TV, 43, Oklahoma City, OK

Coal

KTEN, 10, Ada, OK

KXII, 12, Sherman, TX

KFOR-TV, 4, Oklahoma City, OK (formerly WKY)

Comanche

KFDX-TV, 3, Wichita Falls, TX

KAUZ-TV, 6, Wichita Falls, TX

KSWO-TV, 7, Lawton, OK

+KJTL, 18, Wichita Falls, TX

Cotton

KFDX-TV, 3, Wichita Falls, TX

KAUZ-TV, 6, Wichita Falls, TX

KSWO-TV, 7, Lawton, OK

Craig

KJRH, 2, Tulsa, OK (formerly KTEW)

KOTV, 6, Tulsa, OK

KTUL, 8, Tulsa, OK

+KOKI-TV, 23, Tulsa, OK

KOAM-TV, 7, Pittsburg, KS

Creek

KJRH, 2, Tulsa, OK (formerly KTEW)

KOTV, 6, Tulsa, OK

KTUL, 8, Tulsa, OK

+KOKI-TV, 23, Tulsa, OK

Custer

KFOR-TV, 4, Oklahoma City, OK (formerly WKY)

KOCO-TV, 5, Oklahoma City, OK

KWTV, 9, Oklahoma City, OK

+KOCB, 34, Oklahoma City, OK (formerly KGMC)

+KAUT-TV, 43, Oklahoma City, OK

Delaware

KJRH, 2, Tulsa, OK (formerly KTEW)

KOTV, 6, Tulsa, OK

KTUL, 8, Tulsa, OK

+KOKI-TV, 23, Tulsa, OK

KOAM-TV, 7, Pittsburg, KS

KODE-TV, 12, Joplin, MO

Dewey

KFOR-TV, 4, Oklahoma City, OK (formerly WKY)

KOCO-TV, 5, Oklahoma City, OK

KWTV, 9, Oklahoma City, OK

Ellis

KFOR-TV, 4, Oklahoma City, OK (formerly WKY)

KOCO-TV, 5, Oklahoma City, OK

KWTV, 9, Oklahoma City, OK

KAMR-TV, 4, Amarillo, TX (formerly KGNC)

KFDA-TV, 10, Amarillo, TX

Garfield

KFOR-TV, 4, Oklahoma City, OK (formerly WKY)

KOCO-TV, 5, Oklahoma City, OK

KWTV, 9, Oklahoma City, OK

+KOKH-TV, 25, Oklahoma City, OK

+KAUT-TV, 43, Oklahoma City, OK

Garvin

KFOR-TV, 4, Oklahoma City, OK (formerly WKY)

KOCO-TV, 5, Oklahoma City, OK

KWTV, 9, Oklahoma City, OK

+KOKH-TV, 25, Oklahoma City, OK

+KOCB, 34, Oklahoma City, OK (formerly KGMC)

+KAUT-TV, 43, Oklahoma City, OK

KTEN, 10, Ada, OK

Grady

KFOR-TV, 4, Oklahoma City, OK (formerly WKY)

KOCO-TV, 5, Oklahoma City, OK

KWTV, 9, Oklahoma City, OK

+KOKH-TV, 25, Oklahoma City, OK

+KOCB, 34, Oklahoma City, OK (formerly KGMC)

+KAUT-TV, 43, Oklahoma City, OK

Grant

KFOR-TV, 4, Oklahoma City, OK (formerly WKY)

KOCO-TV, 5, Oklahoma City, OK

KWTV, 9, Oklahoma City, OK

+KOKH-TV, 25, Oklahoma City, OK

KSNW, 3, Wichita, KS (formerly KARD)

KAKE-TV, 10, Wichita, KS

Greer

KFDX-TV, 3, Wichita Falls, TX

KAUZ-TV, 6, Wichita Falls, TX

KSWO-TV, 7, Lawton, OK

KFDA-TV, 10, Amarillo,TX

Harmon

KFDX-TV, 3, Wichita Falls, TX

KAUZ-TV, 6, Wichita Falls, TX

KSWO-TV, 7, Lawton, OK

Harper

KFOR-TV, 4, Oklahoma City, OK (formerly WKY)

KOCO-TV, 5, Oklahoma City, OK

KWTV, 9, Oklahoma City, OK

KBSD-TV, 6, Ensign, KS (formerly KTVC)

KUPK-TV, 13, Garden City, KS

Haskell

KTUL, 8, Tulsa, OK

+KOKI-TV, 23, Tulsa, OK

KFSM-TV, 5, Fort Smith, AR (formerly KFSA)

Hughes

KFOR-TV, 4, Oklahoma City, OK (formerly WKY)

KOCO-TV, 5, Oklahoma City, OK

KWTV, 9, Oklahoma City, OK

+KOKH-TV, 25, Oklahoma City, OK

KTEN, 10, Ada, OK

KJRH, 2, Tulsa, OK (formerly KTEW)

KOTV, 6, Tulsa, OK

KTUL, 8, Tulsa, OK

+KOKI-TV, 23, Tulsa, OK

Jackson

KFDX-TV, 3, Wichita Falls, TX

KAUZ-TV, 6, Wichita Falls, TX

KSWO-TV, 7, Lawton, OK

+KJTL, 18, Wichita Falls, TX

Jefferson

KFDX-TV, 3, Wichita Falls, TX

KAUZ-TV, 6, Wichita Falls, TX

KSWO-TV, 7, Lawton, OK

+KJTL, 18, Wichita Falls, TX

KXII, 12, Sherman, TX

Johnston

KTEN, 10, Ada, OK

KXII, 12, Sherman, TX

Kay

KFOR-TV, 4, Oklahoma City, OK (formerly WKY)

KOCO-TV, 5, Oklahoma City, OK

KWTV, 9, Oklahoma City, OK

+KOKH-TV, 25, Oklahoma City, OK

+KOCB, 34, Oklahoma City, OK (formerly KGMC)

KJRH, 2, Tulsa, OK (formerly KTEW)

KOTV, 6, Tulsa, OK

KSNW, 3, Wichita, KS (formerly KARD)

KAKE-TV, 10, Wichita, KS

Kingfisher

KFOR-TV, 4, Oklahoma City, OK (formerly WKY)

KOCO-TV, 5, Oklahoma City, OK

KWTV, 9, Oklahoma City, OK

+KTBO-TV, 14, Oklahoma City, OK

+KOKH-TV, 25, Oklahoma City, OK

+KOCB, 34, Oklahoma City, OK (formerly KGMC)

+KAUT-TV, 43, Oklahoma City, OK

Kiowa

KFDX-TV, 3, Wichita Falls, TX

KAUZ-TV, 6, Wichita Falls, TX

KSWO-TV, 7, Lawton, OK

KFOR-TV, 4, Oklahoma City, OK (formerly WKY)

KOCO-TV, 5, Oklahoma City, OK

Latimer

KTUL, 8, Tulsa, OK

KTEN, 10, Ada, OK

KFSM-TV, 5, Fort Smith, AR (formerly KFSA)

Le Flore

KFSM-TV, 5, Fort Smith, AR (formerly KFSA)

KTUL, 8, Tulsa, OK

Lincoln

KFOR-TV, 4, Oklahoma City, OK (formerly WKY)

KOCO-TV, 5, Oklahoma City, OK

KWTV, 9, Oklahoma City, OK

+KAUT-TV, 43, Oklahoma City, OK

Logan

KFOR-TV, 4, Oklahoma City, OK (formerly WKY)

KOCO-TV, 5, Oklahoma City, OK

KWTV, 9, Oklahoma City, OK

+KOKH-TV, 25, Oklahoma City, OK

+KOCB, 34, Oklahoma Cit, OK (formerly KGMC)

+KAUT-TV, 43, Oklahoma City, OK

Love

KDFW, 4, Dallas, TX

WFAA-TV, 8, Dallas, TX

KTVT, 11, Fort Worth, TX

KXII, 12, Sherman, TX

KFDX-TV, 3, Wichita Falls, TX

KAUZ-TV, 6, Wichita Falls, TX

KSWO-TV, 7, Lawton, OK

McClain

KFOR-TV, 4, Oklahoma City, OK (formerly WKY)

KOCO-TV, 5, Oklahoma City, OK

KWTV, 9, Oklahoma City, OK

+KOCB, 34, Oklahoma City, OK (formerly KGMC)

McCurtain

KTBS-TV, 3, Shreveport, LA

KTAL-TV, 12, Shreveport, LA

KFSM-TV, 5, Fort Smith, AR (formerly KFSA)

McIntosh

KJRH, 2, Tulsa, OK (formerly KTEW)

KOTV, 6, Tulsa, OK

KTUL, 8, Tulsa, OK

+KOKI-TV, 23, Tulsa, OK

Major

KFOR-TV, 4, Oklahoma City, OK (formerly WKY)

KOCO-TV, 5, Oklahoma City, OK

KWTV, 9, Oklahoma City, OK

Marshall

KTEN, 10, Ada, OK

KXII, 12, Sherman, TX

KDFW, 4, Dallas, TX

Mayes

KJRH, 2, Tulsa, OK (formerly KTEW)

KOTV, 6, Tulsa, OK

KTUL, 8, Tulsa, OK

+KOKI-TV, 23, Tulsa, OK

+KWHB, 47, Tulsa, OK

Murray

KFOR-TV, 4, Oklahoma City, OK (formerly WKY)

KOCO-TV, 5, Oklahoma City, OK

KWTV, 9, Oklahoma City, OK

KTEN, 10, Ada, OK

KXII, 12, Sherman, TX

Muskogee

KJRH, 2, Tulsa, OK (formerly KTEW)

KOTV, 6, Tulsa, OK

KTUL, 8, Tulsa, OK

+KOKI-TV, 23, Tulsa, OK

+KWHB, 47, Tulsa, OK

Noble

KFOR-TV, 4, Oklahoma City, OK (formerly WKY)

KOCO-TV, 5, Oklahoma City, OK

KWTV, 9, Oklahoma City, OK

+KOKH-TV, 25, Oklahoma City, OK

+KOCB, 34, Oklahoma City, OK (formerly KGMC)

+KAUT-TV, 43, Oklahoma City, OK

Nowata

KJRH, 2, Tulsa, OK (formerly KTEW)

KOTV, 6, Tulsa, OK

KTUL, 8, Tulsa, OK

+KOKI-TV, 23, Tulsa, OK

Okfuskee

KJRH, 2, Tulsa, OK (formerly KTEW)

KOTV, 6, Tulsa, OK

KTUL, 8, Tulsa, OK

+KOKI-TV, 23, Tulsa, OK

KTEN, 10, Ada, OK

KFOR-TV, 4, Oklahoma City, OK (formerly WKY)

KOCO-TV, 5, Oklahoma City, OK

KWTV, 9, Oklahoma City, OK

Oklahoma

KFOR-TV, 4, Oklahoma City, OK (formerly WKY)

KOCO-TV, 5, Oklahoma City, OK

KWTV, 9, Oklahoma City, OK

Okmulgee

KJRH, 2, Tulsa, OK (formerly KTEW)

KOTV, 6, Tulsa, OK

KTUL, 8, Tulsa, OK

+KOKI-TV, 23, Tulsa, OK

+KWHB, 47, Tulsa, OK

Osage

KJRH, 2, Tulsa, OK (formerly KTEW)

KOTV, 6, Tulsa, OK

KTUL, 8, Tulsa, OK

+KOKI-TV, 23, Tulsa, OK

Ottawa

KOAM-TV, 7, Pittsburg, KS

KODE-TV, 12, Joplin, MO

KSNF, 16, Joplin, MO (formerly KUHI)

KOTV, 6, Tulsa, OK

KTUL, 8, Tulsa, OK

+KOKI-TV, 23, Tulsa, OK

Pawnee

KJRH, 2, Tulsa, OK (formerly KTEW)

KOTV, 6, Tulsa, OK

KTUL, 8, Tulsa, OK

Payne

KFOR-TV, 4, Oklahoma City, OK (formerly WKY)

KOCO-TV, 5, Oklahoma City, OK

KWTV, 9, Oklahoma City, OK

+KOKH-TV, 25, Oklahoma City, OK

+KOCB, 34, Oklahoma City, OK (formerly KGMC)

+KAUT-TV, 43, Oklahoma City, OK

KJRH, 2, Tulsa, OK (formerly KTEW)

KOTV, 6, Tulsa, OK

Pittsburg

KJRH, 2, Tulsa, OK (formerly KTEW)

KOTV, 6, Tulsa, OK

KTUL, 8, Tulsa, OK

+KOKI-TV, 23, Tulsa, OK

KTEN, 10, Ada, OK

Pontotoc

KTEN, 10, Ada, OK

KFOR-TV, 4, Oklahoma City, OK (formerly WKY)

KOCO-TV, 5, Oklahoma City, OK

KWTV, 9, Oklahoma City, OK

+KOKH-TV, 25, Oklahoma City, OK

KAUT-TV, 43, Oklahoma City, OK

Pottawatomie

KFOR-TV, 4, Oklahoma City, OK (formerly WKY)

KOCO-TV, 5, Oklahoma City, OK

KWTV, 9, Oklahoma City, OK

+KOKH-TV, 25, Oklahoma City, OK

+KAUT-TV, 43, Oklahoma City, OK

Pushmataha

KTEN, 10, Ada, OK

KXII, 12, Sherman, TX

Roger Mills

KFDA-TV, 10, Amarillo, TX

KFOR-TV, 4, Oklahoma City, OK (formerly WKY)

Rogers

KJRH, 2, Tulsa, OK (formerly KTEW)

KOTV, 6, Tulsa, OK

KTUL, 8, Tulsa, OK

+KOKI-TV, 23, Tulsa, OK

+KWHB, 47, Tulsa, OK

Seminole

KFOR-TV, 4, Oklahoma City, OK (formerly WKY)

KOCO-TV, 5, Oklahoma City, OK

KWTV, 9, Oklahoma City, OK

+KOKH-TV, 25, Oklahoma City, OK

+KOCB, 34, Oklahoma City, OK (formerly KGMC)

+KAUT-TV, 43, Oklahoma City, OK

KTEN, 10, Ada, OK

Sequoyah

KJRH, 2, Tulsa, OK (formerly KTEW)

KOTV, 6, Tulsa, OK

KTUL, 8, Tulsa, OK

+KOKI-TV, 23, Tulsa, OK

KFSM-TV, 5, Fort Smith, AR (formerly KFSA)

Stephens

KFDX-TV, 3, Wichita Falls, TX

KAUZ-TV, 6, Wichita Falls, TX

KSWO-TV, 7, Lawton, OK

+KJTL, 18, Wichita Falls, TX

+KOKH-TV, 25, Oklahoma City, OK

Texas

KAMR-TV, 4, Amarillo, TX (formerly KGNC)

KVII-TV, 7, Amarillo, TX

KFDA-TV, 10, Amarillo, TX

KBSD-TV, 6, Ensign, KS (formerly KTVC)

KSNG, 11, Garden City, KS (formerly KGLD)

KUPK-TV, 13, Garden City, KS

Tillman

KFDX-TV, 3, Wichita Falls, TX

KAUZ-TV, 6, Wichita Falls, TX

KSWO-TV, 7, Lawton, OK

Tulsa

KJRH, 2, Tulsa, OK (formerly KTEW)

KOTV, 6, Tulsa, OK

KTUL, 8, Tulsa, OK

+KOKI-TV, 23, Tulsa, OK

+KWHB, 47, Tulsa, OK

Wagoner

KJRH, 2, Tulsa, OK (formerly KTEW)

KOTV, 6, Tulsa, OK

KTUL, 8, Tulsa, OK

+KOKI-TV, 23, Tulsa, OK

+KWHB, 47, Tulsa, OK

Washington

KJRH, 2, Tulsa, OK (formerly KTEW)

KOTV, 6, Tulsa, OK

KTUL, 8, Tulsa, OK

+KOKI-TV, 23, Tulsa, OK

Washita

KFOR-TV, 4, Oklahoma City, OK (formerly WKY)

KOCO-TV, 5, Oklahoma City, OK

KWTV, 9, Oklahoma City, OK

+KOKH-TV, 25, Oklahoma City, OK

KFDX-TV, 3, Wichita Falls, TX

KAUZ-TV, 6, Wichita Falls, TX

KSWO-TV, 7, Lawton, OK

Woods

KFOR-TV, 4, Oklahoma City, OK (formerly WKY)

KOCO-TV, 5, Oklahoma City, OK

KWTV, 9, Oklahoma City, OK

Woodward

KFOR-TV, 4, Oklahoma City, OK (formerly WKY)

KOCO-TV, 5, Oklahoma City, OK

KWTV, 9, Oklahoma City, OK

Marlow—KFOR-TV, KOCO-TV, KWTV

Oregon

Baker

KBCI-TV, 2, Boise, ID (formerly KBOI)

KTVB, 7, Boise, ID

Benton

KATU, 2, Portland, OR

KOIN, 6, Portland, OR

KPTV, 12, Portland, OR

KEZI, 9, Eugene, OR

KVAL-TV, 13, Eugene, OR

Clackamas

KATU, 2, Portland, OR

KOIN, 6, Portland, OR

KGW, 8, Portland, OR

KPTV, 12, Portland, OR

+KPDX, 49, Vancouver, WA

Clatsop

KATU, 2, Portland, OR

KOIN, 6, Portland, OR

KGW, 8, Portland, OR

KPTV, 12, Portland, OR

KING-TV, 5, Seattle, WA

Columbia

KATU, 2, Portland, OR

KOIN, 6, Portland, OR

KGW, 8, Portland, OR

KPTV, 12, Portland, OR

+KPDX, 49, Vancouver, WA

Coos

KCBY-TV, 11, Coos Bay, OR

KOBI, 5, Medford, OR

Crook

KATU, 2, Portland, OR

KOIN, 6, Portland, OR

KGW, 8, Portland, OR

KPTV, 12, Portland, OR

KEZI, 9, Eugene, OR

+KTVZ, 21, Bend, OR

Curry

KIEM-TV, 3, Eureka, CA

KVIQ-TV, 6, Eureka, CA

Deschutes

+KTVZ, 21, Bend, OR

Douglas

KPIC, 4, Roseburg, OR

KEZI, 9, Eugene, OR

KOBI, 5, Medford, OR

Gilliam

KEPR-TV, 19, Pasco, WA

KNDU, 25, Richland, WA

KOIN, 6, Portland, OR

KGW, 8, Portland, OR

KPTV, 12, Portland, OR

Grant

KBCI-TV, 2, Boise, ID (formerly KBOI)

KTVB, 7, Boise, ID

Harney

Not available.

Hood River

KATU, 2, Portland, OR

KOIN, 6, Portland, OR

KGW, 8, Portland, OR

KPTV, 12, Portland, OR

Jackson

KOBI, 5, Medford, OR

KTVL, 10, Medford, OR (formerly KMED)

Jefferson

KATU, 2, Portland, OR

KOIN, 6, Portland, OR

KGW, 8, Portland, OR

+KTVZ, 21, Bend, OR

Josephine

KOBI, 5, Medford, OR

KTVL, 10, Medford, OR (formerly KMED)

Klamath

KOTI, 2, Medford, OR

KTVL, 10, Medford, OR (formerly KMED)

Lake

KOTI, 2, Medford, OR

Lane Inner

KEZI, 9, Eugene, OR

KVAL-TV, 13, Eugene, OR

Lane Outer

KEZI, 9, Eugene, OR

KVAL-TV, 13, Eugene, OR

KOIN, 6, Portland, OR

Lincoln

KATU, 2, Portland, OR

KOIN, 6, Portland, OR

KGW, 8, Portland, OR

KPTV, 12, Portland, OR

KEZI, 9, Eugene, OR

KOAB-TV, 3, Bend, OR (formerly KVDO)

Linn

KATU, 2, Portland, OR

KOIN, 6, Portland, OR

KGW, 8, Portland, OR

KPTV, 12, Portland, OR

KEZI, 9, Eugene, OR

KVAL-TV, 13, Eugene, OR

KOAB-TV, 3, Bend, OR (formerly KVDO)

Malheur

KBCI-TV, 2, Boise, ID (formerly KBOI)

KTVB, 7, Boise, ID

Marion

KATU, 2, Portland, OR

KOIN, 6, Portland, OR

KGW, 8, Portland, OR

KPTV, 12, Portland, OR

+KPDX, 49, Portland, OR

KOAB-TV, 3, Bend, OR (formerly KVDO)

Morrow

KEPR-TV, 19, Pasco, WA

KNDU, 25, Richland, WA

KVEW, 42, Kennewick, WA

KATU, 2, Portland, OR

KOIN, 6, Portland, OR

KGW, 8, Portland, OR

Multnomah

KATU, 2, Portland, OR

KOIN, 6, Portland, OR

KGW, 8, Portland, OR

KPTV, 12, Portland, OR

+KPDX, 49, Portland, OR

Polk

KATU, 2, Portland, OR

KOIN, 6, Portland, OR

KGW, 8, Portland, OR

KPTV, 12, Portland, OR

KOAB-TV, 3, Bend, OR (formerly KVDO)

Sherman

KATU, 2, Portland, OR

KOIN, 6, Portland, OR

KGW, 8, Portland, OR

KPTV, 12, Portland, OR

Tillamook

KATU, 2, Portland, OR

KOIN, 6, Portland, OR

KGW, 8, Portland, OR

KPTV, 12, Portland, OR

KOAB-TV, 3, Bend, OR (formerly KVDO)

Umatilla

KEPR-TV, 19, Pasco, WA

KNDU, 25, Richland, WA

KVEW, 42, Kennewick, WA

Union

KREM-TV, 2, Spokane, WA

KXLY-TV, 4, Spokane, WA

KHQ-TV, 6, Spokane, WA

KTVB, 7, Boise, ID

Wallowa

KREM-TV, 2, Spokane, WA

KXLY-TV, 4, Spokane, WA

KHQ-TV, 6, Spokane, WA

Wasco

KATU, 2, Portland, OR

KOIN, 6, Portland, OR

KGW, 8, Portland, OR

KPTV, 12, Portland, OR

Washington

KATU, 2, Portland, OR

KOIN, 6, Portland, OR

KGW, 8, Portland, OR

KPTV, 12, Portland, OR

+KPDX, 49, Portland, OR

Wheeler

Not available.

Yamhill

KATU, 2, Portland, OR

KOIN, 6, Portland, OR

KGW, 8, Portland, OR

KPTV, 12, Portland, OR

KOAB-TV, 3, Bend, OR (formerly KVDO)

Pennsylvania

Adams

WGAL, 8, Lancaster, PA

+WPMT, 43, York, PA

WMAR-TV, 2, Baltimore, MD

WBAL-TV, 11, Baltimore, MD

WJZ-TV, 13, Baltimore, MD

WTTG, 5, Washington, DC

Allegheny

KDKA-TV, 2, Pittsburgh, PA

WTAE-TV, 4, Pittsburgh, PA

WPXI, 11, Pittsburgh, PA (formerly WIIC)

+WCWB, 22, Pittsburg, PA (formerly WPTT)

WPGH-TV, 53, Pittsburgh, PA

Armstrong

KDKA-TV, 2, Pittsburgh, PA

WTAE-TV, 4, Pittsburgh, PA

WPXI, 11, Pittsburgh, PA (formerly WIIC)

+WCWB, 22, Pittsburgh, PA (formerly WPTT)

WPGH-TV, 53, Pittsburgh, PA

WJAC-TV, 6, Johnstown, PA

+WWCP-TV, 8, Johnstown, PA

Beaver

KDKA-TV, 2, Pittsburgh, PA

WTAE-TV, 4, Pittsburgh, PA

WPXI, 11, Pittsburgh, PA (formerly WIIC)

+WCWB, 22, Pittsburgh, PA (formerly WPTT)

WPGH-TV, 53, Pittsburgh, PA

WTOV-TV, 9, Steubenville, OH (formerly WSTV)

Bedford

WJAC-TV, 6, Johnstown, PA

+WWCP, 8, Johnstown, PA

WTAJ-TV, 10, Altoona, PA (formerly WFBG)

Berks

KYW-TV, 3, Philadelphia, PA

WPVI-TV, 6, Philadelphia, PA (formerly WFIL)

WCAU, 10, Philadelphia, PA

WPHL-TV, 17, Philadelphia, PA

+WTXF-TV, 29, Philadelphia, PA (formerly WTAF)

WGTW, 48, Phhiladelphia, PA (formerly WKBS-TV)

+WPSG, 57, Philadelphia, PA (formerly WGBS)

WGAL, 8, Lancaster, PA

Blair

WJAC-TV, 6, Johnstown, PA

+WWCP, 8, Johnstown, PA

WTAJ-TV, 10, Altoona, PA (formerly WFBG)

Bradford

WBNG-TV, 12, Binghamton, NY (formerly WNBF)

WETM-TV, 18, Elmira, NY (formerly WSYE)

WENY-TV, 36, Elmira, NY

+WSWB, 38, Scranton, PA (formerly WOLF-TV)

Bucks

KYW-TV, 3, Philadelphia, PA

WPVI-TV, 6, Philadelphia, PA (formerly WFIL)

WCAU, 10, Philadelphia, PA

WPHL-TV, 17, Philadelphia, PA

WTXF-TV, 29, Philadelphia, PA (formerly WTAF)

WGTW, 48, Phhiladelphia, PA (formerly WKBS-TV)

+WPSG, 57, Philadelphia, PA (formerly WGBS)

Butler

KDKA-TV, 2, Pittsburgh, PA

WTAE-TV, 4, Pittsburgh, PA

WPXI, 11, Pittsburgh, PA (formerly WIIC)

+WCWB, 22, Pittsburgh, PA (formerly WPTT)

WPGH-TV, 53, Pittsburgh, PA

WJAC-TV, 6, Johnstown, PA

+WWCP, 8, Johnstown, PA

Cambria

WJAC-TV, 6, Johnstown, PA

+WWCP, 8, Johnstown, PA

WTAJ-TV, 10, Altoona, PA (formerly WFBG)

KDKA-TV, 2, Pittsburgh, PA

WTAE-TV, 4, Pittsburgh, PA

Cameron

Not available.

Carbon

KYW-TV, 3, Philadelphia, PA

WPVI-TV, 6, Philadelphia, PA (formerly WFIL)

WCAU, 10, Philadelphia, PA

WNEP-TV, 16, Scranton, PA

Centre

WJAC-TV, 6, Johnstown, PA

+WWCP, 8, Johnstown, PA

WTAJ-TV, 10, Altoona, PA (formerly WFBG)

Chester

KYW-TV, 3, Philadelphia, PA

WPVI-TV, 6, Philadelphia, PA (formerly WFIL)

WCAU, 10, Philadelphia, PA

WPHL-TV, 17, Philadelphia, PA

WTXF-TV, 29, Philadelphi, PA (formerly WTAF)

WGTW, 48, Phhiladelphia, PA (formerly WKBS-TV)

+WPSG, 57, Philadelphia, PA (formerly WGBS)

Clarion

KDKA-TV, 2, Pittsburgh, PA

WTAE-TV, 4, Pittsburgh, PA

WPXI, 11, Pittsburgh, PA (formerly WIIC)

+WCWB, 22, Pittsburgh, PA (formerly WPTT)

WJAC-TV, 6, Johnstown, PA

+WWCP, 8, Johnstown, PA

Clearfield

WJAC-TV, 6, Johnstown, PA

+WWCP, 8, Johnstown, PA

WTAJ-TV, 10, Altoona, PA (formerly WFBG)

Clinton

WTAJ-TV, 10, Altoona, PA (formerly WFBG)

Columbia

WNEP-TV, 16, Scranton, PA

WYOU, 22, Scranton, PA (formerly WDAU)

WBRE-TV, 28, Wilkes-Barre, PA

+WSWB, 38, Scranton, PA (formerly WOLF-TV)

Crawford

WICU-TV, 12, Erie, PA

WJET-TV, 24, Erie, PA

WSEE, 35, Erie, PA

Cumberland

WGAL, 8, Lancaster, PA

WHP-TV, 21, Harrisburg, PA

WHTM-TV, 27, Harrisburg, PA (formerly WTPA)

+WPMT, 43, York, PA

Dauphin

WGAL, 8, Lancaster, PA

WHP-TV, 21, Harrisburg, PA

WHTM-TV, 27, Harrisburg, PA (formerly WTPA)

+WPMT, 43, York, PA

Delaware

KYW-TV, 3, Philadelphia, PA

WPVI-TV, 6, Philadelphia, PA (formerly WFIL)

WCAU, 10, Philadelphia, PA

WPHL-TV, 17, Philadelphia, PA

WTXF-TV, 29, Philadelphia, PA (formerly WTAF)

WGTW, 48, Phhiladelphia, PA (formerly WKBS-TV)

+WPSG, 57, Philadelphia, PA (formerly WGBS)

Elk

WJAC-TV, 6, Johnstown, PA

+WWCP, 8, Johnstown, PA

WTAJ-TV, 10, Altoona, PA (formerly WFBG)

Erie

WICU-TV, 12, Erie, PA

WJET-TV, 24, Erie, PA

WSEE, 35, Erie, PA

Fayette

KDKA-TV, 2, Pittsburgh, PA

WTAE-TV, 4, Pittsburgh, PA

WPXI, 11, Pittsburgh, PA (formerly WIIC)

+WCWB, 22, Pittsburgh, PA (formerly WPTT)

+WPGH-TV, 53, Pittsburgh, PA

+WWCP, 8, Johnstown, PA

Forest

WICU-TV, 12, Erie, PA

WJAC-TV, 6, Johnstown, PA

KDKA-TV, 2, Pittsburgh, PA

WTAE-TV, 4, Pittsburgh, PA

Franklin

WRC-TV, 4, Washington, DC

WTTG, 5, Washington, DC

WJLA-TV, 7, Washington, DC (formerly WMAL)

WUSA, 9, Washington, DC (formerly WTOP)

WMAR-TV, 2, Baltimore, MD

WBAL-TV, 11, Baltimore, MD

WJZ-TV, 13, Baltimore, MD

WGAL, 8, Lancaster, PA

Fulton

WRC-TV, 4, Washington, DC

WTTG, 5, Washington, DC

WJLA-TV, 7, Washington, DC (formerly WMAL)

WJAC-TV, 6, Johnstown, PA

WTAJ-TV, 10, Altoona, PA (formerly WFBG)

Greene

KDKA-TV, 2, Pittsburgh, PA

WTAE-TV, 4, Pittsburgh, PA

WPXI, 11, Pittsburgh, PA (formerly WIIC)

+WCWB, 22, Pittsburgh, PA (formerly WPTT)

WPGH-TV, 53, Pittsburgh, PA

WTRF-TV, 7, Wheeling, WV

+WWCP, 8, Johnstown, PA

Huntingdon

WJAC-TV, 6, Johnstown, PA

+WWCP, 8, Johnstown, PA

WTAJ-TV, 10, Altoona, PA (formerly WFBG)

Indiana

KDKA-TV, 2, Pittsburgh, PA

WTAE-TV, 4, Pittsburgh, PA

WPXI, 11, Pittsburgh, PA (formerly WIIC)

WJAC-TV, 6, Johnstown, PA

+WWCP, 8, Johnstown, PA

WTAJ-TV, 10, Altoona, PA (formerly WFBG)

Jefferson

WJAC-TV, 6, Johnstown, PA

+WWCP, 8, Johnstown, PA

WTAJ-TV, 10, Altoona, PA (formerly WFBG)

KDKA-TV, 2, Pittsburgh, PA

WTAE-TV, 4, Pittsburgh, PA

Juniata

WGAL, 8, Lancaster, PA

WHP-TV, 21, Harrisburg, PA

WHTM-TV, 27, Harrisburg, PA (formerly WTPA)

+WPMT, 43, York, PA

WTAJ-TV, 10, Altoona, PA (formerly WFBG)

Lackawanna

WNEP-TV, 16, Scranton, PA

WYOU, 22, Scranton, PA (formerly WDAU)

WBRE-TV, 28, Wilkes-Barre, PA

+WSWB, 38, Scranton, PA (formerly WOLF-TV)

Lancaster

WGAL, 8, Lancaster, PA

WLYH-TV, 15, Lancaster, PA

WHTM-TV, 27, Harrisburg, PA (formerly WTPA)

+WPMT, 43, York, PA

KYW-TV, 3, Philadelphia, PA

WPVI-TV, 6, Philadelphia, PA (formerly WFIL)

WCAU, 10, Philadelphia, PA

WPHL-TV, 17, Philadelphia, PA

Lawrence

KDKA-TV, 2, Pittsburgh, PA

WTAE-TV, 4, Pittsburgh, PA

WPXI, 11, Pittsburgh, PA (formerly WIIC)

WFMJ-TV, 21, Youngstown, OH

WKBN-TV, 27, Youngstown, OH

WYTV, 33, Youngstown, OH

Lebanon

WGAL, 8, Lancaster, PA

WLYH-TV, 15, Lancaster, PA

WHP-TV, 21, Harrisburg, PA

WHTM-TV, 27, Harrisburg, PA (formerly WTPA)

+WPMT, 43, York, PA

Lehigh

KYW-TV, 3, Philadelphia, PA

WPVI-TV, 6, Philadelphia, PA (formerly WFIL)

WCAU, 10, Philadelphia, PA

WPHL-TV, 17, Philadelphia, PA

+WPSG, 57, Philadelphia, PA (formerly WGBS)

Luzerne

WNEP-TV, 16, Scranton, PA

WYOU, 22, Scranton, PA (formerly WDAU)

WBRE-TV, 28, Wilkes Barre, PA

+WSWB, 38, Scranton, PA (formerly WOLF-TV)

Lycoming

WNEP-TV, 16, Scranton, PA

WYOU, 22, Scranton, PA (formerly WDAU)

WBRE-TV, 28, Wilkes Barre, PA

+WOLF-TV, 56, Hazelton, PA (formerly WWLF-TV)

WTAJ-TV, 10, Altoona, PA (formerly WFBG)

McKean

WGRZ-TV, 2, Buffalo, NY (formerly WGR)

WIVB-TV, 4, Buffalo, NY (formerly WBEN)

WKBW-TV, 7, Buffalo, NY

Mercer

WFMJ-TV, 21, Youngstown, OH

WKBN-TV, 27, Youngstown, OH

WYTV, 33, Youngstown, OH

KDKA-TV, 2, Pittsburgh, PA

WPXI, 11, Pittsburgh, PA (formerly WIIC)

Mifflin

WGAL, 8, Lancaster, PA

WJAC-TV, 6, Johnstown, PA

+WWCP, 8, Johnstown, PA

WTAJ-TV, 10, Altoona, PA (formerly WFBG)

Monroe

KYW-TV, 3, Philadelphia, PA

WPVI-TV, 6, Philadelphia, PA (formerly WFIL)

WCAU, 10, Philadelphia, PA

WCBS-TV, 2, New York, NY

WNBC, 4, New York, NY

WNYW, 5, New York, NY (formerly WNEW)

Montgomery

KYW-TV, 3, Philadelphia, PA

WPVI-TV, 6, Philadelphia, PA (formerly WFIL)

WCAU, 10, Philadelphia, PA

WPHL-TV, 17, Philadelphia, PA

WTXF-TV, 29, Philadelphia, PA (formerly WTAF)

WGTW, 48, Phhiladelphia, PA (formerly WKBS-TV)

+WPSG, 57, Philadelphia, PA (forermly WGBS)

Montour

+WSWB, 38, Scranton, PA (formerly WOLF-TV)

Northampton

KYW-TV, 3, Philadelphia, PA

WPVI-TV, 6, Philadelphia, PA (formerly WFIL)

WCAU, 10, Philadelphia, PA

WNYW, 5, New York, NY (formerly WNEW)

WWOR-TV, 9, New York, NY (forermly WOR)

WPIX, 11, New York, NY

Northumberland

+WSWB, 38, Scranton, PA (formerly WOLF-TV)

Perry

WGAL, 8, Lancaster, PA

WHP-TV, 21, Harrisburg, PA

WHTM-TV, 27, Harrisburg, PA (formerly WTPA)

+WPMT, 43, York, PA

Philadelphia

KYW-TV, 3, Philadelphia, PA

WPVI-TV, 6, Philadelphia, PA (formerly WFIL)

WCAU, 10, Philadelphia, PA

WPHL-TV, 17, Philadelphia, PA

WTXF-TV, 29, Philadelphia, PA (formerly WTAF)

WGTW, 48, Phhiladelphia, PA (formerly WKBS-TV)

Pike

WCBS-TV, 2, New York, NY

WNBC, 4, New York, NY

WNYW, 5, New York, NY (formerly WNEW)

WABC-TV, 7, New York, NY

WNEP-TV, 16, Scranton, PA

WYOU, 22, Scranton, PA (formerly WDAU)

WBRE-TV, 28, Wilkes-Barre, PA

Potter

WGRZ-TV, 2, Buffalo, NY (forermly WGR)

WIVB-TV, 4, Buffalo, NY (formerly WBEN)

WKBW-TV, 7, Buffalo, NY

Schuylkill

KYW-TV, 3, Philadelphia, PA

WPVI-TV, 6, Philadelphia, PA (formerly WFIL)

WCAU, 10, Philadelphia, PA

WGAL, 8, Lancaster, PA

Snyder

WGAL, 8, Lancaster, PA

WHP-TV, 21, Harrisburg, PA

WHTM-TV, 27, Harrisburg, PA (formerly WTPA)

WNEP-TV, 16, Scranton, PA

WBRE-TV, 28, Wilkes-Barre, PA

+WOLF-TV, 56, Hazleton, PA (formerly WWLF-TV)

Somerset

WJAC-TV, 6, Johnstown, PA

+WWCP, 8, Johnstown, PA

KDKA-TV, 2, Pittsburgh, PA

WTAE-TV, 4, Pittsburgh, PA

Sullivan

WBNG-TV, 12, Binghamton, NY (formerly WNBF)

WNEP-TV, 16, Scranton, PA

WYOU, 22, Scranton, PA (formerly WDAU)

WBRE-TV, 28, Wilkes-Barre, PA

Susquehanna

WBNG-TV, 12, Binghamton, NY (formerly WNBF)

WNEP-TV, 16, Scranton, PA

WYOU, 22, Scranton, PA (formerly WDAU)

WBRE-TV, 28, Wilkes-Barre, PA

+WOLF-TV, 38, Scranton, PA

Tioga

WETM-TV, 18, Elmira, NY (formerly WSYE)

WENY-TV, 36, Elmira, NY

WBNG-TV, 12, Binghamton, NY (formerly WNBF)

Union

WNEP-TV, 16, Scranton, PA

WYOU, 22, Scranton, PA (formerly WDAU)

WBRE-TV, 28, Wilkes-Barre, PA

+WOLF-TV, 38, Scranton, PA

Venango

KDKA-TV, 2, Pittsburgh, PA

WTAE-TV, 4, Pittsburgh, PA

WPXI, 11, Pittsburgh, PA (formerly WIIC)

WICU-TV, 12, Erie, PA

WJAC-TV, 6, Johnstown, PA

Warren

WGRZ-TV, 2, Buffalo, NY (formerly WGR)

WIVB-TV, 4, Buffalo, NY (formerly WBEN)

WKBW-TV, 7, Buffalo, NY

WICU-TV, 12, Erie, PA

Washington

KDKA-TV, 2, Pittsburgh, PA

WTAE-TV, 4, Pittsburgh, PA

WPXI, 11, Pittsburgh, PA (formerly WIIC)

+WCWB, 22, Pittsburgh, PA (formerly WPTT)

WPGH-TV, 53, Pittsburgh, PA

WTRF-TV, 7, Wheeling, WV

WTOV-TV, 9, Steubenville, OH (formerly WSTV)

+WWCP, 8, Johnstown, PA

Wayne

WNEP-TV, 16, Scranton, PA

WYOU, 22, Scranton, PA (formerly WDAU)

WBRE-TV, 28, Wilkes-Barre, PA

+WSWB, 38, Scranton, PA (formerly WOLF-TV)

WBNG-TV, 12, Binghamton, NY (formerly WNBF)

WNBC, 4, New York, NY

WNYW, 5, New York, NY (formerly WNEW)

Westmoreland

KDKA-TV, 2, Pittsburgh, PA

WTAE-TV, 4, Pittsburgh, PA

WPXI, 11, Pittsburgh, PA (formerly WIIC)

+WCWB, 22, Pittsburgh, PA (formerly WPTT)

WPGH-TV, 53, Pittsburgh, PA

WJAC-TV, 6, Johnstown, PA

+WWCP, 8, Johnstown, PA

Wyoming

WNEP-TV 16, Scranton, PA

WYOU, 22, Scranton, PA (formerly WDAU)

WBRE-TV, 28, Wilkes-Barre, PA

+WSWB, 38, Scranton, PA (formerly WOLF-TV)

York

WGAL, 8, Lancaster, PA

WHTM-TV, 27, Harrisburg, PA (formerly WTPA)

WPMT, 43, York, PA (formerly WSBA)

WMAR-TV, 2, Baltimore, MD

WBAL-TV, 11, Baltimore, MD

WJZ-TV, 13, Baltimore, MD

Adamstown Borough—WTXF-TV

Akron Borough—WTXF-TV

Alburtis—WTXF-TV

Allentown—WTXF-TV

Allen Township—WTXF-TV, WPHL-TV

Bangor Borough—WTXF-TV, WPHL-TV

Bath Borough—WTXF-TV, WPHL-TV

Bethlehem—WTXF-TV

Bethlehem Township—WTXF-TV, WPHL-TV

Bushkill Township—WTXF-TV, WPHL-TV

Catasauqua—WTXF-TV

Chapman Borough—WPHL-TV

Clay Township—WTXF-TV

Conestoga Township—WTXF-TV

Coopersburg—WTXF-TV

Coplay—WTXF-TV

Denver Borough—WTXF-TV

East Allen Township—WTXF-TV, WPHL-TV

East Bangor—WTXF-TV, WPHL-TV

East Cocalico Township—WTXF-TV

East Hempfield Township—WTXF-TV, WGTW

East Lampeter Township—WTXF-TV, WGTW

Easton—WPHL-TV

East Petersburg—WTXF-TV. WGTW

Ephrata Borough—WTXF-TV

Ephrate Township—WTXF-TV

Forks Township—WPHL-TV

Fountain Hill—WTXF-TV

Freemansburg Borough—WTXF-TV, WPHL-TV

Glendon Borough—WPHL-TV

Hallerton Borough—WTXF-TV, WPHL-TV

Hanover Township—WTXF-TV, WPHL-TV

Heidelberg Township—WTXF-TV

Lancaster—WTXF-TV, WGTW

Lancaster Township—WTXF-TV, WGTW

Lehigh Township—WPHL-TV

Lititz Borough—WTXF-TV

Lowhill Township—WTXF-TV

Lower Macungie Township—WTXF-TV

Lower Milford Township—WTXF-TV

Lower Mt. Bethel—WTXF-TV, WPHL-TV

Lower Nazareth Township—WTXF-TV, WPHL-TV

Lower SauconTownship—WTXF-TV, WPHL-TV

Lynn Township—WTXF-TV

Manheim Borough—WTXF-TV

Manheim Township—WTXF-TV, WGTW

Manor Township—WTXF-TV, WGTW

Millcreek Township—KYW-TV, WPVI-TV, WCAU

Millersville—WTXF-TV, WGTW

Moore Township—WTXF-TV, WPHL-TV

Mountville—WTXF-TV, WGTW

Nazareth Borough—WTXF-TV, WPHL-TV

Northampton Borough—WPHL-TV

North Catasaqua Borough—WTXF-TV, WPHL-TV

North Whitehall Township—WTXF-TV

Palmer Township—WPHL-TV

Pen Argyl Borough—WTXF-TV, WPHL-TV

Penn Township—WTXF-TV

Pequea Township—WTXF-TV

Plainfield Township—WTXF-TV, WPHL-TV

Portland—WTXF-TV, WPHL-TV

Richland Borough—KYW-TV, WPVI-TV, WCAU

Roseto—WTXF-TV, WPHL-TV

Roseto Borough—WPHL-TV

Salisbury Township—WTXF-TV

South Heidelberg Townshlp—WTXF-TV

South Whitehall Township—WTXF-TV

Stockerton Borough—WPHL-TV

Strasburg—WTXF-TV

Strasburg Borough—WGTW

Strasburg Township—WTXF-TV

Tatamy—WTXF-TV, WPHL-TV

Tatamy Borough—WPHL-TV

Upper Macungie Township—WTXF-TV

Upper Mt. Bethel—WTXF-TV, WPHL-TV

Upper Nazareth—WTXF-TV, WPHL-TV

Upper Nazareth Township—WPHL-TV

Upper Saucon Township—WTXF-TV

Warwick Township—WTXF-TV

Washington Township—WTXF-TV, WPHL-TV

Weisenberg Township—WTXF-TV

West Cocalico Township—WTXF-TV

West Earl Township—WTXF-TV

West Easton Township—WPHL-TV

West Hempfield Township—WTXF-TV, WGTW

West Lampeter Township—WTXF-TV, WGTW

Whitehall Township—WTXF-TV

Williams Township—WTXF-TV, WPHL-TV

Wilson Borough—WPHL-TV

Wind Gap Borough—WTXF-TV, WPHL-TV

Rhode Island

Bristol

WLNE-TV, 6, Providence, RI (formerly WTEV)

WJAR, 10, Providence, RI

WPRI-TV, 12, Providence, RI

WNAC-TV, 64, Providence, RI

WBZ-TV, 4, Boston, MA

+WHDH-TV, 7, Boston, MA (formerly WNAC)

WSBK-TV, 38, Boston, MA

Kent

WLNE-TV, 6, Providence, RI (formerly WTEV)

WJAR, 10, Providence, RI

WPRI-TV, 12, Providence, RI

WNAC-TV, 64, Providence, RI

WCVB-TV, 5, Boston, MA (formerly WHDH)

+WHDH-TV, 7, Boston, MA (formerly WNAC)

WSBK-TV, 38, Boston, MA

Newport

WLNE-TV, 6, Providence, RI (formerly WTEV)

WJAR, 10, Providence, RI

WPRI-TV, 12, Providence, RI

WNAC-TV, 64, Providence, RI

+WHDH-TV, 7, Boston, MA (formerly WNAC)

WSBK-TV, 38, Boston, MA

WLVI-TV, 56, Cambridge, MA (formerly WKBG)

Providence

WLNE-TV, 6, Providence, RI (formerly WTEV)

WJAR, 10, Providence, RI

WPRI-TV, 12, Providence, RI

WNAC-TV, 64, Providence, RI

WBZ-TV, 4, Boston, MA

WCVB-TV, 5, Boston, MA (formerly WHDH)

+WHDH-TV, 7, Boston, MA (formerly WNAC)

WSBK-TV, 38, Boston, MA

WLVI-TV, 56, Cambridge, MA (formerly WKBG)

Washington

WLNE-TV, 6, Providence, RI (formerly WTEV)

WJAR, 10, Providence, RI

WPRI-TV, 12, Providence, RI

+WNAC-TV, 64, Providence, RI

WHPX, 26, New London, CT (formerly WTWS)

Coventry—WLVI-TV

East Greenwich—WLVI-TV

Warwick—WLVI-TV

West Warwick—WLVI-TV

South Carolina

Abbeville

WYFF, 4, Greenville, SC (formerly WFBC)

WSPA-TV, 7, Greenville, SC

WLOS, 13, Greenville, SC

+WHNS, 21, Greenville, SC

WJBF, 6, Augusta, GA

Aiken

WJBF, 6, Augusta, GA

WRDW-TV, 12, Augusta, GA

+WFXG, 54, Augusta, GA

Allendale

WJBF, 6, Augusta, GA

WRDW-TV, 12, Augusta, GA

+WFXG, 54, Augusta, GA

Anderson

WYFF, 4, Greenville, SC (formerly WFBC)

WSPA-TV, 7, Greenville, SC

WLOS, 13, Greenville, SC

+WHNS, 21, Greenville, SC

Bamberg

WJBF, 6, Augusta, GA

WRDW-TV, 12, Augusta, GA

WCSC-TV, 5, Charleston, SC

WIS, 10, Columbia, SC

Barnwell

WJBF, 6, Augusta, GA

WRDW-TV, 12, Augusta, GA

+WFXG, 54, Augusta, GA

WIS, 10, Columbia, SC

Beaufort

WCBD-TV, 2, Charleston, SC (formerly WUSN)

WCIV, 4, Charleston, SC

WCSC-TV, 5, Charleston, SC

WSAV-TV, 3, Savannah, GA

WTOC-TV, 11, Savannah, GA

Berkeley

WCBD-TV, 2, Charleston, SC (formerly WUSN)

WCIV, 4, Charleston, SC

WCSC-TV, 5, Charleston, SC

+WTAT-TV, 24, Charleston, SC

Calhoun

WIS, 10, Columbia, SC

WLTX, 19, Columbia, SC (formerly WNOK)

WRDW-TV, 12, Augusta, GA

WCBD-TV, 2, Charleston, SC (formerly WUSN)

WCSC-TV, 5, Charleston, SC

Charleston

WCBD-TV, 2, Charleston, SC (formerly WUSN)

WCIV, 4, Charleston, SC

WCSC-TV, 5, Charleston, SC

+WTAT-TV, 24, Charleston, SC

Cherokee

WYFF, 4, Greenville, SC (formerly WFBC)

WSPA-TV, 7, Greenville, SC

WLOS, 13, Greenville, SC

+WHNS, 21, Greenville, SC

WBTV, 3, Charlotte, NC

WSOC-TV, 9, Charlotte, NC

+WJZY, 46, Belmont, NC

Chester

WBTV, 3, Charlotte, NC

WSOC-TV, 9, Charlotte, NC

+WCNC-TV, 36, Charlotte, NC

+WJZY, 46, Belmont, NC

WIS, 10, Columbia, SC

WYFF, 4, Greenville, SC (formerly WFBC)

WSPA-TV, 7, Greenville, SC

WLOS, 13, Greenville, SC

+WHNS, 21, Greenville, SC

Chesterfield

WBTV, 3, Charlotte, NC

WSOC-TV, 9, Charlotte, NC

WCCB, 18, Charlotte, NC

WCNC-TV, 36, Charlotte, NC (formerly WRET)

+WJZY, 46, Belmont, NC

WIS, 10, Columbia, SC

WBTW, 13, Florence, SC

+WWMB, 21, Florence, SC

Clarendon

WIS, 10, Columbia, SC

+WLTX, 19, Columbia, SC

WCBD-TV, 2, Charleston, SC (formerly WUSN)

WCIV, 4, Charleston, SC

WCSC-TV, 5, Charleston, SC

+WTAT-TV, 24, Charleston, SC

WBTW, 13, Florence, SC

Colleton

WCBD-TV, 2, Charleston, SC (formerly WUSN)

WCIV, 4, Charleston, SC

WCSC-TV, 5, Charleston, SC

+WTAT-TV, 24, Charleston, SC

Darlington

WBTW, 13, Florence, SC

+WPDE-TV, 15, Florence, SC

+WWMB, 21, Florence, SC

+WFXB, 43, Myrtle Beach, SC

WIS, 10, Columbia, SC

Dillon

WBTW, 13, Florence, SC

+WPDE-TV, 15, Florence, SC

+WFXB, 43, Myrtle Beach, SC

WWAY, 3, Wilmington, NC

WECT, 6, Wilmington, NC

Dorchester

WCBD-TV, 2, Charleston, SC (formerly WUSN)

WCIV, 4, Charleston, SC

WCSC-TV, 5, Charleston, SC

+WTAT-TV, 24, Charleston, SC

Edgefield

WJBF, 6, Augusta, GA

WRDW-TV, 12, Augusta, GA

+WFXG, 54, Augusta, GA

Fairfield

WIS, 10, Columbia, SC

WLTX, 19, Columbia, SC (formerly WNOK)

WOLO-TV, 25, Columbia, SC

WSPA-TV, 7, Greenville, SC

Florence

WBTW, 13, Florence, SC

+WPDE-TV, 15, Florence, SC

+WWMB, 21, Florence, SC

+WFXB, 43, Myrtle Beach, SC

WIS, 10, Columbia, SC

+WTAT-TV, 24, Charleston, SC

Georgetown

WCBD-TV, 2, Charleston, SC (formerly WUSN)

WCIV, 4, Charleston, SC

WCSC-TV, 5, Charleston, SC

+WTAT-TV, 24, Charleston, SC

+WFXB, 43, Myrtle Beach, SC

Greenville

WYFF, 4, Greenville, SC (formerly WFBC)

WSPA-TV, 7, Greenville, SC

WLOS, 13, Greenville, SC

+WHNS, 21, Greenville, SC

Greenwood

WYFF, 4, Greenville, SC (formerly WFBC)

WSPA-TV, 7, Greenville, SC

WLOS, 13, Greenville, SC

WJBF, 6, Augusta, GA

Hampton

WJBF, 6, Augusta, GA

WRDW, 12, Augusta, GA

WCBD-TV, 2, Charleston, SC (formerly WUSN)

WCIV, 4, Charleston, SC

WCSC-TV, 5, Charleston, SC

WSAV-TV, 3, Savannah, GA

WTOC-TV, 11, Savannah, GA

Horry

WWAY, 3, Wilmington, NC

WECT, 6, Wilmington, NC

WCSC-TV, 5, Charleston, SC

WBTW, 13, Florence, SC

+WPDE-TV, 15, Florence, SC

+WWMB, 21, Florence, SC

+WFXB, 43, Myrtle Beach, SC

Jasper

WSAV-TV, 3, Savannah, GA

WTOC-TV, 11, Savannah, GA

WCBD-TV, 2, Charleston, SC (formerly WUSN)

WCIV, 4, Charleston, SC

WCSC-TV, 5, Charleston, SC

Kershaw

WIS, 10, Columbia, SC

WLTX, 19, Columbia, SC (formerly WNOK)

WOLO-TV, 25, Columbia, SC

WBTW, 13, Florence, SC

Lancaster

WBTV, 3, Charlotte, NC

WSOC-TV, 9, Charlotte, NC

WCCB, 18, Charlotte, NC

WCNC-TV, 36, Charlotte, NC (formerly WRET)

+WJZY, 46, Belmont, NC

WIS, 10, Columbia, SC

Laurens

WYFF, 4, Greenville, SC (formerly WFBC)

WSPA-TV, 7, Greenville, SC

WLOS, 13, Greenville, SC

+WHNS, 21, Greenville, SC

Lee

WIS, 10, Columbia, SC

WBTW, 13, Florence, SC

+WPDE-TV, 15, Florence, SC

+WFXB, 43, Myrtle Beach, SC

Lexington

WIS, 10, Columbia, SC

WLTX, 19, Columbia, SC (formerly WNOK)

WOLO-TV, 25, Columbia, SC

McCormick

WJBF, 6, Augusta, GA

WRDW-TV, 12, Augusta, GA

+WFXG, 54, Augusta, GA

WYFF, 4, Greenville, SC (formerly WFBC)

WSPA-TV, 7, Greenville, SC

Marion

WBTW, 13, Florence, SC

+WPDE-TV, 15, Florence, SC

+WWMB, 21, Florence, SC

+WFXB, 43, Myrtle Beach, SC

WIS, 10, Columbia, SC

WWAY, 3, Wilmington, NC

WECT, 6, Wilmington, NC

Marlboro

WBTW, 13, Florence, SC

+WPDE-TV, 15, Florence, SC

+WWMB, 21, Florence, SC

+WFXB, 43, Myrtle Beach, SC

WIS, 10, Columbia, SC

WECT, 6, Wilmington, NC

Newberry

WYFF, 4, Greenville, SC (formerly WFBC)

WSPA-TV, 7, Greenville, SC

WLOS, 13, Greenville, SC

+WHNS, 21, Greenville, SC

WJBF, 6, Augusta, GA

WIS, 10, Columbia, SC

+WLTX, 19, Columbia, SC

Oconee

WYFF, 4, Greenville, SC (formerly WFBC)

WSPA-TV, 7, Greenville, SC

WLOS, 13, Greenville, SC

+WHNS, 21, Greenville, SC

Orangeburg

WIS, 10, Columbia, SC

+WLTX, 19, Columbia, SC

WJBF, 6, Augusta, GA

WRDW-TV, 12, Augusta, GA

+WFXG, 54, Augusta, GA

WCBD-TV, 2, Charleston, SC (formerly WUSN)

WCIV, 4, Charleston, SC

WCSC-TV, 5, Charleston, SC

+WTAT-TV, 24, Charleston, SC

Pickens

WYFF, 4, Greenville, SC (formerly WFBC)

WSPA-TV, 7, Greenville, SC

WLOS, 13, Greenville, SC

+WHNS, 21, Greenville, SC

Richland

WIS, 10, Columbia, SC

WLTX, 19, Columbia, SC (formerly WNOK)

WOLO-TV, 25, Columbia, SC

Saluda

WJBF, 6, Augusta, GA

WRDW-TV, 12, Augusta, GA

WIS, 10, Columbia, SC

WYFF, 4, Greenville, SC (formerly WFBC)

WSPA-TV, 7, Greenville, SC

Spartanburg

WYFF, 4, Greenville, SC (formerly WFBC)

WSPA-TV, 7, Greenville, SC

WLOS, 13, Greenville, SC

+WHNS, 21, Greenville, SC

WBTV, 3, Charlotte, NC

+WJZY, 46, Belmont, NC

Sumter

WIS, 10, Columbia, SC

WLTX, 19, Columbia, SC (formerly WNOK)

WOLO-TV, 25, Columbia, SC

WBTW, 13, Florence, SC

+WTAT-TV, 24, Charleston, SC

Union

WYFF, 4, Greenville, SC (formerly WFBC)

WSPA-TV, 7, Greenville, SC

WLOS, 13, Greenville, SC

+WHNS, 21, Greenville, SC

WBTV, 3, Charlotte, NC

+WJZY, 46, Belmont, NC

Williamsburg

WCBD-TV, 2, Charleston, SC (formerly WUSN)

WCIV, 4, Charleston, SC

WCSC-TV, 5, Charleston, SC

WIS, 10, Columbia, SC

WBTW, 13, Florence, SC

York

WBTV, 3, Charlotte, NC

WSOC-TV, 9, Charlotte, NC

WCCB, 18, Charlotte, NC

WCNC-TV, 36, Charlotte, NC (formerly WRET)

+WJZY, 46, Belmont, NC

WSPA-TV, 7, Greenville, SC

+WHNS, 21, Greenville, SC

South Dakota

Aurora

KDLV-TV, 5, Mitchell, SD (formerly KORN)

KELO-TV, 11, Sioux Falls, SD

KSFY-TV, 13, Sioux Falls, SD (formerly KSOO)

Beadle

KDLV-TV, 5, Mitchell, SD (formerly KORN)

KELO-TV, 11, Sioux Falls, SD

KSFY-TV, 13, Sioux Falls, SD (formerly KSOO)

Bennett

KOTA-TV, 3, Rapid City, SD

KDUH-TV, 4, Scottsbluff, NE

Bon Homme

KDLV-TV, 5, Mitchell, SD (formerly KORN)

KELO-TV, 11, Sioux Falls, SD

KSFY-TV, 13, Sioux Falls, SD (formerly KSOO)

KTIV, 4, Sioux City, IA

KCAU-TV, 9, Sioux City, IA

Brookings

KDLV-TV, 5, Mitchell, SD (formerly KORN)

KELO-TV, 11, Sioux Falls, SD

KSFY-TV, 13, Sioux Falls, SD (formerly KSOO)

Brown

KELO-TV, 11, Sioux Falls, SD

KSFY-TV, 13, Sioux Falls, SD (formerly KSOO)

Brule

KDLV-TV, 5, Mitchell, SD (formerly KORN)

KELO-TV, 11, Sioux Falls, SD

Buffalo

KDLV-TV, 5, Mitchell, SD (formerly KORN)

KELO-TV, 11, Sioux Falls, SD

Butte

KOTA-TV, 3, Rapid City, SD

KEVN-TV, 7, Rapid City, SD (formerly KRSD)

Campbell

KFYR-TV, 5, Bismarck, ND

KXMB-TV, 12, Bismarck, ND

Charles Mix

KDLV-TV, 5, Mitchell, SD (formerly KORN)

KELO-TV, 11, Sioux Falls, SD

KSFY-TV, 13, Sioux Falls, SD (formerly KSOO)

Clark

KELO-TV, 11, Sioux Falls, SD

KSFY-TV, 13, Sioux Falls, SD (formerly KSOO)

Clay

KTIV, 4, Sioux City, IA

KCAU-TV, 9, Sioux City, IA

KMEG, 14, Sioux City, IA

KELO-TV, 11, Sioux Falls, SD

KSFY-TV, 13, Sioux Falls, SD (formerly KSOO)

Codington

KELO-TV, 11, Sioux Falls, SD

KSFY-TV, 13, Sioux Falls, SD (formerly KSOO)

Corson

KFYR-TV, 5, Bismarck, ND

KXMB-TV, 12, Bismarck, ND

Custer

KOTA-TV, 3, Rapid City, SD

KEVN-TV, 7, Rapid City, SD (formerly KRSD)

Davison

KDLV-TV, 5, Mitchell, SD (formerly KORN)

KELO-TV, 11, Sioux Falls, SD

+KTTM, 12, Huron, SD

KSFY-TV, 13, Sioux Falls, SD (formerly KSOO)

Day

KELO-TV, 11, Sioux Falls, SD

KSFY-TV, 13, Sioux Falls, SD (formerly KSOO)

Deuel

KELO-TV, 11, Sioux Falls, SD

KSFY-TV, 13, Sioux Falls, SD (formerly KSOO)

Dewey

KFYR-TV, 5, Bismarck, ND

KXMB-TV, 12, Bismarck, ND

KELO-TV, 11, Sioux Falls, SD

Douglas

KDLV-TV, 5, Mitchell, SD (formerly KORN)

KELO-TV, 11, Sioux Falls, SD

Edmunds

KELO-TV, 11, Sioux Falls, SD

KSFY-TV, 13, Sioux Falls, SD (formerly KSOO)

Fall River

KOTA-TV, 3, Rapid City, SD

KDUH-TV, 4, Scottsbluff, NE

KSTF, 10, Scottsbluff, NE

Faulk

KELO-TV, 11, Sioux Falls, SD

KSFY-TV, 13, Sioux Falls, SD (formerly KSOO)

Grant

KELO-TV, 11, Sioux Falls, SD

KCCO-TV, 7, Alexandria, MN (formerly KCMT)

Gregory

KDLV-TV, 5, Mitchell, SD (formerly KORN)

KELO-TV, 11, Sioux Falls, SD

Haakon

KOTA-TV, 3, Rapid City, SD

KELO-TV, 11, Sioux Falls, SD

Hamlin

KELO-TV, 11, Sioux Falls, SD

KSFY-TV, 13, Sioux Falls, SD (formerly KSOO)

Hand

KELO-TV, 11, Sioux Falls, SD

KSFY-TV, 13, Sioux Falls, SD (formerly KSOO)

Hanson

KDLV-TV, 5, Mitchell, SD (formerly KORN)

KELO-TV, 11, Sioux Falls, SD

KSFY-TV, 13, Sioux Falls, SD (formerly KSOO)

Harding

KOTA-TV, 3, Rapid City, SD

Hughes

KELO-TV, 11, Sioux Falls, SD

Hutchinson

KDLV-TV, 5, Mitchell, SD (formerly KORN)

KELO-TV, 11, Sioux Falls, SD

KSFY-TV, 13, Sioux Falls, SD (formerly KSOO)

Hyde

KELO-TV, 11, Sioux Falls, SD

KSFY-TV, 13, Sioux Falls, SD (formerly KSOO)

Jackson

KOTA-TV, 3, Rapid City, SD

KELO-TV, 11, Sioux Falls, SD

Jerauld

KDLV-TV, 5, Mitchell, SD (formerly KORN)

KELO-TV, 11, Sioux Falls, SD

KSFY-TV, 13, Sioux Falls, SD (formerly KSOO)

Jones

KELO-TV, 11, Sioux Falls, SD

Kingsbury

KDLV-TV, 5, Mitchell, SD (formerly KORN)

KELO-TV, 11, Sioux Falls, SD

KSFY-TV, 13, Sioux Falls, SD (formerly KSOO)

Lake

KDLV-TV, 5, Mitchell, SD (formerly KORN)

KELO-TV, 11, Sioux Falls, SD

KSFY-TV, 13, Sioux Falls, SD (formerly KSOO)

Lawrence

KOTA-TV, 3, Rapid City, SD

KEVN-TV, 7, Rapid City, SD (formerly KRSD)

Lincoln

KDLV-TV, 5, Mitchell, SD (formerly KORN)

KELO-TV, 11, Sioux Falls, SD

KSFY-TV, 13, Sioux Falls, SD (formerly KSOO)

KTIV, 4, Sioux City, IA

KCAU-TV, 9, Sioux City, IA

Lyman

KELO-TV, 11, Sioux Falls, SD

McCook

KDLV-TV, 5, Mitchell, SD (formerly KORN)

KELO-TV, 11, Sioux Falls, SD

KSFY-TV, 13, Sioux Falls, SD (formerly KSOO)

McPherson

KELO-TV, 11, Sioux Falls, SD

KSFY-TV, 13, Sioux Falls, SD (formerly KSOO)

KFYR-TV, 5, Bismarck, ND

Marshall

KELO-TV, 11, Sioux Falls, SD

KSFY-TV, 13, Sioux Falls, SD (formerly KSOO)

KXJB-TV, 4, Valley City, ND

Meade

KOTA-TV, 3, Rapid City, SD

KEVN-TV, 7, Rapid City, SD (formerly KRSD)

Mellette

KELO-TV, 11, Sioux Falls, SD

Miner

KDLV-TV, 5, Mitchell, SD (formerly KORN)

KELO-TV, 11, Sioux Falls, SD

KSFY-TV, 13, Sioux Falls, SD (formerly KSOO)

Minnehaha

KDLV-TV, 5, Mitchell, SD (formerly KORN)

KELO-TV, 11, Sioux Falls, SD

KSFY-TV, 13, Sioux Falls, SD (formerly KSOO)

KCAU-TV, 9, Sioux City, IA

Moody

KDLV-TV, 5, Mitchell, SD (formerly KORN)

KELO-TV, 11, Sioux Falls, SD

KSFY-TV, 13, Sioux Falls, SD (formerly KSOO)

Pennington

KOTA-TV, 3, Rapid City, SD

KEVN-TV, 7, Rapid City, SD (formerly KRSD)

Perkins

KFYR-TV, 5, Bismarck, ND

KXMA-TV, 2, Dickinson, ND (formerly KDIX)

KOTA-TV, 3, Rapid City, SD

Potter

KELO-TV, 11, Sioux Falls, SD

KSFY-TV, 13, Sioux Falls, SD (formerly KSOO)

KFYR-TV, 5, Bismarck, ND

Roberts

KELO-TV, 11, Sioux Falls, SD

KSFY-TV, 13, Sioux Falls, SD (formerly KSOO)

WDAY-TV, 6, Fargo, ND

Sanborn

KDLV-TV, 5, Mitchell, SD (formerly KORN)

KELO-TV, 11, Sioux Falls, SD

KSFY-TV, 13, Sioux Falls, SD (formerly KSOO)

Shannon

KOTA-TV, 3, Rapid City, SD

KDUH-TV, 4, Scottsbluff, NE

KEVN-TV, 7, Rapid City, SD (formerly KRSD)

Spink

KELO-TV, 11, Sioux Falls, SD

KSFY-TV, 13, Sioux Falls, SD (formerly KSOO)

Stanley

KELO-TV, 11, Sioux Falls, SD

Sully

KELO-TV, 11, Sioux Falls, SD

Todd

KELO-TV, 11, Sioux Falls, SD

Tripp

KDLV-TV, 5, Mitchell, SD (formerly KORN)

KELO-TV, 11, Sioux Falls, SD

Turner

KDLV-TV, 5, Mitchell, SD (formerly KORN)

KELO-TV, 11, Sioux Falls, SD

KSFY-TV, 13, Sioux Falls, SD (formerly KSOO)

KTIV, 4, Sioux City, IA

KCAU-TV, 9, Sioux City, IA

Union

KTIV, 4, Sioux City, IA

KCAU-TV, 9, Sioux City, IA

KMEG, 14, Sioux City, IA

KELO-TV, 11, Sioux Falls, SD

KSFY-TV, 13, Sioux Falls, SD (formerly KSOO)

Walworth

KFYR-TV, 5, Bismarck, ND

KXMB-TV, 12, Bismarck, ND

KELO-TV, 11, Sioux Falls, SD

Washabaugh

KOTA-TV, 3, Rapid City, SD

KELO-TV, 11, Sioux Falls, SD

Yankton

KTIV, 4, Sioux City, IA

KCAU-TV, 9, Sioux City, IA

KELO-TV, 11, Sioux Falls, SD

KSFY-TV, 13, Sioux Falls, SD (formerly KSOO)

Ziebach

KOTA-TV, 3, Rapid City, SD

Tennessee

Anderson

WATE-TV, 6, Knoxville, TN

WBIR-TV, 10, Knoxville, TN

WVLT-TV, 8, Knoxville, TN (formerly WTVK)

+WTNZ, 43, Knoxville, TN (formerly WKCH)

Bedford

WSMV, 4, Nashville, TN (formerly WSM)

WTVF, 5, Nashville, TN (formerly WLAC)

WKRN-TV, 2, Nashville, TN (formerly WSIX)

Benton

WSMV, 4, Nashville, TN (formerly WSM)

WTVF, 5, Nashville, TN (formerly WLAC)

WKRN-TV, 2, Nashville, TN (formerly WSIX)

Bledsoe

WRCB-TV, 3, Chattanooga, TN

WTVC, 9, Chattanooga, TN

WDEF-TV, 12, Chattanooga, TN

Blount

WATE-TV, 6, Knoxville, TN

WBIR-TV, 10, Knoxville, TN

WVLT-TV, 8, Knoxville, TN (formerly WTVK)

+WTNZ, 43, Knoxville, TN (formerly WKCH)

Bradley

WRCB-TV, 3, Chattanooga, TN

WTVC, 9, Chattanooga, TN

WDEF-TV, 12, Chattanooga, TN

Campbell

WATE-TV, 6, Knoxville, TN

WBIR-TV, 10, Knoxville, TN

WVLT-TV, 8, Knoxville, TN (formerly WTVK)

+WTNZ, 43, Knoxville, TN (formerly WKCH)

Cannon

WSMV, 4, Nashville, TN (formerly WSM)

WTVF, 5, Nashville, TN (formerly WLAC)

WKRN-TV, 2, Nashville, TN (formerly WSIX)

Carroll

WSMV, 4, Nashville, TN (formerly WSM)

WTVF, 5, Nashville, TN (formerly WLAC)

WKRN-TV, 2, Nashville, TN (formerly WSIX)

WBBJ-TV, 7, Jackson, TN

+WJKT, 16, Jackson, TN (formerly WMTU)

WREG-TV, 3, Memphis, TN (formerly WREC)

WPSD-TV, 6, Paducah, KY

Carter

WCYB-TV, 5, Bristol, VA

WJHL-TV, 11, Johnson City, TN

WKPT-TV, 19, Kingsport, TN

+WEMT, 39, Greenville, TN

Cheatam

WSMV, 4, Nashville, TN (formerly WSM)

WTVF, 5, Nashville, TN (formerly WLAC)

WKRN-TV, 2, Nashville, TN (formerly WSIX)

Chester

WREG-TV, 3, Memphis, TN (formerly WREC)

WMC-TV, 5, Memphis, TN

WHBQ-TV, 13, Memphis, TN

WBBJ-TV, 7, Jackson, TN

+WJKT, 16, Jackson, TN (formerly WMTU)

Claiborne

WATE-TV, 6, Knoxville, TN

+WVLT-TV, 8, Knoxville, TN (formerly WTVK, WKXT)

WBIR-TV, 10, Knoxville, TN

+WTNZ, 43, Knoxville, TN (formerly WKCH)

+WEMT, 39, Greenville, TN

Clay

WSMV, 4, Nashville, TN (formerly WSM)

WTVF, 5, Nashville, TN (formerly WLAC)

WKRN-TV, 2, Nashville, TN (formerly WSIX)

Cocke

WATE-TV, 6, Knoxville, TN

+WVLT-TV, 8, Knoxville, TN (formerly WTVK, WKXT)

WBIR-TV, 10, Knoxville, TN

WLOS, 13, Greenville, SC

+WEMT, 39, Greenville, TN

Coffee

WSMV, 4, Nashville, TN (formerly WSM)

WTVF, 5, Nashville, TN (formerly WLAC)

WKRN-TV, 2, Nashville, TN (formerly WSIX)

Crockett

WREG-TV, 3, Memphis, TN (formerly WREC)

WMC-TV, 5, Memphis, TN

WHBQ-TV, 13, Memphis, TN

WBBJ-TV, 7, Jackson, TN

Cumberland

WATE-TV, 6, Knoxville, TN

+WVLT-TV, 8, Knoxville, TN (formerly WTVK, WKXT)

WBIR-TV, 10, Knoxville, TN

WTVC, 9, Chattanooga, TN

Davidson

WSMV, 4, Nashville, TN (formerly WSM)

WTVF, 5, Nashville, TN (formerly WLAC)

WKRN-TV, 2, Nashville, TN (formerly WSIX)

+WUXP, 30, Nashville, TN

Decatur

WSMV, 4, Nashville, TN (formerly WSM)

WTVF, 5, Nashville, TN (formerly WLAC)

WKRN-TV, 2, Nashville, TN (formerly WSIX)

WBBJ-TV, 7, Jackson, TN

De Kalb

WSMV, 4, Nashville, TN (formerly WSM)

WTVF, 5, Nashville, TN (formerly WLAC)

WKRN-TV, 2, Nashville, TN (formerly WSIX)

Dickson

WSMV, 4, Nashville, TN (formerly WSM)

WTVF, 5, Nashville, TN (formerly WLAC)

WKRN-TV, 2, Nashville, TN (formerly WSIX)

+WUXP, 30, Nashville, TN

Dyer

WREG-TV, 3, Memphis, TN (formerly WREC)

WMC-TV, 5, Memphis, TN

WHBQ-TV, 13, Memphis, TN

+WPTY-TV, 24, Memphis, TN

WBBJ-TV, 7, Jackson, TN

KFVS-TV, 12, Cape Girardeau, MO

Fayette

WREG-TV, 3, Memphis, TN (formerly WREC)

WMC-TV, 5, Memphis, TN

WHBQ-TV, 13, Memphis, TN

Fentress

WATE-TV, 6, Knoxville, TN

+WVLT-TV, 8, Knoxville, TN (formerly WTVK, WKXT)

WBIR-TV, 10, Knoxville, TN

Franklin

WSMV, 4, Nashville, TN (formerly WSM)

WTVF, 5, Nashville, TN (formerly WLAC)

WKRN-TV, 2, Nashville, TN (formerly WSIX)

WTVC, 9, Chattanooga, TN

WDEF-TV, 12, Chattanooga, TN

+WZDX, 54, Huntsville, AL

Gibson

WREG-TV, 3, Memphis, TN (formerly WREC)

WMC-TV, 5, Memphis, TN

WHBQ-TV, 13, Memphis, TN

WBBJ-TV, 7, Jackson, TN

Giles

WSMV, 4, Nashville, TN (formerly WSM)

WTVF, 5, Nashville, TN (formerly WLAC)

WKRN-TV, 2, Nashville, TN (formerly WSIX)

Grainger

WATE-TV, 6, Knoxville, TN

WVLT-TV, 8, Knoxville, TN (formerly WTVK, WKXT)

WBIR-TV, 10, Knoxville, TN

Greene

WCYB-TV, 5, Bristol, VA

WJHL-TV, 11, Johnson City, TN

+WEMT, 39, Greenville, TN

WLOS, 13, Greenville, SC

WATE-TV, 6, Knoxville, TN

WBIR-TV, 10, Knoxville, TN

Grundy

WRCB-TV, 3, Chattanooga, TN

WTVC, 9, Chattanooga, TN

WDEF-TV, 12, Chattanooga, TN

WSMV, 4, Nashville, TN (formerly WSM)

WTVF, 5, Nashville, TN (formerly WLAC)

WKRN-TV, 2, Nashville, TN (formerly WSIX)

Hamblen

WATE-TV, 6, Knoxville, TN

+WVLT-TV, 8, Knoxville, TN (formerly WTVK, WKXT)

WBIR-TV, 10, Knoxville, TN

+WTNZ, 43, Knoxville, TN (formerly WKCH)

WCYB-TV, 5, Bristol, VA

+WEMT, 39, Greenville, TN

WLOS, 13, Greenville, SC

Hamilton

WRCB-TV, 3, Chattanooga, Tn

WTVC, 9, Chattanooga, TN

WDEF-TV, 12, Chattanooga, TN

Hancock

WATE-TV, 6, Knoxville, TN

WBIR-TV, 10, Knoxville, TN

WCYB-TV, 5, Bristol, VA

Hardeman

WREG-TV, 3, Memphis, TN (formerly WREC)

WMC-TV, 5, Memphis, TN

WHBQ-TV, 13, Memphis, TN

Hardin

WBBJ-TV, 7, Jackson, TN

+WJKT, 16, Jackson, TN (formerly WMTU)

WREG-TV, 3, Memphis, TN (formerly WREC)

WMC-TV, 5, Memphis, TN

Hawkins

WCYB-TV, 5, Bristol, VA

WJHL-TV, 11, Johnson City, TN

+WEMT, 39, Greenville, TN

WLOS, 13, Greenville, SC

WATE-TV, 6, Knoxville, TN

+WVLT-TV, 8, Knoxville, TN (formerly WTVK, WKXT)

WBIR-TV, 10, Knoxville, TN

Haywood

WREG-TV, 3, Memphis, TN (formerly WREC)

WMC-TV, 5, Memphis, TN

WHBQ-TV, 13, Memphis, TN

+WLMT, 30, Memphis, TN

WBBJ-TV, 7, Jackson, TN

Henderson

WBBJ-TV, 7, Jackson, TN

+WJKT, 16, Jackson, TN (formerly WMTU)

WREG-TV, 3, Memphis, TN (formerly WREC)

WMC-TV, 5, Memphis, TN

WSMV, 4, Nashville, TN (formerly WSM)

WTVF, 5, Nashville, TN (formerly WLAC)

Henry

WSMV, 4, Nashville, TN (formerly WSM)

WTVF, 5, Nashville, TN (formerly WLAC)

WKRN-TV, 2, Nashville, TN (formerly WSIX)

WPSD-TV, 6, Paducah, KY

Hickman

WSMV, 4, Nashville, TN (formerly WSM)

WTVF, 5, Nashville, TN (formerly WLAC)

WKRN-TV, 2, Nashville, TN (formerly WSIX)

Houston

WSMV, 4, Nashville, TN (formerly WSM)

WTVF, 5, Nashville, TN (formerly WLAC)

WKRN-TV, 2, Nashville, TN (formerly WSIX)

Humphreys

WSMV, 4, Nashville, TN (formerly WSM)

WTVF, 5, Nashville, TN (formerly WLAC)

WKRN-TV, 2, Nashville, TN (formerly WSIX)

Jackson

WSMV, 4, Nashville, TN (formerly WSM)

WTVF, 5, Nashville, TN (formerly WLAC)

WKRN-TV, 2, Nashville, TN (formerly WSIX)

Jefferson

WATE-TV, 6, Knoxville, TN

WBIR-TV, 10, Knoxville, TN

WVLT-TV, 8, Knoxville, TN (formerly WTVK)

+WTNZ, 43, Knoxville, TN (formerly WKCH)

WLOS, 13, Greenville, SC

+WEMT, 39, Greenville, TN

Johnson

WCYB-TV, 5, Bristol, VA

WJHL-TV, 11, Johnson City, TN

Knox

WATE-TV, 6, Knoxville, TN

WVLT-TV, 8, Knoxville, TN (formerly WTVK, WKXT)

WBIR-TV, 10, Knoxville, TN

+WTNZ, 43, Knoxville, TN (formerly WKCH)

Lake

WPSD-TV, 6, Paducah, KY

KFVS-TV, 12, Cape Girardeau, MO

WREG-TV, 3, Memphis, TN (formerly WREC)

WMC-TV, 5, Memphis, TN

WHBQ-TV, 13, Memphis, TN

Lauderdale

WREG-TV, 3, Memphis, TN (formerly WREC)

WMC-TV, 5, Memphis, TN

WHBQ-TV, 13, Memphis, TN

Lawrence

WSMV, 4, Nashville, TN (formerly WSM)

WTVF, 5, Nashville, TN (formerly WLAC)

WKRN-TV, 2, Nashville, TN (formerly WSIX)

WHNT-TV, 19, Huntsville, AL

WAAY-TV, 31, Huntsville, AL

+WZDX, 54, Huntsville, AL

Lewis

WSMV, 4, Nashville, TN (formerly WSM)

WTVF, 5, Nashville, TN (formerly WLAC)

WKRN-TV, 2, Nashville, TN (formerly WSIX)

Lincoln

WHNT-TV, 19, Huntsville, AL

WAAY-TV, 31, Huntsville, AL

WAFF, 48, Huntsville, AL (formerly WMSL)

+WZDX, 54, Huntsville, AL

WSMV, 4, Nashville, TN (formerly WSM)

WTVF, 5, Nashville, TN (formerly WLAC)

WKRN-TV, 2, Nashville, TN (formerly WSIX)

Loudon

WATE-TV, 6, Knoxville, TN

WBIR-TV, 10, Knoxville, TN

WVLT-TV, 8, Knoxville, TN (formerly WTVK)

+WTNZ, 43, Knoxville, TN (formerly WKCH)

McMinn

WRCB-TV, 3, Chattanooga, TN

WTVC, 9, Chattanooga, TN

WDEF-TV, 12, Chattanooga, TN

WATE-TV, 6, Knoxville, TN

McNairy

WREG-TV, 3, Memphis, TN (formerly WREC)

WMC-TV, 5, Memphis, TN

WHBQ-TV, 13, Memphis, TN

WBBJ-TV, 7, Jackson, TN

+WJKT, 16, Jackson, TN (formerly WMTU)

Macon

WSMV, 4, Nashville, TN (formerly WSM)

WTVF, 5, Nashville, TN (formerly WLAC)

WKRN-TV, 2, Nashville, TN (formerly WSIX)

Madison

WBBJ-TV, 7, Jackson, TN

+WJKT, 16, Jackson, TN (formerly WMTU)

WREG-TV, 3, Memphis, TN (formerly WREC)

WMC-TV, 5, Memphis, TN

WHBQ-TV, 13, Memphis, TN

+WPTY-TV, 24, Memphis, TN

Marion

WRCB-TV, 3, Chattanooga, TN

WTVC, 9, Chattanooga, TN

WDEF-TV, 12, Chattanooga, TN

Marshall

WSMV, 4, Nashville, TN (formerly WSM)

WTVF, 5, Nashville, TN (formerly WLAC)

WKRN-TV, 2, Nashville, TN (formerly WSIX)

Maury

WSMV, 4, Nashville, TN (formerly WSM)

WTVF, 5, Nashville, TN (formerly WLAC)

WKRN-TV, 2, Nashville, TN (formerly WSIX)

+WUXP, 30, Nashville, TN

Meigs

WRCB-TV, 3, Chattanooga, TN

WTVC, 9, Chattanooga, TN

WDEF-TV, 12, Chattanooga, TN

Monroe

WATE-TV, 6, Knoxville, TN

+WVLT-TV, 8, Knoxville, TN (formerly WKXT, WTVK)

WBIR-TV, 10, Knoxville, TN

WRCB-TV, 3, Chattanooga, TN

WTVC, 9, Chattanooga, TN

WDEF-TV, 12, Chattanooga, TN

Montgomery

WSMV, 4, Nashville, TN (formerly WSM)

WTVF, 5, Nashville, TN (formerly WLAC)

WKRN-TV, 2, Nashville, TN (formerly WSIX)

+WUXP, 30, Nashville, TN

Moore

WHNT-TV, 19, Huntsville, AL

WAAY-TV, 31, Huntsville, AL

WAFF, 48, Huntsville, AL (formerly WMSL)

WSMV, 4, Nashville, TN (formerly WSM)

WTVF, 5, Nashville, TN (formerly WLAC)

WKRN-TV, 2, Nashville, TN (formerly WSIX)

Morgan

WATE-TV, 6, Knoxville, TN

+WVLT-TV, 8, Knoxville, TN (formerly WKXT, WTVK)

WBIR-TV, 10, Knoxville, TN

WTVC, 9, Chattanooga, TN

Obion

WPSD-TV, 6, Paducah, KY

KFVS-TV, 12, Cape Girardeau, MO

+KBSI, 23, Cape Girardeau, MO

WBBJ-TV, 7, Jackson, TN

Overton

WSMV, 4, Nashville, TN (formerly WSM)

WTVF, 5, Nashville, TN (formerly WLAC)

WKRN-TV, 2, Nashville, TN (formerly WSIX)

Perry

WSMV, 4, Nashville, TN (formerly WSM)

WTVF, 5, Nashville, TN (formerly WLAC)

WKRN-TV, 2, Nashville, TN (formerly WSIX)

Pickett

WSMV, 4, Nashville, TN (formerly WSM)

WTVF, 5, Nashville, TN (formerly WLAC)

WKRN-TV, 2, Nashville, TN (formerly WSIX)

Polk

WRCB-TV, 3, Chattanooga, TN

WTVC, 9, Chattanooga, TN

WDEF-TV, 12, Chattanooga, TN

WATL, 36, Atlanta, GA

Putnam

WSMV, 4, Nashville, TN (formerly WSM)

WTVF, 5, Nashville, TN (formerly WLAC)

WKRN-TV, 2, Nashville, TN (formerly WSIX)

Rhea

WRCB-TV, 3, Chattanooga, TN

WTVC, 9, Chattanooga, TN

WDEF-TV, 12, Chattanooga, TN

Roane

WATE-TV, 6, Knoxville, TN

+WVLT-TV, 8, Knoxville, TN (formerly WTVK, WKXT)

WBIR-TV, 10, Knoxville, TN

+WTNZ, 43, Knoxville, TN (formerly WKCH)

WRCB-TV, 3, Chattanooga, TN

WTVC, 9, Chattanooga, TN

WDEF-TV, 12, Chattanooga, TN

Robertson

WSMV, 4, Nashville, TN (formerly WSM)

WTVF, 5, Nashville, TN (formerly WLAC)

WKRN-TV, 2, Nashville, TN (formerly WSIX)

Rutherford

WSMV, 4, Nashville, TN (formerly WSM)

WTVF, 5, Nashville, TN (formerly WLAC)

WKRN-TV, 2, Nashville, TN (formerly WSIX)

+WUXP, 30, Nashville, TN

Scott

WATE-TV, 6, Knoxville, TN

+WVLT-TV, 8, Knoxville, TN (formerly WTVK, WKXT)

WBIR-TV, 10, Knoxville, TN

Sequatchie

WRCB-TV, 3, Chattanooga, TN

WTVC, 9, Chattanooga, TN

WDEF-TV, 12, Chattanooga, TN

Sevier

WATE-TV, 6, Knoxville, TN

WBIR-TV, 10, Knoxville, TN

WVLT-TV, 8, Knoxville, TN (formerly WTVK)

+WTNZ, 43, Knoxville, TN (formerly WKCH)

+WEMT, 39, Greenville, TN

Shelby

WREG-TV, 3, Memphis, TN (formerly WREC)

WMC-TV, 5, Memphis, TN

WHBQ-TV, 13, Memphis, TN

+WLMT, 30, Memphis, TN

Smith

WSMV, 4, Nashville, TN (formerly WSM)

WTVF, 5, Nashville, TN (formerly WLAC)

WKRN-TV, 2, Nashville, TN (formerly WSIX)

Stewart

WSMV, 4, Nashville, TN (formerly WSM)

WTVF, 5, Nashville, TN (formerly WLAC)

WKRN-TV, 2, Nashville, TN (formerly WSIX)

Sullivan

WCYB-TV, 5, Bristol, VA

WJHL-TV, 11, Johnson City, TN

WKPT-TV, 19, Kingsport, TN

Sumner

WSMV, 4, Nashville, TN (formerly WSM)

WTVF, 5, Nashville, TN (formerly WLAC)

WKRN-TV, 2, Nashville, TN (formerly WSIX)

+WUXP, 30, Nashville, TN

Tipton

WREG-TV, 3, Memphis, TN (formerly WREC)

WMC-TV, 5, Memphis, TN

WHBQ-TV, 13, Memphis, TN

+WLMT, 30, Memphis, TN

Trousdale

WSMV, 4, Nashville, TN (formerly WSM)

WTVF, 5, Nashville, TN (formerly WLAC)

WKRN-TV, 2, Nashville, TN (formerly WSIX)

Unicoi

WCYB-TV, 5, Bristol, VA

WJHL-TV, 11, Johnson City, TN

Union

WATE-TV, 6, Knoxville, TN

WBIR-TV, 10, Knoxville, TN

WVLT-TV, 8, Knoxville, TN (formerly WTVK)

Van Buren

WSMV, 4, Nashville, TN (formerly WSM)

WTVF, 5, Nashville, TN (formerly WLAC)

WKRN-TV, 2, Nashville, TN (formerly WSIX)

WRCB-TV, 3, Chattanooga, TN

WDEF-TV, 12, Chattanooga, TN

Warren

WSMV, 4, Nashville, TN (formerly WSM)

WTVF, 5, Nashville, TN (formerly WLAC)

WKRN-TV, 2, Nashville, TN (formerly WSIX)

Washington

WCYB-TV, 5, Bristol, VA

WJHL-TV, 11, Johnson City, TN

WKPT-TV, 19, Kingsport, TN

Wayne

WSMV 4, Nashville, TN (formerly WSM)

WTVF, 5, Nashville, TN (formerly WLAC)

WKRN-TV, 2, Nashville, TN (formerly WSIX)

Weakley

WPSD-TV, 6, Paducah, KY

KFVS-TV, 12, Cape Girardeau, MO

+KBSI, 23, Cape Girardeau, MO

WBBJ-TV, 7, Jackson, TN

White

WSMV, 4, Nashville, TN (formerly WSM)

WTVF, 5, Nashville, TN (formerly WLAC)

WKRN-TV, 2, Nashville, TN (formerly WSIX)

Williamson

WSMV, 4, Nashville, TN (formerly WSM)

WTVF, 5, Nashville, TN (formerly WLAC)

WKRN-TV, 2, Nashville, TN (formerly WSIX)

+WUXP, 30, Nashville, TN

Wilson

WSMV, 4, Nashville, TN (formerly WSM)

WTVF, 5, Nashville, TN (formerly WLAC)

WKRN-TV, 2, Nashville, TN (formerly WSIX)

+WUXP, 30, Nashville, TN

Texas

Anderson

KDFW, 4, Dallas, TX

KXAS-TV, 5, Fort Worth, TX (formerly WBAP)

WFAA-TV, 8, Dallas, TX

KTVT, 11, Fort Worth, TX

KLTV, 7, Tyler, TX

+KETK-TV, 56, Jacksonville, TX

Andrews

KMID, 2, Midland, TX

KOSA-TV, 7, Odessa, TX

KWES-TV, 9, Odessa, TX (formerly KMOM)

+KPEJ, 24, Odessa, TX

Angelina

KTRE, 9, Lufkin, TX

+KLSB-TV, 19, Nacogdoches, TX

Aransas

KIII-TV, 3, Corpus Christi, TX

KRIS-TV, 6, Corpus Christi, TX

KZTV, 10, Corpus Christi, TX

Archer

KFDX-TV, 3, Wichita Falls, TX

KAUZ-TV, 6, Wichita Falls, TX

KSWO-TV, 7, Lawton, OK

+KJTL, 18, Wichita Falls, TX

Armstrong

KAMR-TV, 4, Amarillo, TX (formerly KGNC)

KVII-TV, 7, Amarillo, TX

KFDA-TV, 10, Amarillo, TX

Atascosa

KMOL-TV, 4, San Antonio, TX (formerly WOAI)

KENS-TV, 5, San Antonio, TX

KSAT-TV, 12, San Antonio, TX

+KABB, 29, San Antonio, TX

+KRRT, 35, Kerrville, TX

Austin

KPRC-TV, 2, Houston, TX

KHOU-TV, 11, Houston, TX

KTRK-TV, 13, Houston, TX

KHWB, 39, Houston, TX (formerly KHTV)

Bailey

KCBD—TV, 11, Lubbock, TX

KLBK-TV, 13, Lubbock, TX

+KJTV-TV, 34, Lubbock, TX

KFDA-TV, 10, Amarillo, TX

Bandera

KMOL-TV, 4, San Antonio, TX (formerly WOAI)

KENS-TV, 5, San Antonio, TX

KSAT-TV, 12, San Antonio, TX

Bastrop

KTBC, 7, Austin, TX

KXAN-TV, 36, Austin, TX (formerly KHFI)

+KEYE-TV, 42, Austin (formerly KBVO)

KMOL-TV, 4, San Antonio, TX (formerly WOAI)

KENS-TV, 5, San Antonio, TX

KSAT-TV, 12, San Antonio, TX

Baylor

KFDX-TV, 3, Wichita Falls, TX

KAUZ-TV, 6, Wichita Falls, TX

KSWO-TV, 7, Lawton, OK

Bee

KIII-TV, 3, Corpus Christi, TX

KRIS-TV, 6, Corpus Christi, TX

KZTV, 10, Corpus Christi, TX

KMOL-TV, 4, San Antonio, TX (formerly WOAI)

KENS-TV, 5, San Antonio, TX

KSAT-TV, 12, San Antonio, TX

+KABB, 29, San Antonio, TX

Bell

KCEN-TV, 6, Temple, TX

KWTX-TV, 10, Waco, TX

+KXXV, 25, Waco, TX

+KWKT, 44, Waco, TX

KTBC, 7, Austin, TX

+KEYE-TV, 42, Austin, TX (formerly KBVO)

Bexar

KMOL-TV, 4, San Antonio, TX (formerly WOAI)

KENS-TV, 5, San Antonio, TX

KSAT-TV, 12, San Antonio, TX

+KABB, 29, San Antonio, TX

+KRRT, 35, Kerrville, TX

KWEX-TV, 41, San Antonio, TX

Blanco

KMOL-TV, 4, San Antonio, TX (formerly WOAI)

KENS-TV, 5, San Antonio, TX

KSAT-TV, 12, San Antonio, TX

KTBC, 7, Austin, TX

KXAN-TV, 36, Austin, TX (formerly KHFI)

Borden

KCBD-TV, 11, Lubbock, TX

KLBK-TV, 13, Lubbock, TX

KAMC, 28, Lubbock, TX (formerly KSEL)

Bosque

KDFW, 4, Dallas, TX

KXAS-TV, 5, Fort Worth, TX (formerly WBAP)

WFAA-TV, 8, Dallas, TX

KTVT, 11, Fort Worth, TX

KCEN-TV, 6, Temple, TX

KWTX-TV, 10, Waco, TX

Bowie

KTBS-TV, 3, Shreveport, LA

KTAL-TV, 6, Shreveport, LA

KSLA-TV, 12, Shreveport, LA

+KMSS-TV, 33, Shreveport, LA

Brazoria

KPRC-TV, 2, Houston, TX

KHOU-TV, 11, Houston, TX

KTRK-TV, 13, Houston, TX

+KTXH, 20, Houston, TX

KHWB, 39, Houston, TX (formerly KHTV)

+KXLN-TV, 45, Rosenberg, TX

Brazos

KBTX-TV, 3, Waco, TX

KCEN-TV, 6, Temple, TX

+KWKT, 44, Waco, TX

KTVT, 11, Fort Worth, TX

Brewster

Not available.

Briscoe

KAMR-TV, 4, Amarillo, TX (formerly KGNC)

KVIITV 7, Amarillo, TX

KFDA-TV, 10, Amarillo, TX

Brooks

KIII-TV, 3, Corpus Christi, TX

KRIS-TV, 6, Corpus Christi, TX

KZTV, 10, Corpus Christi, TX

Brown

KRBC-TV, 9, Abilene, TX

KTXS-TV, 12, Sweetwater, TX

+KTAB-TV, 32, Abilene, TX

KTVT, 11, Fort Worth, TX

Burleson

KBTX-TV, 3, Bryan, TX

KCEN-TV, 6, Temple, TX

KTBC, 7, Austin, TX

+KEYE-TV, 42, Austin, TX (formerly KBVO)

Burnet

KTBC, 7, Austin, TX

KXAN-TV, 36, Austin, TX (formerly KHFI)

+KEYE-TV, 42, Austin, TX (formerly KBVO)

KWTX-TV, 10, Waco, TX

+KWKT, 44, Waco, TX

Caldwell

KMOL-TV, 4, San Antonio, TX (formerly WOAI)

KENS-TV, 5, San Antonio, TX

KSAT-TV, 12, San Antonio, TX

+KABB, 29, San Antonio, TX

KTBC, 7, Austin, TX

KXAN-TV, 36, Austin, TX (formerly KHFI)

+KEYE-TV, 42, Austin, TX (formerly KBVO)

Calhoun

+KAVU-TV, 25, Victoria, TX

Callahan

KRBC-TV, 9, Abilene, TX

KTXS-TV, 12, Sweetwater, TX

+KTAB-TV, 32, Abilene, TX

Cameron

KGBT-TV, 4, Harlingen, TX

KRGV-TV, 5, Weslaco, TX

+KVEO, 23, Brownsville, TX

Camp

KTBS-TV, 3, Shreveport, LA

KTAL-TV, 6, Shreveport, LA

KSLA-TV, 12, Shreveport, LA

+KMSS-TV, 33, Shreveport, LA

KLTV, 7, Tyler, TX

Carson

KAMR-TV, 4, Amarillo, TX (formerly KGNC)

KVII-TV, 7, Amarillo, TX

KFDA-TV, 10, Amarillo, TX

+KCIT, 14, Amarillo, TX

Cass

KTBS-TV, 3, Shreveport, LA

KTAL-TV, 6, Shreveport, LA

KSLA,-TV 12, Shreveport, LA

+KMSS-TV, 33, Shreveport, LA

Castro

KAMR-TV, 4, Amarillo, TX (formerly KGNC)

KVII-TV, 7, Amarillo, TX

KFDA-TV, 10, Amarillo, TX

KLBK-TV, 13, Lubbock, TX

+KJTV-TV, 34, Lubbock, TX

Chambers

KPRC-TV, 2, Houston, TX

KHOU-TV, 11, Houston, TX

KTRK-TV, 13, Houston, TX

KHWB, 39, Houston, TX (formerly KHTV)

KBTV-TV, 4, Port Arthur, TX (formerly KJAC)

KFDM-TV, 6, Beaumont, TX

KBMT, 12, Beaumont, TX

Cherokee

KLTV, 7, Tyler, TX

KTRE, 9, Lufkin, TX

+KFXK, 51, Longview, TX

+KETK-TV, 56, Jacksonville, TX

KTBS-TV, 3, Shreveport, LA

Childress

Not available.

Clay

KFDX-TV, 3, Wichita Falls, TX

KAUZ-TV, 6, Wichita Falls, TX

KSWO-TV, 7, Lawton, OK

+KJTL, 18, Wichita Falls, TX

Cochran

KCBD-TV, 11, Lubbock, TX

KLBK-TV, 13, Lubbock, TX

KAMC, 28, Lubbock, TX (formerly KSEL)

Coke

KRBC+-TV, 9, Abilene, TX

KTXS-TV, 12, Sweetwater, TX

KLST, 8, San Angelo, TX (formerly KCTV)

Coleman

KRBC-TV, 9, Abilene, TX

KTXS-TV, 12, Sweetwater, TX

+KTAB-TV, 32, Abilene, TX

Collin

KDFW, 4, Dallas, TX

KXAS-TV, 5, Fort Worth, TX (formerly WBAP)

WFAA-TV, 8, Dallas, TX

KTVT, 11, Fort Worth, TX

+KDFI-TV, 27, Dallas, TX

+KDAF, 33, Dallas, TX

KXTX-TV, 39, Dallas, TX (formerly KDTV)

Collingsworth

KVII-TV, 7, Amarillo, TX

KFDA-TV, 10, Amarillo, TX

KFDX-TV, 3, Wichita Falls, TX

KAUZ-TV, 6, Wichita Falls, TX

KSWO-TV, 7, Lawton, OK

Colorado

KPRC-TV, 2, Houston, TX

KHOU-TV, 11, Houston, TX

KTRK-TV, 13, Houston, TX

+KTXH, 20, Houston, TX

Comal

KMOL-TV, 4, San Antonio, TX (formerly WOAI)

KENS-TV, 5, San Antonio, TX

KSAT-TV, 12, San Antonio, TX

+KABB, 29, San Antonio, TX

+KRRT, 35, Kerrville, TX

Comanche

KDFW-TV, 4, Dallas, TX

KXAS-TV, 5, Fort Worth, TX (formerly WBAP)

WFAA-TV, 8, Dallas, TX

KTVT, 11, Fort Worth, TX

KRBC-TV, 9, Abilene, TX

Concho

+KIDY, 6, San Angelo, TX

Cooke

KDFW-TV, 4, Dallas, TX

KXAS-TV, 5, Fort Worth, TX (formerly WBAP)

WFAA-TV, 8, Dallas, TX

KTVT, 11, Fort Worth, TX

+KDFI-TV, 27, Dallas, TX

Coryell

KCEN-TV, 6, Temple, TX

KWTX-TV, 10, Waco, TX

+KXXV, 25, Waco, TX

+KWKT, 44, Waco, TX

KTBC, 7, Austin, TX

KTVT, 11, Fort Worth, TX

Cottle

Over 90% cable penetration.

Crane

KMID, 2, Midland, TX

KOSA-TV, 7, Odessa, TX

KWES-TV, 9, Odessa, TX (formerly KMOM)

Crockett

Not available.

Crosby

KCBD-TV, 11, Lubbock, TX

KLBK-TV, 13, Lubbock, TX

KAMC, 28, Lubbock, TX (formerly KSEL)

+KJTV-TV, 34, Lubbock, TX

Culberson

Not available.

Dallam

KAMR-TV, 4, Amarillo, TX (formerly KGNC)

KVII-TV, 7, Amarillo, TX

KFDA-TV, 10, Amarillo, TX

Dallas

KDFW, 4, Dallas, TX

KXAS-TV, 5, Fort Worth, TX (formerly WBAP)

WFAA-TV, 8, Dallas, TX

KTVT, 11, Fort Worth, TV

+KDFI-TV, 27, Dallas, TX

+KDAF, 33, Dallas, TX

KXTX-TV, 39, Dallas, TX (formerly KDTV)

Dawson

KCBD-TV, 11, Lubbock, TX

KLBK-TV, 13, Lubbock, TX

KAMC, 28, Lubbock, TX (formerly KSEL)

KJTV-TV, 34, Lubbock, TX (formerly KMXN)

KMID, 2, Midland, TX

+KPEJ, 24, Odessa, TX

Deaf Smith

KAMR-TV, 4, Amarillo, TX (formerly KGNC)

KVII-TV, 7, Amarillo, TX

KFDA-TV, 10, Amarillo, TX

Delta

KDFW-TV, 4, Dallas, TX

KXAS-TV, 5, Fort Worth, TX (formerly WBAP)

WFAA-TV, 8, Dallas, TX

KTVT, 11, Fort Worth, TX

Denton

KDFW-TV, 4, Dallas, TX

KXAS-TV, 5, Fort Worth, TX (formerly WBAP)

WFAA-TV, 8, Dallas, TX

KTVT, 11, Fort Worth, TX

+KTXA, 21, Arlington, TX

+KDFI-TV, 27, Dallas, TX

+KDAF, 33, Dallas, TX

KXTX-TV, 39, Dallas, TX (formerly KDTV)

De Witt

KMOL-TV, 4, San Antonio, TX (formerly WOAI)

KENS-TV, 5, San Antonio, TX

KSAT-TV, 12, San Antonio, TX

+KABB, 29, San Antonio, TX

Dickens

KCBD-TV, 11, Lubbock, TX

KLBK-TV, 13, Lubbock, TX

KAMC, 28, Lubbock, TX (formerly KSEL)

KTXS-TV, 12, Sweetwater, TX

Dimmit

Not available.

Donley

KAMR-TV, 4, Amarillo, TX (formerly KGNC)

KVII-TV, 7, Amarillo, TX

KFDA-TV, 10, Amarillo, TX

Duval

KIII-TV, 3, Corpus Christi, TX

KRIS-TV, 6, Corpus Christi, TX

KZTV, 10, Corpus Christi, TX

Eastland

KRBC-TV, 9, Abilene, TX

KTXS-TV, 12, Sweetwater, TX

+KTAB-TV, 32, Abilene, TX

Ector

KMID, 2, Midland, TX

KOSA-TV, 7, Odessa, TX

KWES-TV, 9, Odessa, TX (formerly KMOM)

+KPEJ, 24, Odessa, TX

Edwards

KMOL-TV, 4, San Antonio, TX (formerly WOAI)

KENS-TV, 5, San Antonio, TX

KSAT-TV, 12, San Antonio, TX

Ellis

KDFW-TV, 4, Dallas, TX

KXAS-TV, 5, Fort Worth, TX (formerly WBAP)

WFAA-TV, 8, Dallas, TX

KTVT, 11, Fort Worth, TX

+KDFI-TV, 27, Dallas, TX

+KDAF, 33, Dallas, TX

KXTX-TV, 39, Dallas, TX (formerly KDTV)

El Paso

KDBC-TV, 4, El Paso, TX (formerly KROD)

KTSM-TV, 9, El Paso, TX

KVIA-TV, 7, El Paso, TX (formerly KELP)

+KFOX-TV, 14, El Paso, TX

Erath

KDFW-TV, 4, Dallas, TX

KXAS-TV, 5, Fort Worth, TX (formerly WBAP)

WFAA-TV, 8, Dallas, TX

KTVT, 11, Fort Worth, TX

Falls

KCEN-TV, 6, Temple, TX

KWTX-TV, 10, Waco, TX

+KXXV, 25, Waco, TX

+KWKT, 44, Waco, TX

Fannin

KDFW-TV, 4, Dallas, TX

KXAS-TV, 5, Fort Worth, TX (formerly WBAP)

WFAA-TV, 8, Dallas, TX

KTVT, 11, Fort Worth, TX

KXII-TV, 12, Sherman, TX

Fayette

KTBC, 7, Austin, TX

+KEYE-TV, 42, Austin, TX (formerly KBVO)

KPRC-TV, 2, Houston, TX

KHOU-TV, 11, Houston, TX

KTRK-TV, 13, Houston, TX

KENS-TV, 5, San Antonio, TX

KSAT-TV, 12, San Antonio, TX

Fisher

KRBC-TV, 9, Abilene, TX

KTXS-TV, 12, Sweetwater, TX

Floyd

KCBD-TV, 11, Lubbock, TX

KLBK-TV, 13, Lubbock, TX

KAMC, 28, Lubbock, TX (formerly KSEL)

+KJTV-TV, 34, Lubbock, TX

Foard

KFDX-TV, 3, Wichita Falls, TX

KAUZ-TV, 6, Wichita Falls, TX

KSWO-TV, 7, Lawton, OK

Fort Bend

KPRC-TV, 2, Houston, TX

KHOU-TV, 11, Houston, TX

KTRK-TV, 13, Houston, TX

+KTXH, 20, Houston, TX

KHWB, 39, Houston, TX (formerly KHTV)

+KXLN-TV, 45, Rosenberg, TX

Franklin

Not available.

Freestone

KDFW-TV, 4, Dallas, TX

KXAS-TV, 5, Fort Worth, TX (formerly WBAP)

WFAA-TV, 8, Dallas, TX

KTVT, 11, Fort Worth, TX

Frio

KMOL-TV, 4, San Antonio, TX (formerly WOAI)

KENS-TV, 5, San Antonio, TX

KSAT-TV, 12, San Antonio, TX

Gaines

KCBD-TV, 11, Lubbock, TX

KLBK-TV, 13, Lubbock, TX

+KJTV-TV, 34, Lubbock, TX

WFAA-TV, 8, Dallas, TX

KTVT, 11, Fort Worth, TX

KXTX-TV, 39, Dallas, TX (formerly KDTV)

+KPEJ, 24, Odessa, TX

Galveston

KPRC-TV, 2, Houston, TX

KHOU-TV, 11, Houston, TX

KTRK-TV, 13, Houston, TX

+KTXH, 20, Houston, TX

KHWB, 39, Houston, TX (formerly KHTV)

Garza

KCBD-TV, 11, Lubbock, TX

KLBK-TV, 13, Lubbock, TX

KAMC, 28, Lubbock, TX (formerly KSEL)

Gillespie

KMOL-TV, 4, San Antonio, TX (formerly WOAI)

KENS-TV, 5, San Antonio, TX

KSAT-TV, 12, San Antonio, TX

+KRRT, 35, Kerrville, TX

KTBC-TV, 7, Austin, TX

+KEYE-TV, 42, Austin, TX (formerly KBVO)

Glasscock

KMID, 2, Midland, TX

KOSA-TV, 7, Odessa, TX

KWES-TV, 9, Odessa, TX (formerly KMOM)

Goliad

KMOL-TV, 4, San Antonio, TX (formerly WOAI)

KENS-TV, 5, San Antonio, TX

KSAT-TV, 12, San Antonio, TX

Gonzales

KMOL-TV, 4, San Antonio, TX (formerly WOAI)

KENS-TV, 5, San Antonio, TX

KSAT-TV, 12, San Antonio, TX

+KABB, 29, San Antonio, TX

+KEYE-TV, 42, Austin, TX (formerly KBVO)

Gray

KAMR-TV, 4, Amarillo, TX (formerly KGNC)

KVII-TV, 7, Amarillo, TX

KFDA-TV, 10, Amarillo, TX

Grayson

KDFW-TV, 4, Dallas, TX

KXAS-TV, 5, Fort Worth, TX (formerly WBAP)

WFAA-TV, 8, Dallas, TX

KTVT, 11, Fort Worth, TX

+KTXA, 21, Arlington, TX

KXII, 12, Sherman, TX

Gregg

KTBS-TV, 3, Shreveport, LA

KTAL-TV, 6, Shreveport, LA

KSLA-TV, 12, Shreveport, LA

+KMSS-TV, 33, Shreveport, LA

KLTV, 7, Tyler, TX

+KFXK, 51, Longview, TX

+KETK-TV, 56, Jacksonville, TX

Grimes

KPRC-TV, 2, Houston, TX

KHOU-TV, 11, Houston, TX

KTRK-TV, 13, Houston, TX

KBTX-TV, 3, Bryan, TX

Guadalupe

KMOL-TV, 4, San Antonio, TX (formerly WOAI)

KENS-TV, 5, San Antonio, TX

KSAT-TV, 12, San Antonio, TX

+KABB, 29, San Antonio, TX

+KRRT, 35, Kerrville, TX

Hale

KCBD-TV, 11, Lubbock, TX

KLBK-TV, 13, Lubbock, TX

KAMC, 28, Lubbock, TX (formerly KSEL)

+KJTV-TV, 34, Lubbock, TX

Hall

Over 90% cable penetration.

Hamilton

KDFW-TV, 4, Dallas, TX

KXAS-TV, 5, Fort Worth, TX (formerly WBAP)

WFAA-TV, 8, Dallas, TX

KTVT, 11, Fort Worth, TX

KCEN-TV, 6, Temple, TX

KWTX-TV, 10, Waco, TX

Hansford

KAMR-TV, 4, Amarillo, TX (formerly KGNC)

KVII-TV, 7, Amarillo, TX

KFDA-TV, 10, Amarillo, TX

Hardeman

KFDX-TV, 3, Wichita Falls, TX

KAUZ-TV, 6, Wichita Falls, TX

KSWO-TV, 7, Lawton, OK

Hardin

KBTV-TV, 4, Port Arthur, TX (formerly KJAC)

KFDM-TV, 6, Beaumont, TX

KBMT, 12, Beaumont, TX

+KVHP, 29, Lake Charles, LA

Harris

KPRC-TV, 2, Houston, TX

KHOU-TV, 11, Houston, TX

KTRK-TV, 13, Houston, TX

+KTXH, 20, Houston, TX

KHWB, 39, Houston, TX (formerly KHTV)

+KXLN-TV, 45, Rosenberg, TX

+KTMD, 48, Galveston, TX

Harrison

KTBS-TV, 3, Shreveport, LA

KTAL-TV, 6, Shreveport, LA

KSLA-TV, 12, Shreveport, LA

+KMSS-TV, 33, Shreveport, LA

Hartley

KAMR-TV, 4, Amarillo, TX (formerly KGNC)

KVII-TV, 7, Amarillo, TX

KFDA-TV, 10, Amarillo, TX

Haskell

KRBC-TV, 9, Abilene, TX

KTXS-TV, 12, Sweetwater, TX

+KTAB-TV, 32, Abilene, TX

KFDX-TV, 3, Wichita Falls, TX

Hays

KMOL-TV, 4, San Antonio, TX (formerly WOAI)

KENS-TV, 5, San Antonio, TX

KSAT-TV, 12, San Antonio, TX

+KABB, 29, San Antonio, TX

KTBC-TV, 7, Austin, TX

+KEYE-TV, 42, Austin, TX (formerly KBVO)

Hemphill

Over 90% cable penetration.

Henderson

KDFW-TV, 4, Dallas, TX

KXAS-TV, 5, Fort Worth, TX (formerly WBAP)

WFAA-TV, 8, Dallas, TX

KTVT, 11, Fort Worth, TX

KLTV, 7, Tyler, TX

Hidalgo

KGBT-TV, 4, Harlingen, TX

KRGV-TV, 5, Weslaco, TX

+KVEO, 23, Brownsville, TX

Hill

KDFW-TV, 4, Dallas, TX

KXAS-TV, 5, Fort Worth, TX (formerly WBAP)

WFAA-TV, 8, Dallas, TX

KTVT, 11, Fort Worth, TX

KWTX-TV, 10, Waco, TX

Hockley

KCBD-TV, 11, Lubbock, TX

KLBK-TV, 13, Lubbock, TX

KAMC, 28, Lubbock, TX (formerly KSEL)

+KJTV-TV, 34, Lubbock, TX

Hood

KDFW-TV, 4, Dallas, TX

KXAS-TV, 5, Fort Worth, TX (formerly WBAP)

WFAA-TV, 8, Dallas, TX

KTVT, 11, Fort Worth, TX

Hopkins

KDFW-TV, 4, Dallas, TX

KXAS-TV, 5, Fort Worth, TX (formerly WBAP)

WFAA-TV, 8, Dallas, TX

KTVT, 11, Fort Worth, TX

KLTV, 7, Tyler, TX

Houston

KTRE, 9, Lufki, TX

KBTX-TV, 3, Bryan, TX

Howard

KMID, 2, Midland, TX

KWAB-TV, 4, Big Spring, TX

KOSA-TV, 7, Odessa, TX

KWES-TV, 9, Odessa, TX (formerly KMOM)

Hudspeth

KDBC-TV, 4, El Paso, TX (formerly KROD)

KTSM-TV, 9, El Paso, TX

KVIA-TV, 7, El Paso, TX (formerly KELP)

Hunt

KDFW-TV, 4, Dallas, TX

KXAS-TV, 5, Fort Worth, TX (formerly WBAP)

WFAA-TV, 8, Dallas, TX

KTVT, 11, Fort Worth, TX

KTXA, 21, Fort Worth, TX

+KDFI-TV, 27, Dallas, TX

+KDAF, 33, Dallas, TX

Hutchinson

KAMR-TV, 4, Amarillo, TX (formerly KGNC)

KVII-TV, 7, Amarillo, TX

KFDA-TV, 10, Amarillo, TX

+KCIT, 14, Amarillo, TX

Irion

KLST, 8, San Angelo, TX (formerly KCTV)

KRBC-TV, 9, Abilene, TX

Jack

KFDX-TV, 3, Wichita Falls, TX

KAUZ-TV, 6, Wichita Falls, TX

KSWO-TV, 7, Lawton, OK

KDFW-TV, 4, Dallas, TX

KXAS-TV, 5, Fort Worth, TX (formerly WBAP)

WFAA-TV, 8, Dallas, TX

KTVT, 11, Fort Worth, TX

Jackson

KPRC-TV, 2, Houston, TX

KHOU-TV, 11, Houston, TX

KTRK-TV, 13, Houston, TX

KHWB, 39, Houston, TX (formerly KHTV)

+KAVU-TV, 25, Victoria, TX

Jasper

KBTV-TV, 4, Port Arthur, TX (formerly KJAC)

KFDM-TV, 6, Beaumont, TX

KBMT, 12, Beaumont, TX

+KVHP, 29, Lake Charles, LA

Jeff Davis

KMID, 2, Midland, TX

KOSA-TV, 7, Odessa, TX

KWES-TV, 9, Odessa, TX (formerly KMOM)

Jefferson North

KBTV-TV, 4, Port Arthur, TX (formerly KJAC)

KFDM-TV, 6, Beaumont, TX

KBMT, 12, Beaumont, TX

+KVHP, 29, Lake Charles, LA

Jefferson South

KBTV-TV, 4, Port Arthur, TX (formerly KJAC)

KFDM-TV, 6, Beaumont, TX

KBMT, 12, Beaumont, TX

+KVHP, 29, Lake Charles, LA

Jim Hogg

KIII-TV, 3, Corpus Christi, TX

KRIS-TV, 6, Corpus Christi, TX

KZTV, 10, Corpus Christi, TX

Jim Wells

KIII-TV, 3, Corpus Christi, TX

KRIS-TV, 6, Corpus Christi, TX

KZTV, 10, Corpus Christi, TX

Johnson

KDFW-TV, 4, Dallas, TX

KXAS-TV, 5, Fort Worth, TX (formerly WBAP)

WFAA-TV, 8, Dallas, TX

KTVT, 11, Fort Worth, TX

+KDFI-TV, 27, Dallas, TX

+KDAF, 33, Dalla, TX

KXTX-TV, 39, Dallas, TX (formerly KDTV)

Jones

KRBC-TV, 9, Abilene, TX

KTXS-TV, 12, Sweetwater, TX

+KTAB-TV, 32, Abilene, TX

Karnes

KMOL-TV, 4, San Antonio, TX (formerly WOAI)

KENS-TV, 5, San Antonio, TX

KSAT-TV, 12, San Antonio, TX

Kaufman

KDFW-TV, 4, Dallas, TX

KXAS-TV, 5, Fort Worth, TX (formerly WBAP)

WFAA-TV, 8, Dallas, TX

KTVT, 11, Fort Worth, TX

KXTX-TV, 39, Dallas, TX (formerly KDTV)

Kendall

KMOL-TV, 4, San Antonio, TX (formerly WOAI)

KENS,-TV 5, San Antonio, TX

KSAT-TV, 12, San Antonio, TX

+KABB, 29, San Antonio, TX

Kenedy

KIII-TV, 3, Corpus Christi, TX

KRIS-TV, 6, Corpus Christi, TX

KZTV, 10, Corpus Christi, TX

Kent

KCBD-TV, 11, Lubbock, TX

KLBK-TV, 13, Lubbock, TX

KAMC, 28, Lubbock, TX (formerly KSEL)

KTXS-TV, 12, Sweetwater, TX

Kerr

KMOL-TV, 4, San Antonio, TX (formerly WOAI)

KENS-TV, 5, San Antonio, TX

KSAT-TV, 12, San Antonio, TX

+KRRT, 35, Kerrville, TX

Kimble

KMOL-TV, 4, San Antonio, TX (formerly WOAI)

KENS-TV, 5, San Antonio, TX

KSAT-TV, 12, San Antonio, TX

King

KFDX-TV, 3, Wichita Falls, TX

KAUZ-TV, 6, Wichita Falls, TX

KSWO-TV, 7, Lawton, OK

KTXS-TV, 12, Sweetwater, TX

Kinney

Over 90% cable penetration.

Kleberg

KIII-TV, 3, Corpus Christi, TX

KRIS-TV, 6, Corpus Christi, TX

KZTV, 10, Corpus Christi, TX

Knox

KFDX-TV, 3, Wichita Falls, TX

KAUZ-TV, 6, Wichita Falls, TX

KSWO-TV, 7, Lawton, OK

KTXS-TV, 12, Sweetwater, TX

Lamar

KDFW-TV, 4, Dallas, TX

KXAS-TV, 5, Fort Worth, TX (formerly WBAP)

WFAA-TV, 8, Dallas, TX

KTVT, 11, Fort Worth, TX

KXII-TV, 12, Sherman, TX

Lamb

KCBD-TV, 11, Lubbock, TX

KLBK-TV, 13, Lubbock, TX

KAMC, 28, Lubbock, TX (formerly KSEL)

+KJTV-TV, 34, Lubbock, TX

Lampasas

KCEN-TV, 6, Temple, TX

KWTX-TV, 10, Waco, TX

+KXXV, 25, Waco, TX

+KWKT, 44, Waco, TX

KTBC-TV, 7, Austin, TX

+KEYE-TV, 42, Austin, TX (formerly KBVO)

La Salle

Not available.

Lavaca

KMOL-TV, 4, San Antonio, TX (formerly WOAI)

KENS-TV, 5, San Antonio, TX

KSAT-TV, 12, San Antonio, TX

KPRC-TV, 2, Houston, TX

Lee

KTBC-TV, 7, Austin, TX

KXAN-TV, 36, Austin, TX (formerly KHFI)

+KEYE-TV, 42, Austin, TX (formerly KBVO)

KBTX-TV, 3, Bryan, TX

KCEN-TV, 6, Temple, TX

Leon

KBTX-TV, 3, Bryan, TX

KCEN-TV, 6, Temple, TX

KWTX-TV, 10, Waco, TX

+KXXV, 25, Waco, TX

+KWKT, 44, Waco, TX

Liberty

KPRC-TV, 2, Houston, TX

KHOU-TV, 11, Houston, TX

KTRK-TV, 13, Houston, TX

+KTXH, 20, Houston, TX

KHWB, 39, Houston, TX (formerly KHTV)

Limestone

KDFW-TV, 4, Dallas, TX

KXAS-TV, 5, Fort Worth, TX (formerly WBAP)

WFAA-TV, 8, Dallas, TX

KTVT, 11, Fort Worth, TX

KCEN-TV, 6, Temple, TX

KWTX-TV, 10, Waco, TX

+KWKT, 44, Waco, TX

Lipscomb

KAMR-TV, 4, Amarillo, TX (formerly KGNC)

KVII-TV, 7, Amarillo, TX

KFDA-TV, 10, Amarillo, TX

Live Oak

KMOL-TV, 4, San Antonio, TX (formerly WOAI)

KENS-TV, 5, San Antonio, TX

KSAT-TV, 12, San Antonio, TX

Llano

KTBC-TV, 7, Austin, TX

KXAN-TV, 36, Austin, TX (formerly KHFI)

Loving

KOSA-TV, 7, Odessa, TX

KWES-TV, 9, Odessa, TX (formerly KMOM)

Lubbock

KCBD-TV, 11, Lubbock, TX

KLBK-TV, 13, Lubbock, TX

KAMC, 28, Lubbock, TX (formerly KSEL)

+KJTV-TV, 34, Lubbock, TX

Lynn

KCBD-TV, 11, Lubbock, TX

KLBK-TV, 13, Lubbock, TX

KAMC, 28, Lubbock, TX (formerly KSEL)

KJTV, 34, Lubbock, TX (formerly KMSN)

McCulloch

Over 90% cable penetration.

McLennan

KCEN-TV, 6, Temple, TX

KWTX-TV, 10, Waco, TX

+KXXV, 25, Waco, TX

+KWKT, 44, Waco, TX

KDFW-TV, 4, Dallas, TX

WFAA-TV, 8, Dallas, TX

KTVT, 11, Fort Worth, TX

McMullen

KMOL-TV, 4, San Antonio, TX (formerly WOAI)

KENS-TV, 5, San Antonio, TX

KSAT-TV, 12, San Antonio, TX

Madison

KBTX-TV, 3, Bryan, TX

KPRC-TV, 2, Houston, TX

Marion

KTBS-TV, 3, Shreveport, LA

KTAL-TV, 6, Shreveport, LA

KSLA-TV, 12, Shreveport, LA

+KMSS-TV, 33, Shreveport, LA

Martin

KMID, 2, Midland, TX

KOSA-TV, 7, Odessa, TX

KWES-TV, 9, Odessa, TX (formerly KMOM)

Mason

Not available.

Matagorda

KPRC-TV, 2, Houston, TX

KHOU-TV, 11, Houston, TX

KTRK-TV, 13, Houston, TX

+KTXH, 20, Houston, TX

KHWB, 39, Houston, TX (formerly KHTV)

Maverick

Over 90% cable penetration.

Medina

KMOL-TV, 4, San Antonio, TX (formerly WOAI)

KENS-TV, 5, San Antonio, TX

KSAT-TV, 12, San Antonio, TX

+KABB, 29, San Antonio, TX

+KRRT, 35, Kerrville, TX

Menard

KRBC-TV, 9, Abilene, TX

KLST, 8, San Angelo, TX (formerly KCTV)

Midland

KMID, 2, Midland, TX

KOSA-TV, 7, Odessa, TX

KWES-TV, 9, Odessa, TX (formerly KMOM)

+KPEJ, 24, Odessa, TX

Milam

KCEN-TV, 6, Temple, TX

KWTX-TV, 10, Waco, TX

+KXXV, 25, Waco, TX

+KWKT, 44, Waco, TX

KTBC-TV, 7, Austin, TX

+KEYE-TV, 42, Austin, TX (formerly KBVO)

Mills

KCEN-TV, 6, Temple, TX

KWTX-TV, 10, Waco, TX

KRBC-TV, 9, Abilene, TX

KTXS-TV, 12, Sweetwater, TX

Mitchell

KMID, 2, Midland, TX

KWES-TV, 9, Odessa, TX (formerly KMOM)

KTXS-TV, 12, Sweetwater, TX

Montague

KFDX-TV, 3, Wichita Falls, TX

KAUZ-TV, 6, Wichita-Falls, TX

KSWO-TV, 7, Lawton, OK

+KJTL, 18, Wichita Falls, TX

KDFW-TV, 4, Dallas, TX

KXAS-TV, 5, Fort Worth, TX (formerly WBAP)

KTVT, 11, Fort Worth, TX

KXTX-TV, 39, Dallas, TX (formerly KDTV)

Montgomery

KPRC-TV, 2, Houston, TX

KHOU-TV, 11, Houston, TX

KTRK-TV, 13, Houston, TX

+KTXH, 20, Houston, TX

KHWB, 39, Houston, TX (formerly KHTV)

Moore

KAMR-TV, 4, Amarillo, TX (formerly KGNC)

KVII-TV, 7, Amarillo, TX

KFDA-TV, 10, Amarillo, TX

Morris

KTBS-TV, 3, Shreveport, LA

KTAL-TV, 6, Shreveport, LA

KSLA-TV, 12, Shreveport, LA

+KMSS-TV, 33, Shreveport, LA

Motley

Over 90% cable penetration.

Nacogdoches

KTBS-TV, 3, Shreveport, LA

KSLA-TV, 12, Shreveport, LA

KTVT, 11, Fort Worth, TX

KTRE, 9, Lufkin, TX

+KLSB-TV, 19, Nacogdoches, TX

Navarro

KDFW-TV, 4, Dallas, TX

KXAS-TV, 5, Fort Worth, TX (formerly WBAP)

WFAA-TV, 8, Dallas, TX

KTVT, 11, Fort Worth, TX

+KTXA, 21, Arliington, TX

Newton

KBTV-TV, 4, Port Arthur, TX (formerly KJAC)

KFDM-TV, 6, Beaumont, TX

KBMT, 12, Beaumont, TX

+KVHP, 29, Lake Charles, LA

Nolan

KRBC-TV, 9, Abilene, TX

KTXS-TV, 12, Sweetwater, TX

+KTAB-TV, 32, Abilene, TX

Nueces

KIII-TV, 3, Corpus Christi, TX

KRIS-TV, 6, Corpus Christi, TX

KZTV, 10, Corpus Christi, TX

Ochiltree

KAMR-TV, 4, Amarillo, TX (formerly KGNC)

KVII-TV, 7, Amarillo, TX

KFDA-TV, 10, Amarillo, TX

Oldham

KAMR-TV, 4, Amarillo, TX (formery KGNC)

KVII-TV, 7, Amarillo, TX

KFDA-TV, 10, Amarillo, TX

Orange

KBTV-TV, 4, Port Arthur, TX (formerly KJAC)

KFDM-TV, 6, Beaumont, TX

KBMT, 12, Beaumont, TX

+KVHP, 29, Lake Charles, LA

Palo Pinto

KDFW-TV, 4, Dallas, TX

KXAS-TV, 5, Fort Worth, TX (formerly WBAP)

WFAA-TV, 8, Dallas, TX

KTVT, 11, Fort Worth, TX

Panola

KTBS-TV, 3, Shreveport, LA

KTAL-TV, 6, Shreveport, LA

KSLA-TV, 12, Shreveport, LA

+KMSS-TV, 33, Shreveport, LA

Parker

KDFW-TV, 4, Dallas, TX

KXAS-TV, 5, Fort Worth, TX (formerly WBAP)

WFAA-TV, 8, Dallas, TX

KTVT, 11, Fort Worth, TX

Parmer

KAMR-TV, 4, Amarillo, TX (formerly KGNC)

KVII-TV, 7, Amarillo, TX

KFDA-TV, 10, Amarillo, TX

KCBD-TV, 11, Lubbock, TX

Pecos

KMID, 2, Midland, TX

KOSA-TV, 7, Odessa, TX

KWES-TV, 9, Odessa, TX (formerly KMOM)

Polk

KTRE, 9, Lufkin, TX

KBTV-TV, 4, Port Arthur, TX (formerly KJAC)

KFDM-TV, 6, Beaumont, TX

KPRC-TV, 2, Houston, TX

+KTXH, 20, Houston, TX

Potter

KAMR-TV, 4, Amarillo, TX (formerly KGNC)

KVII-TV, 7, Amarillo, TX

KFDA-TV, 10, Amarillo, TX

+KCIT, 14, Amarillo, TX

Presidio

KOSA-TV, 7, Odessa, TX

Rains

KDFW-TV, 4, Dallas, TX

KXAS-TV, 5, Fort Worth, TX (formerly WBAP)

WFAA-TV, 8, Dallas, TX

KTVT, 11, Fort Worth, TX

Randall

KAMR-TV, 4, Amarillo, TX (formerly KGNC)

KVII-TV, 7, Amarillo, TX

KFDA-TV, 10, Amarillo, TX

+KCIT, 14, Amarillo, TX

Reagan

KMID, 2, Midland, TX

KOSA-TV, 7, Odessa, TX

KWES-TV, 9, Odessa, TX (formerly KMOM)

Real

KMOL-TV, 4, San Antonio, TX (formerly WOAI)

KENS-TV, 5, San Antonio, TX

KSAT-TV, 12, San Antonio, TX

Red River

KTBS-TV, 3, Shreveport, LA

KTAL-TV, 6, Shreveport, LA

KSLA-TV, 12, Shreveport, LA

Reeves

KOSA-TV, 7, Odessa, TX

KWES-TV, 9, Odessa, TX (formerly KMOM)

Refugio

KIII-TV, 3, Corpus Christi, TX

KRIS-TV, 6, Corpus Christi, TX

KZTV, 10, Corpus Christi, TX

Roberts

KAMR-TV, 4, Amarillo, TX (formerly KGNC)

KVII-TV, 7, Amarillo, TX

KFDA-TV, 10, Amarillo, TX

Robertson

KCEN-TV, 6, Temple, TX

KWTX-TV, 10, Waco, TX

+KXXV, 25, Waco, TX

+KWKT, 44, Waco, TX

Rockwall

KDFW-TV, 4, Dallas, TX

KXAS-TV, 5, Fort Worth, TX (formerly WBAP)

WFAA-TV, 8, Dallas, TX

KTVT, 11, Fort Worth, TX

KXTX-TV, 39, Dallas, TX (formerly KDTV)

Runnels

KRBC-TV, 9, Abilene, TX

KTXS-TV, 12, Sweetwater, TX

+KTAB-TV, 32, Abilene, TX

+KIDY, 6, San Angelo, TX

KLST, 8, San Angelo, TX (formerly KCTV)

Rusk

KTBS-TV, 3, Shreveport, LA

KTAL-TV, 6, Shreveport, LA

KSLA-TV, 12, Shreveport, LA

+KMSS-TV, 33, Shreveport, LA

KLTV, 7, Tyler, TX

+KFXK, 51, Longview, TX

+KETK-TV, 56, Jacksonville, TX

Sabine

KBTV-TV, 4, Port Arthur, TX (formerly KJAC)

KFDM-TV, 6, Beaumont, TX

KTBS-TV, 3, Shreveport, LA

KSLA-TV, 12, Shreveport, LA

KTRE, 9, Lufkin, TX

San Augustine

KTBS-TV, 3, Shreveport, LA

KSLA-TV, 12, Shreveport, LA

KTRE, 9, Lufkin, TX

San Jacinto

KPRC-TV, 2, Houston, TX

KHOU-TV, 11, Houston, TX

KTRK-TV, 13, Houston, TX

San Patricio

KIII-TV, 3, Corpus Christi, TX

KRIS-TV, 6, Corpus Christi, TX

KZTV, 10, Corpus Christi, TX

San Saba

KDFW-TV, 4, Dallas, TX

KRBC-TV, 9, Abilene, TX

KTBC-TV, 7, Austin, TX

KCEN-TV, 6, Temple, TX

KWTX-TV, 10, Waco, TX

Schleicher

KLST, 8, San Angelo, TX (formerly KCTV)

KRBC-TV, 9, Abilene, TX

Scurry

KRBC-TV, 9, Abilene, TX

KTXS-TV, 12, Sweetwater, TX

Shackelford

KRBC-TV, 9, Abilene, TX

KTXS-TV, 12, Sweetwater, TX

Shelby

KTBS-TV, 3, Shreveport, LA

KTAL-TV, 6, Shreveport, LA

KSLA-TV, 12, Shreveport, LA

+KMSS-TV, 33, Shreveport, LA

Sherman

KAMR-TV, 4, Amarillo, TX (formerly KGNC)

KVII-TV, 7, Amarillo, TX

KFDA-TV, 10, Amarillo, TX

Smith

KLTV, 7, Tyler, TX

+KFXK, 51, Longview, TX

+KETK-TV, 56, Jacksonville, TX

KDFW-TV, 4, Dallas, TX

KTVT, 11, Fort Worth, TX

KTBS-TV, 3, Shreveport, LA

KSLA-TV, 12, Shreveport, LA

+KMSS-TV, 33, Shreveport, LA

Somervell

KDFW-TV, 4, Dallas, TX

KXAS-TV, 5, Fort Worth, TX (formerly WBAP)

WFAA-TV, 8, Dallas, TX

KTVT, 11, Fort Worth, TX

Starr

KGBT-TV, 4, Harlingen, TX

KRGV-TV, 5, Weslaco, TX

+KVEO, 23, Brownsville, TX

Stephens

KRBC-TV, 9, Abilene, TX

KTXS-TV, 12, Sweetwater, TX

WFAA-TV, 8, Dallas, TX

KTVT, 11, Fort Worth, TX

Sterling

KRBC-TV, 9, Abilene, TX

KLST, 8, San Angelo, TX (formerly KCTV)

Stonewall

KRBC-TV, 9, Abilene, TX

KTXS-TV, 12, Sweetwater, TX

Sutton

Not available.

Swisher

KAMR-TV, 4, Amarillo, TX (formerly KGNC)

KVII-TV, 7, Amarillo, TX

KFDA-TV, 10, Amarillo, TX

+KJTV-TV, 34, Lubbock, TX

Tarrant

KDFW-TV, 4, Dallas, TX

KXAS-TV, 5, Fort Worth, TX (formerly WBAP)

WFAA-TV, 8, Dallas, TX

KTVT, 11, Fort Worth, TX

+KTXA, 21, Arlington, TX

+KDFI-TV, 27, Dallas, TX

+KDAF, 33, Dallas, TX

KXTX-TV, 39, Dallas, TX (formerly KDTV)

Taylor

KRBC-TV, 9, Abilene, TX

KTXS-TV, 12, Sweetwater, TX

+KTAB-TV, 32, Abilene, TX

Terrell

Over 90% cable penetration.

Terry

KCBD-TV, 11, Lubbock, TX

KLBK-TV, 13, Lubbock, TX

KAMC, 28, Lubbock, TX (formerly KSEL)

+KJTV-TV, 34, Lubbock, TX

Throckmorton

KFDX-TV, 3, Wichita Falls, TX

KAUZ-TV, 6, Wichita Falls, TX

KSWO-TV, 7, Lawton, OK

Titus

KTBS-TV, 3, Shreveport, LA

KTAL-TV, 6, Shreveport, LA

KSLA-TV, 12, Shreveport, LA

Tom Green

+KIDY, 6, San Angelo, TX

KLST, 8, San Angelo, TX (formerly KCTV)

KRBC-TV, 9, Abilene, TX

Travis

KTBC-TV, 7, Austin, TX

KXAN-TV, 36, Austin, TX (formerly KHFI)

+KEYE-TV, 42, Austin, TX (formerly KBVO)

Trinity

KTRE, 9, Lufkin, TX

KPRC-TV, 2, Houston, TX

KBTX-TV, 3, Bryan, TX

Tyler

KBTV-TV, 4, Port Arthur, TX (formerly KJAC)

KFDM-TV, 6, Beaumont, TX

KBMT, 12, Beaumont, TX

Upshur

KTBS-TV, 3, Shreveport, LA

KTAL-TV, 6 Shreveport, LA

KSLA-TV, 12, Shreveport, LA

+KMSS-TV, 33, Shreveport, LA

KLTV, 7, Tyle, TX

+KFXK, 51, Longview, TX

Upton

KMID, 2, Midland, TX

KOSA-TV, 7, Odessa, TX

KWES-TV, 9, Odessa, TX (formerly KMOM)

Uvalde

KMOL-TV, 4, San Antonio, TX (formerly WOAI)

KENS-TV, 5, San Antonio, TX

KSAT-TV, 12, San Antonio, TX

Val Verde

Not available.

Van Zandt

KDFW-TV, 4, Dallas, TX

KXAS-TV, 5, Fort Worth, TX (formerly WBAP)

WFAA-TV, 8, Dallas, TX

KTVT, 11, Fort Worth, TX

KLTV, 7, Tyler, TX

Victoria

KMOL-TV, 4, San Antonio, TX (formerly WOAI)

KENS-TV, 5, San Antonio, TX

KSAT-TV, 12, San Antonio, TX

KIII-TV, 3, Corpus Christi, TX

+KAVU-TV, 25, Victoria, TX

Walker

KPRC-TV, 2, Houston, TX

KHOU-TV, 11, Houston, TX

KTRK-TV, 13, Houston, TX

+KTXH, 20, Houston, TX

KHWB, 39, Houston, TX (formerly KHTV)

KBTX-TV, 3, Bryan, TX

Waller

KPRC-TV, 2, Houston, TX

KHOU-TV, 11, Houston, TX

KTRK-TV, 13, Houston, TX

KHWB, 39, Houston, TX (formerly KHTV)

Ward

KMID, 2, Midland, TX

KOSA-TV, 7, Odessa, TX

KWES-TV, 9, Odessa, TX (formerly KMOM)

Washington

KPRC-TV, 2, Houston, TX

KHOU-TV, 11, Houston, TX

KTRK-TV, 13, Houston, TX

+KTXH, 20, Houston, TX

KHWB, 39, Houston, TX (formerly KHTV)

KBTX-TV, 3, Bryan, TX

Webb

KGNS-TV, 8, Laredo, TX

XEFE-TV, 2, Mexico

Wharton

KPRC-TV, 2, Houston, TX

KHOU-TV, 11, Houston, TX

KTRK-TV, 13, Houston, TX

+KTXH, 20, Houston, TX

KHWB, 39, Houston, TX (formerly KHTV)

Wheeler

KFDA-TV, 10, Amarillo, TX

Wichita

KFDX-TV, 3, Wichita Falls, TX

KAUZ-TV, 6, Wichita Falls, TX

KSWO-TV, 7, Lawton, OK

+KJTL, 18, Wichita Falls, TX

Wilbarger

KFDX-TV, 3, Wichita Falls, TX

KAUZ-TV, 6, Wichita Falls, TX

KSWO-TV, 7, Lawton, OK

+KJTL, 18, Wichita Falls, TX

Willacy

KGBT-TV, 4, Harlingen, TX

KRGV-TV, 5, Weslaco, TX

+KVEO, 23, Brownsville, TX

Williamson

KTBC-TV, 7, Austin, TX

KXAN-TV, 36, Austin, TX (formerly KHFI)

+KEYE-TV, 42, Austin, TX (formerly KBVO)

KCEN-TV, 6, Temple, TX

KWTX-TV, 10, Waco, TX

+KWKT, 44, Waco, TX

Wilson

KMOL-TV, 4, San Antonio, TX (formerly WOAI)

KENS-TV, 5, San Antonio, TX

KSAT-TV, 12, San Antonio, TX

KWEX-TV, 41, San Antonio, TX

Winkler

KMID, 2, Midland, TX

KOSA-TV, 7, Odessa, TX

KWES-TV, 9, Odessa, TX (formerly KMOM)

Wise

KDFW-TV, 4, Dallas, TX

KXAS-TV, 5, Fort Worth, TX (formerly WBAP)

WFAA-TV, 8, Dallas, TX

KTVT, 11, Fort Worth, TX

KXTX-TV, 39, Dallas, TX (formerly KDTV)

Wood

KTBS-TV, 3, Shreveport, LA

KTAL-TV, 6, Shreveport, LA

KSLA-TV, 12, Shreveport, LA

KDFW-TV, 4, Dallas, TX

KXAS-TV, 5, Fort Worth, TX (formerly WBAP)

WFAA-TV, 8, Dallas, TX

KTVT, 11, Fort Worth, TX

KLTV, 7, Tyler, TX

Yoakum

KCBD-TV, 11, Lubbock, TX

KLBK-TV, 13, Lubbock, TX

+KJTV-TV, 34, Lubbock, TX

KBIM-TV, 10, Roswell, NM

Young

KFDX-TV, 3, Wichita Falls, TX

KAUZ-TV, 6, Wichita Falls, TX

KSWO-TV, 7, Lawton, OK

Zapata

KGNS-TV, 8, Laredo, TX

KGBT-TV, 4, Harlingen, TX

XEFB, 3, Mexico

Zavala

KMOL-TV, 4, San Antonio, TX (formerly WOAI)

KENS-TV, 5, San Antonio, TX

Brenham—KRIV

Copperas Cove—KEYE-TV

Denison—KDFI-TV, KDAF

Greenville—KXTX-TV

Knollwood—KDFI-TV, KDAF

Portions of Grayson County—KDFI-TV, KDAF

Sherman—KDFI-TV, KDAF

Unincorporated portions of Washington County (adjacent to Brenham)—KRIV

Utah

Beaver

KUTV, 2, Salt Lake City, UT

KTVX, 4, Salt Lake City, UT (formerly KCPX)

KSL-TV, 5, Salt Lake City, UT

Box Elder

KUTV, 2, Salt Lake City, UT

KTVX, 4, Salt Lake City, UT (formerly KCPX)

KSL-TV, 5, Salt Lake City, UT

+KSTU, 13, Salt Lake City, UT

Cache

KUTV, 2, Salt Lake City, UT

KTVX, 4, Salt Lake City, UT (formerly KCPX)

KSL-TV, 5, Salt Lake City, UT

+KSTU, 13, Salt Lake City, UT

Carbon

KUTV, 2, Salt Lake City, UT

KTVX, 4, Salt Lake City, UT (formerly KCPX)

KSL-TV, 5, Salt Lake City, UT

Daggett

KUTV, 2, Salt Lake City, UT

KTVX, 4, Salt Lake City, UT (formerly KCPX)

KSL-TV, 5, Salt Lake City, UT

Davis

KUTV, 2, Salt Lake City, UT

KTVX, 4, Salt Lake City, UT (formerly KCPX)

KSL-TV, 5, Salt Lake City, UT

+KSTU, 13, Salt Lake City, UT

Duchesne

KUTV, 2, Salt Lake City, UT

KTVX, 4, Salt Lake City, UT (formerly KCPX)

KSL-TV, 5, Salt Lake City, UT

Emery

KUTV, 2, Salt Lake City, UT

KTVX, 4, Salt Lake City, UT (formerly KCPX)

KSL-TV, 5, Salt Lake City, UT

Garfield

KUTV, 2, Salt Lake City, UT

KTVX, 4, Salt Lake City, UT (formerly KCPX)

KSL-TV, 5, Salt Lake City, UT

Grand

KUTV, 2, Salt Lake City, UT

KTVX, 4, Salt Lake City, UT (formerly KCPX)

KSL-TV, 5, Salt Lake City, UT

Iron

KUTV, 2, Salt Lake City, UT

KTVX, 4, Salt Lake City, UT (formerly KCPX)

KSL-TV, 5, Salt Lake City, UT

Juab

KUTV, 2, Salt Lake City, UT

KTVX, 4, Salt Lake City, UT (formerly KCPX)

KSL-TV, 5, Salt Lake City, UT

Kane

KUTV, 2, Salt Lake City, UT

KTVX, 4, Salt Lake City, UT (formerly KCPX)

KSL-TV, 5, Salt Lake City, UT

Millard

KUTV, 2, Salt Lake City, UT

KTVX, 4, Salt Lake City, UT (formerly KCPX)

KSL-TV, 5, Salt Lake City, UT

Morgan

KUTV, 2, Salt Lake City, UT

KTVX, 4, Salt Lake City, UT (formerly KCPX)

KSL-TV, 5, Salt Lake City, UT

+KSTU, 13, Salt Lake City, UT

Piute

KUTV, 2, Salt Lake City, UT

KTVX, 4, Salt Lake City, UT (formerly KCPX)

KSL-TV, 5, Salt Lake City, UT

Rich

KUTV, 2, Salt Lake City, UT

KTVX, 4, Salt Lake City, UT (formerly KCPX)

KSL-TV, 5, Salt Lake City, UT

Salt Lake

KUTV, 2, Salt Lake City, UT

KTVX, 4, Salt Lake City, UT (formerly KCPX)

KSL-TV, 5, Salt Lake City, UT

+KSTU, 13, Salt Lake City, UT

San Juan

KUTV, 2, Salt Lake City, UT

KTVX, 4, Salt Lake City, UT (formerly KCPX)

KSL-TV, 5, Salt Lake City, UT

Sanpete

KUTV, 2, Salt Lake City, UT

KTVX, 4, Salt Lake City, UT (formerly KCPX)

KSL-TV, 5, Salt Lake City, UT

+KSTU, 13, Salt Lake City, UT

Sevier

KUTV, 2, Salt Lake City, UT

KTVX, 4, Salt Lake City, UT (formerly KCPX)

KSL-TV, 5, Salt Lake City, UT

+KSTU, 13, Salt Lake City, UT

Summit

KUTV, 2, Salt Lake City, UT

KTVX, 4, Salt Lake City, UT (formerly KCPX)

KSL-TV, 5, Salt Lake City, UT

Tooele

KUTV, 2, Salt Lake City, UT

KTVX, 4, Salt Lake City, UT (formerly KCPX)

KSL-TV, 5, Salt Lake City, UT

+KSTU, 13, Salt Lake City, UT

Uintah

KUTV, 2, Salt Lake City, UT

KTVX, 4, Salt Lake City, UT (formerly KCPX)

KSL-TV, 5, Salt Lake City, UT

+KSTU, 13, Salt Lake City, UT

Utah

KUTV, 2, Salt Lake City, UT

KTVX, 4, Salt Lake City, UT (formerly KCPX)

KSL-TV, 5, Salt Lake City, UT

+KSTU, 13, Salt Lake City, UT

Wasatch

KUTV, 2, Salt Lake City, UT

KTVX, 4, Salt Lake City, UT (formerly KCPX)

KSL-TV, 5, Salt Lake City, UT

Washington

KUTV, 2, Salt Lake City

KTVX, 4, Salt Lake City (KTVX) (formerly KCPX)

KSL-TV, 5, Salt Lake City

+KSTU, 13, Salt Lake City

KVBC, 3, Las Vegas, NV (formerly KORK)

Wayne

KUTV, 2, Salt Lake City, UT

KTVX, 4, Salt Lake City, UT (formerly KCPX)

KSL-TV, 5, Salt Lake City, UT

Weber

KUTV, 2, Salt Lake City, UT

KTVX, 4, Salt Lake City, UT (formerly KCPX)

KSL-TV, 5, Salt Lake City, UT

+KSTU, 13, Salt Lake City, UT

Vermont

Addison

WCAX-TV, 3, Burlington, VT

WPTZ, 5, Plattsburgh, NY

Bennington

WRGB, 6, Schenectady, NY

WTEN, 10, Albany, NY

WNYT, 13, Albany, NY (formerly WAST)

+WXXA-TV, 23, Albany, NY

Caledonia

WCAX-TV, 3, Burlington, VT

WMTW-TV, 8, Portland, ME

Chittenden

WCAX-TV, 3, Burlington, VT

WPTZ, 5, Plattsburgh, NY

WVNY, 22, Burlington, VT

CFCF, 12, Canada

Essex

WCAX-TV, 3, Burlington, VT

WMTW-TV, 8, Portland, ME

Franklin

WCAX-TV, 3, Burlington, VT

WPTZ, 5, Plattsburgh, NY

WVNY, 22, Burlington, VT

CBMT, 6, Canada

CFCF, 12, Canada

Grand Isle

WCAX-TV, 3, Burlington, VT

WPTZ, 5, Plattsburgh, NY

WVNY, 22, Burlington, VT

CBMT, 6, Canada

CFCF, 12, Canada

Lamoille

WCAX-TV, 3, Burlington, VT

WPTZ, 5, Plattsburgh, NY

WVNY, 22, Burlington, VT

WMTW-TV, 8, Portland, ME

CBMT, 6, Canada

Orange

WCAX-TV, 3, Burlington, VT

WMTW-TV, 8, Portland, ME

Orleans

WCAX-TV, 3, Burlington, VT

WPTZ, 5, Plattsburgh, NY

WMTW-TV, 8, Portland, ME

CBMT, 6, Canada

CFCF, 12, Canada

Rutland

WCAX-TV, 3, Burlington, VT

WPTZ, 5, Plattsburgh, NY

WRGB, 6, Schenectady, NY

WTEN, 10, Albany, NY

WNYT, 13, Albany, NY (formerly WAST)

Washington

WCAX-TV, 3, Burlington, VT

WPTZ, 5, Plattsburgh, NY

WMTW-TV, 8, Portland, ME

Windham

WMTW-TV, 8, Portland, ME

WCVB-TV, 5, Boston, MA

Windsor

WCAX-TV, 3, Burlington, VT

WMTW-TV, 8, Portland, ME

Virginia

Accomack

WTKR, 3, Norfolk, VA (formerly WTAR)

WAVY-TV, 10, Portsmouth, VA

WVEC-TV, 13, Hampton, VA

WBOC-TV, 16, Salisbury, MD

+WMDT, 47, Salisbury, MD

WTTG, 5, Washington, DC

Albemarle & Charlottesville City

WTVR-TV, 6, Richmond, VA

WRIC-TV, 8, Richmond, VA (formerly WXEX)

WWBT, 12, Richmond, VA

WHSV-TV, 3, Harrisonburg, VA (formerly WSVA)

+WVIR-TV, 29, Charlottesville, VA

Alleghany & Covington City incl. Clifton Forge City

WDBJ, 7, Roanoke, VA

WSLS-TV, 10, Roanoke, VA

Amelia

WTVR-TV, 6, Richmond, VA

WRIC-TV, 8, Richmond, VA (formerly WXEX)

WWBT, 12, Richmond, VA

+WRLH-TV, 35, Richmond, VA

Amherst

WDBJ, 7, Roanoke, VA

WSLS-TV, 10, Roanoke, VA

WSET-TV, 13, Lynchburg, VA (formerly WLVA)

+WJPR, 21, Lynchburg, VA

Appomattox

WDBJ, 7, Roanoke, VA

WSLS-TV, 10, Roanoke, VA

WSET-TV, 13, Lynchburg, VA (formerly WLVA)

Arlington & Alexandria City

WRC-TV, 4, Washington, DC

WTTG, 5, Washington, DC

WJLA-TV, 7, Washington, DC (formerly WMAL)

WUSA, 9, Washington, DC (formerly WTOP)

WDCA, 20, Washington, DC

Augusta & Staunton City & Waynesboro City

WTVR-TV, 6, Richmond, VA

WWBT, 12, Richmond, VA

WHSV-TV, 3, Harrisonburg, VA (formerly WSVA)

WTTG, 5, Washington, DC

+WVIR-TV, 29, Charlottesville, VA

Bath

WDBJ, 7, Roanoke, VA

WSLS-TV, 10, Roanoke, VA

WVVA, 6, Bluefield, WV (formerly WHIS)

WHSV-TV, 3, Harrisonburg, VA (formerly WSVA)

Bedford

WDBJ, 7, Roanoke, VA

WSLS-TV, 10, Roanoke, VA

WSET-TV, 13, Lynchburg, VA (formerly WLVA)

+WJPR, 21, Lynchburg, VA

+WFXR-TV, 27, Roanoke, VA (formerly WVFT)

Bland

WVVA, 6, Bluefield, WV (formerly WHIS)

WDBJ, 7, Roanoke, VA

WSLS-TV, 10, Roanoke, VA

Botetourt

WDBJ, 7, Roanoke, VA

WSLS-TV, 10, Roanoke, VA

WSET-TV, 13, Lynchburg, VA (formerly WLVA)

+WFXR-TV, 27, Roanoke, VA (formerly WVFT)

Brunswick

WTVR-TV, 6, Richmond, VA

WRIC-TV, 8, Richmond, VA (formerly WXEX)

WWBT, 12, Richmond, VA

Buchanan

WOAY-TV, 4, Oak Hill, WV

WVVA, 6, Bluefield, WV (formerly WHIS)

WCYB-TV, 5, Bristol, VA

+WVAH-TV, 11, Charleston, WV (formerly ch. 23)

Buckingham

WTVR-TV, 6, Richmond, VA

WRIC-TV, 8, Richmond, VA (formerly WXEX)

WWBT, 12, Richmond, VA

+WRLH-TV, 35, Richmond, VA

+WVIR-TV, 29, Charlottesville, VA

Campbell & Lynchburg City

WDBJ, 7, Roanoke, VA

WSLS-TV, 10, Roanoke, VA

WSET-TV, 13, Lynchburg, VA (formerly WLVA)

+WJPR, 21, Lynchburg, VA

+WFXR-TV, 27, Roanoke, VA (formerly WVFT)

Caroline

WTVR-TV, 6, Richmond, VA

WRIC-TV, 8, Richmond, VA (formerly WXEX)

WWBT, 12, Richmond, VA

WTTG, 5, Washington, DC

Carroll

WDBJ, 7, Roanoke, VA

WSLS-TV, 10, Roanoke, VA

WVVA, 6, Bluefield, WV (formerly WHIS)

WFMY-TV, 2, Greensboro, NC

WGHP, 8, Greensboro, NC

WXII, 12, Greensboro, NC (formerly WSJS)

Charles City

WTVR-TV, 6, Richmond, VA

WRIC-TV, 8, Richmond, VA (formerly WXEX)

WWBT, 12, Richmond, VA

+WRLH-TV, 35, Richmond, VA

Charlotte

WDBJ, 7, Roanoke, VA

WSLS-TV, 10, Roanoke, VA

WSET-TV, 13, Lynchburg, VA (formerly WLVA)

WTVR-TV, 6, Richmond, VA

Chesterfield & Colonial Heights City

WTVR-TV, 6, Richmond, VA

WRIC-TV, 8, Richmond, VA (formerly WXEX)

WWBT, 12, Richmond, VA

+WRLH-TV, 35, Richmond, VA

Clarke

WRC-TV, 4, Washington, DC

WTTG, 5, Washington, DC

WJLA-TV, 7, Washington, DC (formerly WMAL)

WUSA, 9, Washington, DC (formerly WTOP)

+WDCA, 20, Washington, DC

Craig

WDBJ, 7, Roanoke, VA

WSLS-TV, 10, Roanoke, VA

Culpeper

WRC-TV, 4, Washington, DC

WTTG, 5, Washington, DC

WJLA-TV, 7, Washington, DC (formerly WMAL)

WUSA, 9, Washington, DC (formerly WTOP)

Cumberland

WTVR-TV, 6, Richmond, VA

WRIC-TV, 8, Richmond, VA (formerly WXEX)

WWBT, 12, Richmond, VA

+WRLH-TV, 35, Richmond, VA

Dickenson

WCYB-TV, 5, Bristol, VA

Dinwiddie & Petersburg City

WTVR-TV, 6, Richmond, VA

WRIC-TV, 8, Richmond, VA (formerly WXEX)

WWBT, 12, Richmond, VA

+WRLH-TV, 35, Richmond, VA

Essex

WTVR-TV, 6, Richmond, VA

WRIC-TV, 8, Richmond, VA (formerly WXEX)

WWBT, 12, Richmond, VA

WTTG, 5, Washington, DC

Fairfax & Fairfax City & Falls Church City

WRC-TV, 4, Washington, DC

WTTG, 5, Washington, DC

WJLA-TV, 7, Washington, DC (formerly WMAL)

WUSA, 9, Washington, DC (formerly WTOP)

WDCA, 20, Washington, DC

Fauquier

WRC-TV, 4, Washington, DC

WTTG, 5, Washington, DC

WJLA-TV, 7, Washington, DC (formery WMAL)

WUSA, 9, Washington, DC (formerly WTOP)

+WDCA, 20, Washington, DC

Floyd

WDBJ, 7, Roanoke, VA

WSLS-TV, 10, Roanoke, VA

Fluvanna

WTVR-TV, 6, Richmond, VA

WRIC-TV, 8, Richmond, VA (formerly WXEX)

WWBT, 12, Richmond, VA

+WVIR-TV, 29, Charlottesville, VA

Franklin

WDBJ, 7, Roanoke, VA

WSLS-TV, 10, Roanoke, VA

WSET-TV, 13, Lynchburg, VA (formerly WLVA)

+WFXR-TV, 27, Roanoke, VA (formerly WVFT)

Frederick & Winchester City

WRC-TV, 4, Washington, DC

WTTG, 5, Washington, DC

WJLA-TV, 7, Washington, DC (formerly WMAL)

WUSA, 9, Washington, DC (formerly WTOP)

Giles

WDBJ, 7, Roanoke, VA

WSLS-TV, 10, Roanoke, VA

WVVA, 6, Bluefield, WV (formerly WHIS)

Gloucester

WTKR, 3, Norfolk, VA (formerly WTAR)

WAVY-TV, 10, Portsmouth, VA

WVEC-TV, 13, Hampton, VA

WTVR-TV, 6, Richmond, VA

WRIC-TV, 8, Richmond, VA (formerly WXEX)

Goochland

WTVR-TV, 6, Richmond, VA

WRIC-TV, 8, Richmond, VA (formerly WXEX)

WWBT, 12, Richmond, VA

+WRLH-TV, 35, Richmond, VA

Grayson

WDBJ, 7, Roanoke, VA

WSLS-TV, 10, Roanoke, VA

WFMY-TV, 2, Greensboro, NC

WGHP, 8, Greensboro, NC

WXII, 12, Greensboro, NC (formerly WSJS)

Greene

WTVR-TV, 6, Richmond, VA

WRIC-TV, 8, Richmond, VA (formerly WXEX)

WWBT, 12, Richmond, VA

WHSV-TV, 3, Harrisonburg, VA (formerly WSVA)

+WVIR-TV, 29, Charlottesville, VA

Greensville

WTVR-TV, 6, Richmond, VA

WRIC-TV, 8, Richmond, VA (formerly WXEX)

WWBT, 12, Richmond, VA

+WRLH-TV, 35, Richmond, VA

WTKR, 3, Norfolk, VA (formerly WTAR)

WAVY-TV, 10, Portsmouth, VA

Halifax

WDBJ, 7, Roanoke, VA

WSLS-TV, 10, Roanoke, VA

WSET-TV, 13, Lynchburg, VA (formerly WLVA)

+WJPR, 21, Lynchburg, VA

+WLFL, 22, Raleigh, NC

Hampton-Newport News & Hampton City & Newport News City

WTKR, 3, Norfolk, VA (formerly WTAR)

WAVY-TV, 10, Portsmouth, VA

WVEC-TV, 13, Hampton, VA

Hanover

WTVR-TV, 6, Richmond, VA

WRIC-TV, 8, Richmond, VA (formerly WXEX)

WWBT, 12, Richmond, VA

Henrico & Richmond City

WTVR-TV, 6, Richmond, VA

WRIC-TV, 8, Richmond, VA (formerly WXEX)

WWBT, 12, Richmond, VA

Henry & Martinsville City

WDBJ, 7, Roanoke, VA

WSLS-TV, 10, Roanoke, VA

+WFXR-TV, 27, Roanoke, VA (formerly WVFT)

WFMY-TV, 2, Greensboro, NC

WGHP, 8, Greensboro, NC

WXII, 12, Greensboro, NC (formerly WSJS)

+WXLV-TV, 45, Winston-Salem, NC (formerly WNRW)

+WUPN-TV, 48, Greensboro, NC (formerly WGGT)

Highland

WDBJ, 7, Roanoke, VA

WSLS-TV, 10, Roanoke, VA

WHSV-TV, 3, Harrisonbur, VA (formerly WSVA)

Isle of Wight

WTKR, 3, Norfolk, VA (formerly WTAR)

WAVY-TV, 10, Portsmouth, VA

WVEC-TV, 13, Hampton, VA

James City & Williamsburg City

WTKR, 3, Norfolk, VA (formerly WTAR)

WAVY-TV, 10, Portsmouth, VA

WVEC-TV, 13, Hampton, VA

WTVR-TV, 6, Richmond, VA

WRIC-TV, 8, Richmond, VA (formerly WXEX)

WWBT, 12, Richmond, VA

King and Queen

WTVR-TV, 6, Richmond, VA

WRIC-TV, 8, Richmond, VA (formerly WXEX)

WWBT, 12, Richmond, VA

+WRLH-TV, 35, Richmond, VA

WAVY-TV, 10, Portsmouth, VA

King George

WRC-TV, 4, Washington, DC

WTTG, 5, Washington, DC

WJLA-TV, 7, Washington, DC (formerly WMAL)

WUSA, 9, Washington, DC (formerly WTOP)

WDCA, 20, Washington, DC

King William

WTVR-TV, 6, Richmond, VA

WRIC-TV, 8, Richmond, VA (formerly WXEX)

WWBT, 12, Richmond, VA

+WRLH-TV, 35, Richmond, VA

Lancaster

WTVR-TV, 6, Richmond, VA

WRIC-TV, 8, Richmond, VA (formerly WXEX)

WWBT, 12, Richmond, VA

WTKR, 3, Norfolk, VA (formerly WTAR)

WAVY-TV, 10, Portsmouth, VA

Lee

WCYB-TV, 5, Bristol, VA

WJHL-TV, 11, Johnson City, TN

+WEMT, 39, Greenville, TN

WATE-TV, 6, Knoxville, TN

WBIR-TV, 10, Knoxville, TN

Loudoun

WRC-TV, 4, Washington, DC

WTTG, 5, Washington, DC

WJLA-TV, 7, Washington, DC (formerly WMAL)

WUSA, 9, Washington, DC (formerly WTOP)

WDCA, 20, Washington, DC

Louisa

WTVR-TV, 6, Richmond, VA

WRIC-TV, 8, Richmond, VA (formerly WXEX)

WWBT, 12, Richmond, VA

Lunenburg

WTVR-TV, 6, Richmond, VA

WRIC-TV, 8, Richmond, VA (formerly WXEX)

WWBT, 12, Richmond, VA

Madison

WTVR-TV, 6, Richmond, VA

WRIC-TV, 8, Richmond, VA (formerly WXEX)

WWBT, 12, Richmond, VA

WHSV-TV, 3, Harrisonburg, VA (formerly WSVA)

WRC-TV, 4, Washington, D

WTTG, 5, Washington, D

+WVIR-TV, 29, Charlottesville, VA

Mathews

WTKR, 3, Norfolk, VA (formerly WTAR)

WAVY-TV, 10, Portsmouth, VA

WVEC-TV, 13, Hampton, VA

WTVR-TV, 6, Richmond, VA

WRIC-TV, 8, Richmond, VA (formerly WXEX)

Mecklenburg

WDBJ, 7, Roanoke, VA

WSLS-TV, 10, Roanoke, VA

WSET-TV, 13, Lynchburg, VA (formerly WLVA)

WRAL-TV, 5, Raleigh, NC

WTVD, 11, Durham, NC

WTVR-TV, 6, Richmond, VA

WRIC-TV, 8, Richmond, VA (formerly WXEX)

Middlesex

WTVR-TV, 6, Richmond, VA

WRIC-TV, 8, Richmond, VA (formerly WXEX)

WWBT, 12, Richmond, VA

WTKR, 3, Norfolk, VA (formerly WTAR)

WAVY-TV, 10, Portsmouth, VA

Montgomery & Radford City

WDBJ, 7, Roanoke, VA

WSLS-TV, 10, Roanoke, VA

WSET-TV, 13, Lynchburg, VA (formerly WLVA)

+WFXR-TV, 27, Roanoke, VA (formerly WVFT)

Nansemond & Suffolk City

WTKR, 3, Norfolk, VA (formerly WTAR)

WAVY-TV, 10, Portsmouth, VA

WVEC-TV, 13, Hampton, VA

WGNT, 27, Portsmouth, VA (formerly WYAH)

Nelson

WDBJ, 7, Roanoke, VA

WSLS-TV, 10, Roanoke, VA

WSET-TV, 13, Lynchburg, VA (formerly WLVA)

WTVR-TV, 6, Richmond, VA

WWBT, 12, Richmond, VA

+WVIR-TV, 29, Charlottesville, VA

New Kent

WTVR-TV, 6, Richmond, VA

WRIC-TV, 8, Richmond, VA (formerly WXEX)

WWBT, 12, Richmond, VA

+WRLH-TV, 35, Richmond, VA

Norfolk & Chesapeake City & Portsmouth City & Norfolk City

WTKR, 3, Norfolk, VA (formerly WTAR)

WAVY-TV, 10, Portsmouth, VA

WVEC-TV, 13, Hampton, VA

Northampton

WTKR, 3, Norfolk, VA (formerly WTAR)

WAVY-TV, 10, Portsmouth, VA

WVEC-TV, 13, Hampton, VA

Northumberland

WTVR-TV, 6, Richmond, VA

WRIC-TV, 8, Richmond, VA (formerly WXEX)

WWBT, 12, Richmond, VA

WTKR, 3, Norfolk, VA (formerly WTAR)

WAVY-TV, 10, Portsmouth, VA

WTTG, 5, Washington, DC

Nottoway

WTVR-TV, 6, Richmond, VA

WRIC-TV, 8, Richmond, VA (formerly WXEX)

WWBT, 12, Richmond, VA

Orange

WTVR-TV, 6, Richmond, VA

WRIC-TV, 8, Richmond, VA (formerly WXEX)

WWBT, 12, Richmond, VA

+WRLH-TV, 35, Richmond, VA

WRC-TV, 4, Washington, DC

WTTG, 5, Washington, DC

+WVIR-TV, 29, Charlottesville, VA

Page

WRC-TV, 4, Washington, DC

WTTG, 5, Washington, DC

WJLA-TV, 7, Washington, DC (formerly WMAL)

WUSA, 9, Washington, DC (formerly WTOP)

WHSV-TV, 3, Harrisonburg, VA (formerly WSVA)

WTVR-TV, 6, Richmond, VA

Patrick

WFMY-TV, 2, Greensboro, NC

WGHP, 8, Greensboro, NC

WXII, 12, Greensboro, NC (formerly WSJS)

+WUPN-TV, 48, Greensboro, NC (formerly WGGT)

WDBJ, 7, Roanoke, VA

WSLS-TV, 10, Roanoke, VA

Pittsylvania & Danville City

WDBJ, 7, Roanoke, VA

WSLS-TV, 10, Roanoke, VA

WSET-TV, 13, Lynchburg, VA (formerly WLVA)

+WJPR, 21, Lynchburg, VA

+WFXR-TV, 27, Roanoke, VA (formerly WVFT)

WFMY-TV, 2, Greensboro, NC

WGHP, 8, Greensboro, NC

WXII, 12, Greensboro, NC (formerly WSJS)

+WUPN-TV, 48, Greensboro, NC (formerly WGGT)

Powhatan

WTVR-TV, 6, Richmond, VA

WRIC-TV, 8, Richmond, VA (formerly WXEX)

WWBT, 12, Richmond, VA

+WRLH-TV, 35, Richmond, VA

Prince Edward

WTVR-TV, 6, Richmond, VA

WRIC-TV, 8, Richmond, VA (formerly WXEX)

WWBT, 12, Richmond, VA

WSET-TV, 13, Lynchburg, VA (formerly WLVA)

Prince George & Hopewell City

WTVR-TV, 6, Richmond, VA

WRIC-TV, 8, Richmond, VA (formerly WXEX)

WWBT, 12, Richmond, VA

+WRLH-TV, 35, Richmond, VA

Prince William

WRC-TV, 4, Washington, DC

WTTG, 5, Washington, DC

WJLA-TV, 7, Washington, DC (formerly WMAL)

WUSA, 9, Washington, DC (formerly WTOP)

WDCA, 20, Washington, DC

Pulaski

WDBJ, 7, Roanoke, VA

WSLS-TV, 10, Roanoke, VA

+WFXR-TV, 27, Roanoke, VA (formerly WVFT)

WVVA, 6, Bluefield, WV (formerly WHIS)

Rappahannock

WRC-TV, 4, Washington, DC

WTTG, 5, Washington, DC

WJLA-TV, 7, Washington, DC (formerly WMAL)

WUSA, 9, Washington, DC (formerly WTOP)

WHSV-TV, 3, Harrisonburg, VA (formerly WSVA)

Richmond

WTVR-TV, 6, Richmond, VA

WRIC-TV, 8, Richmond, VA (formerly WXEX)

WWBT, 12, Richmond, VA

+WRLH-TV, 35, Richmond, VA

WTTG, 5, Washington, DC

Roanoke & Roanoke City & Salem City

WDBJ, 7, Roanoke, VA

WSLS-TV, 10, Roanoke, VA

WSET-TV, 13, Lynchburg, VA (formerly WLVA)

+WJPR, 21, Lynchburg, VA

+WFXR-TV, 27, Roanoke, VA (formerly WVFT)

Rockbridge

WDBJ, 7, Roanoke, VA

WSLS-TV, 10, Roanoke, VA

WSET-TV, 13, Lynchburg, VA (formerly WLVA)

+WFXR-TV, 27, Roanoke, VA (formerly WVFT)

Rockingham & Harrisonburg City

WHSV-TV, 3, Harrisonburg, VA (formerly WSVA)

WTVR-TV, 6, Richmond, VA

WWBT, 12, Richmond, VA

WTTG, 5, Washington, DC

+WVIR-TV, 29, Charlottesville, VA

Russell

WCYB-TV, 5, Bristol, VA

WJHL-TV, 11, Johnson City, TN

+WEMT, 39, Greenville, TN

WVVA, 6, Bluefield, WV (formerly WHIS)

Scott

WCYB-TV, 5, Bristol, VA

WJHL-TV, 11, Johnson City, TN

+WEMT, 39, Greenville, TN

Shenandoah

WRC-TV, 4, Washington, DC

WTTG, 5, Washington, DC

WJLA-TV, 7, Washington, DC (formerly WMAL)

WUSA, 9, Washington, DC (formerly WTOP)

WHSV-TV, 3, Harrisonburgm VA (formerly WSVA)

Smyth

WCYB-TV, 5, Bristol, VA

WJHL-TV, 11, Johnson City, TN

Southampton

WTKR, 3, Norfolk, VA (formerly WTAR)

WAVY-TV, 10, Portsmouth, VA

WVEC-TV, 13, Hampton, VA

Spotsylvania & Fredericksburg City

WRC-TV, 4, Washington, DC

WTTG, 5, Washington, DC

WJLA-TV, 7, Washington, DC (formerly WMAL)

WUSA, 9, Washington, DC (formerly WTOP)

WTVR-TV, 6, Richmond, VA

+WRLH-TV, 35, Richmond, VA

Stafford

WRC-TV, 4, Washington, DC

WTTG, 5, Washington, DC

WJLA-TV, 7, Washington, DC (formerly WMAL)

WUSA, 9, Washington, DC (formerly WTOP)

WDCA, 20, Washington, DC

WTVR-TV, 6, Richmond, VA

Surry

WTVR-TV, 6, Richmond, VA

WRIC-TV, 8, Richmond, VA (formerly WXEX)

WWBT, 12, Richmond, VA

WTKR, 3, Norfolk, VA (formerly WTAR)

WAVY-TV, 10, Portsmouth, VA

WVEC-TV, 13, Hampton, VA

Sussex

WTVR-TV, 6, Richmond, VA

WRIC-TV, 8, Richmond, VA (formerly WXEX)

WWBT, 12, Richmond, VA

+WRLH-TV, 35, Richmond, VA

WTKR, 3, Norfolk, VA (formerly WTAR)

WAVY-TV, 10, Portsmouth, VA

Tazewell

WOAY-TV, 4, Oak Hill, WV

WVVA, 6, Bluefield, WV (formerly WHIS)

WDBJ, 7, Roanoke, VA

Virginia Beach & Virginia Beach City

WTKR, 3, Norfolk, VA (formerly WTAR)

WAVY-TV, 10, Portsmouth, VA

WVEC-TV, 13, Hampton, VA

Warren

WRC-TV, 4, Washington, DC

WTTG, 5, Washington, DC

WJLA-TV, 7, Washington, DC (formerly WMAL)

WUSA, 9, Washington, DC (formerly WTOP)

WMAR-TV, 2, Baltimore, MD

WBAL-TV, 11, Baltimore, MD

WJZ-TV, 13, Baltimore, MD

WHSV-TV, 3, Harrisonburg, VA (formerly WSVA)

Washington & Bristol City

WCYB-TV, 5, Bristol, VA

WJHL-TV, 11, Johnson City, TN

WKPT-TV, 19, Kingsport, TN

+WEMT, 39, Greenville, TN (formerly WETO)

Westmoreland

WRC-TV, 4, Washington, DC

WTTG, 5, Washington, D

WJLA-TV, 7, Washington, DC (formerly WMAL)

WUSA, 9, Washington, DC (formerly WTOP)

WTVR-TV, 6, Richmond, VA

WRIC-TV, 8, Richmond, VA (formerly WXEX)

Wise

WCYB-TV, 5, Bristol, VA

WJHL-TV, 11, Johnson City, TN

+WEMT, 39, Greenville, TN

Wythe

WDBJ, 7, Roanoke, VA

WSLS-TV, 10, Roanoke, VA

WVVA, 6, Bluefield, WV (formerly WHIS)

York

WTKR, 3, Norfolk, VA (formerly WTAR)

WAVY-TV, 10, Portsmouth, VA

WVEC-TV, 13, Hampton, VA

Bedford—WJPR, WFXR-TV

Colonial Heights—WRLH-TV

Danville—WJPR, WFXR-TV

Hopewell City—WRLH-TV

Lynchburg—WJPR, WFXR-TV

Petersburg City—WRLH-TV

Roanoke—WJPR

Salem—WJPR

Washington

Adams

KREM-TV, 2, Spokane, WA

KXLY-TV, 4, Spokane, WA

KHQ-TV, 6, Spokane, WA

KEPR-TV, 19, Pasco, WA

KNDU, 25, Richland, WA

Asotin

KREM-TV, 2, Spokane, WA

KXLY-TV, 4, Spokane, WA

KHQ-TV, 6, Spokane, WA

KLEW-TV, 3, Lewiston, ID

Benton

KEPR-TV, 19, Pasco, WA

KNDU, 25, Richland, WA

KVEW, 42, Kennewick, WA

Chelan

KREM-TV, 2, Spokane, WA

KXLY-TV, 4, Spokane, WA

KHQ-TV, 6, Spokane, WA

+KAYU-TV, 28, Spokane, WA

Clallam

KOMO-TV, 4, Seattle, WA

KING-TV, 5, Seattle, WA

KIRO-TV, 7, Seattle, WA

KVOS-TV, 12, Bellingham, WA

CBUT, 2, Canada

CHEK, 6, Canada

CHAN, 8, Canada

Clark

KATU, 2, Portland, OR

KOIN, 6, Portland, OR

KGW, 8, Portland, OR

KPTV, 12, Portland, OR

+KPDX, 49, Vancouver, WA

Columbia

KREM-TV, 2, Spokane, WA

KXLY-TV, 4, Spokane, WA

KHQ-TV, 6, Spokane, WA

Cowlitz

KATU, 2, Portland, OR

KOIN, 6, Portland, OR

KGW, 8, Portland, OR

KPTV, 12, Portland, OR

+KPDX, 49, Vancouver, WA

Douglas

KREM-TV, 2, Spokane, WA

KXLY-TV, 4, Spokane, WA

KHQ-TV, 6, Spokane, WA

+KAYU-TV, 28, Spokane, WA

Ferry

KREM-TV, 2, Spokane, WA

KXLY-TV, 4, Spokane, WA

KHQ-TV, 6, Spokane, WA

Franklin

KEPR-TV, 19, Pasco, WA

KNDU, 25, Richland, WA

KVEW, 42, Kennewick, WA

Garfield

KREM-TV, 2, Spokane, WA

KXLY-TV, 4, Spokane, WA

KHQ-TV, 6, Spokane, WA

Grant

KREM-TV, 2, Spokane, WA

KXLY-TV, 4, Spokane, WA

KHQ-TV, 6, Spokane, WA

Grays Harbor

KOMO-TV 4, Seattle, WA

KING-TV, 5, Seattle, WA

KIRO-TV, 7, Seattle, WA

Island

KOMO-TV, 4, Seattle, WA

KING-TV, 5, Seattle, WA

KIRO-TV, 7, Seattle, WA

KSTW, 11, Tacoma, WA (formerly KTNT)

KVOS-TV, 12, Bellingham, WA

+KCPQ, 13, Tacoma, WA

CHEK, 6, Canada

Jefferson

KOMO-TV, 4, Seattle, WA

KING-TV, 5, Seattle, WA

KIRO-TV, 7, Seattle, WA

KSTW, 11, Tacoma, WA (formerly KTNT)

+KCPQ, 13, Tacoma, A

King

KOMO-TV, 4, Seattle, WA

KING-TV, 5, Seattle, WA

KIRO-TV, 7, Seattle, WA

KSTW, 11, Tacoma, WA (formerly KTNT)

+KCPQ, 13, Tacoma, WA

+KTZZ-TV, 22, Seattle, WA

Kitsap

KOMO-TV, 4, Seattle, WA

KING-TV, 5, Seattle, WA

KIRO-TV, 7, Seattle, WA

KSTW, 11, Tacoma, WA (formerly KTNT)

+KCPQ, 13, Tacoma, WA

+KTZZ-TV, 22, Seattle, WA

Kittitas

KNDO, 23, Yakima, WA

KIMA-TV, 29, Yakima, WA

Klickitat

KATU, 2, Portland, OR

KOIN, 6, Portland, OR

KGW, 8, Portland, OR

KPTV, 12, Portland, OR

Lewis

KOMO-TV, 4, Seattle, WA

KING-TV, 5, Seattle, WA

KIRO-TV, 7, Seattle, WA

KSTW, 11, Tacoma, WA (formerly KTNT)

+KCPQ, 13, Tacoma, WA

KATU, 2, Portland, OR

KOIN, 6, Portland, OR

KGW, 8, Portland, OR

KPTV, 12, Portland, OR

Lincoln

KREM-TV, 2, Spokane, WA

KXLY-TV, 4, Spokane, WA

KHQ-TV, 6, Spokane, WA

Mason

KOMO-TV, 4, Seattle, WA

KING-TV, 5, Seattle, WA

KIRO-TV, 7, Seattle, WA

KSTW, 11, Tacoma, WA (formerly KTNT)

Okanogan

KREM-TV, 2, Spokane, WA

KXLY-TV, 4, Spokane, WA

KHQ-TV, 6, Spokane, WA

Pacific

KOMO-TV, 4, Seattle, WA

KING-TV, 5, Seattle, WA

Pend Oreille

KREM-TV, 2, Spokane, WA

KXLY-TV, 4, Spokane, WA

KHQ-TV, 6, Spokane, WA

Pierce

KOMO-TV, 4, Seattle, WA

KING-TV, 5, Seattle, WA

KIRO-TV, 7, Seattle, WA

KSTW, 11, Tacoma, WA (formerly KTNT)

+KCPQ, 13, Tacoma, WA

+KTZZ-TV, 22, Seattle, WA

San Juan

KOMO-TV, 4, Seattle, WA

KING-TV, 5, Seattle, WA

KIRO-TV, 7, Seattle, WA

KVOS-TV, 12, Bellingham, WA

CBUT, 2, Canada

CHEK, 6, Canada

CHAN, 8, Canada

Skagit

KOMO-TV, 4, Seattle, WA

KING-TV, 5, Seattle, WA

KIRO-TV, 7, Seattle, WA

KSTW, 11, Tacoma, WA (formerly KTNT)

KVOS-TV, 12, Tacoma, WA

+KCPQ, 13, Tacoma, WA

CHEK, 6, Canada

CHAN, 8, Canada

Skamania

KATU, 2, Portland, OR

KOIN, 6, Portland, OR

KGW, 8, Portland, OR

KPTV, 12, Portland, OR

Snohomish

KOMO-TV, 4, Seattle, WA

KING-TV, 5, Seattle, WA

KIRO-TV, 7, Seattle, WA

KSTW, 11, Tacoma, WA (formerly KTNT)

+KCPQ, 13, Tacoma, WA

+KTZZ-TV, 22, Seattle, WA

Spokane

KREM-TV, 2, Spokane, WA

KXLY-TV, 4, Spokane, WA

KHQ-TV, 6, Spokane, WA

+KAYU-TV, 28, Spokane, WA

Stevens

KREM-TV, 2, Spokane, WA

KXLY-TV, 4, Spokane, WA

KHQ-TV, 6, Spokane, WA

+KAYU-TV, 28, Spokane, WA

Thurston

KOMO-TV, 4, Seattle, WA

KING-TV, 5, Seattle, WA

KIRO-TV, 7, Seattle, WA

KSTW, 11, Tacoma, WA (formerly KTNT)

KCPQ, 13, Tacoma, WA (formerly KTVW)

Wahkiakum

KATU, 2, Portland, OR

KOIN, 6, Portland, OR

KPTV, 12, Portland, OR

Walla Walla

KEPR-TV, 19, Pasco, WA

KNDU, 25, Richland, WA

KVEW, 42, Kennewick, WA

KREM-TV, 2, Spokane, WA

KXLY-TV, 4, Spokane, WA

KHQ-TV, 6, Spokane, WA

Whatcom

KOMO-TV, 4, Seattle, WA

KING-TV, 5, Seattle, WA

KIRO-TV, 7, Seattle, WA

KVOS-TV, 12, Bellingham, WA

+KCPQ, 13, Tacoma, WA

CBUT, 2, Canada

CHEK, 6, Canada

CHAN, 8, Canada

Whitman

KREM-TV, 2, Spokane, WA

KXLY-TV, 4, Spokane, WA

KHQ-TV, 6, Spokane, WA

+KAYU-TV, 28, Spokane, WA

Yakima

KNDO, 23, Yakima, WA

KIMA-TV, 29, Yakima, WA

KAPP, 35, Yakima, WA

West Virginia

Barbour

WDTV, 5, Clarksburg, WV

WBOY-TV, 12, Clarksburg, WV

KDKA-TV, 2, Pittsburgh, PA

WTAE-TV, 4, Pittsburgh, PA

Berkeley

WRC-TV, 4, Washington, DC

WTTG, 5, Washington, DC

WJLA-TV, 7, Washington, DC (formerly WMAL)

WUSA, 9, Washington, DC (formerly WTOP)

WMAR-TV, 2, Baltimore, MD

Boone

WSAZ-TV, 3, Huntington, WV

WCHS-TV, 8, Charleston, WV

WOWK-TV, 13, Huntington, WV (formerly WHTN)

Braxton

WSAZ-TV, 3, Huntington, WV

WCHS-TV, 8, Charleston, WV

+WVAH-TV, 11, Charleston, WV (formerly ch. 23)

WOAY-TV, 4, Oak Hill, WV

WDTV, 5, Clarksburg, WV

Brooke

WTRF-TV, 7, Wheeling, WV

WTOV-TV, 9, Steubenville, OH (formerly WSTV)

KDKA-TV, 2, Pittsburgh, PA

WTAE-TV, 4, Pittsburgh, PA

WPXI, 11, Pittsburgh, PA (formerly WIIC)

+WPGH-TV, 53, Pittsburgh, PA

Cabell

WSAZ-TV, 3, Huntington, WV

WCHS-TV, 8, Charleston, WV

WOWK-TV, 13, Huntington, WV (formerly WHTN)

+WVAH-TV, 11, Charleston, WV (formerly ch. 23)

Calhoun

WSAZ-TV, 3, Huntington, WV

WCHS-TV, 8, Charleston, WV

WOWK-TV, 13, Huntington, WV (formerly WHTN)

WDTV, 5, Clarksburg, WV

Clay

WSAZ-TV, 3, Huntington, WV

WCHS-TV, 8, Charleston, WV

WOAY-TV, 4, Oak Hill, WV

Doddridge

WDTV, 5, Clarksburg, WV

WBOY-TV, 12, Clarksburg, WV

Fayette

WOAY-TV, 4, Oak Hill, WV

WVVA, 6, Bluefield, WV (formerly WHIS)

WSAZ-TV, 3, Huntington, WV

WCHS-TV, 8, Charleston, WV

WOWK-TV, 13, Huntington, WV (formerly WHTN)

+WVAH-TV, 11, Charleston, WV (formerly ch. 23)

Gilmer

WDTV, 5, Clarksburg, WV

WBOY-TV, 12, Clarksburg, WV

WOAY-TV, 4, Oak Hill, WV

WSAZ-TV, 3, Huntington, WV

Grant

WHSV-TV, 3, Harrisonburg, VA (formerly WSVA)

WJAC-TV, 6, Johnstown, PA

Greenbrier

WOAY-TV, 4, Oak Hill, WV

WVVA, 6, Bluefield, WV (formerly WHIS)

WDBJ, 7, Roanoke, VA

WSLS-TV, 10, Roanoke, VA

+WVAH-TV, 11, Charleston, WV

Hampshire

WRC-TV, 4, Washington, DC

WTTG, 5, Washington, DC

WUSA, 9, Washington, DC (formerly WTOP)

WMAR-TV, 2, Baltimore, MD

WHSV-TV, 3, Harrisonburg, VA (formerly WSVA)

WJAC-TV, 6, Johnstown, PA

Hancock

WTRF-TV, 7, Wheeling, WV

WTOV-TV, 9, Steubenville, OH (formerly WSTV)

KDKA-TV, 2, Pittsburgh, PA

WTAE-TV, 4, Pittsburgh, PA

WPXI, 11, Pittsburgh, PA (formerly WIIC)

+WCWB, 22, Pittsburgh, PA (formerly WPTT)

+WPGH-TV, 53, Pittsburgh, PA

Hardy

WHSV-TV, 3, Harrisonburg, VA (formerly WSVA)

WRC-TV, 4, Washington, DC

WTTG, 5, Washington, DC

WUSA, 9, Washington, DC (formerly WTOP)

Harrison

WDTV, 5, Clarksburg, WV

WBOY-TV, 12, Clarksburg, WV

WTAE-TV, 4, Pittsburgh, PA

Jackson

WSAZ-TV, 3, Huntington, WV

WCHS-TV, 8, Charleston, WV

WOWK-TV, 13, Huntington, WV (formerly WHTN)

+WVAH-TV, 11, Charleston, WV (formerly ch. 23)

Jefferson

WRC-TV, 4, Washington, DC

WTTG, 5, Washington, DC

WJLA-TV, 7, Washington, DC (formerly WMAL)

WUSA, 9, Washington, DC (formerly WTOP)

WMAR-TV, 2, Baltimore, MD

Kanawha

WSAZ-TV, 3, Huntington, WV

WCHS-TV, 8, Charleston, WV

WOWK-TV, 13, Huntington, WV (formerly WHTN)

+WVAH-TV, 11, Charleston, WV (formerly ch. 23)

Lewis

WDTV, 5, Clarksburg, WV

WBOY-TV, 12, Clarksburg, WV

Lincoln

WSAZ-TV, 3, Huntington, WV

WCHS-TV, 8, Charleston, WV

WOWK-TV, 13, Huntington, WV (formerly WHTN)

+WVAH-TV, 11, Charleston, WV (formerly ch. 23)

Logan

WSAZ-TV, 3, Huntington, WV

WCHS-TV, 8, Charleston, WV

WOWK-TV, 13, Huntington, WV (formerly WHTN)

Marion

KDKA-TV, 2, Pittsburgh, PA

WTAE-TV, 4, Pittsburgh, PA

WDTV, 5, Clarksburg, WV

WBOY-TV, 12, Clarksburg, WV

WTRF-TV, 7, Wheeling, WV

WTOV-TV, 9, Steubenville, OH (formerly WSTV)

Marshall

WTRF-TV, 7, Wheeling, WV

WTOV-TV, 9, Steubenville, OH (formerly WSTV)

KDKA-TV, 2, Pittsburgh, PA

WTAE-TV, 4, Pittsburgh, PA

WPXI, 11, Pittsburgh, PA (formerly WIIC)

Mason

WSAZ-TV, 3, Huntington, WV

WCHS-TV, 8, Charleston, WV

WOWK-TV, 13, Huntington, WV (formerly WHTN)

+WVAH-TV, 11, Charleston, WV (formerly ch. 23)

McDowell

WSAZ-TV, 3, Huntington, WV

WCHS-TV, 8, Charleston, WV

WOWK-TV, 13, Huntington, WV (formerly WHTN)

+WVAH-TV, 11, Charleston, WV (formerly ch. 23)

WOAY-TV, 4, Oak Hill, WV

WVVA, 6, Bluefield, WV (formerly WHIS)

Mercer

WOAY-TV, 4, Oak Hill, WV

WVVA, 6, Bluefield, WV (formerly WHIS)

WDBJ, 7, Roanoke, VA

WSLS-TV, 10, Roanoke, VA

Mineral

Over 90% cable penetration.

Mingo

WSAZ-TV, 3, Huntington, WV

WCHS-TV, 8, Charleston, WV

WOWK-TV, 13, Huntington, WV (formerly WHTN)

+WVAH-TV, 11, Charleston, WV (formerly ch. 23)

WVVA, 6, Bluefield, WV (formerly WHIS)

Monongalia

KDKA-TV, 2, Pittsburgh, PA

WTAE-TV, 4, Pittsburgh, PA

WPXI, 11, Pittsburgh, PA (formerly WIIC)

+WCWB, 22, Pittsburgh, PA (formerly WPTT)

+WPGH-TV, 53, Pittsburgh, PA

WBOY-TV, 12, Clarksburg, WV

WTRF-TV, 7, Wheeling, WV

Monroe

WVVA, 6, Bluefield, WV (formerly WHIS)

WDBJ, 7, Roanoke, VA

WSLS-TV, 10, Roanoke, VA

Morgan

WRC-TV, 4, Washington, DC

WTTG, 5, Washington, DC

WJLA-TV, 7, Washington, DC (formerly WMAL)

WUSA, 9, Washington, DC (formerly WTOP)

WMAR-TV, 2, Baltimore, MD

WTAJ-TV, 10, Johnstown, PA (formerly WFBG)

Nicholas

WSAZ-TV, 3, Huntington, WV

WCHS-TV, 8, Charleston, WV

WOWK-TV, 13, Huntington, WV (formerly WHTN)

+WVAH-TV, 11, Charleston, WV (formerly ch. 23)

WOAY-TV, 4, Oak Hill, WV

Ohio

WTRF-TV, 7, Wheeling, WV

WTOV-TV, 9, Steubenville, OH (formerly WSTV)

KDKA-TV, 2, Pittsburgh, PA

WTAE-TV, 4, Pittsburgh, PA

WPXI, 11, Pittsburgh, PA (formerly WIIC)

+WCWB, 22, Pittsburgh, PA (formerly WPTT)

+WPGH-TV, 53, Pittsburgh, PA

Pendleton

WHSV-TV, 3, Harrisonburg, VA (formerly WSVA)

Pleasants

WTRF-TV, 7, Wheeling, WV

WCHS-TV, 8, Charleston, WV

+WVAH-TV, 11, Charleston, WV

WDTV, 5, Clarksburg, WV

Pocahontas

WDBJ, 7, Roanoke, WV

WSLS-TV, 10, Roanoke, WV

WVVA, 6, Bluefield, WV (formerly WHIS)

Preston

KDKA-TV, 2, Pittsburgh, PA

WTAE-TV, 4, Pittsburgh, PA

WPXI, 11, Pittsburgh, PA (formerly WIIC)

WDTV, 5, Clarksburg, WV

WTRF-TV, 7, Wheeling, WV

+WWCP-TV, 8, Johnstow, PA

Putnam

WSAZ-TV, 3, Huntington, WV

WCHS-TV, 8, Charleston, WV

WOWK-TV, 13, Huntington, WV (formerly WHTN)

+WVAH-TV, 11, Charleston, WV (formerly ch. 23)

Raleigh

WOAY-TV, 4, Oak Hill, WV

WVVA, 6, Bluefield, WV (formerly WHIS)

WSAZ-TV, 3, Huntington, WV

WCHS-TV, 8, Charleston, WV

WOWK-TV, 13, Huntington, WV (formerly WHTN)

+WVAH-TV, 11, Charleston, WV (formerly ch. 23)

Randolph

WDTV, 5, Clarksburg.WV

WBOY-TV, 12, Clarksburg, WV

WCHS-TV, 8, Charleston, WV

Ritchie

WSAZ-TV, 3, Huntington, WV

WCHS-TV, 8, Charleston, WV

+WVAH-TV, 11, Charleston, WV

WOWK-TV, 13, Huntington, WV (formerly WHTN)

WDTV, 5, Clarksburg, WV

WBOY-TV, 12, Clarksburg, WV

WTRF-TV, 7, Wheeling, WV

Roane

WSAZ-TV, 3, Huntington, WV

WCHS-TV, 8, Charleston, WV

WOWK-TV, 13, Huntington, WV (formerly WHTN)

+WVAH-TV, 11, Charleston, WV (formerly ch. 23)

Summers

WOAY-TV, 4, Oak Hill, WV

WVVA, 6, Bluefield, WV (formerly WHIS)

Taylor

WDTV, 5, Clarksburg, WV

WBOY-TV, 12, Clarksburg, WV

Tucker

KDKA-TV, 2, Pittsburgh, PA

WTAE-TV, 4, Pittsburgh, PA

WDTV, 5, Clarksburg, WV

WBOY-TV, 12, Clarksburg, WV

WTRF-TV, 7, Wheeling, WV

WTOV-TV, 9, Steubenville, OH (formerly WSTV)

Tyler

WTRF-TV, 7, Wheeling, WV

WDTV, 5, Clarksburg, WV

Upshur

WDTV, 5, Clarksburg, WV

WBOY-TV, 12, Clarksburg, WV

Wayne

WSAZ-TV, 3, Huntington, WV

WCHS-TV, 8, Charleston, WV

WOWK-TV, 13, Huntington, WV (formerly WHTN)

+WVAH-TV, 11, Charleston, WV (formerly ch. 23)

Webster

WSAZ-TV, 3, Huntington, WV

+WVAH-TV, 11, Charleston, WV

WOAY-TV, 4, Oak Hill, WV

WDTV, 5, Clarksburg, WV

Wetzel

WTRF-TV, 7, Wheeling, WV

WTOV-TV, 9, Steubenville, OH (formerly WSTV)

KDKA-TV, 2, Pittsburgh, PA

WTAE-TV, 4, Pittsburgh, PA

Wirt

WSAZ-TV, 3, Huntington, WV

WCHS-TV, 8, Charleston, WV

WOWK-TV, 13, Huntington, WV (formerly WHTN)

Wood

WSAZ-TV, 3, Huntington, WV

WCHS-TV, 8, Charleston, WV

WOWK-TV, 13, Huntington, WV (formerly WHTN)

+WVAH-TV, 11, Charleston, WV (formerly ch. 23)

WTAP-TV, 15, Parkersburg, WV

Wyoming

WOAY-TV, 4, Oak Hill, WV

WVVA, 6, Bluefield, WV (formerly WHIS)

WCHS-TV, 8, Charleston, WV

Wisconsin

Adams

WSAW-TV, 7, Wausau, WI (formerly WSAU)

WAOW-TV, 9, Wausau, WI

WKBT, 8, La Crosse, WI

WEAU-TV, 13, Eau Claire, WI

WISC-TV, 3, Madison, WI

+WMSN-TV, 47, Madison, WI

Ashland

KDLH, 3, Duluth, MN (formerly KDAL)

KBJR-TV, 6, Duluth, MN (formerly WDSM)

WDIO-TV, 10, Duluth, MN

Barron

WCCO-TV, 4, Minneapolis-St. Paul

KSTP-TV, 5, St. Paul, MN

KMSP-TV, 9, Minneapolis, MN

KARE, 11, Minneapolis, MN (formerly WTCN)

WEAU-TV, 13, Eau Claire, WI

Bayfield

KDLH, 3, Duluth, MN (formerly KDAL)

KBJR-TV, 6, Duluth, MN (formerly WDSM)

WDIO-TV, 10, Duluth, MN

Brown

WBAY-TV, 2, Green Bay, WI

WFRV-TV, 5, Green Bay, WI

WLUK-TV, 11, Green Bay, WI

Buffalo

WKBT, 8, La Crosse, WI

WEAU-TV, 13, Eau Claire, WI

+WLAX, 25, La Crosse, WI

KTTC, 10, Rochester, MN (formerly KROC)

Burnett

WCCO-TV, 4, Minneapolis, MN

KSTP-TV, 5, St. Paul, MN

KMSP-TV, 9, Minneapolis, MN

KARE, 11, Minneapolis, MN (formerly WTCN)

KDLH, 3, Duluth, MN (formerly KDAL)

KBJR-TV, 6, Duluth, MN (formerly WDSM)

Calumet

WBAY-TV, 2, Green Bay, WI

WFRV-TV, 5, Green Bay, WI

WLUK-TV, 11, Green Bay, WI

Chippewa

WKBT, 8, La Crosse, WI

WEAU-TV, 13, Eau Claire, WI

Clark

WSAW-TV, 7, Wausau, WI (formerly WSAU)

WAOW-TV, 9, Wausau, WI

WKBT, 8, La Crosse, WI

WEAU-TV, 13, Eau Claire, WI

Columbia

WISC-TV, 3, Madison, WI

WMTV, 15, Madison, WI

WKOW-TV, 27, Madison, WI

+WMSN-TV, 47, Madison, WI

+WCGV-TV, 24, Milwaukee, WI

Crawford

WKBT, 8, La Crosse, WI

+WLAX, 25, La Crosse, WI

KGAN, 2, Cedar Rapids, IA (formerly WMT)

KWWL, 7, Waterloo, IA

KCRG-TV, 9, Cedar Rapids, IA

+WMSN-TV, 47, Madison, WI

Dane

WISC-TV, 3, Madison, WI

WMTV, 15, Madison, WI

WKOW-TV, 27, Madison, WI

+WMSN-TV, 47, Madison, WI

Dodge

WTMJ-TV, 4, Milwaukee, WI

WITI, 6, Milwaukee, WI

WISN-TV, 12, Milwaukee, WI

+WVTV, 18, Milwaukee, WI

+WCGV-TV, 24, Milwaukee, WI

WISC-TV, 3, Madison, WI

WMTV, 15, Madison, WI

WKOW-TV, 27, Madison, WI

+WMSN-TV, 47, Madison, WI

Door

WBAY-TV, 2, Green Bay, WI

WFRV-TV, 5, Green Bay, WI

WLUK-TV, 11, Green Bay, WI

Douglas

KDLH, 3, Duluth, MN (formerly KDAL)

KBJR-TV, 6, Duluth, MN (formerly WDSM)

WDIO-TV, 10, Duluth, MN

Dunn

WKBT, 8, La Crosse, WI

WEAU-TV, 13, Eau Claire, WI

WCCO-TV, 4, Minneapolis, MN

KSTP-TV, 5, St. Paul, MN

KMSP-TV, 9, Minneapolis, MN

KARE, 11, Minneapolis, MN (formerly WTCN)

Eau Claire

WKBT, 8, La Crosse, WI

WEAU-TV, 13, Eau Claire, WI

Florence

WLUC-TV, 6, Marquette, MI

WFRV-TV, 5, Green Bay, WI

WJFW-TV, 12, Rhinelander, WI (formerly WAEO)

Fond du Lac

WBAY-TV, 2, Green Bay, WI

WFRV-TV, 5, Green Bay, WI

WLUK-TV, 11, Green Bay, WI

+WGBA, 26, Green Bay, WI

KFIZ-TV, 34, Fond du Lac, WI (apparently out of service)

WTMJ-TV, 4, Milwaukee, WI

WITI, 6, Milwaukee, WI

WISN-TV, 12, Milwaukee, WI

+WVTV, 18, Milwaukee, WI

+WCGV-TV, 24, Milwaukee, WI

Forest

WBAY-TV, 2, Green Bay, WI

WFRV-TV, 5, Green Bay, WI

WLUK-TV, 11, Green Bay, WI

WSAW-TV, 7, Wausau, WI (formerly WSAU)

WAOW-TV, 9, Wausau, WI

WJFW-TV, 12, Rhinelander, WI (formerly WAEO)

Grant

KGAN, 2, Cedar Rapids, IA (formerly WMT)

KWWL, 7, Waterloo, IA

KCRG-TV, 9, Cedar Rapids, IA

WISC-TV, 3, Madison, WI

+WMSN-TV, 47, Madison, WI

Green

WISC-TV, 3, Madison, WI

WMTV, 15, Madison, WI

WKOW-TV, 27, Madison, WI

+WMSN-TV, 47, Madison, WI

WREX-TV, 13, Rockford, IL

WTVO, 17, Rockford, IL

WIFR, 23, Freeport, IL (formerly WCEE)

Green Lake

WBAY-TV, 2, Green Bay, WI

WFRV-TV, 5, Green Bay, WI

WLUK-TV, 11, Green Bay, WI

WISC-TV, 3, Madison, WI

+WMSN-TV, 47, Madison, WI

Iowa

WISC-TV, 3, Madison, WI

WMTV, 15, Madison, WI

WKOW-TV, 27, Madison, WI

+WMSN-TV, 47, Madison, WI

Iron

KDLH, 3, Duluth, MN (formerly KDAL)

KBJR-TV, 6, Duluth, MN (formerly WDSM)

WDIO-TV, 10, Duluth, MN

Jackson

WKBT, 8, La Crosse, WI

WEAU-TV, 13, Eau Claire, WI

+WLAX, 25, La Crosse, WI

Jefferson

WTMJ-TV, 4, Milwaukee, WI

WITI-TV, 6, Milwaukee, WI

WISN-TV, 12, Milwaukee, WI

+WVTV, 18, Milwaukee, WI

+WCGV-TV, 24, Milwaukee, WI

WISC-TV, 3, Madison, WI

WMTV, 15, Madison, WI

WKOW-TV, 27, Madison, WI

+WMSN-TV, 47, Madison, WI

Juneau

WKBT, 8, La Crosse, WI

WEAU-TV, 13, Eau Claire, WI

WISC-TV, 3, Madison, WI

+WMSN-TV, 47, Madison, WI

WSAW-TV, 7, Wausau, WI (formerly WSAU)

WAOW-TV, 9, Wausau, WI

Kenosha

WBBM-TV, 2, Chicago, IL

WMAQ-TV, 5, Chicago, IL

WLS-TV, 7, Chicago, IL

WGN-TV, 9, Chicago, IL

+WPWR-TV, 50, Chicago, IL

+WGBO-TV, 66, Joliet, IL

WTMJ-TV, 4, Milwaukee, WI

WITI-TV, 6, Milwaukee, WI

WISN-TV, 12, Milwaukee, WI

+WVTV, 18, Milwaukee, WI

+WCGV-TV, 24, Milwaukee, WI

Kewaunee

WBAY-TV, 2, Green Bay, WI

WFRV-TV, 5, Green Bay, WI

WLUK-TV, 11, Green Bay, WI

+WACY, 32, Appleton, WI (formerly WXGZ)

La Crosse

WKBT, 8, La Crosse, WI

WEAU-TV, 13, Eau Claire, WI

WXOW-TV, 19, La Crosse, WI

+WLAX, 25, La Crosse, WI

Lafayette

WISC-TV, 3, Madison, WI

WMTV, 15, Madison, WI

WKOW-TV, 27, Madison, WI

+WMSN-TV, 47, Madison, WI

Langlade

WSAW-TV, 7, Wausau, WI (formerly WSAU)

WAOW-TV, 9, Wausau, WI

WJFW-TV, 12, Rhinelander, WI (formerly WAEO)

WBAY-TV, 2, Green Bay, WI

WFRV-TV, 5, Green Bay, WI

WLUK-TV, 11, Green Bay, WI

Lincoln

WSAW-TV, 7, Wausau, WI (formerly WSAU)

WAOW-TV, 9, Wausau, WI

WJFW-TV, 12, Rhinelander, WI (formerly WAEO)

Manitowoc

WBAY-TV, 2, Green Bay, WI

WFRV-TV, 5, Green Bay, WI

WLUK-TV, 11, Green Bay, WI

+WACY, 32, Appleton, WI (formerly WXGZ)

Marathon

WSAW-TV, 7, Wausau, WI (formerly WSAU)

WAOW-TV, 9, Wausau, WI

WJFW-TV, 12, Rhinelander, WI (formerly WAEO)

WEAU-TV, 13, Eau Claire, WI

Marinette

WBAY-TV, 2, Green Bay, WI

WFRV-TV, 5, Green Bay, WI

WLUK-TV, 11, Green Bay, WI

+WGBA, 26, Green Bay, WI

+WACY, 32, Appleton, WI (formerly WXGZ)

Marquette

WISC-TV, 3, Madison, WI

WMTV, 15, Madison, WI

WKOW-TV, 27, Madison, WI

WBAY-TV, 2, Green Bay, WI

WFRV-TV, 5, Green Bay, WI

WLUK-TV, 11, Green Bay, WI

Menominee

WBAY-TV, 2, Green Bay, WI

WFRV-TV, 5, Green Bay, WI

WLUK-TV, 11, Green Bay, WI

Milwaukee

WTMJ-TV, 4, Milwaukee, WI

WITI-TV, 6, Milwaukee, WI

WISN-TV, 12, Milwaukee, WI

WVTV, 18, Milwaukee, WI

+WCGV-TV, 24, Milwaukee, WI

Monroe

WKBT, 8, La Crosse, WI

WEAU-TV, 13, Eau Claire, WI

+WLAX, 25, La Crosse, WI

Oconto

WBAY-TV, 2, Green Bay, WI

WFRV-TV, 5, Green Bay, WI

WLUK-TV, 11, Green Bay, WI

+WACY, 32, Appleton, WI (formerly WXGZ)

Oneida

WSAW-TV, 7, Wausau, WI (formerly WSAU)

WAOW-TV, 9, Wausau, WI

WJFW-TV, 12, Rhinelander, WI (formerly WAEO)

Outagamie

WBAY-TV, 2, Green Bay, WI

WFRV-TV, 5, Green Bay, WI

WLUK-TV, 11, Green Bay, WI

Ozaukee

WTMJ-TV, 4, Milwaukee, WI

WITI-TV, 6, Milwaukee, WI

WISN-TV, 12, Milwaukee, WI

WVTV, 18, Milwaukee, WI

+WCGV-TV, 24, Milwaukee, WI

Pepin

WKBT, 8, La Crosse, WI

WEAU-TV, 13, Eau Claire, WI

WCCO-TV, 4, Minneapolis, MN

KSTP-TV, 5, St. Paul, MN

Pierce

WCCO-TV, 4, Minneapolis, MN

KSTP-TV, 5, St. Paul, MN

KMSP-TV, 9, Minneapolis, MN

KARE, 11, Minneapolis, MN (formerly WTCN)

Polk

WCCO-TV, 4, Minneapolis, MN

KSTP-TV, 5, St. Paul, MN

KMSP-TV, 9, Minneapolis, MN

KARE, 11, Minneapolis, MN (formerly WTCN)

Portage

WSAW-TV, 7, Wausau, WI (formerly WSAU)

WAOW-TV, 9, Wausau, WI

WBAY-TV, 2, Green Bay, WI

WFRV-TV, 5, Green Bay, WI

WLUK-TV, 11, Green Bay, WI

Price

WSAW-TV, 7, Wausau, WI (formerly WSAU)

WAOW-TV, 9, Wausau, WI

WJFW-TV, 12, Rhinelander, WI (formerly WAEO)

WEAU-TV, 13, Eau Claire, WI

Racine

WTMJ-TV, 4, Milwaukee, WI

WITI-TV, 6, Milwaukee, WI

WISN-TV, 12, Milwaukee, WI

WVTV, 18, Milwaukee, WI

+WCGV-TV, 24, Milwaukee, WI

WLS-TV, 7, Chicago, IL

WGN-TV, 9, Chicago, IL

Richland

WISC-TV, 3, Madison, WI

+WMSN-TV, 47, Madison, WI

WKBT, 8, La Crosse, WI

Rock

WREX-TV, 13, Rockford, IL

WTVO, 17, Rockford, I:

WIFR, 23, Freeport, IL (formerly WCEE)

+WQRF-TV, 39, Rockford, IL

WISC-TV, 3, Madison, WI

WMTV, 15, Madison, WI

WKOW-TV, 27, Madison, WI

+WMSN-TV, 47, Madison, WI

Rusk

WKBT, 8, La Crosse, WI

WEAU-TV, 13, Eau Claire, WI

WSAW-TV, 7, Wausau, WI (formerly WSAU)

St. Croix

WCCO-TV, 4, Minneapolis, MN

KSTP-TV, 5, St. Paul, MN

KMSP-TV, 9, Minneapolis, MN

KARE, 11, Minneapolis, MN (formerly WTCN)

+KLGT, 23, Minneapolis, MN (formerly KTMA)

+WFTC, 29, Minneapolis, MN (formerly KITN)

Sauk

WISC-TV, 3, Madison, WI

WMTV, 15, Madison, WI

WKOW-TV, 27, Madison, WI

+WMSN-TV, 47, Madison, WI

Sawyer

KDLH, 3, Duluth, MN (formerly KDAL)

KBJR-TV, 6, Duluth, MN (formerly WDSM)

WDIO-TV, 10, Duluth, MN

Shawano

WBAY-TV, 2, Green Bay, WI

WFRV-TV, 5, Green Bay, WI

WLUK-TV, 11, Green Bay, WI

+WACY, 32, Appleton, WI (formerly WXGZ)

WSAW-TV, 7, Wausau, WI (formerly WSAU)

Sheboygan

WTMJ-TV, 4, Milwaukee, WI

WITI-TV, 6, Milwaukee, WI

WISN-TV, 12, Milwaukee, WI

+WVTV, 18, Milwaukee, WI

+WCGV-TV, 24, Milwaukee, WI

WBAY-TV, 2, Green Bay, WI

WFRV-TV, 5, Green Bay, WI

WLUK-TV, 11, Green Bay, WI

+WGBA, 26, Green Bay, WI

Taylor

WSAW-TV, 7, Wausau, WI (formerly WSAU)

WAOW-TV, 9, Wausau, WI

WEAU-TV, 13, Eau Claire, WI

Trempealeau

WKBT, 8, La Crosse, WI

WEAU-TV, 13, Eau Claire, WI

+WLAX, 25, La Crosse, WI

Vernon

WKBT, 8, La Crosse, WI

WEAU-TV, 13, Eau Claire, WI

+WLAX, 25, La Crosse, WI

KTTC, 10, Rochester, MN (formerly KROC)

Vilas

WSAW-TV, 7, Wausau, WI (formerly WSAU)

WAOW-TV, 9, Wausau, WI

WJFW-TV, 12, Rhinelander, WI (formerly WAEO)

Walworth

WTMJ-TV, 4, Milwaukee, WI

WITI-TV, 6, Milwaukee, WI

WISN-TV, 12, Milwaukee, WI

+WVTV, 18, Milwaukee, WI

+WCGV-TV, 24, Milwaukee, WI

WBBM-TV, 2, Chicago, IL

WGN-TV, 9, Chicago, IL

WISC-TV, 3, Madison, WI

WREX-TV, 13, Rockford, IL

Washburn

KDLH, 3, Duluth, MN (formerly KDAL)

KBJR-TV, 6, Duluth, MN (formerly WDSM)

WDIO-TV, 10, Duluth, MN

Washington

WTMJ-TV, 4, Milwaukee, WI

WITI-TV, 6, Milwaukee, WI

WISN-TV, 12, Milwaukee, WI

WVTV, 18, Milwaukee, WI

+WCGV-TV, 24, Milwaukee, WI

Waukesha

WTMJ-TV, 4, Milwaukee, WI

WITI-TV, 6, Milwaukee, WI

WISN-TV, 12, Milwaukee, WI

WVTV, 18, Milwaukee, WI

+WCGV-TV, 24, Milwaukee, WI

Waupaca

WBAY-TV, 2, Green Bay, WI

WFRV-TV, 5, Green Bay, WI

WLUK-TV, 11, Green Bay, WI

WSAW-TV, 7, Wausau, WI (formerly WSAU)

Waushara

WBAY-TV, 2, Green Bay, WI

WFRV-TV, 5, Green Bay, WI

WLUK-TV, 11, Green Bay, WI

WSAW-TV, 7, Wausau, WI (formerly WSAU)

Winnebago

WBAY-TV, 2, Green Bay, WI

WFRV-TV, 5, Green Bay, WI

WLUK-TV, 11, Green Bay, WI

KFIZ-TV, 34, Fond du Lac, WI (apparently out of service)

Wood

WSAW-TV, 7, Wausau, WI (formerly WSAU)

WAOW-TV, 9, Wausau, WI

WEAU-TV, 13, Eau Claire, WI

Beloit—WMSN-TV

Beloit Township—WMSN-TV

Turtle Township—WMSN-TV

Wyoming

Albany

KCNC-TV, 4, Denver, CO (formerly KOA)

KMGH-TV, 7, Denver, CO (formerly KLZ)

KUSA-TV, 9, Denver, CO (formerly KBTV)

KGWN-TV, 5, Cheyenne, WY (formerly KFBC)

Big Horn

KTVQ, 2, Billings, MT (formerly KOOK)

KULR-TV, 8, Billings, MT

KFNE, 10, Riverton, WY (formerly KWRB)

Campbell

Over 90% cable penetration.

Carbon

KTWO-TV, 2, Casper, WY

KGWN-TV, 5, Cheyenne, WY (formerly KFBC)

Converse

KTWO-TV, 2, Casper, WY

KSTF, 10, Scottsbluff, NE

Crook

KOTA-TV, 3, Rapid City, SD

KTWO-TV, 2, Casper, WY

Fremont

KTWO-TV, 2, Casper, WY

KFNE, 10, Riverton, WY (formerly KWRB)

Goshen

KSTF, 10, Scottsbluff, NE

KDUH-TV, 4, Scottsbluff, NE

Hot Springs

KTWO-TV, 2, Casper, WY

KFNE, 10, Riverton, WY (formerly KWRB)

Johnson

KTWO-TV 2, Casper, WY

Laramie

#KGWN-TV, 5, Cheyenne, WY (formerly KFBC) ²³

²³ Affected community is Cheyenne, WY.

+KKTU, 33, Cheyenne, WY

KWGN-TV, 2, Denver, CO

#KCNC-TV, 4, Denver, CO (formerly KOA) ²⁴

²⁴ Affected community is Cheyenne, WY.

KMGH-TV, 7, Denver, CO (formerly KLZ)

KUSA-TV, 9, Denver, CO (formerly KBTV)

Lincoln

KIDK, 3, Idaho Falls, ID (formerly KID)

+KPVI, 6, Pocatello, ID

KIFI-TV, 8, Idaho Falls, ID

KTVX, 4, Salt Lake City, UT (formerly KCPX)

KSL-TV, 5, Salt Lake City, UT

Natrona

KTWO-TV, 2, Casper, WY

Niobrara

KTWO-TV, 2, Casper, WY

KGWN-TV, 5, Cheyenne, WY (formerly KFBC)

Park

KTVQ, 2, Billings, MT (formerly KOOK)

KULR-TV, 8, Billings, MT

Platte

KGWN-TV, 5, Cheyenne, WY (formerly KFBC)

KSTF, 10, Scottsbluff, NE

KTWO-TV, 2, Casper, WY

Sheridan

KTVQ, 2, Billings, MT (formerly KOOK)

KULR-TV, 8, Billings, MT

KTWO-TV, 2, Casper, WY

KOTA-TV, 3, Rapid City, SD

Sublette

KTWO-TV, 2, Casper, WY

KIDK, 3, Idaho Falls, ID (formerly KID)

Sweetwater

Over 90% cable penetration.

Teton

KIDK, 3, Idaho Falls, ID (formerly KID)

KIFI-TV, 8, Idaho Falls, ID

Uinta

KUTV, 2, Salt Lake City, UT

KTVX, 4, Salt Lake City, UT (formerly KCPX)

KSL-TV, 5, Salt Lake City, UT

+KSTU, 13, Salt Lake City, UT

Washakie

KTWO-TV, 2, Casper, WY

KFNE, 10, Riverton, WY (formerly KWRB)

KTVX, 4, Salt Lake City, UT (formerly KCPX)

KSL-TV, 5, Salt Lake City, UT

Weston

KTWO-TV, 2, Casper, WY

KOTA-TV, 3, Rapid City, SD

Yellowstone National Park

KIDK, 3, Idaho Falls, ID (formerly KID)

KULR-TV, 8, Billings, MT

[FR Doc. 05-24080 Filed 12-23-05; 8:45 am]

BILLING CODE 6712-01-U